FEDERAL EMERGENCY MANAGEMENT AGENCY

Compendium of Flood Map Changes

AGENCY: Federal Emergency Management Agency (FEMA).

ACTION: Notice.

SUMMARY: This Notice provides listings of changes made to National Flood Insurance Program (NFIP) maps produced by FEMA effective during the last 6 months of 2000.

DATES: The listings include changes to NFIP maps that became effective July 1, 2000, through December 31, 2000.

FOR FURTHER INFORMATION CONTACT: Michael K. Buckley, P.E., Director, Technical Services Division, Mitigation Directorate, Federal Emergency Management Agency, Washington, DC 20472, (202)646-2756.

SUPPLEMENTARY INFORMATION: In accordance with Section 1360(i) of the National Flood Insurance Reform Act of 1994, this Notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: March 13, 2001.
Margaret E. Lawless,
Acting Executive Associate Director for Mitigation.

Two listings are provided below. The first listing includes all Letters of Map Change issued by FEMA from July 1 through December 31, 2000. The following types of letters are included in the listing:

Type | Description
01 | Letter of Map Revision Based on Fill (218-65)
02 | Letter of Map Amendment (218-70)
05 | Letter of Map Revision With Base Flood Elevation Changes
06 | Letter of Map Revision Without Base Flood Elevation Changes
08 | Denial
12 | Floodway Revision
17 | Letter of Map Revision-inadvertent inclusion in floodway (218-65)
18 | Letter of Map Revision-inadvertent inclusion in V zone (218-65)
19 | Letter of Map Change Revalidation.

The second listing includes map panels that FEMA physically revised and republished from July 1 through December 31, 2000. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

For both listings, a single asterisk is shown to the right of each county name that appears in the “Community” column. This asterisk indicates the area covered is the unincorporated areas of that county.

Region | State | Community | Map panel | Determination date | Case No. | Type
01 | CT | BERLIN, TOWN OF | 0900220010D | 12-DEC-2000 | 01-01-0132A | 02
01 | CT | BETHEL, TOWN OF | 0900010010B | 24-OCT-2000 | 00-01-1042A | 02
01 | CT | BRANFORD, TOWN OF | 0900730005C | 31-OCT-2000 | 00-01-1188A | 02
01 | CT | BRANFORD, TOWN OF | 0900730005C | 07-DEC-2000 | 01-01-0158X | 02
01 | CT | BRISTOL, CITY OF | 0900230009B | 20-JUL-2000 | 00-01-0776A | 02
01 | CT | CLINTON, TOWN OF | 0900610006E | 28-DEC-2000 | 01-01-0066A | 02
01 | CT | DANBURY, CITY OF | 0900040005B | 25-JUL-2000 | 00-01-0310A | 02
01 | CT | EAST HARTFORD, TOWN OF | 0900260003D | 08-SEP-2000 | 00-01-027P | 05
01 | CT | ENFIELD, TOWN OF | 0900280005B | 05-SEP-2000 | 00-01-0596A | 02
01 | CT | ENFIELD, TOWN OF | 0900280015B | 05-SEP-2000 | 00-01-0664A | 02
01 | CT | ESSEX, TOWN OF | 0900650002C | 24-AUG-2000 | 00-01-0960A | 02
01 | CT | FAIRFIELD, TOWN OF | 0900070006C | 15-AUG-2000 | 00-01-0752A | 02
01 | CT | GROTON, TOWN OF | 0900970007C | 18-JUL-2000 | 00-01-0530A | 02
01 | CT | HAMDEN, TOWN OF | 0900780010B | 14-SEP-2000 | 00-01-1052A | 02
01 | CT | MADISON, TOWN OF | 0900790012D | 12-SEP-2000 | 00-01-1072A | 02
01 | CT | MARLBOROUGH, TOWN OF | 0901480003C | 12-SEP-2000 | 00-01-0822A | 02
01 | CT | MERIDEN, CITY OF | 0900810004B | 18-JUL-2000 | 00-01-0742A | 02
01 | CT | MERIDEN, CITY OF | 0900810005B | 21-NOV-2000 | 00-01-1054A | 02
01 | CT | MERIDEN, CITY OF | 0900810003B | 19-SEP-2000 | 00-01-1122A | 02
01 | CT | MERIDEN, CITY OF | 0900810002C | 07-DEC-2000 | 01-01-0232X | 02
01 | CT | MILFORD, CITY OF | 0900820003D | 21-NOV-2000 | 01-01-0146A | 02
01 | CT | NAUGATUCK, BOROUGH OF | 0901370005B | 28-SEP-2000 | 00-01-1152A | 02
01 | CT | NORTH CANAAN, TOWN OF | 0901490002B | 03-AUG-2000 | 00-01-0836A | 02
01 | CT | NORTH CANAAN, TOWN OF | 0901490004B | 14-SEP-2000 | 00-01-0978A | 02
01 | CT | NORWICH, CITY OF | 0901020005F | 06-JUL-2000 | 00-01-0308A | 02
01 | CT | OLD LYME, TOWN OF | 0901030010C | 05-SEP-2000 | 00-01-0852A | 02
01 | CT | OLD LYME, TOWN OF | 0901030016D | 12-SEP-2000 | 00-01-0938A | 02
01 | CT | OLD SAYBROOK, TOWN OF | 0900690004D | 11-JUL-2000 | 00-01-0694A | 02
01 | CT | OLD SAYBROOK, TOWN OF | 0900690004D | 11-JUL-2000 | 00-01-0746A | 02
01 | CT | OLD SAYBROOK, TOWN OF | 0900690004D | 14-NOV-2000 | 01-01-0094A | 02
01 | CT | SHELTON, CITY OF | 0900140005B | 08-SEP-2000 | 01-01-0194V | 19
01 | CT | SOMERS, TOWN OF | 0901120007B | 19-SEP-2000 | 00-01-1080A | 02
01 | CT | SOUTHBURY, TOWN OF | 0900890020C | 26-SEP-2000 | 00-01-0944A | 02
01 | CT | STAMFORD, CITY OF | 0900150007D | 12-SEP-2000 | 00-01-0970A | 02
01 | CT | STAMFORD, CITY OF | 0900150007D | 31-OCT-2000 | 00-01-1064A | 02
01 | CT | STONINGTON, TOWN OF | 0901060012D | 22-AUG-2000 | 00-01-0556A | 02
01 | CT | STRATFORD, TOWN OF | 0900160003D | 19-DEC-2000 | 01-01-0264A | 17
01 | CT | THOMPSON, TOWN OF | 0901170020B | 20-JUL-2000 | 00-01-0854A | 02
01 | CT | THOMPSON, TOWN OF | 0901170010B | 28-DEC-2000 | 01-01-0088A | 02
01 | CT | TRUMBULL, TOWN OF | 0900170010C | 05-OCT-2000 | 00-01-1134A | 01
01 | CT | WEST HAVEN, CITY OF | 0900920002C | 05-SEP-2000 | 00-01-0858A | 02
01 | CT | WESTPORT, TOWN OF | 0900190002B | 31-AUG-2000 | 00-01-0598A | 02
01 | CT | WETHERSFIELD, TOWN OF | 0900400001B | 24-AUG-2000 | 00-01-0682A | 02
01 | CT | WETHERSFIELD, TOWN OF | 0900400003B | 28-SEP-2000 | 00-01-1056A | 02
01 | CT | WETHERSFIELD, TOWN OF | 0900400003B | 13-NOV-2000 | 00-01-041X | 06
01 | MA | AGAWAM, TOWN OF | 2501330002A | 31-OCT-2000 | 01-01-0108A | 02
01 | MA | AMESBURY, TOWN OF | 2500750004C | 07-SEP-2000 | 00-01-0814A | 02
01 | MA | ANDOVER, TOWN OF | 2500760002B | 28-SEP-2000 | 00-01-1098A | 02
01 | MA | BARNSTABLE, TOWN OF | 2500010018D | 22-AUG-2000 | 00-01-0998A | 02
01 | MA | BARNSTABLE, TOWN OF | 2500010018D | 02-NOV-2000 | 01-01-0044A | 01
01 | MA | BERKLEY, TOWN OF | 2500500002B | 19-SEP-2000 | 00-01-0796A | 02
01 | MA | BILLERICA, TOWN OF | 2501830010C | 22-AUG-2000 | 00-01-0584A | 02
01 | MA | BILLERICA, TOWN OF | 2501830010C | 09-NOV-2000 | 00-01-0934A | 02
01 | MA | BILLERICA, TOWN OF | 2501830005C | 28-SEP-2000 | 00-01-1118A | 02
01 | MA | BILLERICA, TOWN OF | 2501830010C | 07-DEC-2000 | 01-01-0162A | 02
01 | MA | BOURNE, TOWN OF | 2552100011F | 14-NOV-2000 | 01-01-0078A | 02
01 | MA | BOXBOROUGH, TOWN OF | 2501840004C | 31-AUG-2000 | 00-01-0878A | 02
01 | MA | BOXFORD, TOWN OF | 2500780011C | 18-JUL-2000 | 00-01-0150A | 02
01 | MA | BRAINTREE, TOWN OF | 2502330001D | 21-DEC-2000 | 01-01-0416V | 19
01 | MA | BRIDGEWATER, TOWN OF | 2502600005C | 12-SEP-2000 | 00-01-0676A | 02
01 | MA | CANTON,TOWN OF | 2502350001B | 21-NOV-2000 | 00-01-0002A | 01
01 | MA | CHELMSFORD, TOWN OF | 2501880005B | 02-NOV-2000 | 00-01-1050A | 02
01 | MA | CONCORD, TOWN OF | 2501890010B | 28-DEC-2000 | 01-01-0282A | 02
01 | MA | DANVERS, TOWN OF | 2500790003B | 31-AUG-2000 | 00-01-0768A | 01
01 | MA | DANVERS, TOWN OF | 2500790003B | 29-AUG-2000 | 00-01-1030A | 02
01 | MA | DARTMOUTH, TOWN OF | 2500510015B | 17-AUG-2000 | 00-01-0950A | 01
01 | MA | DARTMOUTH, TOWN OF | 2500510019C | 28-NOV-2000 | 00-01-1076A | 02
01 | MA | EASTON, TOWN OF | 2500530005C | 10-AUG-2000 | 00-01-021P | 05
01 | MA | EASTON, TOWN OF | 2500530010E | 19-DEC-2000 | 01-01-0214A | 02
01 | MA | EASTON, TOWN OF | 2500530005C | 10-AUG-2000 | 00-01-1176V | 19
01 | MA | FALMOUTH, TOWN OF | 2552110004H | 28-SEP-2000 | 00-01-1094A | 02
01 | MA | FRAMINGHAM, TOWN OF | 2501930011B | 26-SEP-2000 | 00-01-0894A | 02
01 | MA | HANOVER, TOWN OF | 2502660001B | 24-OCT-2000 | 00-01-0830A | 02
01 | MA | HARWICH, TOWN OF | 2500080009C | 14-NOV-2000 | 00-01-0706A | 01
01 | MA | LOWELL, CITY OF | 2502010003D | 12-DEC-2000 | 01-01-0242A | 02
01 | MA | LYNN, CITY OF | 2500880005B | 14-NOV-2000 | 01-01-0098A | 02
01 | MA | MARBLEHEAD, TOWN OF | 2500910002B | 18-JUL-2000 | 00-01-0756A | 02
01 | MA | MATTAPOISETT, TOWN OF | 2552140009E | 31-AUG-2000 | 00-01-1014A | 02
01 | MA | MELROSE , CITY OF | 2502060003B | 12-JUL-2000 | 00-01-0504A | 02
01 | MA | NANTUCKET, TOWN OF | 2502300003E | 29-AUG-2000 | 00-01-0828A | 02
01 | MA | NATICK, TOWN OF | 2502070006B | 24-OCT-2000 | 00-01-0782A | 02
01 | MA | NATICK, TOWN OF | 2502070006B | 03-JUL-2000 | 00-01-0914A | 02
01 | MA | NEEDHAM, TOWN OF | 2552150002C | 30-NOV-2000 | 00-01-1006A | 02
01 | MA | NORFOLK, TOWN OF | 2552170005C | 12-SEP-2000 | 00-01-0902A | 02
01 | MA | NORTON, TOWN OF | 2500600006C | 12-SEP-2000 | 00-01-0966A | 02
01 | MA | QUINCY, CITY OF | 2552190004C | 19-SEP-2000 | 00-01-0762A | 02
01 | MA | QUINCY, CITY OF | 2552190012C | 07-DEC-2000 | 01-01-0182A | 02
01 | MA | RANDOLPH, TOWN OF | 2502510001D | 10-AUG-2000 | 00-01-1174V | 19
01 | MA | RAYNHAM, TOWN OF | 2500610005B | 03-AUG-2000 | 00-01-0864A | 02
01 | MA | ROCKLAND, TOWN OF | 2502810001B | 28-NOV-2000 | 00-01-1166A | 01
01 | MA | SANDWICH, TOWN OF | 2500120001F | 09-NOV-2000 | 01-01-0084A | 18
01 | MA | SOUTHWICK, TOWN OF | 2501490010B | 24-AUG-2000 | 00-01-1048A | 02
01 | MA | STERLING, TOWN OF | 2503360004B | 28-SEP-2000 | 00-01-0976A | 01
01 | MA | SWANSEA, TOWN OF | 2552210009C | 14-AUG-2000 | 00-01-029P | 05
01 | MA | TAUNTON, CITY OF | 2500660012C | 21-SEP-2000 | 00-01-0996A | 01
01 | MA | WAREHAM, TOWN OF | 2552230011D | 18-JUL-2000 | 00-01-0738A | 02
01 | MA | WAREHAM, TOWN OF | 2552230011D | 29-AUG-2000 | 00-01-0818A | 02
01 | MA | WAREHAM, TOWN OF | 2552230008C | 19-DEC-2000 | 01-01-0276A | 02
01 | MA | WEST NEWBURY, TOWN OF | 2501080005A | 06-JUL-2000 | 00-01-0354A | 02
01 | MA | WESTWOOD, TOWN OF | 2552250005C | 10-OCT-2000 | 00-01-1184A | 02
01 | MA | WILMINGTON, TOWN OF | 2502270002C | 01-AUG-2000 | 00-01-0820A | 02
01 | MA | WILMINGTON, TOWN OF | 2502270002C | 19-SEP-2000 | 00-01-1110A | 02
01 | MA | WINTHROP, TOWN OF | 2502890001C | 14-NOV-2000 | 01-01-0114A | 02
01 | ME | ALNA, TOWN OF | 230083 | 14-DEC-2000 | 01-01-0106A | 02
01 | ME | ARGYLE, TOWNSHIP OF | 230464 A | 18-JUL-2000 | 00-01-0808A | 02
01 | ME | BETHEL, TOWN OF | 2300880005C | 22-AUG-2000 | 00-01-0868A | 02
01 | ME | BIDDEFORD, CITY OF | 2301450008B | 21-NOV-2000 | 01-01-0192A | 02
01 | ME | BOOTHBAY, TOWN OF | 2302120008B | 21-SEP-2000 | 00-01-1106A | 02
01 | ME | BOOTHBAY, TOWN OF | 2302120011B | 05-DEC-2000 | 01-01-0092A | 18
01 | ME | BOOTHBAY, TOWN OF | 2302120005B | 12-DEC-2000 | 01-01-0156A | 02
01 | ME | BOOTHBAY, TOWN OF | 2302120008B | 19-DEC-2000 | 01-01-0244A | 02
01 | ME | BRIDGEWATER, TOWN OF | 230421 A | 07-SEP-2000 | 00-01-0992A | 02
01 | ME | BRIDGTON, TOWN OF | 2300410005B | 05-DEC-2000 | 01-01-0100A | 02
01 | ME | BRIDGTON, TOWN OF | 2300410010B | 28-DEC-2000 | 01-01-0274A | 02
01 | ME | BUCKFIELD, TOWN OF | 2300900005C | 19-DEC-2000 | 01-01-0080A | 02
01 | ME | BUXTON, TOWN OF | 2301460010B | 05-JUL-2000 | 00-01-0340A | 02
01 | ME | BUXTON, TOWN OF | 2301460010B | 31-OCT-2000 | 00-01-1070A | 02
01 | ME | CAMDEN, TOWN OF | 2300740014B | 20-JUL-2000 | 00-01-0824A | 18
01 | ME | CHESTERVILLE, TOWN OF | 230346 A | 19-SEP-2000 | 00-01-0866A | 02
01 | ME | CRANBERRY ISLES, TOWN OF | 2302780005C | 28-NOV-2000 | 01-01-0076A | 02
01 | ME | EMBDEN, TOWN OF | 230359 B | 28-NOV-2000 | 00-01-1162A | 02
01 | ME | FRIENDSHIP, TOWN OF | 2302250010A | 29-SEP-2000 | 00-01-0900A | 17
01 | ME | GRAY, TOWN OF | 2300480015A | 28-DEC-2000 | 01-01-0248A | 02
01 | ME | HARPSWELL, TOWN OF | 2301690013C | 12-SEP-2000 | 00-01-0968A | 02
01 | ME | HARPSWELL, TOWN OF | 2301690006B | 12-DEC-2000 | 00-01-1018A | 02
01 | ME | HARPSWELL, TOWN OF | 2301690011B | 28-SEP-2000 | 00-01-1142A | 02
01 | ME | HARPSWELL, TOWN OF | 2301690014D | 28-NOV-2000 | 01-01-0064A | 18
01 | ME | HARTLAND, TOWN OF | 230361 A | 12-SEP-2000 | 00-01-0974A | 02
01 | ME | HERMON, TOWN OF | 230389 A | 31-AUG-2000 | 00-01-0930A | 02
01 | ME | LAMOINE, TOWN OF | 2302850010A | 19-SEP-2000 | 00-01-1086A | 02
01 | ME | LIBERTY, TOWN OF | 230259 A | 31-AUG-2000 | 00-01-1060A | 02
01 | ME | LIMERICK, TOWN OF | 2301940009B | 12-SEP-2000 | 00-01-1026A | 02
01 | ME | LINCOLN, TOWN OF | 2301090015B | 28-SEP-2000 | 00-01-1128A | 02
01 | ME | LINCOLNVILLE, TOWN OF | 2301720015A | 26-SEP-2000 | 00-01-0912A | 02
01 | ME | LOVELL, TOWN OF | 2303360015B | 14-NOV-2000 | 01-01-0138A | 02
01 | ME | LOWELL, TOWN OF | 230395 | 19-DEC-2000 | 01-01-0230A | 02
01 | ME | LYMAN, TOWN OF | 2301950005A | 05-DEC-2000 | 01-01-0118A | 02
01 | ME | MILBRIDGE, TOWN OF | 2301420010B | 17-OCT-2000 | 00-01-0812A | 02
01 | ME | NEWFIELD, TOWN OF | 2301960011B | 12-DEC-2000 | 01-01-0180A | 02
01 | ME | NORTH YARMOUTH, TOWN OF | 2302020005B | 05-DEC-2000 | 01-01-0136A | 02
01 | ME | OLD TOWN, CITY OF | 2301120004A | 10-OCT-2000 | 00-01-009A | 01
01 | ME | OLD TOWN, CITY OF | 2301120003A | 24-OCT-2000 | 00-01-1182A | 01
01 | ME | OXFORD, TOWN OF | 2308690006A | 28-SEP-2000 | 00-01-1074A | 02
01 | ME | PARKMAN, TOWN OF | 230412 | 14-DEC-2000 | 00-01-0898A | 02
01 | ME | PORTLAND, CITY OF | 2300510012C | 24-OCT-2000 | 00-01-0848A | 02
01 | ME | PORTLAND, CITY OF | 2300510014B | 24-OCT-2000 | 00-01-1100A | 02
01 | ME | PORTLAND, CITY OF | 2300510007C | 12-OCT-2000 | 00-01-1112A | 02
01 | ME | ROME, TOWN OF | 2302460010B | 01-AUG-2000 | 00-01-0844A | 02
01 | ME | SCARBOROUGH, TOWN OF | 2300520010D | 12-SEP-2000 | 00-01-0846A | 02
01 | ME | SCARBOROUGH, TOWN OF | 2300520021D | 05-DEC-2000 | 01-01-0130A | 02
01 | ME | SEARSPORT, TOWN OF | 2301850011B | 30-NOV-2000 | 01-01-0090A | 18
01 | ME | ST. ALBANS, TOWN OF | 230369 A | 15-AUG-2000 | 00-01-0860A | 02
01 | ME | ST. GEORGE, TOWN OF | 2302290010C | 14-NOV-2000 | 01-01-0034A | 17
01 | ME | STANDISH, TOWN OF | 2302070010B | 28-SEP-2000 | 00-01-0982A | 02
01 | ME | STEUBEN, TOWN OF | 230323 A | 12-DEC-2000 | 01-01-0160A | 02
01 | ME | SURRY, TOWN OF | 2302960010B | 11-JUL-2000 | 00-01-0790A | 18
01 | ME | SURRY, TOWN OF | 2302960015B | 11-JUL-2000 | 00-01-0792A | 02
01 | ME | SURRY, TOWN OF | 2302960015B | 05-DEC-2000 | 01-01-0058A | 18
01 | ME | SWANVILLE,TOWN OF | 230267 A | 26-SEP-2000 | 00-01-0728A | 02
01 | ME | TRENTON, TOWN OF | 2302990010A | 17-AUG-2000 | 00-01-0760A | 18
01 | ME | TRENTON, TOWN OF | 2302990010A | 02-NOV-2000 | 00-01-1146A | 01
01 | ME | TRENTON, TOWN OF | 2302990010A | 12-OCT-2000 | 00-01-1178A | 02
01 | ME | TRENTON, TOWN OF | 2302990010A | 14-NOV-2000 | 00-01-1180A | 17
01 | ME | TROY, TOWN OF | 230269 A | 19-SEP-2000 | 00-01-0986A | 02
01 | ME | WATERBORO, TOWN OF | 2301990007C | 24-OCT-2000 | 00-01-0778A | 02
01 | ME | WINDHAM, TOWN OF | 2301890015B | 29-SEP-2000 | 00-01-1170A | 02
01 | ME | WINDHAM, TOWN OF | 2301890015B | 31-OCT-2000 | 01-01-0062X | 02
01 | ME | WINDHAM, TOWN OF | 2301890015B | 28-DEC-2000 | 01-01-0104A | 02
01 | ME | WINDSOR,TOWN OF | 230251 B | 07-DEC-2000 | 01-01-0082A | 02
01 | ME | WINTER HARBOR, TOWN OF | 2303020005A | 19-DEC-2000 | 01-01-0222A | 02
01 | ME | WINTHROP, TOWN OF | 2300720020B | 09-NOV-2000 | 01-01-0142A | 02
01 | ME | YARMOUTH, TOWN OF | 2300550006B | 05-OCT-2000 | 00-01-1084A | 18
01 | ME | YORK, TOWN OF | 2301590011B | 31-OCT-2000 | 00-01-0994A | 02
01 | NH | AMHERST, TOWN OF | 3300810010B | 31-AUG-2000 | 00-01-0918A | 02
01 | NH | BARTLETT, TOWN OF | 3300100010C | 29-SEP-2000 | 00-01-0980A | 02
01 | NH | BEDFORD, TOWN OF | 3300830005C | 12-DEC-2000 | 01-01-0210A | 02
01 | NH | BELMONT, TOWN OF | 330002 B | 28-SEP-2000 | 00-01-1132A | 02
01 | NH | BRISTOL, TOWN OF | 3300470005C | 06-NOV-2000 | 00-01-045P | 06
01 | NH | CHARLESTOWN, TOWN OF | 3301530005D | 07-DEC-2000 | 01-01-0126A | 02
01 | NH | CONCORD, CITY OF | 3301100005B | 11-JUL-2000 | 00-01-0410A | 02
01 | NH | CONCORD, CITY OF | 3301100005B | 01-NOV-2000 | 00-01-011P | 05
01 | NH | CONCORD, CITY OF | 3301100015B | 12-DEC-2000 | 01-01-0152A | 02
01 | NH | CONWAY, TOWN OF | 3300110020B | 28-SEP-2000 | 00-01-1116A | 02
01 | NH | CONWAY, TOWN OF | 3300110015B | 29-SEP-2000 | 00-01-1130A | 17
01 | NH | CONWAY, TOWN OF | 3300110015B | 28-SEP-2000 | 00-01-1144A | 02
01 | NH | CONWAY, TOWN OF | 3300110020B | 28-DEC-2000 | 01-01-0198A | 02
01 | NH | CORNISH, TOWN OF | 3301550020B | 11-JUL-2000 | 00-01-0492A | 02
01 | NH | DEERFIELD, TOWN OF | 330127 B | 30-NOV-2000 | 01-01-0074A | 02
01 | NH | ENFIELD, TOWN OF | 3300520005B | 26-SEP-2000 | 00-01-0954A | 02
01 | NH | ENFIELD, TOWN OF | 3300520005B | 16-NOV-2000 | 01-01-0096A | 02
01 | NH | GILFORD, TOWN OF | 3300040005C | 14-NOV-2000 | 01-01-0140A | 02
01 | NH | GORHAM, TOWN OF | 3300320010C | 12-OCT-2000 | 00-01-1000A | 01
01 | NH | HAMPSTEAD, TOWN OF | 3302110005A | 14-NOV-2000 | 00-01-0552A | 02
01 | NH | KEENE, CITY OF | 3300230009C | 10-OCT-2000 | 00-01-1160A | 02
01 | NH | MIDDLETON, TOWN OF | 3302220001B | 30-NOV-2000 | 00-01-1164A | 02
01 | NH | MIDDLETON, TOWN OF | 3302220001B | 28-DEC-2000 | 01-01-0280X | 02
01 | NH | MILTON, TOWN OF | 3301490006B | 19-SEP-2000 | 00-01-0972A | 02
01 | NH | NEW DURHAM, TOWN OF | 3302270010B | 11-JUL-2000 | 00-01-0622A | 02
01 | NH | NEW HAMPTON, TOWN OF | 330007 B | 30-NOV-2000 | 00-01-1088A | 02
01 | NH | OSSIPEE, TOWN OF | 3300160016C | 12-DEC-2000 | 00-01-1138A | 01
01 | NH | RAYMOND, TOWN OF | 3301400005D | 29-AUG-2000 | 00-01-0236A | 02
01 | NH | RAYMOND, TOWN OF | 3301400010D | 12-SEP-2000 | 00-01-1008A | 02
01 | NH | SALEM, TOWN OF | 3301420005C | 03-JUL-2000 | 00-01-0642A | 02
01 | NH | SEABROOK, TOWN OF | 3301430003B | 24-OCT-2000 | 00-01-0698A | 02
01 | NH | STRAFFORD, TOWN OF | 330196 B | 17-OCT-2000 | 00-01-0636A | 02
01 | NH | STRATFORD, TOWN OF | 3300390015B | 12-SEP-2000 | 00-01-0946A | 02
01 | NH | SUTTON, TOWN OF | 330122 B | 14-NOV-2000 | 01-01-0052A | 02
01 | NH | SUTTON, TOWN OF | 330122 B | 19-DEC-2000 | 01-01-0144A | 02
01 | NH | SWANZEY, TOWN OF | 3300260030B | 21-DEC-2000 | 00-01-1150A | 02
01 | NH | WAKEFIELD, TOWN OF | 3300190005A | 17-OCT-2000 | 00-01-0816A | 02
01 | NH | WAKEFIELD, TOWN OF | 3300190005A | 12-SEP-2000 | 00-01-1016A | 02
01 | NH | WAKEFIELD, TOWN OF | 3300190005A | 14-NOV-2000 | 01-01-0070A | 02
01 | NH | WOLFEBORO, TOWN OF | 3302390015A | 21-SEP-2000 | 00-01-1082A | 02
01 | RI | COVENTRY, TOWN OF | 4400040015A | 18-JUL-2000 | 00-01-0482A | 02
01 | RI | COVENTRY, TOWN OF | 4400040015A | 18-JUL-2000 | 00-01-0834A | 02
01 | RI | COVENTRY, TOWN OF | 4400040015A | 18-JUL-2000 | 00-01-0870A | 02
01 | RI | COVENTRY, TOWN OF | 4400040015A | 29-AUG-2000 | 00-01-1020A | 02
01 | RI | COVENTRY, TOWN OF | 4400040015A | 19-SEP-2000 | 00-01-1036A | 02
01 | RI | COVENTRY, TOWN OF | 4400040015A | 07-DEC-2000 | 00-01-1044A | 02
01 | RI | COVENTRY, TOWN OF | 4400040015A | 29-SEP-2000 | 00-01-1168A | 02
01 | RI | COVENTRY, TOWN OF | 4400040015A | 30-NOV-2000 | 01-01-0060A | 02
01 | RI | LITTLE COMPTON, TOWN OF | 4400350001D | 28-NOV-2000 | 00-01-1108A | 02
01 | RI | NORTH KINGSTOWN, TOWN OF | 4454040008B | 19-JUL-2000 | 00-01-0414A | 02
01 | RI | NORTH PROVIDENCE, TOWN OF | 4400200001C | 18-JUL-2000 | 00-01-0764A | 02
01 | RI | NORTH PROVIDENCE, TOWN OF | 4400200001C | 20-JUL-2000 | 00-01-0800A | 02
01 | RI | PROVIDENCE, CITY OF | 4454060002F | 31-AUG-2000 | 00-01-1038A | 02
01 | RI | PROVIDENCE, CITY OF | 4454060001F | 08-SEP-2000 | 00-01-1172V | 19
01 | RI | WARWICK, CITY OF | 4454090002D | 24-NOV-2000 | 99-01-051P | 05
01 | RI | WARWICK, CITY OF | 4454090006E | 18-JUL-2000 | 00-01-0508A | 02
01 | VT | BRATTLEBORO, TOWN OF | 5001260015B | 25-JUL-2000 | 00-01-0804A | 02
01 | VT | BRATTLEBORO, TOWN OF | 5001260015D | 31-OCT-2000 | 00-01-1190A | 02
01 | VT | CASTLETON, TOWN OF | 5000910004B | 20-JUL-2000 | 00-01-0458A | 02
01 | VT | CASTLETON, TOWN OF | 5000910010B | 26-SEP-2000 | 00-01-0908A | 02
01 | VT | COLCHESTER, TOWN OF | 5000330006B | 31-AUG-2000 | 00-01-0958A | 02
01 | VT | CRAFTSBURY, TOWN OF | 500247 B | 10-AUG-2000 | 00-01-0098A | 02
01 | VT | ESSEX, TOWN OF | 5000340011B | 12-SEP-2000 | 00-01-0826A | 02
01 | VT | LUDLOW, VILLAGE OF | 5002940001B | 02-NOV-2000 | 01-01-0054A | 02
01 | VT | MONKTON, TOWN OF | 5001670005A | 14-NOV-2000 | 01-01-0102A | 02
01 | VT | MONTPELIER, CITY OF | 5055180002A | 22-AUG-2000 | 00-01-0786A | 02
01 | VT | MONTPELIER, CITY OF | 5055180003A | 04-AUG-2000 | 00-01-0936A | 01
01 | VT | MONTPELIER, CITY OF | 5055180003A | 31-AUG-2000 | 00-01-0952A | 02
01 | VT | MONTPELIER, CITY OF | 5055180002A | 19-SEP-2000 | 00-01-1114A | 02
01 | VT | MONTPELIER, CITY OF | 5055180002A | 31-OCT-2000 | 00-01-1124X | 02
01 | VT | NORWICH, TOWN OF | 5002950012C | 31-AUG-2000 | 00-01-0856A | 02
01 | VT | SHREWSBURY, TOWN OF | 5001020015B | 14-NOV-2000 | 01-01-0134A | 02
01 | VT | ST ALBANS, TOWN OF | 5002190005A | 21-DEC-2000 | 01-01-0290A | 02
01 | VT | SUNDERLAND, TOWN OF | 5000210005C | 07-NOV-2000 | 00-01-1032A | 02
01 | VT | WATERBURY, TOWN OF | 5001230032C | 12-SEP-2000 | 00-01-0942A | 02
01 | VT | WELLS, TOWN OF | 5002710001B | 14-DEC-2000 | 01-01-0154A | 02
01 | VT | WEST RUTLAND, TOWN OF | 500104 B | 12-SEP-2000 | 00-01-0794A | 01
01 | VT | WESTMINSTER, TOWN OF | 5001390008B | 12-SEP-2000 | 00-01-0962A | 02
01 | VT | WESTON, TOWN OF | 5001570010D | 18-JUL-2000 | 00-01-0726A | 02
02 | NJ | ABSECON, CITY OF | 3400010001C | 28-NOV-2000 | 00-02-0492A | 01
02 | NJ | BERGENFIELD, BOROUGH OF | 34003C0192F | 05-OCT-2000 | 00-02-0988A | 02
02 | NJ | BERKELEY HEIGHTS, TOWNSHIP OF | 3404590001D | 10-OCT-2000 | 00-02-1238A | 02
02 | NJ | BERKELEY HEIGHTS, TOWNSHIP OF | 3404590002D | 05-OCT-2000 | 00-02-1242A | 02
02 | NJ | BERKELEY, TOWNSHIP OF | 3403690004C | 17-OCT-2000 | 00-02-1298A | 02
02 | NJ | BORDENTOWN, TOWNSHIP OF | 3400880004C | 07-DEC-2000 | 01-02-0078A | 02
02 | NJ | CARLSTADT, BOROUGH OF | 34003C0254F | 09-NOV-2000 | 00-02-1126A | 02
02 | NJ | CHERRY HILL, TOWNSHIP OF | 3401290005C | 11-JUL-2000 | 00-02-0568A | 02
02 | NJ | CHERRY HILL, TOWNSHIP OF | 3401290005C | 11-JUL-2000 | 00-02-0752A | 02
02 | NJ | CHERRY HILL, TOWNSHIP OF | 3401290005C | 19-SEP-2000 | 00-02-1274X | 02
02 | NJ | CRANFORD, TOWNSHIP OF | 3452910001B | 02-NOV-2000 | 00-02-0574A | 02
02 | NJ | DOVER, TOWNSHIP OF | 3452930007D | 26-SEP-2000 | 00-02-1150A | 02
02 | NJ | FAIRFIELD, BOROUGH OF | 3452950004C | 19-SEP-2000 | 00-02-0536A | 02
02 | NJ | FAIRFIELD, BOROUGH OF | 3452950001C | 27-JUL-2000 | 00-02-0682A | 01
02 | NJ | FAIRFIELD, BOROUGH OF | 3452950001C | 19-SEP-2000 | 00-02-1084A | 02
02 | NJ | HAMILTON, TOWNSHIP OF | 3402460015C | 17-OCT-2000 | 00-02-1046A | 02
02 | NJ | HO-HO-KUS, BOROUGH OF | 34003C0176F | 26-SEP-2000 | 00-02-1258A | 02
02 | NJ | HOPEWELL, TOWNSHIP OF | 3401700002B | 24-AUG-2000 | 00-02-0582A | 02
02 | NJ | HOWELL, TOWNSHIP OF | 3403010020B | 10-AUG-2000 | 00-02-0590A | 01
02 | NJ | LACEY, TOWNSHIP OF | 340376 A | 12-DEC-2000 | 00-02-1118A | 02
02 | NJ | LAVALLETTE, BOROUGH OF | 3403790001E | 05-OCT-2000 | 00-02-1332A | 02
02 | NJ | MANASQUAN, BOROUGH OF | 3453030001C | 19-SEP-2000 | 00-02-0944A | 02
02 | NJ | MIDDLETOWN, TOWNSHIP OF | 3403130010B | 03-AUG-2000 | 00-02-0438A | 02
02 | NJ | MIDDLETOWN, TOWNSHIP OF | 3403130010B | 24-AUG-2000 | 00-02-1062A | 02
02 | NJ | MONROE, TOWNSHIP OF | 3402690002D | 10-OCT-2000 | 00-02-0476A | 02
02 | NJ | MONROE, TOWNSHIP OF | 3402690003C | 31-AUG-2000 | 00-02-0898A | 02
02 | NJ | MOUNTAINSIDE, BOROUGH OF | 3404680001A | 15-SEP-2000 | 00-02-1080A | 02
02 | NJ | NEPTUNE, TOWNSHIP OF | 3403170002C | 11-JUL-2000 | 00-02-0702A | 02
02 | NJ | NEW MILFORD, BOROUGH OF | 34003C0192F | 21-SEP-2000 | 00-02-1110A | 02
02 | NJ | NEWARK, CITY OF | 3401890007C | 19-SEP-2000 | 00-02-0620A | 02
02 | NJ | NORTH WILDWOOD, CITY OF | 3453080001E | 27-DEC-2000 | 00-02-1134P | 05
02 | NJ | NUTLEY,TOWN OF | 3401910001C | 14-DEC-2000 | 00-02-1250A | 02
02 | NJ | PALMYRA, BOROUGH OF | 3401100001C | 24-AUG-2000 | 00-02-0840A | 01
02 | NJ | PALMYRA, BOROUGH OF | 3401100001C | 29-SEP-2000 | 00-02-1000A | 01
02 | NJ | PALMYRA, BOROUGH OF | 3401100001C | 29-SEP-2000 | 00-02-1034A | 01
02 | NJ | PALMYRA, BOROUGH OF | 3401100001C | 14-DEC-2000 | 01-02-0038A | 01
02 | NJ | PARSIPPANY-TROY HILLS, TOWNSHIP OF | 3403550009B | 21-NOV-2000 | 01-02-0032A | 02
02 | NJ | PAULSBORO, BOROUGH OF | 3402100001B | 25-JUL-2000 | 00-02-0744A | 02
02 | NJ | PEMBERTON, TOWNSHIP OF | 3401120035A | 27-JUL-2000 | 00-02-0962A | 02
02 | NJ | PEMBERTON, TOWNSHIP OF | 3401120025A | 20-NOV-2000 | 00-02-1330A | 02
02 | NJ | PEQUANNOCK, TOWNSHIP OF | 3453110003C | 11-JUL-2000 | 00-02-0526A | 02
02 | NJ | PEQUANNOCK, TOWNSHIP OF | 3453110003C | 12-SEP-2000 | 00-02-0812A | 01
02 | NJ | PEQUANNOCK, TOWNSHIP OF | 3453110001C | 19-OCT-2000 | 00-02-1112A | 02
02 | NJ | PEQUANNOCK, TOWNSHIP OF | 3453110002B | 20-SEP-2000 | 00-02-1170A | 02
02 | NJ | POINT PLEASANT, BOROUGH OF | 3453130001B | 11-JUL-2000 | 00-02-0642A | 02
02 | NJ | POINT PLEASANT, BOROUGH OF | 3453130001B | 10-OCT-2000 | 00-02-1132A | 02
02 | NJ | RAMSEY, BOROUGH OF | 34003C0067F | 31-AUG-2000 | 00-02-0824A | 02
02 | NJ | RAMSEY, BOROUGH OF | 34003C0067F | 03-JUL-2000 | 00-02-0834A | 01
02 | NJ | RIVER VALE, TOWNSHIP OF | 34003C0182F | 11-JUL-2000 | 00-02-0722A | 01
02 | NJ | SOUTH BRUNSWICK, TOWNSHIP OF | 3402780011B | 24-OCT-2000 | 00-02-0034A | 01
02 | NJ | SOUTH PLAINFIELD, BOROUGH OF | 3402790001B | 19-SEP-2000 | 00-02-0788A | 02
02 | NJ | SPOTSWOOD, BOROUGH OF | 3402820001D | 19-OCT-2000 | 00-02-1390A | 02
02 | NJ | UNION, TOWNSHIP OF | 3404770001A | 10-AUG-2000 | 99-02-033P | 06
02 | NJ | VERNON, TOWNSHIP OF | 3405610035A | 12-SEP-2000 | 00-02-0706A | 02
02 | NJ | VOORHEES, TOWNSHIP OF | 3405380005A | 26-SEP-2000 | 00-02-0816A | 02
02 | NJ | WANAQUE, BOROUGH OF | 3404090004C | 10-OCT-2000 | 00-02-0538A | 02
02 | NJ | WASHINGTON, TOWNSHIP OF | 3402130002B | 20-JUL-2000 | 00-02-0484A | 02
02 | NJ | WAYNE, TOWNSHIP OF | 3453270006C | 22-SEP-2000 | 00-02-1256A | 02
02 | NJ | WEST CALDWELL, BOROUGH OF | 3401960001B | 24-OCT-2000 | 00-02-1312A | 02
02 | NJ | WYCKOFF, TOWNSHIP OF | 34003C0068F | 26-OCT-2000 | 00-02-1246A | 02
02 | NY | ALEXANDRIA, TOWN OF | 360326 C | 22-SEP-2000 | 00-02-1078A | 02
02 | NY | AMHERST, TOWN OF | 3602260005E | 20-JUL-2000 | 00-02-0570A | 02
02 | NY | AMHERST, TOWN OF | 3602260004D | 20-JUL-2000 | 00-02-0678A | 02
02 | NY | AMHERST, TOWN OF | 3602260004D | 19-SEP-2000 | 00-02-0980A | 02
02 | NY | AMHERST, TOWN OF | 3602260007E | 26-SEP-2000 | 00-02-1070A | 02
02 | NY | AMHERST, TOWN OF | 3602260004D | 19-SEP-2000 | 00-02-1098A | 02
02 | NY | AMHERST, TOWN OF | 3602260004D | 19-SEP-2000 | 00-02-1106A | 02
02 | NY | AMHERST, TOWN OF | 3602260002E | 07-NOV-2000 | 00-02-1236A | 02
02 | NY | AMHERST, TOWN OF | 3602260004D | 10-OCT-2000 | 00-02-1328A | 02
02 | NY | AMHERST, TOWN OF | 3602260004D | 29-SEP-2000 | 00-02-1394A | 02
02 | NY | AMITYVILLE, VILLAGE OF | 36103C0841G | 23-AUG-2000 | 00-02-0614A | 02
02 | NY | ARCADE, VILLAGE OF | 3615550005D | 19-SEP-2000 | 00-02-1014A | 02
02 | NY | ARCADE, VILLAGE OF | 3615550005D | 28-NOV-2000 | 00-02-1022A | 02
02 | NY | ARCADE, VILLAGE OF | 3615550005D | 19-SEP-2000 | 00-02-1024A | 02
02 | NY | ARCADE, VILLAGE OF | 3615550005D | 14-DEC-2000 | 00-02-1054A | 17
02 | NY | ARCADE, VILLAGE OF | 3615550005D | 14-DEC-2000 | 00-02-1072A | 17
02 | NY | ARCADE, VILLAGE OF | 3615550005D | 29-SEP-2000 | 00-02-1076A | 02
02 | NY | ARCADE, VILLAGE OF | 3615550005D | 29-SEP-2000 | 00-02-1086A | 02
02 | NY | ARCADE, VILLAGE OF | 3615550005D | 26-SEP-2000 | 00-02-1116A | 02
02 | NY | ARCADE, VILLAGE OF | 3615550005D | 19-SEP-2000 | 00-02-1128A | 02
02 | NY | ARCADE, VILLAGE OF | 3615550005D | 10-OCT-2000 | 00-02-1144A | 02
02 | NY | ARCADE, VILLAGE OF | 3615550005D | 19-SEP-2000 | 00-02-1232A | 02
02 | NY | BABYLON,TOWN OF | 36103C0842G | 19-SEP-2000 | 00-02-0878A | 02
02 | NY | BARNEVELD, VILLAGE OF | 3615690001C | 10-AUG-2000 | 00-02-0784A | 01
02 | NY | BARNEVELD, VILLAGE OF | 3615690001C | 20-SEP-2000 | 00-02-0810A | 02
02 | NY | BATAVIA, CITY OF | 3602790001B | 11-JUL-2000 | 00-02-0556A | 02
02 | NY | BELLMONT, TOWN OF | 361392 A | 01-AUG-2000 | 00-02-0716A | 02
02 | NY | BELLMONT, TOWN OF | 361392 A | 24-AUG-2000 | 00-02-0854A | 02
02 | NY | BELLMONT, TOWN OF | 361392 A | 19-DEC-2000 | 01-02-0234A | 02
02 | NY | BRIGHTWATERS, VILLAGE OF | 36103C0859G | 15-SEP-2000 | 00-02-1036A | 02
02 | NY | BUFFALO, CITY OF | 3602300010C | 11-JUL-2000 | 00-02-0488A | 02
02 | NY | BUFFALO, CITY OF | 3602300010C | 19-SEP-2000 | 00-02-0600A | 02
02 | NY | BUFFALO, CITY OF | 3602300010C | 11-JUL-2000 | 00-02-0742A | 02
02 | NY | BUFFALO, CITY OF | 3602300010C | 28-SEP-2000 | 00-02-0900A | 02
02 | NY | BUFFALO, CITY OF | 3602300010C | 28-SEP-2000 | 00-02-0902A | 02
02 | NY | BUFFALO, CITY OF | 3602300010C | 28-SEP-2000 | 00-02-0904A | 02
02 | NY | BUFFALO, CITY OF | 3602300010C | 28-SEP-2000 | 00-02-0906A | 02
02 | NY | BUFFALO, CITY OF | 3602300010C | 28-SEP-2000 | 00-02-0908A | 02
02 | NY | BUFFALO, CITY OF | 3602300010C | 28-SEP-2000 | 00-02-0910A | 02
02 | NY | BUFFALO, CITY OF | 3602300010C | 28-SEP-2000 | 00-02-0912A | 02
02 | NY | BUFFALO, CITY OF | 3602300010C | 19-SEP-2000 | 00-02-0914A | 02
02 | NY | BUFFALO, CITY OF | 3602300010C | 25-JUL-2000 | 00-02-0996X | 02
02 | NY | BUFFALO, CITY OF | 3602300010C | 25-JUL-2000 | 00-02-0998X | 02
02 | NY | BUFFALO, CITY OF | 3602300010C | 08-AUG-2000 | 00-02-1040X | 02
02 | NY | BUFFALO, CITY OF | 3602300010C | 17-OCT-2000 | 00-02-1334A | 02
02 | NY | BUFFALO, CITY OF | 3602300010C | 31-OCT-2000 | 00-02-1342A | 02
02 | NY | BUFFALO, CITY OF | 3602300010C | 21-DEC-2000 | 01-02-0132A | 02
02 | NY | BUFFALO, CITY OF | 3602300010C | 21-NOV-2000 | 01-02-0138A | 02
02 | NY | CANANDAIGUA, CITY OF | 3605970001C | 19-SEP-2000 | 00-02-1114A | 02
02 | NY | CHESTER, TOWN OF | 360609 A | 11-JUL-2000 | 00-02-0718A | 02
02 | NY | CHESTER, TOWN OF | 3608700010B | 26-SEP-2000 | 00-02-0836A | 01
02 | NY | CICERO, TOWN OF | 3605720004D | 12-SEP-2000 | 00-02-0596A | 02
02 | NY | CICERO, TOWN OF | 3605720008D | 10-OCT-2000 | 00-02-0680A | 17
02 | NY | CICERO, TOWN OF | 3605720006D | 29-AUG-2000 | 00-02-1064A | 02
02 | NY | CICERO, TOWN OF | 3605720004D | 29-SEP-2000 | 00-02-1308A | 02
02 | NY | CICERO, TOWN OF | 3605720005D | 09-NOV-2000 | 00-02-1368A | 01
02 | NY | CLARENCE, TOWN OF | 3602320013C | 11-JUL-2000 | 00-02-0544A | 02
02 | NY | CLARENCE, TOWN OF | 3602320005C | 05-OCT-2000 | 00-02-0764A | 02
02 | NY | CLARENCE, TOWN OF | 3602320005C | 10-OCT-2000 | 00-02-0804A | 02
02 | NY | CLARENCE, TOWN OF | 3602320011C | 18-JUL-2000 | 00-02-0940X | 01
02 | NY | CLARENCE, TOWN OF | 3602320011C | 19-SEP-2000 | 00-02-1090A | 02
02 | NY | CLARENCE, TOWN OF | 3602320011C | 07-DEC-2000 | 01-02-0080A | 02
02 | NY | CLARENCE, TOWN OF | 3602320005C | 21-DEC-2000 | 01-02-0090A | 02
02 | NY | CLARENCE, TOWN OF | 3602320005C | 19-DEC-2000 | 01-02-0108A | 02
02 | NY | CLARENCE, TOWN OF | 3602320005C | 12-DEC-2000 | 01-02-0144A | 02
02 | NY | CLARENCE, TOWN OF | 3602320005C | 21-DEC-2000 | 01-02-0164A | 02
02 | NY | CLARENCE, TOWN OF | 3602320013C | 21-DEC-2000 | 01-02-0168A | 02
02 | NY | CLARKSTOWN, TOWN OF | 3606790006F | 28-DEC-2000 | 01-02-0136A | 01
02 | NY | COLONIE, TOWN OF | 3600070005C | 05-DEC-2000 | 01-02-0092A | 02
02 | NY | COLTON, TOWN OF | 361423 A | 10-OCT-2000 | 00-02-0884A | 02
02 | NY | CONKLIN, TOWN OF | 3600420010D | 11-JUL-2000 | 00-02-0694A | 02
02 | NY | CORTLAND, CITY OF | 3601780001C | 12-SEP-2000 | 00-02-0872A | 02
02 | NY | CORTLAND, CITY OF | 3601780001C | 26-SEP-2000 | 00-02-0928A | 02
02 | NY | CORTLAND, CITY OF | 3601780001C | 19-SEP-2000 | 00-02-0936A | 02
02 | NY | CORTLANDT, TOWN OF | 3609060007B | 19-OCT-2000 | 00-02-0650A | 02
02 | NY | CROGHAN, TOWN OF | 360362 A | 07-DEC-2000 | 00-02-0750A | 02
02 | NY | DEWITT, TOWN OF | 3609730010B | 15-SEP-2000 | 00-02-1068A | 02
02 | NY | EAST FISHKILL, TOWN OF | 3613360020B | 28-DEC-2000 | 00-02-1364A | 02
02 | NY | ELLENBURG, TOWN OF | 361382 A | 25-JUL-2000 | 00-02-0970A | 02
02 | NY | ELLENBURG, TOWN OF | 361382 A | 20-SEP-2000 | 00-02-1026A | 02
02 | NY | ELLENBURG, TOWN OF | 361382 A | 19-DEC-2000 | 01-02-0232A | 02
02 | NY | ELMA,TOWN OF | 3602390009B | 11-JUL-2000 | 00-02-0236A | 02
02 | NY | ERWIN, TOWN OF | 3607740015B | 29-SEP-2000 | 00-02-1288A | 02
02 | NY | GORHAM, TOWN OF | 3606010003C | 25-JUL-2000 | 00-02-0782A | 02
02 | NY | GOSHEN, VILLAGE OF | 3615710002B | 26-SEP-2000 | 00-02-0586A | 02
02 | NY | GRANVILLE, TOWN OF | 361232 A | 21-DEC-2000 | 01-02-0034A | 01
02 | NY | GRANVILLE, VILLAGE OF | 360886 B | 15-NOV-2000 | 00-02-0948A | 02
02 | NY | GRANVILLE, VILLAGE OF | 360886 B | 21-DEC-2000 | 01-02-0222X | 02
02 | NY | GREECE, TOWN OF | 3604170006E | 19-SEP-2000 | 00-02-0578A | 17
02 | NY | GREECE, TOWN OF | 3604170003F | 14-NOV-2000 | 00-02-1352A | 02
02 | NY | GREECE, TOWN OF | 3604170002D | 21-NOV-2000 | 01-02-0146A | 02
02 | NY | GREENWICH,TOWN OF | 3612330005C | 19-SEP-2000 | 00-02-0992A | 02
02 | NY | GUILDERLAND, TOWN OF | 3600100030A | 17-OCT-2000 | 00-02-0786A | 02
02 | NY | HAMBURG, VILLAGE OF | 3602430002B | 16-NOV-2000 | 00-02-0938A | 02
02 | NY | HARRISON, TOWN OF | 3609120011B | 11-JUL-2000 | 00-02-0520A | 02
02 | NY | HEMPSTEAD, TOWN OF | 36059C0303F | 11-JUL-2000 | 00-02-0472A | 02
02 | NY | HEMPSTEAD, TOWN OF | 36059C0243F | 07-NOV-2000 | 00-02-1392A | 02
02 | NY | HEMPSTEAD, TOWN OF | 36059C0242F | 15-NOV-2000 | 01-02-0098A | 02
02 | NY | HEMPSTEAD, TOWN OF | 36059C0214G | 19-DEC-2000 | 01-02-0230A | 02
02 | NY | HENRIETTA, TOWN OF | 3604190005E | 12-SEP-2000 | 00-02-0848A | 02
02 | NY | HENRIETTA, TOWN OF | 3604190005E | 19-OCT-2000 | 00-02-1100A | 01
02 | NY | HORSEHEADS, TOWN OF | 3601530005C | 15-SEP-2000 | 00-02-0708A | 02
02 | NY | ISLIP,TOWNSHIP OF | 36103C0854G | 19-SEP-2000 | 00-02-0876A | 02
02 | NY | JERUSALEM, TOWN OF | 360959 C | 27-JUL-2000 | 00-02-0696A | 02
02 | NY | LAGRANGE, TOWN OF | 3610110015D | 27-JUL-2000 | 00-02-0778A | 02
02 | NY | LLOYD, TOWN OF | 3610120003D | 06-JUL-2000 | 01-02-0104V | 19
02 | NY | MADISON, TOWN OF | 3612920013B | 05-JUL-2000 | 99-02-053P | 05
02 | NY | MALTA, TOWN OF | 36091C0444E | 25-JUL-2000 | 00-02-0414A | 02
02 | NY | MANLIUS, TOWN OF | 3605840010D | 12-OCT-2000 | 00-02-1096A | 01
02 | NY | MANLIUS, TOWN OF | 3605840017D | 19-OCT-2000 | 00-02-1304A | 02
02 | NY | MONTGOMERY, TOWN OF | 3606230002B | 21-DEC-2000 | 00-02-1004A | 02
02 | NY | NAPLES, TOWN OF | 360602 B | 24-OCT-2000 | 00-02-0498A | 02
02 | NY | NEW YORK, CITY OF | 3604970125D | 05-JUL-2000 | 99-02-075P | 05
02 | NY | NEW YORK, CITY OF | 3604970125D | 11-JUL-2000 | 00-02-0428A | 02
02 | NY | NEW YORK, CITY OF | 3604970114D | 26-SEP-2000 | 00-02-0480A | 02
02 | NY | NEW YORK, CITY OF | 3604970114D | 11-JUL-2000 | 00-02-0482A | 02
02 | NY | NEW YORK, CITY OF | 3604970081C | 31-OCT-2000 | 00-02-0502A | 02
02 | NY | NEW YORK, CITY OF | 3604970114D | 11-JUL-2000 | 00-02-0504A | 02
02 | NY | NEW YORK, CITY OF | 3604970126B | 31-AUG-2000 | 00-02-0506A | 02
02 | NY | NEW YORK, CITY OF | 3604970115B | 11-JUL-2000 | 00-02-0508A | 02
02 | NY | NEW YORK, CITY OF | 3604970092C | 11-JUL-2000 | 00-02-0550A | 02
02 | NY | NEW YORK, CITY OF | 3604970129D | 25-JUL-2000 | 00-02-0576A | 02
02 | NY | NEW YORK, CITY OF | 3604970092C | 25-JUL-2000 | 00-02-0592A | 02
02 | NY | NEW YORK, CITY OF | 3604970124D | 02-OCT-2000 | 00-02-0608A | 02
02 | NY | NEW YORK, CITY OF | 3604970128D | 25-JUL-2000 | 00-02-0618A | 02
02 | NY | NEW YORK, CITY OF | 3604970092C | 25-JUL-2000 | 00-02-0646A | 02
02 | NY | NEW YORK, CITY OF | 3604970128D | 11-JUL-2000 | 00-02-0656A | 02
02 | NY | NEW YORK, CITY OF | 3604970092C | 29-AUG-2000 | 00-02-0692A | 02
02 | NY | NEW YORK, CITY OF | 3604970125D | 10-OCT-2000 | 00-02-0704A | 02
02 | NY | NEW YORK, CITY OF | 3604970130C | 29-AUG-2000 | 00-02-0736A | 02
02 | NY | NEW YORK, CITY OF | 3604970128D | 31-OCT-2000 | 00-02-0740A | 02
02 | NY | NEW YORK, CITY OF | 3604970128D | 25-JUL-2000 | 00-02-0746A | 02
02 | NY | NEW YORK, CITY OF | 3604970126B | 11-JUL-2000 | 00-02-0762A | 02
02 | NY | NEW YORK, CITY OF | 3604970125D | 29-AUG-2000 | 00-02-0760A | 02
02 | NY | NEW YORK, CITY OF | 3604970092C | 25-JUL-2000 | 00-02-0766A | 02
02 | NY | NEW YORK, CITY OF | 3604970126B | 29-AUG-2000 | 00-02-0772A | 02
02 | NY | NEW YORK, CITY OF | 3604970126B | 24-AUG-2000 | 00-02-0794A | 02
02 | NY | NEW YORK, CITY OF | 3604970092C | 25-JUL-2000 | 00-02-0792A | 02
02 | NY | NEW YORK, CITY OF | 3604970105C | 22-SEP-2000 | 00-02-0802A | 02
02 | NY | NEW YORK, CITY OF | 3604970092C | 29-AUG-2000 | 00-02-0806A | 02
02 | NY | NEW YORK, CITY OF | 3604970125D | 25-JUL-2000 | 00-02-0820A | 02
02 | NY | NEW YORK, CITY OF | 3604970081C | 25-JUL-2000 | 00-02-0822A | 02
02 | NY | NEW YORK, CITY OF | 3604970125D | 25-JUL-2000 | 00-02-0826A | 02
02 | NY | NEW YORK, CITY OF | 3604970115B | 29-AUG-2000 | 00-02-0828A | 02
02 | NY | NEW YORK, CITY OF | 3604970092C | 25-JUL-2000 | 00-02-0830A | 02
02 | NY | NEW YORK, CITY OF | 3604970125D | 25-JUL-2000 | 00-02-0842A | 02
02 | NY | NEW YORK, CITY OF | 3604970092C | 11-JUL-2000 | 00-02-0844A | 02
02 | NY | NEW YORK, CITY OF | 3604970081C | 11-JUL-2000 | 00-02-0846A | 02
02 | NY | NEW YORK, CITY OF | 3604970128D | 25-JUL-2000 | 00-02-0856A | 02
02 | NY | NEW YORK, CITY OF | 3604970125D | 25-JUL-2000 | 00-02-0860A | 02
02 | NY | NEW YORK, CITY OF | 3604970081C | 25-JUL-2000 | 00-02-0862A | 02
02 | NY | NEW YORK, CITY OF | 3604970125D | 11-JUL-2000 | 00-02-0864A | 02
02 | NY | NEW YORK, CITY OF | 3604970092C | 25-JUL-2000 | 00-02-0866A | 02
02 | NY | NEW YORK, CITY OF | 3604970129D | 25-JUL-2000 | 00-02-0870A | 02
02 | NY | NEW YORK, CITY OF | 3604970092C | 25-JUL-2000 | 00-02-0886A | 02
02 | NY | NEW YORK, CITY OF | 3604970115B | 26-SEP-2000 | 00-02-0918C | 02
02 | NY | NEW YORK, CITY OF | 3604970126B | 25-JUL-2000 | 00-02-0932A | 02
02 | NY | NEW YORK, CITY OF | 3604970126B | 10-OCT-2000 | 00-02-0964A | 02
02 | NY | NEW YORK, CITY OF | 3604970111C | 10-OCT-2000 | 00-02-0968A | 02
02 | NY | NEW YORK, CITY OF | 3604970092C | 10-OCT-2000 | 00-02-0982A | 02
02 | NY | NEW YORK, CITY OF | 3604970126B | 09-NOV-2000 | 00-02-0986A | 02
02 | NY | NEW YORK, CITY OF | 3604970104C | 29-AUG-2000 | 00-02-1010A | 02
02 | NY | NEW YORK, CITY OF | 3604970126B | 24-OCT-2000 | 00-02-1038A | 02
02 | NY | NEW YORK, CITY OF | 3604970125D | 08-AUG-2000 | 00-02-1042X | 02
02 | NY | NEW YORK, CITY OF | 3604970092C | 17-AUG-2000 | 00-02-1030A | 02
02 | NY | NEW YORK, CITY OF | 3604970094C | 29-AUG-2000 | 00-02-1052A | 02
02 | NY | NEW YORK, CITY OF | 3604970125D | 29-AUG-2000 | 00-02-1058A | 02
02 | NY | NEW YORK, CITY OF | 3604970092C | 09-NOV-2000 | 00-02-1066A | 02
02 | NY | NEW YORK, CITY OF | 3604970125D | 29-AUG-2000 | 00-02-1092A | 02
02 | NY | NEW YORK, CITY OF | 3604970125D | 29-SEP-2000 | 00-02-1102A | 02
02 | NY | NEW YORK, CITY OF | 3604970125D | 29-AUG-2000 | 00-02-1104A | 02
02 | NY | NEW YORK, CITY OF | 3604970125D | 10-OCT-2000 | 00-02-1136A | 02
02 | NY | NEW YORK, CITY OF | 3604970125D | 10-OCT-2000 | 00-02-1158A | 02
02 | NY | NEW YORK, CITY OF | 3604970125D | 24-AUG-2000 | 00-02-1172X | 02
02 | NY | NEW YORK, CITY OF | 3604970114D | 24-AUG-2000 | 00-02-1174X | 02
02 | NY | NEW YORK, CITY OF | 3604970114D | 24-AUG-2000 | 00-02-1176X | 02
02 | NY | NEW YORK, CITY OF | 3604970094C | 24-AUG-2000 | 00-02-1178X | 02
02 | NY | NEW YORK, CITY OF | 3604970126B | 24-AUG-2000 | 00-02-1180X | 02
02 | NY | NEW YORK, CITY OF | 3604970128D | 24-AUG-2000 | 00-02-1182X | 02
02 | NY | NEW YORK, CITY OF | 3604970092C | 24-AUG-2000 | 00-02-1184X | 02
02 | NY | NEW YORK, CITY OF | 3604970125D | 24-AUG-2000 | 00-02-1186X | 02
02 | NY | NEW YORK, CITY OF | 3604970125D | 24-AUG-2000 | 00-02-1188X | 02
02 | NY | NEW YORK, CITY OF | 3604970092C | 24-AUG-2000 | 00-02-1190X | 02
02 | NY | NEW YORK, CITY OF | 3604970092C | 24-AUG-2000 | 00-02-1192X | 02
02 | NY | NEW YORK, CITY OF | 3604970092C | 24-AUG-2000 | 00-02-1194X | 02
02 | NY | NEW YORK, CITY OF | 3604970129D | 24-AUG-2000 | 00-02-1196X | 02
02 | NY | NEW YORK, CITY OF | 3604970128D | 24-AUG-2000 | 00-02-1198X | 02
02 | NY | NEW YORK, CITY OF | 3604970092C | 24-AUG-2000 | 00-02-1200X | 02
02 | NY | NEW YORK, CITY OF | 3604970081C | 24-AUG-2000 | 00-02-1202X | 02
02 | NY | NEW YORK, CITY OF | 3604970128D | 24-AUG-2000 | 00-02-1204X | 02
02 | NY | NEW YORK, CITY OF | 3604970129D | 24-AUG-2000 | 00-02-1206X | 02
02 | NY | NEW YORK, CITY OF | 3604970125D | 24-AUG-2000 | 00-02-1208X | 02
02 | NY | NEW YORK, CITY OF | 3604970128D | 24-AUG-2000 | 00-02-1210X | 02
02 | NY | NEW YORK, CITY OF | 3604970092C | 24-AUG-2000 | 00-02-1212X | 02
02 | NY | NEW YORK, CITY OF | 3604970125D | 24-AUG-2000 | 00-02-1214X | 02
02 | NY | NEW YORK, CITY OF | 3604970081C | 24-AUG-2000 | 00-02-1216X | 02
02 | NY | NEW YORK, CITY OF | 3604970125D | 24-AUG-2000 | 00-02-1218X | 02
02 | NY | NEW YORK, CITY OF | 3604970125D | 24-AUG-2000 | 00-02-1220X | 02
02 | NY | NEW YORK, CITY OF | 3604970092C | 24-AUG-2000 | 00-02-1222X | 02
02 | NY | NEW YORK, CITY OF | 3604970092C | 24-AUG-2000 | 00-02-1224X | 02
02 | NY | NEW YORK, CITY OF | 3604970092C | 24-AUG-2000 | 00-02-1226X | 02
02 | NY | NEW YORK, CITY OF | 3604970125D | 29-SEP-2000 | 00-02-1248A | 02
02 | NY | NEW YORK, CITY OF | 3604970002B | 29-SEP-2000 | 00-02-1306A | 02
02 | NY | NEW YORK, CITY OF | 3604970128D | 10-OCT-2000 | 00-02-1322A | 02
02 | NY | NEW YORK, CITY OF | 3604970126B | 02-NOV-2000 | 00-02-1350A | 02
02 | NY | NEW YORK, CITY OF | 3604970125D | 29-SEP-2000 | 00-02-1354A | 02
02 | NY | NEW YORK, CITY OF | 3604970092C | 29-SEP-2000 | 00-02-1358A | 02
02 | NY | NEW YORK, CITY OF | 3604970124D | 21-NOV-2000 | 00-02-1400A | 02
02 | NY | NEW YORK, CITY OF | 3604970092C | 12-DEC-2000 | 01-02-0062A | 02
02 | NY | NEW YORK, CITY OF | 3604970126B | 21-NOV-2000 | 01-02-0068A | 02
02 | NY | NEW YORK, CITY OF | 3604970125D | 07-DEC-2000 | 01-02-0076A | 02
02 | NY | NEW YORK, CITY OF | 3604970092C | 21-NOV-2000 | 01-02-0082A | 02
02 | NY | NEW YORK, CITY OF | 3604970126B | 07-DEC-2000 | 01-02-0110A | 02
02 | NY | NEW YORK, CITY OF | 3604970082C | 12-DEC-2000 | 01-02-0152A | 02
02 | NY | NEW YORK, CITY OF | 3604970125D | 28-DEC-2000 | 01-02-0180A | 02
02 | NY | NEW YORK, CITY OF | 3604970126B | 28-DEC-2000 | 01-02-0186A | 02
02 | NY | NIAGARA FALLS, CITY OF | 3605060003C | 05-JUL-2000 | 00-02-003P | 05
02 | NY | NIAGARA FALLS, CITY OF | 3605060003C | 10-AUG-2000 | 00-02-0566A | 02
02 | NY | NORTH GREENBUSH,TOWN OF | 3611640002A | 12-SEP-2000 | 00-02-0644A | 02
02 | NY | NORTH GREENBUSH,TOWN OF | 3611640005A | 21-NOV-2000 | 01-02-0142A | 02
02 | NY | OLEAN, CITY OF | 3600880001B | 19-SEP-2000 | 00-02-0852A | 02
02 | NY | OWEGO, TOWN OF | 3608390020D | 28-SEP-2000 | 00-02-0446A | 01
02 | NY | OYSTER BAY, TOWN OF | 36059C0264F | 31-OCT-2000 | 00-02-0758A | 02
02 | NY | OYSTER BAY, TOWN OF | 36059C0264F | 29-SEP-2000 | 00-02-1276A | 02
02 | NY | OYSTER BAY, TOWN OF | 36059C0261F | 05-DEC-2000 | 00-02-1310A | 02
02 | NY | PIERMONT, VILLAGE OF | 3606870001C | 24-OCT-2000 | 00-02-1120X | 01
02 | NY | PITTSFORD, TOWN OF | 3604290005C | 28-DEC-2000 | 01-02-0220A | 01
02 | NY | PORT CHESTER, VILLAGE OF | 3609280001C | 19-SEP-2000 | 00-02-1244A | 02
02 | NY | PORT JERVIS, CITY OF | 3609760001B | 19-SEP-2000 | 00-02-0580A | 02
02 | NY | POUGHKEEPSIE, TOWN OF | 3611420007C | 12-SEP-2000 | 00-02-0946A | 02
02 | NY | QUEENSBURY, TOWN OF | 3608790020C | 10-AUG-2000 | 00-02-0530A | 02
02 | NY | QUEENSBURY, TOWN OF | 3608790020C | 12-SEP-2000 | 00-02-0534A | 02
02 | NY | QUEENSBURY, TOWN OF | 3608790020C | 29-SEP-2000 | 00-02-1320X | 02
02 | NY | RAMAPO, TOWN OF | 3653400005C | 31-OCT-2000 | 00-02-0564A | 02
02 | NY | RICHMOND, TOWN OF | 3606040018B | 26-SEP-2000 | 00-02-1230A | 02
02 | NY | ROTTERDAM, TOWN OF | 3607400012B | 05-OCT-2000 | 00-02-0768A | 02
02 | NY | ROTTERDAM, TOWN OF | 3607400009B | 16-NOV-2000 | 00-02-0956A | 02
02 | NY | SALAMANCA, CITY OF | 3600970002C | 19-SEP-2000 | 00-02-0594A | 02
02 | NY | SALISBURY, TOWN OF | 360317 B | 18-JUL-2000 | 00-02-0688A | 02
02 | NY | SCHROEPPEL, TOWN OF | 3606620020B | 31-OCT-2000 | 00-02-0922A | 02
02 | NY | SCIO, TOWN OF | 3600340010C | 21-SEP-2000 | 00-02-1032A | 01
02 | NY | SENECA FALLS, TOWN OF | 3607560001B | 05-JUL-2000 | 99-02-712P | 05
02 | NY | SOUTHOLD,TOWN OF | 36103C0501G | 19-SEP-2000 | 00-02-0934A | 02
02 | NY | SOUTHOLD,TOWN OF | 36103C0164G | 16-NOV-2000 | 00-02-1366A | 02
02 | NY | SPENCERPORT, VILLAGE OF | 3604330005B | 10-OCT-2000 | 00-02-1278A | 02
02 | NY | SYRACUSE, CITY OF | 3605950008D | 10-AUG-2000 | 00-02-0464A | 02
02 | NY | TROY, CITY OF | 3606770003B | 28-SEP-2000 | 99-02-1132A | 01
02 | NY | VALLEY STREAM, VILLAGE OF | 36059C0212F | 29-SEP-2000 | 00-02-0584A | 02
02 | NY | VAN BUREN, TOWN OF | 3605960005C | 19-OCT-2000 | 00-02-1124A | 02
02 | NY | VIENNA, TOWN OF | 3605620015B | 28-NOV-2000 | 00-02-1152A | 02
02 | NY | WALWORTH, TOWN OF | 3612280012C | 21-DEC-2000 | 00-02-1122A | 02
02 | NY | WAPPINGER, TOWN OF | 3613870004B | 26-SEP-2000 | 00-02-0516A | 02
02 | NY | WATERVLIET, CITY OF | 3600160001B | 20-JUL-2000 | 00-02-0560A | 02
02 | NY | WEBB, TOWN OF | 360321 A | 19-SEP-2000 | 00-02-0630A | 02
02 | NY | WEBB, TOWN OF | 360321 A | 29-SEP-2000 | 00-02-0930A | 02
02 | NY | WHEATFIELD, TOWN OF | 3605130004D | 27-JUL-2000 | 00-02-0690A | 02
02 | NY | WHEATFIELD, TOWN OF | 3605130002D | 24-AUG-2000 | 00-02-0796A | 02
02 | NY | WHITEHALL, VILLAGE OF | 360889 B | 28-DEC-2000 | 01-02-0100A | 02
02 | NY | WHITESBORO, VILLAGE OF | 3605660001C | 21-DEC-2000 | 01-02-0160A | 02
02 | PR | PUERTO RICO,COMMONWEALTH OF | 7200000021C | 02-OCT-2000 | 99-02-029P | 05
02 | PR | PUERTO RICO,COMMONWEALTH OF | 7200000030D | 11-JUL-2000 | 00-02-0004A | 01
02 | PR | PUERTO RICO,COMMONWEALTH OF | 7200000301D | 11-JUL-2000 | 00-02-0370A | 02
02 | PR | PUERTO RICO,COMMONWEALTH OF | 7200000049C | 28-SEP-2000 | 00-02-0546A | 02
02 | PR | PUERTO RICO,COMMONWEALTH OF | 7200000047E | 12-SEP-2000 | 00-02-0626A | 02
02 | PR | PUERTO RICO,COMMONWEALTH OF | 7200000070D | 11-JUL-2000 | 00-02-0654A | 01
02 | PR | PUERTO RICO,COMMONWEALTH OF | 7200000048B | 26-SEP-2000 | 00-02-0652A | 01
02 | PR | PUERTO RICO,COMMONWEALTH OF | 7200000219C | 19-DEC-2000 | 00-02-0636A | 01
02 | PR | PUERTO RICO,COMMONWEALTH OF | 7200000047E | 19-SEP-2000 | 00-02-0670A | 02
02 | PR | PUERTO RICO,COMMONWEALTH OF | 7200000219C | 21-SEP-2000 | 00-02-0888A | 01
02 | PR | PUERTO RICO,COMMONWEALTH OF | 7200000130E | 05-DEC-2000 | 00-02-0890A | 01
02 | PR | PUERTO RICO,COMMONWEALTH OF | 7200000030D | 26-SEP-2000 | 00-02-0018A | 01
02 | PR | PUERTO RICO,COMMONWEALTH OF | 7200000025D | 28-DEC-2000 | 00-02-0020A | 01
02 | PR | PUERTO RICO,COMMONWEALTH OF | 7200000114B | 16-NOV-2000 | 00-02-1348A | 01
02 | VI | VIRGIN ISLANDS, TERRITORY OF THE | 7800000020E | 24-OCT-2000 | 00-02-0186A | 02
03 | DE | DOVER, CITY OF | 1000060005C | 01-AUG-2000 | 00-03-1422A | 02
03 | DE | ELSMERE, TOWN OF | 10003C0151G | 07-OCT-2000 | 00-03-2094V | 19
03 | DE | KENT COUNTY * | 1000010080B | 29-AUG-2000 | 00-03-0730A | 02
03 | DE | KENT COUNTY * | 1000010175B | 18-JUL-2000 | 00-03-1594X | 01
03 | DE | KENT COUNTY * | 1000010140B | 05-SEP-2000 | 00-03-1612A | 02
03 | DE | KENT COUNTY * | 1000010075B | 17-OCT-2000 | 00-03-1908A | 02
03 | DE | KENT COUNTY * | 1000010140B | 12-DEC-2000 | 00-03-1926A | 02
03 | DE | KENT COUNTY * | 1000010075B | 16-NOV-2000 | 00-03-2062A | 02
03 | DE | LEWES, CITY OF | 10005C0195F | 10-NOV-2000 | 01-03-0100A | 02
03 | DE | LEWES, CITY OF | 10005C0190F | 21-DEC-2000 | 01-03-0470V | 19
03 | DE | NEW CASTLE COUNTY * | 10003C0160F | 07-SEP-2000 | 00-03-0904A | 01
03 | DE | NEW CASTLE COUNTY * | 10003C0140G | 09-NOV-2000 | 00-03-1434A | 02
03 | DE | NEW CASTLE COUNTY * | 10003C0067G | 10-OCT-2000 | 00-03-1604A | 02
03 | DE | NEW CASTLE COUNTY * | 10003C0140G | 07-NOV-2000 | 00-03-1700A | 02
03 | DE | NEW CASTLE COUNTY * | 10003C0059F | 10-OCT-2000 | 00-03-1812A | 02
03 | DE | NEW CASTLE COUNTY * | 10003C0067F | 31-AUG-2000 | 00-03-1890A | 02
03 | DE | NEW CASTLE COUNTY * | 10003C0245G | 12-DEC-2000 | 00-03-2050A | 02
03 | DE | NEW CASTLE COUNTY * | 10003C0086G | 16-NOV-2000 | 01-03-0182A | 02
03 | DE | NEW CASTLE COUNTY * | 10003C0035G | 07-OCT-2000 | 00-03-2090V | 19
03 | DE | NEW CASTLE COUNTY * | 10003C0151G | 28-DEC-2000 | 01-03-0346A | 02
03 | DE | NEW CASTLE COUNTY * | 10003C0160G | 12-DEC-2000 | 01-03-0250A | 02
03 | DE | NEW CASTLE, CITY OF | 10003C0160G | 07-OCT-2000 | 00-03-2096V | 19
03 | DE | ODESSA, TOWN OF | 10003C0310G | 07-OCT-2000 | 00-03-2098V | 19
03 | DE | SUSSEX COUNTY* | 10005C0125F | 05-JUL-2000 | 00-03-1184A | 02
03 | DE | SUSSEX COUNTY* | 10005C0250F | 15-AUG-2000 | 00-03-1212A | 02
03 | DE | SUSSEX COUNTY* | 10005C0100F | 08-AUG-2000 | 00-03-1396A | 02
03 | DE | SUSSEX COUNTY* | 10005C0250F | 10-AUG-2000 | 00-03-1466A | 02
03 | DE | SUSSEX COUNTY* | 10005C0065F | 03-AUG-2000 | 00-03-1780A | 01
03 | DE | SUSSEX COUNTY* | 10005C0125F | 18-JUL-2000 | 00-03-1012A | 02
03 | DE | SUSSEX COUNTY* | 10005C0065F | 14-NOV-2000 | 00-03-1952A | 01
03 | DE | SUSSEX COUNTY* | 10005C0104F | 16-NOV-2000 | 00-03-2056A | 02
03 | DE | SUSSEX COUNTY* | 10005C0100F | 09-NOV-2000 | 01-03-0104A | 02
03 | DE | WILMINGTON, CITY OF | 10003C0065G | 07-OCT-2000 | 00-03-2092V | 19
03 | MD | ANNE ARUNDEL COUNTY * | 2400080011C | 21-AUG-2000 | 98-03-251P | 05
03 | MD | ANNE ARUNDEL COUNTY * | 2400080043C | 28-SEP-2000 | 00-03-1774A | 02
03 | MD | ANNE ARUNDEL COUNTY * | 2400080043C | 17-OCT-2000 | 00-03-1934A | 02
03 | MD | ANNE ARUNDEL COUNTY * | 2400080011C | 14-NOV-2000 | 00-03-2002A | 02
03 | MD | BALTIMORE COUNTY* | 2400100445C | 18-JUL-2000 | 00-03-1174A | 02
03 | MD | BALTIMORE COUNTY* | 2400100410B | 01-AUG-2000 | 00-03-1462A | 17
03 | MD | BALTIMORE COUNTY* | 2400100555B | 22-AUG-2000 | 00-03-1696A | 02
03 | MD | BALTIMORE COUNTY* | 2400100270B | 09-NOV-2000 | 00-03-1858A | 02
03 | MD | BALTIMORE COUNTY* | 2400100360B | 30-NOV-2000 | 00-03-1918A | 02
03 | MD | BALTIMORE COUNTY* | 2400100050B | 19-DEC-2000 | 00-03-1936A | 02
03 | MD | BALTIMORE COUNTY* | 2400100455B | 10-OCT-2000 | 00-03-1944A | 02
03 | MD | BALTIMORE COUNTY* | 2400100290B | 28-NOV-2000 | 01-03-0208A | 02
03 | MD | CECIL COUNTY* | 2400190054A | 11-JUL-2000 | 00-03-1086A | 02
03 | MD | CECIL COUNTY* | 2400190029A | 27-JUL-2000 | 00-03-1610A | 02
03 | MD | CECIL COUNTY* | 2400190054A | 07-SEP-2000 | 00-03-1818A | 02
03 | MD | CECIL COUNTY* | 2400190031B | 05-DEC-2000 | 00-03-1874A | 02
03 | MD | DORCHESTER COUNTY * | 2400260175B | 07-NOV-2000 | 00-03-1772A | 02
03 | MD | DORCHESTER COUNTY * | 2400260200A | 29-SEP-2000 | 00-03-2016A | 02
03 | MD | FREDERICK COUNTY * | 2400270115B | 29-AUG-2000 | 00-03-1626A | 02
03 | MD | FREDERICK COUNTY * | 2400270115B | 22-AUG-2000 | 00-03-1640A | 02
03 | MD | FREDERICK COUNTY * | 2400270115B | 12-SEP-2000 | 00-03-1984X | 02
03 | MD | GREENSBORO, TOWN OF | 2400140001B | 09-NOV-2000 | 00-03-1974A | 01
03 | MD | HAGERSTOWN, CITY OF | 2400700080A | 13-SEP-2000 | 00-03-025P | 05
03 | MD | HARFORD COUNTY * | 24025C0258D | 27-JUL-2000 | 00-03-1282A | 02
03 | MD | HARFORD COUNTY * | 24025C0263D | 03-AUG-2000 | 00-03-1596A | 02
03 | MD | HARFORD COUNTY * | 24025C0259D | 24-OCT-2000 | 00-03-1708A | 02
03 | MD | HARFORD COUNTY * | 24025C0193D | 29-AUG-2000 | 00-03-1822A | 02
03 | MD | HARFORD COUNTY * | 24025C0278D | 21-NOV-2000 | 01-03-0084X | 01
03 | MD | HOWARD COUNTY* | 2400440043B | 30-NOV-2000 | 01-03-0222A | 02
03 | MD | MONTGOMERY COUNTY * | 2400490150B | 14-NOV-2000 | 00-03-1806A | 02
03 | MD | NORTH EAST, TOWN OF | 2400230001A | 25-JUL-2000 | 00-03-1240A | 02
03 | MD | OXFORD TOWNSHIP OF | 2400680001A | 16-NOV-2000 | 01-03-0092A | 02
03 | MD | PRINCE GEORGES COUNTY * | 2452080065D | 01-AUG-2000 | 00-03-1090A | 01
03 | MD | PRINCE GEORGES COUNTY * | 2452080065D | 10-NOV-2000 | 00-03-1912A | 02
03 | MD | PRINCE GEORGES COUNTY * | 2452080040C | 29-OCT-2000 | 00-03-2088A | 02
03 | MD | QUEEN ANNES COUNTY * | 2400540026B | 05-JUL-2000 | 00-03-1170A | 02
03 | MD | QUEEN ANNES COUNTY * | 2400540026B | 08-AUG-2000 | 00-03-1792X | 02
03 | MD | QUEEN ANNES COUNTY * | 2400540059B | 14-DEC-2000 | 01-03-0074A | 01
03 | MD | ST. MARYS COUNTY* | 2400640041D | 21-NOV-2000 | 00-03-2014A | 02
03 | MD | ST. MARYS COUNTY* | 2400640038B | 07-DEC-2000 | 01-03-0068A | 02
03 | MD | TALBOT COUNTY * | 2400660022A | 11-JUL-2000 | 00-03-1278A | 02
03 | MD | TALBOT COUNTY * | 2400660035A | 28-NOV-2000 | 00-03-1756A | 01
03 | MD | TALBOT COUNTY * | 2400660022A | 29-SEP-2000 | 00-03-2032A | 02
03 | MD | TALBOT COUNTY * | 2400660016A | 28-NOV-2000 | 01-03-0132A | 02
03 | MD | TALBOT COUNTY * | 2400660038A | 19-DEC-2000 | 01-03-0150A | 02
03 | MD | WASHINGTON COUNTY * | 2400700095B | 15-NOV-2000 | 00-03-109P | 05
03 | MD | WASHINGTON COUNTY * | 2400700090B | 26-SEP-2000 | 00-03-1654A | 02
03 | MD | WICOMICO COUNTY * | 2400780027C | 08-AUG-2000 | 00-03-1636A | 02
03 | PA | ABINGTON, TOWNSHIP OF | 42091C0294E | 11-JUL-2000 | 00-03-1330A | 02
03 | PA | ALLENTOWN, CITY OF | 4205850005B | 20-JUL-2000 | 00-03-1724A | 02
03 | PA | AMITY, TOWNSHIP OF | 42011C0563E | 07-SEP-2000 | 00-03-1844A | 02
03 | PA | ARENDSTVILLE,BOROUGH OF | 422292 A | 05-SEP-2000 | 00-03-1672A | 02
03 | PA | ATHENS, TOWNSHIP OF | 4209760020B | 07-SEP-2000 | 00-03-1292A | 02
03 | PA | BEECH CREEK, BOROUGH OF | 4203200001B | 29-SEP-2000 | 00-03-1704A | 02
03 | PA | BENSALEM TOWNSHIP OF | 42017C0444F | 07-DEC-2000 | 01-03-0230A | 02
03 | PA | BETHEL PARK, BOROUGH OF | 42003C0466E | 09-NOV-2000 | 00-03-1748A | 02
03 | PA | BETHEL, TOWNSHIP OF | 4224290020B | 14-SEP-2000 | 00-03-1276A | 02
03 | PA | BLOOMING GROVE, TOWNSHIP OF | 42103C0115C | 07-OCT-2000 | 00-03-2104V | 19
03 | PA | BRECKNOCK, TOWNSHIP OF | 4217620005B | 22-AUG-2000 | 00-03-0996A | 02
03 | PA | BRISTOL, TOWNSHIP OF | 42017C0462F | 15-AUG-2000 | 00-03-1588A | 02
03 | PA | BRISTOL, TOWNSHIP OF | 42017C0462F | 07-SEP-2000 | 00-03-1788A | 02
03 | PA | BRISTOL, TOWNSHIP OF | 42017C0462F | 29-AUG-2000 | 00-03-1872A | 02
03 | PA | BRISTOL, TOWNSHIP OF | 42017C0464F | 03-OCT-2000 | 00-03-1898A | 02
03 | PA | BRISTOL, TOWNSHIP OF | 42017C0462F | 12-DEC-2000 | 01-03-0252A | 02
03 | PA | CALLELRY, BOROUGH OF | 4202130001B | 11-JUL-2000 | 00-03-1674A | 02
03 | PA | CASTANEA TOWNSHIP OF | 4203220005C | 08-SEP-2000 | 00-03-041P | 05
03 | PA | CHESTNUTHILL, TOWNSHIP OF | 4218850010B | 19-SEP-2000 | 00-03-1770A | 02
03 | PA | CLEARFIELD, BOROUGH OF | 4203000001B | 12-DEC-2000 | 01-03-0214A | 02
03 | PA | CRANBERRY, TOWNSHIP OF | 4212170010B | 24-AUG-2000 | 00-03-1468A | 17
03 | PA | CUMRU, TOWNSHIP OF | 42011C0511E | 21-NOV-2000 | 01-03-0212A | 17
03 | PA | CURTIN, TOWNSHIP OF | 4214620015B | 12-SEP-2000 | 00-03-1658A | 02
03 | PA | DOYLESTOWN, BOROUGH OF | 42017C0284F | 27-JUL-2000 | 00-03-1446A | 02
03 | PA | DOYLESTOWN, TOWNSHIP OF | 42017C0284F | 24-OCT-2000 | 00-03-1682A | 02
03 | PA | EAST GOSHEN, TOWNSHIP OF | 42029C0357D | 03-OCT-2000 | 00-03-1804A | 02
03 | PA | EAST PIKELAND, TOWNSHIP OF | 42029C0093D | 11-JUL-2000 | 00-03-1008A | 02
03 | PA | ELKLICK, TOWNSHIP OF | 4220480020B | 12-DEC-2000 | 00-03-0924A | 02
03 | PA | FRANKSTOWN, TOWNSHIP OF | 4213870015A | 18-JUL-2000 | 00-03-1698A | 02
03 | PA | GRUGAN, TOWNSHIP OF | 4215399999A | 12-DEC-2000 | 00-03-1344A | 02
03 | PA | HARMONY, BOROUGH OF | 4202170001B | 13-SEP-2000 | 99-03-097P | 05
03 | PA | HILLTOWN, TOWNSHIP OF | 42017C0276F | 05-OCT-2000 | 00-03-1520 | 02
03 | PA | JACKSON, TOWNSHIP OF | 4214200001A | 13-SEP-2000 | 99-03-097P | 05
03 | PA | JACKSON, TOWNSHIP OF | 4218050011B | 29-SEP-2000 | 00-03-1562A | 02
03 | PA | JEFFERSON, BOROUGH OF | 42003C0489E | 07-AUG-2000 | 00-03-119P | 06
03 | PA | KITTANNING, BOROUGH OF | 4200960001B | 28-DEC-2000 | 01-03-0352A | 02
03 | PA | LACKAWAXEN, TOWNSHIP OF | 42103C0030C | 07-OCT-2000 | 00-03-2102V | 19
03 | PA | LANCASTER, CITY OF | 4205560005D | 05-JUL-2000 | 99-03-103P | 05
03 | PA | LAWRENCE, TOWNSHIP OF | 4215280020B | 27-JUL-2000 | 00-03-1480A | 02
03 | PA | LENOX, TOWNSHIP OF | 4220860005A | 03-OCT-2000 | 00-03-1518 | 02
03 | PA | LOCK HAVEN, CITY OF | 4203280001B | 08-SEP-2000 | 00-03-041P | 05
03 | PA | LOWER BURRELL, CITY OF | 42129C0078D | 07-NOV-2000 | 00-03-1954A | 02
03 | PA | LOWER BURRELL, CITY OF | 42129C0078D | 07-NOV-2000 | 00-03-1956A | 02
03 | PA | LOWER MAKEFIELD, TOWNSHIP OF | 42017C0452F | 26-SEP-2000 | 00-03-1258A | 17
03 | PA | LOWER MAKEFIELD, TOWNSHIP OF | 42017C0452F | 16-NOV-2000 | 01-03-0086X | 17
03 | PA | LOWER MERION, TOWNSHIP OF | 42091C0369E | 06-JUL-2000 | 00-03-1042A | 02
03 | PA | LOWER MERION, TOWNSHIP OF | 42091C0388E | 24-OCT-2000 | 00-03-1430A | 02
03 | PA | LOWER MERION, TOWNSHIP OF | 42091C0362E | 19-SEP-2000 | 00-03-1678A | 02
03 | PA | LOWER MERION, TOWNSHIP OF | 42091C0366E | 03-AUG-2000 | 00-03-1742A | 02
03 | PA | LOWER PAXTON, TOWNSHIP OF | 4203840005B | 28-NOV-2000 | 00-03-129P | 05
03 | PA | LOWER PAXTON, TOWNSHIP OF | 4203840005B | 05-DEC-2000 | 00-03-2000A | 02
03 | PA | LOWER SOUTHAMPTON, TOWNSHIP OF | 42017C0437F | 20-JUL-2000 | 00-03-1620A | 02
03 | PA | LOYALSOCK, TOWNSHIP OF | 4210400005C | 16-OCT-2000 | 01-03-0034A | 02
03 | PA | MAIDENCREEK, TOWNSHIP OF | 42011C0378E | 16-NOV-2000 | 00-03-1904A | 02
03 | PA | MAIDENCREEK, TOWNSHIP OF | 42011C0358E | 14-NOV-2000 | 01-03-0192A | 02
03 | PA | MANHEIM, TOWNSHIP OF | 4205560005D | 05-JUL-2000 | 99-03-103P | 05
03 | PA | MATAMORAS, BOROUGH OF | 4207580005A | 11-JUL-2000 | 00-03-1586A | 02
03 | PA | MATAMORAS, BOROUGH OF | 42103C0214C | 07-OCT-2000 | 00-03-2106V | 19
03 | PA | MCCANDLESS, TOWNSHIP OF | 42003C0184F | 14-DEC-2000 | 01-03-0282A | 02
03 | PA | MCSHERRYSTOWN, BOROUGHS OF | 4212450001B | 10-OCT-2000 | 00-03-2052A | 02
03 | PA | MIDDLE PAXTON, TOWNSHIP OF | 4203870020B | 20-JUL-2000 | 00-03-1686X | 02
03 | PA | MONROE, TOWNSHIP OF | 4210200015C | 10-AUG-2000 | 00-03-1210A | 01
03 | PA | MONROEVILLE, BOROUGH OF | 42003C0383E | 22-SEP-2000 | 00-03-111P | 06
03 | PA | MUNCY, BOROUGH OF | 4206490001D | 24-OCT-2000 | 00-03-1762A | 01
03 | PA | NEW BRITAIN, TOWNSHIP OF | 42017C0287F | 17-AUG-2000 | 00-03-1402A | 02
03 | PA | NEW BRITAIN, TOWNSHIP OF | 42017C0286F | 12-DEC-2000 | 00-03-2068A | 02
03 | PA | NEW FREEDOM, BOROUGH OF | 4209320001B | 19-OCT-2000 | 00-03-1996A | 02
03 | PA | NORTH ANNVILLE, TOWNSHIP OF | 4209700005B | 03-AUG-2000 | 00-03-0906A | 02
03 | PA | NORTH LONDONDERRY, TOWNSHIP OF | 4205770005B | 28-SEP-2000 | 00-03-2028A | 02
03 | PA | NORTH LONDONDERRY, TOWNSHIP OF | 4205770005B | 14-NOV-2000 | 01-03-0170A | 02
03 | PA | PENN HILLS, TOWNSHIP OF | 42003C0383E | 22-SEP-2000 | 00-03-111P | 06
03 | PA | PERKASIE, BOROUGH OF | 42017C0143F | 10-AUG-2000 | 00-03-1814A | 02
03 | PA | PHILADELPHIA, CITY OF | 4207570183F | 13-SEP-2000 | 00-03-0714A | 02
03 | PA | PHILADELPHIA, CITY OF | 4207570183F | 10-AUG-2000 | 00-03-1710A | 02
03 | PA | PLAINS, TOWNSHIP OF | 4206210005C | 12-OCT-2000 | 01-03-0032 | 02
03 | PA | PLYMOUTH, TOWNSHIP OF | 42091C0356E | 07-JUL-2000 | 00-03-005P | 05
03 | PA | PORTAGE, TOWNSHIP OF | 4214440005B | 19-OCT-2000 | 00-03-2060A | 02
03 | PA | PRICE, TOWNSHIP OF | 4218940010B | 13-SEP-2000 | 00-03-1830A | 02
03 | PA | QUAKERTOWN, BOROUGH OF | 42017C0128F | 20-JUL-2000 | 00-03-1656A | 02
03 | PA | RADNOR, TOWNSHIP OF | 42045C0014D | 28-AUG-2000 | 00-03-1280A | 02
03 | PA | RADNOR, TOWNSHIP OF | 42045C0008D | 29-AUG-2000 | 00-03-1870A | 02
03 | PA | RADNOR, TOWNSHIP OF | 42045C0008D | 14-DEC-2000 | 01-03-0166A | 02
03 | PA | RIDLEY, TOWNSHIP OF | 42045C0046D | 21-JUL-2000 | 00-03-0880A | 02
03 | PA | ROBESONIA, BOROUGH OF | 42011C0457E | 22-AUG-2000 | 00-03-1566A | 02
03 | PA | ROBESONIA, BOROUGH OF | 42011C0457E | 12-JUL-2000 | 00-03-1508A | 02
03 | PA | ROSS, TOWNSHIP OF | 42003C0187E | 08-AUG-2000 | 00-03-1680A | 02
03 | PA | SALLADASBURG, BOROUGH OF | 4206570001C | 28-DEC-2000 | 00-03-2074A | 02
03 | PA | SHALER, TOWNSHIP OF | 42003C0351F | 19-DEC-2000 | 01-03-0234A | 02
03 | PA | SILVER LAKE, TOWNSHIP OF | 422091 A | 17-OCT-2000 | 00-03-1800A | 02
03 | PA | SOLEBURY, TOWNSHIP OF | 42017C0195F | 19-SEP-2000 | 00-03-1914A | 17
03 | PA | SOLEBURY, TOWNSHIP OF | 42017C0215F | 29-SEP-2000 | 00-03-1916A | 17
03 | PA | SOUTH MIDDLETON, TOWNSHIP OF | 4203710020C | 21-NOV-2000 | 01-03-0078A | 17
03 | PA | SOUTH PARK, TOWNSHIP OF | 42003C0489E | 07-AUG-2000 | 00-03-119P | 06
03 | PA | SOUTH WHITEHALL, TOWNSHIP OF | 4205930001B | 16-NOV-2000 | 01-03-0142A | 02
03 | PA | SOUTH WILLIAMSPORT, BOROUGH OF | 4206580001B | 17-OCT-2000 | 00-03-2020A | 02
03 | PA | SOUTHAMPTON, TOWNSHIP OF | 4215870020B | 31-AUG-2000 | 99-03-1286A | 02
03 | PA | SPRING, TOWNSHIP OF | 42011C0501E | 28-SEP-2000 | 00-03-2058X | 02
03 | PA | SPRINGFIELD, TOWNSHIP OF | 42091C0377E | 07-SEP-2000 | 00-03-1608A | 02
03 | PA | SPRINGHILL, TOWNSHIP OF | 421677 A | 05-DEC-2000 | 00-03-1938A | 02
03 | PA | STROUDSBURG, BOROUGH OF | 4206940001C | 16-NOV-2000 | 01-03-0158A | 01
03 | PA | TINICUM, TOWNSHIP OF | 42017C0180F | 28-NOV-2000 | 00-03-1970A | 02
03 | PA | TRAPPE, BOROUGH OF | 42091C0229E | 28-DEC-2000 | 01-03-0308A | 02
03 | PA | UPPER GWYNEDD, TOWNSHIP OF | 42091C0256F | 17-NOV-2000 | 01-03-0036 | 02
03 | PA | UPPER GWYNEDD, TOWNSHIP OF | 42091C0256F | 17-NOV-2000 | 01-03-0038 | 02
03 | PA | UPPER ST. CLAIR, TOWNSHIP OF | 42003C0462E | 28-DEC-2000 | 01-03-0164A | 01
03 | PA | WALKER, TOWNSHIP OF | 4205230015A | 08-AUG-2000 | 00-03-1348A | 02
03 | PA | WARRINGTON, TOWNSHIP OF | 42017C0382F | 15-AUG-2000 | 00-03-1168A | 02
03 | PA | WEST BURLINGTON, TOWNSHIP OF | 4211220005B | 20-JUL-2000 | 00-03-1250A | 02
03 | PA | WEST CHESTER, BOROUGH OF | 42029C0351D | 03-AUG-2000 | 00-03-1088A | 02
03 | PA | WEST COCALICO, TOWNSHIP OF | 4217870010B | 15-AUG-2000 | 00-03-1666A | 02
03 | PA | WEST CONSHOHOCKEN, BOROUGH OF | 42091C0354F | 28-SEP-2000 | 00-03-2054A | 02
03 | PA | WESTFALL, TOWNSHIP OF | 42103C0179C | 07-OCT-2000 | 00-03-2100V | 19
03 | PA | WESTFIELD, BOROUGH OF | 4220939999A | 10-AUG-2000 | 00-03-1382A | 02
03 | PA | WHITPAIN, TOWNSHIP OF | 42091C0266E | 01-NOV-2000 | 00-03-077P | 05
03 | PA | WIND GAP, BOROUGH OF | 4207340001C | 28-NOV-2000 | 00-03-1702A | 01
03 | VA | ALBEMARLE COUNTY * | 5100060375B | 28-SEP-2000 | 00-03-1998A | 02
03 | VA | ALEXANDRIA, CITY OF | 5155190005D | 28-SEP-2000 | 00-03-1940A | 02
03 | VA | ARLINGTON COUNTY | 5155200010B | 27-JUL-2000 | 00-03-1688A | 02
03 | VA | AUGUSTA COUNTY * | 5100130205B | 11-JUL-2000 | 00-03-1268A | 02
03 | VA | BEDFORD COUNTY * | 5100160100A | 31-AUG-2000 | 00-03-1798A | 02
03 | VA | BEDFORD COUNTY * | 5100160100A | 05-DEC-2000 | 01-03-0232A | 02
03 | VA | BEDFORD COUNTY * | 5100160175A | 05-DEC-2000 | 01-03-0242A | 02
03 | VA | BEDFORD COUNTY * | 5100160100A | 12-DEC-2000 | 01-03-0266A | 02
03 | VA | BLAND COUNTY * | 5100170060B | 05-JUL-2000 | 00-03-1238A | 02
03 | VA | BOONES MILL, TOWN OF | 5100620001B | 25-JUL-2000 | 00-03-1554A | 02
03 | VA | BRUNSWICK COUNTY * | 5102360175B | 06-SEP-2000 | 00-03-091P | 05
03 | VA | CHESAPEAKE, CITY OF | 5100340022C | 19-JUL-2000 | 00-03-1320A | 02
03 | VA | CHESAPEAKE, CITY OF | 5100340022C | 03-AUG-2000 | 00-03-1386A | 02
03 | VA | CHESAPEAKE, CITY OF | 5100340046C | 10-AUG-2000 | 00-03-1474A | 02
03 | VA | CHESAPEAKE, CITY OF | 5100340022C | 24-AUG-2000 | 00-03-1458A | 02
03 | VA | CHESAPEAKE, CITY OF | 5100340024C | 07-SEP-2000 | 00-03-1536A | 01
03 | VA | CHESAPEAKE, CITY OF | 5100340022C | 25-JUL-2000 | 00-03-1622A | 02
03 | VA | CHESAPEAKE, CITY OF | 5100340022C | 17-AUG-2000 | 00-03-1624A | 02
03 | VA | CHESAPEAKE, CITY OF | 5100340035C | 12-SEP-2000 | 00-03-1768A | 02
03 | VA | CHESAPEAKE, CITY OF | 5100340001C | 31-AUG-2000 | 00-03-1834A | 02
03 | VA | CHESAPEAKE, CITY OF | 5100340022C | 28-SEP-2000 | 00-03-1852A | 02
03 | VA | CHESAPEAKE, CITY OF | 5100340022C | 07-NOV-2000 | 01-03-0070A | 02
03 | VA | CHESAPEAKE, CITY OF | 5100340035C | 28-NOV-2000 | 01-03-0190A | 02
03 | VA | CHESAPEAKE, CITY OF | 5100340022C | 28-DEC-2000 | 01-03-0362A | 02
03 | VA | CHESTERFIELD COUNTY * | 5100350089B | 19-SEP-2000 | 00-03-1644A | 02
03 | VA | CHESTERFIELD COUNTY * | 5100350158B | 12-OCT-2000 | 00-03-1824A | 01
03 | VA | CHESTERFIELD COUNTY * | 5100350089B | 02-NOV-2000 | 01-03-0130X | 02
03 | VA | CRAIGSVILLE, TOWN OF | 5100140001C | 26-SEP-2000 | 00-03-1400A | 02
03 | VA | ESSEX COUNTY * | 5100480025B | 12-SEP-2000 | 00-03-1846A | 02
03 | VA | FAIRFAX COUNTY * | 5155250150D | 29-AUG-2000 | 00-03-0776A | 02
03 | VA | FAIRFAX COUNTY * | 5155250125D | 19-OCT-2000 | 00-03-1378A | 01
03 | VA | FAIRFAX COUNTY * | 5155250025D | 06-JUL-2000 | 00-03-1476A | 02
03 | VA | FAIRFAX COUNTY * | 5155250050D | 15-AUG-2000 | 00-03-1450A | 02
03 | VA | FAIRFAX COUNTY * | 5155250125D | 16-NOV-2000 | 00-03-1436A | 01
03 | VA | FAIRFAX COUNTY * | 5155250087D | 01-AUG-2000 | 00-03-1432A | 02
03 | VA | FAIRFAX COUNTY * | 5155250025D | 29-AUG-2000 | 00-03-1546A | 02
03 | VA | FAIRFAX COUNTY * | 5155250050D | 19-OCT-2000 | 00-03-1646A | 02
03 | VA | FAIRFAX COUNTY * | 5155250025D | 19-OCT-2000 | 00-03-1664A | 02
03 | VA | FAIRFAX COUNTY * | 5155250075D | 12-SEP-2000 | 00-03-1692A | 01
03 | VA | FAIRFAX COUNTY * | 5155250150D | 11-JUL-2000 | 00-03-1706A | 02
03 | VA | FAIRFAX COUNTY * | 5155250025D | 08-AUG-2000 | 00-03-1766A | 02
03 | VA | FAIRFAX COUNTY * | 5155250025D | 31-AUG-2000 | 00-03-1860A | 02
03 | VA | FAIRFAX COUNTY * | 5155250025D | 27-SEP-2000 | 00-03-1424A | 02
03 | VA | FAIRFAX COUNTY * | 5155250075D | 07-SEP-2000 | 00-03-1884A | 02
03 | VA | FAIRFAX COUNTY * | 5155250136D | 07-SEP-2000 | 00-03-1910A | 02
03 | VA | FAIRFAX COUNTY * | 5155250075D | 27-SEP-2000 | 00-03-1714A | 02
03 | VA | FAIRFAX COUNTY * | 5155250025D | 12-SEP-2000 | 00-03-1982X | 02
03 | VA | FAIRFAX COUNTY * | 5155250075D | 09-NOV-2000 | 00-03-1992A | 01
03 | VA | FAIRFAX COUNTY * | 5155250087D | 29-SEP-2000 | 00-03-2012A | 02
03 | VA | FAIRFAX COUNTY * | 5155250025D | 20-SEP-2000 | 00-03-1736A | 02
03 | VA | FAIRFAX COUNTY * | 5155250025D | 20-SEP-2000 | 00-03-1836A | 02
03 | VA | FAIRFAX COUNTY * | 5155250100D | 29-SEP-2000 | 00-03-2046A | 02
03 | VA | FAIRFAX COUNTY * | 5155250150D | 07-NOV-2000 | 01-03-0108A | 02
03 | VA | FAIRFAX COUNTY * | 5155250025D | 29-NOV-2000 | 01-03-0198A | 02
03 | VA | FAIRFAX COUNTY * | 5155250050D | 19-DEC-2000 | 01-03-0342A | 02
03 | VA | FARMVILLE, TOWN OF | 5101180005B | 01-SEP-2000 | 00-03-1542A | 02
03 | VA | FAUQUIER COUNTY * | 5100550370B | 17-AUG-2000 | 00-03-021P | 05
03 | VA | FAUQUIER COUNTY * | 5100550400A | 15-AUG-2000 | 00-03-1388A | 02
03 | VA | FAUQUIER COUNTY * | 5100550215A | 28-SEP-2000 | 00-03-1764A | 02
03 | VA | FRANKLIN COUNTY * | 5100610210A | 14-SEP-2000 | 00-03-1570A | 02
03 | VA | FRANKLIN COUNTY * | 5100610100A | 01-AUG-2000 | 00-03-1778A | 02
03 | VA | FRANKLIN COUNTY * | 5100610100A | 19-SEP-2000 | 00-03-1828A | 02
03 | VA | FRANKLIN COUNTY * | 5100610220A | 03-AUG-2000 | 00-03-1538A | 02
03 | VA | FRANKLIN COUNTY * | 5100610250A | 07-SEP-2000 | 00-03-1888A | 02
03 | VA | FRANKLIN COUNTY * | 5100610210A | 31-OCT-2000 | 01-03-0082A | 02
03 | VA | FRONT ROYAL, TOWN OF | 5101670003B | 20-SEP-2000 | 00-03-1948A | 02
03 | VA | GLOUCESTER COUNTY* | 5100710085B | 01-AUG-2000 | 00-03-1486A | 02
03 | VA | GOOCHLAND COUNTY * | 5100720075A | 08-DEC-2000 | 00-03-147P | 05
03 | VA | HANOVER COUNTY * | 5102370150A | 22-AUG-2000 | 00-03-0982A | 02
03 | VA | HANOVER COUNTY * | 5102370310A | 20-OCT-2000 | 00-03-2064A | 02
03 | VA | HENRICO COUNTY * | 5100770025B | 11-JUL-2000 | 99-03-1828A | 02
03 | VA | HENRICO COUNTY * | 5100770025B | 15-AUG-2000 | 00-03-1452A | 02
03 | VA | HENRICO COUNTY * | 5100770050B | 13-SEP-2000 | 00-03-1642A | 02
03 | VA | HENRICO COUNTY * | 5100770025B | 08-DEC-2000 | 00-03-147P | 05
03 | VA | HENRICO COUNTY * | 5100770025B | 12-DEC-2000 | 00-03-2036A | 02
03 | VA | HENRICO COUNTY * | 5100770100B | 28-NOV-2000 | 01-03-0152A | 02
03 | VA | HERNDON, TOWN OF | 5100520001B | 05-SEP-2000 | 00-03-1878A | 02
03 | VA | ISLE OF WIGHT COUNTY * | 5103030070B | 28-SEP-2000 | 00-03-1418A | 18
03 | VA | ISLE OF WIGHT COUNTY * | 5103030055B | 22-AUG-2000 | 00-03-1802A | 02
03 | VA | LOUDOUN COUNTY * | 5100900105C | 18-JUL-2000 | 00-03-1230A | 02
03 | VA | LOUDOUN COUNTY * | 5100900115C | 07-JUL-2000 | 00-03-113P | 06
03 | VA | LOUDOUN COUNTY * | 5100900020C | 24-AUG-2000 | 00-03-117P | 05
03 | VA | LOUDOUN COUNTY * | 5100900110C | 14-SEP-2000 | 00-03-1988A | 02
03 | VA | LOUDOUN COUNTY * | 5100900085C | 14-NOV-2000 | 01-03-0090A | 02
03 | VA | LOUDOUN COUNTY * | 5100900110C | 14-NOV-2000 | 01-03-0144A | 02
03 | VA | LOUDOUN COUNTY * | 5100900085C | 14-DEC-2000 | 01-03-0286A | 02
03 | VA | LOUISA COUNTY * | 51109C0400B | 21-NOV-2000 | 00-03-1826A | 02
03 | VA | MATHEWS COUNTY* | 5100960009B | 16-NOV-2000 | 01-03-0112A | 02
03 | VA | MATHEWS COUNTY* | 5100960012C | 14-DEC-2000 | 01-03-0306A | 02
03 | VA | NEWPORT NEWS, CITY OF | 5101030010C | 27-JUL-2000 | 00-03-1408A | 02
03 | VA | NEWPORT NEWS, CITY OF | 5101030010C | 17-AUG-2000 | 00-03-1816A | 02
03 | VA | NORFOLK, CITY OF | 5101040009C | 20-JUL-2000 | 00-03-1614A | 02
03 | VA | PORTSMOUTH, CITY OF | 5155290055B | 14-SEP-2000 | 00-03-1902A | 02
03 | VA | PORTSMOUTH, CITY OF | 5155290060B | 09-NOV-2000 | 01-03-0098A | 02
03 | VA | PORTSMOUTH, CITY OF | 5155290025B | 05-DEC-2000 | 01-03-0236A | 01
03 | VA | PORTSMOUTH, CITY OF | 5155290055B | 12-DEC-2000 | 01-03-0254A | 02
03 | VA | PRINCE WILLIAM COUNTY * | 51153C0306D | 13-JUL-2000 | 00-03-015P | 05
03 | VA | PRINCE WILLIAM COUNTY * | 51153C0068D | 11-JUL-2000 | 00-03-0622A | 02
03 | VA | PRINCE WILLIAM COUNTY * | 51153C0017D | 25-JUL-2000 | 00-03-0650A | 02
03 | VA | PRINCE WILLIAM COUNTY * | 51153C0275D | 29-AUG-2000 | 00-03-0812A | 02
03 | VA | PRINCE WILLIAM COUNTY * | 51153C0170D | 21-SEP-2000 | 00-03-0800A | 02
03 | VA | PRINCE WILLIAM COUNTY * | 51153C0157D | 29-SEP-2000 | 00-03-0796A | 02
03 | VA | PRINCE WILLIAM COUNTY * | 51153C0111D | 05-JUL-2000 | 00-03-1046A | 01
03 | VA | PRINCE WILLIAM COUNTY * | 51153C0165D | 03-AUG-2000 | 00-03-1104A | 02
03 | VA | PRINCE WILLIAM COUNTY * | 51153C0165D | 03-AUG-2000 | 00-03-1102A | 02
03 | VA | PRINCE WILLIAM COUNTY * | 51153C0055D | 16-NOV-2000 | 00-03-1100A | 02
03 | VA | PRINCE WILLIAM COUNTY * | 51153C0194D | 07-NOV-2000 | 00-03-1448A | 02
03 | VA | PRINCE WILLIAM COUNTY * | 51153C0112D | 29-AUG-2000 | 00-03-1786A | 17
03 | VA | PRINCE WILLIAM COUNTY * | 51153C0111D | 09-NOV-2000 | 00-03-2006A | 01
03 | VA | PRINCE WILLIAM COUNTY * | 51153C0089D | 07-DEC-2000 | 00-03-2040A | 02
03 | VA | PRINCE WILLIAM COUNTY * | 51153C0089D | 05-DEC-2000 | 01-03-0116A | 02
03 | VA | PRINCE WILLIAM COUNTY * | 51153C0089D | 05-DEC-2000 | 01-03-0156A | 02
03 | VA | PRINCE WILLIAM COUNTY * | 51153C0089D | 05-DEC-2000 | 01-03-0154A | 02
03 | VA | PRINCE WILLIAM COUNTY * | 51153C0092D | 21-NOV-2000 | 01-03-0184A | 17
03 | VA | PULASKI COUNTY * | 5101250100B | 25-JUL-2000 | 00-03-0874A | 01
03 | VA | ROANOKE COUNTY * | 51161C0022D | 01-AUG-2000 | 00-03-1630A | 02
03 | VA | ROANOKE, CITY OF | 51161C0022D | 15-AUG-2000 | 00-03-1552A | 02
03 | VA | ROANOKE, CITY OF | 51161C0042D | 09-NOV-2000 | 01-03-0118A | 02
03 | VA | ROCKBRIDGE COUNTY * | 51163C0290C | 05-SEP-2000 | 00-03-1866A | 02
03 | VA | ROCKBRIDGE COUNTY * | 51163C0250C | 09-NOV-2000 | 00-03-1968A | 02
03 | VA | ROCKINGHAM COUNTY* | 5101330051B | 03-AUG-2000 | 00-03-0990A | 02
03 | VA | ROCKINGHAM COUNTY* | 5101330045B | 14-DEC-2000 | 01-03-0330A | 02
03 | VA | SHENANDOAH COUNTY * | 5101470125B | 07-SEP-2000 | 00-03-1810A | 02
03 | VA | SHENANDOAH COUNTY * | 5101470175B | 28-NOV-2000 | 01-03-0204A | 02
03 | VA | SPOTSYLVANIA COUNTY* | 5103080075C | 19-DEC-2000 | 01-03-0240A | 02
03 | VA | STAFFORD COUNTY * | 5101540135D | 12-SEP-2000 | 00-03-1712A | 02
03 | VA | STAFFORD COUNTY * | 5101540135D | 16-NOV-2000 | 00-03-2030A | 02
03 | VA | VIRGINIA BEACH, CITY OF | 5155310026E | 29-AUG-2000 | 00-03-1728A | 02
03 | VA | VIRGINIA BEACH, CITY OF | 5155310005E | 10-AUG-2000 | 00-03-1752X | 01
03 | VA | WASHINGTON COUNTY* | 5101680150B | 14-DEC-2000 | 01-03-0334A | 02
03 | VA | WEBER CITY, TOWN OF | 5101460001B | 11-JUL-2000 | 00-03-1494A | 01
03 | VA | WINCHESTER, CITY OF | 5101730005B | 05-DEC-2000 | 99-03-159P | 05
03 | VA | YORK COUNTY * | 5101820043B | 25-JUL-2000 | 00-03-1500A | 02
03 | WV | BERKELEY COUNTY * | 5402820078C | 17-OCT-2000 | 00-03-1442A | 02
03 | WV | BOONE COUNTY * | 54005C0070C | 20-JUL-2000 | 00-03-1564A | 02
03 | WV | BRIDGEPORT, CITY OF | 5400550002C | 14-NOV-2000 | 00-03-1206A | 01
03 | WV | CABELL COUNTY* | 5400160049A | 28-NOV-2000 | 00-03-0900A | 02
03 | WV | CABELL COUNTY* | 5400160065A | 01-AUG-2000 | 00-03-1560A | 02
03 | WV | CABELL COUNTY* | 5400160057A | 28-DEC-2000 | 01-03-0246A | 02
03 | WV | CHARLESTON, CITY OF | 5400730003C | 18-JUL-2000 | 00-03-1730A | 02
03 | WV | DUNBAR, CITY OF | 5400760001C | 11-JUL-2000 | 00-03-1606A | 02
03 | WV | DUNBAR, CITY OF | 5400760001C | 29-SEP-2000 | 00-03-2066A | 02
03 | WV | DUNBAR, CITY OF | 5400760001C | 05-DEC-2000 | 01-03-0120A | 02
03 | WV | ELKINS, CITY OF | 5401770001B | 15-AUG-2000 | 00-03-1722A | 02
03 | WV | ELKINS, CITY OF | 5401770001B | 19-SEP-2000 | 00-03-1862A | 02
03 | WV | FAYETTE COUNTY* | 5400260054B | 21-DEC-2000 | 01-03-0172A | 02
03 | WV | GRANT COUNTY* | 5400380133C | 05-DEC-2000 | 00-03-1966A | 01
03 | WV | HUNTINGTON, CITY OF | 5400180004C | 27-JUL-2000 | 00-03-1062A | 02
03 | WV | HUNTINGTON, CITY OF | 5400180006C | 25-JUL-2000 | 00-03-1322A | 02
03 | WV | KANAWHA COUNTY * | 5400700044C | 28-SEP-2000 | 00-03-1864A | 02
03 | WV | KANAWHA COUNTY * | 5400700172C | 28-SEP-2000 | 00-03-2034A | 02
03 | WV | LEWIS COUNTY* | 5400850079C | 20-JUL-2000 | 00-03-1290A | 02
03 | WV | LEWIS COUNTY* | 5400850079C | 18-JUL-2000 | 00-03-1444A | 01
03 | WV | LOGAN COUNTY * | 5455360037B | 18-JUL-2000 | 00-03-0892A | 02
03 | WV | LOGAN COUNTY * | 5455360099B | 17-OCT-2000 | 00-03-1580A | 02
03 | WV | MARION COUNTY* | 5400970020B | 26-SEP-2000 | 00-03-1178A | 02
03 | WV | MORGAN COUNTY* | 54065C0013C | 11-JUL-2000 | 00-03-1684A | 02
03 | WV | PENNSBORO, CITY OF | 5401820005B | 07-DEC-2000 | 99-03-1426A | 02
03 | WV | PRINCETON, CITY OF | 5401280002C | 18-JUL-2000 | 00-03-1498A | 01
03 | WV | PRINCETON, CITY OF | 5401280002C | 15-AUG-2000 | 00-03-1532A | 01
03 | WV | RANSON, CITY OF | 5400680001D | 29-AUG-2000 | 00-03-1776A | 02
03 | WV | UPSHUR COUNTY* | 5401980002B | 17-AUG-2000 | 00-03-1618A | 01
03 | WV | VIENNA, CITY OF | 5402150001B | 15-AUG-2000 | 00-03-1236A | 02
03 | WV | WAYNE COUNTY* | 5402000136B | 14-NOV-2000 | 00-03-1924A | 02
03 | WV | WAYNE COUNTY* | 5402000101B | 28-DEC-2000 | 01-03-0284A | 02
03 | WV | WIRT COUNTY* | 5402110002B | 29-AUG-2000 | 00-03-1590A | 02
03 | WV | WIRT COUNTY* | 5402110002B | 19-SEP-2000 | 00-03-1990X | 02
04 | AL | AUBURN, CITY OF | 0101440100E | 29-AUG-2000 | 00-04-2262A | 02
04 | AL | BALDWIN COUNTY* | 0150000545G | 19-SEP-2000 | 00-04-5388A | 02
04 | AL | BIRMINGHAM, CITY OF | 01073C0193E | 05-SEP-2000 | 00-04-3730A | 02
04 | AL | BIRMINGHAM, CITY OF | 01073C0338E | 29-AUG-2000 | 00-04-3990A | 02
04 | AL | BIRMINGHAM, CITY OF | 01073C0339E | 22-AUG-2000 | 00-04-4322A | 02
04 | AL | BIRMINGHAM, CITY OF | 01073C0334E | 21-NOV-2000 | 00-04-5854A | 02
04 | AL | BLOUNT COUNTY* | 0102300110C | 17-AUG-2000 | 00-04-4676A | 02
04 | AL | CHEROKEE COUNTY* | 0102340125B | 18-JUL-2000 | 00-04-3578A | 02
04 | AL | CHEROKEE COUNTY* | 0102340125B | 31-AUG-2000 | 00-04-4140A | 02
04 | AL | CHICKASAW, CITY OF | 01097C0439J | 31-AUG-2000 | 00-04-4860A | 02
04 | AL | COLBERT COUNTY | 0103180125B | 05-SEP-2000 | 00-04-4040A | 02
04 | AL | COLBERT COUNTY | 0103180075B | 28-DEC-2000 | 00-04-6014A | 02
04 | AL | COLBERT COUNTY | 0103180150B | 07-DEC-2000 | 01-04-0410A | 02
04 | AL | CULLMAN COUNTY * | 0102470120B | 15-SEP-2000 | 00-04-3782A | 02
04 | AL | DALLAS COUNTY* | 0100630070B | 08-AUG-2000 | 00-04-3962A | 02
04 | AL | DECATUR, CITY OF | 01103C0060D | 27-NOV-2000 | 99-04-233P | 05
04 | AL | DECATUR, CITY OF | 01103C0060D | 27-NOV-2000 | 00-04-103P | 05
04 | AL | DECATUR, CITY OF | 01103C0060D | 18-JUL-2000 | 00-04-3534A | 02
04 | AL | DECATUR, CITY OF | 01103C0070D | 20-JUL-2000 | 00-04-2794A | 02
04 | AL | DECATUR, CITY OF | 01103C0080D | 28-SEP-2000 | 00-04-4274A | 02
04 | AL | DECATUR, CITY OF | 01103C0095D | 26-SEP-2000 | 00-04-4404A | 02
04 | AL | DECATUR, CITY OF | 01103C0080D | 29-AUG-2000 | 00-04-4730A | 02
04 | AL | DECATUR, CITY OF | 01103C0070D | 31-AUG-2000 | 00-04-4756X | 01
04 | AL | DECATUR, CITY OF | 01103C0060D | 14-SEP-2000 | 00-04-4822A | 02
04 | AL | DECATUR, CITY OF | 01103C0070D | 10-OCT-2000 | 00-04-6050A | 02
04 | AL | DOTHAN, CITY OF | 0101040021D | 19-SEP-2000 | 00-04-3214A | 02
04 | AL | ELMORE COUNTY* | 0104060125B | 22-AUG-2000 | 99-04-325P | 05
04 | AL | ELMORE COUNTY* | 0104060100B | 21-DEC-2000 | 00-04-5332A | 02
04 | AL | ELMORE COUNTY* | 0104060100B | 19-DEC-2000 | 00-04-5922A | 02
04 | AL | HOMEWOOD, CITY OF | 01073C0479E | 05-SEP-2000 | 00-04-4758A | 02
04 | AL | HOOVER, CITY OF | 01073C0493E | 12-SEP-2000 | 00-04-3868A | 01
04 | AL | HUNTSVILLE, CITY OF | 01089C0329D | 11-JUL-2000 | 00-04-2852A | 01
04 | AL | HUNTSVILLE, CITY OF | 01089C0362D | 27-JUL-2000 | 00-04-3796A | 01
04 | AL | HUNTSVILLE, CITY OF | 01089C0343D | 12-SEP-2000 | 00-04-4414A | 02
04 | AL | HUNTSVILLE, CITY OF | 01089C0343D | 07-DEC-2000 | 00-04-5980A | 02
04 | AL | HUNTSVILLE, CITY OF | 01089C0340D | 19-DEC-2000 | 01-04-0962A | 02
04 | AL | JEFFERSON COUNTY * | 01073C0250E | 26-OCT-2000 | 00-04-2962A | 02
04 | AL | JEFFERSON COUNTY * | 01073C0183F | 01-AUG-2000 | 00-04-4278A | 02
04 | AL | JEFFERSON COUNTY * | 01073C0183F | 08-AUG-2000 | 00-04-4478A | 02
04 | AL | JEFFERSON COUNTY * | 01073C0494E | 24-AUG-2000 | 00-04-4828A | 01
04 | AL | JEFFERSON COUNTY * | 01073C0339E | 07-DEC-2000 | 01-04-0398A | 02
04 | AL | LANETT, CITY OF | 0100290010B | 05-OCT-2000 | 00-04-4540A | 02
04 | AL | LANETT, CITY OF | 0100290010B | 19-SEP-2000 | 00-04-4714A | 02
04 | AL | LANETT, CITY OF | 0100290010B | 26-OCT-2000 | 00-04-4798A | 02
04 | AL | LEE COUNTY * | 0102500125C | 21-NOV-2000 | 00-04-4868A | 02
04 | AL | LEE COUNTY * | 0102500125C | 21-NOV-2000 | 01-04-0290A | 02
04 | AL | LEEDS, CITY OF | 01073C0367E | 25-JUL-2000 | 00-04-4232A | 02
04 | AL | MADISON COUNTY * | 01089C0166D | 18-JUL-2000 | 00-04-3110A | 01
04 | AL | MADISON COUNTY * | 01089C0211D | 12-SEP-2000 | 00-04-5196A | 02
04 | AL | MADISON COUNTY * | 01089C0166D | 29-AUG-2000 | 00-04-4176A | 01
04 | AL | MADISON, CITY OF | 01089C0285D | 26-OCT-2000 | 00-04-4588A | 01
04 | AL | MARSHALL COUNTY * | 0102750125B | 19-SEP-2000 | 00-04-4492A | 02
04 | AL | MARSHALL COUNTY * | 0102750200B | 17-OCT-2000 | 00-04-4600A | 02
04 | AL | MOBILE, CITY OF | 01097C0529J | 24-AUG-2000 | 00-04-4434A | 02
04 | AL | MONTGOMERY COUNTY * | 01101C0060F | 31-AUG-2000 | 00-04-4242A | 01
04 | AL | MONTGOMERY, CITY OF | 01101C0060F | 01-AUG-2000 | 00-04-3166A | 02
04 | AL | MONTGOMERY, CITY OF | 01101C0070F | 31-AUG-2000 | 00-04-3966A | 02
04 | AL | MONTGOMERY, CITY OF | 01101C0065F | 25-JUL-2000 | 00-04-4136A | 02
04 | AL | MONTGOMERY, CITY OF | 01101C0065F | 26-SEP-2000 | 00-04-5034A | 02
04 | AL | MONTGOMERY, CITY OF | 01101C0065F | 19-OCT-2000 | 00-04-6024A | 02
04 | AL | MOULTON, CITY OF | 0101420002B | 22-SEP-2000 | 00-04-4402A | 01
04 | AL | NORTHPORT, CITY OF | 01125C0336E | 28-DEC-2000 | 01-04-0324A | 02
04 | AL | PELHAM, TOWN OF | 0101930004B | 24-OCT-2000 | 00-04-5560A | 01
04 | AL | SARALAND, CITY OF | 01097C0428J | 12-DEC-2000 | 01-04-0128A | 02
04 | AL | SATSUMA, CITY OF | 01097C0432J | 05-SEP-2000 | 00-04-4610A | 02
04 | AL | SHELBY COUNTY* | 0101910025B | 26-OCT-2000 | 00-04-4564A | 02
04 | AL | SHELBY COUNTY* | 0101910150B | 19-OCT-2000 | 00-04-5802A | 02
04 | AL | SHELBY COUNTY* | 0101910045B | 21-NOV-2000 | 00-04-5964A | 02
04 | AL | SHELBY COUNTY* | 0101910150B | 19-DEC-2000 | 01-04-0396A | 02
04 | AL | SHELBY COUNTY* | 0101910195B | 21-DEC-2000 | 01-04-0978A | 02
04 | AL | SHELBY COUNTY* | 0101910145B | 19-DEC-2000 | 01-04-1026A | 02
04 | AL | ST. CLAIR COUNTY * | 0102900200B | 18-JUL-2000 | 00-04-2888A | 02
04 | AL | ST. CLAIR COUNTY * | 0102900180B | 21-SEP-2000 | 00-04-4042A | 02
04 | AL | ST. CLAIR COUNTY * | 0102900225B | 16-NOV-2000 | 00-04-5314A | 02
04 | AL | TALLADEGA COUNTY * | 0102970275B | 29-AUG-2000 | 00-04-3074A | 02
04 | AL | TALLADEGA COUNTY * | 0102970050B | 05-SEP-2000 | 00-04-3632A | 02
04 | AL | TALLADEGA COUNTY * | 0102970050B | 04-AUG-2000 | 00-04-4544A | 02
04 | AL | TALLADEGA COUNTY * | 0102970050B | 17-OCT-2000 | 00-04-5190A | 02
04 | AL | TALLADEGA COUNTY * | 0102970225B | 07-DEC-2000 | 00-04-5636A | 02
04 | AL | TALLAPOOSA COUNTY* | 0103260075B | 09-NOV-2000 | 00-04-4328A | 02
04 | AL | TUSCUMBIA, CITY OF | 0100490002B | 28-SEP-2000 | 00-04-3846A | 02
04 | AL | VESTAVIA HILLS, CITY OF | 01073C0491E | 19-SEP-2000 | 00-04-5426A | 02
04 | AL | VESTAVIA HILLS, CITY OF | 01073C0491E | 29-SEP-2000 | 00-04-5232A | 02
04 | AL | VESTAVIA HILLS, CITY OF | 01073C0491E | 07-NOV-2000 | 01-04-0116X | 02
04 | AL | WETUMPKA, CITY OF | 0100700005B | 22-AUG-2000 | 99-04-325P | 05
04 | FL | ALACHUA COUNTY* | 1200010275A | 10-AUG-2000 | 00-04-3158A | 02
04 | FL | ALACHUA COUNTY* | 1200010259A | 26-SEP-2000 | 00-04-5648A | 02
04 | FL | ALACHUA COUNTY* | 1200010350B | 21-SEP-2000 | 00-04-5672A | 02
04 | FL | ALACHUA COUNTY* | 1200010190B | 26-SEP-2000 | 00-04-5768A | 02
04 | FL | ALACHUA, CITY OF | 1206640025A | 15-AUG-2000 | 00-04-3668A | 02
04 | FL | ALTAMONTE SPRINGS, CITY OF | 12117C0140E | 08-AUG-2000 | 00-04-3958A | 02
04 | FL | BARTOW, CITY OF | 12105C0495F | 21-DEC-2000 | 01-04-0670V | 19
04 | FL | BAY COUNTY* | 1200040351D | 12-DEC-2000 | 00-04-5402A | 02
04 | FL | BOCA RATON, CITY OF | 1201950005C | 21-DEC-2000 | 01-04-0496A | 01
04 | FL | BOYNTON BEACH, CITY OF | 1201960004C | 26-JUL-2000 | 00-04-3926A | 02
04 | FL | BREVARD COUNTY * | 12009C0435E | 08-AUG-2000 | 00-04-1924A | 01
04 | FL | BREVARD COUNTY * | 12009C0441F | 18-JUL-2000 | 00-04-2866A | 01
04 | FL | BREVARD COUNTY * | 12009C0435E | 08-AUG-2000 | 00-04-3272A | 01
04 | FL | BREVARD COUNTY * | 12009C0365E | 11-JUL-2000 | 00-04-3486A | 01
04 | FL | BREVARD COUNTY * | 12009C0430E | 12-SEP-2000 | 00-04-3712A | 01
04 | FL | BREVARD COUNTY * | 12009C0435E | 25-JUL-2000 | 00-04-3908A | 02
04 | FL | BREVARD COUNTY * | 12009C0435E | 03-OCT-2000 | 00-04-3934A | 01
04 | FL | BREVARD COUNTY * | 12009C0439E | 14-JUL-2000 | 00-04-3954A | 02
04 | FL | BREVARD COUNTY * | 12009C0190F | 31-AUG-2000 | 00-04-3972A | 02
04 | FL | BREVARD COUNTY * | 12009C0440E | 22-AUG-2000 | 00-04-4198A | 01
04 | FL | BREVARD COUNTY * | 12009C0504E | 29-AUG-2000 | 00-04-4266A | 02
04 | FL | BREVARD COUNTY * | 12009C0295E | 17-AUG-2000 | 00-04-4290A | 02
04 | FL | BREVARD COUNTY * | 12009C0440E | 27-JUL-2000 | 00-04-4334X | 01
04 | FL | BREVARD COUNTY * | 12009C0365E | 19-SEP-2000 | 00-04-4866A | 02
04 | FL | BREVARD COUNTY * | 12009C0441F | 14-SEP-2000 | 00-04-4940A | 01
04 | FL | BREVARD COUNTY * | 12009C0435E | 05-SEP-2000 | 00-04-4978A | 02
04 | FL | BREVARD COUNTY * | 12009C0295E | 05-SEP-2000 | 00-04-5014A | 02
04 | FL | BREVARD COUNTY * | 12009C0115E | 19-SEP-2000 | 00-04-5226A | 02
04 | FL | BREVARD COUNTY * | 12009C0541F | 14-SEP-2000 | 00-04-5344A | 02
04 | FL | BREVARD COUNTY * | 12009C0365E | 29-SEP-2000 | 00-04-5358X | 01
04 | FL | BREVARD COUNTY * | 12009C0355E | 10-OCT-2000 | 00-04-5368A | 01
04 | FL | BREVARD COUNTY * | 12009C0360E | 14-SEP-2000 | 00-04-5600A | 02
04 | FL | BREVARD COUNTY * | 12009C0190F | 14-SEP-2000 | 00-04-5604A | 02
04 | FL | BREVARD COUNTY * | 12009C0295E | 12-OCT-2000 | 00-04-5662A | 01
04 | FL | BREVARD COUNTY * | 12009C0430E | 21-SEP-2000 | 00-04-5776A | 02
04 | FL | BREVARD COUNTY * | 12009C0435E | 12-OCT-2000 | 00-04-5800A | 01
04 | FL | BREVARD COUNTY * | 12009C0435E | 24-OCT-2000 | 00-04-5852A | 01
04 | FL | BREVARD COUNTY * | 12009C0260E | 17-OCT-2000 | 00-04-5902A | 02
04 | FL | BREVARD COUNTY * | 12009C0504E | 24-OCT-2000 | 00-04-5926A | 02
04 | FL | BREVARD COUNTY * | 12009C0430E | 19-OCT-2000 | 00-04-6026A | 02
04 | FL | BREVARD COUNTY * | 12009C0435E | 07-NOV-2000 | 01-04-0226X | 01
04 | FL | BREVARD COUNTY * | 12009C0435E | 31-OCT-2000 | 01-04-0210A | 02
04 | FL | BREVARD COUNTY * | 12009C0435E | 21-NOV-2000 | 01-04-0202A | 01
04 | FL | BREVARD COUNTY * | 12009C0430E | 28-DEC-2000 | 01-04-0198A | 01
04 | FL | BREVARD COUNTY * | 12009C0430E | 28-DEC-2000 | 01-04-0354A | 01
04 | FL | BREVARD COUNTY * | 12009C0100E | 16-NOV-2000 | 01-04-0372A | 02
04 | FL | BREVARD COUNTY * | 12009C0435E | 07-NOV-2000 | 01-04-0422A | 02
04 | FL | BROWARD COUNTY* | 12011C0195F | 18-JUL-2000 | 00-04-2014A | 02
04 | FL | BROWARD COUNTY* | 12011C0285F | 14-SEP-2000 | 00-04-3792A | 02
04 | FL | BROWARD COUNTY* | 12011C0120F | 03-AUG-2000 | 00-04-4126A | 02
04 | FL | BROWARD COUNTY* | 12011C0190F | 01-AUG-2000 | 00-04-4010A | 01
04 | FL | BROWARD COUNTY* | 12011C0190F | 12-OCT-2000 | 00-04-5052A | 01
04 | FL | BROWARD COUNTY* | 12011C0190F | 05-SEP-2000 | 00-04-4718A | 01
04 | FL | BROWARD COUNTY* | 12011C0304F | 12-DEC-2000 | 01-04-0260A | 01
04 | FL | CAPE CORAL, CITY OF | 1250950020C | 11-JUL-2000 | 00-04-3264A | 01
04 | FL | CAPE CORAL, CITY OF | 1250950030C | 06-JUL-2000 | 00-04-3266A | 01
04 | FL | CAPE CORAL, CITY OF | 1250950040C | 01-AUG-2000 | 00-04-3278A | 01
04 | FL | CAPE CORAL, CITY OF | 1250950035C | 18-JUL-2000 | 00-04-3496A | 01
04 | FL | CAPE CORAL, CITY OF | 1250950030C | 11-JUL-2000 | 00-04-3498A | 01
04 | FL | CAPE CORAL, CITY OF | 1250950035C | 11-JUL-2000 | 00-04-3526A | 01
04 | FL | CAPE CORAL, CITY OF | 1250950005C | 01-AUG-2000 | 00-04-3740A | 01
04 | FL | CAPE CORAL, CITY OF | 1250950020C | 18-JUL-2000 | 00-04-3742A | 01
04 | FL | CAPE CORAL, CITY OF | 1250950030C | 27-JUL-2000 | 00-04-3816A | 01
04 | FL | CAPE CORAL, CITY OF | 1250950030C | 27-JUL-2000 | 00-04-3820A | 01
04 | FL | CAPE CORAL, CITY OF | 1250950035C | 01-AUG-2000 | 00-04-4002A | 01
04 | FL | CAPE CORAL, CITY OF | 1250950040C | 01-AUG-2000 | 00-04-4006A | 01
04 | FL | CAPE CORAL, CITY OF | 1250950030C | 01-AUG-2000 | 00-04-4016A | 01
04 | FL | CAPE CORAL, CITY OF | 1250950035C | 01-AUG-2000 | 00-04-4018A | 01
04 | FL | CAPE CORAL, CITY OF | 1250950020C | 01-AUG-2000 | 00-04-4026A | 01
04 | FL | CAPE CORAL, CITY OF | 1250950040C | 01-AUG-2000 | 00-04-4028A | 01
04 | FL | CAPE CORAL, CITY OF | 1250950030C | 08-AUG-2000 | 00-04-4078A | 01
04 | FL | CAPE CORAL, CITY OF | 1250950040C | 08-AUG-2000 | 00-04-4142A | 01
04 | FL | CAPE CORAL, CITY OF | 1250950035C | 08-AUG-2000 | 00-04-4164A | 01
04 | FL | CAPE CORAL, CITY OF | 1250950030C | 08-AUG-2000 | 00-04-4166A | 01
04 | FL | CAPE CORAL, CITY OF | 1250950035C | 08-AUG-2000 | 00-04-4168A | 01
04 | FL | CAPE CORAL, CITY OF | 1250950035C | 08-AUG-2000 | 00-04-4188A | 01
04 | FL | CAPE CORAL, CITY OF | 1250950030C | 24-AUG-2000 | 00-04-4204A | 01
04 | FL | CAPE CORAL, CITY OF | 1250950005C | 24-AUG-2000 | 00-04-4246A | 01
04 | FL | CAPE CORAL, CITY OF | 1250950035C | 12-SEP-2000 | 00-04-4248A | 01
04 | FL | CAPE CORAL, CITY OF | 1250950030C | 31-AUG-2000 | 00-04-4256A | 01
04 | FL | CAPE CORAL, CITY OF | 1250950035C | 24-AUG-2000 | 00-04-4260A | 01
04 | FL | CAPE CORAL, CITY OF | 1250950030C | 24-AUG-2000 | 00-04-4262A | 01
04 | FL | CAPE CORAL, CITY OF | 1250950030C | 05-SEP-2000 | 00-04-4264A | 01
04 | FL | CAPE CORAL, CITY OF | 1250950035C | 27-JUL-2000 | 00-04-4648A | 01
04 | FL | CAPE CORAL, CITY OF | 1250950035C | 05-SEP-2000 | 00-04-4592A | 01
04 | FL | CAPE CORAL, CITY OF | 1250950035C | 05-SEP-2000 | 00-04-4594A | 01
04 | FL | CAPE CORAL, CITY OF | 1250950030C | 05-SEP-2000 | 00-04-4722A | 01
04 | FL | CAPE CORAL, CITY OF | 1250950030C | 05-SEP-2000 | 00-04-4724A | 01
04 | FL | CAPE CORAL, CITY OF | 1250950035C | 26-SEP-2000 | 00-04-4782A | 01
04 | FL | CAPE CORAL, CITY OF | 1250950040C | 05-SEP-2000 | 00-04-4842A | 01
04 | FL | CAPE CORAL, CITY OF | 1250950030C | 05-SEP-2000 | 00-04-4844A | 01
04 | FL | CAPE CORAL, CITY OF | 1250950030C | 26-SEP-2000 | 00-04-4922A | 01
04 | FL | CAPE CORAL, CITY OF | 1250950030C | 28-SEP-2000 | 00-04-5048A | 01
04 | FL | CAPE CORAL, CITY OF | 1250950040C | 26-SEP-2000 | 00-04-5058A | 01
04 | FL | CAPE CORAL, CITY OF | 1250950030C | 26-SEP-2000 | 00-04-5060A | 01
04 | FL | CAPE CORAL, CITY OF | 1250950030C | 26-SEP-2000 | 00-04-5110A | 01
04 | FL | CAPE CORAL, CITY OF | 1250950020C | 26-SEP-2000 | 00-04-5112A | 01
04 | FL | CAPE CORAL, CITY OF | 1250950040C | 26-SEP-2000 | 00-04-5240A | 01
04 | FL | CAPE CORAL, CITY OF | 1250950040C | 26-SEP-2000 | 00-04-5242A | 01
04 | FL | CAPE CORAL, CITY OF | 1250950030C | 26-SEP-2000 | 00-04-5258A | 01
04 | FL | CAPE CORAL, CITY OF | 1250950040C | 26-SEP-2000 | 00-04-5260A | 01
04 | FL | CAPE CORAL, CITY OF | 1250950030C | 12-OCT-2000 | 00-04-5432A | 01
04 | FL | CAPE CORAL, CITY OF | 1250950030C | 19-OCT-2000 | 00-04-5438A | 01
04 | FL | CAPE CORAL, CITY OF | 1250950035C | 19-OCT-2000 | 00-04-5440A | 01
04 | FL | CAPE CORAL, CITY OF | 1250950030C | 28-SEP-2000 | 00-04-5510A | 01
04 | FL | CAPE CORAL, CITY OF | 1250950030C | 24-OCT-2000 | 00-04-5548A | 01
04 | FL | CAPE CORAL, CITY OF | 1250950020C | 17-OCT-2000 | 00-04-5562A | 01
04 | FL | CAPE CORAL, CITY OF | 1250950035C | 24-OCT-2000 | 00-04-5706A | 01
04 | FL | CAPE CORAL, CITY OF | 1250950040C | 24-OCT-2000 | 00-04-5714A | 01
04 | FL | CAPE CORAL, CITY OF | 1250950030C | 24-OCT-2000 | 00-04-5794A | 01
04 | FL | CAPE CORAL, CITY OF | 1250950030C | 24-OCT-2000 | 00-04-5796A | 01
04 | FL | CAPE CORAL, CITY OF | 1250950040C | 24-OCT-2000 | 00-04-5868A | 01
04 | FL | CAPE CORAL, CITY OF | 1250950030C | 24-OCT-2000 | 00-04-5870A | 01
04 | FL | CAPE CORAL, CITY OF | 1250950035C | 26-OCT-2000 | 00-04-5872A | 01
04 | FL | CAPE CORAL, CITY OF | 1250950040C | 26-OCT-2000 | 00-04-5874A | 01
04 | FL | CAPE CORAL, CITY OF | 1250950040C | 26-OCT-2000 | 00-04-5886A | 01
04 | FL | CAPE CORAL, CITY OF | 1250950035C | 31-OCT-2000 | 00-04-5934A | 01
04 | FL | CAPE CORAL, CITY OF | 1250950040C | 31-OCT-2000 | 00-04-5936A | 01
04 | FL | CAPE CORAL, CITY OF | 1250950030C | 02-NOV-2000 | 00-04-5948A | 01
04 | FL | CAPE CORAL, CITY OF | 1250950030C | 17-OCT-2000 | 00-04-5960A | 01
04 | FL | CAPE CORAL, CITY OF | 1250950030C | 02-NOV-2000 | 00-04-5966A | 01
04 | FL | CAPE CORAL, CITY OF | 1250950035C | 19-OCT-2000 | 00-04-5506A | 01
04 | FL | CAPE CORAL, CITY OF | 1250950030C | 09-NOV-2000 | 01-04-0148A | 01
04 | FL | CAPE CORAL, CITY OF | 1250950030C | 09-NOV-2000 | 01-04-0076A | 01
04 | FL | CAPE CORAL, CITY OF | 1250950030C | 09-NOV-2000 | 01-04-0146A | 01
04 | FL | CAPE CORAL, CITY OF | 1250950030C | 09-NOV-2000 | 01-04-0144A | 01
04 | FL | CAPE CORAL, CITY OF | 1250950030C | 07-NOV-2000 | 01-04-0102A | 01
04 | FL | CAPE CORAL, CITY OF | 1250950030C | 09-NOV-2000 | 01-04-0100A | 01
04 | FL | CAPE CORAL, CITY OF | 1250950030C | 09-NOV-2000 | 01-04-0098A | 01
04 | FL | CAPE CORAL, CITY OF | 1250950030C | 09-NOV-2000 | 01-04-0082A | 01
04 | FL | CAPE CORAL, CITY OF | 1250950030C | 14-NOV-2000 | 01-04-0240A | 01
04 | FL | CAPE CORAL, CITY OF | 1250950035C | 30-NOV-2000 | 01-04-0342A | 01
04 | FL | CAPE CORAL, CITY OF | 1250950030C | 14-NOV-2000 | 01-04-0346A | 01
04 | FL | CAPE CORAL, CITY OF | 1250950030C | 28-NOV-2000 | 01-04-0302A | 01
04 | FL | CAPE CORAL, CITY OF | 1250950030C | 05-DEC-2000 | 01-04-0584A | 01
04 | FL | CAPE CORAL, CITY OF | 1250950030C | 05-DEC-2000 | 01-04-0738A | 01
04 | FL | CAPE CORAL, CITY OF | 1250950030C | 07-DEC-2000 | 01-04-0736A | 01
04 | FL | CAPE CORAL, CITY OF | 1250950035C | 19-DEC-2000 | 01-04-0864A | 01
04 | FL | CAPE CORAL, CITY OF | 1250950030C | 19-DEC-2000 | 01-04-0868A | 01
04 | FL | CAPE CORAL, CITY OF | 1250950005C | 19-DEC-2000 | 01-04-0872A | 01
04 | FL | CHARLOTTE COUNTY * | 1200610045E | 12-SEP-2000 | 00-04-4020A | 01
04 | FL | CITRUS COUNTY * | 1200630270B | 18-JUL-2000 | 00-04-3592A | 02
04 | FL | CITRUS COUNTY * | 1200630270B | 05-JUL-2000 | 00-04-3666A | 02
04 | FL | CITRUS COUNTY * | 1200630260B | 12-SEP-2000 | 00-04-4426A | 02
04 | FL | CITRUS COUNTY * | 1200630300B | 15-SEP-2000 | 00-04-4566A | 02
04 | FL | CITRUS COUNTY * | 1200630120B | 21-DEC-2000 | 00-04-6036A | 01
04 | FL | CITRUS COUNTY * | 1200630260B | 19-DEC-2000 | 01-04-1280A | 02
04 | FL | CLAY COUNTY * | 1200640350D | 29-AUG-2000 | 00-04-4606A | 02
04 | FL | CLAY COUNTY * | 1200640135D | 19-SEP-2000 | 00-04-5312A | 02
04 | FL | CLAY COUNTY * | 1200640065D | 12-OCT-2000 | 00-04-3450A | 01
04 | FL | CLAY COUNTY * | 1200640325D | 14-DEC-2000 | 01-04-0950A | 02
04 | FL | CLERMONT, CITY OF | 1201330001B | 09-NOV-2000 | 01-04-0044A | 02
04 | FL | COCONUT CREEK, CITY OF | 12011C0105F | 28-DEC-2000 | 01-04-0080A | 01
04 | FL | COLLIER COUNTY * | 1200670605E | 20-JUL-2000 | 00-04-2050A | 01
04 | FL | COLLIER COUNTY * | 1200670193D | 18-JUL-2000 | 00-04-2322A | 01
04 | FL | COLLIER COUNTY * | 1200670605E | 18-JUL-2000 | 00-04-3124A | 01
04 | FL | COLLIER COUNTY * | 1200670605E | 27-JUL-2000 | 00-04-3392A | 01
04 | FL | COLLIER COUNTY * | 1200670605E | 11-JUL-2000 | 00-04-3564A | 01
04 | FL | COLLIER COUNTY * | 1200670193D | 19-SEP-2000 | 00-04-3994A | 02
04 | FL | COLLIER COUNTY * | 1200670605E | 17-AUG-2000 | 00-04-4056A | 01
04 | FL | COLLIER COUNTY * | 1200670605E | 05-SEP-2000 | 00-04-4212A | 01
04 | FL | COLLIER COUNTY * | 1200670195D | 29-AUG-2000 | 00-04-4476A | 02
04 | FL | COLLIER COUNTY * | 1200670582F | 10-OCT-2000 | 00-04-4680A | 01
04 | FL | COLLIER COUNTY * | 1200670620D | 05-SEP-2000 | 00-04-4726A | 01
04 | FL | COLLIER COUNTY * | 1200670804D | 05-OCT-2000 | 00-04-5150A | 01
04 | FL | COLLIER COUNTY * | 1200670804D | 08-AUG-2000 | 00-04-5114A | 01
04 | FL | COLLIER COUNTY * | 1200670193D | 19-SEP-2000 | 00-04-5396A | 02
04 | FL | COLLIER COUNTY * | 1200670804D | 24-OCT-2000 | 00-04-5824A | 01
04 | FL | COLLIER COUNTY * | 1200670193D | 17-OCT-2000 | 00-04-6046X | 02
04 | FL | COLLIER COUNTY * | 1200670582F | 14-DEC-2000 | 01-04-0856A | 01
04 | FL | COLLIER COUNTY * | 1200670605E | 28-DEC-2000 | 01-04-1156A | 01
04 | FL | CORAL SPRINGS, CITY OF | 12011C0095F | 19-SEP-2000 | 00-04-5474A | 02
04 | FL | CORAL SPRINGS, CITY OF | 12011C0115F | 07-DEC-2000 | 01-04-0406A | 02
04 | FL | DADE COUNTY* | 12025C0160J | 24-AUG-2000 | 00-04-3826A | 01
04 | FL | DADE COUNTY* | 12025C0260J | 25-JUL-2000 | 00-04-4038A | 02
04 | FL | DADE COUNTY* | 12025C0165J | 24-AUG-2000 | 00-04-3424A | 01
04 | FL | DADE COUNTY* | 12025C0356J | 10-AUG-2000 | 00-04-4410A | 02
04 | FL | DADE COUNTY* | 12025C0265J | 27-JUL-2000 | 00-04-4422X | 01
04 | FL | DADE COUNTY* | 12025C0160J | 24-AUG-2000 | 00-04-5056A | 01
04 | FL | DADE COUNTY* | 12025C0081J | 19-SEP-2000 | 00-04-5674A | 02
04 | FL | DADE COUNTY* | 12025C0165J | 28-SEP-2000 | 00-04-5770A | 02
04 | FL | DADE COUNTY* | 12025C0160J | 24-OCT-2000 | 00-04-4250A | 01
04 | FL | DADE COUNTY* | 12025C0255J | 14-NOV-2000 | 00-04-5968A | 01
04 | FL | DADE COUNTY* | 12025C0160J | 24-OCT-2000 | 01-04-0032A | 01
04 | FL | DADE COUNTY* | 12025C0170J | 14-NOV-2000 | 01-04-0090A | 02
04 | FL | DADE COUNTY* | 12025C0255J | 12-DEC-2000 | 01-04-0014A | 01
04 | FL | DADE COUNTY* | 12025C0080J | 16-NOV-2000 | 00-04-6022A | 02
04 | FL | DADE COUNTY* | 12025C0160J | 19-DEC-2000 | 01-04-0794A | 01
04 | FL | DADE COUNTY* | 12025C0260J | 19-DEC-2000 | 01-04-0900A | 02
04 | FL | DAVIE, CITY OF | 12011C0302F | 05-SEP-2000 | 00-04-3460A | 02
04 | FL | DAYTONA BEACH, CITY OF | 1250990015D | 05-DEC-2000 | 00-04-3638A | 02
04 | FL | DAYTONA BEACH, CITY OF | 1250990015D | 03-AUG-2000 | 00-04-3874A | 01
04 | FL | DEERFIELD BEACH, CITY OF | 12011C0105F | 28-NOV-2000 | 01-04-0458X | 01
04 | FL | DEERFIELD BEACH, CITY OF | 12011C0109G | 19-DEC-2000 | 01-04-0828A | 02
04 | FL | DESOTO COUNTY* | 12027C0185B | 31-AUG-2000 | 00-04-3330A | 02
04 | FL | DUNDEE, TOWN OF | 12105C0367F | 21-DEC-2000 | 01-04-0672V | 19
04 | FL | EDGEWATER, CITY OF | 1203080001C | 18-JUL-2000 | 00-04-2944A | 01
04 | FL | ESCAMBIA COUNTY* | 12033C0360F | 20-JUL-2000 | 00-04-3648A | 02
04 | FL | ESCAMBIA COUNTY* | 12033C0368F | 15-AUG-2000 | 00-04-3854A | 02
04 | FL | ESCAMBIA COUNTY* | 12033C0365F | 08-AUG-2000 | 00-04-4458A | 02
04 | FL | ESCAMBIA COUNTY* | 12033C0509F | 14-SEP-2000 | 00-04-5044A | 02
04 | FL | ESCAMBIA COUNTY* | 12033C0368F | 28-SEP-2000 | 00-04-5382A | 01
04 | FL | ESCAMBIA COUNTY* | 12033C0360F | 14-SEP-2000 | 00-04-5630A | 02
04 | FL | ESCAMBIA COUNTY* | 12033C0370F | 30-NOV-2000 | 01-04-0508A | 02
04 | FL | ESCAMBIA COUNTY* | 12033C0388F | 19-DEC-2000 | 01-04-0666A | 02
04 | FL | FELLSMERE, CITY OF | 12061C0060E | 03-OCT-2000 | 00-04-3676A | 01
04 | FL | FLAGLER COUNTY* | 1200850045B | 11-JUL-2000 | 00-04-2810A | 02
04 | FL | FORT LAUDERDALE, CITY OF | 12011C0209F | 24-OCT-2000 | 00-04-3964A | 02
04 | FL | FORT LAUDERDALE, CITY OF | 12011C0217F | 21-DEC-2000 | 01-04-1034A | 02
04 | FL | FROSTPROOF, CITY OF | 12105C0745F | 21-DEC-2000 | 01-04-0674V | 19
04 | FL | GLADES COUNTY * | 1200950050B | 11-JUL-2000 | 00-04-3544A | 02
04 | FL | GULF BREEZE, CITY OF | 1202750013F | 19-SEP-2000 | 00-04-4752A | 18
04 | FL | GULF BREEZE, CITY OF | 1202750011F | 14-SEP-2000 | 00-04-5070A | 02
04 | FL | HERNANDO COUNTY * | 1201100280B | 31-OCT-2000 | 00-04-4682A | 02
04 | FL | HERNANDO COUNTY * | 1201100375B | 12-OCT-2000 | 00-04-4684A | 02
04 | FL | HERNANDO COUNTY * | 1201100150B | 12-SEP-2000 | 00-04-5244A | 02
04 | FL | HERNANDO COUNTY * | 1201100150B | 10-OCT-2000 | 00-04-6006X | 02
04 | FL | HERNANDO COUNTY * | 1201100280B | 12-DEC-2000 | 01-04-0596A | 02
04 | FL | HIALEAH GARDENS, CITY OF | 12025C0075J | 13-SEP-2000 | 00-04-5442A | 01
04 | FL | HIALEAH, CITY OF | 12025C0075J | 21-SEP-2000 | 00-04-4924A | 01
04 | FL | HILLSBOROUGH COUNTY* | 1201120070E | 29-AUG-2000 | 00-04-2058A | 02
04 | FL | HILLSBOROUGH COUNTY* | 1201120378E | 27-JUL-2000 | 00-04-1174A | 01
04 | FL | HILLSBOROUGH COUNTY* | 1201120045D | 11-JUL-2000 | 00-04-3030A | 02
04 | FL | HILLSBOROUGH COUNTY* | 1201120205D | 11-JUL-2000 | 00-04-3070A | 02
04 | FL | HILLSBOROUGH COUNTY* | 1201120185F | 26-JUL-2000 | 00-04-3090A | 02
04 | FL | HILLSBOROUGH COUNTY* | 1201120180F | 18-JUL-2000 | 00-04-3362A | 01
04 | FL | HILLSBOROUGH COUNTY* | 1201120185F | 11-JUL-2000 | 00-04-3384A | 01
04 | FL | HILLSBOROUGH COUNTY* | 1201120185F | 11-JUL-2000 | 00-04-3386A | 01
04 | FL | HILLSBOROUGH COUNTY* | 1201120090E | 11-JUL-2000 | 00-04-3554A | 01
04 | FL | HILLSBOROUGH COUNTY* | 1201120389D | 11-JUL-2000 | 00-04-2718A | 01
04 | FL | HILLSBOROUGH COUNTY* | 1201120205D | 18-JUL-2000 | 00-04-3626A | 02
04 | FL | HILLSBOROUGH COUNTY* | 1201120507C | 18-JUL-2000 | 00-04-3616A | 02
04 | FL | HILLSBOROUGH COUNTY* | 1201120045D | 18-JUL-2000 | 00-04-3600A | 02
04 | FL | HILLSBOROUGH COUNTY* | 1201120395E | 24-AUG-2000 | 00-04-3574A | 02
04 | FL | HILLSBOROUGH COUNTY* | 1201120380E | 20-JUL-2000 | 00-04-3640A | 02
04 | FL | HILLSBOROUGH COUNTY* | 1201120185F | 07-JUL-2000 | 00-04-3824A | 02
04 | FL | HILLSBOROUGH COUNTY* | 1201120395E | 31-AUG-2000 | 00-04-3884A | 01
04 | FL | HILLSBOROUGH COUNTY* | 1201120185F | 17-AUG-2000 | 00-04-4030A | 01
04 | FL | HILLSBOROUGH COUNTY* | 1201120180F | 12-SEP-2000 | 00-04-4032A | 01
04 | FL | HILLSBOROUGH COUNTY* | 1201120415C | 04-AUG-2000 | 00-04-4074A | 01
04 | FL | HILLSBOROUGH COUNTY* | 1201120205D | 08-AUG-2000 | 00-04-4120A | 02
04 | FL | HILLSBOROUGH COUNTY* | 1201120095C | 14-SEP-2000 | 00-04-2728A | 01
04 | FL | HILLSBOROUGH COUNTY* | 1201120160C | 22-AUG-2000 | 00-04-4308A | 01
04 | FL | HILLSBOROUGH COUNTY* | 1201120185F | 25-JUL-2000 | 00-04-4370A | 02
04 | FL | HILLSBOROUGH COUNTY* | 1201120205D | 22-AUG-2000 | 00-04-4380A | 02
04 | FL | HILLSBOROUGH COUNTY* | 1201120090E | 22-AUG-2000 | 00-04-4778A | 01
04 | FL | HILLSBOROUGH COUNTY* | 1201120395E | 12-OCT-2000 | 00-04-4914A | 01
04 | FL | HILLSBOROUGH COUNTY* | 1201120192D | 07-SEP-2000 | 00-04-4942A | 02
04 | FL | HILLSBOROUGH COUNTY* | 1201120090E | 12-SEP-2000 | 00-04-4954A | 01
04 | FL | HILLSBOROUGH COUNTY* | 1201120090E | 12-SEP-2000 | 00-04-3442A | 01
04 | FL | HILLSBOROUGH COUNTY* | 1201120389D | 09-NOV-2000 | 00-04-5062A | 01
04 | FL | HILLSBOROUGH COUNTY* | 1201120160C | 31-AUG-2000 | 00-04-5104A | 01
04 | FL | HILLSBOROUGH COUNTY* | 1201120160C | 31-AUG-2000 | 00-04-5106A | 01
04 | FL | HILLSBOROUGH COUNTY* | 1201120205D | 28-SEP-2000 | 00-04-5146A | 01
04 | FL | HILLSBOROUGH COUNTY* | 1201120395E | 07-NOV-2000 | 00-04-5182A | 01
04 | FL | HILLSBOROUGH COUNTY* | 1201120387E | 25-JUL-2000 | 00-04-4692A | 01
04 | FL | HILLSBOROUGH COUNTY* | 1201120090E | 05-OCT-2000 | 00-04-5272A | 01
04 | FL | HILLSBOROUGH COUNTY* | 1201120415C | 12-OCT-2000 | 00-04-5326A | 01
04 | FL | HILLSBOROUGH COUNTY* | 1201120090E | 10-OCT-2000 | 00-04-5330A | 01
04 | FL | HILLSBOROUGH COUNTY* | 1201120530C | 10-OCT-2000 | 00-04-5410A | 01
04 | FL | HILLSBOROUGH COUNTY* | 1201120393D | 14-NOV-2000 | 00-04-5424A | 01
04 | FL | HILLSBOROUGH COUNTY* | 1201120185F | 17-OCT-2000 | 00-04-5550A | 01
04 | FL | HILLSBOROUGH COUNTY* | 1201120415C | 10-OCT-2000 | 00-04-5650A | 01
04 | FL | HILLSBOROUGH COUNTY* | 1201120502B | 24-OCT-2000 | 00-04-5680A | 01
04 | FL | HILLSBOROUGH COUNTY* | 1201120045D | 17-OCT-2000 | 00-04-4880A | 01
04 | FL | HILLSBOROUGH COUNTY* | 1201120680B | 19-DEC-2000 | 00-04-5890A | 02
04 | FL | HILLSBOROUGH COUNTY* | 1201120378E | 19-OCT-2000 | 00-04-4886A | 01
04 | FL | HILLSBOROUGH COUNTY* | 1201120160C | 16-NOV-2000 | 01-04-0160A | 01
04 | FL | HILLSBOROUGH COUNTY* | 1201120160C | 16-NOV-2000 | 01-04-0162A | 01
04 | FL | HILLSBOROUGH COUNTY* | 1201120192D | 28-NOV-2000 | 01-04-0004A | 01
04 | FL | HILLSBOROUGH COUNTY* | 1201120205D | 07-NOV-2000 | 01-04-0232A | 02
04 | FL | HILLSBOROUGH COUNTY* | 1201120045D | 16-NOV-2000 | 01-04-0218A | 02
04 | FL | HILLSBOROUGH COUNTY* | 1201120415C | 21-DEC-2000 | 01-04-0740A | 01
04 | FL | HILLSBOROUGH COUNTY* | 1201120180F | 19-DEC-2000 | 01-04-0908A | 02
04 | FL | HOLLYWOOD, CITY OF | 12011C0308F | 28-JUL-2000 | 00-04-3530A | 02
04 | FL | INDIAN RIVER COUNTY * | 12061C0168E | 28-NOV-2000 | 01-04-0288A | 01
04 | FL | INVERNESS, CITY OF | 1203480001B | 29-SEP-2000 | 00-04-5846A | 02
04 | FL | JACKSON COUNTY * | 12063C0150C | 19-SEP-2000 | 00-04-4996A | 02
04 | FL | JACKSONVILLE, CITY OF | 1200770209E | 11-JUL-2000 | 00-04-2864A | 01
04 | FL | JACKSONVILLE, CITY OF | 1200770162E | 21-SEP-2000 | 00-04-2708A | 01
04 | FL | JACKSONVILLE, CITY OF | 1200770243E | 24-OCT-2000 | 00-04-4196A | 01
04 | FL | JACKSONVILLE, CITY OF | 1200770150E | 15-SEP-2000 | 00-04-4674A | 02
04 | FL | JACKSONVILLE, CITY OF | 1200770150E | 22-AUG-2000 | 00-04-4786X | 01
04 | FL | JACKSONVILLE, CITY OF | 1200770236E | 05-DEC-2000 | 01-04-0010A | 01
04 | FL | JACKSONVILLE, CITY OF | 1200770156E | 28-NOV-2000 | 01-04-0462A | 02
04 | FL | LAKE COUNTY * | 1204210100B | 25-JUL-2000 | 00-04-2024A | 01
04 | FL | LAKE COUNTY * | 1204210325B | 01-AUG-2000 | 00-04-2446A | 01
04 | FL | LAKE COUNTY * | 1204210225B | 18-JUL-2000 | 00-04-2664A | 02
04 | FL | LAKE COUNTY * | 1204210125B | 11-JUL-2000 | 00-04-3358A | 02
04 | FL | LAKE COUNTY * | 1204210150B | 05-JUL-2000 | 00-04-3462A | 02
04 | FL | LAKE COUNTY * | 1204210100B | 20-JUL-2000 | 00-04-3484A | 02
04 | FL | LAKE COUNTY * | 1204210225B | 09-AUG-2000 | 00-04-3520A | 02
04 | FL | LAKE COUNTY * | 1204210325B | 19-JUL-2000 | 00-04-3550A | 02
04 | FL | LAKE COUNTY * | 1204210225B | 04-AUG-2000 | 00-04-3812A | 02
04 | FL | LAKE COUNTY * | 1204210125B | 09-AUG-2000 | 00-04-3902A | 02
04 | FL | LAKE COUNTY * | 1204210225B | 19-JUL-2000 | 00-04-3890A | 02
04 | FL | LAKE COUNTY * | 1204210150B | 14-SEP-2000 | 00-04-4338A | 02
04 | FL | LAKE COUNTY * | 1204210375B | 01-AUG-2000 | 00-04-4352A | 02
04 | FL | LAKE COUNTY * | 1204210325B | 20-JUL-2000 | 00-04-4374A | 02
04 | FL | LAKE COUNTY * | 1204210125B | 10-AUG-2000 | 00-04-4392A | 02
04 | FL | LAKE COUNTY * | 1204210200B | 31-AUG-2000 | 00-04-4938A | 02
04 | FL | LAKE COUNTY * | 1204210200B | 17-OCT-2000 | 00-04-5896A | 02
04 | FL | LAKE COUNTY * | 1204210425B | 02-NOV-2000 | 00-04-4884A | 01
04 | FL | LAKE COUNTY * | 1204210225B | 02-NOV-2000 | 01-04-0064A | 02
04 | FL | LAKE COUNTY * | 1204210200B | 02-NOV-2000 | 01-04-0182A | 02
04 | FL | LAKE COUNTY * | 1204210325B | 07-DEC-2000 | 01-04-0382A | 02
04 | FL | LAKE COUNTY * | 1204210225B | 14-DEC-2000 | 01-04-0602A | 02
04 | FL | LAKE COUNTY * | 1204210200B | 19-DEC-2000 | 01-04-1022A | 02
04 | FL | LAKE COUNTY * | 1204210150B | 21-DEC-2000 | 01-04-1206A | 02
04 | FL | LAKE MARY, CITY OF | 12117C0040E | 24-AUG-2000 | 00-04-3690A | 02
04 | FL | LAKE MARY, CITY OF | 12117C0040E | 21-SEP-2000 | 00-04-3736A | 01
04 | FL | LAKE MARY, CITY OF | 12117C0040E | 12-SEP-2000 | 00-04-4818A | 02
04 | FL | LAKE MARY, CITY OF | 12117C0040E | 24-OCT-2000 | 00-04-4928A | 01
04 | FL | LAKE MARY, CITY OF | 12117C0040E | 19-SEP-2000 | 00-04-5158A | 02
04 | FL | LAKE WALES, CITY OF | 12105C0535F | 21-DEC-2000 | 01-04-0678V | 19
04 | FL | LAKELAND, CITY OF | 12105C0485F | 21-DEC-2000 | 01-04-0806A | 02
04 | FL | LAKELAND, CITY OF | 12105C0175F | 21-DEC-2000 | 01-04-0676V | 19
04 | FL | LAUDERDALE LAKES, CITY OF | 12011C0204F | 14-NOV-2000 | 00-04-5990A | 02
04 | FL | LAUDERHILL, CITY OF | 12011C0205F | 08-AUG-2000 | 00-04-2624A | 02
04 | FL | LAUDERHILL, CITY OF | 12011C0204F | 03-AUG-2000 | 00-04-3468X | 02
04 | FL | LAUDERHILL, CITY OF | 12011C0205F | 03-OCT-2000 | 00-04-4780A | 01
04 | FL | LAUDERHILL, CITY OF | 12011C0205F | 26-SEP-2000 | 00-04-5002A | 02
04 | FL | LAUDERHILL, CITY OF | 12011C0204F | 21-SEP-2000 | 00-04-5248X | 02
04 | FL | LEE COUNTY* | 1251240225C | 19-JUL-2000 | 00-04-3132A | 02
04 | FL | LEE COUNTY* | 1251240325C | 01-AUG-2000 | 00-04-4004A | 01
04 | FL | LEE COUNTY* | 1251240510D | 10-AUG-2000 | 00-04-4190A | 01
04 | FL | LEE COUNTY* | 1251240250B | 14-SEP-2000 | 00-04-4768A | 02
04 | FL | LEE COUNTY* | 1251240225C | 29-SEP-2000 | 00-04-4808A | 01
04 | FL | LEE COUNTY* | 1251240465C | 28-SEP-2000 | 00-04-5152A | 01
04 | FL | LEE COUNTY* | 1251240225C | 05-SEP-2000 | 00-04-4258A | 01
04 | FL | LEE COUNTY* | 1251240465C | 26-OCT-2000 | 00-04-5876A | 01
04 | FL | LEE COUNTY* | 1251240225C | 26-OCT-2000 | 00-04-5884A | 01
04 | FL | LEE COUNTY* | 1251240510D | 02-NOV-2000 | 00-04-5946A | 01
04 | FL | LEE COUNTY* | 1251240075D | 30-NOV-2000 | 01-04-0204A | 01
04 | FL | LEE COUNTY* | 1251240465C | 19-DEC-2000 | 01-04-0776A | 01
04 | FL | LEESBURG, CITY OF | 1201360001C | 10-AUG-2000 | 00-04-3688A | 02
04 | FL | LEON COUNTY * | 12073C0250D | 10-AUG-2000 | 00-04-2316A | 02
04 | FL | LEON COUNTY * | 12073C0150D | 15-SEP-2000 | 00-04-4702A | 02
04 | FL | LEON COUNTY * | 12073C0250D | 14-SEP-2000 | 00-04-4848A | 02
04 | FL | LEVY COUNTY * | 1201450425E | 01-AUG-2000 | 00-04-1896A | 02
04 | FL | MAITLAND, CITY OF | 1201840005B | 28-SEP-2000 | 00-04-5836A | 02
04 | FL | MAITLAND, CITY OF | 12095C0145E | 07-DEC-2000 | 01-04-0688V | 19
04 | FL | MANATEE COUNTY * | 1201530336B | 05-JUL-2000 | 99-04-295P | 05
04 | FL | MANATEE COUNTY * | 1201530327C | 18-JUL-2000 | 00-04-3862A | 01
04 | FL | MANATEE COUNTY * | 1201530334C | 28-NOV-2000 | 00-04-5168A | 02
04 | FL | MANATEE COUNTY * | 1201530327C | 29-SEP-2000 | 00-04-5266X | 01
04 | FL | MARATHON, CITY OF | 12087C1578H | 16-NOV-2000 | 01-04-001P | 06
04 | FL | MARGATE, CITY OF | 12011C0115F | 26-SEP-2000 | 00-04-5508A | 02
04 | FL | MARION COUNTY * | 1201600300B | 11-JUL-2000 | 00-04-3474A | 02
04 | FL | MARION COUNTY * | 1201600610B | 21-SEP-2000 | 00-04-5698A | 02
04 | FL | MARION COUNTY * | 1201600500B | 31-OCT-2000 | 00-04-6038A | 02
04 | FL | MELBOURNE, CITY OF | 12009C0441F | 27-JUL-2000 | 00-04-2726A | 01
04 | FL | MELBOURNE, CITY OF | 12009C0441F | 27-JUL-2000 | 00-04-4220A | 01
04 | FL | MIAMI BEACH, CITY OF | 12025C0192J | 14-NOV-2000 | 00-04-5998A | 02
04 | FL | MIAMI, CITY OF | 12025C0181J | 25-JUL-2000 | 00-04-4034A | 02
04 | FL | MIAMI, CITY OF | 12025C0190J | 05-SEP-2000 | 00-04-4980A | 02
04 | FL | MIAMI, CITY OF | 12025C0181J | 22-AUG-2000 | 00-04-3138A | 02
04 | FL | MIRAMAR, CITY OF | 12011C0295F | 17-AUG-2000 | 00-04-4008A | 01
04 | FL | MIRAMAR, CITY OF | 12011C0295F | 31-OCT-2000 | 00-04-5882A | 01
04 | FL | MIRAMAR, CITY OF | 12011C0315F | 31-OCT-2000 | 00-04-5882A | 01
04 | FL | NORTH LAUDERDALE, CITY OF | 12011C0205F | 26-SEP-2000 | 00-04-5702A | 02
04 | FL | OCOEE, CITY OF | 12095C0205E | 07-DEC-2000 | 01-04-0696V | 19
04 | FL | OKALOOSA COUNTY * | 1201730210E | 17-AUG-2000 | 00-04-3412A | 02
04 | FL | OKALOOSA COUNTY * | 1201730210E | 26-SEP-2000 | 00-04-4720A | 01
04 | FL | OKALOOSA COUNTY * | 1201730205E | 05-OCT-2000 | 00-04-5178A | 01
04 | FL | OKALOOSA COUNTY * | 1201730205E | 05-OCT-2000 | 00-04-5180A | 01
04 | FL | OKALOOSA COUNTY * | 1201730205E | 10-OCT-2000 | 00-04-5652A | 02
04 | FL | OKALOOSA COUNTY * | 1201730205E | 12-OCT-2000 | 00-04-5760A | 02
04 | FL | OKALOOSA COUNTY * | 1201730205E | 10-OCT-2000 | 00-04-5748A | 02
04 | FL | OKALOOSA COUNTY * | 1201730205E | 19-DEC-2000 | 01-04-0932A | 02
04 | FL | OLDSMAR, CITY OF | 1202500003B | 17-AUG-2000 | 00-04-4076A | 01
04 | FL | OLDSMAR, CITY OF | 1202500003B | 25-JUL-2000 | 00-04-4244A | 01
04 | FL | OLDSMAR, CITY OF | 1202500003B | 28-SEP-2000 | 00-04-5108A | 01
04 | FL | OLDSMAR, CITY OF | 1202500003B | 24-OCT-2000 | 00-04-5688A | 01
04 | FL | OLDSMAR, CITY OF | 1202500004B | 24-OCT-2000 | 00-04-5688A | 01
04 | FL | ORANGE COUNTY * | 1201790375D | 11-JUL-2000 | 00-04-1400A | 01
04 | FL | ORANGE COUNTY * | 1201790375D | 11-JUL-2000 | 00-04-1402A | 01
04 | FL | ORANGE COUNTY * | 1201790525B | 11-JUL-2000 | 00-04-3006A | 01
04 | FL | ORANGE COUNTY * | 1201790250D | 05-OCT-2000 | 00-04-2704A | 01
04 | FL | ORANGE COUNTY * | 1201790250D | 31-AUG-2000 | 00-04-3516A | 01
04 | FL | ORANGE COUNTY * | 1201790350C | 18-JUL-2000 | 00-04-3752A | 01
04 | FL | ORANGE COUNTY * | 1201790550B | 05-OCT-2000 | 00-04-3844A | 01
04 | FL | ORANGE COUNTY * | 1201790125D | 27-JUL-2000 | 00-04-3878A | 02
04 | FL | ORANGE COUNTY * | 1201790225C | 24-OCT-2000 | 00-04-4024A | 01
04 | FL | ORANGE COUNTY * | 1201790225C | 10-OCT-2000 | 00-04-4066A | 01
04 | FL | ORANGE COUNTY * | 1201790375D | 31-AUG-2000 | 00-04-4208A | 01
04 | FL | ORANGE COUNTY * | 1201790375D | 07-SEP-2000 | 00-04-4214A | 01
04 | FL | ORANGE COUNTY * | 1201790375D | 17-AUG-2000 | 00-04-4218A | 01
04 | FL | ORANGE COUNTY * | 1201790350C | 19-SEP-2000 | 00-04-4236A | 02
04 | FL | ORANGE COUNTY * | 1201790250D | 22-AUG-2000 | 00-04-4268A | 01
04 | FL | ORANGE COUNTY * | 1201790400C | 29-AUG-2000 | 00-04-4548A | 02
04 | FL | ORANGE COUNTY * | 1201790250D | 12-SEP-2000 | 00-04-4626A | 02
04 | FL | ORANGE COUNTY * | 1201790125D | 21-SEP-2000 | 00-04-4764A | 02
04 | FL | ORANGE COUNTY * | 1201790400C | 14-SEP-2000 | 00-04-5164A | 02
04 | FL | ORANGE COUNTY * | 1201790225C | 14-SEP-2000 | 00-04-5204A | 02
04 | FL | ORANGE COUNTY * | 1201790225C | 10-OCT-2000 | 00-04-5386A | 01
04 | FL | ORANGE COUNTY * | 1201790175C | 24-OCT-2000 | 00-04-5646A | 02
04 | FL | ORANGE COUNTY * | 1201790375D | 02-NOV-2000 | 00-04-5726A | 02
04 | FL | ORANGE COUNTY * | 1201790375D | 02-NOV-2000 | 00-04-5944A | 01
04 | FL | ORANGE COUNTY * | 1201790175C | 07-NOV-2000 | 00-04-5972A | 02
04 | FL | ORANGE COUNTY * | 1201790325B | 07-DEC-2000 | 01-04-0440A | 02
04 | FL | ORANGE COUNTY * | 12095C0020E | 12-DEC-2000 | 01-04-0658A | 02
04 | FL | ORANGE COUNTY * | 12095C0020E | 14-DEC-2000 | 01-04-0798A | 02
04 | FL | ORANGE COUNTY * | 12095C0270E | 28-DEC-2000 | 01-04-0922X | 01
04 | FL | ORANGE COUNTY * | 12095C0020E | 07-DEC-2000 | 01-04-0702V | 19
04 | FL | ORLANDO, CITY OF | 1201860010D | 17-OCT-2000 | 00-04-4110A | 02
04 | FL | ORLANDO, CITY OF | 1201860010D | 22-AUG-2000 | 00-04-3426A | 01
04 | FL | ORLANDO, CITY OF | 1201860015D | 14-NOV-2000 | 00-04-5908A | 02
04 | FL | ORLANDO, CITY OF | 12095C0270E | 07-DEC-2000 | 01-04-0698V | 19
04 | FL | ORMOND BEACH, CITY OF | 1251360003D | 27-JUL-2000 | 00-04-3262A | 01
04 | FL | ORMOND BEACH, CITY OF | 1251360003D | 17-AUG-2000 | 00-04-4096A | 01
04 | FL | ORMOND BEACH, CITY OF | 1251360006D | 02-NOV-2000 | 00-04-4356A | 02
04 | FL | ORMOND BEACH, CITY OF | 1251360003D | 28-DEC-2000 | 00-04-5938A | 01
04 | FL | OSCEOLA COUNTY * | 1201890020C | 27-JUL-2000 | 00-04-2702A | 01
04 | FL | OSCEOLA COUNTY * | 1201890130B | 06-JUL-2000 | 00-04-3354A | 01
04 | FL | OSCEOLA COUNTY * | 1201890120B | 08-AUG-2000 | 00-04-4162A | 02
04 | FL | OSCEOLA COUNTY * | 1201890040B | 22-AUG-2000 | 00-04-4206A | 01
04 | FL | OSCEOLA COUNTY * | 1201890120B | 03-AUG-2000 | 00-04-4344A | 02
04 | FL | OSCEOLA COUNTY * | 1201890120B | 31-AUG-2000 | 00-04-4366A | 02
04 | FL | OSCEOLA COUNTY * | 1201890135C | 08-AUG-2000 | 00-04-4490A | 02
04 | FL | OSCEOLA COUNTY * | 1201890005D | 24-OCT-2000 | 00-04-4686A | 02
04 | FL | OSCEOLA COUNTY * | 1201890135C | 24-OCT-2000 | 00-04-4686A | 02
04 | FL | OSCEOLA COUNTY * | 1201890040B | 21-NOV-2000 | 00-04-5148A | 01
04 | FL | OSCEOLA COUNTY * | 1201890040B | 28-DEC-2000 | 00-04-5830A | 01
04 | FL | OSCEOLA COUNTY * | 1201890120B | 26-OCT-2000 | 00-04-5858A | 02
04 | FL | OSCEOLA COUNTY * | 1201890140B | 29-SEP-2000 | 00-04-5860A | 02
04 | FL | OSCEOLA COUNTY * | 1201890140B | 26-OCT-2000 | 00-04-5862A | 02
04 | FL | OSCEOLA COUNTY * | 1201890120B | 26-OCT-2000 | 00-04-5864A | 02
04 | FL | OSCEOLA COUNTY * | 1201890140B | 26-OCT-2000 | 00-04-5866A | 02
04 | FL | OVIEDO, CITY OF | 12117C0170E | 16-AUG-2000 | 00-04-3570A | 02
04 | FL | PALM BAY, CITY OF | 12009C0520E | 05-SEP-2000 | 00-04-3400A | 02
04 | FL | PALM BAY, CITY OF | 12009C0540F | 28-SEP-2000 | 00-04-5692A | 02
04 | FL | PALM BEACH COUNTY * | 1201920150A | 12-SEP-2000 | 00-04-4678A | 01
04 | FL | PALM BEACH COUNTY * | 1201920150A | 31-OCT-2000 | 00-04-5880A | 01
04 | FL | PALM BEACH COUNTY * | 1201920117B | 02-NOV-2000 | 00-04-5918A | 02
04 | FL | PALM BEACH COUNTY * | 1201920240B | 12-DEC-2000 | 01-04-0538A | 01
04 | FL | PALM BEACH, TOWN OF | 1202200003C | 26-JUL-2000 | 00-04-3936A | 02
04 | FL | PASCO COUNTY * | 1202300370D | 11-JUL-2000 | 00-04-1294A | 01
04 | FL | PASCO COUNTY * | 1202300430E | 31-AUG-2000 | 00-04-2266A | 01
04 | FL | PASCO COUNTY * | 1202300195D | 11-JUL-2000 | 00-04-3478A | 02
04 | FL | PASCO COUNTY * | 1202300450E | 12-OCT-2000 | 00-04-3504A | 01
04 | FL | PASCO COUNTY * | 1202300410E | 11-JUL-2000 | 00-04-3598A | 02
04 | FL | PASCO COUNTY * | 1202300195D | 20-SEP-2000 | 00-04-3760A | 02
04 | FL | PASCO COUNTY * | 1202300450E | 12-SEP-2000 | 00-04-3808A | 01
04 | FL | PASCO COUNTY * | 1202300400D | 15-AUG-2000 | 00-04-3822A | 02
04 | FL | PASCO COUNTY * | 1202300205D | 02-AUG-2000 | 00-04-3858A | 02
04 | FL | PASCO COUNTY * | 1202300275D | 25-OCT-2000 | 00-04-261X | 06
04 | FL | PASCO COUNTY * | 1202300425E | 24-AUG-2000 | 00-04-4048A | 01
04 | FL | PASCO COUNTY * | 1202300360D | 12-SEP-2000 | 00-04-4102A | 01
04 | FL | PASCO COUNTY * | 1202300354D | 17-AUG-2000 | 00-04-4132A | 02
04 | FL | PASCO COUNTY * | 1202300425E | 29-AUG-2000 | 00-04-4150A | 02
04 | FL | PASCO COUNTY * | 1202300410E | 10-AUG-2000 | 00-04-4298A | 01
04 | FL | PASCO COUNTY * | 1202300195D | 22-AUG-2000 | 00-04-4348A | 02
04 | FL | PASCO COUNTY * | 1202300360D | 24-AUG-2000 | 00-04-4440A | 01
04 | FL | PASCO COUNTY * | 1202300362D | 05-SEP-2000 | 00-04-4460A | 02
04 | FL | PASCO COUNTY * | 1202300425E | 24-AUG-2000 | 00-04-4506A | 02
04 | FL | PASCO COUNTY * | 1202300354D | 05-SEP-2000 | 00-04-4582A | 02
04 | FL | PASCO COUNTY * | 1202300352C | 02-AUG-2000 | 00-04-4658A | 02
04 | FL | PASCO COUNTY * | 1202300352C | 05-SEP-2000 | 00-04-3432A | 01
04 | FL | PASCO COUNTY * | 1202300354D | 14-SEP-2000 | 00-04-5046A | 02
04 | FL | PASCO COUNTY * | 1202300450E | 12-SEP-2000 | 00-04-5050A | 01
04 | FL | PASCO COUNTY * | 1202300425E | 19-SEP-2000 | 00-04-5220A | 02
04 | FL | PASCO COUNTY * | 1202300335C | 09-NOV-2000 | 00-04-5286A | 02
04 | FL | PASCO COUNTY * | 1202300425E | 14-SEP-2000 | 00-04-5350A | 02
04 | FL | PASCO COUNTY * | 1202300400D | 10-OCT-2000 | 00-04-3446A | 01
04 | FL | PASCO COUNTY * | 1202300410E | 29-SEP-2000 | 00-04-5482X | 01
04 | FL | PASCO COUNTY * | 1202300352C | 17-OCT-2000 | 00-04-5634A | 02
04 | FL | PASCO COUNTY * | 1202300360D | 17-OCT-2000 | 00-04-5634A | 02
04 | FL | PASCO COUNTY * | 1202300354D | 21-SEP-2000 | 00-04-5730X | 02
04 | FL | PASCO COUNTY * | 1202300360D | 17-OCT-2000 | 00-04-5734A | 01
04 | FL | PASCO COUNTY * | 1202300450E | 30-NOV-2000 | 00-04-4882A | 01
04 | FL | PASCO COUNTY * | 1202300450E | 17-OCT-2000 | 00-04-5952X | 01
04 | FL | PASCO COUNTY * | 1202300352C | 14-DEC-2000 | 00-04-5958A | 01
04 | FL | PASCO COUNTY * | 1202300360D | 12-DEC-2000 | 01-04-0060A | 02
04 | FL | PASCO COUNTY * | 1202300360D | 30-NOV-2000 | 01-04-0164A | 01
04 | FL | PASCO COUNTY * | 1202300430E | 07-NOV-2000 | 01-04-0120A | 01
04 | FL | PASCO COUNTY * | 1202300410E | 14-NOV-2000 | 01-04-0092A | 01
04 | FL | PASCO COUNTY * | 1202300354D | 14-DEC-2000 | 01-04-0216A | 02
04 | FL | PASCO COUNTY * | 1202300352C | 07-DEC-2000 | 01-04-0352A | 01
04 | FL | PASCO COUNTY * | 1202300425E | 12-DEC-2000 | 01-04-0576A | 02
04 | FL | PASCO COUNTY * | 1202300450E | 14-DEC-2000 | 01-04-0016A | 01
04 | FL | PASCO COUNTY * | 1202300400D | 28-DEC-2000 | 01-04-0020A | 01
04 | FL | PASCO COUNTY * | 1202300215D | 28-DEC-2000 | 01-04-1098A | 02
04 | FL | PASCO COUNTY * | 1202300354D | 28-DEC-2000 | 01-04-1114A | 02
04 | FL | PEMBROKE PINES, CITY OF | 12011C0315F | 10-OCT-2000 | 00-04-5236A | 02
04 | FL | PINELLAS COUNTY * | 1251390114C | 29-AUG-2000 | 00-04-3406A | 02
04 | FL | PINELLAS COUNTY * | 1251390036C | 27-JUL-2000 | 00-04-3524A | 01
04 | FL | PINELLAS COUNTY * | 1251390039C | 12-SEP-2000 | 00-04-3806A | 01
04 | FL | PINELLAS COUNTY * | 1251390081C | 17-AUG-2000 | 00-04-4046A | 01
04 | FL | PINELLAS COUNTY * | 1251390127D | 29-AUG-2000 | 00-04-4296A | 01
04 | FL | PINELLAS COUNTY * | 1251390083C | 01-AUG-2000 | 00-04-4346X | 02
04 | FL | PINELLAS COUNTY * | 1251390079C | 12-SEP-2000 | 00-04-4876A | 01
04 | FL | PINELLAS COUNTY * | 1251390037C | 28-NOV-2000 | 00-04-5322A | 01
04 | FL | PINELLAS COUNTY * | 1251390019C | 07-NOV-2000 | 00-04-5504A | 02
04 | FL | PINELLAS COUNTY * | 1251390207C | 09-NOV-2000 | 00-04-4888A | 01
04 | FL | PINELLAS COUNTY * | 1251390069D | 26-SEP-2000 | 00-04-5472A | 02
04 | FL | PINELLAS COUNTY * | 1251390036C | 28-DEC-2000 | 01-04-0314A | 01
04 | FL | PLANTATION, CITY OF | 12011C0215F | 10-OCT-2000 | 00-04-4998A | 02
04 | FL | POLK COUNTY* | 1202610500D | 06-JUL-2000 | 00-04-3092A | 02
04 | FL | POLK COUNTY* | 1202610480D | 21-DEC-2000 | 00-04-205P | 05
04 | FL | POLK COUNTY* | 1202610480D | 29-AUG-2000 | 00-04-4472A | 02
04 | FL | POLK COUNTY* | 1202610305B | 22-AUG-2000 | 00-04-4508A | 02
04 | FL | POLK COUNTY* | 1202610225B | 29-AUG-2000 | 00-04-4530A | 02
04 | FL | POLK COUNTY* | 12105C0025F | 21-DEC-2000 | 00-04-4622P | 06
04 | FL | POLK COUNTY* | 1202610375D | 12-SEP-2000 | 00-04-4840A | 02
04 | FL | POLK COUNTY* | 1202610500D | 21-DEC-2000 | 00-04-5130A | 02
04 | FL | POLK COUNTY* | 1202610345B | 07-NOV-2000 | 00-04-5294A | 02
04 | FL | POLK COUNTY* | 1202610350B | 09-NOV-2000 | 00-04-5346A | 02
04 | FL | POLK COUNTY* | 1202610350B | 21-SEP-2000 | 00-04-5552A | 02
04 | FL | POLK COUNTY* | 1204210200B | 07-NOV-2000 | 00-04-5718A | 02
04 | FL | POLK COUNTY* | 1202610275B | 28-DEC-2000 | 00-04-5914A | 01
04 | FL | POLK COUNTY* | 1202610375D | 21-DEC-2000 | 01-04-0362A | 01
04 | FL | POLK COUNTY* | 12105C0025F | 21-DEC-2000 | 01-04-0682V | 19
04 | FL | PORT ORANGE, CITY OF | 1203130010C | 26-SEP-2000 | 00-04-4640A | 02
04 | FL | PORT ORANGE, CITY OF | 1203130005C | 14-NOV-2000 | 01-04-0112A | 02
04 | FL | PORT ORANGE, CITY OF | 1203130005C | 21-NOV-2000 | 01-04-0312A | 01
04 | FL | PUTNAM COUNTY * | 1202720405A | 28-SEP-2000 | 00-04-5496A | 02
04 | FL | ROCKLEDGE, CITY OF | 12009C0355E | 18-JUL-2000 | 00-04-3682A | 02
04 | FL | SANFORD, CITY OF | 12117C0045E | 14-DEC-2000 | 01-04-0612A | 02
04 | FL | SANTA ROSA COUNTY * | 1202740360D | 28-SEP-2000 | 00-04-5856A | 02
04 | FL | SANTA ROSA COUNTY * | 1202740355E | 02-NOV-2000 | 00-04-6004A | 02
04 | FL | SANTA ROSA COUNTY * | 1202740341C | 28-NOV-2000 | 01-04-0480A | 02
04 | FL | SARASOTA COUNTY * | 1251440331E | 11-JUL-2000 | 00-04-2048A | 01
04 | FL | SEMINOLE COUNTY* | 12117C0020E | 11-JUL-2000 | 00-04-1286A | 01
04 | FL | SEMINOLE COUNTY* | 12117C0165E | 21-NOV-2000 | 00-04-3192A | 01
04 | FL | SEMINOLE COUNTY* | 12117C0165E | 21-NOV-2000 | 00-04-3560A | 01
04 | FL | SEMINOLE COUNTY* | 12117C0140E | 19-JUL-2000 | 00-04-3694A | 02
04 | FL | SEMINOLE COUNTY* | 12117C0065E | 03-AUG-2000 | 00-04-3790A | 02
04 | FL | SEMINOLE COUNTY* | 12117C0020E | 24-AUG-2000 | 00-04-4060A | 01
04 | FL | SEMINOLE COUNTY* | 12117C0040E | 29-AUG-2000 | 00-04-4068A | 02
04 | FL | SEMINOLE COUNTY* | 12117C0020E | 17-AUG-2000 | 00-04-4144A | 01
04 | FL | SEMINOLE COUNTY* | 12117C0110E | 29-AUG-2000 | 00-04-4158A | 01
04 | FL | SEMINOLE COUNTY* | 12117C0135E | 18-JUL-2000 | 00-04-3250A | 01
04 | FL | SEMINOLE COUNTY* | 12117C0145E | 18-JUL-2000 | 00-04-3786A | 02
04 | FL | SEMINOLE COUNTY* | 12117C0090E | 14-SEP-2000 | 00-04-4910A | 02
04 | FL | SEMINOLE COUNTY* | 12117C0140E | 19-SEP-2000 | 00-04-5576A | 02
04 | FL | SEMINOLE COUNTY* | 12117C0145E | 19-SEP-2000 | 00-04-5612A | 02
04 | FL | SEMINOLE COUNTY* | 12117C0030E | 28-DEC-2000 | 00-04-5932A | 01
04 | FL | SEMINOLE COUNTY* | 12117C0170E | 30-NOV-2000 | 01-04-0718A | 02
04 | FL | SEMINOLE COUNTY* | 12117C0145E | 19-DEC-2000 | 01-04-0992A | 02
04 | FL | SEMINOLE COUNTY* | 12117C0190E | 19-DEC-2000 | 01-04-0980A | 02
04 | FL | ST. JOHNS COUNTY * | 1251470090D | 26-OCT-2000 | 00-04-2730A | 01
04 | FL | ST. JOHNS COUNTY * | 1251470095D | 03-OCT-2000 | 00-04-5288A | 01
04 | FL | SUMTER COUNTY * | 1202960075B | 27-JUL-2000 | 00-04-3164X | 01
04 | FL | SUMTER COUNTY * | 1202960075B | 17-AUG-2000 | 00-04-3488A | 02
04 | FL | SUMTER COUNTY * | 1202960075B | 12-OCT-2000 | 00-04-3444A | 01
04 | FL | SUMTER COUNTY * | 1202960100B | 12-OCT-2000 | 00-04-5750A | 02
04 | FL | SUNRISE, CITY OF | 12011C0215F | 19-SEP-2000 | 00-04-3776A | 02
04 | FL | SUNRISE, CITY OF | 12011C0205F | 31-OCT-2000 | 00-04-5176A | 02
04 | FL | SUNRISE, CITY OF | 12011C0205F | 07-DEC-2000 | 01-04-0896X | 02
04 | FL | SUWANNEE COUNTY* | 1203000415A | 22-AUG-2000 | 00-04-4436A | 02
04 | FL | TALLAHASSEE, CITY OF | 12073C0140D | 07-DEC-2000 | 01-04-0512A | 02
04 | FL | TAMARAC, CITY OF | 12011C0185F | 11-JUL-2000 | 00-04-2720A | 01
04 | FL | TAMARAC, CITY OF | 12011C0185F | 12-SEP-2000 | 00-04-3438A | 01
04 | FL | TAMARAC, CITY OF | 12011C0205F | 26-SEP-2000 | 00-04-5172A | 02
04 | FL | TAMARAC, CITY OF | 12011C0185F | 24-OCT-2000 | 00-04-3448A | 01
04 | FL | TAMARAC, CITY OF | 12011C0205F | 17-OCT-2000 | 00-04-5850X | 01
04 | FL | TAMARAC, CITY OF | 12011C0185F | 30-NOV-2000 | 01-04-0572X | 01
04 | FL | TAMARAC, CITY OF | 12011C0185F | 07-DEC-2000 | 01-04-0580X | 01
04 | FL | TAMARAC, CITY OF | 12011C0208F | 21-DEC-2000 | 01-04-1044A | 02
04 | FL | TAMPA, CITY OF | 1201140023C | 11-JUL-2000 | 00-04-3172A | 02
04 | FL | TAMPA, CITY OF | 1201140044C | 29-AUG-2000 | 00-04-4784A | 02
04 | FL | TARPON SPRINGS, CITY OF | 1251390036C | 12-DEC-2000 | 01-04-0300A | 01
04 | FL | TAVARES, CITY OF | 1201380002B | 11-JUL-2000 | 00-04-3094A | 02
04 | FL | TITUSVILLE, CITY OF | 12009C0180E | 21-JUL-2000 | 00-04-3848A | 01
04 | FL | TITUSVILLE, CITY OF | 12009C0115E | 05-OCT-2000 | 00-04-4216A | 01
04 | FL | TITUSVILLE, CITY OF | 12009C0190F | 26-SEP-2000 | 00-04-5078A | 02
04 | FL | TITUSVILLE, CITY OF | 12009C0190F | 28-DEC-2000 | 01-04-0966A | 01
04 | FL | TITUSVILLE, CITY OF | 12009C0190F | 19-DEC-2000 | 01-04-0788A | 02
04 | FL | VENICE, CITY OF | 1251540005D | 09-AUG-2000 | 00-04-4080A | 02
04 | FL | VENICE, CITY OF | 1251540005D | 10-OCT-2000 | 00-04-5822A | 02
04 | FL | VENICE, CITY OF | 1251540005D | 12-DEC-2000 | 01-04-0608A | 02
04 | FL | VOLUSIA COUNTY* | 1251550440E | 11-JUL-2000 | 00-04-3276A | 01
04 | FL | VOLUSIA COUNTY* | 1251550295E | 10-AUG-2000 | 00-04-3696A | 01
04 | FL | VOLUSIA COUNTY* | 1251550500E | 03-OCT-2000 | 00-04-3724A | 01
04 | FL | VOLUSIA COUNTY* | 1251550288E | 12-DEC-2000 | 00-04-3892A | 02
04 | FL | VOLUSIA COUNTY* | 1251550408E | 17-AUG-2000 | 00-04-4112A | 01
04 | FL | VOLUSIA COUNTY* | 1251550408E | 22-AUG-2000 | 00-04-4210A | 01
04 | FL | VOLUSIA COUNTY* | 1251550375E | 29-AUG-2000 | 00-04-4528A | 02
04 | FL | VOLUSIA COUNTY* | 1251550375E | 28-NOV-2000 | 00-04-4616A | 02
04 | FL | VOLUSIA COUNTY* | 1251550285E | 14-SEP-2000 | 00-04-5390A | 02
04 | FL | VOLUSIA COUNTY* | 1251550675E | 19-DEC-2000 | 01-04-0804A | 02
04 | FL | VOLUSIA COUNTY* | 1251550408E | 28-NOV-2000 | 00-04-3818X | 01
04 | FL | WAKULLA COUNTY * | 1203150250B | 18-JUL-2000 | 00-04-2928A | 02
04 | FL | WAKULLA COUNTY * | 1203150250B | 28-SEP-2000 | 00-04-5452A | 02
04 | FL | WAKULLA COUNTY * | 1203150225B | 24-OCT-2000 | 00-04-5454A | 02
04 | FL | WAKULLA COUNTY * | 1203150250B | 24-OCT-2000 | 00-04-5638A | 02
04 | FL | WAKULLA COUNTY * | 1203150250B | 16-NOV-2000 | 01-04-0176A | 02
04 | FL | WALTON COUNTY * | 12131C0538F | 05-OCT-2000 | 00-04-4580A | 02
04 | FL | WALTON COUNTY * | 12131C0175F | 08-AUG-2000 | 00-04-4578A | 02
04 | FL | WALTON COUNTY * | 12131C0539F | 29-AUG-2000 | 00-04-4740A | 02
04 | FL | WALTON COUNTY * | 12131C0527F | 19-SEP-2000 | 00-04-5222A | 02
04 | FL | WALTON COUNTY * | 12131C0564F | 16-NOV-2000 | 01-04-0174A | 02
04 | FL | WALTON COUNTY * | 12131C0541F | 16-NOV-2000 | 01-04-0428A | 02
04 | FL | WALTON COUNTY * | 12131C0677F | 16-NOV-2000 | 01-04-0486A | 02
04 | FL | WALTON COUNTY * | 12131C0708F | 19-DEC-2000 | 01-04-0642A | 02
04 | FL | WINDERMERE, TOWN OF | 1203810001B | 24-AUG-2000 | 00-04-4628A | 02
04 | FL | WINDERMERE, TOWN OF | 1203810001B | 14-SEP-2000 | 00-04-5460A | 02
04 | FL | WINDERMERE, TOWN OF | 1203810001B | 28-DEC-2000 | 01-04-0074A | 02
04 | FL | WINDERMERE, TOWN OF | 12095C0220E | 07-DEC-2000 | 01-04-0700V | 19
04 | FL | WINTER GARDEN, CITY OF | 12095C0205E | 07-DEC-2000 | 01-04-0694V | 19
04 | FL | WINTER HAVEN, CITY OF | 12105C0335F | 21-DEC-2000 | 01-04-0680V | 19
04 | FL | WINTER SPRINGS, CITY OF | 12117C0135E | 20-JUL-2000 | 00-04-3634A | 17
04 | FL | WINTER SPRINGS, CITY OF | 12117C0145E | 12-OCT-2000 | 00-04-4482A | 02
04 | GA | ALBANY, CITY OF | 1300750015C | 19-OCT-2000 | 00-04-4542A | 02
04 | GA | ALBANY, CITY OF | 1300750015C | 02-NOV-2000 | 00-04-4388A | 02
04 | GA | ALBANY, CITY OF | 1300750015C | 30-NOV-2000 | 00-04-5166A | 02
04 | GA | ATHENS-CLARKE COUNTY | 1300400021C | 11-JUL-2000 | 00-04-3770A | 02
04 | GA | ATLANTA, CITY OF | 13121C0334E | 18-JUL-2000 | 00-04-3612A | 02
04 | GA | ATLANTA, CITY OF | 13121C0253E | 01-AUG-2000 | 00-04-3588A | 02
04 | GA | ATLANTA, CITY OF | 13121C0231E | 29-AUG-2000 | 00-04-4106A | 02
04 | GA | BALDWIN COUNTY* | 1300050050B | 05-OCT-2000 | 00-04-3628A | 02
04 | GA | BALDWIN COUNTY* | 1300050050B | 02-NOV-2000 | 00-04-3594A | 02
04 | GA | BALDWIN COUNTY* | 1300050050B | 28-SEP-2000 | 00-04-5570A | 02
04 | GA | BALDWIN COUNTY* | 1300050075B | 26-SEP-2000 | 00-04-5746A | 02
04 | GA | BALDWIN COUNTY* | 1300050075B | 28-DEC-2000 | 01-04-1144A | 02
04 | GA | BARTOW COUNTY * | 13015C0095F | 20-JUL-2000 | 00-04-3144A | 02
04 | GA | CAMDEN COUNTY* | 13039C0350C | 10-AUG-2000 | 00-04-3764A | 02
04 | GA | CARROLL COUNTY* | 1304640050B | 18-JUL-2000 | 00-04-3658A | 02
04 | GA | CHAMBLEE, CITY OF | 1300660001B | 17-AUG-2000 | 00-04-4694A | 02
04 | GA | CHATHAM COUNTY* | 1300300075C | 12-SEP-2000 | 00-04-3186A | 01
04 | GA | CHEROKEE COUNTY* | 13057C0075B | 01-NOV-2000 | 00-04-137P | 05
04 | GA | CHEROKEE COUNTY* | 13057C0025B | 22-AUG-2000 | 99-04-353P | 06
04 | GA | CHEROKEE COUNTY* | 13057C0275B | 19-DEC-2000 | 00-04-3662A | 02
04 | GA | CLAYTON COUNTY* | 1300410035C | 12-SEP-2000 | 00-04-3402A | 02
04 | GA | CLAYTON COUNTY* | 1300410015D | 29-SEP-2000 | 00-04-5788A | 02
04 | GA | CLAYTON COUNTY* | 1300410015D | 30-NOV-2000 | 01-04-0484A | 02
04 | GA | CLAYTON, CITY OF | 1301570001C | 10-OCT-2000 | 00-04-4974A | 01
04 | GA | COBB COUNTY* | 13067C0025F | 07-SEP-2000 | 00-04-0340A | 01
04 | GA | COBB COUNTY* | 13067C0030F | 20-JUL-2000 | 00-04-2970A | 02
04 | GA | COBB COUNTY* | 13067C0050F | 17-OCT-2000 | 00-04-3102A | 02
04 | GA | COBB COUNTY* | 13067C0070F | 26-SEP-2000 | 00-04-3182A | 02
04 | GA | COBB COUNTY* | 13067C0055F | 19-SEP-2000 | 00-04-3234A | 02
04 | GA | COBB COUNTY* | 13067C0035F | 29-AUG-2000 | 00-04-3572A | 02
04 | GA | COBB COUNTY* | 13067C0040F | 26-OCT-2000 | 00-04-3882A | 02
04 | GA | COBB COUNTY* | 13067C0040F | 04-DEC-2000 | 00-04-4170A | 02
04 | GA | COBB COUNTY* | 13067C0035F | 08-AUG-2000 | 00-04-4336A | 17
04 | GA | COBB COUNTY* | 13067C0055F | 27-JUL-2000 | 00-04-4468A | 02
04 | GA | COBB COUNTY* | 13067C0040F | 31-AUG-2000 | 00-04-4644A | 02
04 | GA | COBB COUNTY* | 13067C0040F | 21-SEP-2000 | 00-04-4630A | 02
04 | GA | COBB COUNTY* | 13067C0030F | 12-OCT-2000 | 00-04-5090A | 02
04 | GA | COBB COUNTY* | 13067C0030F | 24-OCT-2000 | 00-04-5120A | 02
04 | GA | COBB COUNTY* | 13067C0035F | 28-NOV-2000 | 00-04-5140A | 02
04 | GA | COBB COUNTY* | 13067C0035F | 26-SEP-2000 | 00-04-5210A | 02
04 | GA | COBB COUNTY* | 13067C0055F | 28-NOV-2000 | 00-04-5300A | 02
04 | GA | COBB COUNTY* | 13067C0070F | 19-DEC-2000 | 00-04-5540A | 02
04 | GA | COBB COUNTY* | 13067C0065F | 19-DEC-2000 | 00-04-5588A | 02
04 | GA | COBB COUNTY* | 13067C0035F | 31-OCT-2000 | 00-04-5774A | 02
04 | GA | COBB COUNTY* | 13067C0010F | 09-NOV-2000 | 00-04-5798A | 02
04 | GA | COBB COUNTY* | 13067C0035F | 21-NOV-2000 | 01-04-0510A | 02
04 | GA | COBB COUNTY* | 13067C0050F | 05-DEC-2000 | 01-04-0720X | 02
04 | GA | COBB COUNTY* | 13067C0010F | 07-DEC-2000 | 01-04-0926X | 02
04 | GA | COLUMBUS, CITY OF | 1351580075D | 08-AUG-2000 | 00-04-4350A | 17
04 | GA | COLUMBUS, CITY OF | 1351580045D | 09-NOV-2000 | 01-04-0242A | 17
04 | GA | COVINGTON, CITY OF | 1301440004B | 08-AUG-2000 | 00-04-3580A | 02
04 | GA | CRISP COUNTY* | 1305040025A | 20-JUL-2000 | 00-04-2054A | 02
04 | GA | DALTON, CITY OF | 1301940005C | 16-NOV-2000 | 00-04-4936A | 01
04 | GA | DAWSON COUNTY | 1303040075A | 01-NOV-2000 | 00-04-137P | 05
04 | GA | DE KALB COUNTY * | 1300650008C | 11-JUL-2000 | 00-04-3204A | 02
04 | GA | DE KALB COUNTY * | 1300650003E | 22-AUG-2000 | 00-04-3606A | 02
04 | GA | DE KALB COUNTY * | 1300650008C | 26-OCT-2000 | 00-04-3798A | 02
04 | GA | DE KALB COUNTY * | 1300650003E | 22-AUG-2000 | 00-04-3976A | 02
04 | GA | DE KALB COUNTY * | 1300650006D | 28-SEP-2000 | 00-04-4416A | 02
04 | GA | DE KALB COUNTY * | 1300650005G | 26-SEP-2000 | 00-04-4442A | 02
04 | GA | DE KALB COUNTY * | 1300650006D | 28-JUL-2000 | 00-04-4650A | 02
04 | GA | DE KALB COUNTY * | 1300650010C | 26-OCT-2000 | 00-04-4672A | 02
04 | GA | DE KALB COUNTY * | 1300650013F | 14-NOV-2000 | 00-04-5740A | 02
04 | GA | DULUTH, CITY OF | 1300980002C | 27-JUL-2000 | 00-04-4526A | 02
04 | GA | DULUTH, CITY OF | 1300980002C | 12-SEP-2000 | 00-04-4802A | 02
04 | GA | DULUTH, CITY OF | 1300980002C | 28-SEP-2000 | 00-04-5412A | 02
04 | GA | DULUTH, CITY OF | 1300980002C | 02-NOV-2000 | 00-04-5744A | 02
04 | GA | EATONTON, CITY OF | 1302180005B | 12-SEP-2000 | 00-04-1830A | 02
04 | GA | FANNIN COUNTY | 13111C0060D | 26-SEP-2000 | 00-04-2496A | 02
04 | GA | FORSYTH COUNTY * | 13117C0115C | 17-OCT-2000 | 00-04-4104A | 02
04 | GA | FORSYTH COUNTY * | 13117C0125C | 21-SEP-2000 | 00-04-4184A | 02
04 | GA | FORSYTH COUNTY * | 13117C0125C | 16-NOV-2000 | 00-04-5778A | 02
04 | GA | FORT OGLETHORPE, CITY OF | 1302480001B | 10-AUG-2000 | 00-04-4538A | 02
04 | GA | FULTON COUNTY * | 13121C0163E | 19-DEC-2000 | 00-04-3800A | 01
04 | GA | FULTON COUNTY * | 13121C0333E | 29-AUG-2000 | 00-04-3872A | 17
04 | GA | FULTON COUNTY * | 13121C0353E | 30-NOV-2000 | 00-04-4092A | 02
04 | GA | FULTON COUNTY * | 13121C0015E | 31-OCT-2000 | 00-04-4776A | 02
04 | GA | FULTON COUNTY * | 13121C0087E | 07-NOV-2000 | 00-04-4934A | 01
04 | GA | FULTON COUNTY * | 13121C0115E | 26-SEP-2000 | 00-04-5418A | 02
04 | GA | FULTON COUNTY * | 13121C0062E | 27-DEC-2000 | 00-04-329P | 05
04 | GA | FULTON COUNTY * | 13121C0343E | 31-OCT-2000 | 00-04-5640A | 01
04 | GA | FULTON COUNTY * | 13121C0080E | 21-SEP-2000 | 00-04-2694A | 02
04 | GA | GWINNETT COUNTY * | 1303220195C | 22-AUG-2000 | 00-04-3620A | 02
04 | GA | GWINNETT COUNTY * | 1303220190C | 04-DEC-2000 | 00-04-3804A | 02
04 | GA | GWINNETT COUNTY * | 1303220180C | 31-OCT-2000 | 00-04-4554A | 02
04 | GA | GWINNETT COUNTY * | 1303220065B | 17-OCT-2000 | 00-04-4716A | 01
04 | GA | GWINNETT COUNTY * | 1303220160E | 26-SEP-2000 | 00-04-4790A | 02
04 | GA | GWINNETT COUNTY * | 1303220170C | 31-AUG-2000 | 00-04-2174A | 02
04 | GA | GWINNETT COUNTY * | 1303220170C | 21-SEP-2000 | 00-04-5732X | 02
04 | GA | GWINNETT COUNTY * | 1303220160E | 16-NOV-2000 | 00-04-5838A | 02
04 | GA | HARRIS COUNTY* | 1303380150A | 27-JUL-2000 | 00-04-4474A | 02
04 | GA | HARRIS COUNTY* | 1303380150A | 19-SEP-2000 | 00-04-4608A | 02
04 | GA | HOUSTON COUNTY * | 1302470075A | 18-JUL-2000 | 00-04-2018A | 02
04 | GA | KENNESAW, CITY OF | 13067C0030F | 05-DEC-2000 | 00-04-5898A | 02
04 | GA | LAWRENCEVILLE, CITY OF | 1300990002B | 29-AUG-2000 | 00-04-3326A | 01
04 | GA | LEE COUNTY * | 1301220250B | 19-SEP-2000 | 00-04-4814A | 17
04 | GA | LUMPKIN COUNTY | 1303540225A | 02-NOV-2000 | 00-04-2584A | 02
04 | GA | LUMPKIN COUNTY | 1303540135A | 09-NOV-2000 | 00-04-5306A | 02
04 | GA | MARIETTA, CITY OF | 13067C0035F | 05-OCT-2000 | 00-04-4052A | 02
04 | GA | MARIETTA, CITY OF | 13067C0035F | 21-SEP-2000 | 00-04-4100A | 02
04 | GA | MARIETTA, CITY OF | 13067C0035F | 28-DEC-2000 | 01-04-0970A | 02
04 | GA | MITCHELL COUNTY * | 1304380025B | 21-SEP-2000 | 00-04-3582A | 02
04 | GA | MONROE COUNTY* | 1301380025C | 18-JUL-2000 | 00-04-2858A | 02
04 | GA | MURRAY COUNTY* | 1303660175B | 19-OCT-2000 | 00-04-2756A | 02
04 | GA | PAULDING COUNTY * | 13223C0265B | 21-SEP-2000 | 00-04-3118A | 02
04 | GA | PAULDING COUNTY * | 13223C0253B | 21-SEP-2000 | 00-04-4376A | 02
04 | GA | PAULDING COUNTY * | 13223C0253B | 07-NOV-2000 | 00-04-5594A | 02
04 | GA | PEACHTREE CITY, CITY OF | 13113C0080D | 16-NOV-2000 | 00-04-5644A | 02
04 | GA | POOLER, TOWN OF | 1300300075C | 19-SEP-2000 | 00-04-3924A | 01
04 | GA | POWDER SPRINGS, CITY OF | 13067C0065F | 31-AUG-2000 | 00-04-3870A | 02
04 | GA | POWDER SPRINGS, CITY OF | 13067C0065F | 14-DEC-2000 | 00-04-5844A | 02
04 | GA | RABUN COUNTY * | 1301560125B | 31-AUG-2000 | 00-04-3050A | 02
04 | GA | RICHMOND COUNTY* | 1301580060E | 18-JUL-2000 | 00-04-2950A | 02
04 | GA | RICHMOND COUNTY* | 1301580020E | 29-SEP-2000 | 00-04-5436A | 02
04 | GA | ROCKDALE COUNTY * | 1303840015A | 19-SEP-2000 | 00-04-4114A | 02
04 | GA | ROME, CITY OF | 1300810010C | 19-SEP-2000 | 00-04-5032A | 02
04 | GA | ROSSVILLE, CITY OF | 1301830001B | 28-SEP-2000 | 00-04-5336A | 02
04 | GA | ROSWELL, CITY OF | 13121C0061E | 10-AUG-2000 | 00-04-3788A | 02
04 | GA | THOMASTON, CITY OF | 13293C0065B | 01-AUG-2000 | 00-04-3932A | 02
04 | GA | UNION COUNTY* | 1302540025C | 10-AUG-2000 | 00-04-4154A | 02
04 | GA | VALDOSTA, CITY OF | 1302000005D | 22-AUG-2000 | 00-04-3968A | 02
04 | GA | WALKER COUNTY * | 1301800140C | 29-AUG-2000 | 00-04-4238A | 02
04 | GA | WAYCROSS, CITY OF | 1301860003B | 24-AUG-2000 | 00-04-3416A | 02
04 | GA | WAYCROSS, CITY OF | 1301860003B | 29-AUG-2000 | 00-04-4222A | 02
04 | GA | WAYCROSS, CITY OF | 1301860003B | 29-AUG-2000 | 00-04-4224A | 02
04 | GA | WHITFIELD COUNTY* | 1301930190C | 05-OCT-2000 | 00-04-5988A | 02
04 | GA | WOODSTOCK, CITY OF | 13057C0310C | 22-AUG-2000 | 99-04-353P | 06
04 | GA | WOODSTOCK, CITY OF | 13057C0310C | 17-OCT-2000 | 00-04-4098A | 01
04 | GA | WOODSTOCK, CITY OF | 13057C0330B | 12-SEP-2000 | 00-04-4086X | 01
04 | KY | BOONE COUNTY * | 2100130030B | 21-SEP-2000 | 00-04-5084A | 02
04 | KY | BULLITT COUNTY* | 2102739999B | 21-DEC-2000 | 00-04-5906A | 02
04 | KY | DAVIESS COUNTY * | 21059C0120C | 05-DEC-2000 | 01-04-0214A | 02
04 | KY | GALLATIN COUNTY* | 2102810020A | 12-DEC-2000 | 01-04-0336A | 02
04 | KY | HARLAN, CITY OF | 2101020001B | 26-SEP-2000 | 00-04-3720A | 02
04 | KY | HARLAN, CITY OF | 2101020001B | 26-SEP-2000 | 00-04-3756A | 02
04 | KY | HARLAN, CITY OF | 2101020001B | 17-OCT-2000 | 00-04-3758A | 02
04 | KY | JEFFERSON COUNTY* | 21111C0020D | 12-SEP-2000 | 00-04-1210A | 01
04 | KY | JEFFERSON COUNTY* | 21111C0095D | 17-AUG-2000 | 00-04-2092A | 02
04 | KY | JEFFERSON COUNTY* | 21111C0095D | 10-AUG-2000 | 00-04-2936A | 02
04 | KY | JEFFERSON COUNTY* | 21111C0085D | 01-AUG-2000 | 00-04-3100A | 02
04 | KY | JEFFERSON COUNTY* | 21111C0205D | 20-JUL-2000 | 00-04-3322A | 02
04 | KY | JEFFERSON COUNTY* | 21111C0085D | 05-OCT-2000 | 00-04-3396A | 01
04 | KY | JEFFERSON COUNTY* | 21111C0145D | 08-AUG-2000 | 00-04-3590A | 02
04 | KY | JEFFERSON COUNTY* | 21111C0080D | 25-JUL-2000 | 00-04-3978A | 02
04 | KY | JEFFERSON COUNTY* | 21111C0095D | 26-JUL-2000 | 00-04-4300A | 02
04 | KY | JEFFERSON COUNTY* | 21111C0170D | 22-AUG-2000 | 00-04-4428A | 02
04 | KY | JEFFERSON COUNTY* | 21111C0170D | 22-AUG-2000 | 00-04-4430A | 02
04 | KY | JEFFERSON COUNTY* | 21111C0105D | 10-AUG-2000 | 00-04-4806A | 02
04 | KY | JEFFERSON COUNTY* | 21111C0145D | 26-SEP-2000 | 00-04-5270A | 02
04 | KY | JEFFERSON COUNTY* | 21111C0260D | 29-SEP-2000 | 00-04-5678A | 02
04 | KY | JEFFERSON COUNTY* | 21111C0160D | 16-NOV-2000 | 01-04-0494A | 02
04 | KY | JEFFERSON COUNTY* | 21111C0095D | 19-DEC-2000 | 01-04-0520A | 02
04 | KY | JEFFERSON COUNTY* | 21111C0105D | 21-DEC-2000 | 01-04-0632A | 02
04 | KY | JEFFERSON COUNTY* | 21111C0095D | 28-DEC-2000 | 01-04-0648A | 02
04 | KY | JEFFERSON COUNTY* | 21111C0170D | 19-DEC-2000 | 01-04-1030A | 02
04 | KY | JEFFERSONTOWN, CITY OF | 21111C0115D | 26-OCT-2000 | 00-04-5722A | 02
04 | KY | LEBANON, CITY OF | 210162 B | 29-SEP-2000 | 00-04-4462A | 02
04 | KY | LEXINGTON-FAYETTE URBAN COUNTY GOVERNMENT | 2100670010C | 01-AUG-2000 | 00-04-1932A | 02
04 | KY | LEXINGTON-FAYETTE URBAN COUNTY GOVERNMENT | 2100670090C | 10-AUG-2000 | 00-04-3288A | 02
04 | KY | LEXINGTON-FAYETTE URBAN COUNTY GOVERNMENT | 2100670080C | 17-OCT-2000 | 00-04-4058A | 01
04 | KY | LEXINGTON-FAYETTE URBAN COUNTY GOVERNMENT | 2100670070C | 26-SEP-2000 | 00-04-4584A | 02
04 | KY | LEXINGTON-FAYETTE URBAN COUNTY GOVERNMENT | 2100670080C | 21-DEC-2000 | 00-04-4864A | 01
04 | KY | LEXINGTON-FAYETTE URBAN COUNTY GOVERNMENT | 2100670090C | 24-OCT-2000 | 00-04-5356A | 02
04 | KY | LEXINGTON-FAYETTE URBAN COUNTY GOVERNMENT | 2100670040C | 29-SEP-2000 | 00-04-4738A | 02
04 | KY | LEXINGTON-FAYETTE URBAN COUNTY GOVERNMENT | 2100670090C | 12-DEC-2000 | 01-04-0326A | 02
04 | KY | LEXINGTON-FAYETTE URBAN COUNTY GOVERNMENT | 2100670080C | 28-NOV-2000 | 01-04-0424A | 02
04 | KY | LEXINGTON-FAYETTE URBAN COUNTY GOVERNMENT | 2100670090C | 19-DEC-2000 | 01-04-0618A | 02
04 | KY | LEXINGTON-FAYETTE URBAN COUNTY GOVERNMENT | 2100670080C | 07-DEC-2000 | 01-04-0790A | 02
04 | KY | LOUISVILLE, CITY OF | 21111C0165D | 27-JUL-2000 | 00-04-4556A | 02
04 | KY | LOUISVILLE, CITY OF | 21111C0165D | 24-OCT-2000 | 00-04-5658A | 02
04 | KY | LOUISVILLE, CITY OF | 21111C0080D | 19-DEC-2000 | 01-04-0516A | 02
04 | KY | MIDDLESBORO, CITY OF | 2151900005B | 05-DEC-2000 | 00-04-4330A | 02
04 | KY | MIDDLESBORO, CITY OF | 2151900005B | 15-AUG-2000 | 00-04-4398A | 02
04 | KY | MIDDLESBORO, CITY OF | 2151900005B | 22-AUG-2000 | 00-04-4400A | 02
04 | KY | MIDDLESBORO, CITY OF | 2151900005B | 05-DEC-2000 | 01-04-0042A | 02
04 | KY | OWENSBORO, CITY OF | 21059C0260C | 22-AUG-2000 | 00-04-4406A | 02
04 | KY | OWENSBORO, CITY OF | 21059C0280C | 10-OCT-2000 | 00-04-4968A | 02
04 | KY | PADUCAH, CITY OF | 2101520006D | 28-SEP-2000 | 00-04-5456A | 02
04 | KY | PIKE COUNTY* | 21195C0119F | 26-OCT-2000 | 00-04-6000A | 02
04 | KY | PIKE COUNTY* | 21195C0025F | 15-DEC-2000 | 00-04-041P | 05
04 | KY | PIKEVILLE, CITY OF | 21195C0118F | 15-DEC-2000 | 00-04-041P | 05
04 | KY | SOMERSET, CITY OF | 210199 B | 12-JUL-2000 | 00-04-1672A | 01
04 | KY | VINE GROVE, CITY OF | 21093C0053C | 14-DEC-2000 | 00-04-4516A | 02
04 | KY | WILMORE, CITY OF | 2103110001A | 29-AUG-2000 | 00-04-4788A | 02
04 | KY | WILMORE, CITY OF | 2103110001A | 26-SEP-2000 | 00-04-5712X | 02
04 | KY | WINCHESTER, CITY OF | 2100560001B | 28-NOV-2000 | 01-04-0124A | 02
04 | MS | BOONEVILLE, CITY OF | 280135 A | 22-AUG-2000 | 00-04-3316A | 02
04 | MS | CANTON, CITY OF | 28089C0185E | 29-AUG-2000 | 00-04-4596A | 02
04 | MS | CLINTON, CITY OF | 2800710001C | 10-OCT-2000 | 00-04-5324A | 01
04 | MS | COLUMBUS, CITY OF | 28087C0065J | 03-OCT-2000 | 00-04-4662A | 01
04 | MS | COLUMBUS, CITY OF | 28087C0065J | 10-OCT-2000 | 00-04-5476A | 01
04 | MS | GULFPORT, CITY OF | 2852550185E | 11-JUL-2000 | 99-04-5580A | 01
04 | MS | HINDS COUNTY* | 2800700150D | 15-AUG-2000 | 00-04-4314A | 02
04 | MS | HORN LAKE, CITY OF | 28033C0040E | 05-OCT-2000 | 00-04-5136A | 01
04 | MS | JACKSON, CITY OF | 2800720015G | 19-JUL-2000 | 00-04-3222A | 02
04 | MS | JACKSON, CITY OF | 2800720040F | 29-AUG-2000 | 00-04-4310A | 01
04 | MS | JACKSON, CITY OF | 2800720040F | 28-NOV-2000 | 01-04-0134A | 01
04 | MS | LAFAYETTE COUNTY * | 2800930125B | 11-JUL-2000 | 00-04-2880A | 01
04 | MS | LAFAYETTE COUNTY * | 2800930100B | 05-DEC-2000 | 01-04-0278A | 01
04 | MS | LEE COUNTY * | 28081C0100D | 28-SEP-2000 | 99-04-4168A | 02
04 | MS | LOWNDES COUNTY * | 28087C0105J | 03-OCT-2000 | 00-04-4918A | 01
04 | MS | MADISON, CITY OF | 28089C0310D | 27-JUL-2000 | 00-04-2522A | 02
04 | MS | MADISON, CITY OF | 28089C0320D | 12-OCT-2000 | 00-04-5582A | 02
04 | MS | MERIDIAN, CITY OF | 28075C0084D | 27-JUL-2000 | 00-04-2818A | 02
04 | MS | MERIDIAN, CITY OF | 28075C0101E | 31-AUG-2000 | 00-04-3842A | 02
04 | MS | NESHOBA COUNTY * | 2802760060B | 31-OCT-2000 | 00-04-5234A | 01
04 | MS | OLIVE BRANCH,TOWN OF | 28033C0035F | 24-AUG-2000 | 01-04-1928V | 19
04 | MS | PEARL RIVER COUNTY * | 28109C0200D | 20-JUL-2000 | 00-04-2482A | 02
04 | MS | PEARL RIVER COUNTY * | 28109C0235D | 09-AUG-2000 | 00-04-4562A | 02
04 | MS | PEARL RIVER VALLEY WATER SUPPLY DISTRICT | 2803380065B | 10-OCT-2000 | 00-04-4834A | 01
04 | MS | PIKE COUNTY * | 2802780135B | 05-DEC-2000 | 01-04-0152A | 02
04 | MS | RANKIN COUNTY * | 2801420090C | 31-OCT-2000 | 00-04-5792A | 01
04 | MS | SALTILLO, TOWN OF | 28081C0100D | 28-SEP-2000 | 99-04-4168A | 02
04 | MS | SOUTHHAVEN, CITY OF | 28033C0035E | 06-JUL-2000 | 00-04-3256A | 01
04 | MS | SOUTHHAVEN, CITY OF | 28033C0043E | 31-OCT-2000 | 00-04-4932A | 02
04 | MS | SOUTHHAVEN, CITY OF | 28033C0041E | 31-OCT-2000 | 00-04-5192A | 02
04 | MS | SUMNER, TOWN OF | 280194 C | 09-NOV-2000 | 01-04-0228X | 02
04 | MS | TATE COUNTY * | 2802350200B | 17-OCT-2000 | 00-04-4276A | 02
04 | MS | TUPELO, CITY OF | 28081C0168D | 28-NOV-2000 | 01-04-0208A | 17
04 | MS | WARREN COUNTY* | 2801980125C | 07-DEC-2000 | 00-04-6002A | 02
04 | MS | WASHINGTON COUNTY* | 2801770230B | 19-SEP-2000 | 00-04-5338A | 02
04 | MS | WASHINGTON COUNTY* | 2801770230B | 19-SEP-2000 | 00-04-5376A | 02
04 | MS | WATER VALLEY, CITY OF | 280187 B | 29-AUG-2000 | 00-04-2676A | 02
04 | NC | ALAMANCE COUNTY* | 37001C0119E | 19-SEP-2000 | 00-04-5010A | 02
04 | NC | ALBEMARLE, CITY OF | 37167C0037D | 22-SEP-2000 | 01-04-0504V | 19
04 | NC | APEX, TOWN OF | 37183C0480E | 16-NOV-2000 | 01-04-0130A | 01
04 | NC | ASHEVILLE, CITY OF | 37021C0302C | 18-JUL-2000 | 00-04-2992A | 02
04 | NC | BATH, TOWN OF | 3702880001B | 18-JUL-2000 | 00-04-3780A | 02
04 | NC | BATH, TOWN OF | 3702880001B | 09-NOV-2000 | 00-04-5590X | 02
04 | NC | BRUNSWICK COUNTY* | 3702950265C | 08-AUG-2000 | 00-04-3078A | 02
04 | NC | BRUNSWICK COUNTY* | 3702950360E | 05-SEP-2000 | 00-04-3608A | 02
04 | NC | BRUNSWICK COUNTY* | 3702950360E | 29-SEP-2000 | 00-04-4706A | 02
04 | NC | BRUNSWICK COUNTY* | 3702950135D | 12-SEP-2000 | 00-04-4858A | 02
04 | NC | BRUNSWICK COUNTY* | 3702950360E | 29-SEP-2000 | 00-04-5514A | 02
04 | NC | BRUNSWICK COUNTY* | 3702950360E | 12-DEC-2000 | 01-04-0902A | 02
04 | NC | BUNCOMBE COUNTY * | 37021C0301C | 01-AUG-2000 | 00-04-2768A | 02
04 | NC | BUNCOMBE COUNTY * | 37021C0134C | 12-SEP-2000 | 00-04-4920A | 02
04 | NC | BURLINGTON, CITY OF | 37001C0112E | 29-SEP-2000 | 00-04-4200A | 01
04 | NC | CABARRUS COUNTY * | 37025C0115D | 12-OCT-2000 | 00-04-3946A | 01
04 | NC | CALDWELL COUNTY * | 37027C0050D | 21-SEP-2000 | 00-04-4734A | 02
04 | NC | CALDWELL COUNTY * | 37027C0050D | 19-DEC-2000 | 01-04-0150A | 02
04 | NC | CAROLINA BEACH, TOWN OF | 3753470001C | 05-SEP-2000 | 00-04-4586A | 02
04 | NC | CARRBORO, TOWN OF | 3703420255B | 20-DEC-2000 | 00-04-069P | 05
04 | NC | CARTERET COUNTY * | 3700430440C | 24-AUG-2000 | 00-04-3140A | 02
04 | NC | CARTERET COUNTY * | 3700430440C | 25-JUL-2000 | 00-04-3334A | 02
04 | NC | CARTERET COUNTY * | 3700430667D | 31-AUG-2000 | 00-04-4354A | 02
04 | NC | CARTERET COUNTY * | 3700430440C | 05-DEC-2000 | 01-04-0822A | 02
04 | NC | CARY, TOWN OF | 37183C0294E | 14-SEP-2000 | 00-04-3714A | 02
04 | NC | CATAWBA COUNTY * | 3700500325B | 18-JUL-2000 | 00-04-3390A | 02
04 | NC | CATAWBA COUNTY * | 3700500350C | 06-JUL-2000 | 00-04-3604A | 02
04 | NC | CATAWBA COUNTY * | 3700500350C | 26-SEP-2000 | 00-04-3772A | 02
04 | NC | CATAWBA COUNTY * | 3700500325B | 17-AUG-2000 | 00-04-3852A | 02
04 | NC | CATAWBA COUNTY * | 3700500350C | 24-AUG-2000 | 00-04-3896A | 02
04 | NC | CATAWBA COUNTY * | 3700500350C | 07-SEP-2000 | 00-04-4286A | 02
04 | NC | CATAWBA COUNTY * | 3700500350C | 26-OCT-2000 | 00-04-4408A | 02
04 | NC | CATAWBA COUNTY * | 3700500350C | 14-SEP-2000 | 00-04-4456A | 02
04 | NC | CATAWBA COUNTY * | 3700500325B | 31-OCT-2000 | 00-04-4496A | 02
04 | NC | CATAWBA COUNTY * | 3700500325B | 05-SEP-2000 | 00-04-4598A | 02
04 | NC | CATAWBA COUNTY * | 3700500350C | 21-SEP-2000 | 00-04-4634A | 02
04 | NC | CATAWBA COUNTY * | 3700500350C | 31-AUG-2000 | 00-04-4660A | 02
04 | NC | CATAWBA COUNTY * | 3700500325B | 28-SEP-2000 | 00-04-5012A | 02
04 | NC | CATAWBA COUNTY * | 3700500350C | 28-SEP-2000 | 00-04-5124A | 02
04 | NC | CATAWBA COUNTY * | 3700500350C | 26-SEP-2000 | 00-04-5216A | 02
04 | NC | CATAWBA COUNTY * | 3700500325B | 26-SEP-2000 | 00-04-5302A | 02
04 | NC | CATAWBA COUNTY * | 3700500325B | 28-SEP-2000 | 00-04-5450A | 02
04 | NC | CATAWBA COUNTY * | 3700500325B | 28-SEP-2000 | 00-04-5486A | 02
04 | NC | CATAWBA COUNTY * | 3700500325B | 12-OCT-2000 | 00-04-5568A | 02
04 | NC | CATAWBA COUNTY * | 3700500350C | 26-SEP-2000 | 00-04-5616A | 02
04 | NC | CATAWBA COUNTY * | 3700500075C | 26-OCT-2000 | 00-04-6016A | 02
04 | NC | CATAWBA COUNTY * | 3700500075C | 14-NOV-2000 | 01-04-0126A | 02
04 | NC | CATAWBA COUNTY * | 3700500325B | 28-NOV-2000 | 01-04-0106A | 02
04 | NC | CATAWBA COUNTY * | 3700500325B | 16-NOV-2000 | 01-04-0096A | 02
04 | NC | CATAWBA COUNTY * | 3700500325B | 07-NOV-2000 | 01-04-0084A | 02
04 | NC | CATAWBA COUNTY * | 3700500350C | 21-NOV-2000 | 01-04-0338A | 02
04 | NC | CATAWBA COUNTY * | 3700500350C | 16-NOV-2000 | 01-04-0294A | 02
04 | NC | CATAWBA COUNTY * | 3700500325B | 07-DEC-2000 | 01-04-0662A | 02
04 | NC | CATAWBA COUNTY * | 3700500350C | 12-DEC-2000 | 01-04-0848A | 02
04 | NC | CATAWBA COUNTY * | 3700500325B | 12-DEC-2000 | 01-04-0846A | 02
04 | NC | CATAWBA COUNTY * | 3700500350C | 07-DEC-2000 | 01-04-0898X | 02
04 | NC | CATAWBA COUNTY * | 3700500350C | 12-DEC-2000 | 01-04-0960A | 02
04 | NC | CATAWBA COUNTY * | 3700500325B | 21-DEC-2000 | 01-04-1124A | 02
04 | NC | CHAPEL HILL, TOWN OF | 3701800001E | 26-SEP-2000 | 00-04-4272A | 02
04 | NC | CHARLOTTE, CITY OF | 3701590013B | 10-OCT-2000 | 00-04-3584A | 02
04 | NC | CHARLOTTE, CITY OF | 3701590014B | 26-SEP-2000 | 00-04-4070A | 02
04 | NC | CHARLOTTE, CITY OF | 3701590022B | 20-OCT-2000 | 00-04-4386A | 02
04 | NC | CHARLOTTE, CITY OF | 3701590025B | 19-OCT-2000 | 00-04-5832A | 01
04 | NC | CHARLOTTE, CITY OF | 3701590025B | 30-NOV-2000 | 01-04-0230A | 01
04 | NC | CONCORD, CITY OF | 37025C0080D | 28-SEP-2000 | 00-04-5274A | 02
04 | NC | CONCORD, CITY OF | 37025C0080D | 26-SEP-2000 | 00-04-5276A | 02
04 | NC | CONCORD, CITY OF | 37025C0080D | 17-OCT-2000 | 00-04-5278A | 02
04 | NC | CONCORD, CITY OF | 37025C0082D | 28-SEP-2000 | 00-04-5304A | 02
04 | NC | CORNELIUS, TOWN OF | 3704980005A | 02-AUG-2000 | 00-04-3910A | 02
04 | NC | CORNELIUS, TOWN OF | 3704980005A | 07-JUL-2000 | 00-04-3518A | 02
04 | NC | CORNELIUS, TOWN OF | 3704980005A | 20-JUL-2000 | 00-04-4122A | 02
04 | NC | CORNELIUS, TOWN OF | 3704980005A | 29-AUG-2000 | 00-04-4620A | 02
04 | NC | CORNELIUS, TOWN OF | 3704980005A | 22-AUG-2000 | 00-04-4624A | 02
04 | NC | CORNELIUS, TOWN OF | 3704980005A | 21-SEP-2000 | 00-04-5040A | 02
04 | NC | CORNELIUS, TOWN OF | 3704980005A | 17-AUG-2000 | 00-04-3784A | 02
04 | NC | CORNELIUS, TOWN OF | 3704980005A | 26-SEP-2000 | 00-04-5126A | 02
04 | NC | CORNELIUS, TOWN OF | 3704980005A | 26-SEP-2000 | 00-04-5544A | 02
04 | NC | CORNELIUS, TOWN OF | 3704980005A | 29-SEP-2000 | 00-04-3832A | 02
04 | NC | CORNELIUS, TOWN OF | 3704980005A | 12-DEC-2000 | 00-04-4498A | 01
04 | NC | CORNELIUS, TOWN OF | 3704980005A | 21-SEP-2000 | 00-04-5100A | 02
04 | NC | CORNELIUS, TOWN OF | 3704980005A | 26-SEP-2000 | 00-04-5042A | 02
04 | NC | CORNELIUS, TOWN OF | 3704980005A | 29-SEP-2000 | 00-04-5828A | 02
04 | NC | CORNELIUS, TOWN OF | 3704980005A | 24-OCT-2000 | 00-04-4536A | 02
04 | NC | CORNELIUS, TOWN OF | 3704980005A | 19-OCT-2000 | 00-04-4850A | 02
04 | NC | CORNELIUS, TOWN OF | 3704980005A | 28-NOV-2000 | 01-04-0048A | 02
04 | NC | CORNELIUS, TOWN OF | 3704980005A | 16-NOV-2000 | 01-04-0172A | 02
04 | NC | CORNELIUS, TOWN OF | 3704980005A | 21-NOV-2000 | 01-04-0378A | 02
04 | NC | CORNELIUS, TOWN OF | 3704980005A | 14-NOV-2000 | 01-04-0392A | 02
04 | NC | CORNELIUS, TOWN OF | 3704980005A | 30-NOV-2000 | 01-04-0476A | 02
04 | NC | CORNELIUS, TOWN OF | 3704980005A | 12-DEC-2000 | 01-04-1006A | 02
04 | NC | CORNELIUS, TOWN OF | 3704980005A | 30-NOV-2000 | 01-04-0518A | 02
04 | NC | CORNELIUS, TOWN OF | 3704980005A | 14-DEC-2000 | 01-04-1040A | 02
04 | NC | CORNELIUS, TOWN OF | 3704980005A | 19-DEC-2000 | 01-04-1106A | 02
04 | NC | CORNELIUS, TOWN OF | 3704980005A | 21-DEC-2000 | 01-04-0824A | 02
04 | NC | CORNELIUS, TOWN OF | 3704980005A | 05-DEC-2000 | 01-04-0758A | 02
04 | NC | CRAVEN COUNTY* | 3700720225B | 25-JUL-2000 | 00-04-2564A | 02
04 | NC | CRAVEN COUNTY* | 3700720340B | 10-AUG-2000 | 00-04-3754A | 02
04 | NC | CRAVEN COUNTY* | 3700720330B | 26-SEP-2000 | 00-04-5088A | 02
04 | NC | CRAVEN COUNTY* | 3700720330B | 21-SEP-2000 | 00-04-5208A | 02
04 | NC | CRAVEN COUNTY* | 3700720320B | 12-DEC-2000 | 01-04-0810A | 02
04 | NC | CUMBERLAND COUNTY * | 3700760005B | 07-JUL-2000 | 00-04-3716V | 19
04 | NC | CURRITUCK COUNTY * | 3700780050C | 05-OCT-2000 | 00-04-149P | 05
04 | NC | DARE COUNTY* | 3753480810D | 18-AUG-2000 | 00-04-269P | 05
04 | NC | DARE COUNTY* | 3753480118D | 28-SEP-2000 | 00-04-4950A | 01
04 | NC | DARE COUNTY* | 3753480113D | 05-DEC-2000 | 01-04-0416A | 02
04 | NC | DARE COUNTY* | 3753480006E | 21-DEC-2000 | 01-04-0668V | 19
04 | NC | DAVIDSON COUNTY * | 3703070150B | 27-JUL-2000 | 00-04-3624A | 02
04 | NC | DAVIDSON COUNTY * | 3703070150B | 21-SEP-2000 | 00-04-3586A | 02
04 | NC | DAVIDSON COUNTY * | 3703070150B | 31-AUG-2000 | 00-04-4072A | 02
04 | NC | DAVIDSON COUNTY * | 3703070150B | 29-SEP-2000 | 00-04-4518A | 02
04 | NC | DAVIDSON COUNTY * | 3703070150B | 12-SEP-2000 | 00-04-4638A | 02
04 | NC | DAVIDSON COUNTY * | 3703070120B | 12-SEP-2000 | 00-04-4670A | 02
04 | NC | DAVIDSON COUNTY * | 3703070150B | 12-SEP-2000 | 00-04-4732A | 02
04 | NC | DAVIDSON COUNTY * | 3703070150B | 24-OCT-2000 | 00-04-4838A | 02
04 | NC | DAVIDSON COUNTY * | 37057C0300D | 26-SEP-2000 | 00-04-5020A | 02
04 | NC | DAVIDSON COUNTY * | 37057C0075D | 07-NOV-2000 | 00-04-5256A | 01
04 | NC | DAVIDSON COUNTY * | 3703070150B | 26-SEP-2000 | 00-04-5752A | 02
04 | NC | DAVIDSON COUNTY * | 37057C0300D | 02-NOV-2000 | 01-04-0236A | 02
04 | NC | DAVIDSON COUNTY * | 37057C0325D | 16-NOV-2000 | 01-04-0384A | 02
04 | NC | DAVIDSON COUNTY * | 37057C0325D | 05-DEC-2000 | 01-04-0582A | 02
04 | NC | DAVIDSON COUNTY * | 37057C0020D | 08-SEP-2000 | 01-04-0498V | 19
04 | NC | DAVIDSON COUNTY * | 3703070150B | 12-DEC-2000 | 01-04-0890A | 02
04 | NC | DAVIDSON COUNTY * | 37057C0300D | 19-DEC-2000 | 01-04-1184A | 02
04 | NC | DAVIDSON, TOWN OF | 3705030005A | 07-DEC-2000 | 01-04-0380A | 02
04 | NC | DAVIE COUNTY * | 3703080045C | 22-AUG-2000 | 00-04-4558A | 02
04 | NC | DUPLIN COUNTY * | 3700830275B | 14-NOV-2000 | 01-04-0058A | 02
04 | NC | DUPLIN COUNTY * | 3700830200B | 14-NOV-2000 | 01-04-0472A | 02
04 | NC | DURHAM COUNTY * | 37063C0153G | 21-SEP-2000 | 00-04-2782A | 01
04 | NC | DURHAM, CITY OF | 37063C0153G | 25-JUL-2000 | 00-04-4134A | 02
04 | NC | DURHAM, CITY OF | 37063C0167G | 19-SEP-2000 | 00-04-5264A | 02
04 | NC | EDGECOMBE COUNTY * | 3700870130B | 08-AUG-2000 | 00-04-4148A | 02
04 | NC | EMERALD ISLE, TOWN OF | 3700470003D | 26-SEP-2000 | 00-04-3996A | 02
04 | NC | EMERALD ISLE, TOWN OF | 3700470001D | 29-SEP-2000 | 00-04-5068A | 02
04 | NC | FORSYTH COUNTY * | 37067C0187H | 30-NOV-2000 | 00-04-5754A | 02
04 | NC | GARNER, TOWN OF | 37183C0544E | 28-SEP-2000 | 00-04-5488A | 02
04 | NC | GREENVILLE, CITY OF | 3701910005B | 26-OCT-2000 | 00-04-4750A | 02
04 | NC | HENDERSON COUNTY * | 3701250095B | 02-NOV-2000 | 00-04-5360A | 02
04 | NC | HICKORY, CITY OF | 3700540010C | 19-SEP-2000 | 00-04-3312A | 02
04 | NC | HICKORY, CITY OF | 3700540015B | 28-NOV-2000 | 00-04-3650A | 02
04 | NC | HICKORY, CITY OF | 3700540015B | 31-OCT-2000 | 00-04-4390A | 02
04 | NC | HICKORY, CITY OF | 37027C0050D | 05-DEC-2000 | 00-04-5696A | 02
04 | NC | HICKORY, CITY OF | 3700540010C | 26-SEP-2000 | 00-04-5772A | 02
04 | NC | HICKORY, CITY OF | 3700540015B | 05-DEC-2000 | 01-04-0752X | 02
04 | NC | HIGH POINT, CITY OF | 3701130013C | 20-JUL-2000 | 00-04-1806A | 02
04 | NC | HIGH POINT, CITY OF | 3701130011C | 26-SEP-2000 | 00-04-3514A | 02
04 | NC | HIGH POINT, CITY OF | 3701130004C | 14-NOV-2000 | 00-04-5024A | 02
04 | NC | HIGH POINT, CITY OF | 3701130011C | 12-OCT-2000 | 00-04-5142A | 02
04 | NC | HIGH POINT, CITY OF | 3701130004C | 21-NOV-2000 | 00-04-5536A | 02
04 | NC | INDIAN BEACH, TOWN OF | 3704330001B | 12-DEC-2000 | 00-04-5894A | 01
04 | NC | INDIAN TRAIL, TOWN OF | 37179C0080C | 17-AUG-2000 | 00-04-163P | 05
04 | NC | IREDELL COUNTY * | 3703130215B | 09-NOV-2000 | 00-04-5512A | 01
04 | NC | JACKSONVILLE, CITY OF | 3701780006B | 14-NOV-2000 | 00-04-5038A | 02
04 | NC | JOHNSTON COUNTY * | 37101C0010D | 21-OCT-2000 | 01-04-0036V | 19
04 | NC | KERNERSVILLE, TOWN OF | 37067C0302H | 24-OCT-2000 | 00-04-6032A | 02
04 | NC | KINSTON, CITY OF | 3701450010C | 19-DEC-2000 | 01-04-0754A | 02
04 | NC | LENOIR COUNTY * | 3701440070B | 20-JUL-2000 | 00-04-2792A | 01
04 | NC | LEXINGTON, CITY OF | 37057C0182D | 08-SEP-2000 | 01-04-1930V | 19
04 | NC | LONG BEACH, TOWN OF | 3753540004E | 27-JUL-2000 | 00-04-3538A | 02
04 | NC | LONG BEACH, TOWN OF | 3753540002D | 09-NOV-2000 | 00-04-5532A | 02
04 | NC | LONG BEACH, TOWN OF | 3753540002D | 16-NOV-2000 | 00-04-5660A | 02
04 | NC | LONG BEACH, TOWN OF | 3753540004E | 09-NOV-2000 | 01-04-0142A | 02
04 | NC | LUMBERTON, CITY OF | 37155C0178D | 15-SEP-2000 | 00-04-4712A | 01
04 | NC | MCDOWELL COUNTY* | 37111C0150C | 21-SEP-2000 | 00-04-4494A | 02
04 | NC | MECKLENBURG COUNTY * | 3701580140C | 10-AUG-2000 | 00-04-2444A | 01
04 | NC | MECKLENBURG COUNTY * | 3701580005D | 29-SEP-2000 | 00-04-175P | 06
04 | NC | MECKLENBURG COUNTY * | 3704980005A | 19-SEP-2000 | 00-04-4550A | 02
04 | NC | MECKLENBURG COUNTY * | 3701580015D | 29-SEP-2000 | 00-04-4500A | 02
04 | NC | MECKLENBURG COUNTY * | 3701580185B | 26-SEP-2000 | 00-04-4774A | 02
04 | NC | MECKLENBURG COUNTY * | 3701580190B | 28-NOV-2000 | 00-04-5200A | 02
04 | NC | MECKLENBURG COUNTY * | 3701580185B | 21-NOV-2000 | 00-04-5524A | 02
04 | NC | MECKLENBURG COUNTY * | 3701580210B | 05-DEC-2000 | 01-04-0078A | 01
04 | NC | MECKLENBURG COUNTY * | 3701580030D | 28-NOV-2000 | 01-04-0418A | 02
04 | NC | MONTGOMERY COUNTY * | 3703360025B | 08-AUG-2000 | 00-04-3142A | 02
04 | NC | MONTGOMERY COUNTY * | 3703360025B | 13-SEP-2000 | 00-04-3860A | 02
04 | NC | MONTGOMERY COUNTY * | 3703360025B | 11-JUL-2000 | 00-04-3970A | 02
04 | NC | MONTGOMERY COUNTY * | 3703360025B | 07-SEP-2000 | 00-04-4088A | 02
04 | NC | MONTGOMERY COUNTY * | 3703360025B | 29-AUG-2000 | 00-04-4534A | 02
04 | NC | MONTGOMERY COUNTY * | 3703360025B | 08-AUG-2000 | 00-04-4432A | 02
04 | NC | MONTGOMERY COUNTY * | 3703360065B | 26-SEP-2000 | 00-04-4466A | 02
04 | NC | MONTGOMERY COUNTY * | 3703360055B | 12-SEP-2000 | 00-04-4470A | 02
04 | NC | MONTGOMERY COUNTY * | 3703360025B | 15-SEP-2000 | 00-04-4512A | 02
04 | NC | MONTGOMERY COUNTY * | 3703360025B | 26-SEP-2000 | 00-04-4742A | 02
04 | NC | MONTGOMERY COUNTY * | 3703360025B | 12-SEP-2000 | 00-04-4966A | 02
04 | NC | MONTGOMERY COUNTY * | 3703360025B | 07-SEP-2000 | 00-04-5064A | 02
04 | NC | MONTGOMERY COUNTY * | 3703360025B | 21-SEP-2000 | 00-04-5092A | 02
04 | NC | MONTGOMERY COUNTY * | 3703360025B | 28-SEP-2000 | 00-04-5362A | 02
04 | NC | MONTGOMERY COUNTY * | 3703360065B | 26-SEP-2000 | 00-04-5400A | 02
04 | NC | MONTGOMERY COUNTY * | 3703360025B | 21-SEP-2000 | 00-04-5422A | 02
04 | NC | MONTGOMERY COUNTY * | 3703360025B | 26-SEP-2000 | 00-04-5428A | 02
04 | NC | MONTGOMERY COUNTY * | 3703360065B | 28-SEP-2000 | 00-04-5448A | 02
04 | NC | MONTGOMERY COUNTY * | 3703360025B | 19-SEP-2000 | 00-04-5480X | 02
04 | NC | MONTGOMERY COUNTY * | 3703360025B | 26-SEP-2000 | 00-04-5484A | 02
04 | NC | MONTGOMERY COUNTY * | 3703360025B | 26-SEP-2000 | 00-04-5564A | 02
04 | NC | MONTGOMERY COUNTY * | 3703360055B | 26-SEP-2000 | 00-04-5598A | 02
04 | NC | MONTGOMERY COUNTY * | 3703360025B | 26-SEP-2000 | 00-04-5766A | 02
04 | NC | MONTGOMERY COUNTY * | 3703360025B | 26-SEP-2000 | 00-04-5848A | 02
04 | NC | MONTGOMERY COUNTY * | 3703360025B | 07-NOV-2000 | 01-04-0110A | 02
04 | NC | MONTGOMERY COUNTY * | 3703360025B | 31-OCT-2000 | 01-04-0220A | 02
04 | NC | MONTGOMERY COUNTY * | 3703360025B | 21-NOV-2000 | 01-04-0414A | 02
04 | NC | MONTGOMERY COUNTY * | 3703360025B | 16-NOV-2000 | 01-04-0490A | 02
04 | NC | MONTGOMERY COUNTY * | 3703360025B | 05-DEC-2000 | 01-04-0550A | 02
04 | NC | MONTGOMERY COUNTY * | 3703360025B | 05-DEC-2000 | 01-04-0546A | 02
04 | NC | MONTGOMERY COUNTY * | 3703360025B | 05-DEC-2000 | 01-04-0760A | 02
04 | NC | MONTGOMERY COUNTY * | 3703360025B | 30-NOV-2000 | 01-04-0756A | 02
04 | NC | MONTGOMERY COUNTY * | 3703360065B | 12-DEC-2000 | 01-04-0844A | 02
04 | NC | MONTGOMERY COUNTY * | 3703360025B | 21-DEC-2000 | 01-04-1186A | 02
04 | NC | MONTGOMERY COUNTY * | 3703360025B | 28-DEC-2000 | 01-04-1254A | 02
04 | NC | MONTGOMERY COUNTY * | 3703360055B | 28-DEC-2000 | 01-04-1290A | 02
04 | NC | MORRISVILLE, TOWN OF | 37183C0292E | 22-AUG-2000 | 00-04-3506A | 01
04 | NC | MORRISVILLE, TOWN OF | 37183C0292E | 22-AUG-2000 | 00-04-3508A | 01
04 | NC | NASH COUNTY * | 3702780150B | 27-JUL-2000 | 00-04-3850A | 02
04 | NC | NEW HANOVER COUNTY* | 3701680091E | 07-SEP-2000 | 00-04-4378A | 02
04 | NC | NEW HANOVER COUNTY* | 3701680045E | 12-SEP-2000 | 00-04-4856A | 02
04 | NC | NEW HANOVER COUNTY* | 3701680090E | 26-SEP-2000 | 00-04-4946A | 02
04 | NC | NEW HANOVER COUNTY* | 3701680090E | 28-SEP-2000 | 00-04-5596A | 02
04 | NC | NEW HANOVER COUNTY* | 3701680061F | 26-SEP-2000 | 00-04-5620A | 02
04 | NC | NEW HANOVER COUNTY* | 3701680045E | 28-SEP-2000 | 00-04-5738A | 02
04 | NC | NEW HANOVER COUNTY* | 3701680085E | 26-OCT-2000 | 00-04-6018A | 02
04 | NC | NEW HANOVER COUNTY* | 3701680045E | 14-NOV-2000 | 01-04-0292A | 02
04 | NC | NEWPORT, TOWN OF | 3700490004C | 19-JUL-2000 | 00-04-3418A | 02
04 | NC | NORTH WILKESBORO, TOWN OF | 3702570003C | 29-AUG-2000 | 00-04-2774A | 02
04 | NC | ONSLOW COUNTY* | 3703400470D | 12-SEP-2000 | 00-04-4090A | 02
04 | NC | ONSLOW COUNTY* | 3703400305C | 09-NOV-2000 | 00-04-4294A | 01
04 | NC | ONSLOW COUNTY* | 3703400300C | 07-SEP-2000 | 00-04-4418A | 02
04 | NC | ONSLOW COUNTY* | 3703400175C | 26-SEP-2000 | 00-04-4480A | 02
04 | NC | ONSLOW COUNTY* | 3703400305C | 05-SEP-2000 | 00-04-4824A | 02
04 | NC | ONSLOW COUNTY* | 3703400305C | 19-SEP-2000 | 00-04-5206A | 02
04 | NC | ONSLOW COUNTY* | 3703400355C | 26-OCT-2000 | 00-04-5434A | 02
04 | NC | ONSLOW COUNTY* | 3703400300C | 28-SEP-2000 | 00-04-5736A | 02
04 | NC | ONSLOW COUNTY* | 3703400300C | 26-SEP-2000 | 00-04-5758A | 02
04 | NC | ONSLOW COUNTY* | 3703400305C | 02-NOV-2000 | 01-04-0224X | 02
04 | NC | ONSLOW COUNTY* | 3703400305C | 14-NOV-2000 | 01-04-0256A | 02
04 | NC | ONSLOW COUNTY* | 3703400160C | 12-DEC-2000 | 01-04-0298A | 02
04 | NC | ORANGE COUNTY * | 3703420330B | 29-AUG-2000 | 00-04-3130A | 02
04 | NC | PAMLICO COUNTY | 3701810265B | 27-JUL-2000 | 00-04-3992A | 02
04 | NC | PENDER COUNTY* | 3703440527C | 12-SEP-2000 | 00-04-4532A | 02
04 | NC | PENDER COUNTY* | 3703440527C | 07-SEP-2000 | 00-04-4502A | 02
04 | NC | PENDER COUNTY* | 3703440394B | 21-SEP-2000 | 00-04-5170A | 02
04 | NC | PENDER COUNTY* | 3703440531C | 29-SEP-2000 | 00-04-5580A | 02
04 | NC | PERQUIMANS COUNTY * | 3703150210B | 26-SEP-2000 | 00-04-3376A | 02
04 | NC | PERQUIMANS COUNTY * | 3703150210B | 19-DEC-2000 | 01-04-0532A | 02
04 | NC | PITT COUNTY * | 3703720250C | 11-JUL-2000 | 00-04-3072A | 02
04 | NC | PITT COUNTY * | 3703720250C | 12-DEC-2000 | 01-04-0250A | 02
04 | NC | PLYMOUTH, TOWN OF | 3702490003C | 12-SEP-2000 | 00-04-4452A | 02
04 | NC | RALEIGH, CITY OF | 37183C0352E | 10-OCT-2000 | 00-04-2724A | 01
04 | NC | RALEIGH, CITY OF | 37183C0341E | 17-OCT-2000 | 00-04-5378A | 02
04 | NC | ROCKY MOUNT, CITY OF | 3700920004C | 15-AUG-2000 | 00-04-5072A | 02
04 | NC | ROCKY MOUNT, CITY OF | 3700920005C | 09-NOV-2000 | 01-04-0234A | 02
04 | NC | ROCKY MOUNT, CITY OF | 3700920005C | 07-DEC-2000 | 01-04-1000X | 02
04 | NC | STANLY COUNTY * | 3703610050B | 24-AUG-2000 | 00-04-3122A | 02
04 | NC | STANLY COUNTY * | 3703610100B | 18-JUL-2000 | 00-04-3198A | 02
04 | NC | STANLY COUNTY * | 3703610075B | 30-NOV-2000 | 00-04-4288A | 02
04 | NC | STANLY COUNTY * | 37167C0019D | 22-SEP-2000 | 01-04-0506V | 19
04 | NC | SUNSET BEACH, TOWN OF | 3753590001E | 26-SEP-2000 | 00-04-5372A | 02
04 | NC | SWAIN COUNTY* | 3702270138C | 21-NOV-2000 | 01-04-0470A | 02
04 | NC | TARBORO, TOWN OF | 3700940005D | 07-SEP-2000 | 00-04-4320A | 02
04 | NC | WAKE COUNTY * | 37183C0585E | 12-JUL-2000 | 00-04-145P | 05
04 | NC | WAKE COUNTY * | 37183C0480E | 14-SEP-2000 | 00-04-5238A | 02
04 | NC | WAKE COUNTY * | 37183C0480E | 17-OCT-2000 | 00-04-5984X | 02
04 | NC | WARREN COUNTY* | 3703960002B | 11-JUL-2000 | 00-04-3536A | 02
04 | NC | WARREN COUNTY* | 3703960002B | 24-OCT-2000 | 00-04-5500A | 02
04 | NC | WARREN COUNTY* | 3703960002B | 29-SEP-2000 | 00-04-5530A | 02
04 | NC | WARREN COUNTY* | 3703960002B | 16-NOV-2000 | 00-04-5642A | 02
04 | NC | WARREN COUNTY* | 3703960002B | 29-SEP-2000 | 00-04-5756A | 02
04 | NC | WARREN COUNTY* | 3703960002B | 29-SEP-2000 | 00-04-5790A | 02
04 | NC | WARREN COUNTY* | 3703960002B | 19-DEC-2000 | 01-04-1158A | 02
04 | NC | WAYNESVILLE, TOWN OF | 3701240005B | 05-DEC-2000 | 01-04-0002A | 01
04 | NC | WILMINGTON, CITY OF | 3701710005C | 12-DEC-2000 | 00-04-5614X | 01
04 | NC | WINSTON-SALEM, CITY OF | 37067C0139H | 18-JUL-2000 | 00-04-3950A | 02
04 | NC | WINSTON-SALEM, CITY OF | 37067C0251H | 31-AUG-2000 | 00-04-3956A | 02
04 | NC | WINSTON-SALEM, CITY OF | 37067C0251H | 26-SEP-2000 | 00-04-5710X | 02
04 | NC | WINSTON-SALEM, CITY OF | 37067C0252H | 07-NOV-2000 | 01-04-0252A | 02
04 | SC | AIKEN COUNTY* | 4500020250B | 23-AUG-2000 | 00-04-133P | 05
04 | SC | ARCADIA LAKES, TOWN OF | 45079C0111G | 30-JUL-2000 | 00-04-009P | 05
04 | SC | BEAUFORT COUNTY* | 4500250100D | 29-AUG-2000 | 00-04-2840A | 02
04 | SC | BEAUFORT COUNTY* | 4500250050D | 14-SEP-2000 | 00-04-1196A | 01
04 | SC | BEAUFORT COUNTY* | 4500250095D | 12-SEP-2000 | 00-04-4666A | 02
04 | SC | BEAUFORT COUNTY* | 4500250095D | 26-OCT-2000 | 00-04-6030X | 02
04 | SC | BERKELEY COUNTY * | 4500290290C | 07-SEP-2000 | 00-04-3218A | 02
04 | SC | BERKELEY COUNTY * | 4500290290C | 01-AUG-2000 | 00-04-3350A | 02
04 | SC | BERKELEY COUNTY * | 4500290355C | 22-AUG-2000 | 00-04-4094A | 02
04 | SC | BERKELEY COUNTY * | 4500290290C | 28-NOV-2000 | 00-04-5198A | 02
04 | SC | BERKELEY COUNTY * | 4500290290C | 05-DEC-2000 | 00-04-5466A | 02
04 | SC | BERKELEY COUNTY * | 4500290290C | 28-NOV-2000 | 00-04-5468A | 02
04 | SC | CAMDEN, CITY OF | 45055C0426D | 07-DEC-2000 | 01-04-0684V | 19
04 | SC | CHARLESTON COUNTY* | 4554130291G | 26-JUL-2000 | 00-04-3398A | 01
04 | SC | CHARLESTON, CITY OF | 4554120023D | 26-SEP-2000 | 00-04-5398A | 02
04 | SC | COLUMBIA, CITY OF | 45079C0178G | 17-NOV-2000 | 00-04-065P | 05
04 | SC | COLUMBIA, CITY OF | 45079C0084G | 21-NOV-2000 | 01-04-0442A | 02
04 | SC | DORCHESTER COUNTY * | 4500680245C | 21-SEP-2000 | 00-04-3300A | 02
04 | SC | DORCHESTER COUNTY * | 4500680245C | 01-AUG-2000 | 00-04-3768A | 02
04 | SC | GEORGETOWN COUNTY * | 4500850120D | 12-SEP-2000 | 00-04-3700A | 17
04 | SC | GREENVILLE COUNTY * | 4500890155B | 21-DEC-2000 | 00-04-3180A | 02
04 | SC | HORRY COUNTY * | 45051C0730H | 18-JUL-2000 | 00-04-4064A | 02
04 | SC | HORRY COUNTY * | 45051C0582H | 22-AUG-2000 | 00-04-4160A | 02
04 | SC | HORRY COUNTY * | 45051C0582H | 19-SEP-2000 | 00-04-4926A | 02
04 | SC | HORRY COUNTY * | 45051C0582H | 07-DEC-2000 | 01-04-0916X | 02
04 | SC | KERSHAW COUNTY * | 45055C0050D | 07-DEC-2000 | 01-04-0686V | 19
04 | SC | LEXINGTON COUNTY * | 45063C0143F | 15-DEC-2000 | 00-04-101P | 05
04 | SC | LEXINGTON COUNTY * | 45063C0111G | 17-AUG-2000 | 00-04-4520A | 02
04 | SC | LEXINGTON COUNTY * | 45063C0279G | 26-OCT-2000 | 00-04-4698A | 02
04 | SC | LEXINGTON COUNTY * | 45063C0163G | 19-SEP-2000 | 00-04-4816A | 02
04 | SC | LEXINGTON COUNTY * | 45063C0128G | 10-AUG-2000 | 00-04-4812A | 02
04 | SC | LEXINGTON COUNTY * | 45063C0129G | 26-SEP-2000 | 00-04-5016A | 02
04 | SC | LEXINGTON COUNTY * | 45063C0163G | 10-OCT-2000 | 00-04-5686A | 02
04 | SC | LEXINGTON COUNTY * | 45063C0133G | 28-SEP-2000 | 00-04-5904A | 02
04 | SC | LEXINGTON COUNTY * | 45063C0258G | 29-SEP-2000 | 00-04-5930A | 02
04 | SC | LEXINGTON COUNTY * | 45063C0105G | 16-NOV-2000 | 01-04-0488A | 02
04 | SC | LEXINGTON COUNTY * | 45063C0139G | 19-DEC-2000 | 01-04-0984A | 02
04 | SC | MYRTLE BEACH, CITY OF | 45051C0691H | 31-OCT-2000 | 00-04-4324A | 02
04 | SC | NEWBERRY COUNTY* | 4502240225B | 26-SEP-2000 | 00-04-5262A | 02
04 | SC | NEWBERRY COUNTY* | 4502240225B | 26-SEP-2000 | 00-04-5348A | 02
04 | SC | NEWBERRY COUNTY* | 4502240225B | 28-NOV-2000 | 01-04-0286A | 02
04 | SC | NEWBERRY COUNTY* | 4502240225B | 07-DEC-2000 | 01-04-0818A | 02
04 | SC | NEWBERRY COUNTY* | 4502240225B | 14-DEC-2000 | 01-04-0880A | 02
04 | SC | NORTH MYRTLE BEACH, TOWN OF | 45051C0583H | 26-OCT-2000 | 00-04-6044A | 02
04 | SC | ORANGEBURG COUNTY * | 4501600175B | 29-SEP-2000 | 00-04-2552A | 02
04 | SC | ORANGEBURG COUNTY * | 4501600285B | 18-JUL-2000 | 00-04-3836A | 02
04 | SC | ORANGEBURG, CITY OF | 4501640001B | 21-NOV-2000 | 01-04-0062A | 02
04 | SC | PICKENS COUNTY * | 4501660150B | 05-SEP-2000 | 00-04-2480A | 02
04 | SC | PICKENS COUNTY * | 4501660210B | 17-OCT-2000 | 00-04-3556A | 02
04 | SC | PICKENS COUNTY * | 4501660210B | 04-DEC-2000 | 01-04-0716X | 02
04 | SC | RICHLAND COUNTY* | 45079C0025G | 27-JUL-2000 | 00-04-2600A | 02
04 | SC | RICHLAND COUNTY* | 45079C0040H | 29-SEP-2000 | 00-04-4510A | 01
04 | SC | RICHLAND COUNTY* | 45079C0025G | 14-SEP-2000 | 00-04-5268A | 02
04 | SC | RICHLAND COUNTY* | 45079C0025G | 29-SEP-2000 | 00-04-5394A | 02
04 | SC | RICHLAND COUNTY* | 45079C0025G | 28-SEP-2000 | 00-04-5430A | 02
04 | SC | RICHLAND COUNTY* | 45079C0025G | 09-NOV-2000 | 00-04-5978A | 02
04 | SC | RICHLAND COUNTY* | 45079C0025G | 16-NOV-2000 | 01-04-0156A | 02
04 | SC | RICHLAND COUNTY* | 45079C0025G | 31-OCT-2000 | 01-04-0166X | 02
04 | SC | RICHLAND COUNTY* | 45079C0025G | 21-DEC-2000 | 01-04-0832A | 02
04 | SC | RICHLAND COUNTY* | 45079C0025G | 14-DEC-2000 | 01-04-0886A | 02
04 | SC | ROCK HILL, CITY OF | 4501960001C | 21-SEP-2000 | 00-04-4174A | 02
04 | SC | ROCK HILL, CITY OF | 4501960001C | 21-SEP-2000 | 00-04-4284A | 02
04 | SC | ROCK HILL, CITY OF | 4501960001C | 24-OCT-2000 | 00-04-4312A | 02
04 | SC | ROCK HILL, CITY OF | 4501960004C | 26-OCT-2000 | 00-04-4326A | 02
04 | SC | SALUDA COUNTY* | 4502300002A | 17-OCT-2000 | 00-04-3394A | 02
04 | SC | SALUDA COUNTY* | 4502300002A | 26-SEP-2000 | 00-04-4546A | 02
04 | SC | SALUDA COUNTY* | 4502300002A | 28-SEP-2000 | 00-04-5586A | 02
04 | SC | SPARTANBURG COUNTY * | 4501760025B | 31-OCT-2000 | 00-04-4182A | 02
04 | SC | SPARTANBURG COUNTY * | 4501760131B | 12-SEP-2000 | 00-04-4642A | 02
04 | SC | SUMMERVILLE, TOWN OF | 4500680245C | 20-JUL-2000 | 99-04-3062A | 01
04 | SC | SUMMERVILLE, TOWN OF | 4500730005D | 27-JUL-2000 | 00-04-3960A | 02
04 | SC | SUMTER COUNTY * | 4501820180C | 20-JUL-2000 | 00-04-3480A | 02
04 | SC | SUMTER COUNTY * | 4501820090C | 31-AUG-2000 | 00-04-3904A | 02
04 | SC | SUMTER COUNTY * | 4501820090C | 26-SEP-2000 | 00-04-5252A | 02
04 | SC | WEST COLUMBIA, CITY OF | 45063C0163G | 17-OCT-2000 | 00-04-5786A | 02
04 | SC | YORK COUNTY * | 4501930136D | 01-AUG-2000 | 00-04-2776A | 01
04 | TN | ALAMO, TOWN OF | 470245 B | 01-AUG-2000 | 00-04-4602A | 02
04 | TN | BARTLETT, CITY OF | 47157C0105E | 03-AUG-2000 | 00-04-2710A | 01
04 | TN | BARTLETT, CITY OF | 47157C0105E | 24-OCT-2000 | 00-04-3436A | 01
04 | TN | BENTON COUNTY | 4702180125B | 21-NOV-2000 | 01-04-0394A | 02
04 | TN | BLOUNT COUNTY * | 4703560040B | 29-SEP-2000 | 00-04-3120A | 02
04 | TN | BLOUNT COUNTY * | 4703560025B | 12-OCT-2000 | 00-04-5900A | 02
04 | TN | BRADLEY COUNTY * | 4703570060B | 28-NOV-2000 | 01-04-0188A | 02
04 | TN | BRADLEY COUNTY * | 4703570060B | 14-DEC-2000 | 01-04-0634A | 02
04 | TN | CHATTANOOGA, CITY OF | 4700720029E | 29-AUG-2000 | 00-04-2988A | 02
04 | TN | CHATTANOOGA, CITY OF | 4700720010B | 29-SEP-2000 | 00-04-3710A | 02
04 | TN | CHATTANOOGA, CITY OF | 4700720015B | 31-OCT-2000 | 00-04-3652A | 01
04 | TN | CHATTANOOGA, CITY OF | 4700720023E | 21-SEP-2000 | 00-04-3814A | 02
04 | TN | CHATTANOOGA, CITY OF | 4700720027B | 31-AUG-2000 | 00-04-4800A | 02
04 | TN | CHATTANOOGA, CITY OF | 4700720017E | 14-DEC-2000 | 01-04-0222A | 01
04 | TN | CHATTANOOGA, CITY OF | 4700720017E | 30-NOV-2000 | 01-04-0454A | 02
04 | TN | CHATTANOOGA, CITY OF | 4700720017E | 14-DEC-2000 | 01-04-0924A | 01
04 | TN | CHATTANOOGA, CITY OF | 4700720017E | 28-DEC-2000 | 01-04-1230X | 02
04 | TN | CHEATHAM COUNTY * | 47021C0217C | 07-SEP-2000 | 00-04-4364A | 02
04 | TN | CHEATHAM COUNTY * | 47021C0110C | 14-DEC-2000 | 01-04-0578A | 02
04 | TN | CHEATHAM COUNTY * | 47021C0280C | 19-DEC-2000 | 01-04-1100A | 02
04 | TN | CLARKSVILLE, CITY OF | 4701370008C | 28-NOV-2000 | 00-04-4186A | 01
04 | TN | CLEVELAND, CITY OF | 4700150006C | 26-SEP-2000 | 00-04-5066A | 02
04 | TN | COLLIERVILLE, CITY OF | 47157C0245E | 19-OCT-2000 | 00-04-5974A | 02
04 | TN | COLLIERVILLE, CITY OF | 47157C0245E | 30-NOV-2000 | 01-04-0714X | 02
04 | TN | COLLIERVILLE, CITY OF | 47157C0240E | 19-DEC-2000 | 01-04-1238A | 02
04 | TN | COLUMBIA, CITY OF | 4754230004D | 03-OCT-2000 | 00-04-5308A | 01
04 | TN | COLUMBIA, CITY OF | 4754230005D | 31-OCT-2000 | 00-04-5446A | 02
04 | TN | COOKEVILLE, CITY OF | 4701500010C | 21-NOV-2000 | 00-04-3938A | 02
04 | TN | DYER COUNTY * | 47045C0160D | 28-DEC-2000 | 01-04-1208A | 02
04 | TN | FAYETTEVILLE, CITY OF | 47103C0166C | 28-DEC-2000 | 01-04-1008A | 02
04 | TN | GATLINBURG, CITY OF | 4754260002C | 10-AUG-2000 | 00-04-3064A | 02
04 | TN | GERMANTOWN, CITY OF | 47157C0235E | 08-AUG-2000 | 00-04-3346A | 02
04 | TN | GERMANTOWN, CITY OF | 47157C0235E | 28-SEP-2000 | 00-04-3728A | 02
04 | TN | GERMANTOWN, CITY OF | 47157C0235E | 08-AUG-2000 | 00-04-3810A | 02
04 | TN | GERMANTOWN, CITY OF | 47157C0235E | 27-JUL-2000 | 00-04-3982A | 02
04 | TN | GERMANTOWN, CITY OF | 47157C0230E | 07-NOV-2000 | 00-04-4690A | 01
04 | TN | GERMANTOWN, CITY OF | 47157C0235E | 26-SEP-2000 | 00-04-5666A | 02
04 | TN | GERMANTOWN, CITY OF | 47157C0235E | 21-NOV-2000 | 01-04-0118X | 02
04 | TN | GILES COUNTY* | 4700630200B | 28-NOV-2000 | 01-04-0388A | 02
04 | TN | GRAINGER COUNTY | 4700680125B | 07-NOV-2000 | 00-04-4772A | 02
04 | TN | GREENEVILLE, TOWN OF | 470069 B | 08-AUG-2000 | 00-04-1020A | 02
04 | TN | GREENEVILLE, TOWN OF | 4700690004C | 14-DEC-2000 | 01-04-0748A | 02
04 | TN | GREENEVILLE, TOWN OF | 4700690002C | 24-AUG-2000 | 01-04-1310V | 19
04 | TN | HAMBLEN COUNTY * | 4703460025B | 25-JUL-2000 | 00-04-1678A | 02
04 | TN | HAMILTON COUNTY * | 4700710127D | 26-SEP-2000 | 00-04-3546A | 02
04 | TN | HENDERSON COUNTY * | 47077C0075C | 28-SEP-2000 | 00-04-3528A | 02
04 | TN | HENDERSONVILLE, CITY OF | 4701860008C | 12-SEP-2000 | 00-04-4568A | 02
04 | TN | HENRY COUNTY | 4702280125B | 02-NOV-2000 | 00-04-6012A | 02
04 | TN | JACKSON, CITY OF | 47113C0162D | 19-SEP-2000 | 00-04-3930A | 02
04 | TN | JASPER, TOWN OF | 475429 B | 19-SEP-2000 | 00-04-3762A | 01
04 | TN | KNOX COUNTY * | 4754330115B | 19-SEP-2000 | 00-04-2902A | 02
04 | TN | KNOX COUNTY * | 4754330115B | 21-SEP-2000 | 00-04-2998A | 02
04 | TN | KNOX COUNTY * | 4754330080B | 12-OCT-2000 | 00-04-3542A | 01
04 | TN | KNOX COUNTY * | 4754330075B | 17-OCT-2000 | 00-04-5814A | 02
04 | TN | KNOX COUNTY * | 4754330115B | 29-SEP-2000 | 00-04-5816A | 02
04 | TN | KNOX COUNTY * | 4754330075B | 29-SEP-2000 | 00-04-5820A | 02
04 | TN | KNOX COUNTY * | 4754330080B | 30-NOV-2000 | 01-04-0094A | 02
04 | TN | LYNCHBURG-MOORE COUNTY, METROPOLITAN GOVERNMENT OF | 4701380056C | 21-SEP-2000 | 00-04-4292A | 02
04 | TN | MARSHALL COUNTY* | 47117C0075C | 29-AUG-2000 | 00-04-4172A | 02
04 | TN | MARSHALL COUNTY* | 47117C0100C | 24-OCT-2000 | 00-04-5096A | 02
04 | TN | MAURY COUNTY* | 4701230095B | 21-SEP-2000 | 00-04-5310A | 02
04 | TN | MEMPHIS, CITY OF | 47157C0290E | 12-OCT-2000 | 00-04-2084A | 01
04 | TN | MEMPHIS, CITY OF | 47157C0270E | 06-JUL-2000 | 00-04-3472A | 02
04 | TN | MEMPHIS, CITY OF | 47157C0270E | 16-AUG-2000 | 00-04-3774A | 17
04 | TN | MEMPHIS, CITY OF | 47157C0185E | 07-NOV-2000 | 00-04-5074A | 01
04 | TN | MEMPHIS, CITY OF | 47157C0140E | 05-DEC-2000 | 00-04-3440A | 01
04 | TN | MONTGOMERY COUNTY * | 4701360050B | 07-SEP-2000 | 00-04-4990A | 02
04 | TN | MONTGOMERY COUNTY * | 4701360050B | 07-SEP-2000 | 00-04-4992A | 02
04 | TN | MONTGOMERY COUNTY * | 4701360050B | 09-NOV-2000 | 01-04-0386X | 02
04 | TN | MT. JULIET, CITY OF | 4702900065B | 22-AUG-2000 | 00-04-4302A | 02
04 | TN | MT. JULIET, CITY OF | 4702900065B | 26-SEP-2000 | 00-04-5664A | 02
04 | TN | MURFREESBORO, CITY OF | 47149C0143F | 23-AUG-2000 | 00-04-4396A | 02
04 | TN | MURFREESBORO, CITY OF | 47149C0145E | 21-NOV-2000 | 00-04-4604A | 01
04 | TN | MURFREESBORO, CITY OF | 47149C0260F | 26-SEP-2000 | 00-04-5160A | 01
04 | TN | MURFREESBORO, CITY OF | 47149C0145E | 28-NOV-2000 | 00-04-5970A | 02
04 | TN | MURFREESBORO, CITY OF | 47149C0259F | 14-DEC-2000 | 01-04-0558A | 01
04 | TN | NASHVILLE & DAVIDSON COUNTY, CITY OF | 4700400156B | 23-JUL-2000 | 99-04-089P | 05
04 | TN | NASHVILLE & DAVIDSON COUNTY, CITY OF | 4700400254C | 04-DEC-2000 | 99-04-4076P | 05
04 | TN | NASHVILLE & DAVIDSON COUNTY, CITY OF | 4700400203C | 11-JUL-2000 | 00-04-2468A | 02
04 | TN | NASHVILLE & DAVIDSON COUNTY, CITY OF | 4700400201C | 01-DEC-2000 | 00-04-125P | 05
04 | TN | NASHVILLE & DAVIDSON COUNTY, CITY OF | 4700400254C | 11-JUL-2000 | 00-04-3048A | 01
04 | TN | NASHVILLE & DAVIDSON COUNTY, CITY OF | 4700400257B | 12-SEP-2000 | 00-04-3766A | 02
04 | TN | NASHVILLE & DAVIDSON COUNTY, CITY OF | 4700400127B | 21-DEC-2000 | 00-04-3898A | 02
04 | TN | NASHVILLE & DAVIDSON COUNTY, CITY OF | 4700400282C | 26-SEP-2000 | 00-04-4000A | 01
04 | TN | NASHVILLE & DAVIDSON COUNTY, CITY OF | 4700400314B | 07-NOV-2000 | 00-04-4202A | 01
04 | TN | NASHVILLE & DAVIDSON COUNTY, CITY OF | 4700400177B | 30-NOV-2000 | 00-04-4254A | 01
04 | TN | NASHVILLE & DAVIDSON COUNTY, CITY OF | 4700400177B | 05-OCT-2000 | 00-04-4728A | 01
04 | TN | NASHVILLE & DAVIDSON COUNTY, CITY OF | 4700400256C | 21-SEP-2000 | 00-04-4746A | 02
04 | TN | NASHVILLE & DAVIDSON COUNTY, CITY OF | 4700400203C | 02-NOV-2000 | 00-04-5154A | 01
04 | TN | NASHVILLE & DAVIDSON COUNTY, CITY OF | 4700400301B | 21-NOV-2000 | 00-04-5526A | 02
04 | TN | NASHVILLE & DAVIDSON COUNTY, CITY OF | 4700400316D | 26-SEP-2000 | 00-04-5566A | 02
04 | TN | NASHVILLE & DAVIDSON COUNTY, CITY OF | 4700400101B | 09-NOV-2000 | 00-04-5602A | 01
04 | TN | NASHVILLE & DAVIDSON COUNTY, CITY OF | 4700400177B | 14-NOV-2000 | 01-04-0034A | 01
04 | TN | NASHVILLE & DAVIDSON COUNTY, CITY OF | 4700400259B | 28-NOV-2000 | 01-04-0178A | 02
04 | TN | NASHVILLE & DAVIDSON COUNTY, CITY OF | 4700400101B | 19-DEC-2000 | 01-04-0998X | 01
04 | TN | PEGRAM, TOWNSHIP OF | 47021C0285C | 19-OCT-2000 | 00-04-4870A | 02
04 | TN | RUTHERFORD COUNTY * | 47149C0135E | 22-AUG-2000 | 00-04-2378A | 01
04 | TN | RUTHERFORD COUNTY * | 47149C0104E | 28-SEP-2000 | 00-04-4988A | 02
04 | TN | SHELBY COUNTY * | 47157C0060E | 21-SEP-2000 | 00-04-2904A | 02
04 | TN | SHELBY COUNTY * | 47157C0240E | 11-JUL-2000 | 00-04-3260A | 01
04 | TN | SHELBY COUNTY * | 47157C0290E | 29-AUG-2000 | 00-04-3726A | 02
04 | TN | SHELBY COUNTY * | 47157C0235E | 29-AUG-2000 | 00-04-3918A | 02
04 | TN | SHELBY COUNTY * | 47157C0110E | 12-SEP-2000 | 00-04-3422A | 01
04 | TN | SHELBY COUNTY * | 47157C0145E | 21-SEP-2000 | 00-04-4656A | 02
04 | TN | SHELBY COUNTY * | 47157C0115E | 19-SEP-2000 | 00-04-4754A | 02
04 | TN | SHELBY COUNTY * | 47157C0105E | 09-NOV-2000 | 00-04-4964A | 02
04 | TN | SHELBY COUNTY * | 47157C0235E | 26-OCT-2000 | 00-04-5628A | 02
04 | TN | SHELBY COUNTY * | 47157C0110E | 26-OCT-2000 | 00-04-5764A | 02
04 | TN | SHELBY COUNTY * | 47157C0130E | 28-NOV-2000 | 01-04-0344A | 01
04 | TN | SHELBY COUNTY * | 47157C0295E | 21-NOV-2000 | 00-04-4956A | 01
04 | TN | SHELBYVILLE, CITY OF | 4700080028C | 12-SEP-2000 | 00-04-4116A | 02
04 | TN | SMYRNA, TOWN OF | 47149C0108E | 24-OCT-2000 | 00-04-3656A | 02
04 | TN | SMYRNA, TOWN OF | 47149C0102E | 26-SEP-2000 | 00-04-5608A | 02
04 | TN | SULLIVAN COUNTY * | 4701810110C | 26-SEP-2000 | 00-04-5098A | 02
04 | TN | SUMNER COUNTY* | 4703490110B | 29-AUG-2000 | 00-04-1968A | 02
04 | TN | TIPTON COUNTY * | 47167C0035E | 24-OCT-2000 | 00-04-2892A | 02
04 | TN | TRENTON, CITY OF | 4700620002B | 29-AUG-2000 | 00-04-3298A | 02
04 | TN | WAVERLY, CITY OF | 4700950005B | 02-NOV-2000 | 00-04-5784A | 01
04 | TN | WILLIAMSON COUNTY * | 4702040015C | 11-JUL-2000 | 00-04-3698A | 02
04 | TN | WILLIAMSON COUNTY * | 4702040045D | 24-OCT-2000 | 00-04-4916A | 17
04 | TN | WILSON COUNTY * | 4702070080B | 07-NOV-2000 | 00-04-4012A | 01
05 | IL | ABINGDON, CITY OF | 17034801B | 08-DEC-2000 | 00-05-6188A | 02
05 | IL | ADDISON, VILLAGE OF | 1701980004C | 19-OCT-2000 | 00-05-6230A | 02
05 | IL | ALGONQUIN, VILLAGE OF | 1707320350E | 07-DEC-2000 | 00-05-4536A | 02
05 | IL | ALSIP, VILLAGE OF |  | 07-NOV-2000 | 01-05-0390V | 19
05 | IL | ALSIP, VILLAGE OF | 17031C0636F | 07-DEC-2000 | 01-05-539A | 02
05 | IL | ANTIOCH, VILLAGE OF | 17097C0010F | 11-JUL-2000 | 00-05-3508A | 02
05 | IL | BEACH PARK, VILLAGE OF |  | 08-SEP-2000 | 00-05-6010V | 19
05 | IL | BELLWOOD, VILLAGE OF |  | 07-NOV-2000 | 01-05-0868V | 19
05 | IL | BENSENVILLE, VILLAGE OF | 1702000003C | 28-DEC-2000 | 01-05-0722A | 02
05 | IL | BLOOMINGTON, CITY OF | 1704900005C | 17-AUG-2000 | 00-05-4388A | 02
05 | IL | BOLINGBROOK, VILLAGE OF | 17197C0045F | 27-SEP-2000 | 00-05-067P | 05
05 | IL | BOLINGBROOK, VILLAGE OF | 17197C0054E | 26-OCT-2000 | 00-05-191P | 05
05 | IL | BRADLEY, VILLAGE OF | 170338 | 30-AUG-2000 | 00-05-4760A | 02
05 | IL | BRADLEY, VILLAGE OF | 1703380001B | 23-AUG-2000 | 00-05-3980A | 02
05 | IL | BRADLEY, VILLAGE OF | 1703380001B | 27-OCT-2000 | 00-05-5134A | 02
05 | IL | BROOKFIELD, VILLAGE OF |  | 07-NOV-2000 | 01-05-0391V | 19
05 | IL | BUFFALO GROVE, VILLAGE OF |  | 07-NOV-2000 | 01-05-0426V | 19
05 | IL | BUFFALO GROVE, VILLAGE OF | 17097C0266F | 08-SEP-2000 | 00-05-001P | 05
05 | IL | BUREAU COUNTY * | 1707290025A | 14-SEP-2000 | 00-05-1310A | 02
05 | IL | BURNHAM, VILLAGE OF |  | 07-NOV-2000 | 01-05-0407V | 19
05 | IL | BURR RIDGE, VILLAGE OF |  | 07-NOV-2000 | 01-05-0408V | 19
05 | IL | BURR RIDGE, VILLAGE OF | 1700710001C | 04-JUL-2000 | 99-05-151P | 05
05 | IL | BURR RIDGE, VILLAGE OF | 17031C0466F | 17-OCT-2000 | 00-05-4404A | 02
05 | IL | CALUMET CITY, CITY OF |  | 07-NOV-2000 | 01-05-0567V | 19
05 | IL | CARMI, CITY OF | 1706810005B | 28-SEP-2000 | 00-05-5288A | 02
05 | IL | CARMI, CITY OF | 1706810005B | 04-OCT-2000 | 00-05-5358A | 02
05 | IL | CARMI, CITY OF | 1706810005B | 03-NOV-2000 | 00-05-5512A | 02
05 | IL | CARMI, CITY OF | 1706810005B | 08-NOV-2000 | 00-05-5326A | 02
05 | IL | CARROLLTON, CITY OF | 170250A 01 | 15-DEC-2000 | 01-05-344A | 02
05 | IL | CARY, VILLAGE OF | 1704750001C | 11-JUL-2000 | 00-05-1698A | 02
05 | IL | CHAMPAIGN COUNTY * | 1708940100B | 19-SEP-2000 | 00-05-5226A | 02
05 | IL | CHAMPAIGN COUNTY * | 1708940100B | 17-OCT-2000 | 00-05-4408A | 02
05 | IL | CHAMPAIGN COUNTY * | 1708940175B | 17-OCT-2000 | 00-05-1906A | 01
05 | IL | CHICAGO HEIGHTS, CITY OF |  | 07-NOV-2000 | 01-05-0392V | 19
05 | IL | CHICAGO RIDGE, VILLAGE OF |  | 07-NOV-2000 | 01-05-0393V | 19
05 | IL | CHICAGO, CITY OF |  | 07-NOV-2000 | 01-05-0864V | 19
05 | IL | CHRISTIAN COUNTY * | 1709260002A | 10-AUG-2000 | 00-05-0996A | 02
05 | IL | COOK COUNTY | 1700540050B | 10-OCT-2000 | 00-05-5914A | 01
05 | IL | COOK COUNTY * | 1700540055B | 07-NOV-2000 | 00-05-5436A | 02
05 | IL | COOK COUNTY * | 1700540115B | 11-JUL-2000 | 00-05-2064A | 02
05 | IL | COOK COUNTY * | 1700540145B | 15-AUG-2000 | 00-05-4714A | 02
05 | IL | COOK COUNTY * | 1700540170B | 19-SEP-2000 | 00-05-2816A | 02
05 | IL | COOK COUNTY * | 1700540170B | 03-OCT-2000 | 00-05-3442A | 01
05 | IL | COOK COUNTY * | 1700540190B | 17-AUG-2000 | 00-05-4444A | 02
05 | IL | COOK COUNTY * | 1700540215B | 07-NOV-2000 | 00-05-137P | 05
05 | IL | COUNTRY CLUB HILLS, CITY OF |  | 07-NOV-2000 | 01-05-0566V | 19
05 | IL | CRESTWOOD, VILLAGE OF |  | 07-NOV-2000 | 01-05-866V | 19
05 | IL | CRESTWOOD, VILLAGE OF | 1700800001E | 11-JUL-2000 | 00-05-3486A | 02
05 | IL | CRETE, VILLAGE OF |  | 07-NOV-2000 | 01-05-0564V | 19
05 | IL | DE KALB COUNTY * |  | 21-SEP-2000 | 00-05-6316V | 19
05 | IL | DE KALB COUNTY * | 170808 B | 11-JUL-2000 | 00-05-3650A | 02
05 | IL | DE KALB COUNTY * | 170808 B | 18-JUL-2000 | 00-05-2118A | 02
05 | IL | DE KALB, CITY OF |  | 22-SEP-2000 | 00-05-5988V | 19
05 | IL | DECATUR, CITY OF | 1709280105B | 01-SEP-2000 | 00-05-3710A | 02
05 | IL | DEERFIELD, VILLAGE OF | 17097C0286F | 11-JUL-2000 | 00-05-3598A | 17
05 | IL | DEERFIELD, VILLAGE OF | 17097C0286F | 05-SEP-2000 | 00-05-3596A | 17
05 | IL | DES PLAINES, CITY OF |  | 07-NOV-2000 | 01-05-0867V | 19
05 | IL | DES PLAINES, CITY OF | 1700810005C | 17-AUG-2000 | 00-05-3456A | 02
05 | IL | DIXMOOR, VILLAGE OF |  | 07-NOV-2000 | 01-05-0406V | 19
05 | IL | DOWNERS GROVE, VILLAGE OF | 1702040004B | 06-JUL-2000 | 00-05-3904A | 02
05 | IL | DOWNERS GROVE, VILLAGE OF | 1702040004B | 26-SEP-2000 | 00-05-5752A | 02
05 | IL | DOWNERS GROVE, VILLAGE OF | 1702040004B | 05-DEC-2000 | 01-05-0229A | 02
05 | IL | DOWNERS GROVE, VILLAGE OF | 1702040006C | 19-DEC-2000 | 00-05-5038A | 02
05 | IL | DU PAGE COUNTY* | 1701970010C | 29-AUG-2000 | 00-05-5206A | 02
05 | IL | DU PAGE COUNTY* | 1701970030D | 29-SEP-2000 | 00-05-3924A | 02
05 | IL | DU PAGE COUNTY* | 1701970035B | 26-OCT-2000 | 00-05-4434A | 02
05 | IL | DU PAGE COUNTY* | 1701970045B | 19-SEP-2000 | 00-05-2494A | 01
05 | IL | DU PAGE COUNTY* | 1701970060B | 12-SEP-2000 | 00-05-5084A | 02
05 | IL | EAST DUBUQUE, CITY OF | 1707520001B | 24-AUG-2000 | 00-05-2698A | 01
05 | IL | ELGIN, CITY OF | 1700870010E | 07-NOV-2000 | 00-05-5250A | 02
05 | IL | ELK GROVE VILLAGE, VILLAGE OF |  | 07-NOV-2000 | 01-05-0409V | 19
05 | IL | ELMHURST, CITY OF | 1702050004C | 14-NOV-2000 | 00-05-6134A | 02
05 | IL | FAYETTEVILLE, VILLAGE OF | 1706280001B | 27-DEC-2000 | 00-05-6062A | 02
05 | IL | FLOSSMOOR, VILLAGE OF |  | 07-NOV-2000 | 01-05-0410V | 19
05 | IL | FLOSSMOOR, VILLAGE OF | 17031C0737F | 14-NOV-2000 | 00-05-5908A | 17
05 | IL | FOX LAKE, VILLAGE OF |  | 08-SEP-2000 | 01-05-0271V | 19
05 | IL | FOX LAKE, VILLAGE OF | 1703620020F | 20-OCT-2000 | 00-05-5194A | 02
05 | IL | FOX LAKE, VILLAGE OF | 17097C0020F | 11-JUL-2000 | 00-05-3672A | 02
05 | IL | FOX LAKE, VILLAGE OF | 17097C0020F | 25-JUL-2000 | 00-05-4578A | 02
05 | IL | FOX LAKE, VILLAGE OF | 17097C0020F | 15-AUG-2000 | 00-05-1248A | 01
05 | IL | FOX RIVER GROVE, VILLAGE OF | 1704770001B | 25-OCT-2000 | 00-05-5306A | 02
05 | IL | FRANKLIN COUNTY | 1708990005B | 08-NOV-2000 | 00-05-5242A | 02
05 | IL | FRANKLIN PARK, VILLAGE OF |  | 07-NOV-2000 | 01-05-0411V | 19
05 | IL | GENEVA, CITY OF | 1708960055B | 13-NOV-2000 | 00-05-003P | 05
05 | IL | GENOA, CITY OF |  | 21-SEP-2000 | 00-05-6318V | 19
05 | IL | GENOA, CITY OF | 170183 B | 25-JUL-2000 | 00-05-4576A | 02
05 | IL | GLENDALE HEIGHTS, VILLAGE OF | 1702060001C | 30-NOV-2000 | 01-05-226P | 05
05 | IL | GLENVIEW, VILLAGE OF |  | 07-NOV-2000 | 01-05-0869V | 19
05 | IL | GLENVIEW, VILLAGE OF | 1700960008C | 05-DEC-2000 | 00-05-2214A | 17
05 | IL | GRAYSLAKE, VILLAGE OF |  | 08-SEP-2000 | 00-05-6004V | 19
05 | IL | GRAYSLAKE, VILLAGE OF | 17097C0134F | 24-JUL-2000 | 00-05-1394P | 05
05 | IL | GREEN OAKS, VILLAGE OF |  | 08-SEP-2000 | 00-05-6002V | 19
05 | IL | GREEN OAKS, VILLAGE OF | 17097C0158F | 18-JUL-2000 | 98-05-5602P | 05
05 | IL | GREEN OAKS, VILLAGE OF | 17097C0158G | 27-NOV-2000 | 01-05-223P | 06
05 | IL | GRUNDY COUNTY | 1702560085C | 25-OCT-2000 | 00-05-5314A | 02
05 | IL | GRUNDY COUNTY | 1702560100C | 27-JUL-2000 | 00-05-3738A | 02
05 | IL | GURNEE, VILLAGE OF |  | 08-SEP-2000 | 00-05-6000V | 19
05 | IL | HANOVER PARK, VILLAGE OF |  | 07-NOV-2000 | 01-05-0394V | 19
05 | IL | HAZEL CREST, VILLAGE OF |  | 07-NOV-2000 | 01-05-0405V | 19
05 | IL | HENDERSON COUNTY | 1702770130B | 25-AUG-2000 | 00-05-3962A | 02
05 | IL | HICKORY HILLS, CITY OF |  | 07-NOV-2000 | 01-05-0412V | 19
05 | IL | HIGHLAND PARK, CITY OF | 17097C0287F | 15-DEC-2000 | 00-05-5896A | 02
05 | IL | HOFFMAN ESTATES, VILLAGE OF |  | 07-NOV-2000 | 01-05-0908V | 19
05 | IL | HOFFMAN ESTATES, VILLAGE OF | 1701070007C | 17-AUG-2000 | 00-05-4122A | 02
05 | IL | HOFFMAN ESTATES, VILLAGE OF | 17031C0155F | 30-NOV-2000 | 00-05-5552A | 17
05 | IL | HOFFMAN ESTATES, VILLAGE OF | 17031C0155F | 07-DEC-2000 | 01-05-0237A | 02
05 | IL | HOMEWOOD, VILLAGE OF |  | 08-NOV-2000 | 01-05-0413V | 19
05 | IL | HOMEWOOD, VILLAGE OF | 170109 C | 06-JUL-2000 | 00-05-0908A | 02
05 | IL | HOMEWOOD, VILLAGE OF | 17031C0729F | 07-NOV-2000 | 00-05-5938A | 02
05 | IL | HUNTLEY, VILLAGE OF | 1704800002C | 01-AUG-2000 | 00-05-0372A | 01
05 | IL | INDIAN HEAD PARK, VILLAGE OF | 1701100001B | 17-AUG-2000 | 00-05-0014A | 01
05 | IL | IROQUOIS, VILLAGE OF | 17075C0035D | 15-DEC-2000 | 00-05-6118A | 02
05 | IL | JOLIET, CITY OF | 17197C0141E | 15-AUG-2000 | 00-05-2908A | 01
05 | IL | JOLIET, CITY OF | 17197C0142E | 03-NOV-2000 | 00-05-221P | 05
05 | IL | JOLIET, CITY OF | 17197C0170E | 01-AUG-2000 | 00-05-0730A | 02
05 | IL | JUSTICE, VILLAGE OF |  | 07-NOV-2000 | 01-05-0414V | 19
05 | IL | KANE COUNTY * | 1708960020B | 12-AUG-2000 | 00-05-027P | 05
05 | IL | KANE COUNTY * | 1708960032B | 19-SEP-2000 | 00-05-5260A | 02
05 | IL | KANE COUNTY * | 1708960040A | 10-OCT-2000 | 00-05-4790A | 02
05 | IL | KANE COUNTY * | 1708960140A | 24-AUG-2000 | 00-05-1672A | 01
05 | IL | KANE COUNTY * | 1708960145A | 18-JUL-2000 | 00-05-3532A | 01
05 | IL | KANE COUNTY * | 1708960145A | 26-SEP-2000 | 00-05-5620A | 02
05 | IL | KANKAKEE COUNTY | 170336 | 20-SEP-2000 | 00-05-5108A | 02
05 | IL | KANKAKEE COUNTY | 1703360070A | 15-NOV-2000 | 01-05-266A | 02
05 | IL | KANKAKEE COUNTY | 1703360170C | 07-DEC-2000 | 01-05-062A | 17
05 | IL | KANKAKEE COUNTY | 1703360185C | 23-AUG-2000 | 00-05-4550A | 02
05 | IL | KANKAKEE COUNTY | 1703360185C | 08-NOV-2000 | 00-05-5954A | 02
05 | IL | KANKAKEE COUNTY | 1703360190C | 20-SEP-2000 | 00-05-5108A | 02
05 | IL | KANKAKEE, CITY OF | 1703390005C | 04-OCT-2000 | 00-05-4850A | 02
05 | IL | KANKAKEE, CITY OF | 1703390005C | 15-DEC-2000 | 01-05-029A | 17
05 | IL | KENDALL COUNTY * | 1703410010C | 01-AUG-2000 | 00-05-4234A | 02
05 | IL | KENDALL COUNTY * | 1703410015C | 16-NOV-2000 | 00-05-6228A | 02
05 | IL | KENDALL COUNTY * | 1703410040C | 31-AUG-2000 | 00-05-119P | 05
05 | IL | KENDALL COUNTY * | 1703410125C | 28-DEC-2000 | 01-05-0312A | 01
05 | IL | KILDEER, VILLAGE OF | 17097C0241F | 20-JUL-2000 | 00-05-2650A | 02
05 | IL | KILDEER, VILLAGE OF | 17097C0241F | 15-DEC-2000 | 00-05-5490A | 02
05 | IL | LA SALLE COUNTY * | 1704000007B | 19-OCT-2000 | 00-05-5984A | 02
05 | IL | LAKE COUNTY | 1703570005G | 13-NOV-2000 | 00-05-6088A | 02
05 | IL | LAKE COUNTY | 1703570019F | 04-OCT-2000 | 00-05-5168A | 02
05 | IL | LAKE COUNTY | 17097C0026F | 27-DEC-2000 | 01-05-211A | 02
05 | IL | LAKE COUNTY | 17097C0110H | 29-SEP-2000 | 00-05-5052A | 02
05 | IL | LAKE COUNTY | 17097C0253F | 06-OCT-2000 | 00-05-4916A | 02
05 | IL | LAKE COUNTY * |  | 08-SEP-2000 | 01-05-0389V | 19
05 | IL | LAKE COUNTY * | 17097C0005G | 27-NOV-2000 | 01-05-223P | 06
05 | IL | LAKE COUNTY * | 17097C0010F | 18-JUL-2000 | 00-05-4136A | 02
05 | IL | LAKE COUNTY * | 17097C0010F | 17-AUG-2000 | 00-05-3952A | 02
05 | IL | LAKE COUNTY * | 17097C0019F | 03-AUG-2000 | 00-05-4204A | 02
05 | IL | LAKE COUNTY * | 17097C0020F | 01-AUG-2000 | 00-05-3872A | 02
05 | IL | LAKE COUNTY * | 17097C0035F | 26-SEP-2000 | 00-05-3238A | 02
05 | IL | LAKE COUNTY * | 17097C0158F | 18-JUL-2000 | 98-05-5602P | 05
05 | IL | LAKE COUNTY * | 17097C0158F | 01-AUG-2000 | 00-05-4456A | 02
05 | IL | LAKE-IN-THE-HILLS, VILLAGE OF | 1704810002E | 03-AUG-2000 | 00-05-1240A | 01
05 | IL | LAKE-IN-THE-HILLS, VILLAGE OF | 1704810003E | 22-NOV-2000 | 01-05-075A | 02
05 | IL | LAKEMOOR, VILLAGE OF | 17097C0105G | 31-AUG-2000 | 00-05-5256X | 01
05 | IL | LANSING, VILLAGE OF |  | 07-NOV-2000 | 01-05-0404V | 19
05 | IL | LANSING, VILLAGE OF | 1701160005D | 03-AUG-2000 | 00-05-1152A | 02
05 | IL | LANSING, VILLAGE OF | 17031C0759F | 28-DEC-2000 | 01-05-0307A | 02
05 | IL | LEE COUNTY* | 17103C0015D | 10-OCT-2000 | 00-05-1936A | 02
05 | IL | LEMONT, VILLAGE OF |  | 07-NOV-2000 | 01-05-0397V | 19
05 | IL | LIBERTYVILLE, VILLAGE OF |  | 08-SEP-2000 | 00-05-5998V | 19
05 | IL | LIBERTYVILLE, VILLAGE OF | 17097C0164G | 07-DEC-2000 | 01-05-057A | 02
05 | IL | LINCOLNSHIRE, VILLAGE OF |  | 08-SEP-2000 | 00-05-6008V | 19
05 | IL | LINCOLNSHIRE, VILLAGE OF | 17097C0258F | 11-JUL-2000 | 00-05-3180A | 02
05 | IL | LINCOLNSHIRE, VILLAGE OF | 17097C0258G | 03-NOV-2000 | 00-05-6238A | 02
05 | IL | LINCOLNSHIRE, VILLAGE OF | 17097C0259F | 20-JUL-2000 | 00-05-2854A | 17
05 | IL | LINDENHURST, VILLAGE OF | 1703790041F | 04-OCT-2000 | 00-05-5166A | 02
05 | IL | LISBON, VILLAGE OF | 1703420001B | 14-DEC-2000 | 01-05-0036A | 02
05 | IL | LISLE, VILLAGE OF | 1702110005B | 07-SEP-2000 | 00-05-3436A | 02
05 | IL | LONG GROVE, VILLAGE OF | 17097C0253F | 27-DEC-2000 | 00-05-4854A | 02
05 | IL | LONG GROVE, VILLAGE OF | 17097C0261F | 15-NOV-2000 | 00-05-4754A | 02
05 | IL | LYNWOOD, VILLAGE OF |  | 07-NOV-2000 | 01-05-0403V | 19
05 | IL | LYNWOOD, VILLAGE OF | 1701190005C | 10-AUG-2000 | 00-05-3940A | 02
05 | IL | LYNWOOD, VILLAGE OF | 1701190005C | 17-AUG-2000 | 00-05-4410A | 02
05 | IL | LYNWOOD, VILLAGE OF | 17031C0768F | 12-DEC-2000 | 01-05-0562A | 17
05 | IL | MACON COUNTY | 1709280020B | 08-NOV-2000 | 00-05-4318A | 02
05 | IL | MACON COUNTY | 1709280090B | 07-DEC-2000 | 01-05-173A | 12
05 | IL | MADISON COUNTY | 1704360090B | 15-DEC-2000 | 00-05-4924A | 02
05 | IL | MADISON COUNTY | 1704360120B | 07-JUL-2000 | 00-05-2956A | 02
05 | IL | MANLIUS, VILLAGE OF | 170013B | 15DEC-2000 | 00-05-3830A | 08
05 | IL | MARION, CITY OF | 1707190006B | 18-JUL-2000 | 00-05-2644A | 02
05 | IL | MASON CITY, CITY OF | 170466 01 | 08-NOV-2000 | 00-05-5966A | 02
05 | IL | MATTESON, VILLAGE OF |  | 07-NOV-2000 | 01-05-0415V | 19
05 | IL | MCHENRY COUNTY | 1707320230B | 11-SEP-2000 | 00-05-3984A | 02
05 | IL | MCHENRY COUNTY | 1707320240B | 15-DEC-2000 | 01-05-150A | 02
05 | IL | MCHENRY COUNTY* | 1707320230B | 19-OCT-2000 | 00-05-5284A | 02
05 | IL | MCHENRY, CITY OF | 1704830003D | 18-OCT-2000 | 00-05-3982A | 02
05 | IL | MCLEAN COUNTY * | 1709310185B | 28-NOV-2000 | 00-05-5622A | 17
05 | IL | MELROSE PARK, VILLAGE OF |  | 07-NOV-2000 | 01-05-0398V | 19
05 | IL | MERRIONETTE PARK, VILLAGE OF |  | 07-NOV-2000 | 01-05-0399V | 19
05 | IL | METROPOLIS, CITY OF | 1704690005D | 27-JUL-2000 | 00-05-2970A | 02
05 | IL | MIDLOTHIAN, VILLAGE OF |  | 07-NOV-2000 | 01-05-0400V | 19
05 | IL | MOKENA, VILLAGE OF |  | 07-NOV-2000 | 01-05-0563V | 19
05 | IL | MOKENA, VILLAGE OF | 17097CIND1 | 16-NOV-2000 | 00-05-4872P | 06
05 | IL | MOKENA, VILLAGE OF | 17197C0212E | 01-AUG-2000 | 00-05-4598A | 02
05 | IL | MOLINE, CITY OF | 1705910005B | 24-OCT-2000 | 00-05-6226A | 02
05 | IL | MOLINE, CITY OF | 1705910010B | 10-AUG-2000 | 00-05-4876A | 01
05 | IL | MONMOUTH, CITY OF | 17067602B | 13-NOV-2000 | 00-05-4834A | 02
05 | IL | MONROE COUNTY* | 1705090035D | 07-SEP-2000 | 00-05-4596A | 02
05 | IL | MONROE COUNTY* | 1705090100C | 18-JUL-2000 | 00-05-3458A | 02
05 | IL | MORRISON, CITY OF | 1706870125B | 16-AUG-2000 | 00-05-4300A | 02
05 | IL | MOUNT PROSPECT, VILLAGE OF |  | 07-NOV-2000 | 01-05-0417V | 19
05 | IL | MOUNT PROSPECT, VILLAGE OF | 1701290010B | 01-AUG-2000 | 00-05-1814A | 02
05 | IL | MUNDELEIN, VILLAGE OF | 17097C0163F | 12-SEP-2000 | 00-05-4116A | 02
05 | IL | NAPERVILLE, CITY OF | 1702130005C | 16-NOV-2000 | 01-05-0274A | 02
05 | IL | NAPERVILLE, CITY OF | 1702130016C | 13-SEP-2000 | 99-05-175P | 05
05 | IL | NAPERVILLE, CITY OF | 17197C0030E | 22-AUG-2000 | 00-05-261P | 05
05 | IL | NDIAN HEAD PARK, VILLAGE OF |  | 07-NOV-2000 | 01-05-0395V | 19
05 | IL | NILES, VILLAGE OF |  | 07-NOV-2000 | 01-05-0401V | 19
05 | IL | NORTH UTICA, VILLAGE OF | 1708220001C | 21-AUG-2000 | 00-05-263P | 05
05 | IL | NORTHBROOK, VILLAGE OF |  | 07-NOV-2000 | 01-05-0870V | 19
05 | IL | NORTHBROOK, VILLAGE OF | 1701320003E | 10-AUG-2000 | 00-05-4132A | 02
05 | IL | NORTHFIELD, VILLAGE OF |  | 07-NOV-2000 | 01-05-0854V | 19
05 | IL | NORTHFIELD, VILLAGE OF | 1701330001C | 14-SEP-2000 | 00-05-5024A | 02
05 | IL | NORTHFIELD, VILLAGE OF | 17031C0231F | 30-NOV-2000 | 01-05-0130A | 02
05 | IL | NORTHFIELD, VILLAGE OF | 17031C0231F | 07-DEC-2000 | 00-05-5338A | 01
05 | IL | NVERNESS, VILLAGE OF |  | 07-NOV-2000 | 01-05-0396V | 19
05 | IL | OAK FOREST, CITY OF |  | 07-NOV-2000 | 01-05-0855V | 19
05 | IL | OAK FOREST, CITY OF | 17031C0618F | 28-NOV-2000 | 01-05-0143A | 02
05 | IL | OAK FOREST, CITY OF | 17031C0728F | 28-DEC-2000 | 01-05-0464A | 01
05 | IL | OAK LAWN, VILLAGE OF |  | 07-NOV-2000 | 01-05-0425V | 19
05 | IL | OAK LAWN, VILLAGE OF | 1701370001C | 19-SEP-2000 | 00-05-4222A | 02
05 | IL | OAK LAWN, VILLAGE OF | 17031C0609F | 07-DEC-2000 | 01-05-0444A | 02
05 | IL | OAKWOOD HILLS, VILLAGE OF | 170831H01 | 18-AUG-2000 | 00-05-3996A | 02
05 | IL | OGLE COUNTY | 1705250445A | 13-NOV-2000 | 00-05-3700A | 01
05 | IL | OLYMPIA FIELDS, VILLAGE OF |  | 07-NOV-2000 | 01-05-0418V | 19
05 | IL | ORLAND HILLS, VILLAGE OF |  | 07-NOV-2000 | 01-05-0907V | 19
05 | IL | ORLAND PARK, VILLAGE OF |  | 07-NOV-2000 | 01-05-0419V | 19
05 | IL | ORLAND PARK, VILLAGE OF | 1700540215B | 07-NOV-2000 | 00-05-137P | 05
05 | IL | ORLAND PARK, VILLAGE OF | 1701400001D | 28-SEP-2000 | 00-05-5906A | 02
05 | IL | ORLAND PARK, VILLAGE OF | 1701400005D | 01-AUG-2000 | 00-05-4182A | 02
05 | IL | ORLAND PARK, VILLAGE OF | 17031C0704F | 07-DEC-2000 | 01-05-0332A | 02
05 | IL | OSWEGO, VILLAGE OF | 1703410040C | 31-AUG-2000 | 00-05-119P | 05
05 | IL | PALATINE, VILLAGE OF |  | 07-NOV-2000 | 01-05-0424V | 19
05 | IL | PALATINE, VILLAGE OF | 1751700005B | 20-JUL-2000 | 00-05-3476A | 01
05 | IL | PALATINE, VILLAGE OF | 1751700005B | 19-SEP-2000 | 00-05-5720X | 01
05 | IL | PALOS HEIGHTS, CITY OF |  | 07-NOV-2000 | 01-05-0416V | 19
05 | IL | PALOS HILLS, CITY OF |  | 07-NOV-2000 | 01-05-0856V | 19
05 | IL | PALOS HILLS, CITY OF | 1701430001C | 20-JUL-2000 | 00-05-4226A | 02
05 | IL | PALOS HILLS, CITY OF | 1701430001C | 01-AUG-2000 | 00-05-3496A | 02
05 | IL | PALOS HILLS, CITY OF | 1701430003C | 20-JUL-2000 | 00-05-4218A | 02
05 | IL | PALOS HILLS, CITY OF | 1701430003C | 17-AUG-2000 | 00-05-4896A | 02
05 | IL | PALOS HILLS, CITY OF | 1701430003C | 29-AUG-2000 | 00-05-4228A | 02
05 | IL | PALOS PARK, VILLAGE OF |  | 07-NOV-2000 | 01-05-0420V | 19
05 | IL | PEORIA COUNTY | 1705330125B | 04-AUG-2000 | 00-05-3756A | 01
05 | IL | PEORIA COUNTY | 1705330125B | 06-OCT-2000 | 00-05-4658A | 02
05 | IL | PEORIA COUNTY | 1705330175B | 18-OCT-2000 | 00-05-4374A | 02
05 | IL | PEORIA COUNTY * | 1705330075B | 25-JUL-2000 | 00-05-3236A | 02
05 | IL | PLAINFIELD, VILLAGE OF | 17197C0037E | 17-OCT-2000 | 00-05-209P | 05
05 | IL | PLAINFIELD, VILLAGE OF | 17197C0045F | 11-JUL-2000 | 00-05-3616A | 01
05 | IL | PLAINFIELD, VILLAGE OF | 17197C0045F | 22-AUG-2000 | 00-05-5216A | 01
05 | IL | PROSPECT HEIGHTS, CITY OF |  | 07-NOV-2000 | 01-05-0421V | 19
05 | IL | PROSPECT HEIGHTS, CITY OF | 1709190005C | 18-JUL-2000 | 00-05-3178A | 02
05 | IL | QUINCY, CITY OF | 1700030020B | 03-NOV-2000 | 00-05-5582A | 02
05 | IL | RIVERSIDE, VILLAGE OF | 1701530001B | 11-JUL-2000 | 00-05-3176A | 02
05 | IL | RIVERWOODS, VILLAGE OF |  | 08-SEP-2000 | 00-05-5996V | 19
05 | IL | ROCK ISLAND COUNTY* | 1705820025B | 29-SEP-2000 | 00-05-5072A | 02
05 | IL | ROCK ISLAND COUNTY* | 1705820100C | 12-SEP-2000 | 00-05-4868A | 02
05 | IL | ROCK ISLAND COUNTY* | 1705820200C | 20-JUL-2000 | 00-05-4170A | 02
05 | IL | ROLLING MEADOWS, CITY OF |  | 07-NOV-2000 | 01-05-0422V | 19
05 | IL | ROSEMONT, VILLAGE OF |  | 07-NOV-2000 | 01-05-0402V | 19
05 | IL | ROUND LAKE BEACH, VILLAGE OF |  | 08-SEP-2000 | 01-05-0267V | 19
05 | IL | ROUND LAKE BEACH, VILLAGE OF | 17097C0038F | 26-JUL-2000 | 00-05-4858X | 02
05 | IL | ROUND LAKE PARK, VILLAGE OF |  | 08-SEP-2000 | 00-05-5992V | 19
05 | IL | ROUND LAKE, VILLAGE OF |  | 08-SEP-2000 | 00-05-5994V | 19
05 | IL | ROUND LAKE, VILLAGE OF | 17097C0127F | 06-JUL-2000 | 00-05-3932X | 02
05 | IL | SANGAMON COUNTY * | 1709120165C | 03-AUG-2000 | 99-05-7134A | 17
05 | IL | SANGAMON COUNTY * | 1709120235C | 28-DEC-2000 | 01-05-0228A | 02
05 | IL | SANGAMON COUNTY * | 1709120250C | 11-JUL-2000 | 00-05-3424A | 02
05 | IL | SANGAMON COUNTY * | 1709120250C | 01-AUG-2000 | 00-05-4162A | 02
05 | IL | SANGAMON COUNTY * | 1709120325C | 17-AUG-2000 | 00-05-4702A | 02
05 | IL | SCHAUMBURG, VILLAGE OF |  | 07-NOV-2000 | 01-05-0857V | 19
05 | IL | SCHILLER PARK, VILLAGE OF |  | 07-NOV-2000 | 01-05-0858V | 19
05 | IL | SHOREWOOD,VILLAGE OF | 17197C0139E | 18-JUL-2000 | 00-05-4186A | 17
05 | IL | SIDNEY, VILLAGE OF | 1700330001B | 08-NOV-2000 | 00-05-5414A | 02
05 | IL | SIDNEY, VILLAGE OF | 1700330001B | 19-DEC-2000 | 01-05-0452A | 02
05 | IL | SIDNEY, VILLAGE OF | 1700330001B | 27-DEC-2000 | 00-05-4026A | 02
05 | IL | SLEEPY HOLLOW, VILLAGE OF | 1703310001B | 01-AUG-2000 | 00-05-1354A | 02
05 | IL | SOUTH HOLLAND, VILLAGE OF |  | 07-NOV-2000 | 01-05-0423V | 19
05 | IL | SOUTH HOLLAND, VILLAGE OF | 1701630004C | 25-JUL-2000 | 00-05-4570X | 02
05 | IL | SOUTH HOLLAND, VILLAGE OF | 17031C0732F | 07-NOV-2000 | 00-05-5014A | 01
05 | IL | ST. CLAIR COUNTY * | 1706160020B | 19-OCT-2000 | 00-05-4862A | 02
05 | IL | ST. CLAIR COUNTY * | 1706160065A | 20-JUL-2000 | 00-05-3064A | 02
05 | IL | STONE PARK, VILLAGE OF |  | 07-NOV-2000 | 01-05-0906V | 19
05 | IL | STREAMWOOD, VILLAGE OF |  | 07-NOV-2000 | 01-05-0859V | 19
05 | IL | SWANSEA, VILLAGE OF | 1706370001B | 05-DEC-2000 | 01-05-0103A | 02
05 | IL | SYCAMORE, CITY OF | 17037C0076D | 12-DEC-2000 | 01-05-016A | 01
05 | IL | TINLEY PARK, CITY OF |  | 07-NOV-2000 | 01-05-0916V | 19
05 | IL | TINLEY PARK, CITY OF | 17031C0708F | 21-DEC-2000 | 01-05-0674A | 02
05 | IL | TUSCOLA, CITY OF | 1701950005C | 03-NOV-2000 | 00-05-5594A | 02
05 | IL | VERNON HILLS, VILLAGE OF |  | 08-SEP-2000 | 01-05-0270V | 19
05 | IL | VERNON HILLS, VILLAGE OF | 17097C0251F | 25-JUL-2000 | 00-05-3652A | 17
05 | IL | VERNON HILLS, VILLAGE OF | 17097C0254F | 12-SEP-2000 | 00-05-3948A | 01
05 | IL | VERNON HILLS, VILLAGE OF | 17097C0254F | 13-NOV-2000 | 00-05-4372A | 02
05 | IL | WADSWORTH, VILLAGE OF |  | 08-SEP-2000 | 00-05-5990V | 19
05 | IL | WASHINGTON, CITY OF | 1706550005C | 11-JUL-2000 | 00-05-2222A | 02
05 | IL | WASHINGTON, CITY OF | 1706550005C | 12-OCT-2000 | 00-05-6220X | 02
05 | IL | WAUCONDA, VILLAGE OF |  | 08-SEP-2000 | 01-05-0269V | 19
05 | IL | WAUCONDA, VILLAGE OF | 17097C0118F | 08-DEC-2000 | 00-05-5952A | 02
05 | IL | WAUKEGAN, CITY OF |  | 08-SEP-2000 | 01-05-0268V | 19
05 | IL | WAUKEGAN, CITY OF | 17097C0068F | 11-JUL-2000 | 00-05-3202A | 02
05 | IL | WAUKEGAN, CITY OF | 17097C0068F | 03-AUG-2000 | 00-05-5002X | 02
05 | IL | WESTCHESTER, VILLAGE OF |  | 07-NOV-2000 | 01-05-0860V | 19
05 | IL | WESTCHESTER, VILLAGE OF | 1701700001B | 22-AUG-2000 | 00-05-2920A | 01
05 | IL | WESTERN SPRINGS, VILLAGE OF |  | 07-NOV-2000 | 01-05-0861V | 19
05 | IL | WHEATON, CITY OF | 1702210005B | 15-AUG-2000 | 00-05-4870X | 02
05 | IL | WHEATON, CITY OF | 1702210005B | 17-OCT-2000 | 00-05-6122A | 02
05 | IL | WHEELING, VILLAGE OF |  | 07-NOV-2000 | 01-05-0862V | 19
05 | IL | WHEELING, VILLAGE OF | 1701730005C | 11-JUL-2000 | 00-05-1498A | 01
05 | IL | WHEELING, VILLAGE OF | 1701730005C | 01-AUG-2000 | 00-05-2380A | 02
05 | IL | WHITESIDE COUNTY | 1706870175B | 25-AUG-2000 | 00-05-3712A | 02
05 | IL | WHITESIDE COUNTY | 170687150B | 03-NOV-2000 | 00-05-5042A | 02
05 | IL | WILL COUNTY | 17197C0195E | 08-NOV-2000 | 00-05-5656A | 02
05 | IL | WILL COUNTY | 17197C0310E | 15-DEC-2000 | 00-05-6086A | 02
05 | IL | WILL COUNTY * |  | 07-NOV-2000 | 01-05-0565V | 19
05 | IL | WILL COUNTY * | 17197C0010E | 13-JUL-2000 | 00-05-169A | 01
05 | IL | WILL COUNTY * | 17197C0010E | 13-SEP-2000 | 99-05-175P | 05
05 | IL | WILL COUNTY * | 17197C0010E | 03-NOV-2000 | 00-05-221P | 05
05 | IL | WILL COUNTY * | 17197C0030E | 06-SEP-2000 | 00-05-2934A | 02
05 | IL | WILL COUNTY * | 17197C0030E | 21-SEP-2000 | 00-05-5534A | 02
05 | IL | WILL COUNTY * | 17197C0030E | 21-NOV-2000 | 00-05-5530A | 02
05 | IL | WILL COUNTY * | 17197C0045F | 10-AUG-2000 | 00-05-4442A | 02
05 | IL | WILL COUNTY * | 17197C0056E | 25-JUL-2000 | 00-05-2048A | 02
05 | IL | WILL COUNTY * | 17197C0090E | 12-SEP-2000 | 00-05-5366A | 02
05 | IL | WILL COUNTY * | 17197C0139E | 19-SEP-2000 | 00-05-5404A | 02
05 | IL | WILL COUNTY * | 17197C0213E | 10-OCT-2000 | 00-05-5302A | 02
05 | IL | WILL COUNTY * | 17197C0255E | 26-AUG-2000 | 00-05-043P | 05
05 | IL | WILL COUNTY * | 17197C0350E | 19-OCT-2000 | 00-05-4230A | 02
05 | IL | WILL COUNTY * | 17197C0350E | 21-DEC-2000 | 01-05-065A | 02
05 | IL | WILL COUNTY * | 17197C0395E | 28-NOV-2000 | 00-05-5376A | 02
05 | IL | WILL COUNTY * | 17197C0475E | 01-AUG-2000 | 00-05-3682A | 01
05 | IL | WILL COUNTY * | 17197C0475E | 07-DEC-2000 | 01-05-0276A | 02
05 | IL | WILL COUNTY * | 17197C0580E | 12-SEP-2000 | 00-05-4788A | 01
05 | IL | WILLIAMSON COUNTY | 170934 | 06-SEP-2000 | 00-05-5048A | 02
05 | IL | WILLIAMSON COUNTY | 1709340001B | 06-SEP-2000 | 00-05-5048A | 02
05 | IL | WILLOW SPRINGS, CITY OF |  | 07-NOV-2000 | 01-05-0915V | 19
05 | IL | WILLOW SPRINGS, CITY OF | 17031C0469F | 07-NOV-2000 | 00-05-5932A | 02
05 | IL | WILLOW SPRINGS, CITY OF | 17031C0469F | 07-NOV-2000 | 00-05-5934A | 02
05 | IL | WINFIELD, VILLAGE OF | 1702230001C | 05-JUL-2000 | 00-05-071P | 05
05 | IL | WINFIELD, VILLAGE OF | 1702230001C | 17-AUG-2000 | 00-05-5304A | 02
05 | IL | WINNEBAGO COUNTY * | 1707200040B | 12-OCT-2000 | 00-05-5466A | 02
05 | IL | WINNETKA, VILLAGE OF |  | 07-NOV-2000 | 01-05-0863V | 19
05 | IL | WOODFORD COUNTY | 1707300175B | 10-JUL-2000 | 00-05-3298A | 02
05 | IN | ADAMS COUNTY * | 1804240120C | 21-SEP-2000 | 00-05-2782A | 02
05 | IN | ALLEN COUNTY * | 18003C0125D | 30-NOV-2000 | 00-05-4682A | 02
05 | IN | ALLEN COUNTY * | 18003C0135E | 27-JUL-2000 | 00-05-3660A | 02
05 | IN | ALLEN COUNTY * | 18003C0135E | 05-SEP-2000 | 00-05-5456X | 02
05 | IN | ALLEN COUNTY * | 18003C0145E | 14-SEP-2000 | 00-05-4892A | 02
05 | IN | ALLEN COUNTY * | 18003C0165E | 26-SEP-2000 | 00-05-5364A | 02
05 | IN | ALLEN COUNTY * | 18003C0195D | 03-AUG-2000 | 00-05-2738A | 02
05 | IN | ALLEN COUNTY * | 18003C0285E | 21-DEC-2000 | 01-05-0731A | 02
05 | IN | ANDERSON, CITY OF | 1801500001B | 04-OCT-2000 | 99-05-309P | 05
05 | IN | ANDERSON, CITY OF | 1801500004C | 18-JUL-2000 | 00-05-1164A | 02
05 | IN | ANDREWS, TOWN OF | 1800970001C | 15-DEC-2000 | 00-05-4292A | 08
05 | IN | AUBURN, CITY OF | 1800460005C | 19-DEC-2000 | 01-05-0552A | 02
05 | IN | AUBURN, CITY OF | 1800460005C | 21-DEC-2000 | 01-05-0338A | 02
05 | IN | BARTHOLOMEW COUNTY | 1800060075A | 15-NOV-2000 | 00-05-6028A | 02
05 | IN | BROWN COUNTY* | 1851740080B | 21-SEP-2000 | 00-05-5082A | 02
05 | IN | CARMEL, CITY OF | 1800810009C | 28-DEC-2000 | 01-05-0364A | 01
05 | IN | CLARK COUNTY | 1804260125C | 18-OCT-2000 | 00-05-4930A | 02
05 | IN | CLARK COUNTY | 1804260125C | 29-DEC-2000 | 01-05-257A | 02
05 | IN | CLARK COUNTY * | 1804260050B | 28-SEP-2000 | 00-05-5550A | 02
05 | IN | CLARK COUNTY * | 1804260175C | 06-JUL-2000 | 00-05-4454A | 02
05 | IN | CLARK COUNTY * | 1804260175C | 11-JUL-2000 | 00-05-3586A | 02
05 | IN | CLARK COUNTY * | 1804260175C | 18-JUL-2000 | 00-05-2796A | 02
05 | IN | CLARK COUNTY * | 1804260175C | 03-AUG-2000 | 00-05-2068A | 01
05 | IN | CLARK COUNTY * | 1804260175C | 15-AUG-2000 | 00-05-4424A | 01
05 | IN | CLARK COUNTY * | 1804260175C | 26-SEP-2000 | 00-05-5538A | 02
05 | IN | COLUMBIA CITY, CITY OF | 1800070030D | 06-OCT-2000 | 00-05-4846A | 02
05 | IN | COLUMBUS, CITY OF | 1800070010D | 13-NOV-2000 | 00-05-4632A | 01
05 | IN | COLUMBUS, CITY OF | 1800070015D | 20-OCT-2000 | 00-05-5058A | 01
05 | IN | COLUMBUS, CITY OF | 1800070015D | 20-DEC-2000 | 00-05-5692A | 01
05 | IN | COLUMBUS, CITY OF | 1800070015D | 29-DEC-2000 | 01-05-280A | 01
05 | IN | COLUMBUS, CITY OF | 1800070020D | 28-JUL-2000 | 00-05-4516A | 02
05 | IN | COLUMBUS, CITY OF | 1800070020D | 28-SEP-2000 | 00-05-5476A | 01
05 | IN | COLUMBUS, CITY OF | 1800070020D | 27-DEC-2000 | 01-05-107A | 01
05 | IN | CRAWFORD COUNTY | 1804720070B | 22-NOV-2000 | 00-05-5478A | 02
05 | IN | DEARBORN COUNTY | 1800380090B | 18-OCT-2000 | 00-05-5406A | 01
05 | IN | DECATUR, CITY OF | 1800010005C | 26-SEP-2000 | 00-05-4382A | 02
05 | IN | ELKHART COUNTY | 1800560005A | 07-DEC-2000 | 00-05-6252A | 02
05 | IN | ELKHART COUNTY | 1800560005A | 27-DEC-2000 | 00-05-4478A | 02
05 | IN | ELKHART COUNTY | 1800560015B | 29-DEC-2000 | 01-05-335A | 02
05 | IN | EVANSVILLE, CITY OF | 1802570006B | 12-DEC-2000 | 01-05-0574A | 02
05 | IN | FAIRMOUNT, TOWN OF | 180074 B | 03-AUG-2000 | 00-05-3270A | 02
05 | IN | FLOYD COUNTY | 1804320010B | 07-DEC-2000 | 00-05-5872A | 02
05 | IN | FORT WAYNE, CITY OF | 18003C0140D | 03-AUG-2000 | 00-05-4566A | 02
05 | IN | FORT WAYNE, CITY OF | 18003C0255D | 03-JUL-2000 | 00-05-1416A | 17
05 | IN | FORT WAYNE, CITY OF | 18003C0265D | 03-JUL-2000 | 00-05-041P | 05
05 | IN | FORT WAYNE, CITY OF | 18003C0265D | 22-AUG-2000 | 00-05-1922A | 17
05 | IN | FORT WAYNE, CITY OF | 18003C0270E | 24-OCT-2000 | 00-05-5536A | 02
05 | IN | FRANKLIN COUNTY | 1800680040C | 08-NOV-2000 | 00-05-5930A | 02
05 | IN | FRANKLIN COUNTY | 18047C0100C | 22-NOV-2000 | 00-05-5484A | 02
05 | IN | FRANKLIN, CITY OF | 1801140002B | 18-JUL-2000 | 00-05-4606X | 01
05 | IN | FRANKLIN, CITY OF | 1801140002B | 09-AUG-2000 | 00-05-4472A | 02
05 | IN | GREENFIELD, CITY OF | 1800840002C | 25-JUL-2000 | 00-05-2488A | 01
05 | IN | GREENFIELD, CITY OF | 1800840006C | 27-JUL-2000 | 00-05-4888X | 02
05 | IN | GREENFIELD, CITY OF | 1800840010C | 07-NOV-2000 | 00-05-5074A | 02
05 | IN | GREENWOOD, CITY OF | 1801150004B | 06-JUL-2000 | 00-05-3544A | 02
05 | IN | GREENWOOD, CITY OF | 180115004B | 08-NOV-2000 | 00-05-5922A | 02
05 | IN | HAMILTON COUNTY* | 1800800100C | 26-SEP-2000 | 00-05-2876A | 01
05 | IN | HAMILTON, TOWN OF | 180248 C | 30-NOV-2000 | 01-05-0204A | 02
05 | IN | HANCOCK COUNTY | 1804190025B | 06-SEP-2000 | 00-05-3748A | 02
05 | IN | HANCOCK COUNTY | 1804190025B | 01-DEC-2000 | 01-05-085A | 02
05 | IN | HANCOCK COUNTY | 1804190100B | 11-OCT-2000 | 00-05-4334A | 02
05 | IN | HANCOCK COUNTY * | 1804190025B | 05-SEP-2000 | 00-05-4878A | 01
05 | IN | HANCOCK COUNTY * | 1804190050B | 03-AUG-2000 | 00-05-3188A | 02
05 | IN | HANCOCK COUNTY * | 1804190050B | 24-OCT-2000 | 00-05-5010A | 02
05 | IN | HANCOCK COUNTY * | 1804190050B | 26-OCT-2000 | 00-05-1920A | 02
05 | IN | HENDRICKS COUNTY | 1804150100B | 16-AUG-2000 | 00-05-3776A | 02
05 | IN | HENDRICKS COUNTY | 1804150100B | 06-SEP-2000 | 00-05-3790A | 01
05 | IN | HENDRICKS COUNTY * | 1804150050B | 21-SEP-2000 | 00-05-5202A | 02
05 | IN | HENDRICKS COUNTY * | 1804150050B | 28-SEP-2000 | 00-05-4794A | 02
05 | IN | HENDRICKS COUNTY * | 1804150050B | 28-NOV-2000 | 00-05-6136A | 01
05 | IN | HENDRICKS COUNTY * | 1804150075B | 29-SEP-2000 | 00-05-5402A | 02
05 | IN | HENDRICKS COUNTY * | 1804150100B | 14-SEP-2000 | 00-05-0024A | 01
05 | IN | HIGHLAND, TOWN OF | 1851760001C | 20-DEC-2000 | 00-05-4914A | 08
05 | IN | INDIANAPOLIS, CITY OF | 1801590005D | 29-SEP-2000 | 00-05-6138A | 02
05 | IN | INDIANAPOLIS, CITY OF | 1801590015D | 03-AUG-2000 | 00-05-4464A | 02
05 | IN | INDIANAPOLIS, CITY OF | 1801590015D | 17-AUG-2000 | 00-05-3588A | 02
05 | IN | INDIANAPOLIS, CITY OF | 1801590015D | 31-OCT-2000 | 00-05-3490A | 01
05 | IN | INDIANAPOLIS, CITY OF | 1801590015D | 15-DEC-2000 | 01-05-042A | 01
05 | IN | INDIANAPOLIS, CITY OF | 1801590020D | 20-JUL-2000 | 00-05-3670A | 02
05 | IN | INDIANAPOLIS, CITY OF | 1801590020D | 15-AUG-2000 | 00-05-4912A | 02
05 | IN | INDIANAPOLIS, CITY OF | 1801590020D | 19-OCT-2000 | 00-05-4232A | 02
05 | IN | INDIANAPOLIS, CITY OF | 1801590025D | 27-JUL-2000 | 00-05-3172A | 02
05 | IN | INDIANAPOLIS, CITY OF | 1801590025D | 03-AUG-2000 | 00-05-4128A | 02
05 | IN | INDIANAPOLIS, CITY OF | 1801590030D | 20-JUL-2000 | 00-05-4612A | 02
05 | IN | INDIANAPOLIS, CITY OF | 1801590030D | 12-SEP-2000 | 00-05-4734A | 02
05 | IN | INDIANAPOLIS, CITY OF | 1801590030D | 26-SEP-2000 | 00-05-5626A | 02
05 | IN | INDIANAPOLIS, CITY OF | 1801590035D | 11-JUL-2000 | 00-05-2924A | 02
05 | IN | INDIANAPOLIS, CITY OF | 1801590035D | 11-JUL-2000 | 00-05-2926A | 02
05 | IN | INDIANAPOLIS, CITY OF | 1801590035D | 25-JUL-2000 | 00-05-2686A | 02
05 | IN | INDIANAPOLIS, CITY OF | 1801590035D | 10-OCT-2000 | 00-05-4978A | 01
05 | IN | INDIANAPOLIS, CITY OF | 1801590040D | 01-AUG-2000 | 00-05-2804A | 01
05 | IN | INDIANAPOLIS, CITY OF | 1801590045D | 11-JUL-2000 | 00-05-3628A | 02
05 | IN | INDIANAPOLIS, CITY OF | 1801590045D | 18-JUL-2000 | 99-05-6676A | 01
05 | IN | INDIANAPOLIS, CITY OF | 1801590050D | 18-JUL-2000 | 00-05-4224A | 02
05 | IN | INDIANAPOLIS, CITY OF | 1801590050D | 25-JUL-2000 | 00-05-3542A | 01
05 | IN | INDIANAPOLIS, CITY OF | 1801590050D | 08-AUG-2000 | 00-05-3636A | 01
05 | IN | INDIANAPOLIS, CITY OF | 1801590050D | 12-SEP-2000 | 00-05-5712X | 01
05 | IN | INDIANAPOLIS, CITY OF | 1801590050D | 03-OCT-2000 | 00-05-3566A | 02
05 | IN | INDIANAPOLIS, CITY OF | 1801590055D | 20-JUL-2000 | 00-05-3900A | 02
05 | IN | INDIANAPOLIS, CITY OF | 1801590060D | 18-AUG-2000 | 00-05-3804A | 02
05 | IN | INDIANAPOLIS, CITY OF | 1801590060D | 26-SEP-2000 | 00-05-0022A | 01
05 | IN | INDIANAPOLIS, CITY OF | 1801590065D | 12-DEC-2000 | 01-05-0462A | 02
05 | IN | INDIANAPOLIS, CITY OF | 1801590070D | 19-SEP-2000 | 00-05-5330A | 01
05 | IN | INDIANAPOLIS, CITY OF | 1801590070D | 28-SEP-2000 | 00-05-5246A | 02
05 | IN | INDIANAPOLIS, CITY OF | 1801590075D | 14-SEP-2000 | 00-05-5616A | 02
05 | IN | INDIANAPOLIS, CITY OF | 1801590075D | 19-OCT-2000 | 00-05-5442A | 01
05 | IN | INDIANAPOLIS, CITY OF | 1801590090D | 11-JUL-2000 | 00-05-1744A | 01
05 | IN | INDIANAPOLIS, CITY OF | 1801590090D | 18-JUL-2000 | 00-05-3922A | 01
05 | IN | INDIANAPOLIS, CITY OF | 1801590090D | 25-JUL-2000 | 00-05-0756P | 05
05 | IN | INDIANAPOLIS, CITY OF | 1801590090D | 08-AUG-2000 | 00-05-2600A | 01
05 | IN | INDIANAPOLIS, CITY OF | 1801590090D | 24-AUG-2000 | 00-05-4604A | 01
05 | IN | INDIANAPOLIS, CITY OF | 1801590090D | 14-SEP-2000 | 00-05-5020A | 01
05 | IN | INDIANAPOLIS, CITY OF | 1801590090D | 21-SEP-2000 | 00-05-5982X | 01
05 | IN | INDIANAPOLIS, CITY OF | 1801590090D | 15-NOV-2000 | 00-05-6306A | 01
05 | IN | INDIANAPOLIS, CITY OF | 1801590090D | 27-DEC-2000 | 01-05-093A | 01
05 | IN | INDIANAPOLIS, CITY OF | 1801590095D | 03-JUL-2000 | 00-05-2688A | 02
05 | IN | INDIANAPOLIS, CITY OF | 1801590095D | 08-AUG-2000 | 00-05-3262A | 01
05 | IN | INDIANAPOLIS, CITY OF | 1801590095D | 10-AUG-2000 | 00-05-4684A | 02
05 | IN | INDIANAPOLIS, CITY OF | 1801590095D | 05-SEP-2000 | 00-05-3878A | 02
05 | IN | INDIANAPOLIS, CITY OF | 1801590095D | 05-SEP-2000 | 00-05-4804A | 02
05 | IN | INDIANAPOLIS, CITY OF | 1801590095D | 28-SEP-2000 | 00-05-3530A | 01
05 | IN | INDIANAPOLIS, CITY OF | 1801590095D | 24-OCT-2000 | 01-05-067A | 02
05 | IN | INDIANAPOLIS, CITY OF | 1801590095D | 31-OCT-2000 | 00-05-4964A | 02
05 | IN | INDIANAPOLIS, CITY OF | 1801590100D | 31-AUG-2000 | 00-05-3928A | 02
05 | IN | INDIANAPOLIS, CITY OF | 18097C0135E | 03-AUG-2000 | 00-05-5022X | 02
05 | IN | JACKSON COUNTY | 1804050130B | 11-JUL-2000 | 00-05-3014A | 02
05 | IN | JASPER, CITY OF | 1800550010C | 22-AUG-2000 | 00-05-2722A | 17
05 | IN | JEFFERSONVILLE, CITY OF | 1800270005D | 20-OCT-2000 | 00-05-5510A | 02
05 | IN | JEFFERSONVILLE, CITY OF | 1800270005D | 29-NOV-2000 | 00-05-5578A | 02
05 | IN | JOHNSON COUNTY | 1801110050C | 22-DEC-2000 | 00-05-5928A | 02
05 | IN | JOHNSON COUNTY * | 1801110012C | 11-JUL-2000 | 00-05-2794A | 01
05 | IN | JOHNSON COUNTY * | 1801110014C | 10-OCT-2000 | 00-05-5450A | 02
05 | IN | JOHNSON COUNTY * | 1801110014C | 21-NOV-2000 | 00-05-5472A | 02
05 | IN | JOHNSON COUNTY * | 1801110100C | 24-OCT-2000 | 00-05-5554A | 02
05 | IN | JOHNSON COUNTY * | 1801110100C | 31-OCT-2000 | 00-05-2406A | 01
05 | IN | KOSCIUSKO COUNTY | 18012110100 | 15-NOV-2000 | 00-05-6030A | 02
05 | IN | KOSCIUSKO COUNTY | 18085C0035C | 06-SEP-2000 | 00-05-3812A | 02
05 | IN | KOSCIUSKO COUNTY | 18085C0080C | 01-DEC-2000 | 00-05-6026A | 02
05 | IN | KOSCIUSKO COUNTY | 18085C0080C | 01-DEC-2000 | 01-05-160A | 02
05 | IN | KOSCIUSKO COUNTY | 18085C0100C | 16-AUG-2000 | 00-05-4352A | 02
05 | IN | KOSCIUSKO COUNTY | 18085C0100C | 18-AUG-2000 | 00-05-4524A | 02
05 | IN | KOSCIUSKO COUNTY* | 18085C0031C | 12-OCT-2000 | 00-05-5298A | 02
05 | IN | KOSCIUSKO COUNTY* | 18085C0045C | 08-AUG-2000 | 00-05-3510A | 02
05 | IN | KOSCIUSKO COUNTY* | 18085C0080C | 20-JUL-2000 | 00-05-4212A | 02
05 | IN | KOSCIUSKO COUNTY* | 18085C0080C | 26-SEP-2000 | 00-05-5372A | 02
05 | IN | KOSCIUSKO COUNTY* | 18085C0080C | 26-SEP-2000 | 00-05-5400A | 02
05 | IN | KOSCIUSKO COUNTY* | 18085C0125C | 18-JUL-2000 | 00-05-3880A | 02
05 | IN | LA PORTE COUNTY* | 1801440125C | 25-JUL-2000 | 00-05-2192A | 02
05 | IN | LAGRANGE COUNTY | 1801250004B | 04-OCT-2000 | 00-05-5144A | 02
05 | IN | LEBANON, CITY OF | 1800130001D | 20-JUL-2000 | 00-05-4744X | 01
05 | IN | LEBANON, CITY OF | 1800130001D | 20-DEC-2000 | 00-05-6234A | 01
05 | IN | LEWISVILLE, TOWN OF | 18065C0275C | 08-NOV-2000 | 00-05-5668A | 02
05 | IN | MADISON COUNTY | 1804420003B | 25-AUG-2000 | 00-05-4560A | 02
05 | IN | MADISON, CITY OF | 180107 B | 31-AUG-2000 | 00-05-2316C | 01
05 | IN | MARSHALL COUNTY | 1804430025B | 29-NOV-2000 | 00-05-6038A | 08
05 | IN | MICHIGAN CITY, CITY OF | 1801470015B | 20-DEC-2000 | 01-05-195A | 02
05 | IN | MORGAN COUNTY | 1801760050B | 18-OCT-2000 | 00-05-3728A | 02
05 | IN | MORGAN COUNTY | 1801760100B | 20-DEC-2000 | 00-05-5156A | 02
05 | IN | MUNCIE, CITY OF | 180053 | 01-SEP-2000 | 00-05-4778A | 02
05 | IN | MUNCIE, CITY OF | 1800530006C | 01-SEP-2000 | 00-05-4778A | 02
05 | IN | MUNCIE, CITY OF | 1800530010C | 27-SEP-2000 | 00-05-3806A | 02
05 | IN | NEW ALBANY, CITY OF |  | 22-SEP-2000 | 00-05-6214V | 19
05 | IN | NEW ALBANY, CITY OF | 1800620005C | 20-JUL-2000 | 00-05-3848A | 02
05 | IN | NEW CASTLE, CITY OF | 18065C0145C | 16-AUG-2000 | 00-05-4290A | 02
05 | IN | NEW CASTLE, CITY OF | 18065C0145C | 13-OCT-2000 | 00-05-4926A | 02
05 | IN | NEW HAVEN, CITY OF | 18003C0305D | 19-OCT-2000 | 00-05-3894A | 17
05 | IN | NEW PROVIDENCE, TOWN OF | 1804640001A | 19-JUL-2000 | 00-05-4060A | 02
05 | IN | NOBLE COUNTY * | 1801830050B | 25-JUL-2000 | 00-05-3946A | 02
05 | IN | NOBLE COUNTY * | 1801830050B | 10-AUG-2000 | 00-05-4580A | 02
05 | IN | NOBLE COUNTY * | 1801830050B | 28-SEP-2000 | 00-05-5392A | 02
05 | IN | NOBLE COUNTY * | 1801830050B | 12-DEC-2000 | 01-05-0172A | 02
05 | IN | NOBLE COUNTY * | 1801830075B | 28-NOV-2000 | 00-05-6218A | 02
05 | IN | NOBLE COUNTY * | 1801830075B | 28-NOV-2000 | 01-05-0151A | 02
05 | IN | NOBLESVILLE, CITY OF | 1800820025E | 21-DEC-2000 | 01-05-0149A | 01
05 | IN | NOBLESVILLE, CITY OF | 1800820030E | 28-DEC-2000 | 01-05-0007A | 01
05 | IN | ORLAND, TOWN OF | 1802430025B | 15-DEC-2000 | 00-05-6246A | 02
05 | IN | PARKE COUNTY | 1801920006A | 17-NOV-2000 | 00-05-6176A | 02
05 | IN | PERRY COUNTY | 180197B 09 | 29-SEP-2000 | 00-05-4832A | 02
05 | IN | PORTER COUNTY | 180425 | 25-AUG-2000 | 00-05-4770A | 02
05 | IN | POSEY COUNTY | 18020917B | 15-SEP-2000 | 00-05-3836A | 02
05 | IN | SCOTT COUNTY | 1804740001B | 19-JUL-2000 | 00-05-4080A | 02
05 | IN | SEYMOUR, CITY OF | 1800990004C | 20-SEP-2000 | 00-05-5104A | 02
05 | IN | SEYMOUR, CITY OF | 1800990004C | 01-NOV-2000 | 00-05-5600A | 02
05 | IN | SEYMOUR, CITY OF | 1800990004C | 15-NOV-2000 | 00-05-5422A | 02
05 | IN | SHELBY COUNTY | 1802350040B | 01-NOV-2000 | 00-05-5740A | 02
05 | IN | SHELBY COUNTY | 1802350060B | 01-SEP-2000 | 00-05-3306A | 02
05 | IN | SHELBY COUNTY * | 1802350040B | 11-JUL-2000 | 00-05-2078A | 02
05 | IN | SOUTH BEND, CITY OF | 1802310006C | 07-NOV-2000 | 00-05-2154A | 02
05 | IN | SPENCER COUNTY | 1802370225A | 06-SEP-2000 | 00-05-3320A | 02
05 | IN | STEUBEN COUNTY | 1802430025B | 08-DEC-2000 | 00-05-5944A | 02
05 | IN | STEUBEN COUNTY* | 1802430025B | 20-JUL-2000 | 00-05-3590A | 02
05 | IN | STEUBEN COUNTY* | 1802430025B | 29-SEP-2000 | 00-05-5618A | 02
05 | IN | STEUBEN COUNTY* | 1802430025B | 30-NOV-2000 | 01-05-0262A | 02
05 | IN | STEUBEN COUNTY* | 1802430025B | 07-DEC-2000 | 01-05-0571A | 02
05 | IN | STEUBEN COUNTY* | 1802430025B | 19-DEC-2000 | 01-05-0097A | 02
05 | IN | STEUBEN COUNTY* | 1802430025B | 19-DEC-2000 | 01-05-0682A | 02
05 | IN | STEUBEN COUNTY* | 1802430025B | 19-DEC-2000 | 01-05-0683A | 02
05 | IN | STEUBEN COUNTY* | 1802430100B | 20-JUL-2000 | 00-05-4398A | 02
05 | IN | STEUBEN COUNTY* | 1802430100B | 20-JUL-2000 | 00-05-4450A | 02
05 | IN | STEUBEN COUNTY* | 1802430100B | 10-AUG-2000 | 00-05-4124A | 02
05 | IN | STEUBEN COUNTY* | 1802430100B | 29-SEP-2000 | 00-05-5546A | 02
05 | IN | STEUBEN COUNTY* | 1802430100B | 30-NOV-2000 | 01-05-0305A | 02
05 | IN | STEUBEN COUNTY* | 1802430100B | 21-DEC-2000 | 01-05-0024A | 02
05 | IN | STEUBEN COUNTY* | 1802430100B | 21-DEC-2000 | 01-05-0447A | 02
05 | IN | TIPPECANOE COUNTY | 1804280050B | 27-JUL-2000 | 00-05-4310A | 02
05 | IN | TIPPECANOE COUNTY | 1804280055B | 08-DEC-2000 | 00-05-6200A | 02
05 | IN | TIPPECANOE COUNTY * | 1804280030B | 11-JUL-2000 | 00-05-3208A | 02
05 | IN | TIPPECANOE COUNTY * | 1804280030B | 19-OCT-2000 | 00-05-4700A | 02
05 | IN | VANDERBURGH COUNTY * | 1802560015C | 20-JUL-2000 | 00-05-3896A | 02
05 | IN | VANDERBURGH COUNTY * | 1802560015C | 25-JUL-2000 | 00-05-3958A | 02
05 | IN | VANDERBURGH COUNTY * | 1802560015C | 25-JUL-2000 | 00-05-4588A | 02
05 | IN | VANDERBURGH COUNTY * | 1802560015C | 25-JUL-2000 | 00-05-4594A | 02
05 | IN | VANDERBURGH COUNTY * | 1802560015C | 27-JUL-2000 | 00-05-3886A | 02
05 | IN | VANDERBURGH COUNTY * | 1802560015C | 29-AUG-2000 | 00-05-4864A | 02
05 | IN | VANDERBURGH COUNTY * | 1802560015C | 26-SEP-2000 | 00-05-5544A | 02
05 | IN | VANDERBURGH COUNTY * | 1802560015C | 29-SEP-2000 | 00-05-6148A | 02
05 | IN | VANDERBURGH COUNTY * | 1802560015C | 28-DEC-2000 | 01-05-0549A | 01
05 | IN | VANDERBURGH COUNTY * | 1802560025C | 03-JUL-2000 | 00-05-3422A | 02
05 | IN | VANDERBURGH COUNTY * | 1802560025C | 11-JUL-2000 | 00-05-2642A | 01
05 | IN | VANDERBURGH COUNTY * | 1802560025C | 11-JUL-2000 | 00-05-3890A | 01
05 | IN | VANDERBURGH COUNTY * | 1802560025C | 20-JUL-2000 | 00-05-4156A | 01
05 | IN | VANDERBURGH COUNTY * | 1802560025C | 20-JUL-2000 | 00-05-4190A | 02
05 | IN | VANDERBURGH COUNTY * | 1802560025C | 20-JUL-2000 | 00-05-4194A | 02
05 | IN | VANDERBURGH COUNTY * | 1802560025C | 20-JUL-2000 | 00-05-4402A | 02
05 | IN | VANDERBURGH COUNTY * | 1802560025C | 20-JUL-2000 | 00-05-4592A | 02
05 | IN | VANDERBURGH COUNTY * | 1802560025C | 25-JUL-2000 | 00-05-2382A | 02
05 | IN | VANDERBURGH COUNTY * | 1802560025C | 25-JUL-2000 | 00-05-3960A | 02
05 | IN | VANDERBURGH COUNTY * | 1802560025C | 25-JUL-2000 | 00-05-4192A | 02
05 | IN | VANDERBURGH COUNTY * | 1802560025C | 10-AUG-2000 | 00-05-4396A | 01
05 | IN | VANDERBURGH COUNTY * | 1802560025C | 15-AUG-2000 | 00-05-4590A | 02
05 | IN | VANDERBURGH COUNTY * | 1802560025C | 15-AUG-2000 | 00-05-5120A | 02
05 | IN | VANDERBURGH COUNTY * | 1802560025C | 17-AUG-2000 | 00-05-3268A | 01
05 | IN | VANDERBURGH COUNTY * | 1802560025C | 17-AUG-2000 | 00-05-5012A | 01
05 | IN | VANDERBURGH COUNTY * | 1802560025C | 12-SEP-2000 | 00-05-2734A | 01
05 | IN | VANDERBURGH COUNTY * | 1802560025C | 12-SEP-2000 | 00-05-5714X | 02
05 | IN | VANDERBURGH COUNTY * | 1802560025C | 12-SEP-2000 | 00-05-5716X | 02
05 | IN | VANDERBURGH COUNTY * | 1802560025C | 12-SEP-2000 | 00-05-5718X | 01
05 | IN | VANDERBURGH COUNTY * | 1802560025C | 19-SEP-2000 | 00-05-3494A | 01
05 | IN | VANDERBURGH COUNTY * | 1802560025C | 21-SEP-2000 | 00-05-5294A | 01
05 | IN | VANDERBURGH COUNTY * | 1802560025C | 26-SEP-2000 | 00-05-5748A | 01
05 | IN | VANDERBURGH COUNTY * | 1802560025C | 26-SEP-2000 | 00-05-5904A | 02
05 | IN | VANDERBURGH COUNTY * | 1802560025C | 28-SEP-2000 | 00-05-5212A | 01
05 | IN | VANDERBURGH COUNTY * | 1802560025C | 29-SEP-2000 | 00-05-3540A | 01
05 | IN | VANDERBURGH COUNTY * | 1802560025C | 29-SEP-2000 | 00-05-6150A | 02
05 | IN | VANDERBURGH COUNTY * | 1802560025C | 07-DEC-2000 | 01-05-0247A | 01
05 | IN | VANDERBURGH COUNTY * | 1802560025C | 12-DEC-2000 | 01-05-0320A | 01
05 | IN | VANDERBURGH COUNTY * | 1802560025C | 14-DEC-2000 | 00-05-5340A | 01
05 | IN | VANDERBURGH COUNTY * | 1802560025C | 19-DEC-2000 | 01-05-0027A | 01
05 | IN | VANDERBURGH COUNTY * | 1802560025C | 19-DEC-2000 | 01-05-0116A | 01
05 | IN | VANDERBURGH COUNTY * | 1802560025C | 21-DEC-2000 | 01-05-0061A | 01
05 | IN | VANDERBURGH COUNTY * | 1802560025C | 21-DEC-2000 | 01-05-0069A | 01
05 | IN | VANDERBURGH COUNTY * | 1802560025C | 21-DEC-2000 | 01-05-0190A | 01
05 | IN | VANDERBURGH COUNTY * | 1802560025C | 28-DEC-2000 | 01-05-0681A | 01
05 | IN | VANDERBURGH COUNTY * | 1802560050B | 11-JUL-2000 | 00-05-2482A | 02
05 | IN | VANDERBURGH COUNTY * | 1802560075C | 03-JUL-2000 | 00-05-3640A | 02
05 | IN | VANDERBURGH COUNTY * | 1802560075C | 15-AUG-2000 | 00-05-4704A | 02
05 | IN | VANDERBURGH COUNTY * | 1802560075C | 07-NOV-2000 | 00-05-5382A | 02
05 | IN | VANDERBURGH COUNTY * | 1802560075C | 28-NOV-2000 | 01-05-0199A | 02
05 | IN | VANDERBURGH COUNTY * | 1802560075C | 28-NOV-2000 | 01-05-0330A | 02
05 | IN | VANDERBURGH COUNTY * | 1802560075C | 30-NOV-2000 | 01-05-0346A | 02
05 | IN | VANDERBURGH COUNTY * | 1802560075C | 19-DEC-2000 | 01-05-0352A | 02
05 | IN | VANDERBURGH COUNTY * | 1802560100B | 08-AUG-2000 | 00-05-4586A | 02
05 | IN | VANDERBURGH COUNTY * | 1802560100B | 22-AUG-2000 | 00-05-4712A | 02
05 | IN | VANDERBURGH COUNTY * | 1802560100B | 19-SEP-2000 | 00-05-4168A | 01
05 | IN | VANDERBURGH COUNTY * | 1802560100B | 30-NOV-2000 | 00-05-4428A | 02
05 | IN | WABASH COUNTY | 1802660070D | 20-OCT-2000 | 00-05-5516A | 02
05 | IN | WARRICK COUNTY * | 1804180100C | 22-AUG-2000 | 00-05-4738A | 02
05 | IN | WARRICK COUNTY * | 1804180100C | 05-SEP-2000 | 00-05-4742A | 02
05 | IN | WARRICK COUNTY * | 1804180175B | 20-JUL-2000 | 00-05-3560A | 02
05 | IN | WARRICK COUNTY * | 1804180175B | 25-JUL-2000 | 00-05-3674A | 02
05 | IN | WARRICK COUNTY * | 1804180175B | 03-AUG-2000 | 00-05-3654A | 02
05 | IN | WARRICK COUNTY * | 1804180175B | 21-SEP-2000 | 00-05-5750A | 02
05 | IN | WARRICK COUNTY * | 1804180175B | 26-OCT-2000 | 00-05-5432A | 01
05 | IN | WARRICK COUNTY * | 1804180175B | 07-DEC-2000 | 01-05-0144A | 02
05 | IN | WARRICK COUNTY * | 1804180175B | 07-DEC-2000 | 01-05-0351A | 02
05 | IN | WESTFIELD, TOWN OF | 1800830011C | 28-NOV-2000 | 01-05-0131A | 02
05 | IN | WHITE COUNTY | 1804470005C | 17-NOV-2000 | 00-05-5658A | 02
05 | IN | WHITELAND, TOWN OF | 1801180001A | 18-JUL-2000 | 00-05-3546A | 02
05 | IN | WHITLEY COUNTY | 1802980001B | 11-JUL-2000 | 00-05-3288A | 02
05 | IN | WHITLEY COUNTY | 1802980001B | 07-DEC-2000 | 01-05-028A | 02
05 | IN | WHITLEY COUNTY | 1802980001B | 15-DEC-2000 | 01-05-179A | 01
05 | IN | WINONA LAKE, TOWN OF | 18085C0086C | 27-JUL-2000 | 00-05-4214A | 02
05 | IN | WINONA LAKE, TOWN OF | 18085C0086C | 26-SEP-2000 | 00-05-5470A | 02
05 | IN | WINONA LAKE, TOWN OF | 18085C0086C | 29-SEP-2000 | 00-05-5636A | 02
05 | IN | WINONA LAKE, TOWN OF | 18085C0086C | 08-NOV-2000 | 00-05-5942A | 02
05 | IN | WINONA LAKE, TOWN OF | 18085C0086C | 29-NOV-2000 | 01-05-045A | 02
05 | MI | ADA, TOWNSHIP OF | 2602480010B | 31-AUG-2000 | 00-05-4412A | 01
05 | MI | ADRIAN, CITY OF | 2601150004B | 08-DEC-2000 | 00-05-4036A | 02
05 | MI | ALGONAC, CITY OF | 2601910001C | 20-SEP-2000 | 00-05-2942A | 01
05 | MI | ALLEN PARK, CITY OF | 2602170002C | 11-OCT-2000 | 00-05-5312A | 02
05 | MI | ANN ARBOR, CITY OF | 2602130005D | 14-JUL-2000 | 00-05-4072A | 02
05 | MI | ANN ARBOR, CITY OF | 2602130009C | 08-NOV-2000 | 00-05-5240A | 02
05 | MI | ANN ARBOR, CITY OF | 2602130009C | 13-NOV-2000 | 00-05-5238A | 01
05 | MI | ARCADIA, TOWNSHIP OF | 260306C03 | 20-DEC-2000 | 00-05-5728A | 02
05 | MI | ARENAC, TOWNSHIP OF | 2600130025B | 15-NOV-2000 | 00-05-6056A | 02
05 | MI | AU TRAIN, TOWNSHIP OF | 2603420025C | 25-AUG-2000 | 00-05-4522A | 02
05 | MI | BALDWIN, TOWNSHIP OF | 2600990016D | 06-SEP-2000 | 00-05-4272A | 02
05 | MI | BANGOR, TOWNSHIP OF | 26017C0140D | 22-NOV-2000 | 00-05-6248A | 02
05 | MI | BANGOR, TOWNSHIP OF | 26017C0140D | 01-DEC-2000 | 00-05-5924A | 01
05 | MI | BAY CITY, CITY OF | 26017C0175D | 22-DEC-2000 | 01-05-044A | 08
05 | MI | BEDFORD, TOWNSHIP OF | 2601420011B | 17-NOV-2000 | 00-05-4844A | 02
05 | MI | BEDFORD, TOWNSHIP OF | 26115C0344D | 22-DEC-2000 | 01-05-055A | 02
05 | MI | BERLIN, TOWNSHIP OF | 26115C0256D | 22-DEC-2000 | 01-05-205A | 02
05 | MI | BROOMFIELD, TOWNSHIP OF | 26073C0300C | 06-SEP-2000 | 00-05-4630A | 02
05 | MI | BROOMFIELD, TOWNSHIP OF | 260815 | 06-SEP-2000 | 00-05-4630A | 02
05 | MI | BROWNSTOWN, CHARTER TOWNSHIP OF | 2602180005D | 11-JUL-2000 | 00-05-3554A | 02
05 | MI | BRUCE, TOWNSHIP OF | 2603750050A | 18-AUG-2000 | 00-05-3378A | 02
05 | MI | BUENA VISTA, TOWNSHIP OF | 26145C0085D | 11-JUL-2000 | 00-05-4028A | 02
05 | MI | CANNON, TOWNSHIP OF | 2607340025A | 20-JUL-2000 | 00-05-2004A | 02
05 | MI | CANTON, TOWNSHIP OF | 2602190011B | 05-SEP-2000 | 00-05-5094A | 01
05 | MI | CARP LAKE, TOWNSHIP OF | 2605480002B | 11-OCT-2000 | 00-05-3778A | 02
05 | MI | CARROLLTON, TOWNSHIP OF | 26145C0080D | 22-NOV-2000 | 00-05-5958A | 02
05 | MI | CASEVILLE, TOWNSHIP OF | 17097C0253F | 22-SEP-2000 | 00-05-4316A | 02
05 | MI | CENTERVILLE, TOWNSHIP OF | 2606250002B | 27-SEP-2000 | 00-05-5598A | 02
05 | MI | CHESTERFIELD, TOWNSHIP OF | 2601200005B | 25-AUG-2000 | 99-05-291P | 05
05 | MI | CHESTERFIELD, TOWNSHIP OF | 2601200010B | 05-JUL-2000 | 00-05-3454A | 02
05 | MI | CHESTERFIELD, TOWNSHIP OF | 2601200010B | 16-AUG-2000 | 00-05-4528A | 01
05 | MI | CHESTERFIELD, TOWNSHIP OF | 2601200010B | 10-OCT-2000 | 00-05-4908A | 02
05 | MI | CHESTERFIELD, TOWNSHIP OF | 2601200010B | 15-DEC-2000 | 01-05-074A | 02
05 | MI | CHIPPEWA, TOWNSHIP OF | 2603740025B | 15-DEC-2000 | 01-05-385A | 02
05 | MI | CLAY, TOWNSHIP OF | 2601940001B | 08-NOV-2000 | 00-05-4828A | 02
05 | MI | CLAY, TOWNSHIP OF | 2601940003B | 11-JUL-2000 | 00-05-2676A | 01
05 | MI | CLAY, TOWNSHIP OF | 2601940003B | 20-SEP-2000 | 00-05-3818A | 02
05 | MI | CLEVELAND, TOWNSHIP OF | 260302H07A | 15-DEC-2000 | 00-05-5186A | 02
05 | MI | CLINTON, CHARTER TOWNSHIP OF | 2601210005E | 06-JUL-2000 | 00-05-123P | 05
05 | MI | CLINTON, CHARTER TOWNSHIP OF | 2601210005E | 06-JUL-2000 | 00-05-2912A | 02
05 | MI | CLINTON, TOWNSHIP OF | 2601210005E | 15-DEC-2000 | 00-05-5148A | 17
05 | MI | COLDWATER, CITY OF | 2608260010A | 11-OCT-2000 | 00-05-5184A | 02
05 | MI | COLON, TOWNSHIP OF | 2605100010A | 20-OCT-2000 | 00-05-5504A | 02
05 | MI | COMMERCE, TOWNSHIP OF | 2604730005B | 01-AUG-2000 | 00-05-4722A | 02
05 | MI | CORUNNA, CITY OF | 2606020001A | 25-OCT-2000 | 00-05-5960A | 02
05 | MI | DEARBORN HEIGHTS, CITY OF | 2602210007C | 06-JUL-2000 | 00-05-2562A | 02
05 | MI | DEARBORN HEIGHTS, CITY OF | 2602210007C | 18-JUL-2000 | 00-05-4460A | 02
05 | MI | DEARBORN HEIGHTS, CITY OF | 2602210007C | 06-OCT-2000 | 00-05-3780A | 02
05 | MI | DEARBORN HEIGHTS, CITY OF | 2602210007C | 05-DEC-2000 | 01-05-0278A | 02
05 | MI | DEARBORN HEIGHTS, CITY OF | 2602210007C | 15-DEC-2000 | 01-05-135A | 08
05 | MI | DELHI, CHARTER TOWNSHIP OF | 2600880005C | 06-OCT-2000 | 00-05-4810A | 02
05 | MI | DELTA COUNTY | 26041C0439C | 25-AUG-2000 | 00-05-4664A | 02
05 | MI | EAST CHINA, TOWNSHIP OF | 2601970005B | 25-JUL-2000 | 00-05-3438A | 02
05 | MI | EAST CHINA, TOWNSHIP OF | 2601970005B | 23-AUG-2000 | 00-05-3998A | 02
05 | MI | FABIUS, TOWNSHIP OF | 2607810025A | 06-JUL-2000 | 00-05-3214A | 02
05 | MI | FABIUS, TOWNSHIP OF | 2607810025A | 01-SEP-2000 | 00-05-4280A | 02
05 | MI | FABIUS, TOWNSHIP OF | 2607810025A | 29-NOV-2000 | 00-05-5174A | 02
05 | MI | FABIUS, TOWNSHIP OF | 2607810025A | 29-NOV-2000 | 01-05-047A | 02
05 | MI | FARMINGTON HILLS, CITY OF | 2601720004C | 17-OCT-2000 | 00-05-5448A | 17
05 | MI | FARMINGTON HILLS, CITY OF | 2601720006C | 20-JUL-2000 | 00-05-4150A | 02
05 | MI | FENTON, TOWNSHIP OF | 2603940011B | 20-SEP-2000 | 00-05-1448A | 02
05 | MI | FLAT ROCK, CITY OF | 2602240003B | 10-AUG-2000 | 00-05-4904A | 02
05 | MI | FLAT ROCK, CITY OF | 2602240003B | 13-NOV-2000 | 00-05-131P | 05
05 | MI | FOWLERVILLE,VILLAGE OF | 2604390001A | 04-AUG-2000 | 00-05-3420C | 01
05 | MI | FOWLERVILLE,VILLAGE OF | 2604390001A | 22-NOV-2000 | 01-05-357A | 01
05 | MI | FRASER, CITY OF | 2601220001B | 12-SEP-2000 | 00-05-4726A | 02
05 | MI | FRASER, CITY OF | 2601220001B | 27-OCT-2000 | 00-05-5604A | 02
05 | MI | FRUITLAND, TOWNSHIP OF | 260265B 02 | 16-AUG-2000 | 00-05-4342A | 02
05 | MI | GARDEN, TOWNSHIP OF | 26041C0905C | 11-JUL-2000 | 00-05-2728A | 02
05 | MI | GEORGETOWN, CHARTER TOWNSHIP OF | 2605890003B | 08-DEC-2000 | 00-05-6242A | 01
05 | MI | GEORGETOWN, CHARTER TOWNSHIP OF | 2605890005b | 19-JUL-2000 | 00-05-3020A | 02
05 | MI | GEORGETOWN, CHARTER TOWNSHIP OF | 2605890005B | 17-NOV-2000 | 00-05-6044A | 02
05 | MI | GIBRALTAR, CITY OF | 2602260001B | 15-DEC-2000 | 01-05-100A | 02
05 | MI | GRAND HAVEN, CITY OF | 2602700005B | 01-NOV-2000 | 00-05-5558A | 02
05 | MI | GRAND HAVEN, TOWNSHIP OF | 2602700005B | 04-AUG-2000 | 00-05-3052A | 02
05 | MI | GRAND RAPIDS, CITY OF | 2601060025C | 26-OCT-2000 | 00-05-5398A | 02
05 | MI | GRANDVILLE, CITY OF | 2602710001B | 24-OCT-2000 | 00-05-6270A | 02
05 | MI | GREEN OAK, TOWNSHIP OF | 2604400005B | 27-JUL-2000 | 00-05-4498A | 02
05 | MI | GREENBUSH, TOWNSHIP OF | 2600010004C | 20-JUL-2000 | 00-05-3428A | 02
05 | MI | GREENBUSH, TOWNSHIP OF | 2600010004C | 24-AUG-2000 | 00-05-5222X | 02
05 | MI | GREENBUSH, TOWNSHIP OF | 2600010004C | 03-NOV-2000 | 00-05-4012A | 02
05 | MI | GREENBUSH, TOWNSHIP OF | 2600010004C | 27-DEC-2000 | 01-05-235A | 02
05 | MI | GREENBUSH, TOWNSHIP OF | 2600010007C | 18-AUG-2000 | 00-05-3410A | 02
05 | MI | GREENBUSH, TOWNSHIP OF | 2600010007C | 11-OCT-2000 | 00-05-5268A | 02
05 | MI | GREENBUSH, TOWNSHIP OF | 260001007C | 06-SEP-2000 | 00-05-4786A | 02
05 | MI | GROSSE ILE, TOWNSHIP OF | 2602270010B | 06-SEP-2000 | 00-05-4780A | 02
05 | MI | HAMBURG, TOWNSHIP OF | 2601180010C | 19-JUL-2000 | 00-05-3968A | 02
05 | MI | HAMBURG, TOWNSHIP OF | 2601180010C | 15-DEC-2000 | 00-05-6082A | 02
05 | MI | HARRISON, TOWNSHIP OF | 2601230005C | 18-JUL-2000 | 00-05-3854A | 02
05 | MI | HARRISON, TOWNSHIP OF | 2601230005C | 16-AUG-2000 | 00-05-4312A | 02
05 | MI | HARRISON, TOWNSHIP OF | 2601230005C | 18-AUG-2000 | 00-05-4500A | 02
05 | MI | HARRISON, TOWNSHIP OF | 2601230005C | 20-SEP-2000 | 00-05-4368A | 02
05 | MI | HARRISON, TOWNSHIP OF | 2601230005C | 08-NOV-2000 | 00-05-5146A | 02
05 | MI | HARRISON, TOWNSHIP OF | 2601230005C | 08-NOV-2000 | 00-05-5682A | 02
05 | MI | HARRISON, TOWNSHIP OF | 2601230005C | 29-DEC-2000 | 01-05-244A | 02
05 | MI | HARRISON, TOWNSHIP OF | 2601230005C | 29-DEC-2000 | 01-05-246A | 02
05 | MI | HARRISON, TOWNSHIP OF | 2601230010C | 01-AUG-2000 | 00-05-3648A | 02
05 | MI | HARRISON, TOWNSHIP OF | 2601230010C | 16-AUG-2000 | 00-05-4486A | 02
05 | MI | HARRISON, TOWNSHIP OF | 2601230010C | 06-SEP-2000 | 00-05-4328A | 02
05 | MI | HARRISON, TOWNSHIP OF | 2601230010C | 15-NOV-2000 | 00-05-4358A | 02
05 | MI | HARRISON, TOWNSHIP OF | 2601230010C | 29-NOV-2000 | 00-05-5686A | 01
05 | MI | HARRISON, TOWNSHIP OF | 2601230010C | 01-DEC-2000 | 01-05-080A | 02
05 | MI | HARRISON, TOWNSHIP OF | 2601230010C | 20-DEC-2000 | 01-05-154A | 02
05 | MI | HAYNES, TOWNSHIP OF | 2602740006A | 27-JUL-2000 | 00-05-3338A | 02
05 | MI | HOLLAND, CITY OF | 2604920003D | 01-NOV-2000 | 00-05-4918A | 02
05 | MI | HOPE, TOWNSHIP OF | 2606810010B | 27-JUL-2000 | 00-05-4534A | 02
05 | MI | HOWELL, CITY OF |  | 20-JUL-2000 | 00-05-4936V | 19
05 | MI | HOWELL, CITY OF | 2604410002B | 23-AUG-2000 | 00-05-4554A | 02
05 | MI | HUDSON, CITY OF | 2601160001B | 25-OCT-2000 | 00-05-4546A | 02
05 | MI | IRA, TOWNSHIP OF | 2601990005B | 11-OCT-2000 | 00-05-5316A | 02
05 | MI | ISABELLA COUNTY | 26073C0175C | 20-OCT-2000 | 00-05-4764A | 02
05 | MI | JAMES, TOWNSHIP OF | 26145C0130D | 29-SEP-2000 | 00-05-5324A | 02
05 | MI | JAMES, TOWNSHIP OF | 26145C0130D | 11-OCT-2000 | 00-05-3692A | 02
05 | MI | JAMES, TOWNSHIP OF | 26145C0130D | 01-DEC-2000 | 00-05-6018A | 02
05 | MI | KIMBALL, TOWNSHIP OF | 26059404A | 17-NOV-2000 | 00-05-6260A | 02
05 | MI | LAKE ORION, VILLAGE OF | 2605880001A | 01-AUG-2000 | 00-05-4792A | 02
05 | MI | LAKE, TOWNSHIP OF | 26003011A | 13-NOV-2000 | 00-05-5926A | 02
05 | MI | LAKE, TOWNSHIP OF | 260030MAP07 | 01-SEP-2000 | 00-05-2612A | 02
05 | MI | LEELANAU, TOWNSHIP OF | 26011407 | 19-JUL-2000 | 00-05-3332A | 02
05 | MI | LIVONIA, CITY OF | 260233 | 06-SEP-2000 | 00-05-5056A | 02
05 | MI | LIVONIA, CITY OF | 2602330002B | 06-SEP-2000 | 00-05-5056A | 02
05 | MI | LUNA PIER, CITY OF | 26115C0387D | 25-AUG-2000 | 00-05-4530A | 02
05 | MI | MACOMB, TOWNSHIP OF | 2604450010B | 03-JUL-2000 | 00-05-2772A | 01
05 | MI | MACOMB, TOWNSHIP OF | 2604450010B | 17-AUG-2000 | 00-05-2888A | 01
05 | MI | MACOMB, TOWNSHIP OF | 2604450010B | 17-OCT-2000 | 00-05-5214A | 01
05 | MI | MACOMB, TOWNSHIP OF | 2604450020B | 30-AUG-2000 | 99-05-259P | 06
05 | MI | MENOMINEE, CITY OF | 2601380005B | 27-JUL-2000 | 00-05-3354A | 02
05 | MI | MENOMINEE, TOWNSHIP OF | 2607020025B | 16-AUG-2000 | 00-05-4068A | 02
05 | MI | MERIDIAN, CHARTER TOWNSHIP OF |  | 10-AUG-2000 | 00-05-5266V | 19
05 | MI | MERIDIAN, CHARTER TOWNSHIP OF | 2600930015B | 04-OCT-2000 | 00-05-4052A | 02
05 | MI | MERIDIAN, CHARTER TOWNSHIP OF | 2600930015B | 01-NOV-2000 | 00-05-5886A | 02
05 | MI | MERIDIAN, CHARTER TOWNSHIP OF | 26009302F | 19-JUL-2000 | 00-05-3792A | 02
05 | MI | MIDLAND, CITY OF | 2601400005D | 22-AUG-2000 | 00-05-4752A | 02
05 | MI | MIDLAND, CITY OF | 2601400005D | 19-SEP-2000 | 00-05-5034A | 01
05 | MI | MIDLAND, CITY OF | 2601400007D | 16-AUG-2000 | 00-05-3798A | 02
05 | MI | MIDLAND, CITY OF | 2601400007D | 25-AUG-2000 | 00-05-4302A | 02
05 | MI | MIDLAND, CITY OF | 2601400008D | 16-AUG-2000 | 00-05-4364A | 02
05 | MI | MONROE, TOWNSHIP OF | 26115C0243D | 11-JUL-2000 | 00-05-3062A | 17
05 | MI | MONROE, TOWNSHIP OF | 26115C243D | 11-OCT-2000 | 00-05-4344A | 02
05 | MI | NAHMA, TOWNSHIP OF | 26041C0125C | 06-JUL-2000 | 00-05-2296A | 02
05 | MI | NILES, TOWNSHIP OF | 2600400001B | 01-NOV-2000 | 00-05-5154A | 02
05 | MI | NORTHFIELD, TOWNSHIP OF | 2606350005A | 06-SEP-2000 | 00-05-4088A | 02
05 | MI | NORTHFIELD, TOWNSHIP OF | 2606350005A | 08-DEC-2000 | 00-05-5348A | 08
05 | MI | NORTHVILLE, CITY OF | 2602350001B | 27-JUL-2000 | 00-05-3518A | 02
05 | MI | NORTHVILLE, CITY OF | 2602350001B | 22-DEC-2000 | 00-05-4494A | 02
05 | MI | NORTON SHORES, CITY OF | 2601650001A | 22-AUG-2000 | 00-05-1680A | 02
05 | MI | NORVELL, TOWNSHIP OF | 260424A10 | 29-DEC-2000 | 00-05-6040A | 02
05 | MI | NORWAY, CITY OF | 5503470010B | 15-NOV-2000 | 00-05-5946A | 01
05 | MI | NOVI, CITY OF | 2601750005C | 15-DEC-2000 | 00-05-259P | 05
05 | MI | NOVI, CITY OF | 2601750008C | 12-SEP-2000 | 00-05-5026A | 01
05 | MI | NOVI, CITY OF | 2601750008C | 19-SEP-2000 | 00-05-4458A | 01
05 | MI | NOVI, CITY OF | 2601750009C | 27-JUL-2000 | 00-05-4152A | 17
05 | MI | ONEIDA, TOWNSHIP OF | 2600700008B | 22-DEC-2000 | 00-05-6096A | 02
05 | MI | OWOSSO, CITY OF | 2605960002A | 26-OCT-2000 | 00-05-6216A | 02
05 | MI | OWOSSO, TOWNSHIP OF | 2608090005A | 03-AUG-2000 | 00-05-3632A | 02
05 | MI | PONTIAC, CITY OF | 2601770010B | 26-OCT-2000 | 00-05-5722A | 01
05 | MI | PORT AUSTIN, TOWNSHIP OF | 260290C03 | 08-NOV-2000 | 00-05-4378A | 02
05 | MI | PORT HURON, CITY OF | 2602040005B | 08-DEC-2000 | 00-05-3280A | 02
05 | MI | PORTAGE, CITY OF | 2605770002A | 25-AUG-2000 | 00-05-4634A | 02
05 | MI | REDFORD, TOWNSHIP OF | 2602380005 | 10-JUL-2000 | 00-05-4020A | 02
05 | MI | RIVERVIEW, CITY OF | 2602400005C | 29-DEC-2000 | 00-05-6250A | 02
05 | MI | SAGINAW COUNTY | 26145C0080D | 01-NOV-2000 | 00-05-4928A | 02
05 | MI | SAGINAW COUNTY | 26145C0125D | 10-JUL-2000 | 00-05-4086A | 02
05 | MI | SAGINAW COUNTY | 26145C0125D | 09-AUG-2000 | 00-05-4350A | 02
05 | MI | SAGINAW COUNTY | 26145C0130D | 01-DEC-2000 | 00-05-5322A | 02
05 | MI | SAUGATUCK, VILLAGE OF | 2603050001C | 10-OCT-2000 | 00-05-5124A | 01
05 | MI | SHELBY, TOWNSHIP OF | 2601260010B | 01-SEP-2000 | 00-05-4340A | 02
05 | MI | SHELBY, TOWNSHIP OF | 2601260010B | 06-OCT-2000 | 00-05-4330A | 02
05 | MI | SHELBY, TOWNSHIP OF | 2601260010B | 29-NOV-2000 | 00-05-5738A | 08
05 | MI | SHELBY, TOWNSHIP OF | 2601260010B | 15-DEC-2000 | 01-05-153A | 02
05 | MI | SHELBY, TOWNSHIP OF | 2601260010B | 19-DEC-2000 | 00-05-5282A | 02
05 | MI | SILVER CREEK, TOWNSHIP OF | 260369 B | 26-SEP-2000 | 00-05-5458A | 02
05 | MI | SOUTHFIELD, CITY OF | 2601790010B | 25-JUL-2000 | 00-05-3358A | 02
05 | MI | ST. CLAIR SHORES, CITY OF | 2601270005B | 06-JUL-2000 | 00-05-2082A | 02
05 | MI | ST. CLAIR SHORES, CITY OF | 2601270005B | 07-JUL-2000 | 00-05-3874A | 02
05 | MI | ST. CLAIR SHORES, CITY OF | 2601270005B | 18-JUL-2000 | 00-05-3678A | 02
05 | MI | ST. CLAIR SHORES, CITY OF | 2601270005B | 19-JUL-2000 | 00-05-4006A | 02
05 | MI | ST. CLAIR SHORES, CITY OF | 2601270005B | 19-JUL-2000 | 00-05-4042A | 02
05 | MI | ST. CLAIR SHORES, CITY OF | 2601270005B | 19-JUL-2000 | 00-05-4090A | 02
05 | MI | ST. CLAIR SHORES, CITY OF | 2601270005B | 20-JUL-2000 | 00-05-3850A | 02
05 | MI | ST. CLAIR SHORES, CITY OF | 2601270005B | 25-JUL-2000 | 00-05-1446A | 02
05 | MI | ST. CLAIR SHORES, CITY OF | 2601270005B | 25-JUL-2000 | 00-05-3266A | 02
05 | MI | ST. CLAIR SHORES, CITY OF | 2601270005B | 25-JUL-2000 | 00-05-3846A | 01
05 | MI | ST. CLAIR SHORES, CITY OF | 2601270005B | 25-JUL-2000 | 00-05-4112A | 02
05 | MI | ST. CLAIR SHORES, CITY OF | 2601270005B | 25-JUL-2000 | 00-05-4144A | 02
05 | MI | ST. CLAIR SHORES, CITY OF | 2601270005B | 27-JUL-2000 | 00-05-4294A | 02
05 | MI | ST. CLAIR SHORES, CITY OF | 2601270005B | 26-SEP-2000 | 00-05-5332A | 02
05 | MI | ST. CLAIR SHORES, CITY OF | 2601270005B | 04-OCT-2000 | 00-05-5136A | 02
05 | MI | ST. CLAIR SHORES, CITY OF | 2601270005B | 03-NOV-2000 | 00-05-5590A | 02
05 | MI | ST. CLAIR SHORES, CITY OF | 2601270005B | 03-NOV-2000 | 00-05-5592A | 01
05 | MI | ST. CLAIR SHORES, CITY OF | 2601270005B | 03-NOV-2000 | 00-05-5884A | 02
05 | MI | ST. CLAIR SHORES, CITY OF | 2601270005B | 17-NOV-2000 | 00-05-5690A | 02
05 | MI | ST. CLAIR SHORES, CITY OF | 2601270005B | 22-NOV-2000 | 00-05-6232A | 02
05 | MI | ST. CLAIR SHORES, CITY OF | 2601270005B | 29-NOV-2000 | 01-05-039A | 02
05 | MI | ST. CLAIR SHORES, CITY OF | 2601270005B | 20-DEC-2000 | 01-05-159A | 02
05 | MI | ST. CLAIR SHORES, CITY OF | 2601270005B | 20-DEC-2000 | 01-05-169A | 02
05 | MI | ST. CLAIR SHORES, CITY OF | 2601270005B | 22-DEC-2000 | 01-05-078A | 02
05 | MI | ST. CLAIR SHORES, CITY OF | 2601270005B | 27-DEC-2000 | 01-05-201A | 02
05 | MI | ST. CLAIR SHORES, CITY OF | 260127005B | 03-NOV-2000 | 00-05-5864A | 02
05 | MI | ST. JOSEPH, CITY OF | 1802240125A | 01-NOV-2000 | 00-05-5236A | 02
05 | MI | STANDISH, TOWNSHIP OF | 2600170015C | 13-OCT-2000 | 00-05-5420A | 02
05 | MI | STERLING HEIGHTS, CITY OF | 2601280010E | 18-JUL-2000 | 00-05-2084A | 02
05 | MI | STERLING HEIGHTS, CITY OF | 2601280010E | 06-SEP-2000 | 00-05-093P | 05
05 | MI | STERLING HEIGHTS, CITY OF | 2601280010E | 17-OCT-2000 | 00-05-5384A | 02
05 | MI | STERLING HEIGHTS, CITY OF | 2601280015F | 06-JUL-2000 | 00-05-3860A | 02
05 | MI | STERLING HEIGHTS, CITY OF | 2601280015F | 12-JUL-2000 | 00-05-3480A | 02
05 | MI | STERLING HEIGHTS, CITY OF | 2601280015F | 18-JUL-2000 | 00-05-4130A | 02
05 | MI | STERLING HEIGHTS, CITY OF | 2601280015F | 05-SEP-2000 | 00-05-023P | 05
05 | MI | STERLING HEIGHTS, CITY OF | 2601280015F | 07-SEP-2000 | 00-05-5114A | 02
05 | MI | SWAN CREEK, TOWNSHIP OF | 26145C0125D | 22-DEC-2000 | 01-05-041A | 02
05 | MI | TALLMADGE, TOWNSHIP OF | 2604940010B | 18-JUL-2000 | 00-05-1984A | 02
05 | MI | TAWAS CITY, CITY OF | 2601020001C | 29-NOV-2000 | 00-05-5694A | 01
05 | MI | TAYLOR, CITY OF | 2607280004A | 29-NOV-2000 | 00-05-5564A | 08
05 | MI | THOMAS, TOWNSHIP OF | 26145C0130D | 21-SEP-2000 | 00-05-5344A | 02
05 | MI | TROY, CITY OF | 2601800001E | 26-JUL-2000 | 00-05-077P | 05
05 | MI | TROY, CITY OF | 2601800001E | 14-DEC-2000 | 01-05-0082A | 02
05 | MI | TROY, CITY OF | 2601800002D | 03-JUL-2000 | 00-05-4436X | 17
05 | MI | TROY, CITY OF | 2601800002D | 25-JUL-2000 | 00-05-3076A | 02
05 | MI | TROY, CITY OF | 2601800002D | 14-SEP-2000 | 00-05-135P | 05
05 | MI | TROY, CITY OF | 2601800003E | 19-DEC-2000 | 01-05-0313A | 02
05 | MI | TROY, CITY OF | 2601800004E | 11-JUL-2000 | 00-05-2776A | 17
05 | MI | TROY, CITY OF | 2601800004E | 20-JUL-2000 | 00-05-3888A | 02
05 | MI | TROY, CITY OF | 2601800004E | 27-JUL-2000 | 00-05-4406A | 02
05 | MI | TROY, CITY OF | 2601800004E | 29-AUG-2000 | 00-05-3914A | 02
05 | MI | TROY, CITY OF | 2601800004E | 29-SEP-2000 | 00-05-5474A | 02
05 | MI | TROY, CITY OF | 2601800006E | 20-JUL-2000 | 00-05-4392A | 02
05 | MI | UNION, TOWNSHIP OF | 26073C0306C | 06-SEP-2000 | 00-05-3746A | 02
05 | MI | UNION, TOWNSHIP OF | 2608120025A | 06-SEP-2000 | 00-05-3964A | 02
05 | MI | UNION, TOWNSHIP OF | 2608120025A | 06-SEP-2000 | 00-05-3990A | 02
05 | MI | VICTOR, TOWNSHIP OF | 2607200010B | 10-JUL-2000 | 00-05-3400A | 02
05 | MI | VICTOR, TOWNSHIP OF | 2607200010B | 25-OCT-2000 | 00-05-4362A | 02
05 | MI | WARREN, CITY OF | 2601290005C | 28-SEP-2000 | 00-05-2592A | 02
05 | MI | WARREN, CITY OF | 2601290010C | 16-AUG-2000 | 00-05-4308A | 02
05 | MI | WATERFORD, CHARTER TOWNSHIP OF | 2602840005B | 25-JUL-2000 | 00-05-4564A | 02
05 | MI | WATERFORD, CHARTER TOWNSHIP OF | 2602840005B | 17-OCT-2000 | 00-05-5756A | 02
05 | MI | WATERFORD, CHARTER TOWNSHIP OF | 2602840010B | 20-JUL-2000 | 00-05-3552A | 02
05 | MI | WATERFORD, CHARTER TOWNSHIP OF | 2602840010B | 26-SEP-2000 | 00-05-5254A | 02
05 | MI | WATERFORD, CHARTER TOWNSHIP OF | 2602840010B | 26-SEP-2000 | 00-05-5540A | 02
05 | MI | WATERTOWN, CHARTER TOWNSHIP OF | 2602910010B | 27-OCT-2000 | 00-05-5608A | 02
05 | MI | WEST BLOOMFIELD, TOWNSHIP OF | 2601820005B | 17-OCT-2000 | 00-05-5368A | 02
05 | MI | WHITE LAKE, TOWNSHIP OF | 2604790005B | 02-NOV-2000 | 01-05-066A | 02
05 | MI | WHITEWATER, TOWNSHIP OF | 2607940025A | 18-OCT-2000 | 00-05-5570A | 02
05 | MI | WILLIAMSTON, CITY OF | 2600940001B | 01-AUG-2000 | 00-05-3434A | 01
05 | MI | WILLIAMSTON, CITY OF | 2600940001B | 20-SEP-2000 | 00-05-4512A | 02
05 | MI | WINDSOR, CHARTER TOWNSHIP OF | 2600710005C | 19-JUL-2000 | 00-05-4062A | 02
05 | MI | WINDSOR, CHARTER TOWNSHIP OF | 2600710005C | 09-AUG-2000 | 00-05-4276A | 02
05 | MI | WOLVERINE LAKE, VILLAGE OF | 2604809999A | 28-DEC-2000 | 01-05-0668A | 02
05 | MI | WOODHAVEN, CITY OF | 2607300005A | 29-DEC-2000 | 01-05-318A | 02
05 | MI | WYOMING, CITY OF | 2601110005C | 26-OCT-2000 | 00-05-3580A | 01
05 | MI | WYOMING, CITY OF | 2601110015C | 11-JUL-2000 | 00-05-2190A | 01
05 | MI | ZILWAUKEE, TOWNSHIP OF | 26145C0085D | 06-SEP-2000 | 00-05-4096A | 02
05 | MN | AFTON, CITY OF | I-04 | 30-AUG-2000 | 00-05-4288A | 02
05 | MN | AITKIN COUNTY | 2706280205C | 18-OCT-2000 | 00-05-3046A | 02
05 | MN | AITKIN COUNTY | 2706280325C | 09-AUG-2000 | 00-05-3032A | 02
05 | MN | ANDOVER, CITY OF | 2706890015B | 18-JUL-2000 | 00-05-2268A | 01
05 | MN | ANDOVER, CITY OF | 2706890015B | 19-JUL-2000 | 00-05-2986A | 02
05 | MN | ANOKA COUNTY | 2700070005C | 22-NOV-2000 | 00-05-6098A | 02
05 | MN | ANOKA, CITY OF | 275227 A | 24-AUG-2000 | 00-05-4750A | 02
05 | MN | ANOKA, CITY OF | 27522703A | 15-NOV-2000 | 01-05-064A | 02
05 | MN | BENTON COUNTY | 2700190025B | 07-DEC-2000 | 01-05-168A | 02
05 | MN | BENTON COUNTY | 2700190050B | 22-NOV-2000 | 00-05-5172A | 01
05 | MN | BENTON COUNTY | 2700190125C | 13-NOV-2000 | 00-05-3292A | 02
05 | MN | BLAINE, CITY OF | 2700070005C | 06-JUL-2000 | 00-05-3876A | 02
05 | MN | BLAINE, CITY OF | 2700070005C | 11-JUL-2000 | 00-05-3450A | 02
05 | MN | BLAINE, CITY OF | 2700070005C | 20-JUL-2000 | 00-05-4164A | 02
05 | MN | BLAINE, CITY OF | 2700070005C | 20-JUL-2000 | 00-05-4176A | 02
05 | MN | BLAINE, CITY OF | 2700070005C | 03-AUG-2000 | 00-05-4166A | 02
05 | MN | BLAINE, CITY OF | 2700070005C | 14-SEP-2000 | 99-05-4934A | 02
05 | MN | BLAINE, CITY OF | 2700070005C | 19-SEP-2000 | 00-05-5118A | 02
05 | MN | BLAINE, CITY OF | 2700070005C | 26-SEP-2000 | 00-05-5386A | 02
05 | MN | BLAINE, CITY OF | 2700070005C | 26-OCT-2000 | 00-05-4470A | 01
05 | MN | BLAINE, CITY OF | 2700070010C | 17-OCT-2000 | 00-05-4386A | 01
05 | MN | BROOKLYN PARK, CITY OF | 2701520001C | 19-DEC-2000 | 01-05-0156A | 02
05 | MN | BROOKLYN PARK, CITY OF | 2701520003D | 13-SEP-2000 | 99-05-101P | 05
05 | MN | BROOKLYN PARK, CITY OF | 2701520004C | 31-OCT-2000 | 00-05-6294A | 02
05 | MN | CHASKA, CITY OF | 2752340002C | 01-SEP-2000 | 00-05-129P | 05
05 | MN | CHISAGO, CITY OF | 2706820175C | 03-NOV-2000 | 00-05-5506A | 02
05 | MN | CHISAGO, CITY OF | 2707070001A | 01-SEP-2000 | 00-05-4084A | 02
05 | MN | CIRCLE PINES, CITY OF | 2700090005A | 01-DEC-2000 | 00-05-219P | 12
05 | MN | CIRCLE PINES, CITY OF | 2700090005A | 15-DEC-2000 | 01-05-728A | 01
05 | MN | COON RAPIDS,CITY OF | 2700110001 | 01-SEP-2000 | 00-05-4826A | 01
05 | MN | COON RAPIDS,CITY OF | 2700110001A | 11-JUL-2000 | 00-05-3478A | 02
05 | MN | COON RAPIDS,CITY OF | 2700110001A | 10-AUG-2000 | 00-05-4134A | 01
05 | MN | COON RAPIDS,CITY OF | 2700110001A | 17-AUG-2000 | 00-05-4400A | 01
05 | MN | COON RAPIDS,CITY OF | 2700110001A | 31-AUG-2000 | 00-05-5378A | 02
05 | MN | COON RAPIDS,CITY OF | 2700110002A | 31-OCT-2000 | 00-05-5296A | 02
05 | MN | COON RAPIDS,CITY OF | 270011A02 | 15-DEC-2000 | 01-05-121A | 02
05 | MN | COON RAPIDS,CITY OF | 270011A02 | 15-DEC-2000 | 01-05-122A | 02
05 | MN | CROOKSTON, CITY OF | 270364002C | 13-NOV-2000 | 00-05-6074A | 02
05 | MN | CROSSLAKE, CITY OF | 270095 | 13-NOV-2000 | 00-05-5170A | 01
05 | MN | CROSSLAKE, CITY OF | 270095 B | 11-JUL-2000 | 00-05-3110A | 02
05 | MN | CROSSLAKE, CITY OF | 270095B04 | 27-JUL-2000 | 00-05-4488A | 02
05 | MN | CROSSLAKE, CITY OF | 270095B05 | 08-NOV-2000 | 00-05-6104A | 02
05 | MN | CRYSTAL, CITY OF | 2701560002B | 17-OCT-2000 | 00-05-5642A | 02
05 | MN | CRYSTAL, CITY OF | 2701560004C | 31-AUG-2000 | 00-05-5380A | 01
05 | MN | DAKOTA COUNTY | 2701010225B | 25-OCT-2000 | 00-05-4376A | 02
05 | MN | DILWORTH, CITY OF | 2700800001B | 11-JUL-2000 | 00-05-3718A | 02
05 | MN | EAST BETHEL, CITY OF | 2700120010A | 20-JUL-2000 | 00-05-4562A | 02
05 | MN | EAST BETHEL, CITY OF | 2700120010A | 26-SEP-2000 | 00-05-4962A | 01
05 | MN | EAST GRAND FORKS, CITY OF | 2705030175B | 09-NOV-2000 | 99-05-7256A | 02
05 | MN | EAST GRAND FORKS, CITY OF | 2752360005C | 15-SEP-2000 | 00-05-5276A | 02
05 | MN | EAST GRAND FORKS, CITY OF | 2752360005C | 08-NOV-2000 | 00-05-5412A | 02
05 | MN | EAST GRAND FORKS, CITY OF | 2752360005C | 08-NOV-2000 | 00-05-5916A | 02
05 | MN | EXCELSIOR, CITY OF | 2701610001D | 10-JUL-2000 | 00-05-3396A | 02
05 | MN | GOODHUE COUNTY | 2701400125A | 19-JUL-2000 | 00-05-3296A | 02
05 | MN | GREENFIELD, CITY OF | 2706730010C | 16-AUG-2000 | 00-05-3824A | 02
05 | MN | GREENWOOD, TOWNSHIP OF | 2707360575C | 19-JUL-2000 | 00-05-2822A | 02
05 | MN | HAM LAKE, CITY OF | 2706740005B | 07-DEC-2000 | 01-05-295A | 01
05 | MN | HAM LAKE, CITY OF | 2706740005B | 15-DEC-2000 | 00-05-341P | 05
05 | MN | HASSAN, TOWNSHIP OF | 2706780005C | 31-DEC-2000 | 00-05-183P | 06
05 | MN | HERMANTOWN, CITY OF | 2707080005B | 19-JUL-2000 | 00-05-3016A | 02
05 | MN | HUGO, CITY OF | 2705040005C | 03-NOV-2000 | 00-05-5948A | 01
05 | MN | HUTCHINSON, CITY OF | 2702640003D | 06-OCT-2000 | 00-05-5900A | 02
05 | MN | ISANTI COUNTY | 270197 | 01-SEP-2000 | 00-05-5064A | 02
05 | MN | ISANTI COUNTY | 270197 | 01-SEP-2000 | 00-05-5066A | 02
05 | MN | ISANTI COUNTY | 2701970020A | 14-JUL-2000 | 00-05-3402A | 02
05 | MN | ISANTI COUNTY | 2701970020A | 14-JUL-2000 | 00-05-3404A | 02
05 | MN | ISANTI COUNTY | 2701970020A | 14-JUL-2000 | 00-05-3406A | 02
05 | MN | ISANTI COUNTY | 2701970020A | 01-SEP-2000 | 00-05-5064A | 02
05 | MN | ISANTI COUNTY | 2701970020A | 01-SEP-2000 | 00-05-5066A | 02
05 | MN | ISANTI COUNTY | 2701970060B | 19-JUL-2000 | 00-05-3988A | 02
05 | MN | ISANTI COUNTY | 2701970060B | 08-NOV-2000 | 00-05-5898A | 02
05 | MN | ISANTI COUNTY | 2701970060B | 22-NOV-2000 | 01-05-194A | 02
05 | MN | ISANTI COUNTY | 2701970070A | 03-NOV-2000 | 00-05-5902A | 02
05 | MN | ISANTI COUNTY | 2701970090A | 08-NOV-2000 | 00-05-5352A | 02
05 | MN | KOOCHICHING COUNTY | 2702330006B | 27-JUL-2000 | 00-05-4074A | 02
05 | MN | KOOCHICHING COUNTY | 2702330006B | 06-SEP-2000 | 00-05-4076A | 02
05 | MN | KOOCHICHING COUNTY | 2703330011B | 06-SEP-2000 | 00-05-4784A | 02
05 | MN | LAKE CITY, CITY OF | 2704860003C | 30-AUG-2000 | 00-05-3822A | 02
05 | MN | LAKE ST. CROIX BEACH, CITY OF | 2752400001B | 13-NOV-2000 | 00-05-5560A | 02
05 | MN | LE SUEUR COUNTY | 27079C0265D | 08-NOV-2000 | 00-05-4270A | 02
05 | MN | MAPLE GROVE, CITY OF | 2701690003B | 16-NOV-2000 | 00-05-6154A | 01
05 | MN | MEDINA, CITY OF | 2701710003B | 09-AUG-2000 | 00-05-4040A | 02
05 | MN | MINNEAPOLIS, CITY OF | 2701720008B | 07-SEP-2000 | 00-05-3912A | 02
05 | MN | MINNEAPOLIS, CITY OF | 2701720008B | 29-SEP-2000 | 00-05-6266X | 02
05 | MN | MOORHEAD, CITY OF | 2752440010D | 18-JUL-2000 | 00-05-4452A | 01
05 | MN | MORRISON COUNTY | 2706170290B | 16-AUG-2000 | 00-05-3972A | 02
05 | MN | NORTH BRANCH, CITY OF | 2700720003B | 10-JUL-2000 | 00-05-3008A | 02
05 | MN | NORTH ST. PAUL, CITY OF | 2703820005B | 27-DEC-2000 | 00-05-5360A | 01
05 | MN | OLMSTED COUNTY | 27109C0075D | 25-OCT-2000 | 00-05-5098A | 02
05 | MN | OLMSTED COUNTY | 27109C0075D | 03-NOV-2000 | 00-05-5100A | 02
05 | MN | OLMSTED COUNTY | 27109C485D | 08-NOV-2000 | 00-05-5968A | 02
05 | MN | ORONO, CITY OF | 2701780010C | 25-JUL-2000 | 00-05-3242A | 02
05 | MN | PLYMOUTH, CITY OF | 2701790005C | 11-JUL-2000 | 00-05-2730A | 02
05 | MN | PLYMOUTH, CITY OF | 2701790010C | 26-SEP-2000 | 00-05-4416A | 01
05 | MN | POLK COUNTY * | 2705030175B | 09-NOV-2000 | 99-05-7256A | 02
05 | MN | PRIOR LAKE, CITY OF | 2704320004C | 25-OCT-2000 | 00-05-5488A | 01
05 | MN | RICE COUNTY | 2706460025C | 25-JUL-2000 | 00-05-3772A | 02
05 | MN | RICE COUNTY | 2706460050B | 27-JUL-2000 | 00-05-3788A | 02
05 | MN | ROCHESTER, CITY OF | 27109C0142E | 06-JUL-2000 | 99-05-4932A | 01
05 | MN | ROCHESTER, CITY OF | 27109C0303D | 03-NOV-2000 | 00-05-4106A | 01
05 | MN | ROSEAU COUNTY | 2706330100C | 20-SEP-2000 | 00-05-4482A | 02
05 | MN | SAUK CENTRE, CITY OF | 2704590001B | 03-AUG-2000 | 00-05-3568A | 02
05 | MN | SHERBURNE COUNTY | 270435 | 04-AUG-2000 | 00-05-4540A | 02
05 | MN | SHERBURNE COUNTY | 2704350095C | 13-NOV-2000 | 00-05-4650A | 02
05 | MN | SHERBURNE COUNTY | 2704350095C | 22-NOV-2000 | 01-05-056A | 02
05 | MN | SHERBURNE COUNTY | 27141C0245E | 25-AUG-2000 | 00-05-4054A | 02
05 | MN | SHERBURNE COUNTY * | 27141C0205E | 07-SEP-2000 | 00-05-3134A | 02
05 | MN | SHERBURNE COUNTY * | 27141C0205E | 29-SEP-2000 | 00-05-6268X | 02
05 | MN | SHERBURNE COUNTY * | 27141C0245E | 18-JUL-2000 | 00-05-2498A | 02
05 | MN | SHOREVIEW, CITY OF | 2703840001B | 11-JUL-2000 | 00-05-2654A | 02
05 | MN | ST. CLOUD, CITY OF | 2704560015C | 08-NOV-2000 | 00-05-4078A | 02
05 | MN | ST. LOUIS PARK, CITY OF | 2701840005B | 21-SEP-2000 | 00-05-5862A | 02
05 | MN | STEARNS COUNTY | 2705460355B | 22-NOV-2000 | 00-05-5054A | 02
05 | MN | WATERVILLE, CITY OF | 27079C0427D | 20-JUL-2000 | 00-05-3174A | 02
05 | MN | WHITE BEAR,TOWNSHIP OF | 2706880005B | 25-AUG-2000 | 00-05-4656A | 02
05 | MN | WHITE BEAR,TOWNSHIP OF | 2706880005B | 30-AUG-2000 | 00-05-3768A | 02
05 | MN | WHITE BEAR,TOWNSHIP OF | 2706880005B | 22-NOV-2000 | 01-05-073A | 02
05 | MN | WHITE BEAR,TOWNSHIP OF | 2706880005B | 22-NOV-2000 | 01-05-118A | 02
05 | MN | WINONA COUNTY | 2705250150C | 13-NOV-2000 | 00-05-5650A | 02
05 | MN | WINONA COUNTY | 2705250175C | 10-JUL-2000 | 00-05-2842A | 02
05 | MN | WORTHINGTON, CITY OF | 2703210002B | 15-NOV-2000 | 00-05-6312A | 02
05 | MN | WRIGHT COUNTY | 270534 | 06-SEP-2000 | 00-05-4776A | 02
05 | MN | WRIGHT COUNTY | 2705340009B | 08-DEC-2000 | 01-05-072A | 02
05 | MN | WRIGHT COUNTY | 2705340027B | 06-SEP-2000 | 00-05-4776A | 02
05 | MN | WRIGHT COUNTY | 2705340028C | 19-JUL-2000 | 00-05-3796A | 02
05 | OH | ASHLAND COUNTY | 3907590004B | 29-SEP-2000 | 00-05-1524A | 01
05 | OH | ASHLAND, CITY OF | 3900070005D | 24-OCT-2000 | 00-05-2220A | 17
05 | OH | ASHTABULA COUNTY | 3900100215B | 01-DEC-2000 | 00-05-4064A | 02
05 | OH | AUGLAIZE COUNTY | 39011C0010C | 04-OCT-2000 | 00-05-4030A | 02
05 | OH | AUGLAIZE COUNTY | 39011C0080C | 22-SEP-2000 | 00-05-4476A | 02
05 | OH | AUGLAIZE COUNTY | 39011C0090C | 25-AUG-2000 | 00-05-3832A | 02
05 | OH | AUGLAIZE COUNTY * | 39011C0025C | 15-AUG-2000 | 00-05-3132A | 02
05 | OH | AVON LAKE, CITY OF | 3906020002B | 06-JUL-2000 | 00-05-3470A | 02
05 | OH | AVON, CITY OF | 3903480005C | 06-OCT-2000 | 00-05-4044A | 02
05 | OH | AVON, CITY OF | 3903480005C | 17-OCT-2000 | 00-05-2874A | 02
05 | OH | AVON, CITY OF | 3903480005C | 08-NOV-2000 | 00-05-115P | 05
05 | OH | BEAVERCREEK, CITY OF | 3901930025C | 09-OCT-2000 | 00-05-079P | 05
05 | OH | BEAVERCREEK, CITY OF | 3908760002B | 27-JUL-2000 | 00-05-4462X | 02
05 | OH | BEAVERCREEK, CITY OF | 3908760002B | 28-SEP-2000 | 00-05-4610A | 02
05 | OH | BEAVERCREEK, CITY OF | 3908760002B | 29-DEC-2000 | 00-05-5970A | 02
05 | OH | BELLBROOK, CITY OF | 3901940001B | 15-AUG-2000 | 00-05-5092X | 02
05 | OH | BLUFFTON, VILLAGE OF | 3900040001B | 15-DEC-2000 | 00-05-6076A | 02
05 | OH | BROADVIEW HEIGHTS, CITY OF | 3900990001B | 20-OCT-2000 | 00-05-5572A | 02
05 | OH | BRUNSWICK, CITY OF | 3903800002B | 31-OCT-2000 | 00-05-5008A | 01
05 | OH | BUTLER COUNTY | 390037 | 06-SEP-2000 | 00-05-5062A | 02
05 | OH | BUTLER COUNTY | 3900370070C | 06-SEP-2000 | 00-05-5062A | 02
05 | OH | BUTLER COUNTY * | 3900370015B | 06-JUL-2000 | 99-05-7168A | 02
05 | OH | CANAL WINCHESTER, VILLAGE OF | 39049C0379G | 20-JUL-2000 | 00-05-1944A | 02
05 | OH | CLARK COUNTY* | 3907320165B | 13-OCT-2000 | 99-05-139P | 05
05 | OH | CLEVELAND, CITY OF | 3901040005B | 28-SEP-2000 | 98-05-441P | 05
05 | OH | COLUMBUS, CITY OF | 39049C0139G | 18-JUL-2000 | 00-05-4572X | 01
05 | OH | COLUMBUS, CITY OF | 39049C0152G | 26-OCT-2000 | 00-05-5978A | 02
05 | OH | COLUMBUS, CITY OF | 39049C0156G | 25-JUL-2000 | 00-05-1856A | 01
05 | OH | COLUMBUS, CITY OF | 39049C0159G | 26-SEP-2000 | 00-05-5076A | 02
05 | OH | COLUMBUS, CITY OF | 39049C0180G | 10-AUG-2000 | 00-05-4142A | 01
05 | OH | COLUMBUS, CITY OF | 39049C0231G | 18-JUL-2000 | 00-05-1668A | 01
05 | OH | COLUMBUS, CITY OF | 39049C0295G | 11-JUL-2000 | 00-05-0016A | 01
05 | OH | COLUMBUS, CITY OF | 39049C0295G | 15-AUG-2000 | 00-05-5000X | 01
05 | OH | DAYTON, CITY OF | 3904090010C | 06-SEP-2000 | 00-05-3716A | 02
05 | OH | DEFIANCE COUNTY | 3901430025B | 06-SEP-2000 | 00-05-2960A | 02
05 | OH | DELAWARE COUNTY | 39041C0175J | 27-JUL-2000 | 00-05-4504A | 02
05 | OH | DELAWARE COUNTY * | 39041C0237J | 11-JUL-2000 | 00-05-2742A | 01
05 | OH | DELAWARE COUNTY * | 39041C0240J | 18-JUL-2000 | 00-05-4608X | 02
05 | OH | DUBLIN, CITY OF | 39049C0106G | 19-SEP-2000 | 00-05-3906A | 02
05 | OH | DUBLIN, CITY OF | 39049C0106G | 19-SEP-2000 | 00-05-3910A | 02
05 | OH | EAST PALESTINE, CITY OF | 39007901B | 20-DEC-2000 | 00-05-2850A | 02
05 | OH | ENON, VILLAGE OF | 3907950005C | 13-OCT-2000 | 99-05-139P | 05
05 | OH | ERIE COUNTY * | 3901530110B | 15-AUG-2000 | 00-05-3106A | 02
05 | OH | FAIRBORN, CITY OF | 3901950005B | 18-JUL-2000 | 00-05-3844A | 02
05 | OH | FAIRBORN, CITY OF | 3901950010C | 09-OCT-2000 | 00-05-079P | 05
05 | OH | FAIRFIELD COUNTY | 3901580055D | 18-OCT-2000 | 00-05-4004A | 02
05 | OH | FAIRFIELD, CITY OF | 3900380005B | 22-NOV-2000 | 00-05-6198A | 02
05 | OH | FAIRFIELD, CITY OF | 3900380005B | 22-DEC-2000 | 00-05-4642A | 01
05 | OH | FINDLAY, CITY | 3902440004B | 17-NOV-2000 | 00-05-6102A | 02
05 | OH | FRANKLIN COUNTY | 39049C0106G | 13-NOV-2000 | 00-05-6108A | 02
05 | OH | FRANKLIN COUNTY | 39049C0195G | 22-DEC-2000 | 01-05-193A | 02
05 | OH | FRANKLIN COUNTY | 39049C0290G | 22-DEC-2000 | 01-05-207A | 02
05 | OH | FRANKLIN COUNTY* | 39049C0270G | 31-AUG-2000 | 00-05-3842A | 01
05 | OH | FRANKLIN COUNTY* | 39049C0290G | 26-SEP-2000 | 00-05-5628A | 02
05 | OH | GAHANNA, CITY OF | 38049C0186G | 15-DEC-2000 | 01-05-189A | 02
05 | OH | GATES MILLS, VILLAGE OF | 39059300002 | 19-JUL-2000 | 00-05-3976A | 01
05 | OH | GATES MILLS, VILLAGE OF | 3905930002B | 04-AUG-2000 | 00-05-3826A | 02
05 | OH | GERMANTOWN, VILLAGE OF | 3904110001B | 08-NOV-2000 | 00-05-4520A | 02
05 | OH | GREENE COUNTY * | 3901930100B | 07-JUL-2000 | 00-05-4720A | 02
05 | OH | GROVE CITY, CITY OF | 39049C0238G | 25-JUL-2000 | 00-05-1316A | 17
05 | OH | GROVEPORT, VILLAGE OF | 39049C0357G | 12-JUL-2000 | 00-05-2348A | 01
05 | OH | GROVEPORT, VILLAGE OF | 39049C0357G | 22-AUG-2000 | 00-05-3250A | 01
05 | OH | HAMILTON COUNTY * | 3902040040C | 14-SEP-2000 | 00-05-1046A | 02
05 | OH | HANCOCK COUNTY | 3907670080B | 09-AUG-2000 | 00-05-4674A | 02
05 | OH | HANCOCK COUNTY | 3907670110B | 04-AUG-2000 | 00-05-3820A | 02
05 | OH | HARRISON COUNTY | 3902550002A | 20-DEC-2000 | 00-05-5508A | 02
05 | OH | HEATH, CITY OF | 3903320005C | 06-SEP-2000 | 00-05-4820A | 02
05 | OH | HIGHLAND HEIGHTS, CITY OF | 3901100001D | 28-AUG-2000 | 00-05-039P | 05
05 | OH | HOLLAND, VILLAGE OF |  | 07-JUL-2000 | 00-05-6212V | 19
05 | OH | HOLMES COUNTY | 39075C0150C | 15-NOV-2000 | 00-05-3736A | 02
05 | OH | HURON COUNTY | 390770 | 01-SEP-2000 | 00-05-4836A | 02
05 | OH | HURON COUNTY | 3907700004B | 01-SEP-2000 | 00-05-4836A | 02
05 | OH | KENT, CITY OF | 3904560001B | 01-NOV-2000 | 00-05-5482A | 02
05 | OH | KNOX COUNTY | 3903060090C | 06-OCT-2000 | 00-05-3732A | 02
05 | OH | KNOX COUNTY | 3903060090C | 18-OCT-2000 | 00-05-3974A | 02
05 | OH | KNOX COUNTY | 3903060120C | 11-SEP-2000 | 00-05-4034A | 02
05 | OH | LAKE COUNTY | 3907710051C | 20-DEC-2000 | 00-05-6012A | 08
05 | OH | LAKE COUNTY * | 3907710027C | 21-SEP-2000 | 00-05-5438X | 02
05 | OH | LAKE COUNTY * | 3907710035C | 10-AUG-2000 | 00-05-2026A | 02
05 | OH | LAKEVIEW, VILLAGE OF | 3907720025C | 16-AUG-2000 | 00-05-3318A | 02
05 | OH | LAWRENCE COUNTY * | 3903250140B | 06-JUL-2000 | 00-05-2126A | 02
05 | OH | LICKING COUNTY | 390328 | 01-SEP-2000 | 00-05-4816A | 02
05 | OH | LICKING COUNTY | 3903280100B | 01-SEP-2000 | 00-05-4816A | 02
05 | OH | LOGAN COUNTY | 3907720025C | 19-JUL-2000 | 00-05-4038A | 02
05 | OH | LORAIN COUNTY | 3903460085B | 29-NOV-2000 | 00-05-2624A | 02
05 | OH | LORAIN COUNTY | 3903460105B | 20-OCT-2000 | 00-05-4808A | 01
05 | OH | LORAIN COUNTY | 3903460115B | 17-NOV-2000 | 00-05-4360A | 02
05 | OH | LORAIN, CITY OF | 3903510005C | 17-OCT-2000 | 00-05-5292A | 02
05 | OH | LORAIN, CITY OF | 39035100100 | 29-NOV-2000 | 00-05-5744A | 02
05 | OH | LUCAS COUNTY | 39095C0105D | 27-DEC-2000 | 01-05-141A | 02
05 | OH | LUCAS COUNTY* |  | 07-OCT-2000 | 01-05-0272V | 19
05 | OH | LUCAS COUNTY* | 3903590025B | 17-AUG-2000 | 00-05-3584A | 02
05 | OH | LUCAS COUNTY* | 39095C0064D | 01-DEC-2000 | 00-05-127P | 05
05 | OH | MAHONING COUNTY | 3903670050B | 15-DEC-2000 | 00-05-6014A | 02
05 | OH | MARIETTA, CITY OF | 3905720003C | 22-NOV-2000 | 00-05-6090A | 02
05 | OH | MASON, CITY OF | 3905590005C | 24-OCT-2000 | 00-05-0020A | 01
05 | OH | MASSILLON, CITY OF | 3907800085B | 20-SEP-2000 | 00-05-4824A | 02
05 | OH | MAUMEE, CITY OF |  | 07-OCT-2000 | 00-05-6208V | 19
05 | OH | MAYFIELD, VILLAGE OF | 390116D08 | 25-JUL-2000 | 00-05-3384A | 02
05 | OH | MAYFIELD, VILLAGE OF | 390116MAP05 | 06-SEP-2000 | 00-05-3376A | 01
05 | OH | MEDINA COUNTY | 3903780005B | 11-OCT-2000 | 00-05-4848A | 02
05 | OH | MEDINA COUNTY | 3903780080B | 09-AUG-2000 | 00-05-4262A | 02
05 | OH | MENTOR, CITY OF | 3903170010C | 01-NOV-2000 | 00-05-6184A | 02
05 | OH | MERCER COUNTY | 3903920100B | 10-JUL-2000 | 00-05-3696A | 02
05 | OH | MERCER COUNTY | 3903920100B | 11-JUL-2000 | 00-05-3694A | 02
05 | OH | MERCER COUNTY | 3903920100B | 19-JUL-2000 | 00-05-3800A | 02
05 | OH | MERCER COUNTY | 3903920100B | 04-AUG-2000 | 00-05-3814A | 02
05 | OH | MERCER COUNTY * | 3903920100B | 10-AUG-2000 | 00-05-4582A | 02
05 | OH | MERCER COUNTY * | 3903920100B | 14-SEP-2000 | 00-05-5252A | 02
05 | OH | MERCER COUNTY * | 3903920100B | 26-SEP-2000 | 00-05-5468A | 02
05 | OH | MERCER COUNTY * | 3903920100B | 29-SEP-2000 | 00-05-4696A | 01
05 | OH | MERCER COUNTY * | 3903920100B | 07-DEC-2000 | 01-05-0142A | 02
05 | OH | MERCER COUNTY * | 3903920100B | 12-DEC-2000 | 01-05-0450A | 02
05 | OH | MERCER COUNTY * | 3903920100B | 12-DEC-2000 | 01-05-0460A | 02
05 | OH | MERCER COUNTY * | 3903920100B | 19-DEC-2000 | 01-05-0458A | 02
05 | OH | MIAMI COUNTY | 390398 | 12-SEP-2000 | 00-05-4932A | 02
05 | OH | MIAMI COUNTY | 3903980040B | 12-SEP-2000 | 00-05-4932A | 02
05 | OH | MONTGOMERY COUNTY | 3907750040C | 30-AUG-2000 | 00-05-4774A | 02
05 | OH | MONTGOMERY COUNTY | 3907750055B | 29-NOV-2000 | 00-05-5672A | 02
05 | OH | MONTGOMERY COUNTY * | 3907750040C | 01-AUG-2000 | 00-05-2302A | 01
05 | OH | NEWARK,CITY OF |  | 08-SEP-2000 | 00-05-6006V | 19
05 | OH | NEWARK,CITY OF | 3903350020E | 11-SEP-2000 | 00-05-081P | 05
05 | OH | NOBLE COUNTY* | 3904280002B | 25-JUL-2000 | 00-05-2892A | 02
05 | OH | NORTH ROYALTON, CITY OF | 3901210006B | 03-JUL-2000 | 00-05-3938X | 01
05 | OH | OAK HARBOR, VILLAGE OF | 3904330050B | 13-SEP-2000 | 00-05-4098A | 01
05 | OH | OREGON, CITY OF |  | 07-OCT-2000 | 00-05-6206V | 19
05 | OH | OTTAWA COUNTY | 3904320125B | 08-DEC-2000 | 00-05-3722A | 02
05 | OH | OTTAWA COUNTY * | 3904320200B | 18-JUL-2000 | 00-05-1896A | 01
05 | OH | OTTAWA HILLS, VILLAGE OF |  | 07-OCT-2000 | 00-05-6204V | 19
05 | OH | OTTAWA, VILLAGE OF | 3904720002C | 01-DEC-2000 | 00-05-5736A | 01
05 | OH | PICKERINGTON, VILLAGE OF | 3901580015D | 20-SEP-2000 | 00-05-4266A | 02
05 | OH | PIKE COUNTY* | 39131C0045B | 25-JUL-2000 | 00-05-095P | 05
05 | OH | POWHATAN POINT, VILLAGE OF | 3900300001B | 12-SEP-2000 | 00-05-4114A | 02
05 | OH | PUTNAM COUNTY | 3904650100B | 15-DEC-2000 | 01-05-164A | 02
05 | OH | PUTNAM COUNTY * | 3904650020B | 24-OCT-2000 | 00-05-5004A | 02
05 | OH | ROCKY RIVER, CITY OF | 3953720003 | 01-NOV-2000 | 00-05-5576A | 02
05 | OH | ROSS COUNTY * | 3904800175B | 06-JUL-2000 | 00-05-1200A | 02
05 | OH | RUSSIA, VILLAGE OF | 3908800001A | 03-AUG-2000 | 00-05-2270A | 02
05 | OH | SABINA, VILLAGE OF | 3906270001B | 07-DEC-2000 | 00-05-6280A | 08
05 | OH | SANDUSKY COUNTY | H&I—07B | 17-NOV-2000 | 00-05-4104A | 02
05 | OH | SANDUSKY, CITY OF | H&I-04B | 15-NOV-2000 | 00-05-6308A | 02
05 | OH | SCIOTO COUNTY * | 3904960040B | 01-AUG-2000 | 00-05-2810A | 02
05 | OH | SHAKER HEIGHTS, CITY OF | 3901290004C | 25-JUL-2000 | 00-05-4018A | 02
05 | OH | SHELBY COUNTY | 3905030060C | 17-NOV-2000 | 00-05-5674A | 02
05 | OH | STARK COUNTY | 3907800115B | 25-JUL-2000 | 00-05-3328A | 01
05 | OH | STARK COUNTY* | 3907800026B | 03-AUG-2000 | 00-05-2716A | 02
05 | OH | SYLVANIA, CITY OF |  | 07-OCT-2000 | 00-05-6210V | 19
05 | OH | SYLVANIA, CITY OF | 3903640001B | 25-JUL-2000 | 00-05-2150A | 02
05 | OH | TOLEDO, CITY OF |  | 07-OCT-2000 | 01-05-0273V | 19
05 | OH | TOLEDO, CITY OF | 3953730020A | 01-SEP-2000 | 00-05-4558A | 02
05 | OH | TRENTON, CITY OF | 3900470001B | 11-JUL-2000 | 00-05-3060A | 02
05 | OH | TROY, CITY OF | 3904020005B | 19-JUL-2000 | 00-05-3392A | 02
05 | OH | TWINSBURG, CITY OF | 3905340003D | 15-NOV-2000 | 01-05-096A | 01
05 | OH | UHRICHSVILLE, CITY OF | 3905470005C | 01-NOV-2000 | 00-05-5430A | 02
05 | OH | UNION COUNTY | 3908080150B | 03-NOV-2000 | 00-05-6304A | 01
05 | OH | UPPER ARLINGTON, CITY OF | 39049C0137G | 15-NOV-2000 | 00-05-5350A | 02
05 | OH | WARREN COUNTY* |  | 22-SEP-2000 | 00-05-5986V | 19
05 | OH | WARREN COUNTY* | 3907570050B | 07-NOV-2000 | 00-05-5030A | 01
05 | OH | WASHINGTON COUNTY | 390566125B | 01-NOV-2000 | 00-05-5142A | 02
05 | OH | WAVERLY, CITY OF | 39131C0045B | 25-JUL-2000 | 00-05-095P | 05
05 | OH | WAYNE COUNTY | 3905740010C | 20-OCT-2000 | 00-05-5496A | 01
05 | OH | WELLSTON, CITY OF | 3902900050B | 27-SEP-2000 | 00-05-4654A | 02
05 | OH | WEST CARROLLTON, CITY OF | 3904190005C | 01-SEP-2000 | 00-05-4326A | 02
05 | OH | WESTLAKE, CITY OF | 3901360004C | 06-OCT-2000 | 00-05-5562A | 01
05 | OH | WHITEHALL, CITY OF | 39049C0260G | 06-JUL-2000 | 00-05-3488A | 02
05 | OH | WHITEHALL, CITY OF | 39049C278G | 03-NOV-2000 | 00-05-5678A | 02
05 | OH | WHITEHOUSE, VILLAGE OF |  | 07-OCT-2000 | 00-05-6202V | 19
05 | OH | WILLIAMS COUNTY | 3907850025B | 27-JUL-2000 | 00-05-2524A | 01
05 | OH | WOOD COUNTY | 3908090050C | 25-AUG-2000 | 00-05-4058A | 02
05 | OH | WOOD COUNTY * | 3908090012C | 14-SEP-2000 | 00-05-2818A | 02
05 | OH | WOOD COUNTY * | 3908090012C | 05-DEC-2000 | 00-05-5068A | 01
05 | OH | WOOD COUNTY * | 3908090100B | 12-SEP-2000 | 00-05-3120A | 02
05 | OH | ZANESVILLE, CITY OF | 3904270005F | 25-JUL-2000 | 00-05-4496A | 02
05 | WI | BIRCHWOOD, VILLAGE OF | 550574B | 11-JUL-2000 | 00-05-3352A | 02
05 | WI | BIRON, VILLAGE OF | 5555450310E | 25-OCT-2000 | 00-05-5356A | 02
05 | WI | BRILLION, CITY OF | 5500360001C | 14-SEP-2000 | 99-05-301P | 05
05 | WI | BRILLION, CITY OF | 5500360001C | 18-OCT-2000 | 00-05-4274A | 02
05 | WI | BRILLION, CITY OF | 5500360001C | 03-NOV-2000 | 00-05-5680A | 02
05 | WI | BROOKFIELD, CITY OF | 5504780010B | 07-NOV-2000 | 00-05-2058A | 01
05 | WI | BROWN COUNTY * | 5500200100C | 17-AUG-2000 | 00-05-5078A | 02
05 | WI | BROWN COUNTY * | 5500200125B | 17-AUG-2000 | 00-05-4902A | 02
05 | WI | BROWN COUNTY * | 5500200125B | 07-SEP-2000 | 00-05-5446A | 02
05 | WI | BROWN COUNTY * | 5500200150B | 17-AUG-2000 | 00-05-4900A | 02
05 | WI | BROWN COUNTY * | 5500200150B | 14-SEP-2000 | 00-05-5624A | 02
05 | WI | BROWN COUNTY * | 5500200150B | 29-SEP-2000 | 00-05-6146X | 02
05 | WI | BURNETT COUNTY * | 5500320200B | 18-JUL-2000 | 00-05-4174A | 02
05 | WI | CALUMET COUNTY * | 5500350080B | 14-SEP-2000 | 99-05-301P | 05
05 | WI | CHIPPEWA COUNTY * | 5555490050B | 29-AUG-2000 | 00-05-5336X | 02
05 | WI | CHIPPEWA COUNTY * | 5555490075B | 31-AUG-2000 | 00-05-4886A | 02
05 | WI | CHIPPEWA COUNTY * | 5555490125B | 29-AUG-2000 | 00-05-5204A | 02
05 | WI | COLUMBIA COUNTY | 5505810050C | 03-NOV-2000 | 00-05-3834A | 02
05 | WI | COLUMBIA COUNTY * | 5505810200C | 28-SEP-2000 | 00-05-1992A | 02
05 | WI | DANE COUNTY* | 5500770150C | 18-JUL-2000 | 00-05-2414A | 02
05 | WI | DE FOREST, VILLAGE OF | 5500820005C | 12-SEP-2000 | 00-05-2496A | 02
05 | WI | DE PERE, CITY OF | 5500210005C | 14-SEP-2000 | 00-05-5638A | 02
05 | WI | DE PERE, CITY OF | 5500210005C | 26-SEP-2000 | 00-05-5080A | 02
05 | WI | DE PERE, CITY OF | 5500210005C | 28-DEC-2000 | 01-05-0445A | 02
05 | WI | DODGE COUNTY | 5500940035B | 20-DEC-2000 | 01-05-197A | 02
05 | WI | DODGE COUNTY | 5500940170B | 10-JUL-2000 | 00-05-4014A | 02
05 | WI | DOUGLAS COUNTY | 5505380400B | 13-NOV-2000 | 00-05-5318A | 02
05 | WI | DOUGLAS COUNTY | 5505380650B | 25-OCT-2000 | 00-05-4646A | 02
05 | WI | DOUGLAS COUNTY | 5505380650B | 25-OCT-2000 | 00-05-4648A | 02
05 | WI | EAU CLAIRE COUNTY | 5555520075B | 08-NOV-2000 | 00-05-5046A | 02
05 | WI | EAU CLAIRE COUNTY | 5555520185B | 06-OCT-2000 | 00-05-5410A | 02
05 | WI | FOND DU LAC COUNTY | 5501310060B | 18-AUG-2000 | 00-05-4480A | 02
05 | WI | FOND DU LAC COUNTY | 5501310070C | 13-NOV-2000 | 00-05-4304A | 02
05 | WI | FOND DU LAC COUNTY * | 5501310030B | 06-JUL-2000 | 00-05-2040A | 02
05 | WI | FOND DU LAC, CITY OF | 5501360005D | 29-SEP-2000 | 00-05-5362A | 02
05 | WI | FOND DU LAC, CITY OF | 5501360005D | 27-OCT-2000 | 00-05-5230A | 02
05 | WI | FOND DU LAC, CITY OF | 5501360005D | 08-NOV-2000 | 00-05-5888A | 02
05 | WI | GERMANTOWN, VILLAGE OF | 5504720007B | 19-SEP-2000 | 99-05-6616A | 01
05 | WI | GLENDALE, CITY OF | 5502750005C | 15-SEP-2000 | 00-05-3324A | 02
05 | WI | HALES CORNERS, VILLAGE OF | 5505240001C | 03-NOV-2000 | 00-05-3840A | 02
05 | WI | HAYWARD, CITY OF | 5504100125B | 03-NOV-2000 | 00-05-5130A | 02
05 | WI | HAYWARD, CITY OF | 5505910100B | 18-AUG-2000 | 00-05-4366A | 02
05 | WI | HAYWARD, CITY OF | 5505910100B | 11-OCT-2000 | 00-05-4660A | 02
05 | WI | HORTONVILLE, VILLAGE OF | 5505290002A | 10-JUL-2000 | 00-05-3754A | 02
05 | WI | HORTONVILLE, VILLAGE OF | 5505290002A | 29-SEP-2000 | 00-05-4314A | 02
05 | WI | HOWARD, VILLAGE OF | 5500230005B | 16-AUG-2000 | 00-05-4544A | 01
05 | WI | IRON COUNTY | 5501820006B | 01-DEC-2000 | 00-05-6178A | 02
05 | WI | JACKSON, VILLAGE OF | 5504710045B | 13-JUL-2000 | 98-05-423P | 05
05 | WI | JACKSON, VILLAGE OF | 5505300001C | 23-AUG-2000 | 00-05-2568A | 02
05 | WI | JACKSON, VILLAGE OF | 5505300001C | 13-NOV-2000 | 00-05-6194A | 02
05 | WI | JANESVILLE, CITY OF | 5555600010B | 13-NOV-2000 | 00-05-6196A | 02
05 | WI | JEFFERSON COUNTY | 5501910250B | 18-OCT-2000 | 00-05-4814A | 02
05 | WI | LA CROSSE COUNTY | 5502170120 | 22-NOV-2000 | 01-05-438A | 02
05 | WI | LA CROSSE COUNTY * | 5502170120A | 07-SEP-2000 | 00-05-5370A | 02
05 | WI | LA CROSSE COUNTY * | 5502170120A | 31-OCT-2000 | 00-05-5462A | 02
05 | WI | MARATHON COUNTY | 5502450375B | 15-NOV-2000 | 00-05-4662A | 02
05 | WI | MARATHON COUNTY * | 5502450075B | 26-OCT-2000 | 00-05-3196A | 02
05 | WI | MARINETTE COUNTY | 5502590765B | 25-JUL-2000 | 00-05-4066A | 02
05 | WI | MARINETTE COUNTY | 5502590950C | 25-AUG-2000 | 00-05-4640A | 02
05 | WI | MENASHA, CITY OF | 5505100001B | 13-NOV-2000 | 00-05-6066A | 02
05 | WI | MENASHA, CITY OF | 5505100005C | 22-AUG-2000 | 00-05-5200A | 02
05 | WI | MENASHA, CITY OF | 5505100005C | 14-DEC-2000 | 01-05-0115A | 02
05 | WI | MENASHA, CITY OF | 5505100005C | 19-DEC-2000 | 01-05-0114A | 02
05 | WI | MEQUON, CITY OF | 55089C0085D | 08-NOV-2000 | 00-05-5868A | 02
05 | WI | MIDDLETON, CITY OF | 5500870002C | 28-NOV-2000 | 00-05-5224A | 01
05 | WI | MONROE COUNTY | 5505710120B | 15-NOV-2000 | 00-05-5428A | 02
05 | WI | MONROE, CITY OF | 55016200001 | 03-NOV-2000 | 00-05-5188A | 01
05 | WI | MUSKEGO, CITY OF | 5504860001B | 01-SEP-2000 | 00-05-4542A | 02
05 | WI | NEW BERLIN, CITY OF | 5504870003E | 13-NOV-2000 | 00-05-5670A | 02
05 | WI | OAK CREEK, CITY OF | 5502790001B | 04-OCT-2000 | 00-05-4812A | 02
05 | WI | OAK CREEK, CITY OF | 5502790002B | 18-AUG-2000 | 00-05-3302A | 02
05 | WI | OAK CREEK, CITY OF | 5502790002B | 13-NOV-2000 | 00-05-5556A | 01
05 | WI | OCONTO COUNTY | 5502940285A | 15-NOV-2000 | 00-05-5160A | 02
05 | WI | OCONTO COUNTY | 5502940340A | 18-OCT-2000 | 00-05-4346A | 02
05 | WI | OCONTO, CITY OF | 5502970001B | 20-JUL-2000 | 00-05-2590A | 02
05 | WI | OSHKOSH, CITY OF | 5505110010D | 14-DEC-2000 | 00-05-6128A | 01
05 | WI | OSHKOSH, CITY OF | 5505110020D | 05-OCT-2000 | 00-05-6132A | 02
05 | WI | OUTAGAMIE COUNTY | 5503020050B | 30-AUG-2000 | 00-05-4644A | 02
05 | WI | OUTAGAMIE COUNTY | 5503020050B | 22-NOV-2000 | 01-05-051A | 02
05 | WI | OUTAGAMIE COUNTY | 5503020050B | 15-DEC-2000 | 01-05-241A | 02
05 | WI | OUTAGAMIE COUNTY | 5503020075B | 07-DEC-2000 | 01-05-187A | 02
05 | WI | OUTAGAMIE COUNTY | 5503020075B | 15-DEC-2000 | 01-05-186A | 02
05 | WI | OUTAGAMIE COUNTY | 5503020100C | 06-SEP-2000 | 00-05-3966A | 02
05 | WI | OUTAGAMIE COUNTY | 5503020100C | 18-OCT-2000 | 00-05-4852A | 02
05 | WI | OUTAGAMIE COUNTY | 5503020110B | 25-OCT-2000 | 00-05-4000A | 01
05 | WI | OUTAGAMIE COUNTY * | 5503020050B | 11-JUL-2000 | 00-05-2462A | 02
05 | WI | OUTAGAMIE COUNTY * | 5503020075B | 29-AUG-2000 | 00-05-3474A | 02
05 | WI | OUTAGAMIE COUNTY * | 5503020100C | 25-JUL-2000 | 00-05-3164A | 01
05 | WI | OZAUKEE COUNTY * | 55089C0065D | 01-AUG-2000 | 00-05-2076A | 02
05 | WI | PEWAUKEE, VILLAGE OF | 5504890002B | 20-JUL-2000 | 00-05-2328A | 02
05 | WI | PEWAUKEE, VILLAGE OF | 5504890002B | 15-NOV-2000 | 00-05-5878A | 02
05 | WI | PHILLIPS, CITY OF | 550345B02 | 07-DEC-2000 | 00-05-5494A | 01
05 | WI | PIERCE COUNTY * | 5555710025B | 24-AUG-2000 | 00-05-3858A | 02
05 | WI | PIERCE COUNTY * | 5555710025B | 19-SEP-2000 | 00-05-1472A | 02
05 | WI | PLEASANT PRAIRIE, VILLAGE OF | 5506130010B | 20-JUL-2000 | 00-05-4208A | 02
05 | WI | POLK COUNTY | 5505770200B | 11-OCT-2000 | 00-05-4670A | 02
05 | WI | PORTAGE COUNTY | 5505720025C | 08-NOV-2000 | 00-05-5732A | 02
05 | WI | PORTAGE COUNTY | 5505720150C | 08-NOV-2000 | 00-05-4768A | 01
05 | WI | PORTAGE COUNTY | 5505720150C | 08-NOV-2000 | 00-05-6240A | 02
05 | WI | PORTAGE COUNTY | 5505720175C | 15-NOV-2000 | 00-05-5044A | 02
05 | WI | PRINCETON, CITY OF | 5501710001B | 15-DEC-2000 | 01-05-516A | 02
05 | WI | PULASKI, VILLAGE OF | 5500200025B | 28-JUL-2000 | 00-05-3364A | 02
05 | WI | RACINE COUNTY * | 5503470010B | 20-JUL-2000 | 00-05-3472A | 02
05 | WI | RACINE COUNTY * | 5503470040B | 10-OCT-2000 | 00-05-4184A | 02
05 | WI | RICE LAKE, CITY OF | 5500160125B | 13-SEP-2000 | 00-05-4532A | 02
05 | WI | RICHLAND COUNTY | 5503560120B | 10-JUL-2000 | 00-05-3390A | 02
05 | WI | RICHLAND COUNTY | 5503560120B | 11-AUG-2000 | 00-05-4548A | 02
05 | WI | RICHLAND COUNTY | 5503560150B | 08-NOV-2000 | 00-05-5346A | 02
05 | WI | RIPON, CITY OF | 5501400002D | 08-NOV-2000 | 00-05-5320A | 02
05 | WI | RIVER HILLS, VILLAGE OF | 5502800001B | 20-OCT-2000 | 00-05-3774C | 01
05 | WI | ROSHOLT, VILLAGE OF | 550341H01 | 22-NOV-2000 | 00-05-5176A | 02
05 | WI | RUSK COUNTY | 5506020240B | 19-JUL-2000 | 00-05-3750A | 02
05 | WI | RUSK COUNTY | 5506020240B | 29-SEP-2000 | 00-05-3704A | 02
05 | WI | RUSK COUNTY | 5506020245B | 03-NOV-2000 | 00-05-5524A | 02
05 | WI | SAUK COUNTY * | 5503910195B | 20-JUL-2000 | 00-05-4430A | 02
05 | WI | SAUK COUNTY * | 5503910195B | 25-JUL-2000 | 00-05-3592A | 02
05 | WI | SAUK COUNTY * | 5503910215B | 22-AUG-2000 | 00-05-5328A | 02
05 | WI | SAUK COUNTY * | 5503910250B | 12-SEP-2000 | 00-05-5526A | 02
05 | WI | SAUK COUNTY * | 5503910260B | 12-DEC-2000 | 01-05-0449A | 02
05 | WI | SAWYER COUNTY | 5505910100B | 06-SEP-2000 | 00-05-4094A | 02
05 | WI | SAWYER COUNTY * | 5505910025B | 18-JUL-2000 | 00-05-1718A | 02
05 | WI | SHAWANO COUNTY | 5504120150B | 06-SEP-2000 | 00-05-4056A | 02
05 | WI | SHAWANO COUNTY | 5504120150B | 17-OCT-2000 | 00-05-4934A | 02
05 | WI | SHAWANO, CITY OF | 5504120150B | 13-NOV-2000 | 00-05-6186A | 02
05 | WI | SHEBOYGAN COUNTY * | 5504240130A | 26-SEP-2000 | 00-05-4748A | 02
05 | WI | SHELL LAKE, CITY OF | 550469 | 30-AUG-2000 | 00-05-4758A | 02
05 | WI | SHELL LAKE, CITY OF | 5504690001D | 29-SEP-2000 | 00-05-5102A | 02
05 | WI | SHELL LAKE, CITY OF | 5504690001D | 04-OCT-2000 | 00-05-4070A | 02
05 | WI | SHELL LAKE, CITY OF | 5504690001D | 04-OCT-2000 | 00-05-5232A | 02
05 | WI | SHIOCTON, VILLAGE OF | 5503090001B | 12-SEP-2000 | 00-05-5090A | 02
05 | WI | ST. CROIX COUNTY * | 555578 B | 01-AUG-2000 | 00-05-1648A | 02
05 | WI | STURGEON BAY, CITY OF | 5501110005B | 12-DEC-2000 | 00-05-5122A | 01
05 | WI | STURGEON BAY, CITY OF | 5501110005B | 15-DEC-2000 | 00-05-5588A | 02
05 | WI | SULLIVAN, VILLAGE OF | 550197 B | 11-JUL-2000 | 99-05-6316A | 02
05 | WI | TREMPEALEAU COUNTY * | 555585 A | 31-AUG-2000 | 00-05-3152A | 02
05 | WI | WASHBURN COUNTY | 5506060025B | 08-NOV-2000 | 00-05-6300A | 02
05 | WI | WASHBURN COUNTY | 5506060075B | 20-DEC-2000 | 01-05-365A | 02
05 | WI | WASHBURN COUNTY* | 5506060200B | 05-SEP-2000 | 00-05-1614A | 02
05 | WI | WASHINGTON COUNTY | 5504710050B | 15-DEC-2000 | 00-05-6024A | 01
05 | WI | WAUKESHA COUNTY | 5504760005B | 15-NOV-2000 | 00-05-3416A | 02
05 | WI | WAUKESHA COUNTY | 5504760020B | 20-SEP-2000 | 00-05-5158A | 02
05 | WI | WAUKESHA COUNTY | 5504760020B | 08-DEC-2000 | 01-05-091A | 02
05 | WI | WAUKESHA COUNTY | 5504760055B | 15-DEC-2000 | 01-05-342A | 02
05 | WI | WAUKESHA COUNTY | 5504760065B | 15-NOV-2000 | 00-05-5480A | 02
05 | WI | WAUKESHA COUNTY | 5504760115B | 20-DEC-2000 | 01-05-299A | 02
05 | WI | WAUKESHA COUNTY* | 5504760005B | 27-JUL-2000 | 00-05-3944A | 02
05 | WI | WAUKESHA COUNTY* | 5504760020B | 25-JUL-2000 | 00-05-3570A | 17
05 | WI | WAUKESHA COUNTY* | 5504760055B | 11-JUL-2000 | 00-05-2158A | 02
05 | WI | WAUKESHA COUNTY* | 5504760055B | 12-SEP-2000 | 00-05-4138A | 17
05 | WI | WAUPACA, CITY OF | 5504920130A | 13-NOV-2000 | 00-05-5730A | 02
05 | WI | WAUPUN, CITY OF | 5501080001E | 08-NOV-2000 | 00-05-5918A | 02
05 | WI | WAUPUN, CITY OF | 5501080001E | 27-DEC-2000 | 01-05-356A | 12
05 | WI | WAUSHARA COUNTY* | 5505400150B | 14-SEP-2000 | 00-05-0948A | 02
05 | WI | WEST ALLIS, CITY OF | 5502850003C | 13-NOV-2000 | 00-05-6278A | 02
05 | WI | WINNEBAGO COUNTY * | 5505370025C | 20-JUL-2000 | 00-05-4178A | 02
05 | WI | WINNEBAGO COUNTY * | 5505370050C | 11-JUL-2000 | 00-05-3916A | 02
05 | WI | WINNEBAGO COUNTY * | 5505370050C | 20-JUL-2000 | 00-05-4602A | 02
05 | WI | WINNEBAGO COUNTY * | 5505370050C | 10-AUG-2000 | 00-05-5086A | 02
05 | WI | WINNEBAGO COUNTY * | 5505370050C | 22-AUG-2000 | 00-05-5208A | 02
05 | WI | WINNEBAGO COUNTY * | 5505370050C | 14-DEC-2000 | 01-05-0454A | 02
05 | WI | WINNEBAGO COUNTY * | 5505370050C | 21-DEC-2000 | 00-05-1930A | 17
05 | WI | WINNEBAGO COUNTY * | 5505370100C | 29-AUG-2000 | 00-05-5262A | 02
05 | WI | WINNEBAGO COUNTY * | 5505370100C | 31-AUG-2000 | 00-05-5390A | 02
05 | WI | WINNEBAGO COUNTY * | 5505370150C | 25-JUL-2000 | 00-05-3668A | 17
05 | WI | WOOD COUNTY * | 55141C0250E | 01-AUG-2000 | 99-05-6640A | 02
05 | WI | WYEVILLE, VILLAGE OF | 5502930001C | 03-NOV-2000 | 00-05-4484A | 02
06 | AR | CONWAY, CITY OF | 05045C0140E | 10-JUL-2000 | 00-06-810A | 01
06 | AR | CRAWFORD COUNTY | 05033C0180E | 12-SEP-2000 | 00-06-153P | 05
06 | AR | ELKINS, CITY OF | 05143C0115D | 13-OCT-2000 | 00-06-1336A | 02
06 | AR | FAYETTEVILLE, CITY OF | 05143C0094D | 01-DEC-2000 | 00-06-1122A | 02
06 | AR | FORT SMITH, CITY OF | 0550130010D | 10-JUL-2000 | 00-06-1447A | 02
06 | AR | GARLAND COUNTY | 05051C0050C | 28-JUL-2000 | 00-06-1097A | 02
06 | AR | GARLAND COUNTY | 05051C0090C | 06-JUL-2000 | 99-06-2062P | 06
06 | AR | GRADY, CITY OF | 050128H01 | 04-OCT-2000 | 00-06-1154A | 02
06 | AR | HELENA, CITY OF | 0501680005B | 10-JUL-2000 | 00-06-1228A | 02
06 | AR | JACKSONVILLE, CITY OF | 050180 | 22-SEP-2000 | 00-06-1510A | 02
06 | AR | JACKSONVILLE, CITY OF | 0501800005E | 24-AUG-2000 | 00-06-730P | 06
06 | AR | JONESBORO, CITY OF | 05031C0043C | 09-AUG-2000 | 00-06-1105A | 02
06 | AR | LITTLE ROCK, CITY OF | 0501810002E | 27-DEC-2000 | 00-06-1677A | 02
06 | AR | LITTLE ROCK, CITY OF | 0501810015E | 15-SEP-2000 | 00-06-1210P | 05
06 | AR | LONOKE COUNTY | 0504480050B | 25-OCT-2000 | 00-06-1305A | 02
06 | AR | MAYFLOWER, CITY OF | 05045C0210E | 27-JUL-2000 | 00-06-1384A | 02
06 | AR | MCGEHEE, CITY OF | 0500680005C | 27-JUL-2000 | 00-06-1360A | 02
06 | AR | MILLER COUNTY | 050451B | 06-JUL-2000 | 00-06-966P | 06
06 | AR | NEWPORT, CITY OF | 0501030004C | 03-NOV-2000 | 00-06-1776A | 02
06 | AR | PERRY COUNTY | 05105C0150B | 10-JUL-2000 | 00-06-1145A | 02
06 | AR | PULASKI COUNTY | 0501790445D | 03-NOV-2000 | 00-06-1838A | 01
06 | AR | ROGERS, CITY OF | 05007C0155G | 19-JUL-2000 | 00-06-806A | 02
06 | AR | SEARCY, CITY OF | 0502290003D | 19-JUL-2000 | 00-06-939A | 02
06 | AR | SHERWOOD, CITY OF | 0502350001E | 22-DEC-2000 | 00-06-1714A | 01
06 | AR | STUTTGART, CITY OF | 0500020005C | 20-DEC-2000 | 01-06-091A | 02
06 | AR | WASHINGTON COUNTY | 05143C0115D | 15-DEC-2000 | 00-06-1561A | 02
06 | AR | WEST FORK, CITY OF | 05143C0170C | 07-DEC-2000 | 00-06-1646A | 02
06 | AR | WEST FORK, CITY OF | 05143C0170C | 07-DEC-2000 | 00-06-1686A | 02
06 | AR | WEST MEMPHIS, CITY OF | 0500550016D | 29-DEC-2000 | 00-06-1878A | 08
06 | LA | ALEXANDRIA, CITY OF | 2201460015A | 13-OCT-2000 | 00-06-1715A | 01
06 | LA | ALEXANDRIA, CITY OF | 2201460015F | 11-JUL-2000 | 00-06-979A | 02
06 | LA | ALEXANDRIA, CITY OF | 2201460015f | 01-SEP-2000 | 00-06-1306A | 02
06 | LA | ALEXANDRIA, CITY OF | 2201460015F | 06-OCT-2000 | 00-06-1411A | 02
06 | LA | ALEXANDRIA, CITY OF | 2201460015F | 01-NOV-2000 | 00-06-1883A | 02
06 | LA | ALEXANDRIA, CITY OF | 2201460015F | 08-DEC-2000 | 01-06-273A | 01
06 | LA | ASCENSION PARISH | 2200130025B | 27-DEC-2000 | 00-06-1614A | 02
06 | LA | ASCENSION PARISH | 2200130035C | 16-AUG-2000 | 00-06-945A | 02
06 | LA | ASCENSION PARISH | 2200130035C | 07-DEC-2000 | 00-06-1810A | 02
06 | LA | ASCENSION PARISH | 2200130040B | 11-AUG-2000 | 00-06-1175A | 02
06 | LA | ASCENSION PARISH | 2200130040B | 27-SEP-2000 | 00-06-1433A | 02
06 | LA | ASCENSION PARISH | 2200130040B | 11-OCT-2000 | 00-06-1185A | 02
06 | LA | ASCENSION PARISH | 2200130040B | 11-OCT-2000 | 00-06-1512A | 02
06 | LA | ASCENSION PARISH | 2200130040B | 01-DEC-2000 | 00-06-1391A | 01
06 | LA | ASCENSION PARISH | 2200130040B | 27-DEC-2000 | 00-06-1614A | 02
06 | LA | ASCENSION PARISH | 2200130045C | 25-OCT-2000 | 00-06-1678A | 02
06 | LA | ASCENSION PARISH | 2200130065C | 27-OCT-2000 | 00-06-1841A | 02
06 | LA | ASCENSION PARISH | 2200130110D | 15-NOV-2000 | 00-06-1884A | 01
06 | LA | ASCENSION PARISH | 2200130120C | 16-AUG-2000 | 00-06-1335A | 02
06 | LA | ASCENSION PARISH | 2200130130D | 18-OCT-2000 | 00-06-1844A | 02
06 | LA | ASCENSION PARISH | 2200130130D | 25-OCT-2000 | 00-06-1843A | 02
06 | LA | AVOYELLES PARISH | 2200190075B | 23-AUG-2000 | 00-06-1172A | 02
06 | LA | AVOYELLES PARISH | 2200190150B | 16-AUG-2000 | 00-06-1474A | 02
06 | LA | BOSSIER CITY, CITY OF | 2200310315B | 02-AUG-2000 | 00-06-1169A | 02
06 | LA | BOSSIER CITY, CITY OF | 220033 | 16-AUG-2000 | 00-06-1498A | 02
06 | LA | BOSSIER CITY, CITY OF | 2200330005C | 27-JUL-2000 | 00-06-1040A | 02
06 | LA | BOSSIER CITY, CITY OF | 2200330030C | 30-AUG-2000 | 00-06-1250A | 02
06 | LA | BOSSIER CITY, CITY OF | 2200330030C | 04-OCT-2000 | 00-06-1619A | 02
06 | LA | BOSSIER CITY, CITY OF | 2200330030C | 27-OCT-2000 | 00-06-1726A | 02
06 | LA | BOSSIER CITY, CITY OF | 2200330030C | 13-NOV-2000 | 00-06-1861A | 02
06 | LA | BOSSIER CITY, CITY OF | 2200330030C | 15-DEC-2000 | 01-06-239A | 02
06 | LA | BOSSIER CITY, CITY OF | 2200330030C | 27-DEC-2000 | 01-06-080A | 02
06 | LA | BOSSIER CITY, CITY OF | 2200330030C | 29-DEC-2000 | 01-06-131A | 02
06 | LA | BOSSIER PARISH | 2200310285B | 04-AUG-2000 | 00-06-1047A | 02
06 | LA | BOSSIER PARISH | 2200310285B | 18-OCT-2000 | 00-06-1427A | 02
06 | LA | BOSSIER PARISH | 2200310285B | 29-DEC-2000 | 00-06-1779A | 02
06 | LA | BOSSIER PARISH | 2200310305B | 20-DEC-2000 | 00-06-1206A | 02
06 | LA | BOSSIER PARISH | 2200310390B | 11-OCT-2000 | 00-06-1824A | 02
06 | LA | BOSSIER PARISH | 2200310435B | 09-AUG-2000 | 00-06-745A | 02
06 | LA | BOSSIER PARISH | 2200310475B | 22-SEP-2000 | 00-06-1375A | 02
06 | LA | CADDO PARISH | 22017C0364F | 30-AUG-2000 | 00-06-1471A | 02
06 | LA | CADDO PARISH | 22017C0486F | 27-JUL-2000 | 00-06-970A | 02
06 | LA | CADDO PARISH | 22017C0610F | 25-JUL-2000 | 00-06-1248A | 02
06 | LA | CALCASIEU PARISH | 2200370225D | 17-NOV-2000 | 00-06-1653A | 02
06 | LA | CALCASIEU PARISH | 2200370250D | 27-SEP-2000 | 00-06-1304A | 02
06 | LA | CALCASIEU PARISH | 2200370250D | 29-SEP-2000 | 00-06-1618A | 02
06 | LA | CALDWELL PARISH | 2200440015A | 28-JUL-2000 | 00-06-692A | 02
06 | LA | CATAHOULA PARISH | 2200470200D | 18-OCT-2000 | 00-06-1716A | 02
06 | LA | EAST BATON ROUGE PARISH | 2200580090D | 30-AUG-2000 | 00-06-1260A | 02
06 | LA | EAST BATON ROUGE PARISH | 2200580090D | 25-OCT-2000 | 00-06-1853A | 02
06 | LA | EAST BATON ROUGE PARISH | 2200580095D | 11-AUG-2000 | 00-06-1142A | 02
06 | LA | EAST BATON ROUGE PARISH | 2200580100D | 23-AUG-2000 | 00-06-1205A | 02
06 | LA | EAST BATON ROUGE PARISH | 2200580110D | 13-SEP-2000 | 00-06-1369A | 02
06 | LA | EAST BATON ROUGE PARISH | 2200580110D | 29-NOV-2000 | 00-06-1269A | 02
06 | LA | EAST BATON ROUGE PARISH | 2200580110D | 15-DEC-2000 | 00-06-1594A | 01
06 | LA | EAST BATON ROUGE PARISH | 2200580115D | 29-DEC-2000 | 01-06-094A | 02
06 | LA | EVANGELINE PARISH | 2200640002B | 27-DEC-2000 | 00-06-1696A | 08
06 | LA | GREENWOOD, TOWN OF | 22017C0440F | 04-OCT-2000 | 00-06-1207A | 02
06 | LA | HAMMOND, CITY OF | 2202080001D | 10-JUL-2000 | 00-06-1224A | 02
06 | LA | JEFFERSON PARISH | 22051C0030E | 27-SEP-2000 | 00-06-1444A | 02
06 | LA | LAFAYETTE PARISH | 22055C0025G | 06-OCT-2000 | 00-06-1195A | 02
06 | LA | LAFAYETTE PARISH | 22055C0040H | 13-OCT-2000 | 00-06-1283A | 02
06 | LA | LAFAYETTE PARISH | 22055C0045G | 22-SEP-2000 | 00-06-1114A | 02
06 | LA | LAFAYETTE, CITY OF | 22055C0040H | 01-DEC-2000 | 00-06-1392A | 01
06 | LA | LAFAYETTE, CITY OF | 22055C0045G | 11-JUL-2000 | 00-06-1136A | 02
06 | LA | LAFAYETTE, CITY OF | 22055C0045G | 28-JUL-2000 | 00-06-1257A | 02
06 | LA | LAFAYETTE, CITY OF | 22055C0045G | 13-SEP-2000 | 00-06-1587A | 02
06 | LA | LAFAYETTE, CITY OF | 22055C0045G | 13-SEP-2000 | 00-06-996A | 02
06 | LA | LAFAYETTE, CITY OF | 22055C0045G | 01-NOV-2000 | 00-06-1317A | 02
06 | LA | LAFAYETTE, CITY OF | 22055C0045G | 01-NOV-2000 | 00-06-1664A | 02
06 | LA | LAFAYETTE, CITY OF | 22055C0045G | 01-DEC-2000 | 00-06-1392A | 01
06 | LA | LAFAYETTE, CITY OF | 22055C0045G | 22-DEC-2000 | 01-06-184A | 02
06 | LA | LAFAYETTE, CITY OF | 22055C0045G | 27-DEC-2000 | 01-06-117A | 02
06 | LA | LIVINGSTON PARISH | 2201130025B | 19-JUL-2000 | 00-06-999A | 02
06 | LA | LIVINGSTON PARISH | 2201130025B | 30-AUG-2000 | 00-06-1015A | 02
06 | LA | LIVINGSTON PARISH | 2201130025b | 01-SEP-2000 | 00-06-1592A | 02
06 | LA | LIVINGSTON PARISH | 2201130025B | 13-SEP-2000 | 00-06-1393A | 02
06 | LA | LIVINGSTON PARISH | 2201130025B | 03-NOV-2000 | 00-06-1547A | 02
06 | LA | LIVINGSTON PARISH | 2201130025B | 17-NOV-2000 | 00-06-1074A | 02
06 | LA | LIVINGSTON PARISH | 2201130025B | 29-NOV-2000 | 00-06-1562A | 02
06 | LA | LIVINGSTON PARISH | 2201130025B | 27-DEC-2000 | 00-06-1312A | 08
06 | LA | LIVINGSTON PARISH | 2201130100B | 15-NOV-2000 | 00-06-1756A | 02
06 | LA | LIVINGSTON PARISH | 2201130100B | 27-DEC-2000 | 00-06-1839A | 02
06 | LA | LIVINGSTON PARISH | 2201130200B | 29-SEP-2000 | 00-06-1119A | 02
06 | LA | PINEVILLE, CITY OF | 2201510005B | 30-AUG-2000 | 00-06-1286A | 02
06 | LA | RAPIDES PARISH | 2201450235D | 22-SEP-2000 | 00-06-1586A | 02
06 | LA | RAPIDES PARISH | 2201450235D | 20-DEC-2000 | 00-06-1809A | 08
06 | LA | RAPIDES PARISH | 2201450250C | 04-OCT-2000 | 00-06-1301A | 02
06 | LA | RED RIVER PARISH | 2201520012B | 02-AUG-2000 | 00-06-949A | 01
06 | LA | SCOTT, CITY OF | 22055C0040H | 11-JUL-2000 | 00-06-1052A | 02
06 | LA | SCOTT, CITY OF | 22055C0040H | 06-SEP-2000 | 00-06-1208A | 02
06 | LA | SHREVEPORT, CITY OF | 2200360033E | 17-NOV-2000 | 00-06-1784A | 02
06 | LA | SHREVEPORT, CITY OF | 22017C00476 | 25-OCT-2000 | 00-06-1487A | 02
06 | LA | SHREVEPORT, CITY OF | 22017C0459F | 19-JUL-2000 | 00-06-1068A | 02
06 | LA | SHREVEPORT, CITY OF | 22017C0468F | 25-JUL-2000 | 00-06-1082A | 02
06 | LA | SHREVEPORT, CITY OF | 22017C0469F | 06-OCT-2000 | 00-06-1202A | 02
06 | LA | SHREVEPORT, CITY OF | 22017C0478F | 20-DEC-2000 | 00-06-1605A | 01
06 | LA | SHREVEPORT, CITY OF | 22017C0486F | 29-DEC-2000 | 01-06-172A | 02
06 | LA | SHREVEPORT, CITY OF | 22017C0487F | 10-JUL-2000 | 00-06-911A | 02
06 | LA | SHREVEPORT, CITY OF | 22017C0487F | 01-SEP-2000 | 00-06-1138A | 02
06 | LA | SHREVEPORT, CITY OF | 22017C0487F | 01-NOV-2000 | 00-06-1534A | 02
06 | LA | SHREVEPORT, CITY OF | 22017C0487F | 08-DEC-2000 | 01-06-095A | 02
06 | LA | SHREVEPORT, CITY OF | 22017C0487F | 22-DEC-2000 | 01-06-078A | 02
06 | LA | SHREVEPORT, CITY OF | 22017C0487F | 27-DEC-2000 | 00-06-1548A | 02
06 | LA | SHREVEPORT, CITY OF | 22017C0487F | 27-DEC-2000 | 01-06-084A | 02
06 | LA | SHREVEPORT, CITY OF | 22017C0487F | 29-DEC-2000 | 00-06-1600A | 02
06 | LA | SHREVEPORT, CITY OF | 22017C0488F | 22-SEP-2000 | 00-06-1542A | 02
06 | LA | SHREVEPORT, CITY OF | 22017C0489F | 22-SEP-2000 | 00-06-1542A | 02
06 | LA | SHREVEPORT, CITY OF | 22017C0489F | 07-DEC-2000 | 01-06-135A | 02
06 | LA | SHREVEPORT, CITY OF | 22017C0489F | 08-DEC-2000 | 01-06-136A | 02
06 | LA | SHREVEPORT, CITY OF | 22017CO478F | 13-OCT-2000 | 00-06-1376A | 02
06 | LA | ST. BERNARD PARISH | 2252040280C | 20-OCT-2000 | 00-06-998A | 02
06 | LA | ST. LANDRY PARISH | 2201650400C | 11-AUG-2000 | 00-06-1331A | 02
06 | LA | ST. MARTIN PARISH | 2201780225B | 13-SEP-2000 | 00-06-1439A | 02
06 | LA | ST. TAMMANY PARISH | 2252050125C | 01-SEP-2000 | 00-06-986A | 02
06 | LA | ST. TAMMANY PARISH | 2252050150C | 16-AUG-2000 | 00-06-1155A | 02
06 | LA | ST. TAMMANY PARISH | 2252050150C | 29-SEP-2000 | 00-06-1636A | 02
06 | LA | ST. TAMMANY PARISH | 2252050175c | 13-SEP-2000 | 00-06-1357A | 02
06 | LA | ST. TAMMANY PARISH | 2252050275C | 25-JUL-2000 | 00-06-1389A | 02
06 | LA | ST. TAMMANY PARISH | 2252050275C | 02-AUG-2000 | 00-06-1116A | 02
06 | LA | ST. TAMMANY PARISH | 2252050360C | 11-JUL-2000 | 00-06-826A | 02
06 | LA | ST. TAMMANY PARISH | 2252050410D | 18-OCT-2000 | 00-06-1622A | 02
06 | LA | ST. TAMMANY PARISH | 2252050410D | 15-DEC-2000 | 00-06-1757A | 02
06 | LA | TANGIPAHOA PARISH | 2202060175E | 03-NOV-2000 | 00-06-1615A | 02
06 | LA | TANGIPAHOA PARISH | 2202060225E | 11-SEP-2000 | 00-06-1322A | 02
06 | LA | UNION PARISH | 220359 | 25-AUG-2000 | 00-06-1564A | 02
06 | LA | UNION PARISH | 2203590225C | 16-AUG-2000 | 00-06-1434A | 02
06 | LA | UNION PARISH | 2203590250C | 25-AUG-2000 | 00-06-1564A | 02
06 | LA | WALKER, TOWN OF | 2201210001A | 08-NOV-2000 | 00-06-1390A | 02
06 | LA | WINN PARISH | 2203690075B | 11-AUG-2000 | 00-06-744A | 01
06 | NM | ALBUQUERQUE, CITY OF | 35001C0117D | 16-AUG-2000 | 00-06-1089A | 01
06 | NM | ALBUQUERQUE, CITY OF | 35001C0144D | 13-JUL-2000 | 99-06-1119P | 05
06 | NM | ALBUQUERQUE, CITY OF | 35001C0161D | 13-JUL-2000 | 99-06-1119P | 05
06 | NM | ALBUQUERQUE, CITY OF | 35001C0163D | 13-JUL-2000 | 99-06-1119P | 05
06 | NM | ALBUQUERQUE, CITY OF | 35001C0327D | 16-AUG-2000 | 00-06-1395A | 02
06 | NM | ALBUQUERQUE, CITY OF | 35001C0354D | 02-AUG-2000 | 00-06-1033A | 02
06 | NM | ALBUQUERQUE, CITY OF | 35001C0358D | 13-JUL-2000 | 00-06-420P | 05
06 | NM | ALBUQUERQUE, CITY OF | 35001C0359D | 13-JUL-2000 | 00-06-420P | 05
06 | NM | ALBUQUERQUE, CITY OF | 35001C0362D | 02-AUG-2000 | 00-06-1033A | 02
06 | NM | BERNALILLO COUNTY | 35001C0337D | 11-JUL-2000 | 00-06-811A | 02
06 | NM | BERNALILLO COUNTY | 35001C0341D | 08-DEC-2000 | 01-06-023A | 02
06 | NM | BOSQUE FARMS, CITY OF | 3501420001B | 11-SEP-2000 | 00-06-1635A | 02
06 | NM | GRANT COUNTY | 3501210022B | 27-DEC-2000 | 00-06-1227A | 02
06 | NM | HOBBS, CITY OF | 3500290015B | 25-AUG-2000 | 00-06-1396A | 02
06 | NM | LAS CRUCES, CITY OF | 35013C0518F | 25-AUG-2000 | 00-06-904A | 02
06 | NM | LAS CRUCES, CITY OF | 35013C0631E | 19-JUL-2000 | 00-06-819A | 02
06 | NM | LAS CRUCES, CITY OF | 35013C0631E | 04-OCT-2000 | 00-06-1281A | 01
06 | NM | LAS CRUCES, CITY OF | 35013C0632F | 01-SEP-2000 | 00-06-1220A | 02
06 | NM | LAS CRUCES, CITY OF | 3553320631E | 22-NOV-2000 | 00-06-1747A | 01
06 | NM | LOS ALAMOS COUNTY | 3500350004B | 22-SEP-2000 | 00-06-1482A | 02
06 | NM | LOS LUNAS, VILLAGE OF | 3501440005 | 06-OCT-2000 | 00-06-1780A | 02
06 | NM | LOS LUNAS, VILLAGE OF | 3501440005A | 13-OCT-2000 | 00-06-1645A | 02
06 | NM | LOS LUNAS, VILLAGE OF | 3501440005A | 15-DEC-2000 | 00-06-1719A | 08
06 | NM | RUIDOSO, VILLAGE OF | 3500330083C | 04-AUG-2000 | 00-06-1313A | 02
06 | NM | SANTA FE, CITY OF | 3500700005C | 13-NOV-2000 | 00-06-1668A | 02
06 | NM | VALENCIA COUNTY | 3500860185D | 11-AUG-2000 | 00-06-1410A | 02
06 | NM | VALENCIA COUNTY | 3500860300D | 15-SEP-2000 | 00-06-1223A | 02
06 | NM | VALENCIA COUNTY | 3500860300D | 25-OCT-2000 | 00-06-1570A | 02
06 | NM | VALENCIA COUNTY | 3501420001B | 16-AUG-2000 | 00-06-1246A | 02
06 | OK | BIXBY, TOWN OF | 40143C0520H | 21-DEC-2000 | 99-06-1888P | 05
06 | OK | BIXBY, TOWN OF | 40143C0540H | 21-DEC-2000 | 99-06-1888P | 05
06 | OK | BIXBY, TOWN OF | 40143C0605H | 04-SEP-2000 | 00-06-684P | 05
06 | OK | BIXBY, TOWN OF | 40143C0610H | 27-JUL-2000 | 00-06-1043A | 02
06 | OK | BIXBY, TOWN OF | 40143C0610H | 13-SEP-2000 | 00-06-1620A | 02
06 | OK | BIXBY, TOWN OF | 40143C0610H | 27-OCT-2000 | 00-06-1879A | 02
06 | OK | BIXBY, TOWN OF | 40143C0610H | 21-DEC-2000 | 99-06-1888P | 05
06 | OK | BIXBY, TOWN OF | 40143C0630H | 21-DEC-2000 | 99-06-1888P | 05
06 | OK | BIXBY, TOWN OF | 40143C0640H | 11-JUL-2000 | 00-06-1186A | 02
06 | OK | BROKEN ARROW, CITY OF | 40143C0540H | 16-AUG-2000 | 00-06-1307A | 02
06 | OK | BROKEN ARROW, CITY OF | 40143C0540H | 15-NOV-2000 | 00-06-1667A | 02
06 | OK | BROKEN ARROW, CITY OF | 40143C0562H | 05-OCT-2000 | 00-06-156P | 05
06 | OK | BROKEN ARROW, CITY OF | 40143C0635H | 10-JUL-2000 | 00-06-1042A | 02
06 | OK | CANADIAN COUNTY | 40017C0340D | 27-DEC-2000 | 00-06-1836A | 02
06 | OK | CHEROKEE COUNTY | 40021C0085C | 18-AUG-2000 | 00-06-1171A | 02
06 | OK | CLAREMORE, CITY OF | 4053750005f | 01-SEP-2000 | 00-06-1581A | 02
06 | OK | CLAREMORE, CITY OF | 4053750005F | 11-OCT-2000 | 00-06-1804A | 02
06 | OK | COLLINSVILLE, CITY OF | 40143C0113H | 11-AUG-2000 | 00-06-1045A | 02
06 | OK | COWETA, CITY OF | 4002160001A | 29-DEC-2000 | 00-06-1435A | 02
06 | OK | CREEK COUNTY | 4004900001B | 25-OCT-2000 | 00-06-1781A | 02
06 | OK | DELAWARE COUNTY | 4005020025C | 27-SEP-2000 | 00-06-1256A | 02
06 | OK | DUNCAN, CITY OF | 40137C0025D | 16-AUG-2000 | 00-06-854A | 02
06 | OK | EDMOND, CITY OF | 4002520005B | 29-DEC-2000 | 01-06-112A | 08
06 | OK | EDMOND, CITY OF | 4002520025D | 27-DEC-2000 | 00-06-1732A | 02
06 | OK | ENID, CITY OF | 40047C01152 | 01-NOV-2000 | 00-06-1720A | 02
06 | OK | ENID, CITY OF | 40047C0115C | 15-DEC-2000 | 00-06-1428A | 08
06 | OK | GARVIN COUNTY | 4004720075A | 28-JUL-2000 | 00-06-1243A | 02
06 | OK | GLENPOOL, TOWN OF | 40143C0582H | 05-SEP-2000 | 00-06-525P | 05
06 | OK | GLENPOOL, TOWN OF | 40143C0584H | 05-SEP-2000 | 00-06-525P | 05
06 | OK | JENKS, CITY OF | 40143C0605H | 04-SEP-2000 | 00-06-684P | 05
06 | OK | KAY COUNTY | 4004770225A | 18-OCT-2000 | 00-06-1814A | 02
06 | OK | LAWTON, CITY OF | 400049 | 13-SEP-2000 | 00-06-1536A | 02
06 | OK | LAWTON, CITY OF | 40031C0232C | 13-SEP-2000 | 00-06-1536A | 02
06 | OK | LAWTON, CITY OF | 40031C0232C | 07-DEC-2000 | 00-06-1537A | 02
06 | OK | MAYES COUNTY | 4004580065C | 11-AUG-2000 | 00-06-903A | 02
06 | OK | MAYES COUNTY | 4004580110C | 11-AUG-2000 | 00-06-903A | 02
06 | OK | MOORE, CITY OF | 400044 | 25-AUG-2000 | 00-06-1525A | 02
06 | OK | MOORE, CITY OF | 4000440002B | 22-NOV-2000 | 00-06-1624A | 02
06 | OK | MOORE, CITY OF | 40027C0037F | 11-AUG-2000 | 00-06-1349A | 02
06 | OK | MOORE, CITY OF | 40027C0043F | 25-AUG-2000 | 00-06-1525A | 02
06 | OK | MUSKOGEE COUNTY | 40101C0128D | 04-OCT-2000 | 00-06-1354A | 02
06 | OK | MUSTANG, CITY OF | 4004090005A | 06-OCT-2000 | 00-06-1670A | 02
06 | OK | NORMAN,CITY OF | 40027C0080F | 04-AUG-2000 | 00-06-1293A | 01
06 | OK | NORMAN,CITY OF | 40027C0095G | 25-OCT-2000 | 00-06-1604A | 02
06 | OK | OKLAHOMA CITY, CITY OF | 4053780110C | 11-AUG-2000 | 00-06-1123A | 02
06 | OK | OKLAHOMA CITY, CITY OF | 4053780110C | 11-OCT-2000 | 00-06-1575A | 02
06 | OK | OKLAHOMA CITY, CITY OF | 4053780110C | 20-OCT-2000 | 00-06-1591A | 02
06 | OK | OKLAHOMA CITY, CITY OF | 4053780155E | 01-DEC-2000 | 00-06-1682A | 02
06 | OK | OKLAHOMA CITY, CITY OF | 4053780160D | 27-SEP-2000 | 00-06-1415A | 02
06 | OK | OKLAHOMA CITY, CITY OF | 4053780160D | 25-OCT-2000 | 00-06-1741A | 02
06 | OK | OKLAHOMA CITY, CITY OF | 4053780160D | 20-DEC-2000 | 00-06-1737A | 02
06 | OK | OKLAHOMA CITY, CITY OF | 4053780170F | 09-AUG-2000 | 00-06-1167A | 02
06 | OK | OKLAHOMA CITY, CITY OF | 4053780170F | 25-AUG-2000 | 00-06-1416A | 02
06 | OK | OKLAHOMA CITY, CITY OF | 4053780175F | 03-NOV-2000 | 00-06-1577A | 02
06 | OK | OKLAHOMA CITY, CITY OF | 4053780175F | 03-NOV-2000 | 00-06-1681A | 02
06 | OK | OKLAHOMA CITY, CITY OF | 4053780190F | 01-DEC-2000 | 00-06-1219A | 02
06 | OK | OKLAHOMA CITY, CITY OF | 4053780190F | 27-DEC-2000 | 00-06-1886A | 02
06 | OK | OKLAHOMA CITY, CITY OF | 4053780195C | 01-NOV-2000 | 00-06-1477A | 02
06 | OK | OKLAHOMA CITY, CITY OF | 4053780200D | 27-OCT-2000 | 00-06-1633A | 02
06 | OK | OKLAHOMA CITY, CITY OF | 4053780205D | 09-AUG-2000 | 00-06-1063A | 02
06 | OK | OKLAHOMA CITY, CITY OF | 4053780265D | 03-NOV-2000 | 00-06-1513A | 02
06 | OK | OKLAHOMA CITY, CITY OF | 4053780265D | 01-DEC-2000 | 00-06-1683A | 02
06 | OK | OKLAHOMA CITY, CITY OF | 4053780275C | 01-DEC-2000 | 00-06-1660A | 02
06 | OK | OKLAHOMA CITY, CITY OF | 4053780280C | 03-NOV-2000 | 00-06-1812A | 02
06 | OK | OWASSO, CITY OF | 4053790105C | 08-SEP-2000 | 00-06-786P | 05
06 | OK | POTTAWATOMIE COUNTY | 40125C0050D | 15-DEC-2000 | 00-06-1514A | 02
06 | OK | POTTAWATOMIE COUNTY | 40125C0095D | 22-NOV-2000 | 00-06-1658A | 02
06 | OK | ROGERS COUNTY | 4053790025B | 27-DEC-2000 | 01-06-066A | 02
06 | OK | ROGERS COUNTY | 4053790075B | 13-OCT-2000 | 00-06-1515A | 01
06 | OK | ROGERS COUNTY | 4053790105C | 22-SEP-2000 | 00-06-1325A | 02
06 | OK | ROGERS COUNTY | 4053790180B | 29-DEC-2000 | 01-06-111A | 02
06 | OK | SHAWNEE, CITY OF | 40125C0095D | 27-OCT-2000 | 00-06-1742A | 02
06 | OK | SHAWNEE, CITY OF | 40125C0100D | 27-OCT-2000 | 00-06-1742A | 02
06 | OK | SHAWNEE, CITY OF | 40125C0101D | 10-JUL-2000 | 00-06-1070A | 02
06 | OK | SHAWNEE, CITY OF | 40125C0102D | 10-JUL-2000 | 00-06-900A | 02
06 | OK | SHAWNEE, CITY OF | 40125C0102D | 11-SEP-2000 | 00-06-1268A | 01
06 | OK | SHAWNEE, CITY OF | 40125C0111D | 22-SEP-2000 | 00-06-1073A | 01
06 | OK | STILLWATER, CITY OF | 4053800004E | 04-OCT-2000 | 00-06-1263A | 02
06 | OK | STILLWATER, CITY OF | 4053800004E | 20-DEC-2000 | 00-06-1397A | 02
06 | OK | STILLWATER, CITY OF | 4053800005D | 25-OCT-2000 | 00-06-1388A | 02
06 | OK | TULSA COUNTY | 40143C0228H | 15-DEC-2000 | 00-06-1848A | 02
06 | OK | TULSA COUNTY | 40143C0239H | 25-OCT-2000 | 00-06-1273A | 02
06 | OK | TULSA COUNTY | 40143C0355H | 02-AUG-2000 | 00-06-1093A | 02
06 | OK | TULSA COUNTY | 40143C0505H | 27-DEC-2000 | 00-06-1485A | 02
06 | OK | TULSA COUNTY | 40143C0520H | 25-AUG-2000 | 00-06-1398A | 02
06 | OK | TULSA COUNTY | 40143C0520H | 22-SEP-2000 | 00-06-1689A | 02
06 | OK | TULSA COUNTY | 40143C0520H | 22-SEP-2000 | 00-06-1691A | 02
06 | OK | TULSA COUNTY | 40143C0520H | 21-DEC-2000 | 99-06-1888P | 05
06 | OK | TULSA COUNTY | 40143C0530H | 30-AUG-2000 | 00-06-1436A | 02
06 | OK | TULSA COUNTY | 40143C0540H | 22-SEP-2000 | 00-06-1374A | 02
06 | OK | TULSA COUNTY | 40143C0540H | 21-DEC-2000 | 99-06-1888P | 05
06 | OK | TULSA COUNTY | 40143C0605H | 04-SEP-2000 | 00-06-684P | 05
06 | OK | TULSA COUNTY | 40143C0610H | 25-AUG-2000 | 00-06-1402C | 02
06 | OK | TULSA COUNTY | 40143C0610H | 11-SEP-2000 | 00-06-1613A | 02
06 | OK | TULSA COUNTY | 40143C0610H | 21-DEC-2000 | 99-06-1888P | 05
06 | OK | TULSA COUNTY | 40143C0630H | 11-SEP-2000 | 00-06-1484A | 02
06 | OK | TULSA COUNTY | 40143C0630H | 21-DEC-2000 | 99-06-1888P | 05
06 | OK | TULSA, CITY OF | 40143C0370H | 25-JUL-2000 | 00-06-1342A | 02
06 | OK | TULSA, CITY OF | 40143C0505H | 10-JUL-2000 | 00-06-1329A | 17
06 | OK | TULSA, CITY OF | 40143C0505H | 22-SEP-2000 | 00-06-1603A | 02
06 | OK | TULSA, CITY OF | 40143C0512H | 13-SEP-2000 | 00-06-1363A | 01
06 | OK | TULSA, CITY OF | 40143C0512H | 13-NOV-2000 | 00-06-1762A | 02
06 | OK | TULSA, CITY OF | 40143C0512H | 13-NOV-2000 | 00-06-1763A | 02
06 | OK | TULSA, CITY OF | 40143C0512H | 27-DEC-2000 | 00-06-1761A | 02
06 | OK | TULSA, CITY OF | 40143C0520H | 25-JUL-2000 | 00-06-1101A | 02
06 | OK | TULSA, CITY OF | 40143C0520H | 30-AUG-2000 | 00-06-1309A | 02
06 | OK | TULSA, CITY OF | 40143C0520H | 13-SEP-2000 | 00-06-1707A | 01
06 | OK | TULSA, CITY OF | 40143C0520H | 21-DEC-2000 | 99-06-1888P | 05
06 | OK | TULSA, CITY OF | 40143C0530H | 10-JUL-2000 | 00-06-446A | 02
06 | OK | TULSA, CITY OF | 40143C0530H | 28-JUL-2000 | 00-06-1252A | 02
06 | OK | TULSA, CITY OF | 40143C0530H | 29-SEP-2000 | 00-06-1292A | 02
06 | OK | TULSA, CITY OF | 40143C0540H | 21-DEC-2000 | 99-06-1888P | 05
06 | OK | TULSA, CITY OF | 40143C0610H | 21-DEC-2000 | 99-06-1888P | 05
06 | OK | TULSA, CITY OF | 40143C0630H | 21-DEC-2000 | 99-06-1888P | 05
06 | OK | UNION CITY, TOWN OF | 400334A | 18-AUG-2000 | 00-06-703A | 02
06 | OK | WASHINGTON COUNTY | 4004590040A | 10-JUL-2000 | 00-06-907A | 02
06 | OK | YUKON, CITY OF | 40017C0340D | 04-AUG-2000 | 00-06-1413A | 02
06 | OK | YUKON, CITY OF | 40017C0340D | 11-OCT-2000 | 00-06-1576A | 02
06 | OK | YUKON, CITY OF | 40017C0340D | 13-NOV-2000 | 00-06-1350A | 02
06 | OK | YUKON, CITY OF | 40017C0340D | 29-DEC-2000 | 00-06-1684A | 02
06 | OK | YUKON, CITY OF | 40017C0480D | 27-OCT-2000 | 00-06-1476A | 02
06 | TX | ALAMO HEIGHTS, CITY OF | 48029C0452E | 17-JUL-2000 | 00-06-1024A | 02
06 | TX | ALICE, CITY OF | 4803940005C | 01-DEC-2000 | 00-06-1790A | 02
06 | TX | ALICE, CITY OF | 4812580155C | 01-DEC-2000 | 00-06-1790A | 02
06 | TX | ARLINGTON, CITY OF | 48439C0400J | 11-OCT-2000 | 00-06-1545A | 02
06 | TX | ARLINGTON, CITY OF | 48439C0433H | 17-JUL-2000 | 00-06-1247A | 02
06 | TX | ARLINGTON, CITY OF | 48439C0433H | 13-OCT-2000 | 00-06-1423A | 02
06 | TX | ARLINGTON, CITY OF | 48439C0463 | 13-NOV-2000 | 00-06-1807A | 02
06 | TX | ARLINGTON, CITY OF | 48439C0576H | 12-JUL-2000 | 00-06-1200A | 01
06 | TX | AUSTIN, CITY OF | 48453C0245E | 26-DEC-2000 | 01-06-306P | 06
06 | TX | AUSTIN, CITY OF | 48453C0290E | 26-DEC-2000 | 01-06-306P | 06
06 | TX | AZLE, CITY OF | 48439C0232H | 23-AUG-2000 | 00-06-1194A | 02
06 | TX | BASTROP COUNTY | 4811930116C | 15-NOV-2000 | 01-06-016A | 02
06 | TX | BELL COUNTY | 4807060280B | 25-OCT-2000 | 00-06-1616A | 02
06 | TX | BEXAR COUNTY | 48029C0115E | 18-SEP-2000 | 00-06-1297P | 05
06 | TX | BEXAR COUNTY | 48029C0140E | 18-SEP-2000 | 00-06-859P | 05
06 | TX | BEXAR COUNTY | 48029C0477E | 26-DEC-2000 | 01-06-281P | 06
06 | TX | BRAZORIA COUNTY | 48039C00301 | 25-AUG-2000 | 00-06-1516A | 02
06 | TX | BRAZORIA COUNTY | 485458 | 25-AUG-2000 | 00-06-1516A | 02
06 | TX | BROWN COUNTY | 4807170006A | 13-NOV-2000 | 00-06-1688A | 02
06 | TX | BROWN COUNTY | 4807170006A | 13-NOV-2000 | 00-06-1840A | 02
06 | TX | BRYAN, CITY OF | 48041C0142C | 19-SEP-2000 | 00-06-263P | 05
06 | TX | BURLESON, CITY OF | 48251C0029H | 15-NOV-2000 | 00-06-1777A | 02
06 | TX | BURLESON, CITY OF | 48251C0033H | 05-SEP-2000 | 00-06-209P | 05
06 | TX | BURLESON, CITY OF | 48251C0041H | 05-SEP-2000 | 00-06-209P | 05
06 | TX | BURNET COUNTY | 48053C0285C | 01-DEC-2000 | 00-06-1517A | 02
06 | TX | CALDWELL COUNTY | 4800890001B | 01-NOV-2000 | 00-06-1378A | 02
06 | TX | CARROLLTON, CITY OF | 4801670005G | 04-AUG-2000 | 00-06-1481A | 02
06 | TX | CLEBURNE, CITY OF | 48251C0113G | 13-SEP-2000 | 00-06-1310A | 01
06 | TX | COLLEGE STATION, CITY OF | 48041C0142C | 19-SEP-2000 | 00-06-263P | 05
06 | TX | COLLEGE STATION, CITY OF | 48041C0144C | 10-JUL-2000 | 00-06-175P | 05
06 | TX | COLLEGE STATION, CITY OF | 48041C0163D | 10-JUL-2000 | 00-06-175P | 05
06 | TX | COLLEYVILLE, CITY OF | 48439C0195H | 22-NOV-2000 | 00-06-1244A | 02
06 | TX | COLLIN COUNTY | 48085C0435G | 13-NOV-2000 | 01-06-245A | 02
06 | TX | COLLIN COUNTY | 48085C0445G | 25-JUL-2000 | 00-06-286P | 05
06 | TX | CORINTH, TOWN OF | 48121C0393E | 18-AUG-2000 | 00-06-1022A | 02
06 | TX | DALLAS COUNTY | 4801710090D | 25-JUL-2000 | 00-06-1361A | 02
06 | TX | DALLAS, CITY OF | 4801710010D | 04-OCT-2000 | 00-06-1497A | 01
06 | TX | DALLAS, CITY OF | 4801710015C | 13-NOV-2000 | 99-06-1120P | 05
06 | TX | DALLAS, CITY OF | 4801710030D | 08-NOV-2000 | 00-06-248P | 05
06 | TX | DALLAS, CITY OF | 4801710030D | 13-NOV-2000 | 00-06-1644A | 02
06 | TX | DALLAS, CITY OF | 4801710055C | 01-NOV-2000 | 00-06-1651A | 02
06 | TX | DALLAS, CITY OF | 4801710060D | 19-JUL-2000 | 00-06-1226A | 02
06 | TX | DALLAS, CITY OF | 4801710060D | 07-DEC-2000 | 00-06-1685A | 02
06 | TX | DALLAS, CITY OF | 4801710065C | 13-NOV-2000 | 99-06-1120P | 05
06 | TX | DALLAS, CITY OF | 4801710090D | 24-AUG-2000 | 00-06-1075P | 05
06 | TX | DALLAS, CITY OF | 4801710090D | 11-OCT-2000 | 00-06-1783A | 02
06 | TX | DALLAS, CITY OF | 4801710100D | 06-OCT-2000 | 00-06-1408A | 02
06 | TX | DALLAS, CITY OF | 4801710100D | 13-NOV-2000 | 99-06-1120P | 05
06 | TX | DALLAS, CITY OF | 4801710175D | 21-AUG-2000 | 00-06-468P | 05
06 | TX | DALLAS, CITY OF | 4801710185D | 04-OCT-2000 | 00-06-1466A | 02
06 | TX | DALLAS, CITY OF | 4801710210C | 21-AUG-2000 | 00-06-468P | 05
06 | TX | DALLAS, CITY OF | 48113C0190J | 06-OCT-2000 | 00-06-1583A | 02
06 | TX | DENTON COUNTY | 48121C0220F | 22-NOV-2000 | 00-06-1418A | 02
06 | TX | DENTON COUNTY | 48121C0420E | 25-OCT-2000 | 00-06-1526A | 01
06 | TX | DENTON, CITY OF | 48121C0380E | 14-JUL-2000 | 00-06-398P | 05
06 | TX | DENTON, CITY OF | 48121C0380E | 15-NOV-2000 | 01-06-247A | 02
06 | TX | EL PASO COUNTY | 4802120025B | 06-OCT-2000 | 00-06-1748A | 02
06 | TX | EL PASO, CITY OF | 4802140026D | 20-DEC-2000 | 00-06-1425A | 02
06 | TX | EL PASO, CITY OF | 4802140050B | 25-OCT-2000 | 00-06-1666A | 01
06 | TX | ELLIS COUNTY | 48139C0190D | 27-JUL-2000 | 00-06-1324A | 02
06 | TX | EULESS, CITY OF | 48439C0330H | 15-DEC-2000 | 00-06-1617A | 08
06 | TX | FLOWER MOUND, TOWN OF | 48121C0540E | 14-AUG-2000 | 00-06-741P | 06
06 | TX | FORNEY, CITY OF | 4804110025B | 06-JUL-2000 | 00-06-1188P | 06
06 | TX | FORT BEND COUNTY | 48157C0020J | 22-DEC-2000 | 01-06-171A | 01
06 | TX | FORT BEND COUNTY | 48157C0085J | 13-NOV-2000 | 00-06-1831A | 02
06 | TX | FRIENDSWOOD, CITY OF | 4854680005E | 22-SEP-2000 | 00-06-1406A | 01
06 | TX | FRISCO, CITY OF | 48085C0405G | 05-JUL-2000 | 00-06-364P | 05
06 | TX | FRISCO, CITY OF | 48085C0410G | 02-NOV-2000 | 00-06-1133P | 05
06 | TX | GARLAND, CITY OF | 485471 | 18-AUG-2000 | 00-06-818A | 02
06 | TX | GARLAND, CITY OF | 4854710010D | 18-AUG-2000 | 00-06-818A | 02
06 | TX | GARLAND, CITY OF | 4854710010D | 01-SEP-2000 | 00-06-1701A | 01
06 | TX | GARLAND, CITY OF | 4854710015D | 11-OCT-2000 | 00-06-1766A | 02
06 | TX | GARLAND, CITY OF | 4854710015D | 15-NOV-2000 | 00-06-1867A | 02
06 | TX | GARLAND, CITY OF | 4854710030E | 20-DEC-2000 | 01-06-191A | 02
06 | TX | GONZALES COUNTY | 4802540001B | 27-OCT-2000 | 00-06-1377A | 02
06 | TX | GRAND PRAIRIE, CITY OF | 4854720015F | 18-AUG-2000 | 00-06-1006A | 01
06 | TX | GRANITE SHOALS, CITY OF | 4811490284C | 25-OCT-2000 | 00-06-1639A | 02
06 | TX | GUADALUPE COUNTY | 4802660175C | 23-AUG-2000 | 00-06-1462A | 02
06 | TX | HARRIS COUNTY | 48201C0235K | 29-DEC-2000 | 00-06-1889A | 08
06 | TX | HARRIS COUNTY | 48201C0245K | 28-JUL-2000 | 00-06-1296A | 02
06 | TX | HARRIS COUNTY | 48201C0245K | 01-DEC-2000 | 00-06-1452A | 02
06 | TX | HARRIS COUNTY | 48201C0245K | 07-DEC-2000 | 01-06-030A | 17
06 | TX | HARRIS COUNTY | 48201C0265J | 28-JUL-2000 | 00-06-1296A | 02
06 | TX | HARRIS COUNTY | 48201C0265J | 06-OCT-2000 | 00-06-1712A | 02
06 | TX | HARRIS COUNTY | 48201C0320K | 30-AUG-2000 | 00-06-1341A | 02
06 | TX | HARRIS COUNTY | 48201C0320K | 22-DEC-2000 | 01-06-220A | 02
06 | TX | HARRIS COUNTY | 48201C0405J | 14-AUG-2000 | 00-06-828P | 05
06 | TX | HARRIS COUNTY | 48201C0410J | 15-DEC-2000 | 00-06-1856A | 01
06 | TX | HARRIS COUNTY | 48201C0420K | 20-DEC-2000 | 01-06-170A | 17
06 | TX | HARRIS COUNTY | 48201C0430K | 24-AUG-2000 | 99-06-580P | 05
06 | TX | HARRIS COUNTY | 48201C0435J | 24-AUG-2000 | 99-06-580P | 05
06 | TX | HARRIS COUNTY | 48201C0440K | 15-DEC-2000 | 01-06-097A | 01
06 | TX | HARRIS COUNTY | 48201C0470J | 25-OCT-2000 | 00-06-1572A | 01
06 | TX | HARRIS COUNTY | 48201C0515J | 02-AUG-2000 | 00-06-1399A | 02
06 | TX | HARRIS COUNTY | 48201C0630J | 15-DEC-2000 | 01-06-087A | 02
06 | TX | HARRIS COUNTY | 48201C0685J | 08-DEC-2000 | 00-06-1643A | 08
06 | TX | HARRIS COUNTY | 48201C0695J | 08-DEC-2000 | 00-06-1643A | 08
06 | TX | HARRIS COUNTY | 48201C0735K | 20-DEC-2000 | 01-06-104A | 02
06 | TX | HAYS COUNTY | 48209C0065E | 03-NOV-2000 | 00-06-1638A | 02
06 | TX | HAYS COUNTY | 48209C0227E | 27-OCT-2000 | 00-06-1528A | 01
06 | TX | HENDERSON COUNTY | 48213C0150D | 01-NOV-2000 | 00-06-1874A | 02
06 | TX | HENRIETTA, CITY OF | 48453C0200E | 01-NOV-2000 | 00-06-1869A | 02
06 | TX | HIDALGO COUNTY | 4803340290d | 25-OCT-2000 | 00-06-1463A | 02
06 | TX | HIDALGO COUNTY | 4803340290D | 20-DEC-2000 | 00-06-1665A | 08
06 | TX | HIDALGO COUNTY | 4803340295D | 20-DEC-2000 | 00-06-1665A | 08
06 | TX | HIDALGO COUNTY | 4803340300D | 04-AUG-2000 | 00-06-1238A | 02
06 | TX | HOOD COUNTY | 4803560110C | 11-OCT-2000 | 00-06-1540A | 02
06 | TX | HOUSTON, CITY OF | 48201C0290J | 15-DEC-2000 | 00-06-1857A | 01
06 | TX | HOUSTON, CITY OF | 48201C0320K | 22-DEC-2000 | 01-06-103A | 02
06 | TX | HOUSTON, CITY OF | 48201C0320K | 27-DEC-2000 | 00-06-1866A | 02
06 | TX | HOUSTON, CITY OF | 48201C0430K | 24-AUG-2000 | 99-06-580P | 05
06 | TX | HOUSTON, CITY OF | 48201C0435J | 24-AUG-2000 | 99-06-580P | 05
06 | TX | HOUSTON, CITY OF | 48201C0665K | 20-DEC-2000 | 01-06-044A | 02
06 | TX | HOUSTON, CITY OF | 48201C0670K | 11-AUG-2000 | 00-06-1401A | 02
06 | TX | HOUSTON, CITY OF | 48201C0845K | 15-SEP-2000 | 00-06-1598A | 02
06 | TX | HOUSTON, CITY OF | 48201C0920J | 11-SEP-2000 | 00-06-068P | 05
06 | TX | HOUSTON, CITY OF | 48201C0940J | 11-SEP-2000 | 00-06-068P | 05
06 | TX | HOUSTON, CITY OF | 48201C1060J | 11-SEP-2000 | 00-06-068P | 05
06 | TX | INGLESIDE, CITY OF | 4854800005C | 25-OCT-2000 | 00-06-1449A | 01
06 | TX | JACKSONVILLE, CITY OF | 4801230005C | 15-DEC-2000 | 00-06-1846A | 01
06 | TX | JERSEY VILLAGE, CITY OF | 48201C0440K | 22-DEC-2000 | 01-06-126A | 02
06 | TX | JOHNSON COUNTY | 48251C0041H | 05-SEP-2000 | 00-06-209P | 05
06 | TX | KELLER, CITY OF | 48439C0190H | 03-JUL-2000 | 00-06-198P | 05
06 | TX | KELLER, CITY OF | 48439C0190H | 03-OCT-2000 | 00-06-414P | 05
06 | TX | KERR COUNTY | 48265C0165E | 11-OCT-2000 | 00-06-1746A | 02
06 | TX | KILLEEN, CITY OF | 4800310007C | 20-DEC-2000 | 01-06-129A | 02
06 | TX | KYLE, CITY OF | 48209C0120E | 27-SEP-2000 | 00-06-140P | 05
06 | TX | KYLE, CITY OF | 48209C0185E | 27-SEP-2000 | 00-06-140P | 05
06 | TX | LIBERTY COUNTY | 4804380175B | 15-DEC-2000 | 01-06-065A | 02
06 | TX | LIBERTY, CITY OF | 4804380175B | 07-DEC-2000 | 01-06-088A | 02
06 | TX | LITTLE ELM, TOWN OF | 48121C0415E | 22-DEC-2000 | 01-06-057A | 08
06 | TX | LONGVIEW, CITY OF | 4802640010D | 15-NOV-2000 | 00-06-1885A | 02
06 | TX | LUBBOCK COUNTY | 4809150007A | 22-SEP-2000 | 00-06-1606A | 02
06 | TX | LUBBOCK, CITY OF | 4804520025C | 25-OCT-2000 | 00-06-1818A | 02
06 | TX | LUBBOCK, CITY OF | 4804520030B | 28-DEC-2000 | 00-06-1130P | 05
06 | TX | LUBBOCK, CITY OF | 4804520030B | 28-DEC-2000 | 00-06-1788P | 05
06 | TX | MESQUITE, CITY OF | 485490005H | 29-SEP-2000 | 00-06-1332A | 01
06 | TX | MIDLAND, CITY OF | 480477 | 18-OCT-2000 | 00-06-1556A | 02
06 | TX | MIDLAND, CITY OF | 48329C0067E | 20-DEC-2000 | 01-06-100A | 02
06 | TX | MIDLAND, CITY OF | 48329C0069E | 11-OCT-2000 | 00-06-1459A | 02
06 | TX | MIDLAND, CITY OF | 48329C0069E | 11-OCT-2000 | 00-06-1522A | 02
06 | TX | MIDLAND, CITY OF | 48329C0069E | 03-NOV-2000 | 00-06-1479A | 02
06 | TX | MIDLAND, CITY OF | 48329C0087E | 11-AUG-2000 | 00-06-1347A | 02
06 | TX | MIDLAND, CITY OF | 48329C0087E | 22-DEC-2000 | 01-06-011A | 02
06 | TX | MIDLAND, CITY OF | 48329C0088E | 04-AUG-2000 | 00-06-1328A | 02
06 | TX | MIDLAND, CITY OF | 48329C0088E | 18-AUG-2000 | 00-06-1178A | 02
06 | TX | MIDLAND, CITY OF | 48329C0088E | 06-OCT-2000 | 00-06-1523A | 02
06 | TX | MIDLAND, CITY OF | 48329C0088E | 11-OCT-2000 | 00-06-1585A | 02
06 | TX | MIDLAND, CITY OF | 48329C0088E | 18-OCT-2000 | 00-06-1421A | 02
06 | TX | MIDLAND, CITY OF | 48329C0088E | 18-OCT-2000 | 00-06-1478A | 02
06 | TX | MIDLAND, CITY OF | 48329C0088E | 18-OCT-2000 | 00-06-1556A | 02
06 | TX | MIDLAND, CITY OF | 48329C0088E | 25-OCT-2000 | 00-06-1552A | 02
06 | TX | MIDLAND, CITY OF | 48329C0088E | 15-NOV-2000 | 00-06-1820A | 02
06 | TX | MIDLAND, CITY OF | 48329C0088E | 08-DEC-2000 | 01-06-045A | 02
06 | TX | MIDLAND, CITY OF | 48329C0088E | 27-DEC-2000 | 00-06-1819A | 02
06 | TX | MIDLAND, CITY OF | 48329C0089E | 11-OCT-2000 | 00-06-1405A | 02
06 | TX | MIDLAND, CITY OF | 48329C0089E | 22-NOV-2000 | 01-06-010A | 02
06 | TX | MIDLAND, CITY OF | 48329C0089E | 15-DEC-2000 | 01-06-209A | 02
06 | TX | MONTGOMERY COUNTY | 48339C0195F | 22-DEC-2000 | 00-06-1870A | 01
06 | TX | MONTGOMERY COUNTY | 48339C0379F | 09-AUG-2000 | 00-06-1282A | 17
06 | TX | MONTGOMERY COUNTY | 48339C0383F | 09-AUG-2000 | 00-06-1282A | 17
06 | TX | MONTGOMERY COUNTY | 48339C0489F | 15-NOV-2000 | 00-06-1871A | 02
06 | TX | MONTGOMERY COUNTY | 48339C0529F | 13-DEC-2000 | 00-06-105P | 05
06 | TX | MONTGOMERY COUNTY | 48339C0545F | 15-DEC-2000 | 00-06-1500A | 01
06 | TX | MURPHY, CITY OF | 48085C0445G | 25-JUL-2000 | 00-06-286P | 05
06 | TX | ODESSA, CITY OF | 48135C0140D | 13-SEP-2000 | 00-06-1580A | 02
06 | TX | ODESSA, CITY OF | 48135C0140D | 15-DEC-2000 | 00-06-1694A | 02
06 | TX | PARIS, CITY OF | 4804270004B | 01-SEP-2000 | 00-06-1303A | 01
06 | TX | PASADENA, CITY OF | 48201C0920J | 15-SEP-2000 | 00-06-1437A | 01
06 | TX | PEARLAND, CITY OF | 48039C0045J | 01-SEP-2000 | 00-06-1323A | 02
06 | TX | PEARLAND, CITY OF | 48039C0045J | 11-OCT-2000 | 00-06-1659A | 01
06 | TX | PEARLAND, CITY OF | 48039C0065J | 04-OCT-2000 | 00-06-1695A | 02
06 | TX | PLANO, CITY OF | 48085C0410G | 02-NOV-2000 | 00-06-1133P | 05
06 | TX | PLANO, CITY OF | 48085C0445G | 25-JUL-2000 | 00-06-286P | 05
06 | TX | PLANO, CITY OF | 48085C0445G | 22-DEC-2000 | 01-06-197A | 02
06 | TX | PLANO, CITY OF | 48085C0445G | 22-DEC-2000 | 01-06-219A | 02
06 | TX | PRINCETON, CITY OF | 48085C0350G | 25-OCT-2000 | 00-06-1796A | 02
06 | TX | RICHARDSON, CITY OF | 4801840005C | 08-NOV-2000 | 00-06-248P | 05
06 | TX | RICHARDSON, CITY OF | 4801840015C | 01-SEP-2000 | 00-06-1212A | 02
06 | TX | RICHARDSON, CITY OF | 4801840015C | 13-NOV-2000 | 00-06-1550A | 02
06 | TX | SAN ANTONIO, CITY OF | 48029C0256E | 24-AUG-2000 | 00-06-1179P | 06
06 | TX | SAN ANTONIO, CITY OF | 48029C0257E | 24-AUG-2000 | 00-06-1179P | 06
06 | TX | SAN ANTONIO, CITY OF | 48029C0257E | 15-NOV-2000 | 00-06-697P | 05
06 | TX | SAN ANTONIO, CITY OF | 48029C0258E | 24-AUG-2000 | 00-06-1179P | 06
06 | TX | SAN ANTONIO, CITY OF | 48029C0259E | 24-AUG-2000 | 00-06-1179P | 06
06 | TX | SAN ANTONIO, CITY OF | 48029C0259E | 15-NOV-2000 | 00-06-697P | 05
06 | TX | SAN ANTONIO, CITY OF | 48029C0267E | 24-AUG-2000 | 00-06-1179P | 06
06 | TX | SAN ANTONIO, CITY OF | 48029C0277E | 24-AUG-2000 | 00-06-1179P | 06
06 | TX | SAN ANTONIO, CITY OF | 48029C0279E | 24-AUG-2000 | 00-06-1179P | 06
06 | TX | SAN ANTONIO, CITY OF | 48029C0281E | 24-AUG-2000 | 00-06-1179P | 06
06 | TX | SAN ANTONIO, CITY OF | 48029C0283E | 24-AUG-2000 | 00-06-1179P | 06
06 | TX | SAN ANTONIO, CITY OF | 48029C0286E | 24-AUG-2000 | 00-06-1179P | 06
06 | TX | SAN ANTONIO, CITY OF | 48029C0287E | 24-AUG-2000 | 00-06-1179P | 06
06 | TX | SAN ANTONIO, CITY OF | 48029C0288E | 11-OCT-2000 | 00-06-1601A | 02
06 | TX | SAN ANTONIO, CITY OF | 48029C0291E | 24-AUG-2000 | 00-06-1179P | 06
06 | TX | SAN ANTONIO, CITY OF | 48029C0292E | 24-AUG-2000 | 00-06-1179P | 06
06 | TX | SAN ANTONIO, CITY OF | 48029C0293E | 24-AUG-2000 | 00-06-1179P | 06
06 | TX | SAN ANTONIO, CITY OF | 48029C0407E | 06-OCT-2000 | 00-06-1404A | 02
06 | TX | SAN ANTONIO, CITY OF | 48029C0451E | 25-OCT-2000 | 00-06-1822A | 02
06 | TX | SAN ANTONIO, CITY OF | 48029C0456E | 24-AUG-2000 | 00-06-1179P | 06
06 | TX | SAN ANTONIO, CITY OF | 48029C0456E | 27-OCT-2000 | 00-06-1524A | 02
06 | TX | SAN ANTONIO, CITY OF | 48029C0458E | 24-AUG-2000 | 00-06-1179P | 06
06 | TX | SAN ANTONIO, CITY OF | 48029C0466E | 24-AUG-2000 | 00-06-1179P | 06
06 | TX | SAN ANTONIO, CITY OF | 48029C0468E | 24-AUG-2000 | 00-06-1179P | 06
06 | TX | SHAVANO PARK, TOWN OF | 48029C0258E | 24-AUG-2000 | 00-06-1179P | 06
06 | TX | SUGAR LAND, CITY OF | 48157C0255J | 06-OCT-2000 | 00-06-1551A | 02
06 | TX | SUNRISE BEACH VILLAGE, CITY OF | 4815310001B | 11-SEP-2000 | 00-06-1356A | 02
06 | TX | TAYLOR, CITY OF | 48491C0266C | 07-DEC-2000 | 00-06-1767A | 08
06 | TX | THE COLONY, CITY OF | 48121C0576E | 01-NOV-2000 | 00-06-1711A | 02
06 | TX | TRAVIS COUNTY | 48453C0090E | 07-AUG-2000 | 00-06-404P | 05
06 | TX | TRAVIS COUNTY | 48453C0095F | 07-AUG-2000 | 00-06-404P | 05
06 | TX | TRAVIS COUNTY | 48453C0260F | 02-AUG-2000 | 00-06-1272A | 02
06 | TX | VICTORIA COUNTY | 4806370050B | 12-JUL-2000 | 00-06-1090A | 17
06 | TX | VICTORIA COUNTY | 4806370125D | 06-JUL-2000 | 99-06-1793P | 06
06 | TX | WALLER COUNTY | 4806400020B | 17-JUL-2000 | 00-06-374A | 02
06 | TX | WILLIAMSON COUNTY | 48491C0325D | 15-DEC-2000 | 01-06-046A | 02
06 | TX | WOOD COUNTY | 4810550011A | 08-DEC-2000 | 01-06-007A | 02
07 | IA | ADEL, CITY OF | 1901030118D | 03-NOV-2000 | 00-07-643A | 02
07 | IA | ANKENY, CITY OF | 1902260003C | 27-JUL-2000 | 00-07-571A | 02
07 | IA | BLACK HAWK COUNTY | 1905350045B | 25-JUL-2000 | 00-07-516A | 02
07 | IA | BLACK HAWK COUNTY | 1905350050B | 22-DEC-2000 | 01-07-103A | 08
07 | IA | CEDAR FALLS, CITY OF | 1900170002B | 07-DEC-2000 | 00-07-733A | 08
07 | IA | CEDAR FALLS, CITY OF | 190017006B | 15-NOV-2000 | 00-07-528A | 01
07 | IA | CLIVE, CITY OF | 1904880005C | 19-JUL-2000 | 00-07-512A | 02
07 | IA | CLIVE, CITY OF | 1904880005C | 25-JUL-2000 | 00-07-534A | 02
07 | IA | CLIVE, CITY OF | 1904880005C | 25-OCT-2000 | 00-07-682A | 02
07 | IA | CLIVE, CITY OF | 1904880005C | 15-NOV-2000 | 00-07-796A | 02
07 | IA | CLIVE, CITY OF | 1904880005C | 27-DEC-2000 | 01-07-039A | 02
07 | IA | CLIVE, CITY OF | 1904880005C | 27-DEC-2000 | 01-07-060A | 02
07 | IA | DALLAS COUNTY | 19049C0140D | 25-OCT-2000 | 00-07-743A | 02
07 | IA | DYERSVILLE, CITY OF | 1901200001D | 30-AUG-2000 | 00-07-564A | 02
07 | IA | EMMETSBURG, CITY OF | 1902210010C | 15-NOV-2000 | 00-07-711A | 01
07 | IA | FAYETTE, CITY OF | 190376A01 | 04-OCT-2000 | 00-07-641A | 02
07 | IA | FLOYD COUNTY | 1901270019B | 22-DEC-2000 | 01-07-046A | 02
07 | IA | FREDERICKSBURG, CITY OF | 19006601 | 20-SEP-2000 | 00-07-640A | 02
07 | IA | HUMBOLDT, CITY OF | 1901550005B | 22-SEP-2000 | 00-07-663A | 02
07 | IA | IOWA CITY, CITY OF | 1901710010C | 04-OCT-2000 | 00-07-611A | 02
07 | IA | IOWA CITY, CITY OF | 1901710010C | 22-NOV-2000 | 00-07-779A | 02
07 | IA | LE CLAIRE, CITY OF | 1902430001B | 19-JUL-2000 | 00-07-527A | 02
07 | IA | LEE COUNTY | 1901820125B | 15-NOV-2000 | 00-07-784A | 02
07 | IA | MARION COUNTY | 190889A04 | 08-DEC-2000 | 00-07-707A | 02
07 | IA | MISSOURI VALLEY, CITY OF | 190147H& | 27-DEC-2000 | 01-07-085A | 01
07 | IA | MISSOURI VALLEY, CITY OF | H&I-01 | 27-OCT-2000 | 00-07-674A | 01
07 | IA | MUSCATINE COUNTY | 190836 | 30-AUG-2000 | 00-07-655A | 02
07 | IA | MUSCATINE COUNTY | 1908360050B | 30-AUG-2000 | 00-07-655A | 02
07 | IA | PALO, CITY OF | 1904420001A | 23-AUG-2000 | 00-07-639A | 02
07 | IA | ROCK VALLEY, CITY OF | 190253B02B | 22-NOV-2000 | 01-07-010A | 02
07 | IA | WAVERLY, CITY OF | 19017C0054C | 19-JUL-2000 | 00-07-585A | 02
07 | IA | WAVERLY, CITY OF | 19017C0054C | 08-NOV-2000 | 00-07-729A | 02
07 | IA | WESTSIDE, CITY OF | 1901020001B | 22-NOV-2000 | 00-07-652A | 02
07 | IA | WINDSOR HEIGHTS, CITY OF | 1906870001B | 23-AUG-2000 | 00-07-645A | 02
07 | IA | ZEARING, CITY OF | 190260B01 | 06-OCT-2000 | 00-07-653A | 02
07 | KS | ANDERSON COUNTY | 2005690002A | 25-JUL-2000 | 00-07-532A | 02
07 | KS | ANDOVER, CITY OF | 2000370230B | 31-AUG-2000 | 00-07-597A | 01
07 | KS | ARKANSAS CITY, CITY OF | 2000700002B | 11-OCT-2000 | 00-07-692A | 02
07 | KS | CHASE COUNTY | 2000400003B | 22-SEP-2000 | 00-07-693A | 02
07 | KS | CLEARWATER, CITY OF | 2004820001A | 15-DEC-2000 | 01-07-016A | 02
07 | KS | COFFEY COUNTY | 2000620005A | 09-AUG-2000 | 00-07-545A | 02
07 | KS | DICKINSON COUNTY | 20041C0065C | 15-NOV-2000 | 00-07-815A | 02
07 | KS | DICKINSON COUNTY | 20041C0070C | 08-NOV-2000 | 00-07-797A | 02
07 | KS | EL DORADO, CITY OF | 2000390001C | 30-AUG-2000 | 00-07-472A | 02
07 | KS | ELLIS COUNTY | 2000940180B | 25-OCT-2000 | 00-07-508A | 02
07 | KS | GREENBURG,CITY OF | 200501A01 | 13-NOV-2000 | 00-07-727A | 02
07 | KS | HARVEY COUNTY | 2005850100B | 27-OCT-2000 | 00-07-700A | 02
07 | KS | HARVEY COUNTY | 2005850125D | 19-JUL-2000 | 00-07-529A | 02
07 | KS | HAYSVILLE, CITY OF | 200324 | 11-SEP-2000 | 00-07-638A | 02
07 | KS | HAYSVILLE, CITY OF | 2003240001C | 11-SEP-2000 | 00-07-638A | 02
07 | KS | HERINGTON, CITY OF | 2000760001B | 08-DEC-2000 | 00-07-654A | 02
07 | KS | HOLCOMB, CITY OF | 2008680001B | 19-JUL-2000 | 00-07-429A | 02
07 | KS | HOLTON, CITY OF | 2001410005D | 11-OCT-2000 | 00-07-735A | 02
07 | KS | JOHNSON COUNTY | 20091C0081E | 08-NOV-2000 | 00-07-716A | 02
07 | KS | LABETTE COUNTY | 2005900002A | 15-NOV-2000 | 00-07-713A | 02
07 | KS | LAWRENCE, CITY OF | 2000900005A | 22-NOV-2000 | 00-07-637A | 02
07 | KS | LAWRENCE, CITY OF | 2000900015A | 22-DEC-2000 | 00-07-560A | 08
07 | KS | LEAWOOD, CITY OF | 20091C0085E | 13-SEP-2000 | 00-07-593A | 02
07 | KS | MCPHERSON, CITY OF | 2002170015D | 22-NOV-2000 | 00-07-783A | 02
07 | KS | MIAMI COUNTY | 200220A08 | 04-OCT-2000 | 00-07-696A | 02
07 | KS | NEWTON, CITY OF | 200133 | 30-AUG-2000 | 00-07-660A | 02
07 | KS | NEWTON, CITY OF | 2001330005C | 10-JUL-2000 | 00-07-535A | 02
07 | KS | NEWTON, CITY OF | 2001330005C | 25-JUL-2000 | 00-07-567A | 02
07 | KS | NEWTON, CITY OF | 2001330005C | 23-AUG-2000 | 00-07-613A | 02
07 | KS | NEWTON, CITY OF | 2001330005C | 30-AUG-2000 | 00-07-660A | 02
07 | KS | NEWTON, CITY OF | 2001330005C | 27-DEC-2000 | 00-07-800A | 02
07 | KS | NEWTON, CITY OF | 200133005C | 22-SEP-2000 | 00-07-665A | 02
07 | KS | NICKERSON, CITY OF | 20155C0090D | 08-NOV-2000 | 00-07-754A | 02
07 | KS | NICKERSON, CITY OF | 20155C0090D | 08-NOV-2000 | 00-07-755A | 02
07 | KS | OVERLAND PARK, CITY OF | 2001740081E | 11-OCT-2000 | 00-07-715A | 02
07 | KS | OVERLAND PARK, CITY OF | 20091C0085E | 27-SEP-2000 | 00-07-600A | 01
07 | KS | OVERLAND PARK, CITY OF | 20091C0085E | 29-DEC-2000 | 01-07-042A | 02
07 | KS | RENO COUNTY | 20155C0315D | 09-AUG-2000 | 00-07-602A | 02
07 | KS | RENO COUNTY | 20155C0330D | 13-OCT-2000 | 00-07-657A | 02
07 | KS | ROELAND PARK, CITY OF | 2001760042D | 04-OCT-2000 | 00-07-636A | 02
07 | KS | ROELAND PARK, CITY OF | 2001760042D | 22-NOV-2000 | 00-07-742A | 02
07 | KS | ROELAND PARK, CITY OF | 20091C0042D | 04-OCT-2000 | 00-07-636A | 02
07 | KS | SALINA, CITY OF | 2003160060B | 03-NOV-2000 | 00-07-764A | 02
07 | KS | SALINA, CITY OF | 2003190005B | 15-NOV-2000 | 00-07-761A | 02
07 | KS | SALINA, CITY OF | 2003190005B | 22-DEC-2000 | 01-07-024A | 02
07 | KS | SALINA, CITY OF | 2003190005B | 22-DEC-2000 | 01-07-041A | 01
07 | KS | SALINA, CITY OF | 2003190015B | 27-JUL-2000 | 00-07-540A | 02
07 | KS | SALINA, CITY OF | 2003190015B | 23-AUG-2000 | 00-07-575A | 02
07 | KS | SALINA, CITY OF | 2003190015B | 23-AUG-2000 | 00-07-583A | 02
07 | KS | SALINA, CITY OF | 2003190015B | 25-AUG-2000 | 00-07-584A | 02
07 | KS | SALINA, CITY OF | 2003190015B | 25-AUG-2000 | 00-07-592A | 02
07 | KS | SALINA, CITY OF | 2003190015B | 30-AUG-2000 | 00-07-565A | 02
07 | KS | SALINA, CITY OF | 2003190015B | 13-SEP-2000 | 00-07-635A | 02
07 | KS | SALINA, CITY OF | 2003190015B | 15-SEP-2000 | 00-07-548A | 01
07 | KS | SALINA, CITY OF | 2003190015B | 04-OCT-2000 | 00-07-647A | 02
07 | KS | SALINA, CITY OF | 2003190015B | 11-OCT-2000 | 00-07-610A | 02
07 | KS | SALINA, CITY OF | 2003190015B | 25-OCT-2000 | 00-07-651A | 02
07 | KS | SALINA, CITY OF | 2003190015B | 25-OCT-2000 | 00-07-782A | 02
07 | KS | SALINA, CITY OF | 2003190015B | 08-NOV-2000 | 00-07-728A | 02
07 | KS | SALINA, CITY OF | 2003190015B | 13-NOV-2000 | 00-07-802A | 02
07 | KS | SALINA, CITY OF | 2003190015B | 15-NOV-2000 | 00-07-712A | 02
07 | KS | SALINA, CITY OF | 2003190015B | 15-NOV-2000 | 00-07-809A | 02
07 | KS | SALINA, CITY OF | 2003190015B | 15-NOV-2000 | 00-07-811A | 02
07 | KS | SALINA, CITY OF | 2003190015B | 15-NOV-2000 | 00-07-816A | 02
07 | KS | SALINA, CITY OF | 2003190015B | 07-DEC-2000 | 01-07-065A | 02
07 | KS | SALINE COUNTY | 2003160060B | 01-SEP-2000 | 00-07-378A | 02
07 | KS | SALINE COUNTY | 2003160060B | 08-NOV-2000 | 00-07-772A | 02
07 | KS | SALINE COUNTY | 2003160125B | 15-NOV-2000 | 00-07-785A | 02
07 | KS | SALINE COUNTY | 2003160125B | 22-NOV-2000 | 00-07-804A | 02
07 | KS | SALINE COUNTY | 2003190015B | 08-NOV-2000 | 00-07-771A | 02
07 | KS | SEDGWICK COUNTY | 2001340001D | 27-JUL-2000 | 00-07-550A | 02
07 | KS | SEDGWICK COUNTY | 2003210125A | 15-SEP-2000 | 00-07-353A | 02
07 | KS | SEDGWICK COUNTY | 2003210125A | 22-NOV-2000 | 00-07-541A | 01
07 | KS | SEDGWICK COUNTY | 2003210225A | 25-OCT-2000 | 00-07-662A | 02
07 | KS | SEDGWICK COUNTY | 2003210275A | 25-OCT-2000 | 00-07-580A | 02
07 | KS | SEDGWICK COUNTY | 2003210275A | 27-OCT-2000 | 00-07-644A | 02
07 | KS | SEDGWICK COUNTY | 2003210300A | 27-OCT-2000 | 00-07-648A | 02
07 | KS | SEDGWICK COUNTY | 200321075A | 03-NOV-2000 | 00-07-744A | 02
07 | KS | SOUTH HUTCHINSON, CITY OF | 20155C0290D | 04-OCT-2000 | 00-07-656A | 02
07 | KS | SUMNER COUNTY | 20191C0200B | 13-OCT-2000 | 00-07-708A | 02
07 | KS | TOPEKA, CITY OF | 2051870111C | 27-SEP-2000 | 00-07-687A | 02
07 | KS | WAMEGO, CITY OF | 2002760001B | 15-NOV-2000 | 00-07-725A | 01
07 | KS | WICHITA COUNTY | 2003280005B | 15-NOV-2000 | 00-07-634A | 02
07 | KS | WICHITA COUNTY | 2003280005B | 17-NOV-2000 | 00-07-632A | 02
07 | KS | WICHITA COUNTY | 2003280015B | 01-SEP-2000 | 00-07-591A | 02
07 | KS | WICHITA, CITY OF | 2003280005B | 22-SEP-2000 | 00-07-507A | 02
07 | KS | WICHITA, CITY OF | 2003280005B | 15-NOV-2000 | 00-07-633A | 02
07 | KS | WICHITA, CITY OF | 2003280005B | 17-NOV-2000 | 00-07-631A | 02
07 | KS | WICHITA, CITY OF | 2003280010B | 08-NOV-2000 | 00-07-781A | 02
07 | KS | WICHITA, CITY OF | 2003280025B | 19-JUL-2000 | 00-07-509A | 02
07 | KS | WICHITA, CITY OF | 2003280025B | 08-NOV-2000 | 00-07-776A | 02
07 | KS | WICHITA, CITY OF | 2003280030B | 22-DEC-2000 | 01-07-003A | 02
07 | KS | WICHITA, CITY OF | 2003280035B | 10-JUL-2000 | 00-07-517A | 02
07 | KS | WICHITA, CITY OF | 2003280035B | 30-AUG-2000 | 00-07-566A | 02
07 | KS | WICHITA, CITY OF | 2003280035B | 22-DEC-2000 | 01-07-030A | 02
07 | MO | ARNOLD, CITY OF | 2901880001C | 15-NOV-2000 | 00-07-608A | 01
07 | MO | BALLWIN, CITY OF | 29189C0258H | 11-OCT-2000 | 00-07-646A | 01
07 | MO | BRANSON, CITY OF | 2904360002C | 15-NOV-2000 | 00-07-813A | 02
07 | MO | CAPE GIRARDEAU COUNTY | 290790090C | 06-SEP-2000 | 00-07-252A | 02
07 | MO | CASS COUNTY | 2907830025C | 11-JUL-2000 | 00-07-522A | 02
07 | MO | CASS COUNTY | 2907830025C | 22-NOV-2000 | 00-07-260A | 02
07 | MO | CASS COUNTY | 2907830025C | 22-NOV-2000 | 00-07-265A | 02
07 | MO | CASS COUNTY | 2907830050C | 25-OCT-2000 | 00-07-581A | 02
07 | MO | CHESTERFIELD, CITY OF | 29189C0161H | 20-DEC-2000 | 01-07-014A | 02
07 | MO | CRESTWOOD, CITY OF | 29189C0311H | 10-JUL-2000 | 00-07-514A | 02
07 | MO | FENTON, CITY OF | 29189C0289H | 27-DEC-2000 | 00-07-717A | 02
07 | MO | GREEN PARK, CITY OF | 29189C0315H | 30-AUG-2000 | 00-07-407A | 01
07 | MO | GREEN PARK, CITY OF | 29189C0315H | 15-NOV-2000 | 00-07-765A | 01
07 | MO | GREENE COUNTY | 2907820065B | 22-DEC-2000 | 00-07-736A | 02
07 | MO | GREENE COUNTY | 2907820095C | 09-AUG-2000 | 00-07-490A | 02
07 | MO | HOLT COUNTY | 29057C0040B | 15-NOV-2000 | 00-07-724A | 02
07 | MO | HOLT COUNTY | 290E7C0105B | 15-NOV-2000 | 00-07-724A | 02
07 | MO | HUNTLEIGH, TOWN OF | 29189C0281H | 27-JUL-2000 | 00-07-477A | 02
07 | MO | INDEPENDENCE,CITY OF | 2901720010E | 08-NOV-2000 | 00-07-780A | 02
07 | MO | INDEPENDENCE,CITY OF | 2901720040D | 08-NOV-2000 | 00-07-749A | 02
07 | MO | JACKSON COUNTY | 2904920129B | 15-NOV-2000 | 00-07-345A | 02
07 | MO | JACKSON, CITY OF | 2952650001C | 10-JUL-2000 | 00-07-434A | 02
07 | MO | JEFFERSON CITY, CITY OF | 2908080080C | 15-NOV-2000 | 00-07-810A | 02
07 | MO | JEFFERSON COUNTY | 2908080080C | 08-NOV-2000 | 00-07-792A | 02
07 | MO | JEFFERSON COUNTY | 2908080085C | 06-OCT-2000 | 00-07-778A | 02
07 | MO | JEFFERSON COUNTY | 2908080090D | 25-OCT-2000 | 00-07-607A | 02
07 | MO | JEFFERSON COUNTY | 2908080090D | 01-DEC-2000 | 00-07-751A | 02
07 | MO | JOPLIN, CITY OF | 2901830015C | 22-SEP-2000 | 00-07-649A | 02
07 | MO | KANSAS CITY, CITY OF | 2901730060B | 22-DEC-2000 | 01-07-089A | 02
07 | MO | LEE'S SUMMIT, CITY OF | 2901740007C | 25-OCT-2000 | 00-07-498A | 02
07 | MO | LEE'S SUMMIT, CITY OF | 2901740007C | 27-DEC-2000 | 00-07-722A | 02
07 | MO | MARION COUNTY | 290222H&104 | 13-OCT-2000 | 00-07-574A | 02
07 | MO | MARYLAND HEIGHTS, CITY OF | 29189C0156H | 27-JUL-2000 | 00-07-443A | 02
07 | MO | MCDONALD COUNTY | 2908170125B | 15-NOV-2000 | 00-07-697A | 02
07 | MO | MORGAN COUNTY | 2902440200A | 22-SEP-2000 | 00-07-672A | 02
07 | MO | NIXA, CITY OF | 290078005B | 15-NOV-2000 | 00-07-738A | 02
07 | MO | NORTH KANSAS CITY, CITY OF | 290099B | 10-JUL-2000 | 00-07-471A | 02
07 | MO | O'FALLON, CITY OF | 29183C0230E | 07-DEC-2000 | 00-07-720A | 01
07 | MO | O'FALLON, CITY OF | 29183C0430E | 10-JUL-2000 | 00-07-431A | 01
07 | MO | O'FALLON, CITY OF | 29183C0430E | 08-NOV-2000 | 00-07-619A | 01
07 | MO | SCOTT CITY, CITY OF | 2904140001B | 11-AUG-2000 | 00-07-414A | 02
07 | MO | SCOTT CITY, CITY OF | 2904140001B | 27-DEC-2000 | 01-07-032A | 02
07 | MO | SIKESTON, CITY OF | 2952700006C | 08-DEC-2000 | 00-07-814A | 08
07 | MO | SPRINGFIELD, CITY OF | 2901490001B | 22-DEC-2000 | 00-07-736A | 02
07 | MO | ST. CHARLES COUNTY | 29183C0125E | 22-NOV-2000 | 01-07-002A | 02
07 | MO | ST. CHARLES COUNTY | 29183C0230E | 11-AUG-2000 | 00-07-538A | 02
07 | MO | ST. CHARLES COUNTY | 29183C0230E | 15-NOV-2000 | 00-07-793A | 02
07 | MO | ST. CHARLES COUNTY | 29183C0260E | 20-DEC-2000 | 00-07-750A | 01
07 | MO | ST. CHARLES COUNTY | 29183C0451E | 27-JUL-2000 | 00-07-478A | 02
07 | MO | ST. CHARLES COUNTY | 29183C0451E | 11-OCT-2000 | 00-07-734A | 02
07 | MO | ST. CHARLES, CITY OF | 29183C0260E | 22-DEC-2000 | 01-07-107A | 01
07 | MO | ST. CHARLES, CITY OF | 29183C0267E | 09-AUG-2000 | 00-07-595A | 02
07 | MO | ST. CHARLES, CITY OF | 29183C0267E | 25-OCT-2000 | 00-07-790A | 02
07 | MO | ST. CHARLES, CITY OF | 29183C0286E | 02-AUG-2000 | 00-07-494A | 02
07 | MO | ST. LOUIS COUNTY | 29189C0058H | 25-OCT-2000 | 00-07-561A | 01
07 | MO | ST. LOUIS COUNTY | 29189C0069H | 27-DEC-2000 | 00-07-786A | 02
07 | MO | ST. LOUIS COUNTY | 29189C0276J | 08-NOV-2000 | 00-07-788A | 02
07 | MO | ST. LOUIS COUNTY | 29189C0279J | 13-NOV-2000 | 01-07-087A | 01
07 | MO | ST. LOUIS COUNTY | 29189C0289H | 22-NOV-2000 | 00-07-568A | 02
07 | MO | ST. LOUIS COUNTY | 29189C0405H | 08-NOV-2000 | 00-07-798A | 01
07 | MO | ST. LOUIS COUNTY | 29189C267H | 08-NOV-2000 | 00-07-758A | 01
07 | MO | ST. LOUIS, CITY OF | 29189C0385H | 22-DEC-2000 | 00-07-740A | 01
07 | MO | ST. PETERS, CITY OF | 29183C0242E | 04-AUG-2000 | 00-07-563A | 01
07 | MO | ST. PETERS, CITY OF | 29183C0242E | 22-DEC-2000 | 00-07-741A | 01
07 | MO | STONE COUNTY | 2904290025B | 25-OCT-2000 | 00-07-615A | 02
07 | MO | SUNSET HILLS, CITY OF | 29189C0293H | 10-JUL-2000 | 00-07-569A | 02
07 | MO | TANEY COUNTY | 290435 16A | 15-NOV-2000 | 00-07-794A | 02
07 | MO | TANEY COUNTY | 29043516A | 08-NOV-2000 | 00-07-766A | 02
07 | MO | VALLEY PARK, CITY OF | 29189C0278J | 27-DEC-2000 | 01-07-007A | 01
07 | MO | VALLEY PARK, CITY OF | 29189C0286H | 27-DEC-2000 | 01-07-007A | 01
07 | MO | WARREN COUNTY | 2904430075C | 10-JUL-2000 | 00-07-435A | 02
07 | MO | WARREN COUNTY | 2904430125B | 10-JUL-2000 | 00-07-554A | 02
07 | MO | WENTZVILLE, CITY OF | 29183C0185E | 19-JUL-2000 | 00-07-279A | 01
07 | NE | ADAMS COUNTY | 3104110002B | 22-SEP-2000 | 00-07-479A | 02
07 | NE | AURORA, CITY OF | 3101050005C | 30-AUG-2000 | 00-07-606A | 01
07 | NE | BELLEVUE, CITY OF | 310191 | 30-AUG-2000 | 00-07-658A | 02
07 | NE | BELLEVUE, CITY OF | 31153C0065F | 30-AUG-2000 | 00-07-658A | 02
07 | NE | BELLEVUE, CITY OF | 31153C0065F | 22-SEP-2000 | 00-07-684A | 02
07 | NE | BELLEVUE, CITY OF | 31153C0065F | 15-NOV-2000 | 00-07-732A | 02
07 | NE | BELLEVUE, CITY OF | 31153C0065F | 22-DEC-2000 | 01-07-057A | 01
07 | NE | CASS COUNTY | 3104070025A | 22-NOV-2000 | 01-07-005A | 02
07 | NE | COLFAX COUNTY | 31037C0130C | 27-OCT-2000 | 00-07-666A | 02
07 | NE | COLFAX COUNTY | 310426002B | 13-SEP-2000 | 00-07-536A | 02
07 | NE | CRETE, CITY OF | 3101860003C | 15-NOV-2000 | 00-07-721A | 01
07 | NE | FREMONT, CITY OF | 3100690002C | 25-OCT-2000 | 00-07-671A | 02
07 | NE | GAGE COUNTY | 3100880001B | 11-JUL-2000 | 00-07-495A | 02
07 | NE | GAGE COUNTY | 3100880003B | 25-JUL-2000 | 00-07-589A | 02
07 | NE | GRAND ISLAND, CITY OF | 3101000050C | 06-OCT-2000 | 00-07-616A | 02
07 | NE | GRAND ISLAND, CITY OF | 3101000100C | 22-SEP-2000 | 00-07-680A | 02
07 | NE | GRAND ISLAND, CITY OF | 310103 | 30-AUG-2000 | 00-07-669A | 02
07 | NE | GRAND ISLAND, CITY OF | 310103 | 30-AUG-2000 | 00-07-701A | 02
07 | NE | GRAND ISLAND, CITY OF | 3101030005B | 27-OCT-2000 | 00-07-747A | 02
07 | NE | GRAND ISLAND, CITY OF | 3101030005B | 27-OCT-2000 | 00-07-760A | 02
07 | NE | GRAND ISLAND, CITY OF | 3101030010B | 30-AUG-2000 | 00-07-669A | 02
07 | NE | GRAND ISLAND, CITY OF | 3101030015B | 30-AUG-2000 | 00-07-701A | 02
07 | NE | GRAND ISLAND, CITY OF | 3101030015B | 06-SEP-2000 | 00-07-668A | 02
07 | NE | GRAND ISLAND, CITY OF | 3101030015B | 22-SEP-2000 | 00-07-679A | 02
07 | NE | GRAND ISLAND, CITY OF | 3101030015B | 27-SEP-2000 | 00-07-690A | 02
07 | NE | GRAND ISLAND, CITY OF | 3101030015B | 06-OCT-2000 | 00-07-718A | 02
07 | NE | GRAND ISLAND, CITY OF | 3101030020B | 10-JUL-2000 | 00-07-247A | 01
07 | NE | GRAND ISLAND, CITY OF | 3101030020B | 22-DEC-2000 | 01-07-012A | 02
07 | NE | HALL COUNTY | 3101000075C | 29-DEC-2000 | 01-07-011A | 02
07 | NE | HALL COUNTY | 3101000100C | 11-JUL-2000 | 00-07-485A | 02
07 | NE | HAMILTON COUNTY | 3104410025A | 08-NOV-2000 | 00-07-789A | 02
07 | NE | HAMILTON COUNTY | 3104410025A | 22-DEC-2000 | 00-07-664A | 02
07 | NE | HAMILTON COUNTY | 3104410025A | 22-DEC-2000 | 01-07-027A | 02
07 | NE | HAMILTON COUNTY | 3104410050A | 22-NOV-2000 | 01-07-043A | 02
07 | NE | HAMILTON COUNTY | 3104410050A | 07-DEC-2000 | 00-07-767A | 02
07 | NE | HICKMAN, VILLAGE OF | 3101360002A | 13-OCT-2000 | 00-07-628A | 02
07 | NE | KEARNEY, CITY OF | 3100160020C | 27-JUL-2000 | 00-07-458A | 02
07 | NE | LANCASTER COUNTY | 3101340200B | 22-NOV-2000 | 00-07-686A | 02
07 | NE | LINCOLN COUNTY | 3152730020D | 15-NOV-2000 | 00-07-588A | 01
07 | NE | LINCOLN, CITY OF | 315273 | 22-SEP-2000 | 00-07-688A | 01
07 | NE | LINCOLN, CITY OF | 3152730025D | 28-JUL-2000 | 00-07-530A | 02
07 | NE | LINCOLN, CITY OF | 3152730025D | 11-AUG-2000 | 00-07-491C | 01
07 | NE | LINCOLN, CITY OF | 3152730025D | 30-AUG-2000 | 00-07-461A | 01
07 | NE | LINCOLN, CITY OF | 3152730035C | 13-OCT-2000 | 00-07-469A | 02
07 | NE | LINCOLN, CITY OF | 3152730037D | 04-OCT-2000 | 00-07-704A | 02
07 | NE | LINCOLN, CITY OF | 3152730040C | 25-OCT-2000 | 00-07-739A | 02
07 | NE | LINCOLN, CITY OF | 3152730040C | 05-DEC-2000 | 00-07-670P | 06
07 | NE | MERRICK COUNTY | 3104570175B | 15-NOV-2000 | 00-07-549A | 02
07 | NE | OGALLALA, CITY OF | 3101290010B | 25-OCT-2000 | 00-07-627A | 02
07 | NE | OMAHA, CITY OF | 3152740025F | 22-NOV-2000 | 00-07-709A | 01
07 | NE | OMAHA, CITY OF | 3152740045G | 13-OCT-2000 | 00-07-617A | 02
07 | NE | O'NEILL, CITY OF | 3101160001C | 06-OCT-2000 | 00-07-360A | 02
07 | NE | PLATTE COUNTY | 3104670140C | 23-AUG-2000 | 00-07-609A | 02
07 | NE | PLATTE COUNTY | 3104670200D | 23-AUG-2000 | 00-07-556A | 02
07 | NE | SARPY COUNTY | 31153C0065F | 08-NOV-2000 | 00-07-759A | 01
07 | NE | SAUNDERS COUNTY | 3101950105B | 06-OCT-2000 | 00-07-601A | 01
07 | NE | SAUNDERS COUNTY | 3101950105B | 13-OCT-2000 | 00-07-586A | 02
07 | NE | SAUNDERS COUNTY | 3101960005B | 25-AUG-2000 | 00-07-605A | 02
07 | NE | SCHUYLER, CITY OF | 3100460005B | 04-OCT-2000 | 00-07-659A | 02
07 | NE | SCHUYLER, CITY OF | 3100460005B | 15-NOV-2000 | 00-07-805A | 02
07 | NE | SCHUYLER, CITY OF | 3100460005B | 15-NOV-2000 | 00-07-808A | 02
07 | NE | SCHUYLER, CITY OF | 310046005B | 08-NOV-2000 | 00-07-801A | 02
07 | NE | SCHUYLER, CITY OF | 310046005B | 13-NOV-2000 | 00-07-694A | 02
07 | NE | SYRACUSE, CITY OF | 31016601B | 08-NOV-2000 | 00-07-775A | 02
07 | NE | WEEPING WATER, CITY OF | 3100360001B | 08-DEC-2000 | 00-07-726A | 01
07 | NE | YORK COUNTY | 3104860003B | 22-SEP-2000 | 00-07-570A | 02
07 | IA | DES MOINES, CITY OF | 1902270009E | 01-SEP-2000 | 00-07-170A | 02
07 | IA | WAUCOMA, CITY OF | 190381A | 03-OCT-2000 | 00-07-821P | 06
07 | KS | DESOTO, CITY OF | 20091C0055D | 10-AUG-2000 | 00-07-032P | 05
07 | KS | JOHNSON COUNTY | 20091C0055D | 10-AUG-2000 | 00-07-032P | 05
07 | KS | SEDGWICK COUNTY | 2003210225A | 24-JUL-2000 | 00-07-081P | 05
07 | KS | SEDGWICK COUNTY | 2003210125A | 10-JUL-2000 | 00-07-207A | 01
07 | KS | WICHITA, CITY OF | 2003210150A | 12-JUL-2000 | 00-07-099P | 05
07 | KS | WICHITA, CITY OF | 2003280030B | 12-JUL-2000 | 00-07-099P | 05
07 | MO | MARYVILLE, CITY OF | 290264B | 17-JUL-2000 | 00-07-077P | 06
07 | MO | MARYVILLE, CITY OF | 2908210185B | 17-JUL-2000 | 00-07-077P | 06
07 | MO | ST. CHARLES COUNTY | 29183C0430E | 29-NOV-2000 | 00-07-171A | 01
07 | MO | ST. PETERS, CITY OF | 29183C0435E | 20-JUL-2000 | 99-07-586P | 05
07 | NE | PENDER, VILLAGE OF | 3102210005D | 26-JUL-2000 | 00-07-067P | 05
08 | CO | ADAMS COUNTY | 08001C0330G | 26-JUL-2000 | 00-08-287A | 02
08 | CO | ADAMS COUNTY | 08001C0330G | 11-OCT-2000 | 00-08-408A | 02
08 | CO | ADAMS COUNTY | 08001C0309G | 20-NOV-2000 | 01-08-004A | 01
08 | CO | ADAMS COUNTY | 08001C0320G | 20-NOV-2000 | 01-08-004A | 01
08 | CO | ADAMS COUNTY | 08001C0309G | 29-NOV-2000 | 01-08-046A | 02
08 | CO | ADAMS COUNTY | 08001C0320G | 29-NOV-2000 | 01-08-046A | 02
08 | CO | ARAPAHOE COUNTY | 08005C0455J | 10-JUL-2000 | 00-08-270A | 02
08 | CO | ARAPAHOE COUNTY | 08005C0280J | 02-AUG-2000 | 00-08-315A | 02
08 | CO | ARAPAHOE COUNTY | 08005C0205J | 03-NOV-2000 | 99-08-063P | 05
08 | CO | AURORA, CITY OF | 0800020180F | 19-JUL-2000 | 00-08-121P | 05
08 | CO | AURORA, CITY OF | 0800020040E | 10-JUL-2000 | 00-08-268A | 02
08 | CO | AURORA, CITY OF | 0800020180F | 25-SEP-2000 | 00-08-359P | 05
08 | CO | AURORA, CITY OF | 0800020195E | 25-OCT-2000 | 00-08-397A | 01
08 | CO | BOULDER, CITY OF | 08013C0395F | 06-OCT-2000 | 00-08-148A | 02
08 | CO | BOULDER, CITY OF | 08013C0395F | 27-SEP-2000 | 00-08-258A | 02
08 | CO | BOULDER, CITY OF | 08013C0395F | 02-AUG-2000 | 00-08-288A | 02
08 | CO | BOULDER, CITY OF | 08013C0395F | 18-OCT-2000 | 00-08-390A | 02
08 | CO | BOULDER, CITY OF | 08013C0535F | 13-NOV-2000 | 01-08-011A | 02
08 | CO | BOULDER, CITY OF | 08013C0395F | 27-DEC-2000 | 01-08-069A | 17
08 | CO | BROOMFIELD, CITY OF | 0850730010D | 15-SEP-2000 | 00-08-388V | 19
08 | CO | BROOMFIELD, CITY OF | 0850730020E | 15-SEP-2000 | 00-08-388V | 19
08 | CO | CASTLE ROCK, TOWN OF | 0800500170C | 02-OCT-2000 | 00-08-194P | 06
08 | CO | CASTLE ROCK, TOWN OF | 0800500186C | 12-SEP-2000 | 99-08-297P | 06
08 | CO | CASTLE ROCK, TOWN OF | 0800500188C | 12-SEP-2000 | 99-08-297P | 06
08 | CO | COLORADO SPRINGS, CITY OF | 08041C0507F | 28-JUL-2000 | 00-08-088P | 05
08 | CO | COLORADO SPRINGS, CITY OF | 08041C0509F | 28-JUL-2000 | 00-08-088P | 05
08 | CO | COLORADO SPRINGS, CITY OF | 08041C0528F | 28-JUL-2000 | 00-08-088P | 05
08 | CO | COLORADO SPRINGS, CITY OF | 08041C0736F | 04-AUG-2000 | 00-08-226A | 17
08 | CO | COLORADO SPRINGS, CITY OF | 08041C0519F | 02-OCT-2000 | 00-08-263A | 02
08 | CO | DENVER, CITY AND COUNTY OF | 0800460012F | 06-SEP-2000 | 00-08-289A | 02
08 | CO | DOUGLAS COUNTY | 0800490170C | 02-OCT-2000 | 00-08-194P | 06
08 | CO | DOUGLAS COUNTY | 0800490160C | 11-SEP-2000 | 98-08-272P | 06
08 | CO | DOUGLAS COUNTY | 0800490170C | 11-SEP-2000 | 98-08-272P | 06
08 | CO | EL PASO COUNTY | 08041C0825F | 18-AUG-2000 | 00-08-054P | 06
08 | CO | EL PASO COUNTY | 08041C0276F | 11-SEP-2000 | 00-08-302A | 02
08 | CO | EL PASO COUNTY | 08041C0825F | 01-DEC-2000 | 00-08-392A | 02
08 | CO | EL PASO COUNTY | 08041C0763F | 18-DEC-2000 | 00-08-418A | 01
08 | CO | EL PASO COUNTY | 08041C0950F | 27-DEC-2000 | 01-08-074A | 02
08 | CO | FEDERAL HEIGHTS, CITY OF | 08001C0307G | 11-SEP-2000 | 00-08-210P | 05
08 | CO | FORT COLLINS, CITY OF | 0801010179E | 16-OCT-2000 | 00-08-406A | 01
08 | CO | FRUITA, CITY OF | 0801150265B | 27-SEP-2000 | 00-08-401A | 02
08 | CO | GILPIN COUNTY | 080075B | 13-NOV-2000 | 00-08-335A | 02
08 | CO | GRAND JUNCTION, CITY OF | 0801170007E | 22-NOV-2000 | 99-08-114P | 05
08 | CO | GRAND JUNCTION, CITY OF | 0801170009E | 22-NOV-2000 | 99-08-114P | 05
08 | CO | GUNNISON, CITY OF | 0800800002C | 28-AUG-2000 | 00-08-322A | 02
08 | CO | JEFFERSON COUNTY | 0800870270B | 28-AUG-2000 | 00-08-265A | 02
08 | CO | JEFFERSON COUNTY | 0800870240C | 28-AUG-2000 | 00-08-309A | 02
08 | CO | JEFFERSON COUNTY | 0800870380C | 12-DEC-2000 | 01-08-032A | 02
08 | CO | JEFFERSON COUNTY | 0800870380C | 12-DEC-2000 | 01-08-040A | 02
08 | CO | LAKEWOOD, CITY OF | 0850750010C | 27-OCT-2000 | 00-08-262P | 06
08 | CO | LAKEWOOD, CITY OF | 0850750005C | 18-DEC-2000 | 01-08-048A | 02
08 | CO | LARIMER COUNTY | 0801010208C | 12-DEC-2000 | 00-08-175A | 01
08 | CO | LOUISVILLE, CITY OF | 08013C0560F | 23-AUG-2000 | 00-08-266A | 02
08 | CO | MESA COUNTY | 0801150470B | 22-NOV-2000 | 99-08-114P | 05
08 | CO | NORTHGLENN, CITY OF | 08001C0038G | 23-AUG-2000 | 99-08-377P | 05
08 | CO | PIERCE, TOWN OF | 0801890001B | 30-OCT-2000 | 00-08-314A | 17
08 | CO | PUEBLO COUNTY | 0801470275B | 18-AUG-2000 | 00-08-344P | 06
08 | CO | PUEBLO COUNTY | 0801470360B | 18-AUG-2000 | 00-08-344P | 06
08 | CO | PUEBLO COUNTY | 0801470380B | 18-AUG-2000 | 00-08-344P | 06
08 | CO | RIO GRANDE COUNTY | 0801530090B | 04-AUG-2000 | 00-08-307A | 02
08 | CO | ROUTT COUNTY | 0801560295A | 17-JUL-2000 | 00-08-190A | 02
08 | CO | ROUTT COUNTY | 0801560295A | 19-JUL-2000 | 00-08-191A | 01
08 | CO | SEVERANCE, TOWN OF | 0803170001A | 24-JUL-2000 | 00-08-337A | 02
08 | CO | STEAMBOAT SPRINGS, CITY OF | 0801590003C | 06-SEP-2000 | 00-08-339A | 02
08 | CO | SUMMIT COUNTY | 0802900110B | 18-SEP-2000 | 00-08-269A | 02
08 | CO | SUMMIT COUNTY | 0802900110B | 13-NOV-2000 | 01-08-003A | 02
08 | CO | SUMMIT COUNTY | 0802900120C | 13-NOV-2000 | 01-08-003A | 02
08 | CO | THORNTON, CITY OF | 08001C0038G | 23-AUG-2000 | 99-08-377P | 05
08 | CO | WELD COUNTY | 0802660605D | 06-DEC-2000 | 99-08-352P | 05
08 | CO | WESTMINSTER, CITY OF | 0800080006C | 07-AUG-2000 | 99-08-399P | 06
08 | CO | WINDSOR, CITY OF | 0801010221C | 18-SEP-2000 | 00-08-330A | 01
08 | CO | WINDSOR, CITY OF | 0802640005A | 06-DEC-2000 | 99-08-352P | 05
08 | MT | BEAVERHEAD COUNTY | 3000011438A | 04-AUG-2000 | 00-08-257A | 17
08 | MT | BOZEMAN, CITY OF | 3000280016C | 20-DEC-2000 | 00-08-367P | 05
08 | MT | BUTTE-SILVER BOW COUNTY | 3000770191D | 28-AUG-2000 | 00-08-291A | 02
08 | MT | BUTTE-SILVER BOW COUNTY | 3000770285D | 01-NOV-2000 | 00-08-347A | 02
08 | MT | CARBON COUNTY | 3001390185B | 16-AUG-2000 | 00-08-187A | 02
08 | MT | CARBON COUNTY | 3001390175B | 18-OCT-2000 | 00-08-407A | 02
08 | MT | CASCADE COUNTY | 3000080415B | 12-JUL-2000 | 00-08-231A | 17
08 | MT | CASCADE COUNTY | 3000080409B | 27-DEC-2000 | 01-08-023A | 02
08 | MT | FLATHEAD COUNTY | 3000231810D | 01-SEP-2000 | 00-08-351A | 17
08 | MT | FLATHEAD COUNTY | 3000231050C | 27-SEP-2000 | 00-08-393A | 02
08 | MT | FLATHEAD COUNTY | 3000231820F | 27-DEC-2000 | 01-08-052A | 01
08 | MT | GLENDIVE, CITY OF | 3000150005B | 19-JUL-2000 | 00-08-317A | 02
08 | MT | LEWIS AND CLARK COUNTY | 3000381534C | 13-NOV-2000 | 00-08-422A | 02
08 | MT | LINCOLN COUNTY | 3001570650B | 12-JUL-2000 | 00-08-267A | 02
08 | MT | LINCOLN COUNTY | 3001570620B | 18-SEP-2000 | 00-08-373A | 02
08 | MT | LINCOLN COUNTY | 3001570650B | 20-DEC-2000 | 01-08-062A | 02
08 | MT | MILES CITY, CITY OF | 3000140005C | 10-JUL-2000 | 00-08-176A | 02
08 | MT | MILES CITY, CITY OF | 3000140005C | 11-OCT-2000 | 00-08-409A | 01
08 | MT | MINERAL COUNTY | 3001590006C | 18-SEP-2000 | 00-08-259A | 02
08 | MT | MINERAL COUNTY | 3001590006C | 22-SEP-2000 | 00-08-281A | 02
08 | MT | MISSOULA COUNTY | 30063C1030D | 23-AUG-2000 | 00-08-341A | 02
08 | MT | MISSOULA COUNTY | 30063C1480D | 06-OCT-2000 | 00-08-400A | 02
08 | MT | MISSOULA COUNTY | 30063C1215D | 27-DEC-2000 | 01-08-065A | 17
08 | MT | MISSOULA, CITY OF | 30063C1480D | 20-SEP-2000 | 00-08-284A | 02
08 | MT | PARK COUNTY | 3001600024B | 01-SEP-2000 | 00-08-283A | 02
08 | MT | PARK COUNTY | 3001600017B | 04-OCT-2000 | 00-08-293A | 02
08 | MT | RICHLAND COUNTY | 3001650525B | 02-OCT-2000 | 00-08-286A | 02
08 | MT | SANDERS COUNTY | 3000720023B | 01-DEC-2000 | 01-08-020A | 02
08 | MT | TETON COUNTY | 3001680383B | 29-NOV-2000 | 01-08-029A | 02
08 | MT | WHITEFISH, CITY OF | 3000231090C | 19-JUL-2000 | 00-08-160A | 02
08 | ND | BISMARCK, CITY OF | 3801490025A | 27-SEP-2000 | 00-08-361A | 01
08 | ND | BURLEIGH COUNTY | 3800170570A | 30-AUG-2000 | 00-08-208A | 01
08 | ND | BURLEIGH COUNTY | 3800170570A | 16-AUG-2000 | 00-08-241A | 01
08 | ND | BURLEIGH COUNTY | 3800170570A | 09-NOV-2000 | 01-08-037A | 02
08 | ND | CENTER,TOWNSHIP OF | 3806480005B | 16-OCT-2000 | 00-08-419A | 02
08 | ND | CENTER,TOWNSHIP OF | 3806480005B | 20-NOV-2000 | 01-08-027A | 02
08 | ND | DICKINSON, CITY OF | 3801170004D | 11-SEP-2000 | 00-08-353A | 17
08 | ND | FARGO, CITY OF | 3853640010F | 26-JUL-2000 | 00-08-136A | 02
08 | ND | FARGO, CITY OF | 3853640010F | 26-JUL-2000 | 00-08-137A | 02
08 | ND | GRAFTON, CITY OF | 3801370003C | 18-DEC-2000 | 01-08-063A | 02
08 | ND | GRAND FORKS COUNTY | 3800330004B | 01-SEP-2000 | 00-08-352A | 02
08 | ND | GRAND FORKS COUNTY | 3800330008B | 04-OCT-2000 | 00-08-413A | 02
08 | ND | HAZEN, CITY OF | 3800670005D | 19-JUL-2000 | 00-08-278A | 02
08 | ND | HAZEN, CITY OF | 3800670005D | 19-JUL-2000 | 00-08-290A | 02
08 | ND | JAMESTOWN CITY OF | 3853660012D | 18-DEC-2000 | 00-08-385A | 02
08 | ND | MINOT, CITY OF | 38101C0779D | 24-JUL-2000 | 00-08-243A | 02
08 | ND | PLEASANT, TOWNSHIP OF | 3802630025A | 30-AUG-2000 | 00-08-276A | 02
08 | ND | PLEASANT, TOWNSHIP OF | 3802630025A | 30-AUG-2000 | 00-08-354A | 02
08 | ND | THOMPSON, CITY OF | 3802080001B | 29-NOV-2000 | 01-08-007A | 02
08 | ND | WALSH COUNTY | 3801350014B | 18-OCT-2000 | 00-08-415A | 02
08 | ND | WARD COUNTY | 38101C0757D | 20-NOV-2000 | 01-08-038A | 02
08 | SD | ABERDEEN, CITY OF | 46013C0330C | 11-AUG-2000 | 00-08-333A | 02
08 | SD | ABERDEEN, CITY OF | 46013C0265C | 01-DEC-2000 | 00-08-396A | 02
08 | SD | ABERDEEN, CITY OF | 46013C0245C | 18-DEC-2000 | 01-08-033A | 02
08 | SD | BROWN COUNTY | 46013C0310C | 24-JUL-2000 | 00-08-279A | 02
08 | SD | ELK POINT, CITY OF | 460242C | 16-OCT-2000 | 00-08-280A | 01
08 | SD | GROTON, CITY OF | 46013C0352C | 19-JUL-2000 | 00-08-273A | 02
08 | SD | LINCOLN COUNTY | 4602770001B | 24-JUL-2000 | 00-08-246A | 02
08 | SD | LINCOLN COUNTY | 4602770001B | 20-SEP-2000 | 00-08-376A | 02
08 | SD | LINCOLN COUNTY | 4602770001B | 20-DEC-2000 | 01-08-053A | 02
08 | SD | NORTH SIOUX CITY, CITY OF | 4600870005C | 04-AUG-2000 | 00-08-310A | 02
08 | SD | PARKSTON, CITY OF | 4600420001B | 22-SEP-2000 | 00-08-379A | 02
08 | SD | SIOUX FALLS, CITY OF | 4600570105B | 02-AUG-2000 | 00-08-144A | 01
08 | SD | SPEARFISH, CITY OF | 4600460005D | 18-DEC-2000 | 00-08-321A | 17
08 | SD | UNION COUNTY | 460242C | 28-DEC-2000 | 99-08-326P | 05
08 | SD | WATERTOWN, CITY OF | 4600160010B | 01-DEC-2000 | 01-08-034A | 02
08 | SD | WATERTOWN, CITY OF | 4600160010B | 20-DEC-2000 | 01-08-070A | 02
08 | SD | YANKTON COUNTY | 4600880005C | 18-SEP-2000 | 00-08-384A | 02
08 | UT | ALPINE, CITY OF | 4902280005A | 27-SEP-2000 | 00-08-402A | 02
08 | UT | ALPINE, CITY OF | 4902280005A | 30-OCT-2000 | 01-08-008A | 02
08 | UT | AURORA, CITY OF | 4901230001C | 01-DEC-2000 | 01-08-016A | 02
08 | UT | BOUNTIFUL, CITY OF | 4900390005C | 06-SEP-2000 | 00-08-308A | 02
08 | UT | BOUNTIFUL, CITY OF | 4900390005C | 20-DEC-2000 | 00-08-404A | 02
08 | UT | CACHE COUNTY | 4900120008B | 04-AUG-2000 | 00-08-298A | 02
08 | UT | KANAB, CITY OF | 4900850005A | 18-OCT-2000 | 00-08-349A | 02
08 | UT | LAYTON, CITY OF | 4900470006B | 04-AUG-2000 | 00-08-318A | 02
08 | UT | MORGAN CITY,CITY OF | 4900930001B | 11-SEP-2000 | 00-08-340A | 02
08 | UT | OGDEN, CITY OF | 4901900001D | 14-SEP-2000 | 00-08-324A | 02
08 | UT | OGDEN, CITY OF | 4901890002B | 11-AUG-2000 | 00-08-350A | 02
08 | UT | RIVERDALE, CITY OF | 4901900001D | 20-SEP-2000 | 00-08-405A | 02
08 | UT | SALT LAKE CITY, CITY OF | 4901050034A | 29-DEC-2000 | 01-08-076A | 02
08 | UT | SANDY CITY, CITY OF | 4901060003C | 22-SEP-2000 | 00-08-387A | 01
08 | UT | SANTA CLARA, CITY OF | 4901780005B | 30-AUG-2000 | 00-08-343A | 02
08 | UT | SARATOGA SPRINGS, TOWN OF | 4955170115A | 12-DEC-2000 | 00-08-412A | 01
08 | UT | SARATOGA SPRINGS, TOWN OF | 4955170120A | 12-DEC-2000 | 00-08-412A | 01
08 | WY | CASPER, CITY OF | 5600370015C | 24-JUL-2000 | 00-08-240A | 02
08 | WY | CASPER, CITY OF | 5600370015C | 22-SEP-2000 | 00-08-313A | 02
08 | WY | CASPER, CITY OF | 5600370015C | 13-NOV-2000 | 01-08-001A | 02
08 | WY | CHEYENNE, CITY OF | 5600300010E | 20-NOV-2000 | 01-08-014A | 02
08 | WY | JACKSON, TOWN OF | 56039C0545B | 03-OCT-2000 | 00-08-247P | 06
08 | WY | JACKSON, TOWN OF | 56039C0660B | 03-OCT-2000 | 00-08-247P | 06
08 | WY | SHERIDAN COUNTY | 5600470012C | 02-AUG-2000 | 00-08-274A | 02
08 | WY | SHERIDAN COUNTY | 5600470019C | 13-NOV-2000 | 00-08-338A | 02
09 | AZ | AVONDALE, CITY OF | 04013C2080G | 30-AUG-2000 | 00-09-909A | 01
09 | AZ | BUCKEYE, TOWN OF | 04013C2035F | 19-JUL-2000 | 99-09-1087P | 05
09 | AZ | CHANDLER, CITY OF | 04013C2655E | 12-JUL-2000 | 00-09-448A | 01
09 | AZ | CHANDLER, CITY OF | 04013C3030F | 13-DEC-2000 | 01-09-006P | 05
09 | AZ | CHANDLER, CITY OF | 04013C2665E | 01-DEC-2000 | 01-09-026A | 01
09 | AZ | CHANDLER, CITY OF | 04013C2670F | 01-DEC-2000 | 01-09-026A | 01
09 | AZ | CHANDLER, CITY OF | 04013C3030F | 22-DEC-2000 | 01-09-173A | 01
09 | AZ | COCHISE COUNTY | 0400121075B | 26-DEC-2000 | 00-09-883P | 05
09 | AZ | COCHISE COUNTY | 0400121090C | 26-DEC-2000 | 00-09-883P | 05
09 | AZ | COCHISE COUNTY | 0400121232B | 26-DEC-2000 | 00-09-883P | 05
09 | AZ | GILBERT, TOWN OF | 04013C2680F | 20-DEC-2000 | 00-09-1022A | 01
09 | AZ | GILBERT, TOWN OF | 04013C2690F | 14-NOV-2000 | 00-09-961P | 06
09 | AZ | GILBERT, TOWN OF | 04013C2695F | 14-NOV-2000 | 00-09-961P | 06
09 | AZ | GLENDALE, CITY OF | 04013C1190F | 05-JUL-2000 | 00-09-127P | 05
09 | AZ | GLENDALE, CITY OF | 04013C1195D | 05-JUL-2000 | 00-09-127P | 05
09 | AZ | GLENDALE, CITY OF | 04013C1620F | 10-AUG-2000 | 00-09-569P | 05
09 | AZ | GLENDALE, CITY OF | 04013C1640D | 06-SEP-2000 | 00-09-933A | 01
09 | AZ | GLENDALE, CITY OF | 04013C1640D | 20-DEC-2000 | 01-09-177A | 01
09 | AZ | GOODYEAR, CITY OF | 04013C2080G | 24-JUL-2000 | 00-09-808A | 01
09 | AZ | GOODYEAR, CITY OF | 04013C2060E | 19-DEC-2000 | 00-09-975P | 05
09 | AZ | GOODYEAR, CITY OF | 04013C2070F | 19-DEC-2000 | 00-09-975P | 05
09 | AZ | MARICOPA COUNTY | 04013C0785G | 20-DEC-2000 | 00-09-1041A | 02
09 | AZ | MARICOPA COUNTY | 04013C0780F | 02-AUG-2000 | 00-09-521A | 02
09 | AZ | MARICOPA COUNTY | 04013C1620F | 10-AUG-2000 | 00-09-569P | 05
09 | AZ | MARICOPA COUNTY | 04013C2085E | 19-JUL-2000 | 00-09-620P | 06
09 | AZ | MARICOPA COUNTY | 04013C2105D | 19-JUL-2000 | 00-09-620P | 06
09 | AZ | MARICOPA COUNTY | 04013C2090F | 18-DEC-2000 | 01-09-178A | 02
09 | AZ | MARICOPA COUNTY | 04013C2030F | 19-JUL-2000 | 99-09-1087P | 05
09 | AZ | MARICOPA COUNTY | 04013C2035F | 19-JUL-2000 | 99-09-1087P | 05
09 | AZ | MESA, CITY OF | 04013C2185E | 02-OCT-2000 | 00-09-1092A | 02
09 | AZ | MESA, CITY OF | 04013C2215F | 10-JUL-2000 | 00-09-787A | 02
09 | AZ | MESA, CITY OF | 04013C2195E | 29-NOV-2000 | 01-09-136A | 02
09 | AZ | MOHAVE COUNTY | 0400582125C | 20-OCT-2000 | 00-09-554P | 05
09 | AZ | MOHAVE COUNTY | 0400582150B | 20-OCT-2000 | 00-09-554P | 05
09 | AZ | MOHAVE COUNTY | 0400582300B | 20-OCT-2000 | 00-09-554P | 05
09 | AZ | MOHAVE COUNTY | 0400582325B | 20-OCT-2000 | 00-09-554P | 05
09 | AZ | MOHAVE COUNTY | 0400582150B | 20-OCT-2000 | 00-09-781P | 05
09 | AZ | MOHAVE COUNTY | 0400582140C | 23-OCT-2000 | 00-09-872P | 05
09 | AZ | NAVAJO COUNTY | 0400662467C | 14-SEP-2000 | 00-09-1036A | 02
09 | AZ | NAVAJO COUNTY | 0400661700B | 12-DEC-2000 | 01-09-153A | 02
09 | AZ | NOGALES, CITY OF | 0400910004B | 02-OCT-2000 | 00-09-664A | 01
09 | AZ | ORO VALLEY, TOWN OF | 04019C1039K | 28-SEP-2000 | 00-09-839P | 05
09 | AZ | PEORIA, CITY OF | 04013C1190F | 05-JUL-2000 | 00-09-127P | 05
09 | AZ | PHOENIX, CITY OF | 04013C2135D | 04-OCT-2000 | 00-09-1017A | 01
09 | AZ | PHOENIX, CITY OF | 04013C2130E | 16-OCT-2000 | 00-09-1130A | 02
09 | AZ | PHOENIX, CITY OF | 04013C1195D | 05-JUL-2000 | 00-09-127P | 05
09 | AZ | PHOENIX, CITY OF | 04013C1620F | 10-AUG-2000 | 00-09-569P | 05
09 | AZ | PHOENIX, CITY OF | 04013C1660F | 22-AUG-2000 | 00-09-617P | 05
09 | AZ | PHOENIX, CITY OF | 04013C1680F | 22-AUG-2000 | 00-09-617P | 05
09 | AZ | PHOENIX, CITY OF | 04013C1690E | 30-AUG-2000 | 00-09-995A | 02
09 | AZ | PHOENIX, CITY OF | 04013C2610D | 12-DEC-2000 | 01-09-021A | 01
09 | AZ | PHOENIX, CITY OF | 04013C2130E | 20-NOV-2000 | 01-09-037A | 02
09 | AZ | PHOENIX, CITY OF | 04013C1655H | 12-DEC-2000 | 01-09-116A | 02
09 | AZ | PIMA COUNTY | 04019C2825K | 01-DEC-2000 | 00-09-1023P | 06
09 | AZ | PIMA COUNTY | 04019C1637K | 04-OCT-2000 | 00-09-1050A | 02
09 | AZ | PIMA COUNTY | 04019C1610K | 26-DEC-2000 | 00-09-1132P | 06
09 | AZ | PIMA COUNTY | 04019C1617K | 21-AUG-2000 | 00-09-239P | 06
09 | AZ | PIMA COUNTY | 04019C2220K | 15-SEP-2000 | 00-09-431P | 06
09 | AZ | PIMA COUNTY | 04019C1637K | 29-SEP-2000 | 00-09-517P | 06
09 | AZ | PIMA COUNTY | 04019C1663K | 25-SEP-2000 | 00-09-793P | 05
09 | AZ | PIMA COUNTY | 04019C2257K | 25-SEP-2000 | 00-09-793P | 05
09 | AZ | PIMA COUNTY | 04019C2280K | 25-SEP-2000 | 00-09-793P | 05
09 | AZ | PIMA COUNTY | 04019C2243K | 24-JUL-2000 | 00-09-823P | 05
09 | AZ | PIMA COUNTY | 04019C1610K | 25-SEP-2000 | 00-09-830P | 06
09 | AZ | PIMA COUNTY | 04019C2220K | 04-OCT-2000 | 00-09-833P | 06
09 | AZ | PIMA COUNTY | 04019C1635K | 12-OCT-2000 | 00-09-850P | 06
09 | AZ | PIMA COUNTY | 04019C1618K | 26-SEP-2000 | 00-09-880P | 06
09 | AZ | PIMA COUNTY | 04019C2210K | 26-SEP-2000 | 00-09-880P | 06
09 | AZ | PIMA COUNTY | 04019C2280K | 23-AUG-2000 | 00-09-905A | 02
09 | AZ | PIMA COUNTY | 04019C2280K | 01-SEP-2000 | 00-09-937A | 17
09 | AZ | PIMA COUNTY | 04019C2280K | 12-DEC-2000 | 00-09-953A | 01
09 | AZ | PIMA COUNTY | 04019C1020K | 20-NOV-2000 | 01-09-008A | 02
09 | AZ | PIMA COUNTY | 04019C1663K | 29-DEC-2000 | 01-09-022A | 02
09 | AZ | PIMA COUNTY | 04019C2810K | 24-JUL-2000 | 99-09-1300P | 06
09 | AZ | PIMA COUNTY | 04019C1663K | 24-JUL-2000 | 99-09-1302P | 05
09 | AZ | PIMA COUNTY | 04019C1665K | 24-JUL-2000 | 99-09-1302P | 05
09 | AZ | PIMA COUNTY | 04019C1670K | 24-JUL-2000 | 99-09-1302P | 05
09 | AZ | PIMA COUNTY | 04019C2257K | 24-JUL-2000 | 99-09-1302P | 05
09 | AZ | PIMA COUNTY | 04019C2280K | 24-JUL-2000 | 99-09-1302P | 05
09 | AZ | PIMA COUNTY | 04019C2285K | 24-JUL-2000 | 99-09-1302P | 05
09 | AZ | PIMA COUNTY | 04019C2220K | 24-JUL-2000 | 99-09-1305P | 06
09 | AZ | PINAL COUNTY | 0400770675D | 06-NOV-2000 | 00-09-1033A | 01
09 | AZ | PRESCOTT VALLEY, TOWN OF | 0401210001C | 04-AUG-2000 | 00-09-687A | 01
09 | AZ | QUEEN CREEK, TOWN OF | 04013C2695F | 14-NOV-2000 | 00-09-961P | 06
09 | AZ | SCOTTSDALE, CITY OF | 04013C1695F | 06-OCT-2000 | 00-09-063A | 02
09 | AZ | SCOTTSDALE, CITY OF | 04013C1695F | 29-DEC-2000 | 01-09-058A | 01
09 | AZ | SCOTTSDALE, CITY OF | 04013C2160D | 29-DEC-2000 | 01-09-058A | 01
09 | AZ | SIERRA VISTA, CITY OF | 0400121251D | 20-NOV-2000 | 00-09-1011P | 06
09 | AZ | SIERRA VISTA, CITY OF | 0400170005C | 26-DEC-2000 | 00-09-883P | 05
09 | AZ | SIERRA VISTA, CITY OF | 0400170005C | 20-NOV-2000 | 01-09-121A | 02
09 | AZ | TOLLESON, CITY OF | 04013C2085E | 19-JUL-2000 | 00-09-620P | 06
09 | AZ | TOLLESON, CITY OF | 04013C2105D | 19-JUL-2000 | 00-09-620P | 06
09 | AZ | TUCSON, CITY OF | 04019C1639K | 14-SEP-2000 | 00-09-1010A | 02
09 | AZ | TUCSON, CITY OF | 04019C2232K | 01-NOV-2000 | 00-09-1133A | 02
09 | AZ | TUCSON, CITY OF | 04019C2252K | 10-JUL-2000 | 00-09-279P | 05
09 | AZ | TUCSON, CITY OF | 04019C1619K | 08-AUG-2000 | 00-09-407P | 05
09 | AZ | TUCSON, CITY OF | 04019C2220K | 15-SEP-2000 | 00-09-431P | 06
09 | AZ | TUCSON, CITY OF | 04019C2243K | 23-AUG-2000 | 00-09-433P | 06
09 | AZ | TUCSON, CITY OF | 04019C1637K | 29-SEP-2000 | 00-09-517P | 06
09 | AZ | TUCSON, CITY OF | 04019C2254K | 08-NOV-2000 | 00-09-591P | 05
09 | AZ | TUCSON, CITY OF | 04019C2258K | 08-NOV-2000 | 00-09-591P | 05
09 | AZ | TUCSON, CITY OF | 04019C1644K | 26-JUL-2000 | 00-09-616P | 05
09 | AZ | TUCSON, CITY OF | 04019C1619K | 25-SEP-2000 | 00-09-793P | 05
09 | AZ | TUCSON, CITY OF | 04019C2210K | 25-SEP-2000 | 00-09-793P | 05
09 | AZ | TUCSON, CITY OF | 04019C2220K | 25-SEP-2000 | 00-09-793P | 05
09 | AZ | TUCSON, CITY OF | 04019C2228K | 25-SEP-2000 | 00-09-793P | 05
09 | AZ | TUCSON, CITY OF | 04019C2232K | 25-SEP-2000 | 00-09-793P | 05
09 | AZ | TUCSON, CITY OF | 04019C2256K | 25-SEP-2000 | 00-09-793P | 05
09 | AZ | TUCSON, CITY OF | 04019C2830K | 25-SEP-2000 | 00-09-793P | 05
09 | AZ | TUCSON, CITY OF | 04019C2232K | 26-JUL-2000 | 00-09-796A | 02
09 | AZ | TUCSON, CITY OF | 04019C2227K | 30-AUG-2000 | 00-09-870A | 02
09 | AZ | TUCSON, CITY OF | 04019C2232K | 30-AUG-2000 | 00-09-917A | 02
09 | AZ | TUCSON, CITY OF | 04019C2232K | 13-NOV-2000 | 01-09-039A | 02
09 | AZ | TUCSON, CITY OF | 04019C2232K | 29-NOV-2000 | 01-09-095A | 02
09 | AZ | TUCSON, CITY OF | 04019C1639K | 12-DEC-2000 | 01-09-131A | 02
09 | AZ | TUCSON, CITY OF | 04019C1644K | 24-JUL-2000 | 99-09-1301P | 05
09 | AZ | TUCSON, CITY OF | 04019C2232K | 24-JUL-2000 | 99-09-1301P | 05
09 | AZ | TUCSON, CITY OF | 04019C2234K | 24-JUL-2000 | 99-09-1301P | 05
09 | AZ | TUCSON, CITY OF | 04019C2251K | 24-JUL-2000 | 99-09-1301P | 05
09 | AZ | TUCSON, CITY OF | 04019C2253K | 24-JUL-2000 | 99-09-1301P | 05
09 | AZ | TUCSON, CITY OF | 04019C1665K | 24-JUL-2000 | 99-09-1302P | 05
09 | AZ | TUCSON, CITY OF | 04019C1670K | 24-JUL-2000 | 99-09-1302P | 05
09 | AZ | TUCSON, CITY OF | 04019C2252K | 24-JUL-2000 | 99-09-1302P | 05
09 | AZ | TUCSON, CITY OF | 04019C2254K | 24-JUL-2000 | 99-09-1302P | 05
09 | AZ | TUCSON, CITY OF | 04019C2256K | 24-JUL-2000 | 99-09-1302P | 05
09 | AZ | TUCSON, CITY OF | 04019C2257K | 24-JUL-2000 | 99-09-1302P | 05
09 | AZ | TUCSON, CITY OF | 04019C2258K | 24-JUL-2000 | 99-09-1302P | 05
09 | AZ | TUCSON, CITY OF | 04019C2238K | 24-JUL-2000 | 99-09-1303P | 05
09 | AZ | TUCSON, CITY OF | 04019C2830K | 24-JUL-2000 | 99-09-1303P | 05
09 | AZ | TUCSON, CITY OF | 04019C1619K | 24-JUL-2000 | 99-09-1305P | 05
09 | AZ | TUCSON, CITY OF | 04019C2210K | 24-JUL-2000 | 99-09-1305P | 05
09 | AZ | TUCSON, CITY OF | 04019C2220K | 24-JUL-2000 | 99-09-1305P | 05
09 | AZ | TUCSON, CITY OF | 04019C2228K | 24-JUL-2000 | 99-09-1305P | 05
09 | AZ | TUCSON, CITY OF | 04019C2236K | 24-JUL-2000 | 99-09-1305P | 05
09 | AZ | TUCSON, CITY OF | 04019C2237K | 24-JUL-2000 | 99-09-1305P | 05
09 | AZ | TUCSON, CITY OF | 04019C2239K | 24-JUL-2000 | 99-09-1305P | 05
09 | AZ | WILLCOX, CITY OF | 0400180001C | 20-DEC-2000 | 01-09-211A | 02
09 | AZ | YAVAPAI COUNTY | 0400931020D | 24-JUL-2000 | 00-09-654A | 02
09 | CA | ALAMEDA COUNTY | 0600010090D | 04-OCT-2000 | 00-09-992A | 02
09 | CA | ANTIOCH, CITY OF | 0600250355B | 30-OCT-2000 | 00-09-097P | 06
09 | CA | BELLFLOWER, CITY OF | 0601020005A | 01-SEP-2000 | 00-09-691P | 06
09 | CA | BRENTWOOD, CITY OF | 0600250365B | 20-NOV-2000 | 01-09-001A | 02
09 | CA | BURLINGAME, CITY OF | 0650190002C | 20-SEP-2000 | 00-09-1044A | 02
09 | CA | BURLINGAME, CITY OF | 0650190004C | 13-NOV-2000 | 01-09-051A | 02
09 | CA | BUTTE COUNTY | 06007C0510D | 04-OCT-2000 | 00-09-1052A | 02
09 | CA | BUTTE COUNTY | 06007C0520C | 20-SEP-2000 | 00-09-662A | 01
09 | CA | BUTTE COUNTY | 06007C0510C | 01-SEP-2000 | 00-09-996A | 02
09 | CA | BUTTE COUNTY | 06007C0330D | 20-NOV-2000 | 01-09-038A | 02
09 | CA | CARLSBAD, CITY OF | 06073C1034F | 22-AUG-2000 | 00-09-887P | 06
09 | CA | CARLSBAD, CITY OF | 06073C1034F | 25-SEP-2000 | 99-09-1228P | 06
09 | CA | CARPINTERIA, CITY OF | 0603320005E | 17-JUL-2000 | 00-09-792A | 01
09 | CA | CARSON, CITY OF | 0601070005A | 01-SEP-2000 | 00-09-691P | 06
09 | CA | CHICO, CITY OF | 06007C0505C | 02-OCT-2000 | 00-09-1108A | 02
09 | CA | CHICO, CITY OF | 06007C0505C | 10-JUL-2000 | 00-09-720A | 02
09 | CA | CHICO, CITY OF | 06007C0510D | 16-OCT-2000 | 00-09-971A | 02
09 | CA | CITRUS HEIGHTS, CITY OF | 0602620095E | 18-SEP-2000 | 00-09-1045A | 02
09 | CA | CITRUS HEIGHTS, CITY OF | 0602620105C | 01-DEC-2000 | 01-09-042A | 02
09 | CA | CLOVIS, CITY OF | 0650290885C | 18-OCT-2000 | 00-09-1006A | 01
09 | CA | COLTON, CITY OF | 06071C8691F | 18-DEC-2000 | 01-09-147A | 02
09 | CA | COLUSA COUNTY | 060022D | 13-NOV-2000 | 00-09-1065A | 02
09 | CA | COMPTON, CITY OF | 0601110005A | 01-SEP-2000 | 00-09-691P | 06
09 | CA | CONTRA COSTA COUNTY | 0600250400B | 18-SEP-2000 | 00-09-519A | 01
09 | CA | CONTRA COSTA COUNTY | 0600250360B | 29-DEC-2000 | 01-09-145A | 01
09 | CA | CORONA, CITY OF | 0602500005F | 17-JUL-2000 | 00-09-803A | 02
09 | CA | CORONA, CITY OF | 0602500010D | 17-JUL-2000 | 00-09-803A | 02
09 | CA | COSTA MESA, CITY OF | 06059C0037F | 02-OCT-2000 | 00-09-545A | 02
09 | CA | COTATI, CITY OF | 0603770001D | 27-SEP-2000 | 00-09-435A | 01
09 | CA | COTATI, CITY OF | 0603770001D | 01-DEC-2000 | 01-09-048A | 01
09 | CA | COTATI, CITY OF | 0603770001D | 18-DEC-2000 | 01-09-148A | 01
09 | CA | DANVILLE, TOWN OF | 0607070001A | 23-AUG-2000 | 00-09-907A | 02
09 | CA | DINUBA, CITY OF | 0650660280B | 04-OCT-2000 | 00-09-1098A | 01
09 | CA | DINUBA, CITY OF | 0650660280B | 04-AUG-2000 | 00-09-876A | 01
09 | CA | DINUBA, CITY OF | 0650660280B | 27-DEC-2000 | 01-09-197A | 01
09 | CA | DOWNEY, CITY OF | 0606450005A | 01-SEP-2000 | 00-09-691P | 06
09 | CA | DUBLIN, CITY OF | 0607050002B | 01-SEP-2000 | 00-09-922A | 01
09 | CA | EAST PALO ALTO, CITY OF | 0607080001B | 22-SEP-2000 | 00-09-1073A | 02
09 | CA | EAST PALO ALTO, CITY OF | 0607080001B | 13-NOV-2000 | 00-09-1131A | 02
09 | CA | EAST PALO ALTO, CITY OF | 0607080001B | 16-AUG-2000 | 00-09-132P | 06
09 | CA | EAST PALO ALTO, CITY OF | 0607080001B | 24-JUL-2000 | 00-09-862A | 02
09 | CA | EAST PALO ALTO, CITY OF | 0607080001B | 23-AUG-2000 | 00-09-864A | 02
09 | CA | EAST PALO ALTO, CITY OF | 0607080001B | 28-AUG-2000 | 00-09-895A | 02
09 | CA | EAST PALO ALTO, CITY OF | 0607080001B | 23-AUG-2000 | 00-09-958A | 02
09 | CA | EAST PALO ALTO, CITY OF | 0607080001B | 12-DEC-2000 | 01-09-070A | 02
09 | CA | ENCINITAS, CITY OF | 06073C1034F | 25-SEP-2000 | 99-09-1228P | 06
09 | CA | FAIRFIELD, CITY OF | 0603700009D | 30-AUG-2000 | 00-09-955A | 01
09 | CA | FAIRFIELD, CITY OF | 0603700009D | 29-NOV-2000 | 01-09-112A | 01
09 | CA | FONTANA, CITY OF | 06071C8654F | 10-JUL-2000 | 00-09-799A | 02
09 | CA | FOUNTAIN VALLEY, CITY OF | 06059C0037F | 01-NOV-2000 | 00-09-979A | 02
09 | CA | FREMONT,CITY OF | 0650280033C | 19-OCT-2000 | 00-09-1055P | 06
09 | CA | FREMONT,CITY OF | 0650280029C | 29-NOV-2000 | 01-09-144A | 02
09 | CA | FRESNO COUNTY | 0650291220B | 18-OCT-2000 | 00-09-1088A | 02
09 | CA | FRESNO COUNTY | 0650290595C | 01-DEC-2000 | 01-09-075A | 02
09 | CA | FRESNO, CITY OF | 0650290590C | 12-JUL-2000 | 00-09-790A | 01
09 | CA | FRESNO, CITY OF | 0650290590C | 23-AUG-2000 | 00-09-910A | 01
09 | CA | HAYWARD, CITY OF | 0650330011E | 11-AUG-2000 | 00-09-899A | 02
09 | CA | HAYWARD, CITY OF | 0650330011E | 14-SEP-2000 | 00-09-901A | 02
09 | CA | HAYWARD, CITY OF | 0650330011E | 30-AUG-2000 | 00-09-920A | 02
09 | CA | HAYWARD, CITY OF | 0650330011E | 14-SEP-2000 | 00-09-970A | 02
09 | CA | HAYWARD, CITY OF | 0650330011E | 30-AUG-2000 | 00-09-983A | 02
09 | CA | HEMET, CITY OF | 0602530005D | 13-NOV-2000 | 01-09-035A | 01
09 | CA | HEMET, CITY OF | 0602530005D | 12-DEC-2000 | 01-09-165A | 01
09 | CA | HUMBOLDT COUNTY | 0600600620C | 16-AUG-2000 | 00-09-707A | 02
09 | CA | KERN COUNTY | 0600751275B | 14-SEP-2000 | 00-09-1018A | 01
09 | CA | KINGS COUNTY | 0600860050B | 14-SEP-2000 | 00-09-398A | 02
09 | CA | LAKE COUNTY | 0600900840B | 12-JUL-2000 | 00-09-607A | 02
09 | CA | LAKE COUNTY | 0600900840B | 23-AUG-2000 | 00-09-956A | 02
09 | CA | LAKEWOOD, CITY OF | 0601300005A | 01-SEP-2000 | 00-09-691P | 06
09 | CA | LANCASTER, CITY OF | 0606720020B | 12-JUL-2000 | 00-09-685A | 02
09 | CA | LODI,CITY OF | 0603000001E | 30-AUG-2000 | 00-09-835A | 02
09 | CA | LONG BEACH, CITY OF | 0601360025C | 11-OCT-2000 | 00-09-1046A | 01
09 | CA | LONG BEACH, CITY OF | 0601360025C | 19-JUL-2000 | 00-09-659A | 01
09 | CA | LONG BEACH, CITY OF | 0601360005C | 01-SEP-2000 | 00-09-691P | 06
09 | CA | LONG BEACH, CITY OF | 0601360010C | 01-SEP-2000 | 00-09-691P | 06
09 | CA | LONG BEACH, CITY OF | 0601360015C | 01-SEP-2000 | 00-09-691P | 06
09 | CA | LONG BEACH, CITY OF | 0601360025C | 01-SEP-2000 | 00-09-691P | 06
09 | CA | LOS ANGELES COUNTY | 0650430940C | 01-SEP-2000 | 00-09-691P | 06
09 | CA | LOS ANGELES COUNTY | 0650430945C | 01-SEP-2000 | 00-09-691P | 06
09 | CA | LOS ANGELES COUNTY | 0650431030D | 01-SEP-2000 | 00-09-691P | 06
09 | CA | LOS ANGELES COUNTY | 0650431035D | 01-SEP-2000 | 00-09-691P | 06
09 | CA | LOS ANGELES, CITY OF | 0601370071C | 27-SEP-2000 | 00-09-1085A | 02
09 | CA | LOS ANGELES, CITY OF | 0601370071D | 04-OCT-2000 | 00-09-1103A | 02
09 | CA | LOS ANGELES, CITY OF | 0601370071C | 30-OCT-2000 | 01-09-030A | 02
09 | CA | LOS ANGELES, CITY OF | 0601370071C | 01-DEC-2000 | 01-09-071A | 02
09 | CA | LOS ANGELES, CITY OF | 0601370071C | 12-DEC-2000 | 01-09-150A | 02
09 | CA | LYNWOOD, CITY OF | 0606350001C | 01-SEP-2000 | 00-09-691P | 06
09 | CA | LYNWOOD, CITY OF | 0606350002C | 01-SEP-2000 | 00-09-691P | 06
09 | CA | MARIN COUNTY | 0601730257A | 05-JUL-2000 | 00-09-432A | 02
09 | CA | MENDOCINO COUNTY | 0601830694B | 16-OCT-2000 | 00-09-1026A | 02
09 | CA | MENDOCINO COUNTY | 0601830803B | 21-AUG-2000 | 00-09-219P | 05
09 | CA | MENDOCINO COUNTY | 0601830811B | 21-AUG-2000 | 00-09-219P | 05
09 | CA | MENDOCINO COUNTY | 0601830587C | 29-DEC-2000 | 01-09-065A | 02
09 | CA | MENLO PARK, CITY OF | 0603210007D | 29-NOV-2000 | 01-09-128A | 02
09 | CA | MERCED COUNTY | 06047C0440E | 20-DEC-2000 | 01-09-175A | 01
09 | CA | MERCED, CITY OF | 06047C0430E | 05-JUL-2000 | 00-09-203A | 02
09 | CA | MILPITAS, CITY OF | 0603440003G | 04-OCT-2000 | 00-09-1102A | 02
09 | CA | MILPITAS, CITY OF | 0603440003G | 17-JUL-2000 | 00-09-733A | 01
09 | CA | MILPITAS, CITY OF | 0603440003G | 27-NOV-2000 | 00-09-944P | 05
09 | CA | MILPITAS, CITY OF | 0603440004F | 27-NOV-2000 | 00-09-944P | 05
09 | CA | MILPITAS, CITY OF | 0603440001G | 12-DEC-2000 | 01-09-105A | 02
09 | CA | MILPITAS, CITY OF | 0603440003G | 18-DEC-2000 | 01-09-158A | 01
09 | CA | MONTEBELLO, CITY OF | 0601410001C | 01-SEP-2000 | 00-09-691P | 06
09 | CA | MONTEBELLO, CITY OF | 0601410002C | 01-SEP-2000 | 00-09-691P | 06
09 | CA | MONTEREY COUNTY | 0601950062E | 16-OCT-2000 | 00-09-1096A | 02
09 | CA | MONTEREY COUNTY | 0601950055F | 27-DEC-2000 | 01-09-015A | 02
09 | CA | MORENO VALLEY, CITY OF | 0650740010B | 31-AUG-2000 | 00-09-493P | 05
09 | CA | NAPA COUNTY | 0602050275A | 04-AUG-2000 | 00-09-257A | 17
09 | CA | NAPA COUNTY | 0602050345A | 27-DEC-2000 | 01-09-073A | 02
09 | CA | NAPA, CITY OF | 0602070005D | 11-AUG-2000 | 00-09-900A | 02
09 | CA | NAPA, CITY OF | 0602070005D | 11-AUG-2000 | 00-09-908A | 02
09 | CA | NAPA, CITY OF | 0602070005D | 01-DEC-2000 | 01-09-072A | 02
09 | CA | NAPA, CITY OF | 0602070005D | 20-DEC-2000 | 01-09-221A | 02
09 | CA | NEWARK, CITY OF | 0600090005F | 14-SEP-2000 | 00-09-1004A | 01
09 | CA | NORCO, CITY OF | 0602560003B | 18-SEP-2000 | 00-09-1007A | 01
09 | CA | NORCO, CITY OF | 0602560003B | 11-OCT-2000 | 00-09-1128A | 01
09 | CA | OAKLAND, CITY OF | 0650480020B | 26-JUL-2000 | 00-09-853A | 02
09 | CA | OAKLEY, CITY OF | 0600250355B | 18-DEC-2000 | 01-09-034A | 01
09 | CA | OCEANSIDE, CITY OF | 06073C0758F | 25-AUG-2000 | 00-09-282P | 05
09 | CA | OCEANSIDE, CITY OF | 06073C0759F | 25-AUG-2000 | 00-09-282P | 05
09 | CA | OCEANSIDE, CITY OF | 06073C0752F | 23-AUG-2000 | 00-09-508A | 02
09 | CA | OCEANSIDE, CITY OF | 06073C0734F | 29-NOV-2000 | 01-09-061A | 02
09 | CA | OCEANSIDE, CITY OF | 06073C0752F | 12-DEC-2000 | 01-09-090A | 02
09 | CA | ONTARIO, CITY OF | 06071C8616F | 14-SEP-2000 | 00-09-1024A | 02
09 | CA | ONTARIO, CITY OF | 06071C8620F | 14-SEP-2000 | 00-09-1024A | 02
09 | CA | ONTARIO, CITY OF | 06071C8616F | 28-JUL-2000 | 00-09-865A | 02
09 | CA | ORANGE COUNTY | 06059C0066E | 29-AUG-2000 | 00-09-741P | 06
09 | CA | ORANGE COUNTY | 06059C0072E | 29-AUG-2000 | 00-09-741P | 06
09 | CA | PALM SPRINGS, CITY OF | 0602570008C | 22-SEP-2000 | 00-09-802A | 02
09 | CA | PALO ALTO, CITY OF | 0603480003E | 18-SEP-2000 | 00-09-1038A | 02
09 | CA | PALO ALTO, CITY OF | 0603480003E | 26-JUL-2000 | 00-09-680A | 02
09 | CA | PALO ALTO, CITY OF | 0603480002E | 12-JUL-2000 | 00-09-804A | 02
09 | CA | PALO ALTO, CITY OF | 0603480002E | 06-SEP-2000 | 00-09-968A | 02
09 | CA | PALO ALTO, CITY OF | 0603480003E | 20-NOV-2000 | 01-09-031A | 02
09 | CA | PARAMOUNT, CITY OF | 0650490001C | 01-SEP-2000 | 00-09-691P | 06
09 | CA | PARAMOUNT, CITY OF | 0650490002C | 01-SEP-2000 | 00-09-691P | 06
09 | CA | PETALUMA, CITY OF | 0603790003C | 07-SEP-2000 | 99-09-220P | 05
09 | CA | PICO RIVERA, CITY OF | 0601480005A | 01-SEP-2000 | 00-09-691P | 06
09 | CA | PITTSBURG,CITY OF | 0600330002D | 11-OCT-2000 | 00-09-1097A | 01
09 | CA | PITTSBURG,CITY OF | 0600330001D | 02-AUG-2000 | 00-09-761A | 02
09 | CA | PLEASANT HILL, CITY OF | 0600340005B | 01-SEP-2000 | 00-09-888A | 02
09 | CA | PLEASANTON, CITY OF | 0600120001E | 28-JUL-2000 | 00-09-861A | 02
09 | CA | PLUMAS COUNTY | 060244B | 04-AUG-2000 | 00-09-747A | 02
09 | CA | PLUMAS COUNTY | 060244B | 11-OCT-2000 | 00-09-759A | 02
09 | CA | PLUMAS COUNTY | 060244B | 04-OCT-2000 | 00-09-791A | 02
09 | CA | PORTERVILLE, CITY OF | 0604070010D | 23-AUG-2000 | 00-09-924A | 01
09 | CA | RANCHO CUCAMONGA, CITY OF | 06071C7890F | 17-JUL-2000 | 00-09-269A | 01
09 | CA | RANCHO CUCAMONGA, CITY OF | 06071C8630F | 26-JUL-2000 | 00-09-409A | 02
09 | CA | RANCHO CUCAMONGA, CITY OF | 06071C7890F | 19-JUL-2000 | 00-09-704A | 02
09 | CA | RANCHO CUCAMONGA, CITY OF | 06071C7890F | 05-JUL-2000 | 00-09-742A | 01
09 | CA | RANCHO CUCAMONGA, CITY OF | 06071C7890F | 04-AUG-2000 | 00-09-773A | 02
09 | CA | RANCHO CUCAMONGA, CITY OF | 06071C7890F | 19-JUL-2000 | 00-09-795A | 02
09 | CA | RANCHO CUCAMONGA, CITY OF | 06071C7890F | 12-DEC-2000 | 01-09-176A | 02
09 | CA | RED BLUFF, CITY OF | 0650530002F | 18-OCT-2000 | 00-09-1107A | 02
09 | CA | RED BLUFF, CITY OF | 065053IND0 | 07-SEP-2000 | 00-09-869P | 06
09 | CA | REDDING, CITY OF | 0603600015C | 01-SEP-2000 | 00-09-840A | 02
09 | CA | REDDING, CITY OF | 0603600025D | 09-AUG-2000 | 00-09-890A | 02
09 | CA | REDLANDS, CITY OF | 06071C8716F | 30-AUG-2000 | 00-09-674A | 02
09 | CA | RIDGECREST, CITY OF | 0600810005B | 28-AUG-2000 | 00-09-595A | 01
09 | CA | SACRAMENTO COUNTY | 0602620185F | 16-OCT-2000 | 00-09-1048A | 17
09 | CA | SACRAMENTO COUNTY | 0602620345C | 06-OCT-2000 | 00-09-1119A | 02
09 | CA | SACRAMENTO COUNTY | 0602620315D | 02-AUG-2000 | 00-09-333P | 05
09 | CA | SACRAMENTO COUNTY | 0602620320E | 06-SEP-2000 | 00-09-544A | 01
09 | CA | SACRAMENTO COUNTY | 0602620315D | 28-JUL-2000 | 00-09-786A | 01
09 | CA | SACRAMENTO COUNTY | 0602620375C | 12-JUL-2000 | 00-09-788A | 02
09 | CA | SACRAMENTO COUNTY | 0602620090E | 30-AUG-2000 | 00-09-939A | 02
09 | CA | SACRAMENTO COUNTY | 0602620320E | 01-SEP-2000 | 00-09-940A | 01
09 | CA | SACRAMENTO COUNTY | 0602620315D | 23-AUG-2000 | 00-09-988A | 01
09 | CA | SACRAMENTO COUNTY | 0602620310F | 23-AUG-2000 | 99-09-951P | 05
09 | CA | SACRAMENTO COUNTY | 0602620320E | 23-AUG-2000 | 99-09-951P | 05
09 | CA | SACRAMENTO, CITY OF | 0602660010F | 11-OCT-2000 | 00-09-1063A | 02
09 | CA | SACRAMENTO, CITY OF | 0602660015F | 21-AUG-2000 | 00-09-426P | 05
09 | CA | SACRAMENTO, CITY OF | 0602660030F | 17-JUL-2000 | 00-09-824A | 01
09 | CA | SACRAMENTO, CITY OF | 0602660025F | 26-JUL-2000 | 00-09-844A | 02
09 | CA | SACRAMENTO, CITY OF | 0602660030F | 26-JUL-2000 | 00-09-846A | 02
09 | CA | SACRAMENTO, CITY OF | 0602660010F | 20-DEC-2000 | 00-09-848A | 01
09 | CA | SACRAMENTO, CITY OF | 0602660015F | 11-OCT-2000 | 00-09-896A | 02
09 | CA | SACRAMENTO, CITY OF | 0602660030F | 14-SEP-2000 | 00-09-966A | 01
09 | CA | SACRAMENTO, CITY OF | 0602660005F | 18-DEC-2000 | 01-09-060A | 02
09 | CA | SALINAS, CITY OF | 0602020002D | 28-AUG-2000 | 00-09-934A | 01
09 | CA | SAN BENITO COUNTY | 06069C0050C | 06-OCT-2000 | 00-09-1059A | 02
09 | CA | SAN BENITO COUNTY | 06069C0085C | 06-OCT-2000 | 00-09-1059A | 02
09 | CA | SAN BERNARDINO COUNTY | 06071C8745F | 30-AUG-2000 | 00-09-1001A | 02
09 | CA | SAN BUENAVENTURA, CITY OF | 0604190010C | 04-OCT-2000 | 00-09-1049A | 01
09 | CA | SAN BUENAVENTURA, CITY OF | 0604190010C | 06-SEP-2000 | 00-09-941A | 01
09 | CA | SAN DIEGO COUNTY | 06073C1666F | 02-OCT-2000 | 00-09-1019A | 02
09 | CA | SAN DIEGO COUNTY | 06073C0493F | 27-SEP-2000 | 00-09-1074A | 02
09 | CA | SAN DIEGO COUNTY | 06073C1700F | 11-OCT-2000 | 00-09-1086A | 02
09 | CA | SAN DIEGO COUNTY | 06073C0525F | 12-JUL-2000 | 00-09-778A | 02
09 | CA | SAN DIEGO, CITY OF | 06073C1594F | 30-OCT-2000 | 00-09-1031A | 02
09 | CA | SAN DIEGO, CITY OF | 06073C1613F | 30-OCT-2000 | 00-09-1031A | 02
09 | CA | SAN DIEGO, CITY OF | 06073C1594F | 30-OCT-2000 | 00-09-1078A | 02
09 | CA | SAN DIEGO, CITY OF | 06073C1594F | 13-NOV-2000 | 01-09-011A | 02
09 | CA | SAN DIEGO, CITY OF | 06073C1613F | 01-DEC-2000 | 01-09-052A | 02
09 | CA | SAN DIEGO, CITY OF | 06073C1594F | 01-DEC-2000 | 01-09-103A | 02
09 | CA | SAN DIEGO, CITY OF | 06073C1613F | 01-DEC-2000 | 01-09-103A | 02
09 | CA | SAN DIEGO, CITY OF | 06073C1363F | 29-NOV-2000 | 01-09-138A | 02
09 | CA | SAN DIEGO, CITY OF | 06073C1613F | 18-DEC-2000 | 01-09-182A | 02
09 | CA | SAN JOSE, CITY OF | 0603490020F | 14-SEP-2000 | 00-09-1013A | 02
09 | CA | SAN JOSE, CITY OF | 0603490037D | 14-SEP-2000 | 00-09-1032A | 02
09 | CA | SAN JOSE, CITY OF | 0603490037D | 20-SEP-2000 | 00-09-1069A | 02
09 | CA | SAN JOSE, CITY OF | 0603490014E | 27-SEP-2000 | 00-09-1090A | 02
09 | CA | SAN JOSE, CITY OF | 0603490020F | 02-OCT-2000 | 00-09-1110A | 02
09 | CA | SAN JOSE, CITY OF | 0603490025D | 11-OCT-2000 | 00-09-1129A | 02
09 | CA | SAN JOSE, CITY OF | 0603490013E | 20-SEP-2000 | 00-09-729A | 01
09 | CA | SAN JOSE, CITY OF | 0603490009G | 10-JUL-2000 | 00-09-763A | 02
09 | CA | SAN JOSE, CITY OF | 0603490037D | 06-SEP-2000 | 00-09-827A | 02
09 | CA | SAN JOSE, CITY OF | 0603490014E | 26-JUL-2000 | 00-09-829A | 02
09 | CA | SAN JOSE, CITY OF | 0603490009G | 24-JUL-2000 | 00-09-860A | 02
09 | CA | SAN JOSE, CITY OF | 0603490037D | 11-AUG-2000 | 00-09-916A | 02
09 | CA | SAN JOSE, CITY OF | 0603490009G | 11-OCT-2000 | 00-09-918A | 02
09 | CA | SAN JOSE, CITY OF | 0603490026D | 16-AUG-2000 | 00-09-925A | 02
09 | CA | SAN JOSE, CITY OF | 0603490037D | 28-AUG-2000 | 00-09-928A | 02
09 | CA | SAN JOSE, CITY OF | 0603490037D | 30-AUG-2000 | 00-09-936A | 02
09 | CA | SAN JOSE, CITY OF | 0603490020F | 11-SEP-2000 | 00-09-959A | 01
09 | CA | SAN JOSE, CITY OF | 0603490037D | 28-AUG-2000 | 00-09-963A | 02
09 | CA | SAN JOSE, CITY OF | 0603370255E | 14-SEP-2000 | 00-09-982A | 01
09 | CA | SAN JOSE, CITY OF | 0603490009G | 14-SEP-2000 | 00-09-984A | 02
09 | CA | SAN JOSE, CITY OF | 0603490047E | 14-SEP-2000 | 00-09-993A | 02
09 | CA | SAN JOSE, CITY OF | 0603490020F | 01-DEC-2000 | 01-09-047A | 02
09 | CA | SAN JOSE, CITY OF | 0603490010E | 20-NOV-2000 | 01-09-050A | 02
09 | CA | SAN JOSE, CITY OF | 0603490026D | 01-DEC-2000 | 01-09-059A | 02
09 | CA | SAN JOSE, CITY OF | 0603490020F | 18-DEC-2000 | 01-09-063A | 01
09 | CA | SAN JOSE, CITY OF | 0603490037D | 29-NOV-2000 | 01-09-076A | 02
09 | CA | SAN JOSE, CITY OF | 0603490255E | 20-NOV-2000 | 01-09-084A | 01
09 | CA | SAN JOSE, CITY OF | 0603490014E | 01-DEC-2000 | 01-09-089A | 02
09 | CA | SAN JOSE, CITY OF | 0603490037D | 29-NOV-2000 | 01-09-113A | 02
09 | CA | SAN JOSE, CITY OF | 0603490014E | 18-DEC-2000 | 01-09-118A | 02
09 | CA | SAN JOSE, CITY OF | 0603490255E | 01-DEC-2000 | 01-09-162A | 01
09 | CA | SAN JOSE, CITY OF | 0603490020F | 18-DEC-2000 | 01-09-167A | 02
09 | CA | SAN JOSE, CITY OF | 0603490020F | 20-DEC-2000 | 01-09-225A | 02
09 | CA | SAN JOSE, CITY OF | 0603490026D | 20-DEC-2000 | 01-09-226A | 02
09 | CA | SAN LEANDRO, CITY OF | 0600130003C | 20-NOV-2000 | 01-09-016A | 01
09 | CA | SAN LUIS OBISPO COUNTY | 0603040625C | 04-OCT-2000 | 00-09-1112A | 02
09 | CA | SAN LUIS OBISPO COUNTY | 0603040592C | 13-NOV-2000 | 00-09-247A | 01
09 | CA | SAN LUIS OBISPO COUNTY | 0603040351B | 04-OCT-2000 | 00-09-978A | 02
09 | CA | SAN RAFAEL, CITY OF | 0650580015B | 27-SEP-2000 | 00-09-1060A | 02
09 | CA | SAN RAFAEL, CITY OF | 0650580015B | 20-DEC-2000 | 01-09-169A | 02
09 | CA | SANTA BARBARA COUNTY | 0603310730C | 04-AUG-2000 | 00-09-821A | 17
09 | CA | SANTA BARBARA, CITY OF | 0603350004D | 18-SEP-2000 | 00-09-1034A | 02
09 | CA | SANTA BARBARA, CITY OF | 0603350005D | 20-OCT-2000 | 00-09-1089A | 02
09 | CA | SANTA BARBARA, CITY OF | 0603350004D | 24-JUL-2000 | 00-09-822A | 02
09 | CA | SANTA BARBARA, CITY OF | 0603350004D | 28-AUG-2000 | 00-09-949A | 02
09 | CA | SANTA BARBARA, CITY OF | 0603350004D | 20-NOV-2000 | 01-09-012A | 02
09 | CA | SANTA CLARA COUNTY | 060337IND0 | 30-AUG-2000 | 00-09-805P | 06
09 | CA | SANTA CLARA COUNTY | 0603370645E | 12-JUL-2000 | 00-09-842A | 02
09 | CA | SANTA CLARA, CITY OF | 0603500003D | 14-SEP-2000 | 00-09-798A | 01
09 | CA | SANTA CLARA, CITY OF | 0603500005D | 20-SEP-2000 | 00-09-810A | 02
09 | CA | SANTA CLARA, CITY OF | 0603500001D | 28-JUL-2000 | 00-09-868A | 02
09 | CA | SANTA CLARA, CITY OF | 0603500001D | 09-AUG-2000 | 00-09-889A | 02
09 | CA | SANTA CLARA, CITY OF | 0603500003D | 13-NOV-2000 | 01-09-040A | 02
09 | CA | SANTA CLARA, CITY OF | 0603500003D | 01-DEC-2000 | 01-09-064A | 01
09 | CA | SANTA CLARA, CITY OF | 0603500003D | 12-DEC-2000 | 01-09-152A | 01
09 | CA | SANTA CLARITA, CITY OF | 0607290460C | 24-OCT-2000 | 00-09-851P | 06
09 | CA | SANTA CLARITA, CITY OF | 0607290480C | 24-OCT-2000 | 00-09-851P | 06
09 | CA | SANTA CRUZ COUNTY | 0603530360B | 12-DEC-2000 | 01-09-045A | 02
09 | CA | SANTA CRUZ, CITY OF | 0603550004C | 11-AUG-2000 | 00-09-820A | 02
09 | CA | SHASTA COUNTY | 0603580405B | 18-SEP-2000 | 00-09-1035A | 02
09 | CA | SHASTA COUNTY | 0603580050B | 20-DEC-2000 | 01-09-203A | 02
09 | CA | SHASTA LAKE, CITY OF | 0607580005A | 12-JUL-2000 | 00-09-562A | 02
09 | CA | SIMI VALLEY, CITY OF | 0604210006B | 04-OCT-2000 | 00-09-073A | 01
09 | CA | SIMI VALLEY, CITY OF | 0604210002B | 20-SEP-2000 | 00-09-1016A | 01
09 | CA | SIMI VALLEY, CITY OF | 0604210004B | 20-SEP-2000 | 00-09-1016A | 01
09 | CA | SIMI VALLEY, CITY OF | 0604210002B | 02-OCT-2000 | 00-09-1080A | 02
09 | CA | SIMI VALLEY, CITY OF | 0604210007B | 06-OCT-2000 | 00-09-1123A | 02
09 | CA | SIMI VALLEY, CITY OF | 0604210006B | 05-JUL-2000 | 00-09-806A | 02
09 | CA | SIMI VALLEY, CITY OF | 0604210002B | 04-AUG-2000 | 00-09-859A | 02
09 | CA | SIMI VALLEY, CITY OF | 0604210004B | 11-AUG-2000 | 00-09-875A | 02
09 | CA | SIMI VALLEY, CITY OF | 0604210002B | 13-NOV-2000 | 01-09-005A | 01
09 | CA | SIMI VALLEY, CITY OF | 0604210002B | 13-NOV-2000 | 01-09-013A | 01
09 | CA | SIMI VALLEY, CITY OF | 0604210006B | 01-DEC-2000 | 01-09-053A | 02
09 | CA | SIMI VALLEY, CITY OF | 0604210006B | 20-NOV-2000 | 01-09-091A | 02
09 | CA | SIMI VALLEY, CITY OF | 0604210004B | 12-DEC-2000 | 01-09-115A | 02
09 | CA | SISKIYOU COUNTY | 0603620850B | 13-NOV-2000 | 00-09-1061A | 02
09 | CA | SONOMA COUNTY | 0603750915C | 27-SEP-2000 | 00-09-1087A | 02
09 | CA | SONOMA COUNTY | 0603750890B | 07-SEP-2000 | 99-09-220P | 05
09 | CA | SONOMA COUNTY | 0603750980B | 07-SEP-2000 | 99-09-220P | 05
09 | CA | SOUTH GATE, CITY OF | 0601630005A | 01-SEP-2000 | 00-09-691P | 06
09 | CA | SOUTH SAN FRANCISCO, CITY OF | 0650620001B | 27-SEP-2000 | 00-09-1067A | 01
09 | CA | SOUTH SAN FRANCISCO, CITY OF | 0650620007B | 27-SEP-2000 | 00-09-1067A | 01
09 | CA | STANISLAUS COUNTY | 0603840895B | 18-DEC-2000 | 01-09-146A | 01
09 | CA | SUNNYVALE, CITY OF | 0603520001D | 30-AUG-2000 | 00-09-1003A | 02
09 | CA | SUNNYVALE, CITY OF | 0603520001D | 26-JUL-2000 | 00-09-867A | 02
09 | CA | SUNNYVALE, CITY OF | 0603520001D | 09-AUG-2000 | 00-09-891A | 02
09 | CA | SUNNYVALE, CITY OF | 0603520001D | 20-DEC-2000 | 01-09-216A | 02
09 | CA | TEHAMA COUNTY | 0650640290D | 01-DEC-2000 | 01-09-004A | 02
09 | CA | TEHAMA COUNTY | 0650640290D | 20-NOV-2000 | 01-09-009A | 02
09 | CA | THOUSAND OAKS, CITY OF | 0604220015B | 10-JUL-2000 | 00-09-546A | 01
09 | CA | THOUSAND OAKS, CITY OF | 0601430940B | 31-AUG-2000 | 00-09-738P | 06
09 | CA | THOUSAND OAKS, CITY OF | 0604220015B | 18-DEC-2000 | 01-09-062A | 02
09 | CA | THOUSAND OAKS, CITY OF | 0604130940B | 12-DEC-2000 | 01-09-098P | 06
09 | CA | THOUSAND OAKS, CITY OF | 0604220020A | 12-DEC-2000 | 01-09-168A | 02
09 | CA | TULARE COUNTY | 0650661210B | 13-NOV-2000 | 00-09-1040A | 01
09 | CA | TULARE COUNTY | 0650660825B | 06-OCT-2000 | 00-09-743A | 01
09 | CA | TULARE COUNTY | 0650661025B | 25-OCT-2000 | 00-09-809A | 01
09 | CA | TULARE COUNTY | 0650660865B | 11-SEP-2000 | 00-09-902A | 02
09 | CA | TULARE COUNTY | 0650660805B | 18-DEC-2000 | 01-09-044A | 01
09 | CA | TULARE COUNTY | 0650660825B | 18-DEC-2000 | 01-09-044A | 01
09 | CA | TULARE COUNTY | 0650661045B | 01-DEC-2000 | 01-09-086A | 02
09 | CA | UKIAH, CITY OF | 0601860002D | 14-NOV-2000 | 00-09-382P | 05
09 | CA | UNION CITY, CITY OF | 0600140010C | 04-OCT-2000 | 00-09-1047A | 01
09 | CA | UNION CITY, CITY OF | 0600140010C | 13-NOV-2000 | 00-09-1120A | 02
09 | CA | UNION CITY, CITY OF | 0650280004B | 26-JUL-2000 | 00-09-837A | 01
09 | CA | UNION CITY, CITY OF | 0600140010C | 20-NOV-2000 | 01-09-029A | 01
09 | CA | UNION CITY, CITY OF | 0600140010C | 12-DEC-2000 | 01-09-033A | 01
09 | CA | VALLEJO, CITY OF | 0603740005C | 20-DEC-2000 | 00-09-847A | 01
09 | CA | VALLEJO, CITY OF | 0603740005C | 20-DEC-2000 | 01-09-199A | 01
09 | CA | VENTURA COUNTY | 0604130940B | 04-OCT-2000 | 00-09-1094A | 02
09 | CA | VENTURA COUNTY | 0604130940B | 28-JUL-2000 | 00-09-855A | 02
09 | CA | VISALIA, CITY OF | 0604090005D | 28-JUL-2000 | 00-09-826A | 01
09 | CA | VISALIA, CITY OF | 0604090010C | 18-DEC-2000 | 01-09-149A | 01
09 | CA | VISALIA, CITY OF | 0604090005D | 20-DEC-2000 | 01-09-232A | 01
09 | CA | VISTA, CITY OF | 06073C0778F | 27-SEP-2000 | 00-09-1100A | 02
09 | CA | WALNUT CREEK, CITY OF | 0650700001C | 06-NOV-2000 | 00-09-972A | 02
09 | CA | WILLITS,CITY OF | 0601870001C | 29-DEC-2000 | 01-09-065A | 02
09 | CA | WINDSOR, TOWN OF | 0603750545B | 29-NOV-2000 | 00-09-1091A | 01
09 | GU | GUAM, TERRITORY OF | 6600010100B | 06-NOV-2000 | 00-09-749A | 02
09 | HI | HAWAII COUNTY | 1551660926E | 19-SEP-2000 | 00-09-124P | 05
09 | HI | HAWAII COUNTY | 1551660927D | 19-SEP-2000 | 00-09-124P | 05
09 | HI | HAWAII COUNTY | 1551660870C | 10-JUL-2000 | 00-09-699A | 02
09 | HI | HAWAII COUNTY | 1551660466C | 27-JUL-2000 | 00-09-734P | 06
09 | HI | HAWAII COUNTY | 1551660880C | 15-AUG-2000 | 99-09-680P | 05
09 | NV | CARSON CITY, CITY OF | 3200010125D | 23-AUG-2000 | 00-09-892A | 02
09 | NV | CARSON CITY, CITY OF | 3200010130D | 29-DEC-2000 | 01-09-154A | 02
09 | NV | CLARK COUNTY | 32003C2545D | 20-JUL-2000 | 00-09-592P | 06
09 | NV | CLARK COUNTY | 32003C2580D | 18-SEP-2000 | 00-09-633A | 01
09 | NV | CLARK COUNTY | 32003C2556D | 29-AUG-2000 | 00-09-746P | 05
09 | NV | CLARK COUNTY | 32003C2553D | 19-OCT-2000 | 00-09-800P | 06
09 | NV | CLARK COUNTY | 32003C2585D | 06-NOV-2000 | 00-09-998A | 01
09 | NV | CLARK COUNTY | 32003C2585D | 18-DEC-2000 | 01-09-067A | 01
09 | NV | DOUGLAS COUNTY | 32005C0265F | 06-NOV-2000 | 00-09-845A | 01
09 | NV | DOUGLAS COUNTY | 32005C0210F | 20-NOV-2000 | 00-09-945A | 02
09 | NV | ELKO, CITY OF | 3200100002C | 21-JUL-2000 | 99-09-1168P | 05
09 | NV | HENDERSON, CITY OF | 32003C2595D | 20-DEC-2000 | 00-09-1122P | 06
09 | NV | HENDERSON, CITY OF | 32003C2595D | 18-AUG-2000 | 00-09-661A | 01
09 | NV | HENDERSON, CITY OF | 32003C2595D | 29-AUG-2000 | 00-09-794P | 06
09 | NV | HENDERSON, CITY OF | 32003C2590D | 28-JUL-2000 | 00-09-856A | 02
09 | NV | HENDERSON, CITY OF | 32003C2590D | 03-OCT-2000 | 00-09-881P | 06
09 | NV | HENDERSON, CITY OF | 32003C2930D | 03-OCT-2000 | 00-09-881P | 06
09 | NV | HENDERSON, CITY OF | 32003C2595D | 28-NOV-2000 | 00-09-897P | 06
09 | NV | HENDERSON, CITY OF | 32003C2595D | 07-AUG-2000 | 97-09-1130P | 06
09 | NV | NORTH LAS VEGAS, CITY OF | 32003C2180D | 18-DEC-2000 | 00-09-797A | 01
09 | NV | NORTH LAS VEGAS, CITY OF | 32003C2160D | 11-AUG-2000 | 00-09-877A | 01
09 | NV | NYE COUNTY | 3200184435C | 28-JUL-2000 | 00-09-559A | 02
09 | NV | NYE COUNTY | 3200184435C | 28-AUG-2000 | 00-09-999A | 02
09 | NV | RENO, CITY OF | 32031C3176E | 18-DEC-2000 | 00-09-1015A | 01
09 | NV | WASHOE COUNTY | 32031C2800E | 01-AUG-2000 | 00-09-598P | 06
09 | NV | WASHOE COUNTY | 32031C2840E | 14-SEP-2000 | 00-09-843A | 02
09 | NV | WASHOE COUNTY | 32031C2800E | 28-AUG-2000 | 00-09-987P | 06
10 | AK | ANCHORAGE, MUNICIPALITY OF | 0200050230B | 02-AUG-2000 | 00-10-383A | 02
10 | AK | ANCHORAGE, MUNICIPALITY OF | 0200050105B | 11-OCT-2000 | 00-10-506A | 02
10 | AK | ANCHORAGE, MUNICIPALITY OF | 0200050241C | 14-DEC-2000 | 00-10-507P | 06
10 | AK | ANCHORAGE, MUNICIPALITY OF | 0200050230B | 29-NOV-2000 | 01-10-037A | 02
10 | AK | ANCHORAGE, MUNICIPALITY OF | 0200050005C | 27-DEC-2000 | 01-10-106A | 02
10 | AK | JUNEAU, CITY AND BOROUGH OF | 0200090880C | 29-NOV-2000 | 01-10-005A | 02
10 | ID | ABERDEEN, CITY OF | 1601580001A | 12-DEC-2000 | 01-10-030A | 02
10 | ID | ADA COUNTY | 16001C0130G | 02-AUG-2000 | 00-10-395A | 02
10 | ID | ADA COUNTY | 16001C0130G | 20-NOV-2000 | 00-10-414A | 02
10 | ID | BLAINE COUNTY | 1651670859B | 01-NOV-2000 | 00-10-297A | 02
10 | ID | BOISE COUNTY | 16015C0417B | 28-JUL-2000 | 00-10-152P | 05
10 | ID | BOISE COUNTY | 16015C0418B | 28-JUL-2000 | 00-10-152P | 05
10 | ID | BOISE COUNTY | 16015C0419B | 28-JUL-2000 | 00-10-152P | 05
10 | ID | BONNER COUNTY | 1602060210B | 18-OCT-2000 | 00-10-496A | 02
10 | ID | BONNER COUNTY | 1602060360C | 22-DEC-2000 | 01-10-116A | 02
10 | ID | BONNER COUNTY | 1602060400C | 22-DEC-2000 | 01-10-117A | 02
10 | ID | CALDWELL, CITY OF | 1600360003C | 12-DEC-2000 | 01-10-008A | 01
10 | ID | CANYON COUNTY | 1602080212D | 12-DEC-2000 | 01-10-008A | 01
10 | ID | EAGLE, CITY OF | 16001C0161G | 02-AUG-2000 | 00-10-203A | 01
10 | ID | FREMONT COUNTY | 1600610075B | 30-OCT-2000 | 00-10-522A | 02
10 | ID | GARDEN CITY, CITY OF | 16001C0162G | 28-AUG-2000 | 00-10-311A | 01
10 | ID | GARDEN CITY, CITY OF | 16001C0166G | 28-AUG-2000 | 00-10-311A | 01
10 | ID | GARDEN CITY, CITY OF | 16001C0162G | 18-OCT-2000 | 00-10-381A | 01
10 | ID | GARDEN CITY, CITY OF | 16001C0166G | 18-OCT-2000 | 00-10-381A | 01
10 | ID | GARDEN CITY, CITY OF | 16001C0166G | 14-SEP-2000 | 00-10-409A | 01
10 | ID | GARDEN CITY, CITY OF | 16001C0166G | 28-AUG-2000 | 00-10-446A | 02
10 | ID | GARDEN CITY, CITY OF | 16001C0166G | 27-SEP-2000 | 00-10-493A | 01
10 | ID | GARDEN CITY, CITY OF | 16001C0169G | 27-SEP-2000 | 00-10-494A | 01
10 | ID | IDAHO CITY, CITY OF | 16015C0417B | 28-JUL-2000 | 00-10-152P | 05
10 | ID | IDAHO CITY, CITY OF | 16015C0419B | 28-JUL-2000 | 00-10-152P | 05
10 | ID | KETCHUM, CITY OF | 1600230442C | 14-SEP-2000 | 00-10-477A | 02
10 | ID | MADISON COUNTY | 16065C0010D | 27-NOV-2000 | 00-10-330P | 06
10 | ID | MADISON COUNTY | 16065C0020D | 27-NOV-2000 | 00-10-330P | 06
10 | ID | MADISON COUNTY | 16065C0030D | 27-NOV-2000 | 00-10-330P | 06
10 | ID | MADISON COUNTY | 16065C0040D | 27-NOV-2000 | 00-10-330P | 06
10 | ID | MERIDIAN, CITY OF | 16001C0144G | 26-JUL-2000 | 00-10-296A | 02
10 | ID | MERIDIAN, CITY OF | 16001C0232G | 19-JUL-2000 | 00-10-354A | 02
10 | ID | MERIDIAN, CITY OF | 16001C0143G | 05-JUL-2000 | 00-10-356A | 02
10 | ID | MERIDIAN, CITY OF | 16001C0232G | 12-DEC-2000 | 00-10-439A | 02
10 | ID | MERIDIAN, CITY OF | 16001C0143G | 13-NOV-2000 | 00-10-495A | 01
10 | ID | MERIDIAN, CITY OF | 16001C0144G | 12-DEC-2000 | 01-10-087A | 02
10 | ID | MERIDIAN, CITY OF | 16001C0144G | 22-DEC-2000 | 01-10-118A | 01
10 | ID | MIDDLETON, CITY OF | 1600370001E | 20-DEC-2000 | 01-10-058A | 01
10 | ID | MOSCOW, CITY OF | 1600860240C | 04-OCT-2000 | 00-10-500A | 02
10 | ID | NAMPA, CITY OF | 1600380004C | 11-OCT-2000 | 00-10-482A | 01
10 | ID | SUGAR CITY, CITY OF | 16065C0010D | 27-NOV-2000 | 00-10-330P | 06
10 | ID | SUGAR CITY, CITY OF | 16065C0020D | 27-NOV-2000 | 00-10-330P | 06
10 | ID | SUGAR CITY, CITY OF | 16065C0030D | 27-NOV-2000 | 00-10-330P | 06
10 | ID | SUGAR CITY, CITY OF | 16065C0040D | 27-NOV-2000 | 00-10-330P | 06
10 | ID | SWAN VALLEY, CITY OF | 1601540005B | 09-AUG-2000 | 00-10-410A | 01
10 | ID | TETON COUNTY | 16081C0093C | 02-AUG-2000 | 00-10-263P | 05
10 | ID | TETON COUNTY | 16081C0094C | 02-AUG-2000 | 00-10-263P | 05
10 | ID | TETON COUNTY | 16081C0130C | 02-AUG-2000 | 00-10-263P | 05
10 | ID | TETON COUNTY | 16081C0150C | 02-AUG-2000 | 00-10-263P | 05
10 | ID | VALLEY COUNTY | 1602200475A | 18-AUG-2000 | 00-10-363A | 02
10 | ID | VALLEY COUNTY | 1602200475A | 01-SEP-2000 | 00-10-392A | 02
10 | ID | VALLEY COUNTY | 1602200325A | 13-NOV-2000 | 01-10-006A | 02
10 | OR | ALBANY, CITY OF | 4101370003F | 30-AUG-2000 | 00-10-422A | 01
10 | OR | ALBANY, CITY OF | 4101370001F | 18-DEC-2000 | 01-10-074A | 02
10 | OR | BAKER COUNTY | 41001C0300C | 20-OCT-2000 | 00-10-513A | 02
10 | OR | BEND, CITY OF | 41017C0215C | 23-AUG-2000 | 00-10-316A | 02
10 | OR | BENTON COUNTY | 4100080175C | 20-SEP-2000 | 00-10-490A | 02
10 | OR | BENTON COUNTY | 4100080050C | 18-DEC-2000 | 01-10-061A | 02
10 | OR | CENTRAL POINT, CITY OF | 4100920001C | 19-JUL-2000 | 00-10-339A | 02
10 | OR | CLACKAMAS COUNTY | 4155880070B | 20-JUL-2000 | 00-10-401V | 19
10 | OR | CLACKAMAS COUNTY | 4155880145A | 30-AUG-2000 | 00-10-441A | 01
10 | OR | CLACKAMAS COUNTY | 4155880030A | 21-DEC-2000 | 00-10-462P | 05
10 | OR | CLACKAMAS COUNTY | 4155880020A | 20-NOV-2000 | 01-10-011A | 02
10 | OR | CLACKAMAS COUNTY | 4155880155A | 06-SEP-2000 | 99-10-590A | 01
10 | OR | CLACKAMAS COUNTY | 4155880155A | 06-SEP-2000 | 99-10-590A | 01
10 | OR | COLUMBIA COUNTY | 41009C0300C | 30-AUG-2000 | 00-10-438A | 02
10 | OR | COOS BAY, CITY OF | 4100440005B | 20-DEC-2000 | 01-10-062A | 01
10 | OR | COOS COUNTY | 4100420080B | 17-JUL-2000 | 00-10-362A | 02
10 | OR | COOS COUNTY | 4100420375B | 20-DEC-2000 | 00-10-514A | 02
10 | OR | CORVALLIS, CITY OF | 4100090002E | 22-DEC-2000 | 01-10-098A | 02
10 | OR | CRESWELL, CITY OF | 41039C1661F | 13-NOV-2000 | 01-10-009A | 02
10 | OR | CURRY COUNTY | 4100520310C | 30-AUG-2000 | 00-10-360A | 17
10 | OR | CURRY COUNTY | 4100520085C | 30-AUG-2000 | 00-10-445A | 02
10 | OR | DALLAS, CITY OF | 41053C0107D | 31-OCT-2000 | 00-10-351P | 06
10 | OR | DOUGLAS COUNTY | 4100590930A | 20-SEP-2000 | 00-10-291A | 01
10 | OR | DOUGLAS COUNTY | 4100590235A | 11-AUG-2000 | 00-10-404A | 02
10 | OR | EUGENE, CITY OF | 41039C1126F | 23-AUG-2000 | 00-10-272A | 01
10 | OR | EUGENE, CITY OF | 41039C1127F | 05-JUL-2000 | 00-10-285A | 02
10 | OR | EUGENE, CITY OF | 41039C1107F | 24-JUL-2000 | 00-10-322A | 02
10 | OR | EUGENE, CITY OF | 41039C1107F | 04-AUG-2000 | 00-10-366A | 01
10 | OR | EUGENE, CITY OF | 41039C1107F | 12-JUL-2000 | 00-10-367A | 02
10 | OR | EUGENE, CITY OF | 41039C1136F | 19-JUL-2000 | 00-10-377A | 02
10 | OR | EUGENE, CITY OF | 41039C1116F | 14-SEP-2000 | 00-10-393A | 01
10 | OR | EUGENE, CITY OF | 41039C1126F | 04-AUG-2000 | 00-10-397A | 02
10 | OR | EUGENE, CITY OF | 41039C1106F | 09-AUG-2000 | 00-10-413A | 02
10 | OR | EUGENE, CITY OF | 41039C1106F | 18-AUG-2000 | 00-10-421A | 02
10 | OR | EUGENE, CITY OF | 41039C1104F | 23-AUG-2000 | 00-10-430A | 02
10 | OR | EUGENE, CITY OF | 41039C1107F | 28-AUG-2000 | 00-10-435A | 02
10 | OR | EUGENE, CITY OF | 41039C1107F | 30-AUG-2000 | 00-10-452A | 02
10 | OR | EUGENE, CITY OF | 41039C1107F | 14-SEP-2000 | 00-10-454A | 02
10 | OR | EUGENE, CITY OF | 41039C1106F | 28-AUG-2000 | 00-10-457A | 02
10 | OR | EUGENE, CITY OF | 41039C1104F | 11-SEP-2000 | 00-10-480A | 02
10 | OR | EUGENE, CITY OF | 41039C1126F | 04-OCT-2000 | 00-10-498A | 02
10 | OR | EUGENE, CITY OF | 41039C1126F | 02-OCT-2000 | 00-10-509A | 02
10 | OR | EUGENE, CITY OF | 41039C1128F | 18-OCT-2000 | 00-10-515A | 02
10 | OR | EUGENE, CITY OF | 41039C1128F | 01-DEC-2000 | 01-10-023A | 02
10 | OR | EUGENE, CITY OF | 41039C1127F | 12-DEC-2000 | 01-10-057A | 02
10 | OR | EUGENE, CITY OF | 41039C1106F | 20-DEC-2000 | 01-10-090A | 02
10 | OR | EUGENE, CITY OF | 41039C1104F | 22-DEC-2000 | 01-10-094A | 02
10 | OR | EUGENE, CITY OF | 41039C1104F | 29-DEC-2000 | 01-10-135A | 02
10 | OR | FLORENCE, CITY OF | 41039C1427F | 24-JUL-2000 | 00-10-372A | 02
10 | OR | FLORENCE, CITY OF | 41039C1427F | 12-DEC-2000 | 01-10-056A | 02
10 | OR | GEARHART, CITY OF | 4100300001D | 20-NOV-2000 | 01-10-014A | 02
10 | OR | HILLSBORO, CITY OF | 4102430003B | 16-AUG-2000 | 00-10-419A | 02
10 | OR | JACKSON COUNTY | 4155890305B | 24-JUL-2000 | 00-10-290A | 02
10 | OR | JACKSON COUNTY | 4155890189B | 01-DEC-2000 | 00-10-512A | 02
10 | OR | JACKSON COUNTY | 4155890395B | 20-DEC-2000 | 01-10-102A | 02
10 | OR | JOSEPHINE COUNTY | 4155900138B | 19-JUL-2000 | 00-10-349A | 02
10 | OR | JOSEPHINE COUNTY | 4155900236D | 22-SEP-2000 | 00-10-471A | 02
10 | OR | KEIZER, CITY OF | 41047C0332G | 12-JUL-2000 | 00-10-333A | 02
10 | OR | KEIZER, CITY OF | 41047C0331G | 10-JUL-2000 | 00-10-357A | 02
10 | OR | KEIZER, CITY OF | 41047C0193G | 04-AUG-2000 | 00-10-394A | 02
10 | OR | KEIZER, CITY OF | 41047C0193G | 18-AUG-2000 | 00-10-424A | 02
10 | OR | KEIZER, CITY OF | 41047C0193G | 04-AUG-2000 | 00-10-426A | 02
10 | OR | KEIZER, CITY OF | 41047C0194G | 30-AUG-2000 | 00-10-442A | 02
10 | OR | KEIZER, CITY OF | 4102880005B | 01-SEP-2000 | 00-10-453A | 02
10 | OR | KEIZER, CITY OF | 41047C0193G | 22-SEP-2000 | 00-10-484V | 19
10 | OR | KEIZER, CITY OF | 41047C0194G | 22-SEP-2000 | 00-10-484V | 19
10 | OR | KEIZER, CITY OF | 41047C0331G | 22-SEP-2000 | 00-10-484V | 19
10 | OR | KEIZER, CITY OF | 41047C0332G | 22-SEP-2000 | 00-10-484V | 19
10 | OR | KEIZER, CITY OF | 41047C0194G | 18-SEP-2000 | 00-10-492A | 02
10 | OR | KEIZER, CITY OF | 41047C0193G | 12-DEC-2000 | 01-10-051A | 02
10 | OR | KEIZER, CITY OF | 41047C0194G | 12-DEC-2000 | 01-10-059A | 02
10 | OR | KEIZER, CITY OF | 41047C0331G | 18-DEC-2000 | 01-10-071A | 02
10 | OR | KEIZER, CITY OF | 41047C0331G | 29-DEC-2000 | 01-10-137A | 02
10 | OR | KLAMATH COUNTY | 4101090765B | 20-DEC-2000 | 01-10-082A | 02
10 | OR | LANE COUNTY | 41039C0790F | 23-AUG-2000 | 00-10-262A | 02
10 | OR | LANE COUNTY | 41039C0670F | 05-JUL-2000 | 00-10-352A | 02
10 | OR | LANE COUNTY | 41039C1153F | 16-OCT-2000 | 00-10-358A | 02
10 | OR | LANE COUNTY | 41039C0575F | 01-SEP-2000 | 00-10-373A | 02
10 | OR | LANE COUNTY | 41039C1106F | 02-AUG-2000 | 00-10-386A | 02
10 | OR | LANE COUNTY | 41039C0190F | 09-AUG-2000 | 00-10-408A | 02
10 | OR | LANE COUNTY | 41039C1660F | 23-AUG-2000 | 00-10-434A | 02
10 | OR | LANE COUNTY | 41039C1170F | 14-SEP-2000 | 00-10-472A | 02
10 | OR | LANE COUNTY | 41039C2375F | 22-SEP-2000 | 00-10-501A | 02
10 | OR | LANE COUNTY | 41039C2092F | 02-OCT-2000 | 00-10-504A | 02
10 | OR | LANE COUNTY | 41039C1660F | 18-OCT-2000 | 00-10-523A | 02
10 | OR | LANE COUNTY | 41039C1660F | 29-NOV-2000 | 01-10-064A | 02
10 | OR | LANE COUNTY | 41039C1185F | 20-DEC-2000 | 01-10-068A | 02
10 | OR | LINCOLN CITY, CITY OF | 4101300001C | 30-AUG-2000 | 00-10-458A | 02
10 | OR | LINCOLN COUNTY | 4101290200B | 19-JUL-2000 | 00-10-302A | 02
10 | OR | LINCOLN COUNTY | 4101290300B | 27-SEP-2000 | 00-10-487A | 02
10 | OR | LINCOLN COUNTY | 4101290300B | 18-DEC-2000 | 01-10-026A | 02
10 | OR | LINN COUNTY | 4101360380B | 30-AUG-2000 | 00-10-380A | 02
10 | OR | LINN COUNTY | 4101360190B | 30-AUG-2000 | 00-10-437A | 02
10 | OR | LINN COUNTY | 4101360205B | 12-DEC-2000 | 01-10-053A | 02
10 | OR | MADRAS, CITY OF | 4101030001C | 12-DEC-2000 | 01-10-048A | 02
10 | OR | MARION COUNTY | 41047C0050G | 01-NOV-2000 | 00-10-415A | 02
10 | OR | MARION COUNTY | 41047C0134G | 12-DEC-2000 | 01-10-007A | 02
10 | OR | MILWAUKIE, CITY OF | 4100190001B | 21-DEC-2000 | 00-10-462P | 05
10 | OR | MILWAUKIE, CITY OF | 4100190002B | 21-DEC-2000 | 00-10-462P | 05
10 | OR | MULTNOMAH COUNTY | 4101790379B | 21-DEC-2000 | 00-10-462P | 05
10 | OR | MULTNOMAH COUNTY | 4101790381B | 21-DEC-2000 | 00-10-462P | 05
10 | OR | MULTNOMAH COUNTY | 4101790382B | 21-DEC-2000 | 00-10-462P | 05
10 | OR | MULTNOMAH COUNTY | 4101790401B | 21-DEC-2000 | 00-10-462P | 05
10 | OR | NEWPORT, CITY OF | 4101310001C | 11-AUG-2000 | 00-10-271P | 05
10 | OR | POLK COUNTY | 41053C0075D | 04-AUG-2000 | 00-10-399A | 02
10 | OR | PORTLAND, CITY OF | 4101830010D | 20-DEC-2000 | 00-10-208A | 02
10 | OR | PORTLAND, CITY OF | 4101830047D | 21-DEC-2000 | 00-10-462P | 05
10 | OR | PORTLAND, CITY OF | 4101830048C | 21-DEC-2000 | 00-10-462P | 05
10 | OR | PORTLAND, CITY OF | 4101830049D | 21-DEC-2000 | 00-10-462P | 05
10 | OR | PORTLAND, CITY OF | 4101830051C | 21-DEC-2000 | 00-10-462P | 05
10 | OR | PORTLAND, CITY OF | 4101830052C | 21-DEC-2000 | 00-10-462P | 05
10 | OR | PORTLAND, CITY OF | 4101830035C | 06-NOV-2000 | 00-10-502A | 01
10 | OR | ROSEBURG, CITY OF | 4100670005E | 02-AUG-2000 | 00-10-390A | 02
10 | OR | ROSEBURG, CITY OF | 4100670005E | 11-OCT-2000 | 00-10-519A | 02
10 | OR | ROSEBURG, CITY OF | 4100670005E | 20-NOV-2000 | 01-10-003A | 02
10 | OR | ROSEBURG, CITY OF | 4100670005E | 12-DEC-2000 | 01-10-054A | 02
10 | OR | SALEM, CITY OF | 41047C0657G | 28-JUL-2000 | 00-10-375A | 02
10 | OR | SALEM, CITY OF | 41047C0657G | 23-AUG-2000 | 00-10-443A | 01
10 | OR | SALEM, CITY OF | 41047C0333G | 27-DEC-2000 | 01-10-131A | 02
10 | OR | SANDY, CITY OF | 4100230001C | 20-JUL-2000 | 00-10-402V | 19
10 | OR | TIGARD, CITY OF | 4102760002B | 24-JUL-2000 | 00-10-343A | 02
10 | OR | TIGARD, CITY OF | 4102760003B | 23-AUG-2000 | 00-10-427A | 02
10 | OR | TROUTDALE, CITY OF | 4101840005D | 19-JUL-2000 | 00-10-175A | 01
10 | OR | UMATILLA COUNTY | 4102040400B | 13-NOV-2000 | 00-10-485A | 02
10 | OR | WASHINGTON COUNTY | 4102380519B | 10-JUL-2000 | 00-10-361A | 02
10 | OR | WASHINGTON COUNTY | 4102380344B | 01-SEP-2000 | 00-10-407A | 01
10 | OR | WASHINGTON COUNTY | 4102380361B | 20-NOV-2000 | 01-10-004A | 02
10 | WA | ABERDEEN, CITY OF | 5300580004B | 01-DEC-2000 | 01-10-038A | 02
10 | WA | BURLINGTON, CITY OF | 5301510235D | 28-AUG-2000 | 00-10-436A | 02
10 | WA | CLARK COUNTY | 5300240375B | 11-SEP-2000 | 00-10-355A | 02
10 | WA | CLARK COUNTY | 5300240159C | 20-JUL-2000 | 00-10-400V | 19
10 | WA | CLARK COUNTY | 5300240187C | 20-JUL-2000 | 00-10-400V | 19
10 | WA | ELLENSBURG, CITY OF | 5302340002C | 20-SEP-2000 | 00-10-464A | 02
10 | WA | FERRY COUNTY | 5300410040C | 20-SEP-2000 | 00-10-461A | 02
10 | WA | FERRY COUNTY | 5300410125B | 20-SEP-2000 | 00-10-461A | 02
10 | WA | FORKS, TOWN OF | 5300220001B | 01-DEC-2000 | 01-10-033A | 02
10 | WA | GRAYS HARBOR COUNTY | 5300570290B | 20-DEC-2000 | 01-10-045A | 02
10 | WA | GRAYS HARBOR COUNTY | 5300570300B | 18-DEC-2000 | 01-10-078A | 02
10 | WA | HOQUIAM, CITY OF | 5300610005B | 20-DEC-2000 | 00-10-460A | 01
10 | WA | HOQUIAM, CITY OF | 5300610005B | 29-DEC-2000 | 01-10-136A | 02
10 | WA | INDEX, TOWN OF | 53061C1458E | 02-AUG-2000 | 00-10-398A | 02
10 | WA | ISSAQUAH, CITY OF | 53033C0687F | 01-SEP-2000 | 00-10-385P | 06
10 | WA | ISSAQUAH, CITY OF | 53033C0691G | 01-SEP-2000 | 00-10-385P | 06
10 | WA | KING COUNTY | 53033C0615F | 02-AUG-2000 | 00-10-379A | 02
10 | WA | KING COUNTY | 53033C0418F | 20-NOV-2000 | 00-10-396A | 17
10 | WA | KING COUNTY | 53033C0950F | 22-SEP-2000 | 00-10-481A | 02
10 | WA | KING COUNTY | 53033C1280F | 20-DEC-2000 | 01-10-085A | 02
10 | WA | KITSAP COUNTY | 5300920310B | 04-AUG-2000 | 00-10-403A | 02
10 | WA | KITSAP COUNTY | 5300920205B | 11-SEP-2000 | 00-10-428A | 02
10 | WA | KITSAP COUNTY | 5300920380B | 20-DEC-2000 | 01-10-019A | 02
10 | WA | LEWIS COUNTY | 5301020525B | 28-JUL-2000 | 00-10-294A | 02
10 | WA | LEWIS COUNTY | 5301020270B | 12-DEC-2000 | 00-10-359A | 02
10 | WA | LEWIS COUNTY | 5301020043B | 25-OCT-2000 | 00-10-416A | 01
10 | WA | MARYSVILLE, CITY OF | 5301680001B | 29-DEC-2000 | 01-10-084A | 02
10 | WA | MASON COUNTY | 5301150200C | 26-JUL-2000 | 00-10-368A | 02
10 | WA | MASON COUNTY | 5301150225C | 27-SEP-2000 | 00-10-467A | 02
10 | WA | MASON COUNTY | 5301150255C | 20-NOV-2000 | 01-10-002A | 02
10 | WA | OLYMPIA, CITY OF | 5301910003B | 20-DEC-2000 | 01-10-124A | 02
10 | WA | PEND OREILLE COUNTY | 530131B | 27-SEP-2000 | 00-10-469A | 02
10 | WA | PIERCE COUNTY | 5301380575C | 12-JUL-2000 | 00-10-190A | 02
10 | WA | PIERCE COUNTY | 5301380363C | 20-NOV-2000 | 01-10-017A | 02
10 | WA | PUYALLUP, CITY OF | 5301440005B | 11-OCT-2000 | 00-10-230A | 01
10 | WA | RENTON, CITY OF | 53033C0981F | 05-SEP-2000 | 00-10-387P | 06
10 | WA | SKAGIT COUNTY | 5301510275C | 04-AUG-2000 | 00-10-378A | 02
10 | WA | SKAGIT COUNTY | 5301510260C | 18-OCT-2000 | 00-10-455A | 02
10 | WA | SKAGIT COUNTY | 5301510275C | 20-SEP-2000 | 00-10-497A | 02
10 | WA | SKAGIT COUNTY | 5301510025C | 01-DEC-2000 | 01-10-018A | 02
10 | WA | SKAGIT COUNTY | 5301510250C | 29-NOV-2000 | 01-10-043A | 02
10 | WA | SKAGIT COUNTY | 5301510235D | 18-DEC-2000 | 01-10-069A | 02
10 | WA | SKAGIT COUNTY | 5301510255D | 22-DEC-2000 | 01-10-095A | 02
10 | WA | SKAGIT COUNTY | 5301510250C | 20-DEC-2000 | 01-10-127A | 02
10 | WA | SNOHOMISH COUNTY | 53061C0170E | 27-SEP-2000 | 00-10-470A | 02
10 | WA | SNOHOMISH COUNTY | 53061C1310E | 13-NOV-2000 | 00-10-488A | 02
10 | WA | SNOHOMISH COUNTY | 53061C1055E | 29-NOV-2000 | 01-10-022A | 02
10 | WA | SNOHOMISH COUNTY | 53061C1380E | 27-DEC-2000 | 01-10-035A | 17
10 | WA | SNOHOMISH COUNTY | 53061C1055E | 01-DEC-2000 | 01-10-039A | 02
10 | WA | SNOHOMISH COUNTY | 53061C1055E | 18-DEC-2000 | 01-10-088A | 02
10 | WA | SPOKANE COUNTY | 5301740294C | 24-JUL-2000 | 00-10-371A | 02
10 | WA | SPOKANE COUNTY | 5301740225B | 30-AUG-2000 | 00-10-423A | 02
10 | WA | SPOKANE COUNTY | 5301740401C | 14-SEP-2000 | 00-10-459A | 02
10 | WA | SPOKANE COUNTY | 5301740277B | 20-SEP-2000 | 00-10-475A | 02
10 | WA | SPOKANE COUNTY | 5301740294C | 18-SEP-2000 | 00-10-483A | 02
10 | WA | SPOKANE COUNTY | 5301740294C | 29-NOV-2000 | 01-10-021A | 02
10 | WA | SPOKANE COUNTY | 5301740294C | 01-DEC-2000 | 01-10-065A | 02
10 | WA | SPOKANE COUNTY | 5301740294C | 20-DEC-2000 | 01-10-103A | 02
10 | WA | STEVENS COUNTY | 5301850500B | 19-JUL-2000 | 00-10-374A | 02
10 | WA | SULTAN, CITY OF | 53061C1406E | 22-SEP-2000 | 00-10-489A | 02
10 | WA | TACOMA, CITY OF | 5301480025B | 16-AUG-2000 | 00-10-411A | 02
10 | WA | THURSTON COUNTY | 5301880435C | 12-JUL-2000 | 00-10-337A | 02
10 | WA | THURSTON COUNTY | 5301880445C | 29-NOV-2000 | 01-10-028A | 02
10 | WA | UNION GAP, CITY OF | 5302290003C | 15-DEC-2000 | 00-10-449P | 06
10 | WA | WAHKIAKUM COUNTY | 5301930065B | 29-NOV-2000 | 01-10-025A | 02
10 | WA | WESTPORT, CITY OF | 5300670005C | 12-DEC-2000 | 01-10-070A | 02
10 | WA | WHATCOM COUNTY | 530198B | 01-DEC-2000 | 01-10-020A | 02
10 | WA | WHATCOM COUNTY | 530198B | 20-DEC-2000 | 01-10-050A | 02
10 | WA | YAKIMA COUNTY | 5302171440B | 09-AUG-2000 | 00-10-405A | 02
10 | WA | YAKIMA COUNTY | 5302171042B | 15-DEC-2000 | 00-10-449P | 06

Region | State | Community | Panel | Panel date
01 | CONNECTICUT | MERIDEN, CITY OF | 0900810002C | 06-NOV-2000
01 | CONNECTICUT | MERIDEN, CITY OF | 0900810003C | 06-NOV-2000
01 | CONNECTICUT | MERIDEN, CITY OF | 0900810004C | 06-NOV-2000
01 | CONNECTICUT | MERIDEN, CITY OF | 0900810005C | 06-NOV-2000
01 | CONNECTICUT | MERIDEN, CITY OF | 0900810007C | 06-NOV-2000
01 | CONNECTICUT | MERIDEN, CITY OF | 090081IND0 | 06-NOV-2000
01 | CONNECTICUT | SHELTON, CITY OF | 0900140011C | 07-SEP-2000
01 | CONNECTICUT | SHELTON, CITY OF | 0900140012C | 07-SEP-2000
01 | CONNECTICUT | SHELTON, CITY OF | 0900140014C** | 07-SEP-2000
01 | CONNECTICUT | SHELTON, CITY OF | 090014IND0 | 07-SEP-2000
01 | CONNECTICUT | WALLINGFORD, TOWN OF | 0900900006D | 07-SEP-2000
01 | CONNECTICUT | WALLINGFORD, TOWN OF | 0900900008C | 07-SEP-2000
01 | CONNECTICUT | WALLINGFORD, TOWN OF | 0900900021C | 07-SEP-2000
01 | CONNECTICUT | WALLINGFORD, TOWN OF | 0900900023C | 07-SEP-2000
01 | CONNECTICUT | WALLINGFORD, TOWN OF | 090090IND0 | 07-SEP-2000
01 | MASSACHUSETTS | BRAINTREE, TOWN OF | 2502330001D | 20-DEC-2000
01 | MASSACHUSETTS | BRAINTREE, TOWN OF | 2502330002D | 20-DEC-2000
01 | MASSACHUSETTS | BRAINTREE, TOWN OF | 2502330003D | 20-DEC-2000
01 | MASSACHUSETTS | BRAINTREE, TOWN OF | 2502330004D | 20-DEC-2000
01 | MASSACHUSETTS | BRAINTREE, TOWN OF | 2502330005D | 20-DEC-2000
01 | MASSACHUSETTS | BRAINTREE, TOWN OF | 250233IND0 | 20-DEC-2000
01 | MASSACHUSETTS | EASTON, TOWN OF | 2500530010E | 09-AUG-2000
01 | MASSACHUSETTS | EASTON, TOWN OF | 250053IND0 | 09-AUG-2000
01 | MASSACHUSETTS | RANDOLPH, TOWN OF | 2502510001D | 09-AUG-2000
01 | MASSACHUSETTS | RANDOLPH, TOWN OF | 2502510002D | 09-AUG-2000
01 | MASSACHUSETTS | RANDOLPH, TOWN OF | 2502510003D | 09-AUG-2000
01 | MASSACHUSETTS | RANDOLPH, TOWN OF | 2502510004D | 09-AUG-2000
01 | MASSACHUSETTS | RANDOLPH, TOWN OF | 2502510005D | 09-AUG-2000
01 | MASSACHUSETTS | RANDOLPH, TOWN OF | 250251IND0 | 09-AUG-2000
01 | NEW HAMPSHIRE | BOW, TOWN OF | 3301070001D | 20-NOV-2000
01 | NEW HAMPSHIRE | BOW, TOWN OF | 3301070002D | 20-NOV-2000
01 | NEW HAMPSHIRE | BOW, TOWN OF | 3301070003D | 20-NOV-2000
01 | NEW HAMPSHIRE | BOW, TOWN OF | 330107IND0 | 20-NOV-2000
01 | VERMONT | JAY, TOWN OF | 5002530020B | 23-AUG-2000
02 | NEW JERSEY | BAY HEAD, BOROUGH OF | 3452810001E | 07-SEP-2000
02 | NEW JERSEY | MANTOLOKING, BOROUGH OF | 3403830001C | 20-DEC-2000
02 | NEW JERSEY | MORRIS PLAINS, BOROUGH OF | 34035IND0 | 05-JUL-2000
02 | NEW JERSEY | MORRIS PLAINS, BOROUGH OF | 340350001C | 05-JUL-2000
02 | NEW JERSEY | MORRIS PLAINS, BOROUGH OF | 340350002C | 05-JUL-2000
02 | NEW YORK | BRUNSWICK, TOWN OF | 36083C0003C | 06-DEC-2000
02 | NEW YORK | BRUNSWICK, TOWN OF | 36083C0005C | 06-DEC-2000
02 | NEW YORK | BRUNSWICK, TOWN OF | 36083CIND0 | 06-DEC-2000
02 | NEW YORK | COLD BROOK, VILLAGE OF | 3602980001C | 20-DEC-2000
02 | NEW YORK | FRANKFORT, TOWN OF | 3603030010D | 20-DEC-2000
02 | NEW YORK | FRANKFORT, TOWN OF | 3603030020D | 20-DEC-2000
02 | NEW YORK | FRANKFORT, TOWN OF | 360303IND0 | 20-DEC-2000
02 | NEW YORK | LLOYD, TOWN OF | 3610120003D | 05-JUL-2000
02 | NEW YORK | LLOYD, TOWN OF | 3610120005D** | 05-JUL-2000
02 | NEW YORK | LLOYD, TOWN OF | 3610120007D | 05-JUL-2000
02 | NEW YORK | LLOYD, TOWN OF | 3610120009D | 05-JUL-2000
02 | NEW YORK | LLOYD, TOWN OF | 3610120011D | 05-JUL-2000
02 | NEW YORK | LLOYD, TOWN OF | 3610120012D | 05-JUL-2000
02 | NEW YORK | LLOYD, TOWN OF | 3610120014D** | 05-JUL-2000
02 | NEW YORK | LLOYD, TOWN OF | 361012IND0 | 05-JUL-2000
02 | NEW YORK | PERU,TOWN OF | 3613840010B** | 06-OCT-2000
02 | NEW YORK | PERU,TOWN OF | 3613840015B** | 20-OCT-2000
02 | NEW YORK | PERU,TOWN OF | 3613840020B** | 20-OCT-2000
02 | NEW YORK | PERU,TOWN OF | 3613840025B** | 20-OCT-2000
02 | NEW YORK | PERU,TOWN OF | 3613840030B** | 20-OCT-2000
02 | NEW YORK | PERU,TOWN OF | 3613840031B** | 20-OCT-2000
02 | NEW YORK | PERU,TOWN OF | 3613840032B | 20-OCT-2000
02 | NEW YORK | PERU,TOWN OF | 3613840033B | 20-OCT-2000
02 | NEW YORK | PERU,TOWN OF | 3613840034B | 20-OCT-2000
02 | NEW YORK | PERU,TOWN OF | 3613840036B | 20-OCT-2000
02 | NEW YORK | PERU,TOWN OF | 3613840037B | 20-OCT-2000
02 | NEW YORK | PERU,TOWN OF | 3613840038B | 20-OCT-2000
02 | NEW YORK | PERU,TOWN OF | 3613840039B | 20-OCT-2000
02 | NEW YORK | PERU,TOWN OF | 3613840045B** | 20-OCT-2000
02 | NEW YORK | PERU,TOWN OF | 3613840055B** | 20-OCT-2000
02 | NEW YORK | PERU,TOWN OF | 3613840060B** | 20-OCT-2000
02 | NEW YORK | PERU,TOWN OF | 3613840065B** | 20-OCT-2000
02 | NEW YORK | PERU,TOWN OF | 3613840070B** | 20-OCT-2000
02 | NEW YORK | PERU,TOWN OF | 3613840075B | 20-OCT-2000
02 | NEW YORK | PERU,TOWN OF | 3613840080B** | 20-OCT-2000
02 | NEW YORK | PERU,TOWN OF | 361384IND0 | 20-OCT-2000
02 | NEW YORK | PROSPECT, VILLAGE OF | 3613560001C | 20-NOV-2000
02 | NEW YORK | WATSON, TOWN OF | 3603770010C | 19-JUL-2000
02 | NEW YORK | WATSON, TOWN OF | 3603770015C | 19-JUL-2000
02 | NEW YORK | WATSON, TOWN OF | 3603770020C | 19-JUL-2000
02 | NEW YORK | WATSON, TOWN OF | 3603770025C | 19-JUL-2000
02 | NEW YORK | WATSON, TOWN OF | 3603770030C | 19-JUL-2000
02 | NEW YORK | WATSON, TOWN OF | 3603770035C | 19-JUL-2000
02 | NEW YORK | WATSON, TOWN OF | 3603770040C | 19-JUL-2000
02 | NEW YORK | WATSON, TOWN OF | 360377IND1 | 19-JUL-2000
03 | DELAWARE | ARDEN, VILLAGE OF | 10003C0078G** | 06-OCT-2000
03 | DELAWARE | ARDEN, VILLAGE OF | 10003C0086G | 06-OCT-2000
03 | DELAWARE | ARDEN, VILLAGE OF | 10003CIND0 | 06-OCT-2000
03 | DELAWARE | ARDENCROFT, VILLAGE OF | 10003C0086G | 06-OCT-2000
03 | DELAWARE | ARDENCROFT, VILLAGE OF | 10003CIND0 | 06-OCT-2000
03 | DELAWARE | ARDENTOWN, VILLAGE OF | 10003C0078G** | 06-OCT-2000
03 | DELAWARE | ARDENTOWN, VILLAGE OF | 10003C0086G | 06-OCT-2000
03 | DELAWARE | ARDENTOWN, VILLAGE OF | 10003CIND0 | 06-OCT-2000
03 | DELAWARE | BELLEFONTE, TOWN OF | 10003C0069G | 06-OCT-2000
03 | DELAWARE | BELLEFONTE, TOWN OF | 10003C0088G | 06-OCT-2000
03 | DELAWARE | BELLEFONTE, TOWN OF | 10003CIND0 | 06-OCT-2000
03 | DELAWARE | DELAWARE CITY, CITY OF | 10003C0255G** | 06-OCT-2000
03 | DELAWARE | DELAWARE CITY, CITY OF | 10003C0265G** | 06-OCT-2000
03 | DELAWARE | DELAWARE CITY, CITY OF | 10003CIND0 | 06-OCT-2000
03 | DELAWARE | ELSMERE, TOWN OF | 10003C0151G | 06-OCT-2000
03 | DELAWARE | ELSMERE, TOWN OF | 10003C0152G | 06-OCT-2000
03 | DELAWARE | ELSMERE, TOWN OF | 10003CIND0 | 06-OCT-2000
03 | DELAWARE | LEWES, CITY OF | 10005C0195G | 20-DEC-2000
03 | DELAWARE | LEWES, CITY OF | 10005C0215G | 20-DEC-2000
03 | DELAWARE | LEWES, CITY OF | 10005CIND0 | 20-DEC-2000
03 | DELAWARE | MIDDLETOWN, TOWN OF | 10003C0305G | 06-OCT-2000
03 | DELAWARE | MIDDLETOWN, TOWN OF | 10003C0310G | 06-OCT-2000
03 | DELAWARE | MIDDLETOWN, TOWN OF | 10003C0315G | 06-OCT-2000
03 | DELAWARE | MIDDLETOWN, TOWN OF | 10003CIND0 | 06-OCT-2000
03 | DELAWARE | NEW CASTLE COUNTY * | 10003C0035G** | 06-OCT-2000
03 | DELAWARE | NEW CASTLE COUNTY * | 10003C0040G | 06-OCT-2000
03 | DELAWARE | NEW CASTLE COUNTY * | 10003C0045G** | 06-OCT-2000
03 | DELAWARE | NEW CASTLE COUNTY * | 10003C0055G** | 06-OCT-2000
03 | DELAWARE | NEW CASTLE COUNTY * | 10003C0059G** | 06-OCT-2000
03 | DELAWARE | NEW CASTLE COUNTY * | 10003C0060G** | 06-OCT-2000
03 | DELAWARE | NEW CASTLE COUNTY * | 10003C0065G | 06-OCT-2000
03 | DELAWARE | NEW CASTLE COUNTY * | 10003C0066G | 06-OCT-2000
03 | DELAWARE | NEW CASTLE COUNTY * | 10003C0067G | 06-OCT-2000
03 | DELAWARE | NEW CASTLE COUNTY * | 10003C0068G | 06-OCT-2000
03 | DELAWARE | NEW CASTLE COUNTY * | 10003C0069G | 06-OCT-2000
03 | DELAWARE | NEW CASTLE COUNTY * | 10003C0078G** | 06-OCT-2000
03 | DELAWARE | NEW CASTLE COUNTY * | 10003C0079G | 06-OCT-2000
03 | DELAWARE | NEW CASTLE COUNTY * | 10003C0086G | 06-OCT-2000
03 | DELAWARE | NEW CASTLE COUNTY * | 10003C0087G** | 06-OCT-2000
03 | DELAWARE | NEW CASTLE COUNTY * | 10003C0088G | 06-OCT-2000
03 | DELAWARE | NEW CASTLE COUNTY * | 10003C0095G | 06-OCT-2000
03 | DELAWARE | NEW CASTLE COUNTY * | 10003C0110H | 06-OCT-2000
03 | DELAWARE | NEW CASTLE COUNTY * | 10003C0120H** | 06-OCT-2000
03 | DELAWARE | NEW CASTLE COUNTY * | 10003C0130G | 06-OCT-2000
03 | DELAWARE | NEW CASTLE COUNTY * | 10003C0135G | 06-OCT-2000
03 | DELAWARE | NEW CASTLE COUNTY * | 10003C0140G | 06-OCT-2000
03 | DELAWARE | NEW CASTLE COUNTY * | 10003C0145G** | 06-OCT-2000
03 | DELAWARE | NEW CASTLE COUNTY * | 10003C0151G | 06-OCT-2000
03 | DELAWARE | NEW CASTLE COUNTY * | 10003C0152G | 06-OCT-2000
03 | DELAWARE | NEW CASTLE COUNTY * | 10003C0155G | 06-OCT-2000
03 | DELAWARE | NEW CASTLE COUNTY * | 10003C0160G | 06-OCT-2000
03 | DELAWARE | NEW CASTLE COUNTY * | 10003C0165G** | 06-OCT-2000
03 | DELAWARE | NEW CASTLE COUNTY * | 10003C0170G | 06-OCT-2000
03 | DELAWARE | NEW CASTLE COUNTY * | 10003C0180G** | 06-OCT-2000
03 | DELAWARE | NEW CASTLE COUNTY * | 10003C0225G** | 06-OCT-2000
03 | DELAWARE | NEW CASTLE COUNTY * | 10003C0230G | 06-OCT-2000
03 | DELAWARE | NEW CASTLE COUNTY * | 10003C0235G** | 06-OCT-2000
03 | DELAWARE | NEW CASTLE COUNTY * | 10003C0240G** | 06-OCT-2000
03 | DELAWARE | NEW CASTLE COUNTY * | 10003C0245G** | 06-OCT-2000
03 | DELAWARE | NEW CASTLE COUNTY * | 10003C0255G** | 06-OCT-2000
03 | DELAWARE | NEW CASTLE COUNTY * | 10003C0265G** | 06-OCT-2000
03 | DELAWARE | NEW CASTLE COUNTY * | 10003C0275G** | 06-OCT-2000
03 | DELAWARE | NEW CASTLE COUNTY * | 10003C0300G** | 06-OCT-2000
03 | DELAWARE | NEW CASTLE COUNTY * | 10003C0305G | 06-OCT-2000
03 | DELAWARE | NEW CASTLE COUNTY * | 10003C0310G | 06-OCT-2000
03 | DELAWARE | NEW CASTLE COUNTY * | 10003C0315G | 06-OCT-2000
03 | DELAWARE | NEW CASTLE COUNTY * | 10003C0320G | 06-OCT-2000
03 | DELAWARE | NEW CASTLE COUNTY * | 10003C0330G | 06-OCT-2000
03 | DELAWARE | NEW CASTLE COUNTY * | 10003C0340G | 06-OCT-2000
03 | DELAWARE | NEW CASTLE COUNTY * | 10003C0350G** | 06-OCT-2000
03 | DELAWARE | NEW CASTLE COUNTY * | 10003C0400G** | 06-OCT-2000
03 | DELAWARE | NEW CASTLE COUNTY * | 10003C0405G | 06-OCT-2000
03 | DELAWARE | NEW CASTLE COUNTY * | 10003C0410G | 06-OCT-2000
03 | DELAWARE | NEW CASTLE COUNTY * | 10003C0425G | 06-OCT-2000
03 | DELAWARE | NEW CASTLE COUNTY * | 10003C0430G | 06-OCT-2000
03 | DELAWARE | NEW CASTLE COUNTY * | 10003C0450G | 06-OCT-2000
03 | DELAWARE | NEW CASTLE COUNTY * | 10003CIND0 | 06-OCT-2000
03 | DELAWARE | NEW CASTLE, CITY OF | 10003C0160G | 06-OCT-2000
03 | DELAWARE | NEW CASTLE, CITY OF | 10003C0165G** | 06-OCT-2000
03 | DELAWARE | NEW CASTLE, CITY OF | 10003C0170G | 06-OCT-2000
03 | DELAWARE | NEW CASTLE, CITY OF | 10003CIND0 | 06-OCT-2000
03 | DELAWARE | NEWARK, CITY OF | 10003C0110H | 06-OCT-2000
03 | DELAWARE | NEWARK, CITY OF | 10003C0120H** | 06-OCT-2000
03 | DELAWARE | NEWARK, CITY OF | 10003C0130G | 06-OCT-2000
03 | DELAWARE | NEWARK, CITY OF | 10003C0140G | 06-OCT-2000
03 | DELAWARE | NEWARK, CITY OF | 10003CIND0 | 06-OCT-2000
03 | DELAWARE | NEWPORT, TOWN OF | 10003C0151G | 06-OCT-2000
03 | DELAWARE | NEWPORT, TOWN OF | 10003C0155G | 06-OCT-2000
03 | DELAWARE | NEWPORT, TOWN OF | 10003CIND0 | 06-OCT-2000
03 | DELAWARE | ODESSA, TOWN OF | 10003C0310G | 06-OCT-2000
03 | DELAWARE | ODESSA, TOWN OF | 10003CIND0 | 06-OCT-2000
03 | DELAWARE | REHOBOTH BEACH, CITY OF | 10005C0215G | 20-DEC-2000
03 | DELAWARE | REHOBOTH BEACH, CITY OF | 10005CIND0 | 20-DEC-2000
03 | DELAWARE | SUSSEX COUNTY* | 10005C0195G | 20-DEC-2000
03 | DELAWARE | SUSSEX COUNTY* | 10005C0215G | 20-DEC-2000
03 | DELAWARE | SUSSEX COUNTY* | 10005CIND0 | 20-DEC-2000
03 | DELAWARE | TOWNSEND, TOWN OF | 10003C0315G | 06-OCT-2000
03 | DELAWARE | TOWNSEND, TOWN OF | 10003CIND0 | 06-OCT-2000
03 | DELAWARE | WILMINGTON, CITY OF | 10003C0065G | 06-OCT-2000
03 | DELAWARE | WILMINGTON, CITY OF | 10003C0068G | 06-OCT-2000
03 | DELAWARE | WILMINGTON, CITY OF | 10003C0068G | 06-OCT-2000
03 | DELAWARE | WILMINGTON, CITY OF | 10003C0152G | 06-OCT-2000
03 | DELAWARE | WILMINGTON, CITY OF | 10003C0160G | 06-OCT-2000
03 | DELAWARE | WILMINGTON, CITY OF | 10003C0170G | 06-OCT-2000
03 | DELAWARE | WILMINGTON, CITY OF | 10003C0180G** | 06-OCT-2000
03 | DELAWARE | WILMINGTON, CITY OF | 10003CIND0 | 06-OCT-2000
03 | PENNSYLVANIA | ALLEGHENY, TOWNSHIP OF | 42129C0015E | 20-NOV-2000
03 | PENNSYLVANIA | ALLEGHENY, TOWNSHIP OF | 42129C0020E | 20-NOV-2000
03 | PENNSYLVANIA | ALLEGHENY, TOWNSHIP OF | 42129C0077E | 20-NOV-2000
03 | PENNSYLVANIA | ALLEGHENY, TOWNSHIP OF | 42129CIND0 | 20-NOV-2000
03 | PENNSYLVANIA | ARNOLD, CITY OF | 42129C0059E | 20-NOV-2000
03 | PENNSYLVANIA | ARNOLD, CITY OF | 42129CIND0 | 20-NOV-2000
03 | PENNSYLVANIA | ASPINWALL, BOROUGH OF | 42003C0356G | 05-JUL-2000
03 | PENNSYLVANIA | ASPINWALL, BOROUGH OF | 42003C0357F | 05-JUL-2000
03 | PENNSYLVANIA | ASPINWALL, BOROUGH OF | 42003CIND1 | 05-JUL-2000
03 | PENNSYLVANIA | BLAWNOX, BOROUGH OF | 42003C0376F | 05-JUL-2000
03 | PENNSYLVANIA | BLAWNOX, BOROUGH OF | 42003CIND1 | 05-JUL-2000
03 | PENNSYLVANIA | BLOOMING GROVE, TOWNSHIP OF | 42103C0115C | 06-OCT-2000
03 | PENNSYLVANIA | BLOOMING GROVE, TOWNSHIP OF | 42103C0120C | 06-OCT-2000
03 | PENNSYLVANIA | BLOOMING GROVE, TOWNSHIP OF | 42103C0140C | 06-OCT-2000
03 | PENNSYLVANIA | BLOOMING GROVE, TOWNSHIP OF | 42103C0165C | 06-OCT-2000
03 | PENNSYLVANIA | BLOOMING GROVE, TOWNSHIP OF | 42103C0255C | 06-OCT-2000
03 | PENNSYLVANIA | BLOOMING GROVE, TOWNSHIP OF | 42103C0260C | 06-OCT-2000
03 | PENNSYLVANIA | BLOOMING GROVE, TOWNSHIP OF | 42103C0265C | 06-OCT-2000
03 | PENNSYLVANIA | BLOOMING GROVE, TOWNSHIP OF | 42103C0270C | 06-OCT-2000
03 | PENNSYLVANIA | BLOOMING GROVE, TOWNSHIP OF | 42103C0280C | 06-OCT-2000
03 | PENNSYLVANIA | BLOOMING GROVE, TOWNSHIP OF | 42103C0285C | 06-OCT-2000
03 | PENNSYLVANIA | BLOOMING GROVE, TOWNSHIP OF | 42103C0290C | 06-OCT-2000
03 | PENNSYLVANIA | BLOOMING GROVE, TOWNSHIP OF | 42103C0295C | 06-OCT-2000
03 | PENNSYLVANIA | BLOOMING GROVE, TOWNSHIP OF | 42103C0305C | 06-OCT-2000
03 | PENNSYLVANIA | BLOOMING GROVE, TOWNSHIP OF | 42103CIND0 | 06-OCT-2000
03 | PENNSYLVANIA | BRACKENRIDGE, BOROUGH OF | 42003C0232F | 05-JUL-2000
03 | PENNSYLVANIA | BRACKENRIDGE, BOROUGH OF | 42003C0251F | 05-JUL-2000
03 | PENNSYLVANIA | BRACKENRIDGE, BOROUGH OF | 42003CIND1 | 05-JUL-2000
03 | PENNSYLVANIA | CHESWICK, BOROUGH OF | 42003C0241F | 05-JUL-2000
03 | PENNSYLVANIA | CHESWICK, BOROUGH OF | 42003CIND1 | 05-JUL-2000
03 | PENNSYLVANIA | DELAWARE WATER GAP, BOROUGH OF | 4206900001D | 20-OCT-2000
03 | PENNSYLVANIA | DELAWARE, TOWNSHIP OF | 42103C0315C | 06-OCT-2000
03 | PENNSYLVANIA | DELAWARE, TOWNSHIP OF | 42103C0320C | 06-OCT-2000
03 | PENNSYLVANIA | DELAWARE, TOWNSHIP OF | 42103C0339C | 06-OCT-2000
03 | PENNSYLVANIA | DELAWARE, TOWNSHIP OF | 42103C0340C | 06-OCT-2000
03 | PENNSYLVANIA | DELAWARE, TOWNSHIP OF | 42103C0435C | 06-OCT-2000
03 | PENNSYLVANIA | DELAWARE, TOWNSHIP OF | 42103C0455C | 06-OCT-2000
03 | PENNSYLVANIA | DELAWARE, TOWNSHIP OF | 42103C0460C | 06-OCT-2000
03 | PENNSYLVANIA | DELAWARE, TOWNSHIP OF | 42103C0470C | 06-OCT-2000
03 | PENNSYLVANIA | DELAWARE, TOWNSHIP OF | 42103C0480C | 06-OCT-2000
03 | PENNSYLVANIA | DELAWARE, TOWNSHIP OF | 42103CIND0 | 06-OCT-2000
03 | PENNSYLVANIA | DINGMAN, TOWNSHIP OF | 42103C0165C | 06-OCT-2000
03 | PENNSYLVANIA | DINGMAN, TOWNSHIP OF | 42103C0170C | 06-OCT-2000
03 | PENNSYLVANIA | DINGMAN, TOWNSHIP OF | 42103C0285C | 06-OCT-2000
03 | PENNSYLVANIA | DINGMAN, TOWNSHIP OF | 42103C0295C | 06-OCT-2000
03 | PENNSYLVANIA | DINGMAN, TOWNSHIP OF | 42103C0305C | 06-OCT-2000
03 | PENNSYLVANIA | DINGMAN, TOWNSHIP OF | 42103C0310C | 06-OCT-2000
03 | PENNSYLVANIA | DINGMAN, TOWNSHIP OF | 42103C0315C | 06-OCT-2000
03 | PENNSYLVANIA | DINGMAN, TOWNSHIP OF | 42103C0320C | 06-OCT-2000
03 | PENNSYLVANIA | DINGMAN, TOWNSHIP OF | 42103C0330C | 06-OCT-2000
03 | PENNSYLVANIA | DINGMAN, TOWNSHIP OF | 42103C0333C | 06-OCT-2000
03 | PENNSYLVANIA | DINGMAN, TOWNSHIP OF | 42103C0337C | 06-OCT-2000
03 | PENNSYLVANIA | DINGMAN, TOWNSHIP OF | 42103C0339C | 06-OCT-2000
03 | PENNSYLVANIA | DINGMAN, TOWNSHIP OF | 42103C0340C | 06-OCT-2000
03 | PENNSYLVANIA | DINGMAN, TOWNSHIP OF | 42103C0341C | 06-OCT-2000
03 | PENNSYLVANIA | DINGMAN, TOWNSHIP OF | 42103CIND0 | 06-OCT-2000
03 | PENNSYLVANIA | EAST DEER, TOWNSHIP OF | 42003C0232F | 05-JUL-2000
03 | PENNSYLVANIA | EAST DEER, TOWNSHIP OF | 42003C0234F | 05-JUL-2000
03 | PENNSYLVANIA | EAST DEER, TOWNSHIP OF | 42003CIND1 | 05-JUL-2000
03 | PENNSYLVANIA | ETNA, BOROUGH OF | 42003C0352G | 05-JUL-2000
03 | PENNSYLVANIA | ETNA, BOROUGH OF | 42003CIND1 | 05-JUL-2000
03 | PENNSYLVANIA | FAWN, TOWNSHIP OF | 42003C0115F | 05-JUL-2000
03 | PENNSYLVANIA | FAWN, TOWNSHIP OF | 42003C0232F | 05-JUL-2000
03 | PENNSYLVANIA | FAWN, TOWNSHIP OF | 42003C0251F | 05-JUL-2000
03 | PENNSYLVANIA | FAWN, TOWNSHIP OF | 42003CIND1 | 05-JUL-2000
03 | PENNSYLVANIA | FOX CHAPEL, BOROUGH OF | 42003C0236F | 05-JUL-2000
03 | PENNSYLVANIA | FOX CHAPEL, BOROUGH OF | 42003C0238F | 05-JUL-2000
03 | PENNSYLVANIA | FOX CHAPEL, BOROUGH OF | 42003C0357F | 05-JUL-2000
03 | PENNSYLVANIA | FOX CHAPEL, BOROUGH OF | 42003CIND1 | 05-JUL-2000
03 | PENNSYLVANIA | FRAZER, TOWNSHIP OF | 42003C0232F | 05-JUL-2000
03 | PENNSYLVANIA | FRAZER, TOWNSHIP OF | 42003C0234F | 05-JUL-2000
03 | PENNSYLVANIA | FRAZER, TOWNSHIP OF | 42003C0356G | 05-JUL-2000
03 | PENNSYLVANIA | FRAZER, TOWNSHIP OF | 42003CIND1 | 05-JUL-2000
03 | PENNSYLVANIA | FREEPORT, BOROUGH OF | 4200950002C | 23-AUG-2000
03 | PENNSYLVANIA | GILPIN, TOWNSHIP OF | 4213060005C | 23-AUG-2000
03 | PENNSYLVANIA | GREENE, TOWNSHIP OF | 42103C0090C | 06-OCT-2000
03 | PENNSYLVANIA | GREENE, TOWNSHIP OF | 42103C0230C | 06-OCT-2000
03 | PENNSYLVANIA | GREENE, TOWNSHIP OF | 42103C0235C | 06-OCT-2000
03 | PENNSYLVANIA | GREENE, TOWNSHIP OF | 42103C0240C | 06-OCT-2000
03 | PENNSYLVANIA | GREENE, TOWNSHIP OF | 42103C0245C | 06-OCT-2000
03 | PENNSYLVANIA | GREENE, TOWNSHIP OF | 42103C0255C | 06-OCT-2000
03 | PENNSYLVANIA | GREENE, TOWNSHIP OF | 42103C0265C | 06-OCT-2000
03 | PENNSYLVANIA | GREENE, TOWNSHIP OF | 42103C0270C | 06-OCT-2000
03 | PENNSYLVANIA | GREENE, TOWNSHIP OF | 42103C0290C | 06-OCT-2000
03 | PENNSYLVANIA | GREENE, TOWNSHIP OF | 42103C0380C | 06-OCT-2000
03 | PENNSYLVANIA | GREENE, TOWNSHIP OF | 42103C0385C | 06-OCT-2000
03 | PENNSYLVANIA | GREENE, TOWNSHIP OF | 42103C0410C | 06-OCT-2000
03 | PENNSYLVANIA | GREENE, TOWNSHIP OF | 42103CIND0 | 06-OCT-2000
03 | PENNSYLVANIA | HARMAR, TOWNSHIP OF | 42003C0236F | 05-JUL-2000
03 | PENNSYLVANIA | HARMAR, TOWNSHIP OF | 42003C0237F | 05-JUL-2000
03 | PENNSYLVANIA | HARMAR, TOWNSHIP OF | 42003C0238F | 05-JUL-2000
03 | PENNSYLVANIA | HARMAR, TOWNSHIP OF | 42003C0239F | 05-JUL-2000
03 | PENNSYLVANIA | HARMAR, TOWNSHIP OF | 42003C0241F | 05-JUL-2000
03 | PENNSYLVANIA | HARMAR, TOWNSHIP OF | 42003CIND1 | 05-JUL-2000
03 | PENNSYLVANIA | HARRISON, TOWNSHIP OF | 42003C0232F | 05-JUL-2000
03 | PENNSYLVANIA | HARRISON, TOWNSHIP OF | 42003C0251F | 05-JUL-2000
03 | PENNSYLVANIA | HARRISON, TOWNSHIP OF | 42003C0252F | 05-JUL-2000
03 | PENNSYLVANIA | HARRISON, TOWNSHIP OF | 42003CIND1 | 05-JUL-2000
03 | PENNSYLVANIA | INDIANA, TOWNSHIP OF | 42003C026F | 05-JUL-2000
03 | PENNSYLVANIA | INDIANA, TOWNSHIP OF | 42003C237F | 05-JUL-2000
03 | PENNSYLVANIA | INDIANA, TOWNSHIP OF | 42003CIND1 | 05-JUL-2000
03 | PENNSYLVANIA | LACKAWAXEN, TOWNSHIP OF | 42103C0030C | 06-OCT-2000
03 | PENNSYLVANIA | LACKAWAXEN, TOWNSHIP OF | 42103C0035C | 06-OCT-2000
03 | PENNSYLVANIA | LACKAWAXEN, TOWNSHIP OF | 42103C0040C | 06-OCT-2000
03 | PENNSYLVANIA | LACKAWAXEN, TOWNSHIP OF | 42103C0045C | 06-OCT-2000
03 | PENNSYLVANIA | LACKAWAXEN, TOWNSHIP OF | 42103C0065C | 06-OCT-2000
03 | PENNSYLVANIA | LACKAWAXEN, TOWNSHIP OF | 42103C0110C | 06-OCT-2000
03 | PENNSYLVANIA | LACKAWAXEN, TOWNSHIP OF | 42103C0120C | 06-OCT-2000
03 | PENNSYLVANIA | LACKAWAXEN, TOWNSHIP OF | 42103C0130C | 06-OCT-2000
03 | PENNSYLVANIA | LACKAWAXEN, TOWNSHIP OF | 42103C0135C | 06-OCT-2000
03 | PENNSYLVANIA | LACKAWAXEN, TOWNSHIP OF | 42103C0140C | 06-OCT-2000
03 | PENNSYLVANIA | LACKAWAXEN, TOWNSHIP OF | 42103C0155C | 06-OCT-2000
03 | PENNSYLVANIA | LACKAWAXEN, TOWNSHIP OF | 42103C0165C | 06-OCT-2000
03 | PENNSYLVANIA | LACKAWAXEN, TOWNSHIP OF | 42103CIND0 | 06-OCT-2000
03 | PENNSYLVANIA | LEHMAN, TOWNSHIP OF | 42103C0435C | 06-OCT-2000
03 | PENNSYLVANIA | LEHMAN, TOWNSHIP OF | 42103C0440C | 06-OCT-2000
03 | PENNSYLVANIA | LEHMAN, TOWNSHIP OF | 42103C0445C | 06-OCT-2000
03 | PENNSYLVANIA | LEHMAN, TOWNSHIP OF | 42103C0455C | 06-OCT-2000
03 | PENNSYLVANIA | LEHMAN, TOWNSHIP OF | 42103C0460C | 06-OCT-2000
03 | PENNSYLVANIA | LEHMAN, TOWNSHIP OF | 42103C0465C | 06-OCT-2000
03 | PENNSYLVANIA | LEHMAN, TOWNSHIP OF | 42103C0470C | 06-OCT-2000
03 | PENNSYLVANIA | LEHMAN, TOWNSHIP OF | 42103C0510C | 06-OCT-2000
03 | PENNSYLVANIA | LEHMAN, TOWNSHIP OF | 42103C0530C | 06-OCT-2000
03 | PENNSYLVANIA | LEHMAN, TOWNSHIP OF | 42103CIND0 | 06-OCT-2000
03 | PENNSYLVANIA | LOWER BURRELL, CITY OF | 42129C0067E | 20-NOV-2000
03 | PENNSYLVANIA | LOWER BURRELL, CITY OF | 42129C0076E | 20-NOV-2000
03 | PENNSYLVANIA | LOWER BURRELL, CITY OF | 42129C0077E | 20-NOV-2000
03 | PENNSYLVANIA | LOWER BURRELL, CITY OF | 42129CIND0 | 20-NOV-2000
03 | PENNSYLVANIA | MATAMORAS, BOROUGH OF | 42103C0214C | 06-OCT-2000
03 | PENNSYLVANIA | MATAMORAS, BOROUGH OF | 42103C0352C | 06-OCT-2000
03 | PENNSYLVANIA | MATAMORAS, BOROUGH OF | 42103CIND0 | 06-OCT-2000
03 | PENNSYLVANIA | MILFORD, BOROUGH OF | 42103C0330C | 06-OCT-2000
03 | PENNSYLVANIA | MILFORD, BOROUGH OF | 42103C0333C | 06-OCT-2000
03 | PENNSYLVANIA | MILFORD, BOROUGH OF | 42103CIND0 | 06-OCT-2000
03 | PENNSYLVANIA | MILFORD, TOWNSHIP OF | 42103C0170C | 06-OCT-2000
03 | PENNSYLVANIA | MILFORD, TOWNSHIP OF | 42103C0310C | 06-OCT-2000
03 | PENNSYLVANIA | MILFORD, TOWNSHIP OF | 42103C0330C | 06-OCT-2000
03 | PENNSYLVANIA | MILFORD, TOWNSHIP OF | 42103C0333C | 06-OCT-2000
03 | PENNSYLVANIA | MILFORD, TOWNSHIP OF | 42103C0334C | 06-OCT-2000
03 | PENNSYLVANIA | MILFORD, TOWNSHIP OF | 42103CIND0 | 06-OCT-2000
03 | PENNSYLVANIA | MILLVALE, BOROUGH OF | 42003C0351F | 05-JUL-2000
03 | PENNSYLVANIA | MILLVALE, BOROUGH OF | 42003C0352G | 05-JUL-2000
03 | PENNSYLVANIA | MILLVALE, BOROUGH OF | 42003CIND1 | 05-JUL-2000
03 | PENNSYLVANIA | NEW KENSINGTON, CITY OF | 42129C0057E | 20-NOV-2000
03 | PENNSYLVANIA | NEW KENSINGTON, CITY OF | 42129C0059E | 20-NOV-2000
03 | PENNSYLVANIA | NEW KENSINGTON, CITY OF | 42129C0067E | 20-NOV-2000
03 | PENNSYLVANIA | NEW KENSINGTON, CITY OF | 42129C0076E | 20-NOV-2000
03 | PENNSYLVANIA | NEW KENSINGTON, CITY OF | 42129CIND0 | 20-NOV-2000
03 | PENNSYLVANIA | O'HARA, TOWNSHIP OF | 42003C0238F | 05-JUL-2000
03 | PENNSYLVANIA | O'HARA, TOWNSHIP OF | 42003C0356G | 05-JUL-2000
03 | PENNSYLVANIA | O'HARA, TOWNSHIP OF | 42003C0357F | 05-JUL-2000
03 | PENNSYLVANIA | O'HARA, TOWNSHIP OF | 42003C0376F | 05-JUL-2000
03 | PENNSYLVANIA | O'HARA, TOWNSHIP OF | 42003CIND1 | 05-JUL-2000
03 | PENNSYLVANIA | OAKMONT, BOROUGH OF | 42003C0237F | 05-JUL-2000
03 | PENNSYLVANIA | OAKMONT, BOROUGH OF | 42003C0238F | 05-JUL-2000
03 | PENNSYLVANIA | OAKMONT, BOROUGH OF | 42003C0239F | 05-JUL-2000
03 | PENNSYLVANIA | OAKMONT, BOROUGH OF | 42003CIND1 | 05-JUL-2000
03 | PENNSYLVANIA | PALMYRA, TOWNSHIP OF | 42103C0095C | 06-OCT-2000
03 | PENNSYLVANIA | PALMYRA, TOWNSHIP OF | 42103C0110C | 06-OCT-2000
03 | PENNSYLVANIA | PALMYRA, TOWNSHIP OF | 42103C0115C | 06-OCT-2000
03 | PENNSYLVANIA | PALMYRA, TOWNSHIP OF | 42103C0120C | 06-OCT-2000
03 | PENNSYLVANIA | PALMYRA, TOWNSHIP OF | 42103C0130C | 06-OCT-2000
03 | PENNSYLVANIA | PALMYRA, TOWNSHIP OF | 42103C0230C | 06-OCT-2000
03 | PENNSYLVANIA | PALMYRA, TOWNSHIP OF | 42103C0235C | 06-OCT-2000
03 | PENNSYLVANIA | PALMYRA, TOWNSHIP OF | 42103C0255C | 06-OCT-2000
03 | PENNSYLVANIA | PALMYRA, TOWNSHIP OF | 42103C0260C | 06-OCT-2000
03 | PENNSYLVANIA | PALMYRA, TOWNSHIP OF | 42103C0265C | 06-OCT-2000
03 | PENNSYLVANIA | PALMYRA, TOWNSHIP OF | 42103CIND0 | 06-OCT-2000
03 | PENNSYLVANIA | PENN HILLS, TOWNSHIP OF | 42003C0239F | 05-JUL-2000
03 | PENNSYLVANIA | PENN HILLS, TOWNSHIP OF | 42003C0357F | 05-JUL-2000
03 | PENNSYLVANIA | PENN HILLS, TOWNSHIP OF | 42003C0376F | 05-JUL-2000
03 | PENNSYLVANIA | PENN HILLS, TOWNSHIP OF | 42003CIND1 | 05-JUL-2000
03 | PENNSYLVANIA | PITTSBURGH, CITY OF | 42003C0334F | 05-JUL-2000
03 | PENNSYLVANIA | PITTSBURGH, CITY OF | 42003C0342F | 05-JUL-2000
03 | PENNSYLVANIA | PITTSBURGH, CITY OF | 42003C0351F | 05-JUL-2000
03 | PENNSYLVANIA | PITTSBURGH, CITY OF | 42003C0352G | 05-JUL-2000
03 | PENNSYLVANIA | PITTSBURGH, CITY OF | 42003C0353F | 05-JUL-2000
03 | PENNSYLVANIA | PITTSBURGH, CITY OF | 42003C0354F | 05-JUL-2000
03 | PENNSYLVANIA | PITTSBURGH, CITY OF | 42003C0356G | 05-JUL-2000
03 | PENNSYLVANIA | PITTSBURGH, CITY OF | 42003C0357F | 05-JUL-2000
03 | PENNSYLVANIA | PITTSBURGH, CITY OF | 42003CIND1 | 05-JUL-2000
03 | PENNSYLVANIA | PLUM, BOROUGH OF | 42003C0237F | 05-JUL-2000
03 | PENNSYLVANIA | PLUM, BOROUGH OF | 42003C0239F | 05-JUL-2000
03 | PENNSYLVANIA | PLUM, BOROUGH OF | 42003C0241F | 05-JUL-2000
03 | PENNSYLVANIA | PLUM, BOROUGH OF | 42003C0242F | 05-JUL-2000
03 | PENNSYLVANIA | PLUM, BOROUGH OF | 42003CIND0 | 05-JUL-2000
03 | PENNSYLVANIA | PORTER, TOWNSHIP OF | 42103C0270C | 06-OCT-2000
03 | PENNSYLVANIA | PORTER, TOWNSHIP OF | 42103C0290C | 06-OCT-2000
03 | PENNSYLVANIA | PORTER, TOWNSHIP OF | 42103C0295C | 06-OCT-2000
03 | PENNSYLVANIA | PORTER, TOWNSHIP OF | 42103C0315C | 06-OCT-2000
03 | PENNSYLVANIA | PORTER, TOWNSHIP OF | 42103C0410C | 06-OCT-2000
03 | PENNSYLVANIA | PORTER, TOWNSHIP OF | 42103C0420C | 06-OCT-2000
03 | PENNSYLVANIA | PORTER, TOWNSHIP OF | 42103C0430C | 06-OCT-2000
03 | PENNSYLVANIA | PORTER, TOWNSHIP OF | 42103C0435C | 06-OCT-2000
03 | PENNSYLVANIA | PORTER, TOWNSHIP OF | 42103C0440C | 06-OCT-2000
03 | PENNSYLVANIA | PORTER, TOWNSHIP OF | 42103C0445C | 06-OCT-2000
03 | PENNSYLVANIA | PORTER, TOWNSHIP OF | 42103C0455C | 06-OCT-2000
03 | PENNSYLVANIA | PORTER, TOWNSHIP OF | 42103CIND0 | 06-OCT-2000
03 | PENNSYLVANIA | RESERVE, TOWNSHIP OF | 42003C0351F | 05-JUL-2000
03 | PENNSYLVANIA | RESERVE, TOWNSHIP OF | 42003C0353F | 05-JUL-2000
03 | PENNSYLVANIA | RESERVE, TOWNSHIP OF | 42003CIND1 | 05-JUL-2000
03 | PENNSYLVANIA | SHALER, TOWNSHIP OF | 42003C0351F | 05-JUL-2000
03 | PENNSYLVANIA | SHALER, TOWNSHIP OF | 42003C0352G | 05-JUL-2000
03 | PENNSYLVANIA | SHALER, TOWNSHIP OF | 42003C0356G | 05-JUL-2000
03 | PENNSYLVANIA | SHALER, TOWNSHIP OF | 42003CIND1 | 05-JUL-2000
03 | PENNSYLVANIA | SHARPSBURG, BOROUGH OF | 42003C0352G | 05-JUL-2000
03 | PENNSYLVANIA | SHARPSBURG, BOROUGH OF | 42003C0356G | 05-JUL-2000
03 | PENNSYLVANIA | SHARPSBURG, BOROUGH OF | 42003CIND1 | 05-JUL-2000
03 | PENNSYLVANIA | SHOHOLA, TOWNSHIP OF | 42103C0155C | 06-OCT-2000
03 | PENNSYLVANIA | SHOHOLA, TOWNSHIP OF | 42103C0159C | 06-OCT-2000
03 | PENNSYLVANIA | SHOHOLA, TOWNSHIP OF | 42103C0160C | 06-OCT-2000
03 | PENNSYLVANIA | SHOHOLA, TOWNSHIP OF | 42103C0165C | 06-OCT-2000
03 | PENNSYLVANIA | SHOHOLA, TOWNSHIP OF | 42103C0167C | 06-OCT-2000
03 | PENNSYLVANIA | SHOHOLA, TOWNSHIP OF | 42103C0170C | 06-OCT-2000
03 | PENNSYLVANIA | SHOHOLA, TOWNSHIP OF | 42103C0178C | 06-OCT-2000
03 | PENNSYLVANIA | SHOHOLA, TOWNSHIP OF | 42103C0179C | 06-OCT-2000
03 | PENNSYLVANIA | SHOHOLA, TOWNSHIP OF | 42103C0186C | 06-OCT-2000
03 | PENNSYLVANIA | SHOHOLA, TOWNSHIP OF | 42103C0187C | 06-OCT-2000
03 | PENNSYLVANIA | SHOHOLA, TOWNSHIP OF | 42103C0191C | 06-OCT-2000
03 | PENNSYLVANIA | SHOHOLA, TOWNSHIP OF | 42103C0310C | 06-OCT-2000
03 | PENNSYLVANIA | SHOHOLA, TOWNSHIP OF | 42103CIND0 | 06-OCT-2000
03 | PENNSYLVANIA | SOUTH BUFFALO, TOWNSHIP OF | 4212100005C | 23-AUG-2000
03 | PENNSYLVANIA | SOUTH BUFFALO, TOWNSHIP OF | 421210IND0 | 23-AUG-2000
03 | PENNSYLVANIA | SPRINGDALE, BOROUGH OF | 42003C0241F | 05-JUL-2000
03 | PENNSYLVANIA | SPRINGDALE, BOROUGH OF | 42003C0242F | 05-JUL-2000
03 | PENNSYLVANIA | SPRINGDALE, BOROUGH OF | 42003CIND1 | 05-JUL-2000
03 | PENNSYLVANIA | SPRINGDALE, TOWNSHIP OF | 42003C0241F | 05-JUL-2000
03 | PENNSYLVANIA | SPRINGDALE, TOWNSHIP OF | 42003C0242F | 05-JUL-2000
03 | PENNSYLVANIA | SPRINGDALE, TOWNSHIP OF | 42003CIND1 | 05-JUL-2000
03 | PENNSYLVANIA | TARENTUM, BOROUGH OF | 42003C0232F | 05-JUL-2000
03 | PENNSYLVANIA | TARENTUM, BOROUGH OF | 42003C0234F | 05-JUL-2000
03 | PENNSYLVANIA | TARENTUM, BOROUGH OF | 42003C0251F | 05-JUL-2000
03 | PENNSYLVANIA | TARENTUM, BOROUGH OF | 42003CIND1 | 05-JUL-2000
03 | PENNSYLVANIA | UPPER ST. CLAIR, TOWNSHIP OF | 42003C0458F | 05-JUL-2000
03 | PENNSYLVANIA | UPPER ST. CLAIR, TOWNSHIP OF | 42003CIND1 | 05-JUL-2000
03 | PENNSYLVANIA | VERONA, BOROUGH OF | 42003C0238F | 05-JUL-2000
03 | PENNSYLVANIA | VERONA, BOROUGH OF | 42003C0239F | 05-JUL-2000
03 | PENNSYLVANIA | VERONA, BOROUGH OF | 42003C0376F | 05-JUL-2000
03 | PENNSYLVANIA | VERONA, BOROUGH OF | 42003CIND1 | 05-JUL-2000
03 | PENNSYLVANIA | WEST LEECHBURG, BOROUGH OF | 42129C0020E | 20-NOV-2000
03 | PENNSYLVANIA | WEST LEECHBURG, BOROUGH OF | 42129CIND0 | 20-NOV-2000
03 | PENNSYLVANIA | WESTFALL, TOWNSHIP OF | 42103C0179C | 06-OCT-2000
03 | PENNSYLVANIA | WESTFALL, TOWNSHIP OF | 42103C0183C | 06-OCT-2000
03 | PENNSYLVANIA | WESTFALL, TOWNSHIP OF | 42103C0187C | 06-OCT-2000
03 | PENNSYLVANIA | WESTFALL, TOWNSHIP OF | 42103C0191C | 06-OCT-2000
03 | PENNSYLVANIA | WESTFALL, TOWNSHIP OF | 42103C0192C | 06-OCT-2000
03 | PENNSYLVANIA | WESTFALL, TOWNSHIP OF | 42103C0211C | 06-OCT-2000
03 | PENNSYLVANIA | WESTFALL, TOWNSHIP OF | 42103C0213C | 06-OCT-2000
03 | PENNSYLVANIA | WESTFALL, TOWNSHIP OF | 42103C0214C | 06-OCT-2000
03 | PENNSYLVANIA | WESTFALL, TOWNSHIP OF | 42103C0330C | 06-OCT-2000
03 | PENNSYLVANIA | WESTFALL, TOWNSHIP OF | 42103C0332C | 06-OCT-2000
03 | PENNSYLVANIA | WESTFALL, TOWNSHIP OF | 42103C0333C | 06-OCT-2000
03 | PENNSYLVANIA | WESTFALL, TOWNSHIP OF | 42103C0334C | 06-OCT-2000
03 | PENNSYLVANIA | WESTFALL, TOWNSHIP OF | 42103C0351C | 06-OCT-2000
03 | PENNSYLVANIA | WESTFALL, TOWNSHIP OF | 42103C0352C | 06-OCT-2000
03 | PENNSYLVANIA | WESTFALL, TOWNSHIP OF | 42103CIND0 | 06-OCT-2000
03 | VIRGINIA | MONTEREY, TOWN OF | 5103790001A | 20-DEC-2000
03 | WEST VIRGINIA | JACKSON COUNTY * | 5400630108C | 23-AUG-2000
03 | WEST VIRGINIA | JACKSON COUNTY * | 5400630109C | 23-AUG-2000
03 | WEST VIRGINIA | JACKSON COUNTY * | 5400630125C | 23-AUG-2000
03 | WEST VIRGINIA | JACKSON COUNTY * | 540063IND0 | 23-AUG-2000
03 | WEST VIRGINIA | RIPLEY, CITY OF | 5400640002E | 23-AUG-2000
04 | ALABAMA | BROOKWOOD, TOWN OF | 01125C0400E** | 07-SEP-2000
04 | ALABAMA | BROOKWOOD, TOWN OF | 01125C0575E | 07-SEP-2000
04 | ALABAMA | BROOKWOOD, TOWN OF | 01125CIND0 | 07-SEP-2000
04 | ALABAMA | NORTHPORT, CITY OF | 01125C0325E** | 07-SEP-2000
04 | ALABAMA | NORTHPORT, CITY OF | 01125C0330E** | 07-SEP-2000
04 | ALABAMA | NORTHPORT, CITY OF | 01125C0336E** | 07-SEP-2000
04 | ALABAMA | NORTHPORT, CITY OF | 01125C0337E | 07-SEP-2000
04 | ALABAMA | NORTHPORT, CITY OF | 01125C0338E** | 07-SEP-2000
04 | ALABAMA | NORTHPORT, CITY OF | 01125C0339E** | 07-SEP-2000
04 | ALABAMA | NORTHPORT, CITY OF | 01125C0343E** | 07-SEP-2000
04 | ALABAMA | NORTHPORT, CITY OF | 01125C0482E** | 07-SEP-2000
04 | ALABAMA | NORTHPORT, CITY OF | 01125C0485E | 07-SEP-2000
04 | ALABAMA | NORTHPORT, CITY OF | 01125C0501E** | 07-SEP-2000
04 | ALABAMA | NORTHPORT, CITY OF | 01125C0502E** | 07-SEP-2000
04 | ALABAMA | NORTHPORT, CITY OF | 01125C0503E** | 07-SEP-2000
04 | ALABAMA | NORTHPORT, CITY OF | 01125C0504E | 07-SEP-2000
04 | ALABAMA | NORTHPORT, CITY OF | 01125C0506E** | 07-SEP-2000
04 | ALABAMA | NORTHPORT, CITY OF | 01125CIND0 | 07-SEP-2000
04 | ALABAMA | TUSCALOOSA COUNTY * | 01125C0025E | 07-SEP-2000
04 | ALABAMA | TUSCALOOSA COUNTY * | 01125C0050E** | 07-SEP-2000
04 | ALABAMA | TUSCALOOSA COUNTY * | 01125C0075E** | 07-SEP-2000
04 | ALABAMA | TUSCALOOSA COUNTY * | 01125C0100E | 07-SEP-2000
04 | ALABAMA | TUSCALOOSA COUNTY * | 01125C0125E** | 07-SEP-2000
04 | ALABAMA | TUSCALOOSA COUNTY * | 01125C0150E** | 07-SEP-2000
04 | ALABAMA | TUSCALOOSA COUNTY * | 01125C0175E** | 07-SEP-2000
04 | ALABAMA | TUSCALOOSA COUNTY * | 01125C0200E** | 07-SEP-2000
04 | ALABAMA | TUSCALOOSA COUNTY * | 01125C0225E** | 07-SEP-2000
04 | ALABAMA | TUSCALOOSA COUNTY * | 01125C0250E** | 07-SEP-2000
04 | ALABAMA | TUSCALOOSA COUNTY * | 01125C0300E | 07-SEP-2000
04 | ALABAMA | TUSCALOOSA COUNTY * | 01125C0325E** | 07-SEP-2000
04 | ALABAMA | TUSCALOOSA COUNTY * | 01125C0330E** | 07-SEP-2000
04 | ALABAMA | TUSCALOOSA COUNTY * | 01125C0335E** | 07-SEP-2000
04 | ALABAMA | TUSCALOOSA COUNTY * | 01125C0336E** | 07-SEP-2000
04 | ALABAMA | TUSCALOOSA COUNTY * | 01125C0337E | 07-SEP-2000
04 | ALABAMA | TUSCALOOSA COUNTY * | 01125C0338E** | 07-SEP-2000
04 | ALABAMA | TUSCALOOSA COUNTY * | 01125C0339E** | 07-SEP-2000
04 | ALABAMA | TUSCALOOSA COUNTY * | 01125C0341E** | 07-SEP-2000
04 | ALABAMA | TUSCALOOSA COUNTY * | 01125C0342E | 07-SEP-2000
04 | ALABAMA | TUSCALOOSA COUNTY * | 01125C0343E** | 07-SEP-2000
04 | ALABAMA | TUSCALOOSA COUNTY * | 01125C0344E | 07-SEP-2000
04 | ALABAMA | TUSCALOOSA COUNTY * | 01125C0375E** | 07-SEP-2000
04 | ALABAMA | TUSCALOOSA COUNTY * | 01125C0400E** | 07-SEP-2000
04 | ALABAMA | TUSCALOOSA COUNTY * | 01125C0425E** | 07-SEP-2000
04 | ALABAMA | TUSCALOOSA COUNTY * | 01125C0450E** | 07-SEP-2000
04 | ALABAMA | TUSCALOOSA COUNTY * | 01125C0475E** | 07-SEP-2000
04 | ALABAMA | TUSCALOOSA COUNTY * | 01125C0482E** | 07-SEP-2000
04 | ALABAMA | TUSCALOOSA COUNTY * | 01125C0485E | 07-SEP-2000
04 | ALABAMA | TUSCALOOSA COUNTY * | 01125C0500E** | 07-SEP-2000
04 | ALABAMA | TUSCALOOSA COUNTY * | 01125C0501E** | 07-SEP-2000
04 | ALABAMA | TUSCALOOSA COUNTY * | 01125C0502E** | 07-SEP-2000
04 | ALABAMA | TUSCALOOSA COUNTY * | 01125C0503E** | 07-SEP-2000
04 | ALABAMA | TUSCALOOSA COUNTY * | 01125C0504E** | 07-SEP-2000
04 | ALABAMA | TUSCALOOSA COUNTY * | 01125C0506E | 07-SEP-2000
04 | ALABAMA | TUSCALOOSA COUNTY * | 01125C0507E | 07-SEP-2000
04 | ALABAMA | TUSCALOOSA COUNTY * | 01125C0508E | 07-SEP-2000
04 | ALABAMA | TUSCALOOSA COUNTY * | 01125C0509E | 07-SEP-2000
04 | ALABAMA | TUSCALOOSA COUNTY * | 01125C0511E** | 07-SEP-2000
04 | ALABAMA | TUSCALOOSA COUNTY * | 01125C0512E | 07-SEP-2000
04 | ALABAMA | TUSCALOOSA COUNTY * | 01125C0515E | 07-SEP-2000
04 | ALABAMA | TUSCALOOSA COUNTY * | 01125C0516E | 07-SEP-2000
04 | ALABAMA | TUSCALOOSA COUNTY * | 01125C0517E** | 07-SEP-2000
04 | ALABAMA | TUSCALOOSA COUNTY * | 01125C0518E | 07-SEP-2000
04 | ALABAMA | TUSCALOOSA COUNTY * | 01125C0519E | 07-SEP-2000
04 | ALABAMA | TUSCALOOSA COUNTY * | 01125C0528E | 07-SEP-2000
04 | ALABAMA | TUSCALOOSA COUNTY * | 01125C0529E | 07-SEP-2000
04 | ALABAMA | TUSCALOOSA COUNTY * | 01125C0530E | 07-SEP-2000
04 | ALABAMA | TUSCALOOSA COUNTY * | 01125C0531E | 07-SEP-2000
04 | ALABAMA | TUSCALOOSA COUNTY * | 01125C0532E** | 07-SEP-2000
04 | ALABAMA | TUSCALOOSA COUNTY * | 01125C0533E | 07-SEP-2000
04 | ALABAMA | TUSCALOOSA COUNTY * | 01125C0534E** | 07-SEP-2000
04 | ALABAMA | TUSCALOOSA COUNTY * | 01125C0536E | 07-SEP-2000
04 | ALABAMA | TUSCALOOSA COUNTY * | 01125C0537E | 07-SEP-2000
04 | ALABAMA | TUSCALOOSA COUNTY * | 01125C0538E | 07-SEP-2000
04 | ALABAMA | TUSCALOOSA COUNTY * | 01125C0539E | 07-SEP-2000
04 | ALABAMA | TUSCALOOSA COUNTY * | 01125C0541E | 07-SEP-2000
04 | ALABAMA | TUSCALOOSA COUNTY * | 01125C0542E** | 07-SEP-2000
04 | ALABAMA | TUSCALOOSA COUNTY * | 01125C0545E** | 07-SEP-2000
04 | ALABAMA | TUSCALOOSA COUNTY * | 01125C0575E | 07-SEP-2000
04 | ALABAMA | TUSCALOOSA COUNTY * | 01125C0600E** | 07-SEP-2000
04 | ALABAMA | TUSCALOOSA COUNTY * | 01125C0625E** | 07-SEP-2000
04 | ALABAMA | TUSCALOOSA COUNTY * | 01125C0650E | 07-SEP-2000
04 | ALABAMA | TUSCALOOSA COUNTY * | 01125C0675E | 07-SEP-2000
04 | ALABAMA | TUSCALOOSA COUNTY * | 01125C0700E | 07-SEP-2000
04 | ALABAMA | TUSCALOOSA COUNTY * | 01125C0725E | 07-SEP-2000
04 | ALABAMA | TUSCALOOSA COUNTY * | 01125C0750E | 07-SEP-2000
04 | ALABAMA | TUSCALOOSA COUNTY * | 01125CIND0 | 07-SEP-2000
04 | ALABAMA | TUSCALOOSA, CITY OF | 01125C0325E** | 07-SEP-2000
04 | ALABAMA | TUSCALOOSA, CITY OF | 01125C0330E** | 07-SEP-2000
04 | ALABAMA | TUSCALOOSA, CITY OF | 01125C0335E** | 07-SEP-2000
04 | ALABAMA | TUSCALOOSA, CITY OF | 01125C0337E | 07-SEP-2000
04 | ALABAMA | TUSCALOOSA, CITY OF | 01125C0341E** | 07-SEP-2000
04 | ALABAMA | TUSCALOOSA, CITY OF | 01125C0342E | 07-SEP-2000
04 | ALABAMA | TUSCALOOSA, CITY OF | 01125C0343E** | 07-SEP-2000
04 | ALABAMA | TUSCALOOSA, CITY OF | 01125C0344E | 07-SEP-2000
04 | ALABAMA | TUSCALOOSA, CITY OF | 01125C0375E** | 07-SEP-2000
04 | ALABAMA | TUSCALOOSA, CITY OF | 01125C0482E** | 07-SEP-2000
04 | ALABAMA | TUSCALOOSA, CITY OF | 01125C0485E | 07-SEP-2000
04 | ALABAMA | TUSCALOOSA, CITY OF | 01125C0500E** | 07-SEP-2000
04 | ALABAMA | TUSCALOOSA, CITY OF | 01125C0501E** | 07-SEP-2000
04 | ALABAMA | TUSCALOOSA, CITY OF | 01125C0502E** | 07-SEP-2000
04 | ALABAMA | TUSCALOOSA, CITY OF | 01125C0503E** | 07-SEP-2000
04 | ALABAMA | TUSCALOOSA, CITY OF | 01125C0504E | 07-SEP-2000
04 | ALABAMA | TUSCALOOSA, CITY OF | 01125C0506E** | 07-SEP-2000
04 | ALABAMA | TUSCALOOSA, CITY OF | 01125C0507E | 07-SEP-2000
04 | ALABAMA | TUSCALOOSA, CITY OF | 01125C0508E | 07-SEP-2000
04 | ALABAMA | TUSCALOOSA, CITY OF | 01125C0509E** | 07-SEP-2000
04 | ALABAMA | TUSCALOOSA, CITY OF | 01125C0511E** | 07-SEP-2000
04 | ALABAMA | TUSCALOOSA, CITY OF | 01125C0512E | 07-SEP-2000
04 | ALABAMA | TUSCALOOSA, CITY OF | 01125C0515E | 07-SEP-2000
04 | ALABAMA | TUSCALOOSA, CITY OF | 01125C0516E | 07-SEP-2000
04 | ALABAMA | TUSCALOOSA, CITY OF | 01125C0517E | 07-SEP-2000
04 | ALABAMA | TUSCALOOSA, CITY OF | 01125C0518E | 07-SEP-2000
04 | ALABAMA | TUSCALOOSA, CITY OF | 01125C0519E | 07-SEP-2000
04 | ALABAMA | TUSCALOOSA, CITY OF | 01125C0528E** | 07-SEP-2000
04 | ALABAMA | TUSCALOOSA, CITY OF | 01125C0529E | 07-SEP-2000
04 | ALABAMA | TUSCALOOSA, CITY OF | 01125C0530E | 07-SEP-2000
04 | ALABAMA | TUSCALOOSA, CITY OF | 01125C0531E | 07-SEP-2000
04 | ALABAMA | TUSCALOOSA, CITY OF | 01125C0532E** | 07-SEP-2000
04 | ALABAMA | TUSCALOOSA, CITY OF | 01125C0533E | 07-SEP-2000
04 | ALABAMA | TUSCALOOSA, CITY OF | 01125C0534E** | 07-SEP-2000
04 | ALABAMA | TUSCALOOSA, CITY OF | 01125C0536E | 07-SEP-2000
04 | ALABAMA | TUSCALOOSA, CITY OF | 01125C0537E | 07-SEP-2000
04 | ALABAMA | TUSCALOOSA, CITY OF | 01125C0538E | 07-SEP-2000
04 | ALABAMA | TUSCALOOSA, CITY OF | 01125C0539E | 07-SEP-2000
04 | ALABAMA | TUSCALOOSA, CITY OF | 01125C0541E | 07-SEP-2000
04 | ALABAMA | TUSCALOOSA, CITY OF | 01125C0542E** | 07-SEP-2000
04 | ALABAMA | TUSCALOOSA, CITY OF | 01125C0545E** | 07-SEP-2000
04 | ALABAMA | TUSCALOOSA, CITY OF | 01125C0700E | 07-SEP-2000
04 | ALABAMA | TUSCALOOSA, CITY OF | 01125C0725E | 07-SEP-2000
04 | ALABAMA | TUSCALOOSA, CITY OF | 01125CIND0 | 07-SEP-2000
04 | ALABAMA | VANCE, TOWN OF | 01125C0575E | 07-SEP-2000
04 | ALABAMA | VANCE, TOWN OF | 01125C0600E** | 07-SEP-2000
04 | ALABAMA | VANCE, TOWN OF | 01125CIND0 | 07-SEP-2000
04 | FLORIDA | ALTHA, TOWN OF | 12013C0050D | 06-DEC-2000
04 | FLORIDA | ALTHA, TOWN OF | 12013C0075D | 06-DEC-2000
04 | FLORIDA | ALTHA, TOWN OF | 12013CIND0 | 06-DEC-2000
04 | FLORIDA | APOPKA, CITY OF | 12095C0110E | 06-DEC-2000
04 | FLORIDA | APOPKA, CITY OF | 12095C0120E | 06-DEC-2000
04 | FLORIDA | APOPKA, CITY OF | 12095C0140E | 06-DEC-2000
04 | FLORIDA | APOPKA, CITY OF | 12095C0150E | 06-DEC-2000
04 | FLORIDA | APOPKA, CITY OF | 12095CIND0 | 06-DEC-2000
04 | FLORIDA | AUBURNDALE, CITY OF | 12105C0330F | 20-DEC-2000
04 | FLORIDA | AUBURNDALE, CITY OF | 12105C0335F | 20-DEC-2000
04 | FLORIDA | AUBURNDALE, CITY OF | 12105C0340F | 20-DEC-2000
04 | FLORIDA | AUBURNDALE, CITY OF | 12105C0345F | 20-DEC-2000
04 | FLORIDA | AUBURNDALE, CITY OF | 12105CIND0 | 20-DEC-2000
04 | FLORIDA | BARTOW, CITY OF | 12105C0495F | 20-DEC-2000
04 | FLORIDA | BARTOW, CITY OF | 12105C0505F | 20-DEC-2000
04 | FLORIDA | BARTOW, CITY OF | 12105C0515F | 20-DEC-2000
04 | FLORIDA | BARTOW, CITY OF | 12105C0520F | 20-DEC-2000
04 | FLORIDA | BARTOW, CITY OF | 12105C0700F | 20-DEC-2000
04 | FLORIDA | BARTOW, CITY OF | 12105CIND0 | 20-DEC-2000
04 | FLORIDA | BAY LAKE, CITY OF | 12095C0395E | 06-DEC-2000
04 | FLORIDA | BAY LAKE, CITY OF | 12095C0415E | 06-DEC-2000
04 | FLORIDA | BAY LAKE, CITY OF | 12095C0560E | 06-DEC-2000
04 | FLORIDA | BAY LAKE, CITY OF | 12095CIND0 | 06-DEC-2000
04 | FLORIDA | BELLE ISLE, CITY OF | 12095C0430E | 06-DEC-2000
04 | FLORIDA | BELLE ISLE, CITY OF | 12095CIND0 | 06-DEC-2000
04 | FLORIDA | BLOUNTSTOWN,CITY OF | 12013C0160D | 06-DEC-2000
04 | FLORIDA | BLOUNTSTOWN,CITY OF | 12013C0170D | 06-DEC-2000
04 | FLORIDA | BLOUNTSTOWN,CITY OF | 12013CIND0 | 06-DEC-2000
04 | FLORIDA | CALHOUN COUNTY | 12013C0025D | 06-DEC-2000
04 | FLORIDA | CALHOUN COUNTY | 12013C0050D | 06-DEC-2000
04 | FLORIDA | CALHOUN COUNTY | 12013C0075D | 06-DEC-2000
04 | FLORIDA | CALHOUN COUNTY | 12013C0100D | 06-DEC-2000
04 | FLORIDA | CALHOUN COUNTY | 12013C0125D | 06-DEC-2000
04 | FLORIDA | CALHOUN COUNTY | 12013C0150D | 06-DEC-2000
04 | FLORIDA | CALHOUN COUNTY | 12013C0160D | 06-DEC-2000
04 | FLORIDA | CALHOUN COUNTY | 12013C0170D | 06-DEC-2000
04 | FLORIDA | CALHOUN COUNTY | 12013C0175D | 06-DEC-2000
04 | FLORIDA | CALHOUN COUNTY | 12013C0200D | 06-DEC-2000
04 | FLORIDA | CALHOUN COUNTY | 12013C0225D | 06-DEC-2000
04 | FLORIDA | CALHOUN COUNTY | 12013C0250D | 06-DEC-2000
04 | FLORIDA | CALHOUN COUNTY | 12013C0275D | 06-DEC-2000
04 | FLORIDA | CALHOUN COUNTY | 12013C0300D | 06-DEC-2000
04 | FLORIDA | CALHOUN COUNTY | 12013C0325D | 06-DEC-2000
04 | FLORIDA | CALHOUN COUNTY | 12013C0350D | 06-DEC-2000
04 | FLORIDA | CALHOUN COUNTY | 12013CIND0 | 06-DEC-2000
04 | FLORIDA | DAVENPORT, TOWN OF | 12105C0240F | 20-DEC-2000
04 | FLORIDA | DAVENPORT, TOWN OF | 12105CIND0 | 20-DEC-2000
04 | FLORIDA | DUNDEE, TOWN OF | 12105C0367F | 20-DEC-2000
04 | FLORIDA | DUNDEE, TOWN OF | 12105C0369F | 20-DEC-2000
04 | FLORIDA | DUNDEE, TOWN OF | 12105C0390F | 20-DEC-2000
04 | FLORIDA | DUNDEE, TOWN OF | 12105C0555F | 20-DEC-2000
04 | FLORIDA | DUNDEE, TOWN OF | 12105CIND0 | 20-DEC-2000
04 | FLORIDA | EAGLE LAKE, CITY OF | 12105C0510F | 20-DEC-2000
04 | FLORIDA | EAGLE LAKE, CITY OF | 12105C0530F | 20-DEC-2000
04 | FLORIDA | EAGLE LAKE, CITY OF | 12105CIND0 | 20-DEC-2000
04 | FLORIDA | EATONVILLE, TOWN OF | 12095C0235E | 06-DEC-2000
04 | FLORIDA | EATONVILLE, TOWN OF | 12095CIND0 | 06-DEC-2000
04 | FLORIDA | EDGEWOOD, CITY OF | 12095C0410E | 06-DEC-2000
04 | FLORIDA | EDGEWOOD, CITY OF | 12095C0430E | 06-DEC-2000
04 | FLORIDA | EDGEWOOD, CITY OF | 12095CIND0 | 06-DEC-2000
04 | FLORIDA | FORT MEADE, CITY OF | 12105C0695F | 20-DEC-2000
04 | FLORIDA | FORT MEADE, CITY OF | 12105C0700F | 20-DEC-2000
04 | FLORIDA | FORT MEADE, CITY OF | 12105C0885F | 20-DEC-2000
04 | FLORIDA | FORT MEADE, CITY OF | 12105CIND0 | 20-DEC-2000
04 | FLORIDA | FROSTPROOF, CITY OF | 12105C0745F | 20-DEC-2000
04 | FLORIDA | FROSTPROOF, CITY OF | 12105C0935F | 20-DEC-2000
04 | FLORIDA | FROSTPROOF, CITY OF | 12105CIND0 | 20-DEC-2000
04 | FLORIDA | HAINES CITY, CITY OF | 12105C0219F | 20-DEC-2000
04 | FLORIDA | HAINES CITY, CITY OF | 12105C0220F | 20-DEC-2000
04 | FLORIDA | HAINES CITY, CITY OF | 12105C0240F | 20-DEC-2000
04 | FLORIDA | HAINES CITY, CITY OF | 12105C0356F | 20-DEC-2000
04 | FLORIDA | HAINES CITY, CITY OF | 12105C0357F | 20-DEC-2000
04 | FLORIDA | HAINES CITY, CITY OF | 12105C0359F | 20-DEC-2000
04 | FLORIDA | HAINES CITY, CITY OF | 12105C0380F | 20-DEC-2000
04 | FLORIDA | HAINES CITY, CITY OF | 12105CIND0 | 20-DEC-2000
04 | FLORIDA | HIGHLAND PARK, VILLAGE OF | 12105C0730F | 20-DEC-2000
04 | FLORIDA | HIGHLAND PARK, VILLAGE OF | 12105C0735F | 20-DEC-2000
04 | FLORIDA | HIGHLAND PARK, VILLAGE OF | 12105CIND0 | 20-DEC-2000
04 | FLORIDA | HILLCREST HEIGHTS, TOWN OF | 12105C0735F | 20-DEC-2000
04 | FLORIDA | HILLCREST HEIGHTS, TOWN OF | 12105CIND0 | 20-DEC-2000
04 | FLORIDA | LAKE ALFRED, CITY OF | 12105C0335F | 20-DEC-2000
04 | FLORIDA | LAKE ALFRED, CITY OF | 12105C0355F | 20-DEC-2000
04 | FLORIDA | LAKE ALFRED, CITY OF | 12105CIND0 | 20-DEC-2000
04 | FLORIDA | LAKE BUENA VISTA, CITY OF | 12095C0390E | 06-DEC-2000
04 | FLORIDA | LAKE BUENA VISTA, CITY OF | 12095C0395E | 06-DEC-2000
04 | FLORIDA | LAKE BUENA VISTA, CITY OF | 12095CIND0 | 06-DEC-2000
04 | FLORIDA | LAKE HAMILTON, TOWN OF | 12105C0367F | 20-DEC-2000
04 | FLORIDA | LAKE HAMILTON, TOWN OF | 12105C0390F | 20-DEC-2000
04 | FLORIDA | LAKE HAMILTON, TOWN OF | 12105CIND0 | 20-DEC-2000
04 | FLORIDA | LAKE WALES, CITY OF | 12105C0535F | 20-DEC-2000
04 | FLORIDA | LAKE WALES, CITY OF | 12105C0545F | 20-DEC-2000
04 | FLORIDA | LAKE WALES, CITY OF | 12105C0555F | 20-DEC-2000
04 | FLORIDA | LAKE WALES, CITY OF | 12105C0565F | 20-DEC-2000
04 | FLORIDA | LAKE WALES, CITY OF | 12105C0570F | 20-DEC-2000
04 | FLORIDA | LAKE WALES, CITY OF | 12105C0730F | 20-DEC-2000
04 | FLORIDA | LAKE WALES, CITY OF | 12105CIND0 | 20-DEC-2000
04 | FLORIDA | LAKELAND, CITY OF | 12105C0175F | 20-DEC-2000
04 | FLORIDA | LAKELAND, CITY OF | 12105C0282F | 20-DEC-2000
04 | FLORIDA | LAKELAND, CITY OF | 12105C0284F | 20-DEC-2000
04 | FLORIDA | LAKELAND, CITY OF | 12105C0292F | 20-DEC-2000
04 | FLORIDA | LAKELAND, CITY OF | 12105C0293F | 20-DEC-2000
04 | FLORIDA | LAKELAND, CITY OF | 12105C0294F | 20-DEC-2000
04 | FLORIDA | LAKELAND, CITY OF | 12105C0301F | 20-DEC-2000
04 | FLORIDA | LAKELAND, CITY OF | 12105C0302F | 20-DEC-2000
04 | FLORIDA | LAKELAND, CITY OF | 12105C0303F | 20-DEC-2000
04 | FLORIDA | LAKELAND, CITY OF | 12105C0304F | 20-DEC-2000
04 | FLORIDA | LAKELAND, CITY OF | 12105C0310F | 20-DEC-2000
04 | FLORIDA | LAKELAND, CITY OF | 12105C0311F | 20-DEC-2000
04 | FLORIDA | LAKELAND, CITY OF | 12105C0313F | 20-DEC-2000
04 | FLORIDA | LAKELAND, CITY OF | 12105C0315F | 20-DEC-2000
04 | FLORIDA | LAKELAND, CITY OF | 12105C0320F | 20-DEC-2000
04 | FLORIDA | LAKELAND, CITY OF | 12105C0460F | 20-DEC-2000
04 | FLORIDA | LAKELAND, CITY OF | 12105C0480F | 20-DEC-2000
04 | FLORIDA | LAKELAND, CITY OF | 12105C0485F | 20-DEC-2000
04 | FLORIDA | LAKELAND, CITY OF | 12105CIND0 | 20-DEC-2000
04 | FLORIDA | LEE COUNTY* | 1251240381E | 20-DEC-2000
04 | FLORIDA | LEE COUNTY* | 125124IND0 | 20-DEC-2000
04 | FLORIDA | MAITLAND, CITY OF | 12095C0145E | 06-DEC-2000
04 | FLORIDA | MAITLAND, CITY OF | 12095C0165E | 06-DEC-2000
04 | FLORIDA | MAITLAND, CITY OF | 12095C0235E | 06-DEC-2000
04 | FLORIDA | MAITLAND, CITY OF | 12095C0255E | 06-DEC-2000
04 | FLORIDA | MAITLAND, CITY OF | 12095CIND0 | 06-DEC-2000
04 | FLORIDA | MONROE COUNTY* | 12087C0658H | 20-DEC-2000
04 | FLORIDA | MONROE COUNTY* | 12087C0666H | 20-DEC-2000
04 | FLORIDA | MONROE COUNTY* | 12087CIND0 | 20-DEC-2000
04 | FLORIDA | MULBERRY, CITY OF | 12105C0490F | 20-DEC-2000
04 | FLORIDA | MULBERRY, CITY OF | 12105CIND0 | 20-DEC-2000
04 | FLORIDA | OAKLAND, TOWN OF | 12095C0200E | 06-DEC-2000
04 | FLORIDA | OAKLAND, TOWN OF | 12095C0205E | 06-DEC-2000
04 | FLORIDA | OAKLAND, TOWN OF | 12095C0215E | 06-DEC-2000
04 | FLORIDA | OAKLAND, TOWN OF | 12095CIND0 | 06-DEC-2000
04 | FLORIDA | OCOEE, CITY OF | 12095C0205E | 06-DEC-2000
04 | FLORIDA | OCOEE, CITY OF | 12095C0210E | 06-DEC-2000
04 | FLORIDA | OCOEE, CITY OF | 12095C0220E | 06-DEC-2000
04 | FLORIDA | OCOEE, CITY OF | 12095C0230E | 06-DEC-2000
04 | FLORIDA | OCOEE, CITY OF | 12095CIND0 | 06-DEC-2000
04 | FLORIDA | ORANGE COUNTY * | 12095C0020E | 06-DEC-2000
04 | FLORIDA | ORANGE COUNTY * | 12095C0050E | 06-DEC-2000
04 | FLORIDA | ORANGE COUNTY * | 12095C0075E | 06-DEC-2000
04 | FLORIDA | ORANGE COUNTY * | 12095C0100E | 06-DEC-2000
04 | FLORIDA | ORANGE COUNTY * | 12095C0110E | 06-DEC-2000
04 | FLORIDA | ORANGE COUNTY * | 12095C0120E | 06-DEC-2000
04 | FLORIDA | ORANGE COUNTY * | 12095C0125E | 06-DEC-2000
04 | FLORIDA | ORANGE COUNTY * | 12095C0140E | 06-DEC-2000
04 | FLORIDA | ORANGE COUNTY * | 12095C0145E | 06-DEC-2000
04 | FLORIDA | ORANGE COUNTY * | 12095C0150E | 06-DEC-2000
04 | FLORIDA | ORANGE COUNTY * | 12095C0165E | 06-DEC-2000
04 | FLORIDA | ORANGE COUNTY * | 12095C0200E | 06-DEC-2000
04 | FLORIDA | ORANGE COUNTY * | 12095C0205E | 06-DEC-2000
04 | FLORIDA | ORANGE COUNTY * | 12095C0210E | 06-DEC-2000
04 | FLORIDA | ORANGE COUNTY * | 12095C0215E | 06-DEC-2000
04 | FLORIDA | ORANGE COUNTY * | 12095C0220E | 06-DEC-2000
04 | FLORIDA | ORANGE COUNTY * | 12095C0230E | 06-DEC-2000
04 | FLORIDA | ORANGE COUNTY * | 12095C0235E | 06-DEC-2000
04 | FLORIDA | ORANGE COUNTY * | 12095C0240E | 06-DEC-2000
04 | FLORIDA | ORANGE COUNTY * | 12095C0245E | 06-DEC-2000
04 | FLORIDA | ORANGE COUNTY * | 12095C0255E | 06-DEC-2000
04 | FLORIDA | ORANGE COUNTY * | 12095C0260E | 06-DEC-2000
04 | FLORIDA | ORANGE COUNTY * | 12095C0265E | 06-DEC-2000
04 | FLORIDA | ORANGE COUNTY * | 12095C0270E | 06-DEC-2000
04 | FLORIDA | ORANGE COUNTY * | 12095C0280E | 06-DEC-2000
04 | FLORIDA | ORANGE COUNTY * | 12095C0285E | 06-DEC-2000
04 | FLORIDA | ORANGE COUNTY * | 12095C0290E | 06-DEC-2000
04 | FLORIDA | ORANGE COUNTY * | 12095C0295E | 06-DEC-2000
04 | FLORIDA | ORANGE COUNTY * | 12095C0305E | 06-DEC-2000
04 | FLORIDA | ORANGE COUNTY * | 12095C0310E | 06-DEC-2000
04 | FLORIDA | ORANGE COUNTY * | 12095C0315E | 06-DEC-2000
04 | FLORIDA | ORANGE COUNTY * | 12095C0320E | 06-DEC-2000
04 | FLORIDA | ORANGE COUNTY * | 12095C0350E | 06-DEC-2000
04 | FLORIDA | ORANGE COUNTY * | 12095C0375E | 06-DEC-2000
04 | FLORIDA | ORANGE COUNTY * | 12095C0380E | 06-DEC-2000
04 | FLORIDA | ORANGE COUNTY * | 12095C0385E | 06-DEC-2000
04 | FLORIDA | ORANGE COUNTY * | 12095C0390E | 06-DEC-2000
04 | FLORIDA | ORANGE COUNTY * | 12095C0395E | 06-DEC-2000
04 | FLORIDA | ORANGE COUNTY * | 12095C0405E | 06-DEC-2000
04 | FLORIDA | ORANGE COUNTY * | 12095C0410E | 06-DEC-2000
04 | FLORIDA | ORANGE COUNTY * | 12095C0415E | 06-DEC-2000
04 | FLORIDA | ORANGE COUNTY * | 12095C0420E | 06-DEC-2000
04 | FLORIDA | ORANGE COUNTY * | 12095C0430E | 06-DEC-2000
04 | FLORIDA | ORANGE COUNTY * | 12095C0435E | 06-DEC-2000
04 | FLORIDA | ORANGE COUNTY * | 12095C0440E | 06-DEC-2000
04 | FLORIDA | ORANGE COUNTY * | 12095C0445E | 06-DEC-2000
04 | FLORIDA | ORANGE COUNTY * | 12095C0455E | 06-DEC-2000
04 | FLORIDA | ORANGE COUNTY * | 12095C0465E | 06-DEC-2000
04 | FLORIDA | ORANGE COUNTY * | 12095C0475E | 06-DEC-2000
04 | FLORIDA | ORANGE COUNTY * | 12095C0500E | 06-DEC-2000
04 | FLORIDA | ORANGE COUNTY * | 12095C0525E | 06-DEC-2000
04 | FLORIDA | ORANGE COUNTY * | 12095C0535E | 06-DEC-2000
04 | FLORIDA | ORANGE COUNTY * | 12095C0555E | 06-DEC-2000
04 | FLORIDA | ORANGE COUNTY * | 12095C0560E | 06-DEC-2000
04 | FLORIDA | ORANGE COUNTY * | 12095C0575E | 06-DEC-2000
04 | FLORIDA | ORANGE COUNTY * | 12095C0580E | 06-DEC-2000
04 | FLORIDA | ORANGE COUNTY * | 12095C0585E | 06-DEC-2000
04 | FLORIDA | ORANGE COUNTY * | 12095C0625E | 06-DEC-2000
04 | FLORIDA | ORANGE COUNTY * | 12095C0650E | 06-DEC-2000
04 | FLORIDA | ORANGE COUNTY * | 12095C0675E | 06-DEC-2000
04 | FLORIDA | ORANGE COUNTY * | 12095C0700E | 06-DEC-2000
04 | FLORIDA | ORANGE COUNTY * | 12095CIND0 | 06-DEC-2000
04 | FLORIDA | ORLANDO, CITY OF | 12095C0220E | 06-DEC-2000
04 | FLORIDA | ORLANDO, CITY OF | 12095C0230E | 06-DEC-2000
04 | FLORIDA | ORLANDO, CITY OF | 12095C0235E | 06-DEC-2000
04 | FLORIDA | ORLANDO, CITY OF | 12095C0240E | 06-DEC-2000
04 | FLORIDA | ORLANDO, CITY OF | 12095C0245E | 06-DEC-2000
04 | FLORIDA | ORLANDO, CITY OF | 12095C0255E | 06-DEC-2000
04 | FLORIDA | ORLANDO, CITY OF | 12095C0265E | 06-DEC-2000
04 | FLORIDA | ORLANDO, CITY OF | 12095C0270E | 06-DEC-2000
04 | FLORIDA | ORLANDO, CITY OF | 12095C0405E | 06-DEC-2000
04 | FLORIDA | ORLANDO, CITY OF | 12095C0410E | 06-DEC-2000
04 | FLORIDA | ORLANDO, CITY OF | 12095C0430E | 06-DEC-2000
04 | FLORIDA | ORLANDO, CITY OF | 12095C0435E | 06-DEC-2000
04 | FLORIDA | ORLANDO, CITY OF | 12095C0440E | 06-DEC-2000
04 | FLORIDA | ORLANDO, CITY OF | 12095C0445E | 06-DEC-2000
04 | FLORIDA | ORLANDO, CITY OF | 12095C0455E | 06-DEC-2000
04 | FLORIDA | ORLANDO, CITY OF | 12095C0465E | 06-DEC-2000
04 | FLORIDA | ORLANDO, CITY OF | 12095C0625E | 06-DEC-2000
04 | FLORIDA | ORLANDO, CITY OF | 12095C0650E | 06-DEC-2000
04 | FLORIDA | ORLANDO, CITY OF | 12095CIND0 | 06-DEC-2000
04 | FLORIDA | POLK CITY, TOWN OF | 12105C0180F | 20-DEC-2000
04 | FLORIDA | POLK CITY, TOWN OF | 12105C0190F | 20-DEC-2000
04 | FLORIDA | POLK CITY, TOWN OF | 12105C0200F | 20-DEC-2000
04 | FLORIDA | POLK CITY, TOWN OF | 12105CIND0 | 20-DEC-2000
04 | FLORIDA | POLK COUNTY* | 12105C0025F | 20-DEC-2000
04 | FLORIDA | POLK COUNTY* | 12105C0050F | 20-DEC-2000
04 | FLORIDA | POLK COUNTY* | 12105C0075F | 20-DEC-2000
04 | FLORIDA | POLK COUNTY* | 12105C0100F | 20-DEC-2000
04 | FLORIDA | POLK COUNTY* | 12105C0125F | 20-DEC-2000
04 | FLORIDA | POLK COUNTY* | 12105C0130F | 20-DEC-2000
04 | FLORIDA | POLK COUNTY* | 12105C0135F | 20-DEC-2000
04 | FLORIDA | POLK COUNTY* | 12105C0140F | 20-DEC-2000
04 | FLORIDA | POLK COUNTY* | 12105C0145F | 20-DEC-2000
04 | FLORIDA | POLK COUNTY* | 12105C0161F | 20-DEC-2000
04 | FLORIDA | POLK COUNTY* | 12105C0163F | 20-DEC-2000
04 | FLORIDA | POLK COUNTY* | 12105C0175F | 20-DEC-2000
04 | FLORIDA | POLK COUNTY* | 12105C0180F | 20-DEC-2000
04 | FLORIDA | POLK COUNTY* | 12105C0190F | 20-DEC-2000
04 | FLORIDA | POLK COUNTY* | 12105C0200F | 20-DEC-2000
04 | FLORIDA | POLK COUNTY* | 12105C0215F | 20-DEC-2000
04 | FLORIDA | POLK COUNTY* | 12105C0219F | 20-DEC-2000
04 | FLORIDA | POLK COUNTY* | 12105C0220F | 20-DEC-2000
04 | FLORIDA | POLK COUNTY* | 12105C0225F | 20-DEC-2000
04 | FLORIDA | POLK COUNTY* | 12105C0240F | 20-DEC-2000
04 | FLORIDA | POLK COUNTY* | 12105C0250F | 20-DEC-2000
04 | FLORIDA | POLK COUNTY* | 12105C0275F | 20-DEC-2000
04 | FLORIDA | POLK COUNTY* | 12105C0281F | 20-DEC-2000
04 | FLORIDA | POLK COUNTY* | 12105C0282F | 20-DEC-2000
04 | FLORIDA | POLK COUNTY* | 12105C0283F | 20-DEC-2000
04 | FLORIDA | POLK COUNTY* | 12105C0284F | 20-DEC-2000
04 | FLORIDA | POLK COUNTY* | 12105C0291F | 20-DEC-2000
04 | FLORIDA | POLK COUNTY* | 12105C0292F | 20-DEC-2000
04 | FLORIDA | POLK COUNTY* | 12105C0293F | 20-DEC-2000
04 | FLORIDA | POLK COUNTY* | 12105C0294F | 20-DEC-2000
04 | FLORIDA | POLK COUNTY* | 12105C0301F | 20-DEC-2000
04 | FLORIDA | POLK COUNTY* | 12105C0302F | 20-DEC-2000
04 | FLORIDA | POLK COUNTY* | 12105C0303F | 20-DEC-2000
04 | FLORIDA | POLK COUNTY* | 12105C0304F | 20-DEC-2000
04 | FLORIDA | POLK COUNTY* | 12105C0310F | 20-DEC-2000
04 | FLORIDA | POLK COUNTY* | 12105C0311F | 20-DEC-2000
04 | FLORIDA | POLK COUNTY* | 12105C0313F | 20-DEC-2000
04 | FLORIDA | POLK COUNTY* | 12105C0315F | 20-DEC-2000
04 | FLORIDA | POLK COUNTY* | 12105C0320F | 20-DEC-2000
04 | FLORIDA | POLK COUNTY* | 12105C0330F | 20-DEC-2000
04 | FLORIDA | POLK COUNTY* | 12105C0335F | 20-DEC-2000
04 | FLORIDA | POLK COUNTY* | 12105C0340F | 20-DEC-2000
04 | FLORIDA | POLK COUNTY* | 12105C0345F | 20-DEC-2000
04 | FLORIDA | POLK COUNTY* | 12105C0355F | 20-DEC-2000
04 | FLORIDA | POLK COUNTY* | 12105C0356F | 20-DEC-2000
04 | FLORIDA | POLK COUNTY* | 12105C0357F | 20-DEC-2000
04 | FLORIDA | POLK COUNTY* | 12105C0358F | 20-DEC-2000
04 | FLORIDA | POLK COUNTY* | 12105C0359F | 20-DEC-2000
04 | FLORIDA | POLK COUNTY* | 12105C0364F | 20-DEC-2000
04 | FLORIDA | POLK COUNTY* | 12105C0365F | 20-DEC-2000
04 | FLORIDA | POLK COUNTY* | 12105C0366F | 20-DEC-2000
04 | FLORIDA | POLK COUNTY* | 12105C0367F | 20-DEC-2000
04 | FLORIDA | POLK COUNTY* | 12105C0368F | 20-DEC-2000
04 | FLORIDA | POLK COUNTY* | 12105C0369F | 20-DEC-2000
04 | FLORIDA | POLK COUNTY* | 12105C0380F | 20-DEC-2000
04 | FLORIDA | POLK COUNTY* | 12105C0385F | 20-DEC-2000
04 | FLORIDA | POLK COUNTY* | 12105C0390F | 20-DEC-2000
04 | FLORIDA | POLK COUNTY* | 12105C0395F | 20-DEC-2000
04 | FLORIDA | POLK COUNTY* | 12105C0425F | 20-DEC-2000
04 | FLORIDA | POLK COUNTY* | 12105C0450F | 20-DEC-2000
04 | FLORIDA | POLK COUNTY* | 12105C0460F | 20-DEC-2000
04 | FLORIDA | POLK COUNTY* | 12105C0470F | 20-DEC-2000
04 | FLORIDA | POLK COUNTY* | 12105C0480F | 20-DEC-2000
04 | FLORIDA | POLK COUNTY* | 12105C0485F | 20-DEC-2000
04 | FLORIDA | POLK COUNTY* | 12105C0490F | 20-DEC-2000
04 | FLORIDA | POLK COUNTY* | 12105C0495F | 20-DEC-2000
04 | FLORIDA | POLK COUNTY* | 12105C0505F | 20-DEC-2000
04 | FLORIDA | POLK COUNTY* | 12105C0510F | 20-DEC-2000
04 | FLORIDA | POLK COUNTY* | 12105C0515F | 20-DEC-2000
04 | FLORIDA | POLK COUNTY* | 12105C0520F | 20-DEC-2000
04 | FLORIDA | POLK COUNTY* | 12105C0530F | 20-DEC-2000
04 | FLORIDA | POLK COUNTY* | 12105C0535F | 20-DEC-2000
04 | FLORIDA | POLK COUNTY* | 12105C0540F | 20-DEC-2000
04 | FLORIDA | POLK COUNTY* | 12105C0545F | 20-DEC-2000
04 | FLORIDA | POLK COUNTY* | 12105C0555F | 20-DEC-2000
04 | FLORIDA | POLK COUNTY* | 12105C0560F | 20-DEC-2000
04 | FLORIDA | POLK COUNTY* | 12105C0565F | 20-DEC-2000
04 | FLORIDA | POLK COUNTY* | 12105C0570F | 20-DEC-2000
04 | FLORIDA | POLK COUNTY* | 12105C0580F | 20-DEC-2000
04 | FLORIDA | POLK COUNTY* | 12105C0585F | 20-DEC-2000
04 | FLORIDA | POLK COUNTY* | 12105C0590F | 20-DEC-2000
04 | FLORIDA | POLK COUNTY* | 12105C0595F | 20-DEC-2000
04 | FLORIDA | POLK COUNTY* | 12105C0625F | 20-DEC-2000
04 | FLORIDA | POLK COUNTY* | 12105C0650F | 20-DEC-2000
04 | FLORIDA | POLK COUNTY* | 12105C0675F | 20-DEC-2000
04 | FLORIDA | POLK COUNTY* | 12105C0685F | 20-DEC-2000
04 | FLORIDA | POLK COUNTY* | 12105C0695F | 20-DEC-2000
04 | FLORIDA | POLK COUNTY* | 12105C0700F | 20-DEC-2000
04 | FLORIDA | POLK COUNTY* | 12105C0710F | 20-DEC-2000
04 | FLORIDA | POLK COUNTY* | 12105C0725F | 20-DEC-2000
04 | FLORIDA | POLK COUNTY* | 12105C0730F | 20-DEC-2000
04 | FLORIDA | POLK COUNTY* | 12105C0735F | 20-DEC-2000
04 | FLORIDA | POLK COUNTY* | 12105C0740F | 20-DEC-2000
04 | FLORIDA | POLK COUNTY* | 12105C0745F | 20-DEC-2000
04 | FLORIDA | POLK COUNTY* | 12105C0755F | 20-DEC-2000
04 | FLORIDA | POLK COUNTY* | 12105C0760F | 20-DEC-2000
04 | FLORIDA | POLK COUNTY* | 12105C0765F | 20-DEC-2000
04 | FLORIDA | POLK COUNTY* | 12105C0770F | 20-DEC-2000
04 | FLORIDA | POLK COUNTY* | 12105C0800F | 20-DEC-2000
04 | FLORIDA | POLK COUNTY* | 12105C0825F | 20-DEC-2000
04 | FLORIDA | POLK COUNTY* | 12105C0850F | 20-DEC-2000
04 | FLORIDA | POLK COUNTY* | 12105C0875F | 20-DEC-2000
04 | FLORIDA | POLK COUNTY* | 12105C0885F | 20-DEC-2000
04 | FLORIDA | POLK COUNTY* | 12105C0895F | 20-DEC-2000
04 | FLORIDA | POLK COUNTY* | 12105C0900F | 20-DEC-2000
04 | FLORIDA | POLK COUNTY* | 12105C0925F | 20-DEC-2000
04 | FLORIDA | POLK COUNTY* | 12105C0935F | 20-DEC-2000
04 | FLORIDA | POLK COUNTY* | 12105C0945F | 20-DEC-2000
04 | FLORIDA | POLK COUNTY* | 12105C0950F | 20-DEC-2000
04 | FLORIDA | POLK COUNTY* | 12105C0975F | 20-DEC-2000
04 | FLORIDA | POLK COUNTY* | 12105C1000F | 20-DEC-2000
04 | FLORIDA | POLK COUNTY* | 12105C1025F | 20-DEC-2000
04 | FLORIDA | POLK COUNTY* | 12105CIND0 | 20-DEC-2000
04 | FLORIDA | REEDY CREEK IMPROVEMENT DIST. | 12095C0390E | 06-DEC-2000
04 | FLORIDA | REEDY CREEK IMPROVEMENT DIST. | 12095C0395E | 06-DEC-2000
04 | FLORIDA | REEDY CREEK IMPROVEMENT DIST. | 12095C0555E | 06-DEC-2000
04 | FLORIDA | REEDY CREEK IMPROVEMENT DIST. | 12095C0560E | 06-DEC-2000
04 | FLORIDA | REEDY CREEK IMPROVEMENT DIST. | 12095C0575E | 06-DEC-2000
04 | FLORIDA | REEDY CREEK IMPROVEMENT DIST. | 12095CIND0 | 06-DEC-2000
04 | FLORIDA | WINDERMERE, TOWN OF | 12095C0220E | 06-DEC-2000
04 | FLORIDA | WINDERMERE, TOWN OF | 12095C0385E | 06-DEC-2000
04 | FLORIDA | WINDERMERE, TOWN OF | 12095CIND0 | 06-DEC-2000
04 | FLORIDA | WINTER GARDEN, CITY OF | 12095C0205E | 06-DEC-2000
04 | FLORIDA | WINTER GARDEN, CITY OF | 12095C0210E | 06-DEC-2000
04 | FLORIDA | WINTER GARDEN, CITY OF | 12095C0215E | 06-DEC-2000
04 | FLORIDA | WINTER GARDEN, CITY OF | 12095C0220E | 06-DEC-2000
04 | FLORIDA | WINTER GARDEN, CITY OF | 12095CIND0 | 06-DEC-2000
04 | FLORIDA | WINTER HAVEN, CITY OF | 12105C0335F | 20-DEC-2000
04 | FLORIDA | WINTER HAVEN, CITY OF | 12105C0345F | 20-DEC-2000
04 | FLORIDA | WINTER HAVEN, CITY OF | 12105C0355F | 20-DEC-2000
04 | FLORIDA | WINTER HAVEN, CITY OF | 12105C0358F | 20-DEC-2000
04 | FLORIDA | WINTER HAVEN, CITY OF | 12105C0359F | 20-DEC-2000
04 | FLORIDA | WINTER HAVEN, CITY OF | 12105C0364F | 20-DEC-2000
04 | FLORIDA | WINTER HAVEN, CITY OF | 12105C0365F | 20-DEC-2000
04 | FLORIDA | WINTER HAVEN, CITY OF | 12105C0366F | 20-DEC-2000
04 | FLORIDA | WINTER HAVEN, CITY OF | 12105C0368F | 20-DEC-2000
04 | FLORIDA | WINTER HAVEN, CITY OF | 12105C0369F | 20-DEC-2000
04 | FLORIDA | WINTER HAVEN, CITY OF | 12105C0530F | 20-DEC-2000
04 | FLORIDA | WINTER HAVEN, CITY OF | 12105C0535F | 20-DEC-2000
04 | FLORIDA | WINTER HAVEN, CITY OF | 12105CIND0 | 20-DEC-2000
04 | FLORIDA | WINTER PARK, CITY OF | 12095C0165E | 06-DEC-2000
04 | FLORIDA | WINTER PARK, CITY OF | 12095C0235E | 06-DEC-2000
04 | FLORIDA | WINTER PARK, CITY OF | 12095C0255E | 06-DEC-2000
04 | FLORIDA | WINTER PARK, CITY OF | 12095C0260E | 06-DEC-2000
04 | FLORIDA | WINTER PARK, CITY OF | 12095CIND0 | 06-DEC-2000
04 | GEORGIA | BLUE RIDGE, CITY OF | 13111C0065D | 19-JUL-2000
04 | GEORGIA | BLUE RIDGE, CITY OF | 13111C0177D** | 19-JUL-2000
04 | GEORGIA | BLUE RIDGE, CITY OF | 13111C0181D | 19-JUL-2000
04 | GEORGIA | BLUE RIDGE, CITY OF | 13111CIND0 | 19-JUL-2000
04 | GEORGIA | CAVE SPRING, CITY OF | 13115C0265D** | 09-AUG-2000
04 | GEORGIA | CAVE SPRING, CITY OF | 13115C0355D** | 09-AUG-2000
04 | GEORGIA | CAVE SPRING, CITY OF | 13115CIND0 | 09-AUG-2000
04 | GEORGIA | CLAYTON COUNTY* | 1300410045B** | 20-NOV-2000
04 | GEORGIA | CLAYTON COUNTY* | 1300410065B** | 20-NOV-2000
04 | GEORGIA | CLAYTON COUNTY* | 1300410070C** | 20-NOV-2000
04 | GEORGIA | CLAYTON COUNTY* | 130041IND0 | 20-NOV-2000
04 | GEORGIA | FANNIN COUNTY | 13111C0025D** | 19-JUL-2000
04 | GEORGIA | FANNIN COUNTY | 13111C0032D | 19-JUL-2000
04 | GEORGIA | FANNIN COUNTY | 13111C0035D | 19-JUL-2000
04 | GEORGIA | FANNIN COUNTY | 13111C0045D | 19-JUL-2000
04 | GEORGIA | FANNIN COUNTY | 13111C0050D** | 19-JUL-2000
04 | GEORGIA | FANNIN COUNTY | 13111C0051D** | 19-JUL-2000
04 | GEORGIA | FANNIN COUNTY | 13111C0055D | 19-JUL-2000
04 | GEORGIA | FANNIN COUNTY | 13111C0060D | 19-JUL-2000
04 | GEORGIA | FANNIN COUNTY | 13111C0065D | 19-JUL-2000
04 | GEORGIA | FANNIN COUNTY | 13111C0066D** | 19-JUL-2000
04 | GEORGIA | FANNIN COUNTY | 13111C0067D | 19-JUL-2000
04 | GEORGIA | FANNIN COUNTY | 13111C0068D | 19-JUL-2000
04 | GEORGIA | FANNIN COUNTY | 13111C0069D** | 19-JUL-2000
04 | GEORGIA | FANNIN COUNTY | 13111C0088D | 19-JUL-2000
04 | GEORGIA | FANNIN COUNTY | 13111C0090D | 19-JUL-2000
04 | GEORGIA | FANNIN COUNTY | 13111C0095D** | 19-JUL-2000
04 | GEORGIA | FANNIN COUNTY | 13111C0100D** | 19-JUL-2000
04 | GEORGIA | FANNIN COUNTY | 13111C0115D** | 19-JUL-2000
04 | GEORGIA | FANNIN COUNTY | 13111C0150D** | 19-JUL-2000
04 | GEORGIA | FANNIN COUNTY | 13111C0155D** | 19-JUL-2000
04 | GEORGIA | FANNIN COUNTY | 13111C0160D | 19-JUL-2000
04 | GEORGIA | FANNIN COUNTY | 13111C0177D** | 19-JUL-2000
04 | GEORGIA | FANNIN COUNTY | 13111C0180D | 19-JUL-2000
04 | GEORGIA | FANNIN COUNTY | 13111C0181D | 19-JUL-2000
04 | GEORGIA | FANNIN COUNTY | 13111C0185D | 19-JUL-2000
04 | GEORGIA | FANNIN COUNTY | 13111C0195D | 19-JUL-2000
04 | GEORGIA | FANNIN COUNTY | 13111C0205D | 19-JUL-2000
04 | GEORGIA | FANNIN COUNTY | 13111C0210D** | 19-JUL-2000
04 | GEORGIA | FANNIN COUNTY | 13111C0215D** | 19-JUL-2000
04 | GEORGIA | FANNIN COUNTY | 13111C0220D | 19-JUL-2000
04 | GEORGIA | FANNIN COUNTY | 13111C0230D** | 19-JUL-2000
04 | GEORGIA | FANNIN COUNTY | 13111C0240D** | 19-JUL-2000
04 | GEORGIA | FANNIN COUNTY | 13111C0260D** | 19-JUL-2000
04 | GEORGIA | FANNIN COUNTY | 13111C0280D** | 19-JUL-2000
04 | GEORGIA | FANNIN COUNTY | 13111C0285D** | 19-JUL-2000
04 | GEORGIA | FANNIN COUNTY | 13111C0290D | 19-JUL-2000
04 | GEORGIA | FANNIN COUNTY | 13111C0295D** | 19-JUL-2000
04 | GEORGIA | FANNIN COUNTY | 13111C0305D | 19-JUL-2000
04 | GEORGIA | FANNIN COUNTY | 13111CIND0 | 19-JUL-2000
04 | GEORGIA | FLOYD COUNTY* | 13115C0090D** | 09-AUG-2000
04 | GEORGIA | FLOYD COUNTY* | 13115C0095D** | 09-AUG-2000
04 | GEORGIA | FLOYD COUNTY* | 13115C0125D** | 09-AUG-2000
04 | GEORGIA | FLOYD COUNTY* | 13115C0150D** | 09-AUG-2000
04 | GEORGIA | FLOYD COUNTY* | 13115C0165D** | 09-AUG-2000
04 | GEORGIA | FLOYD COUNTY* | 13115C0175D | 09-AUG-2000
04 | GEORGIA | FLOYD COUNTY* | 13115C0180D** | 09-AUG-2000
04 | GEORGIA | FLOYD COUNTY* | 13115C0185D** | 09-AUG-2000
04 | GEORGIA | FLOYD COUNTY* | 13115C0190D | 09-AUG-2000
04 | GEORGIA | FLOYD COUNTY* | 13115C0195D | 09-AUG-2000
04 | GEORGIA | FLOYD COUNTY* | 13115C0205D** | 09-AUG-2000
04 | GEORGIA | FLOYD COUNTY* | 13115C0215D** | 09-AUG-2000
04 | GEORGIA | FLOYD COUNTY* | 13115C0220D** | 09-AUG-2000
04 | GEORGIA | FLOYD COUNTY* | 13115C0250D** | 09-AUG-2000
04 | GEORGIA | FLOYD COUNTY* | 13115C0255D** | 09-AUG-2000
04 | GEORGIA | FLOYD COUNTY* | 13115C0260D** | 09-AUG-2000
04 | GEORGIA | FLOYD COUNTY* | 13115C0265D** | 09-AUG-2000
04 | GEORGIA | FLOYD COUNTY* | 13115C0270D** | 09-AUG-2000
04 | GEORGIA | FLOYD COUNTY* | 13115C0280D | 09-AUG-2000
04 | GEORGIA | FLOYD COUNTY* | 13115C0285D** | 09-AUG-2000
04 | GEORGIA | FLOYD COUNTY* | 13115C0290D** | 09-AUG-2000
04 | GEORGIA | FLOYD COUNTY* | 13115C0295D** | 09-AUG-2000
04 | GEORGIA | FLOYD COUNTY* | 13115C0305D** | 09-AUG-2000
04 | GEORGIA | FLOYD COUNTY* | 13115C0310D** | 09-AUG-2000
04 | GEORGIA | FLOYD COUNTY* | 13115C0335D | 09-AUG-2000
04 | GEORGIA | FLOYD COUNTY* | 13115C0355D** | 09-AUG-2000
04 | GEORGIA | FLOYD COUNTY* | 13115C0360D** | 09-AUG-2000
04 | GEORGIA | FLOYD COUNTY* | 13115CIND0 | 09-AUG-2000
04 | GEORGIA | MCCAYSVILLE, CITY OF | 13111C0032D | 19-JUL-2000
04 | GEORGIA | MCCAYSVILLE, CITY OF | 13111C0051D** | 19-JUL-2000
04 | GEORGIA | MCCAYSVILLE, CITY OF | 13111CIND0 | 19-JUL-2000
04 | GEORGIA | MORGANTON, CITY OF | 13111C0069D** | 19-JUL-2000
04 | GEORGIA | MORGANTON, CITY OF | 13111C0088D | 19-JUL-2000
04 | GEORGIA | MORGANTON, CITY OF | 13111C0185D | 19-JUL-2000
04 | GEORGIA | MORGANTON, CITY OF | 13111C0205D | 19-JUL-2000
04 | GEORGIA | MORGANTON, CITY OF | 13111CIND0 | 19-JUL-2000
04 | GEORGIA | ROME, CITY OF | 13115C0175D | 09-AUG-2000
04 | GEORGIA | ROME, CITY OF | 13115C0180D** | 09-AUG-2000
04 | GEORGIA | ROME, CITY OF | 13115C0185D** | 09-AUG-2000
04 | GEORGIA | ROME, CITY OF | 13115C0190D | 09-AUG-2000
04 | GEORGIA | ROME, CITY OF | 13115C0195D | 09-AUG-2000
04 | GEORGIA | ROME, CITY OF | 13115C0215D** | 09-AUG-2000
04 | GEORGIA | ROME, CITY OF | 13115C0280D | 09-AUG-2000
04 | GEORGIA | ROME, CITY OF | 13115C0285D** | 09-AUG-2000
04 | GEORGIA | ROME, CITY OF | 13115C0305D** | 09-AUG-2000
04 | GEORGIA | ROME, CITY OF | 13115CIND0 | 09-AUG-2000
04 | MISSISSIPPI | DESOTO COUNTY | 28033C0035F** | 23-AUG-2000
04 | MISSISSIPPI | DESOTO COUNTY | 28033C0045F** | 23-AUG-2000
04 | MISSISSIPPI | DESOTO COUNTY | 28033C0055E** | 23-AUG-2000
04 | MISSISSIPPI | DESOTO COUNTY | 28033C0065E** | 23-AUG-2000
04 | MISSISSIPPI | DESOTO COUNTY | 28033C0075E** | 23-AUG-2000
04 | MISSISSIPPI | DESOTO COUNTY | 28033CIND0 | 23-AUG-2000
04 | MISSISSIPPI | OLIVE BRANCH,TOWN OF | 28033C0035F** | 23-AUG-2000
04 | MISSISSIPPI | OLIVE BRANCH,TOWN OF | 28033C0045F** | 23-AUG-2000
04 | MISSISSIPPI | OLIVE BRANCH,TOWN OF | 28033C0055E** | 23-AUG-2000
04 | MISSISSIPPI | OLIVE BRANCH,TOWN OF | 28033C0065E** | 23-AUG-2000
04 | MISSISSIPPI | OLIVE BRANCH,TOWN OF | 28033C0075E** | 23-AUG-2000
04 | MISSISSIPPI | OLIVE BRANCH,TOWN OF | 28033CIND0 | 23-AUG-2000
04 | MISSISSIPPI | SHUBUTA, TOWN OF | 2800340001D | 19-JUL-2000
04 | MISSISSIPPI | SOUTHAVEN, CITY OF | 28033C0035F** | 23-AUG-2000
04 | MISSISSIPPI | SOUTHAVEN, CITY OF | 28033CIND0 | 23-AUG-2000
04 | NORTH CAROLINA | ALBEMARLE, CITY OF | 37167C0037D | 07-SEP-2000
04 | NORTH CAROLINA | ALBEMARLE, CITY OF | 37167C0039D | 21-SEP-2000
04 | NORTH CAROLINA | ALBEMARLE, CITY OF | 37167C0043D** | 21-SEP-2000
04 | NORTH CAROLINA | ALBEMARLE, CITY OF | 37167C0126D** | 21-SEP-2000
04 | NORTH CAROLINA | ALBEMARLE, CITY OF | 37167C0127D | 21-SEP-2000
04 | NORTH CAROLINA | ALBEMARLE, CITY OF | 37167C0128D** | 21-SEP-2000
04 | NORTH CAROLINA | ALBEMARLE, CITY OF | 37167C0129D | 21-SEP-2000
04 | NORTH CAROLINA | ALBEMARLE, CITY OF | 37167C0131D** | 21-SEP-2000
04 | NORTH CAROLINA | ALBEMARLE, CITY OF | 37167C0150D | 21-SEP-2000
04 | NORTH CAROLINA | ALBEMARLE, CITY OF | 37167CIND0 | 21-SEP-2000
04 | NORTH CAROLINA | BADEN, TOWN OF | 37167C0050D | 21-SEP-2000
04 | NORTH CAROLINA | BADEN, TOWN OF | 37167C0075D | 21-SEP-2000
04 | NORTH CAROLINA | BADEN, TOWN OF | 37167CIND0 | 21-SEP-2000
04 | NORTH CAROLINA | BENSON, TOWN OF | 37101C0340D** | 20-OCT-2000
04 | NORTH CAROLINA | BENSON, TOWN OF | 37101C0345D** | 20-OCT-2000
04 | NORTH CAROLINA | BENSON, TOWN OF | 37101C0460D** | 20-OCT-2000
04 | NORTH CAROLINA | BENSON, TOWN OF | 37101CIND0 | 20-OCT-2000
04 | NORTH CAROLINA | CLAYTON, TOWN OF | 37101C0070D | 20-OCT-2000
04 | NORTH CAROLINA | CLAYTON, TOWN OF | 37101C0086D | 20-OCT-2000
04 | NORTH CAROLINA | CLAYTON, TOWN OF | 37101C0087D** | 20-OCT-2000
04 | NORTH CAROLINA | CLAYTON, TOWN OF | 37101C0088D | 20-OCT-2000
04 | NORTH CAROLINA | CLAYTON, TOWN OF | 37101C0089D | 20-OCT-2000
04 | NORTH CAROLINA | CLAYTON, TOWN OF | 37101C0095D** | 20-OCT-2000
04 | NORTH CAROLINA | CLAYTON, TOWN OF | 37101C0202D | 20-OCT-2000
04 | NORTH CAROLINA | CLAYTON, TOWN OF | 37101C0205D | 20-OCT-2000
04 | NORTH CAROLINA | CLAYTON, TOWN OF | 37101C0210D | 20-OCT-2000
04 | NORTH CAROLINA | CLAYTON, TOWN OF | 37101CIND0 | 20-OCT-2000
04 | NORTH CAROLINA | DARE COUNTY* | 3753480238E | 20-DEC-2000
04 | NORTH CAROLINA | DARE COUNTY* | 3753480239D | 20-DEC-2000
04 | NORTH CAROLINA | DARE COUNTY* | 3753480351E | 20-DEC-2000
04 | NORTH CAROLINA | DARE COUNTY* | 3753480352E | 20-DEC-2000
04 | NORTH CAROLINA | DARE COUNTY* | 3753480354E | 20-DEC-2000
04 | NORTH CAROLINA | DARE COUNTY* | 3753480362E | 20-DEC-2000
04 | NORTH CAROLINA | DARE COUNTY* | 3753480366E | 20-DEC-2000
04 | NORTH CAROLINA | DARE COUNTY* | 3753480368E | 20-DEC-2000
04 | NORTH CAROLINA | DARE COUNTY* | 3753480370E | 20-DEC-2000
04 | NORTH CAROLINA | DARE COUNTY* | 3753480505E | 20-DEC-2000
04 | NORTH CAROLINA | DARE COUNTY* | 3753480515E | 20-DEC-2000
04 | NORTH CAROLINA | DARE COUNTY* | 3753480630E | 20-DEC-2000
04 | NORTH CAROLINA | DARE COUNTY* | 3753480640E | 20-DEC-2000
04 | NORTH CAROLINA | DARE COUNTY* | 3753480730E | 20-DEC-2000
04 | NORTH CAROLINA | DARE COUNTY* | 3753480740E | 20-DEC-2000
04 | NORTH CAROLINA | DARE COUNTY* | 3753480810E | 20-DEC-2000
04 | NORTH CAROLINA | DARE COUNTY* | 3753480815E | 20-DEC-2000
04 | NORTH CAROLINA | DARE COUNTY* | 3753480820E | 20-DEC-2000
04 | NORTH CAROLINA | DARE COUNTY* | 3753480855E | 20-DEC-2000
04 | NORTH CAROLINA | DARE COUNTY* | 3753480860E | 20-DEC-2000
04 | NORTH CAROLINA | DARE COUNTY* | 3753480880E | 20-DEC-2000
04 | NORTH CAROLINA | DARE COUNTY* | 3753480885E | 20-DEC-2000
04 | NORTH CAROLINA | DARE COUNTY* | 375348IND0 | 20-DEC-2000
04 | NORTH CAROLINA | DAVIDSON COUNTY * | 37057C0020D** | 07-SEP-2000
04 | NORTH CAROLINA | DAVIDSON COUNTY * | 37057C0040D | 07-SEP-2000
04 | NORTH CAROLINA | DAVIDSON COUNTY * | 37057C0045D** | 07-SEP-2000
04 | NORTH CAROLINA | DAVIDSON COUNTY * | 37057C0075D** | 07-SEP-2000
04 | NORTH CAROLINA | DAVIDSON COUNTY * | 37057C0080D** | 07-SEP-2000
04 | NORTH CAROLINA | DAVIDSON COUNTY * | 37057C0085D | 07-SEP-2000
04 | NORTH CAROLINA | DAVIDSON COUNTY * | 37057C0090D** | 07-SEP-2000
04 | NORTH CAROLINA | DAVIDSON COUNTY * | 37057C0095D | 07-SEP-2000
04 | NORTH CAROLINA | DAVIDSON COUNTY * | 37057C0105D** | 07-SEP-2000
04 | NORTH CAROLINA | DAVIDSON COUNTY * | 37057C0110D** | 07-SEP-2000
04 | NORTH CAROLINA | DAVIDSON COUNTY * | 37057C0115D | 07-SEP-2000
04 | NORTH CAROLINA | DAVIDSON COUNTY * | 37057C0120D | 07-SEP-2000
04 | NORTH CAROLINA | DAVIDSON COUNTY * | 37057C0126D | 07-SEP-2000
04 | NORTH CAROLINA | DAVIDSON COUNTY * | 37057C0127D | 07-SEP-2000
04 | NORTH CAROLINA | DAVIDSON COUNTY * | 37057C0128D** | 07-SEP-2000
04 | NORTH CAROLINA | DAVIDSON COUNTY * | 37057C0129D | 07-SEP-2000
04 | NORTH CAROLINA | DAVIDSON COUNTY * | 37057C0131D | 07-SEP-2000
04 | NORTH CAROLINA | DAVIDSON COUNTY * | 37057C0133D | 07-SEP-2000
04 | NORTH CAROLINA | DAVIDSON COUNTY * | 37057C0136D | 07-SEP-2000
04 | NORTH CAROLINA | DAVIDSON COUNTY * | 37057C0137D | 07-SEP-2000
04 | NORTH CAROLINA | DAVIDSON COUNTY * | 37057C0138D | 07-SEP-2000
04 | NORTH CAROLINA | DAVIDSON COUNTY * | 37057C0139D | 07-SEP-2000
04 | NORTH CAROLINA | DAVIDSON COUNTY * | 37057C0141D | 07-SEP-2000
04 | NORTH CAROLINA | DAVIDSON COUNTY * | 37057C0143D | 07-SEP-2000
04 | NORTH CAROLINA | DAVIDSON COUNTY * | 37057C0170D | 07-SEP-2000
04 | NORTH CAROLINA | DAVIDSON COUNTY * | 37057C0175D | 07-SEP-2000
04 | NORTH CAROLINA | DAVIDSON COUNTY * | 37057C0180D | 07-SEP-2000
04 | NORTH CAROLINA | DAVIDSON COUNTY * | 37057C0182D | 07-SEP-2000
04 | NORTH CAROLINA | DAVIDSON COUNTY * | 37057C0184D | 07-SEP-2000
04 | NORTH CAROLINA | DAVIDSON COUNTY * | 37057C0185D | 07-SEP-2000
04 | NORTH CAROLINA | DAVIDSON COUNTY * | 37057C0190D | 07-SEP-2000
04 | NORTH CAROLINA | DAVIDSON COUNTY * | 37057C0191D | 07-SEP-2000
04 | NORTH CAROLINA | DAVIDSON COUNTY * | 37057C0192D | 07-SEP-2000
04 | NORTH CAROLINA | DAVIDSON COUNTY * | 37057C0195D | 07-SEP-2000
04 | NORTH CAROLINA | DAVIDSON COUNTY * | 37057C0203D | 07-SEP-2000
04 | NORTH CAROLINA | DAVIDSON COUNTY * | 37057C0205D | 07-SEP-2000
04 | NORTH CAROLINA | DAVIDSON COUNTY * | 37057C0210D | 07-SEP-2000
04 | NORTH CAROLINA | DAVIDSON COUNTY * | 37057C0211D | 07-SEP-2000
04 | NORTH CAROLINA | DAVIDSON COUNTY * | 37057C0215D | 07-SEP-2000
04 | NORTH CAROLINA | DAVIDSON COUNTY * | 37057C0220D** | 07-SEP-2000
04 | NORTH CAROLINA | DAVIDSON COUNTY * | 37057C0226D** | 07-SEP-2000
04 | NORTH CAROLINA | DAVIDSON COUNTY * | 37057C0227D** | 07-SEP-2000
04 | NORTH CAROLINA | DAVIDSON COUNTY * | 37057C0250D** | 07-SEP-2000
04 | NORTH CAROLINA | DAVIDSON COUNTY * | 37057C0275D** | 07-SEP-2000
04 | NORTH CAROLINA | DAVIDSON COUNTY * | 37057C0280D** | 07-SEP-2000
04 | NORTH CAROLINA | DAVIDSON COUNTY * | 37057C0285D | 07-SEP-2000
04 | NORTH CAROLINA | DAVIDSON COUNTY * | 37057C0300D** | 07-SEP-2000
04 | NORTH CAROLINA | DAVIDSON COUNTY * | 37057C0325D** | 07-SEP-2000
04 | NORTH CAROLINA | DAVIDSON COUNTY * | 37057C0350D** | 07-SEP-2000
04 | NORTH CAROLINA | DAVIDSON COUNTY * | 37057C0375D** | 07-SEP-2000
04 | NORTH CAROLINA | DAVIDSON COUNTY * | 37057C0400D | 07-SEP-2000
04 | NORTH CAROLINA | DENTON, TOWN OF | 37057C0350D** | 07-SEP-2000
04 | NORTH CAROLINA | DENTON, TOWN OF | 37057CIND0 | 07-SEP-2000
04 | NORTH CAROLINA | FOUR OAKS, TOWN OF | 37101C0355D** | 20-OCT-2000
04 | NORTH CAROLINA | FOUR OAKS, TOWN OF | 37101C0360D** | 20-OCT-2000
04 | NORTH CAROLINA | FOUR OAKS, TOWN OF | 37101C0370D** | 20-OCT-2000
04 | NORTH CAROLINA | FOUR OAKS, TOWN OF | 37101CIND0 | 20-OCT-2000
04 | NORTH CAROLINA | JOHNSTON COUNTY * | 37101C0010D** | 20-OCT-2000
04 | NORTH CAROLINA | JOHNSTON COUNTY * | 37101C0015D** | 20-OCT-2000
04 | NORTH CAROLINA | JOHNSTON COUNTY * | 37101C0020D** | 20-OCT-2000
04 | NORTH CAROLINA | JOHNSTON COUNTY * | 37101C0040D** | 20-OCT-2000
04 | NORTH CAROLINA | JOHNSTON COUNTY * | 37101C0065D** | 20-OCT-2000
04 | NORTH CAROLINA | JOHNSTON COUNTY * | 37101C0070D | 20-OCT-2000
04 | NORTH CAROLINA | JOHNSTON COUNTY * | 37101C0080D** | 20-OCT-2000
04 | NORTH CAROLINA | JOHNSTON COUNTY * | 37101C0085D** | 20-OCT-2000
04 | NORTH CAROLINA | JOHNSTON COUNTY * | 37101C0086D | 20-OCT-2000
04 | NORTH CAROLINA | JOHNSTON COUNTY * | 37101C0087D** | 20-OCT-2000
04 | NORTH CAROLINA | JOHNSTON COUNTY * | 37101C0088D | 20-OCT-2000
04 | NORTH CAROLINA | JOHNSTON COUNTY * | 37101C0089D | 20-OCT-2000
04 | NORTH CAROLINA | JOHNSTON COUNTY * | 37101C0095D** | 20-OCT-2000
04 | NORTH CAROLINA | JOHNSTON COUNTY * | 37101C0105D** | 20-OCT-2000
04 | NORTH CAROLINA | JOHNSTON COUNTY * | 37101C0110D** | 20-OCT-2000
04 | NORTH CAROLINA | JOHNSTON COUNTY * | 37101C0115D** | 20-OCT-2000
04 | NORTH CAROLINA | JOHNSTON COUNTY * | 37101C0120D** | 20-OCT-2000
04 | NORTH CAROLINA | JOHNSTON COUNTY * | 37101C0130D** | 20-OCT-2000
04 | NORTH CAROLINA | JOHNSTON COUNTY * | 37101C0135D** | 20-OCT-2000
04 | NORTH CAROLINA | JOHNSTON COUNTY * | 37101C0140D** | 20-OCT-2000
04 | NORTH CAROLINA | JOHNSTON COUNTY * | 37101C0145D** | 20-OCT-2000
04 | NORTH CAROLINA | JOHNSTON COUNTY * | 37101C0160D** | 20-OCT-2000
04 | NORTH CAROLINA | JOHNSTON COUNTY * | 37101C0165D** | 20-OCT-2000
04 | NORTH CAROLINA | JOHNSTON COUNTY * | 37101C0170D** | 20-OCT-2000
04 | NORTH CAROLINA | JOHNSTON COUNTY * | 37101C0180D | 20-OCT-2000
04 | NORTH CAROLINA | JOHNSTON COUNTY * | 37101C0185D | 20-OCT-2000
04 | NORTH CAROLINA | JOHNSTON COUNTY * | 37101C0190D** | 20-OCT-2000
04 | NORTH CAROLINA | JOHNSTON COUNTY * | 37101C0195D** | 20-OCT-2000
04 | NORTH CAROLINA | JOHNSTON COUNTY * | 37101C0202D | 20-OCT-2000
04 | NORTH CAROLINA | JOHNSTON COUNTY * | 37101C0205D | 20-OCT-2000
04 | NORTH CAROLINA | JOHNSTON COUNTY * | 37101C0210D | 20-OCT-2000
04 | NORTH CAROLINA | JOHNSTON COUNTY * | 37101C0215D | 20-OCT-2000
04 | NORTH CAROLINA | JOHNSTON COUNTY * | 37101C0220D | 20-OCT-2000
04 | NORTH CAROLINA | JOHNSTON COUNTY * | 37101C0230D** | 20-OCT-2000
04 | NORTH CAROLINA | JOHNSTON COUNTY * | 37101C0235D** | 20-OCT-2000
04 | NORTH CAROLINA | JOHNSTON COUNTY * | 37101C0236D | 20-OCT-2000
04 | NORTH CAROLINA | JOHNSTON COUNTY * | 37101C0237D** | 20-OCT-2000
04 | NORTH CAROLINA | JOHNSTON COUNTY * | 37101C0238D** | 20-OCT-2000
04 | NORTH CAROLINA | JOHNSTON COUNTY * | 37101C0239D** | 20-OCT-2000
04 | NORTH CAROLINA | JOHNSTON COUNTY * | 37101C0245D** | 20-OCT-2000
04 | NORTH CAROLINA | JOHNSTON COUNTY * | 37101C0255D** | 20-OCT-2000
04 | NORTH CAROLINA | JOHNSTON COUNTY * | 37101C0260D** | 20-OCT-2000
04 | NORTH CAROLINA | JOHNSTON COUNTY * | 37101C0265D** | 20-OCT-2000
04 | NORTH CAROLINA | JOHNSTON COUNTY * | 37101C0270D** | 20-OCT-2000
04 | NORTH CAROLINA | JOHNSTON COUNTY * | 37101C0280D** | 20-OCT-2000
04 | NORTH CAROLINA | JOHNSTON COUNTY * | 37101C0290D** | 20-OCT-2000
04 | NORTH CAROLINA | JOHNSTON COUNTY * | 37101C0310D** | 20-OCT-2000
04 | NORTH CAROLINA | JOHNSTON COUNTY * | 37101C0330D** | 20-OCT-2000
04 | NORTH CAROLINA | JOHNSTON COUNTY * | 37101C0335D** | 20-OCT-2000
04 | NORTH CAROLINA | JOHNSTON COUNTY * | 37101C0340D** | 20-OCT-2000
04 | NORTH CAROLINA | JOHNSTON COUNTY * | 37101C0345D** | 20-OCT-2000
04 | NORTH CAROLINA | JOHNSTON COUNTY * | 37101C0355D** | 20-OCT-2000
04 | NORTH CAROLINA | JOHNSTON COUNTY * | 37101C0360D** | 20-OCT-2000
04 | NORTH CAROLINA | JOHNSTON COUNTY * | 37101C0365D** | 20-OCT-2000
04 | NORTH CAROLINA | JOHNSTON COUNTY * | 37101C0370D** | 20-OCT-2000
04 | NORTH CAROLINA | JOHNSTON COUNTY * | 37101C0380D** | 20-OCT-2000
04 | NORTH CAROLINA | JOHNSTON COUNTY * | 37101C0385D** | 20-OCT-2000
04 | NORTH CAROLINA | JOHNSTON COUNTY * | 37101C0390D** | 20-OCT-2000
04 | NORTH CAROLINA | JOHNSTON COUNTY * | 37101C0395D** | 20-OCT-2000
04 | NORTH CAROLINA | JOHNSTON COUNTY * | 37101C0405D** | 20-OCT-2000
04 | NORTH CAROLINA | JOHNSTON COUNTY * | 37101C0410D** | 20-OCT-2000
04 | NORTH CAROLINA | JOHNSTON COUNTY * | 37101C0415D** | 20-OCT-2000
04 | NORTH CAROLINA | JOHNSTON COUNTY * | 37101C0420D** | 20-OCT-2000
04 | NORTH CAROLINA | JOHNSTON COUNTY * | 37101C0430D** | 20-OCT-2000
04 | NORTH CAROLINA | JOHNSTON COUNTY * | 37101C0455D** | 20-OCT-2000
04 | NORTH CAROLINA | JOHNSTON COUNTY * | 37101C0460D** | 20-OCT-2000
04 | NORTH CAROLINA | JOHNSTON COUNTY * | 37101C0470D** | 20-OCT-2000
04 | NORTH CAROLINA | JOHNSTON COUNTY * | 37101C0480D** | 20-OCT-2000
04 | NORTH CAROLINA | JOHNSTON COUNTY * | 37101C0485D** | 20-OCT-2000
04 | NORTH CAROLINA | JOHNSTON COUNTY * | 37101C0490D** | 20-OCT-2000
04 | NORTH CAROLINA | JOHNSTON COUNTY * | 37101C0495D** | 20-OCT-2000
04 | NORTH CAROLINA | JOHNSTON COUNTY * | 37101C0505D** | 20-OCT-2000
04 | NORTH CAROLINA | JOHNSTON COUNTY * | 37101C0510D | 20-OCT-2000
04 | NORTH CAROLINA | JOHNSTON COUNTY * | 37101C0515D** | 20-OCT-2000
04 | NORTH CAROLINA | JOHNSTON COUNTY * | 37101C0530D** | 20-OCT-2000
04 | NORTH CAROLINA | JOHNSTON COUNTY * | 37101C0535D** | 20-OCT-2000
04 | NORTH CAROLINA | JOHNSTON COUNTY * | 37101CIND0 | 20-OCT-2000
04 | NORTH CAROLINA | KENLY, TOWN OF | 37101C0260D** | 20-OCT-2000
04 | NORTH CAROLINA | KENLY, TOWN OF | 37101C0280D** | 20-OCT-2000
04 | NORTH CAROLINA | KENLY, TOWN OF | 37101CIND0 | 20-OCT-2000
04 | NORTH CAROLINA | LEXINGTON, CITY OF | 37057C0182D | 07-SEP-2000
04 | NORTH CAROLINA | LEXINGTON, CITY OF | 37057C0184D | 07-SEP-2000
04 | NORTH CAROLINA | LEXINGTON, CITY OF | 37057C0185D | 07-SEP-2000
04 | NORTH CAROLINA | LEXINGTON, CITY OF | 37057C0191D | 07-SEP-2000
04 | NORTH CAROLINA | LEXINGTON, CITY OF | 37057C0192D | 07-SEP-2000
04 | NORTH CAROLINA | LEXINGTON, CITY OF | 37057C0195D | 07-SEP-2000
04 | NORTH CAROLINA | LEXINGTON, CITY OF | 37057C0203D | 07-SEP-2000
04 | NORTH CAROLINA | LEXINGTON, CITY OF | 37057C0205D | 07-SEP-2000
04 | NORTH CAROLINA | LEXINGTON, CITY OF | 37057C0211D | 07-SEP-2000
04 | NORTH CAROLINA | LEXINGTON, CITY OF | 37057C0215D | 07-SEP-2000
04 | NORTH CAROLINA | LEXINGTON, CITY OF | 37057CIND0 | 07-SEP-2000
04 | NORTH CAROLINA | LOCUST, CITY OF OF | 37161C0100D** | 21-SEP-2000
04 | NORTH CAROLINA | LOCUST, CITY OF OF | 37161C0200D** | 21-SEP-2000
04 | NORTH CAROLINA | LOCUST, CITY OF OF | 37161CIND0 | 21-SEP-2000
04 | NORTH CAROLINA | MICRO, TOWN OF | 37101C0255D** | 20-OCT-2000
04 | NORTH CAROLINA | MICRO, TOWN OF | 37101C0265D** | 20-OCT-2000
04 | NORTH CAROLINA | MICRO, TOWN OF | 37101CIND0 | 20-OCT-2000
04 | NORTH CAROLINA | NAGS HEAD, CITY OF | 3753560011D | 20-DEC-2000
04 | NORTH CAROLINA | NAGS HEAD, CITY OF | 3753560014D | 20-DEC-2000
04 | NORTH CAROLINA | NAGS HEAD, CITY OF | 375356IND0 | 20-DEC-2000
04 | NORTH CAROLINA | NEW LONDON, TOWN OF | 37161C0036D | 21-SEP-2000
04 | NORTH CAROLINA | NEW LONDON, TOWN OF | 37161C0037D | 21-SEP-2000
04 | NORTH CAROLINA | NEW LONDON, TOWN OF | 37161C0037D | 21-SEP-2000
04 | NORTH CAROLINA | NEW LONDON, TOWN OF | 37161C0050D | 21-SEP-2000
04 | NORTH CAROLINA | NORWOOD, TOWN OF | 37167C0150D | 21-SEP-2000
04 | NORTH CAROLINA | NORWOOD, TOWN OF | 37167C0175D | 21-SEP-2000
04 | NORTH CAROLINA | NORWOOD, TOWN OF | 37167C0250D** | 21-SEP-2000
04 | NORTH CAROLINA | NORWOOD, TOWN OF | 37167C0275D** | 21-SEP-2000
04 | NORTH CAROLINA | NORWOOD, TOWN OF | 37167CIND0 | 21-SEP-2000
04 | NORTH CAROLINA | OAKBORO, TOWN OF | 37167C0125D** | 21-SEP-2000
04 | NORTH CAROLINA | OAKBORO, TOWN OF | 37167C0225D** | 21-SEP-2000
04 | NORTH CAROLINA | OAKBORO, TOWN OF | 37167CIND0 | 21-SEP-2000
04 | NORTH CAROLINA | PRINCETON, TOWN OF | 37101C0410D** | 20-OCT-2000
04 | NORTH CAROLINA | PRINCETON, TOWN OF | 37101CIND0 | 20-OCT-2000
04 | NORTH CAROLINA | RICHFIELD, TOWN OF | 37167C0025D** | 21-SEP-2000
04 | NORTH CAROLINA | RICHFIELD, TOWN OF | 37167C0050D | 21-SEP-2000
04 | NORTH CAROLINA | RICHFIELD, TOWN OF | 37167CIND0 | 21-SEP-2000
04 | NORTH CAROLINA | SELMA, TOWN OF | 37101C0237D** | 20-OCT-2000
04 | NORTH CAROLINA | SELMA, TOWN OF | 37101C0245D** | 20-OCT-2000
04 | NORTH CAROLINA | SELMA, TOWN OF | 37101CIND0 | 20-OCT-2000
04 | NORTH CAROLINA | SMITHFIELD, TOWN OF | 37101C0220D | 20-OCT-2000
04 | NORTH CAROLINA | SMITHFIELD, TOWN OF | 37101C0236D | 20-OCT-2000
04 | NORTH CAROLINA | SMITHFIELD, TOWN OF | 37101C0237D** | 20-OCT-2000
04 | NORTH CAROLINA | SMITHFIELD, TOWN OF | 37101C0238D** | 20-OCT-2000
04 | NORTH CAROLINA | SMITHFIELD, TOWN OF | 37101C0239D** | 20-OCT-2000
04 | NORTH CAROLINA | SMITHFIELD, TOWN OF | 37101C0245D** | 20-OCT-2000
04 | NORTH CAROLINA | SMITHFIELD, TOWN OF | 37101C0360D** | 20-OCT-2000
04 | NORTH CAROLINA | SMITHFIELD, TOWN OF | 37101C0380D** | 20-OCT-2000
04 | NORTH CAROLINA | SMITHFIELD, TOWN OF | 37101C0385D** | 20-OCT-2000
04 | NORTH CAROLINA | SMITHFIELD, TOWN OF | 37101CIND0 | 20-OCT-2000
04 | NORTH CAROLINA | STANFIELD, TOWN OF | 37167C0100D** | 21-SEP-2000
04 | NORTH CAROLINA | STANFIELD, TOWN OF | 37167C0200D | 21-SEP-2000
04 | NORTH CAROLINA | STANFIELD, TOWN OF | 37167CIND0 | 21-SEP-2000
04 | NORTH CAROLINA | STANLY COUNTY * | 37167C0019D** | 21-SEP-2000
04 | NORTH CAROLINA | STANLY COUNTY * | 37167C0025D** | 21-SEP-2000
04 | NORTH CAROLINA | STANLY COUNTY * | 37167C0036D | 21-SEP-2000
04 | NORTH CAROLINA | STANLY COUNTY * | 37167C0037D | 21-SEP-2000
04 | NORTH CAROLINA | STANLY COUNTY * | 37167C0038D** | 21-SEP-2000
04 | NORTH CAROLINA | STANLY COUNTY * | 37167C0039D | 21-SEP-2000
04 | NORTH CAROLINA | STANLY COUNTY * | 37167C0043D** | 21-SEP-2000
04 | NORTH CAROLINA | STANLY COUNTY * | 37167C0050D | 21-SEP-2000
04 | NORTH CAROLINA | STANLY COUNTY * | 37167C0075D | 21-SEP-2000
04 | NORTH CAROLINA | STANLY COUNTY * | 37167C0100D** | 21-SEP-2000
04 | NORTH CAROLINA | STANLY COUNTY * | 37167C0125D** | 21-SEP-2000
04 | NORTH CAROLINA | STANLY COUNTY * | 37167C0126D** | 21-SEP-2000
04 | NORTH CAROLINA | STANLY COUNTY * | 37167C0127D | 21-SEP-2000
04 | NORTH CAROLINA | STANLY COUNTY * | 37167C0128D** | 21-SEP-2000
04 | NORTH CAROLINA | STANLY COUNTY * | 37167C0129D | 21-SEP-2000
04 | NORTH CAROLINA | STANLY COUNTY * | 37167C0131D** | 21-SEP-2000
04 | NORTH CAROLINA | STANLY COUNTY * | 37167C0150D | 21-SEP-2000
04 | NORTH CAROLINA | STANLY COUNTY * | 37167C0175D | 21-SEP-2000
04 | NORTH CAROLINA | STANLY COUNTY * | 37167C0200D | 21-SEP-2000
04 | NORTH CAROLINA | STANLY COUNTY * | 37167C0225D | 21-SEP-2000
04 | NORTH CAROLINA | STANLY COUNTY * | 37167C0250D | 21-SEP-2000
04 | NORTH CAROLINA | STANLY COUNTY * | 37167C0275D | 21-SEP-2000
04 | NORTH CAROLINA | STANLY COUNTY * | 37167CIND0 | 21-SEP-2000
04 | NORTH CAROLINA | THOMASVILLE, CITY OF | 37057C0120D | 07-SEP-2000
04 | NORTH CAROLINA | THOMASVILLE, CITY OF | 37057C0137D | 07-SEP-2000
04 | NORTH CAROLINA | THOMASVILLE, CITY OF | 37057C0138D | 07-SEP-2000
04 | NORTH CAROLINA | THOMASVILLE, CITY OF | 37057C0139D | 07-SEP-2000
04 | NORTH CAROLINA | THOMASVILLE, CITY OF | 37057C0141D | 07-SEP-2000
04 | NORTH CAROLINA | THOMASVILLE, CITY OF | 37057C0143D | 07-SEP-2000
04 | NORTH CAROLINA | THOMASVILLE, CITY OF | 37057C0210D | 07-SEP-2000
04 | NORTH CAROLINA | THOMASVILLE, CITY OF | 37057C0226D** | 07-SEP-2000
04 | NORTH CAROLINA | THOMASVILLE, CITY OF | 37057C0227D** | 07-SEP-2000
04 | NORTH CAROLINA | THOMASVILLE, CITY OF | 37057C0250D** | 07-SEP-2000
04 | NORTH CAROLINA | THOMASVILLE, CITY OF | 37057CIND0 | 07-SEP-2000
04 | NORTH CAROLINA | WILSONS MILLS, TOWN OF | 37101C0210D | 20-OCT-2000
04 | NORTH CAROLINA | WILSONS MILLS, TOWN OF | 37101C0230D** | 20-OCT-2000
04 | NORTH CAROLINA | WILSONS MILLS, TOWN OF | 37101CIND0 | 20-OCT-2000
04 | SOUTH CAROLINA | BETHUNE, TOWN OF | 45055C0240D | 06-DEC-2000
04 | SOUTH CAROLINA | BETHUNE, TOWN OF | 45055CIND0 | 06-DEC-2000
04 | SOUTH CAROLINA | CAMDEN, CITY OF | 45055C0294D | 06-DEC-2000
04 | SOUTH CAROLINA | CAMDEN, CITY OF | 45055C0311D | 06-DEC-2000
04 | SOUTH CAROLINA | CAMDEN, CITY OF | 45055C0313D | 06-DEC-2000
04 | SOUTH CAROLINA | CAMDEN, CITY OF | 45055C0314D | 06-DEC-2000
04 | SOUTH CAROLINA | CAMDEN, CITY OF | 45055C0426D | 06-DEC-2000
04 | SOUTH CAROLINA | CAMDEN, CITY OF | 45055C0427D | 06-DEC-2000
04 | SOUTH CAROLINA | CAMDEN, CITY OF | 45055CIND0 | 06-DEC-2000
04 | SOUTH CAROLINA | ELGIN, TOWN OF | 45055C0391D | 06-DEC-2000
04 | SOUTH CAROLINA | ELGIN, TOWN OF | 45055CIND0 | 06-DEC-2000
04 | SOUTH CAROLINA | GEORGETOWN COUNTY * | 4500850164F | 20-DEC-2000
04 | SOUTH CAROLINA | GEORGETOWN COUNTY * | 450085IND0 | 20-DEC-2000
04 | SOUTH CAROLINA | KERSHAW COUNTY * | 45055C0050D | 06-DEC-2000
04 | SOUTH CAROLINA | KERSHAW COUNTY * | 45055C0075D | 06-DEC-2000
04 | SOUTH CAROLINA | KERSHAW COUNTY * | 45055C0100D | 06-DEC-2000
04 | SOUTH CAROLINA | KERSHAW COUNTY * | 45055C0125D | 06-DEC-2000
04 | SOUTH CAROLINA | KERSHAW COUNTY * | 45055C0130D | 06-DEC-2000
04 | SOUTH CAROLINA | KERSHAW COUNTY * | 45055C0135D | 06-DEC-2000
04 | SOUTH CAROLINA | KERSHAW COUNTY * | 45055C0140D | 06-DEC-2000
04 | SOUTH CAROLINA | KERSHAW COUNTY * | 45055C0145D | 06-DEC-2000
04 | SOUTH CAROLINA | KERSHAW COUNTY * | 45055C0155D | 06-DEC-2000
04 | SOUTH CAROLINA | KERSHAW COUNTY * | 45055C0165D | 06-DEC-2000
04 | SOUTH CAROLINA | KERSHAW COUNTY * | 45055C0175D | 06-DEC-2000
04 | SOUTH CAROLINA | KERSHAW COUNTY * | 45055C0200D | 06-DEC-2000
04 | SOUTH CAROLINA | KERSHAW COUNTY * | 45055C0225D | 06-DEC-2000
04 | SOUTH CAROLINA | KERSHAW COUNTY * | 45055C0240D | 06-DEC-2000
04 | SOUTH CAROLINA | KERSHAW COUNTY * | 45055C0250D | 06-DEC-2000
04 | SOUTH CAROLINA | KERSHAW COUNTY * | 45055C0260D | 06-DEC-2000
04 | SOUTH CAROLINA | KERSHAW COUNTY * | 45055C0280D | 06-DEC-2000
04 | SOUTH CAROLINA | KERSHAW COUNTY * | 45055C0283D | 06-DEC-2000
04 | SOUTH CAROLINA | KERSHAW COUNTY * | 45055C0284D | 06-DEC-2000
04 | SOUTH CAROLINA | KERSHAW COUNTY * | 45055C0285D | 06-DEC-2000
04 | SOUTH CAROLINA | KERSHAW COUNTY * | 45055C0290D | 06-DEC-2000
04 | SOUTH CAROLINA | KERSHAW COUNTY * | 45055C0291D | 06-DEC-2000
04 | SOUTH CAROLINA | KERSHAW COUNTY * | 45055C0292D | 06-DEC-2000
04 | SOUTH CAROLINA | KERSHAW COUNTY * | 45055C0293D | 06-DEC-2000
04 | SOUTH CAROLINA | KERSHAW COUNTY * | 45055C0294D | 06-DEC-2000
04 | SOUTH CAROLINA | KERSHAW COUNTY * | 45055C0303D | 06-DEC-2000
04 | SOUTH CAROLINA | KERSHAW COUNTY * | 45055C0304D | 06-DEC-2000
04 | SOUTH CAROLINA | KERSHAW COUNTY * | 45055C0311D | 06-DEC-2000
04 | SOUTH CAROLINA | KERSHAW COUNTY * | 45055C0312D | 06-DEC-2000
04 | SOUTH CAROLINA | KERSHAW COUNTY * | 45055C0313D | 06-DEC-2000
04 | SOUTH CAROLINA | KERSHAW COUNTY * | 45055C0314D | 06-DEC-2000
04 | SOUTH CAROLINA | KERSHAW COUNTY * | 45055C0320D | 06-DEC-2000
04 | SOUTH CAROLINA | KERSHAW COUNTY * | 45055C0325D | 06-DEC-2000
04 | SOUTH CAROLINA | KERSHAW COUNTY * | 45055C0350D | 06-DEC-2000
04 | SOUTH CAROLINA | KERSHAW COUNTY * | 45055C0375D | 06-DEC-2000
04 | SOUTH CAROLINA | KERSHAW COUNTY * | 45055C0377D | 06-DEC-2000
04 | SOUTH CAROLINA | KERSHAW COUNTY * | 45055C0378D | 06-DEC-2000
04 | SOUTH CAROLINA | KERSHAW COUNTY * | 45055C0379D | 06-DEC-2000
04 | SOUTH CAROLINA | KERSHAW COUNTY * | 45055C0381D | 06-DEC-2000
04 | SOUTH CAROLINA | KERSHAW COUNTY * | 45055C0382D | 06-DEC-2000
04 | SOUTH CAROLINA | KERSHAW COUNTY * | 45055C0383D | 06-DEC-2000
04 | SOUTH CAROLINA | KERSHAW COUNTY * | 45055C0384D | 06-DEC-2000
04 | SOUTH CAROLINA | KERSHAW COUNTY * | 45055C0386D | 06-DEC-2000
04 | SOUTH CAROLINA | KERSHAW COUNTY * | 45055C0387D | 06-DEC-2000
04 | SOUTH CAROLINA | KERSHAW COUNTY * | 45055C0391D | 06-DEC-2000
04 | SOUTH CAROLINA | KERSHAW COUNTY * | 45055C0392D | 06-DEC-2000
04 | SOUTH CAROLINA | KERSHAW COUNTY * | 45055C0393D | 06-DEC-2000
04 | SOUTH CAROLINA | KERSHAW COUNTY * | 45055C0394D | 06-DEC-2000
04 | SOUTH CAROLINA | KERSHAW COUNTY * | 45055C0401D | 06-DEC-2000
04 | SOUTH CAROLINA | KERSHAW COUNTY * | 45055C0402D | 06-DEC-2000
04 | SOUTH CAROLINA | KERSHAW COUNTY * | 45055C0403D | 06-DEC-2000
04 | SOUTH CAROLINA | KERSHAW COUNTY * | 45055C0404D | 06-DEC-2000
04 | SOUTH CAROLINA | KERSHAW COUNTY * | 45055C0410D | 06-DEC-2000
04 | SOUTH CAROLINA | KERSHAW COUNTY * | 45055C0411D | 06-DEC-2000
04 | SOUTH CAROLINA | KERSHAW COUNTY * | 45055C0412D | 06-DEC-2000
04 | SOUTH CAROLINA | KERSHAW COUNTY * | 45055C0413D | 06-DEC-2000
04 | SOUTH CAROLINA | KERSHAW COUNTY * | 45055C0414D | 06-DEC-2000
04 | SOUTH CAROLINA | KERSHAW COUNTY * | 45055C0420D | 06-DEC-2000
04 | SOUTH CAROLINA | KERSHAW COUNTY * | 45055C0426D | 06-DEC-2000
04 | SOUTH CAROLINA | KERSHAW COUNTY * | 45055C0427D | 06-DEC-2000
04 | SOUTH CAROLINA | KERSHAW COUNTY * | 45055C0428D | 06-DEC-2000
04 | SOUTH CAROLINA | KERSHAW COUNTY * | 45055C0429D | 06-DEC-2000
04 | SOUTH CAROLINA | KERSHAW COUNTY * | 45055C0433D | 06-DEC-2000
04 | SOUTH CAROLINA | KERSHAW COUNTY * | 45055C0435D | 06-DEC-2000
04 | SOUTH CAROLINA | KERSHAW COUNTY * | 45055C0437D | 06-DEC-2000
04 | SOUTH CAROLINA | KERSHAW COUNTY * | 45055C0440D | 06-DEC-2000
04 | SOUTH CAROLINA | KERSHAW COUNTY * | 45055C0445D | 06-DEC-2000
04 | SOUTH CAROLINA | KERSHAW COUNTY * | 45055C0465D | 06-DEC-2000
04 | SOUTH CAROLINA | KERSHAW COUNTY * | 45055C0475D | 06-DEC-2000
04 | SOUTH CAROLINA | KERSHAW COUNTY * | 45055C0482D | 06-DEC-2000
04 | SOUTH CAROLINA | KERSHAW COUNTY * | 45055C0501D | 06-DEC-2000
04 | SOUTH CAROLINA | KERSHAW COUNTY * | 45055C0502D | 06-DEC-2000
04 | SOUTH CAROLINA | KERSHAW COUNTY * | 45055C0503D | 06-DEC-2000
04 | SOUTH CAROLINA | KERSHAW COUNTY * | 45055C0510D | 06-DEC-2000
04 | SOUTH CAROLINA | KERSHAW COUNTY * | 45055C0530D | 06-DEC-2000
04 | SOUTH CAROLINA | KERSHAW COUNTY * | 45055CIND0 | 06-DEC-2000
04 | TENNESSEE | DYER COUNTY * | 47045C0025D | 19-JUL-2000
04 | TENNESSEE | DYER COUNTY * | 47045C0050D | 19-JUL-2000
04 | TENNESSEE | DYER COUNTY * | 47045C0075D | 19-JUL-2000
04 | TENNESSEE | DYER COUNTY * | 47045C0100D | 19-JUL-2000
04 | TENNESSEE | DYER COUNTY * | 47045C0125D | 19-JUL-2000
04 | TENNESSEE | DYER COUNTY * | 47045C0150D | 19-JUL-2000
04 | TENNESSEE | DYER COUNTY * | 47045C0155D | 19-JUL-2000
04 | TENNESSEE | DYER COUNTY * | 47045C0160D | 19-JUL-2000
04 | TENNESSEE | DYER COUNTY * | 47045C0165D | 19-JUL-2000
04 | TENNESSEE | DYER COUNTY * | 47045C0170D | 19-JUL-2000
04 | TENNESSEE | DYER COUNTY * | 47045C0180D | 19-JUL-2000
04 | TENNESSEE | DYER COUNTY * | 47045C0185D | 19-JUL-2000
04 | TENNESSEE | DYER COUNTY * | 47045C0190D | 19-JUL-2000
04 | TENNESSEE | DYER COUNTY * | 47045C0195D | 19-JUL-2000
04 | TENNESSEE | DYER COUNTY * | 47045C0225D | 19-JUL-2000
04 | TENNESSEE | DYER COUNTY * | 47045C0250D | 19-JUL-2000
04 | TENNESSEE | DYER COUNTY * | 47045C0275D | 19-JUL-2000
04 | TENNESSEE | DYER COUNTY * | 47045C0285D | 19-JUL-2000
04 | TENNESSEE | DYER COUNTY * | 47045C0300D | 19-JUL-2000
04 | TENNESSEE | DYER COUNTY * | 47045C0325D | 19-JUL-2000
04 | TENNESSEE | DYER COUNTY * | 47045C0350D | 19-JUL-2000
04 | TENNESSEE | DYER COUNTY * | 47045CIND0 | 19-JUL-2000
04 | TENNESSEE | DYERSBURG, CITY OF | 47045C0160D | 19-JUL-2000
04 | TENNESSEE | DYERSBURG, CITY OF | 47045C0170D | 19-JUL-2000
04 | TENNESSEE | DYERSBURG, CITY OF | 47045C0180D | 19-JUL-2000
04 | TENNESSEE | DYERSBURG, CITY OF | 47045C0190D | 19-JUL-2000
04 | TENNESSEE | DYERSBURG, CITY OF | 47045CIND0 | 19-JUL-2000
04 | TENNESSEE | GREENEVILLE, TOWN OF | 4700690002C | 23-AUG-2000
04 | TENNESSEE | GREENEVILLE, TOWN OF | 4700690003C | 23-AUG-2000
04 | TENNESSEE | GREENEVILLE, TOWN OF | 4700690004C | 23-AUG-2000
04 | TENNESSEE | GREENEVILLE, TOWN OF | 4700690006C | 23-AUG-2000
04 | TENNESSEE | GREENEVILLE, TOWN OF | 4700690007C | 23-AUG-2000
04 | TENNESSEE | GREENEVILLE, TOWN OF | 470069IND0 | 23-AUG-2000
04 | TENNESSEE | LYNNVILLE, CITY OF | 4700650001B | 01-JUL-2000
04 | TENNESSEE | NEWBERN, CITY OF | 47045C0075D | 19-JUL-2000
04 | TENNESSEE | NEWBERN, CITY OF | 47045C0100D | 19-JUL-2000
04 | TENNESSEE | NEWBERN, CITY OF | 47045C0185D | 19-JUL-2000
04 | TENNESSEE | NEWBERN, CITY OF | 47045C0225D | 19-JUL-2000
04 | TENNESSEE | NEWBERN, CITY OF | 47045CIND0 | 19-JUL-2000
04 | TENNESSEE | SWEETWATER, CITY OF | 4701350005C | 07-SEP-2000
04 | TENNESSEE | TRIMBLE, TOWN OF | 47045C0100D | 19-JUL-2000
04 | TENNESSEE | TRIMBLE, TOWN OF | 47045CIND0 | 19-JUL-2000
05 | ILLINOIS | ALSIP, VILLAGE OF | 17031C0609F | 20-OCT-2000
05 | ILLINOIS | ALSIP, VILLAGE OF | 17031C0617F | 06-NOV-2000
05 | ILLINOIS | ALSIP, VILLAGE OF | 17031C0628F | 06-NOV-2000
05 | ILLINOIS | ALSIP, VILLAGE OF | 17031C0636F | 06-NOV-2000
05 | ILLINOIS | ALSIP, VILLAGE OF | 17031C0637F | 06-NOV-2000
05 | ILLINOIS | ALSIP, VILLAGE OF | 17031C0638F | 06-NOV-2000
05 | ILLINOIS | ALSIP, VILLAGE OF | 17031C0639F | 06-NOV-2000
05 | ILLINOIS | ALSIP, VILLAGE OF | 17031CIND1 | 06-NOV-2000
05 | ILLINOIS | ALSIP, VILLAGE OF | 17031CIND2 | 06-NOV-2000
05 | ILLINOIS | ALSIP, VILLAGE OF | 17031CIND3 | 06-NOV-2000
05 | ILLINOIS | ARLINGTON HEIGHTS, VILLAGE OF | 17031C0044F | 06-NOV-2000
05 | ILLINOIS | ARLINGTON HEIGHTS, VILLAGE OF | 17031C0063F | 06-NOV-2000
05 | ILLINOIS | ARLINGTON HEIGHTS, VILLAGE OF | 17031C0064F | 06-NOV-2000
05 | ILLINOIS | ARLINGTON HEIGHTS, VILLAGE OF | 17031C0182F | 06-NOV-2000
05 | ILLINOIS | ARLINGTON HEIGHTS, VILLAGE OF | 17031C0184F | 06-NOV-2000
05 | ILLINOIS | ARLINGTON HEIGHTS, VILLAGE OF | 17031C0192F | 06-NOV-2000
05 | ILLINOIS | ARLINGTON HEIGHTS, VILLAGE OF | 17031C0201F | 06-NOV-2000
05 | ILLINOIS | ARLINGTON HEIGHTS, VILLAGE OF | 17031C0202F | 06-NOV-2000
05 | ILLINOIS | ARLINGTON HEIGHTS, VILLAGE OF | 17031C0203F | 06-NOV-2000
05 | ILLINOIS | ARLINGTON HEIGHTS, VILLAGE OF | 17031C0204F | 06-NOV-2000
05 | ILLINOIS | ARLINGTON HEIGHTS, VILLAGE OF | 17031C0211F | 06-NOV-2000
05 | ILLINOIS | ARLINGTON HEIGHTS, VILLAGE OF | 17031C0212F | 06-NOV-2000
05 | ILLINOIS | ARLINGTON HEIGHTS, VILLAGE OF | 17031CIND1 | 06-NOV-2000
05 | ILLINOIS | ARLINGTON HEIGHTS, VILLAGE OF | 17031CIND2 | 06-NOV-2000
05 | ILLINOIS | ARLINGTON HEIGHTS, VILLAGE OF | 17031CIND3 | 06-NOV-2000
05 | ILLINOIS | BANNOCKBURN, VILLAGE OF | 17097C0267G | 07-SEP-2000
05 | ILLINOIS | BANNOCKBURN, VILLAGE OF | 17097CIND0 | 07-SEP-2000
05 | ILLINOIS | BARRINGTON, VILLAGE OF | 17031C0020F | 06-NOV-2000
05 | ILLINOIS | BARRINGTON, VILLAGE OF | 17031C0038F | 06-NOV-2000
05 | ILLINOIS | BARRINGTON, VILLAGE OF | 17031C0238G** | 06-NOV-2000
05 | ILLINOIS | BARRINGTON, VILLAGE OF | 17031C0039F | 06-NOV-2000
05 | ILLINOIS | BARRINGTON, VILLAGE OF | 17031CIND1 | 06-NOV-2000
05 | ILLINOIS | BARRINGTON, VILLAGE OF | 17031CIND2 | 06-NOV-2000
05 | ILLINOIS | BARRINGTON, VILLAGE OF | 17031CIND3 | 06-NOV-2000
05 | ILLINOIS | BARRINGTON, VILLAGE OF | 17097C0219G** | 06-NOV-2000
05 | ILLINOIS | BARRINGTON, VILLAGE OF | 17097C0238G** | 06-NOV-2000
05 | ILLINOIS | BARRINGTON, VILLAGE OF | 17097CIND1 | 06-NOV-2000
05 | ILLINOIS | BARRINGTON, VILLAGE OF | 17097CIND2 | 06-NOV-2000
05 | ILLINOIS | BEACH PARK, VILLAGE OF | 17097C0059G** | 07-SEP-2000
05 | ILLINOIS | BEACH PARK, VILLAGE OF | 17097C0067G | 07-SEP-2000
05 | ILLINOIS | BEACH PARK, VILLAGE OF | 17097C0069G | 07-SEP-2000
05 | ILLINOIS | BEACH PARK, VILLAGE OF | 17097C0086G | 07-SEP-2000
05 | ILLINOIS | BEACH PARK, VILLAGE OF | 17097C0087G | 07-SEP-2000
05 | ILLINOIS | BEACH PARK, VILLAGE OF | 17097CIND0 | 07-SEP-2000
05 | ILLINOIS | BEDFORD PARK, VILLAGE OF | 17031C0487F | 06-NOV-2000
05 | ILLINOIS | BEDFORD PARK, VILLAGE OF | 17031C0488F | 06-NOV-2000
05 | ILLINOIS | BEDFORD PARK, VILLAGE OF | 17031C0489F | 06-NOV-2000
05 | ILLINOIS | BEDFORD PARK, VILLAGE OF | 17031CIND1 | 06-NOV-2000
05 | ILLINOIS | BEDFORD PARK, VILLAGE OF | 17031CIND2 | 06-NOV-2000
05 | ILLINOIS | BEDFORD PARK, VILLAGE OF | 17031CIND3 | 06-NOV-2000
05 | ILLINOIS | BELLWOOD, VILLAGE OF | 17031C0369F | 06-NOV-2000
05 | ILLINOIS | BELLWOOD, VILLAGE OF | 17031C0388F | 06-NOV-2000
05 | ILLINOIS | BELLWOOD, VILLAGE OF | 17031C0457F | 06-NOV-2000
05 | ILLINOIS | BELLWOOD, VILLAGE OF | 17031C0476F | 06-NOV-2000
05 | ILLINOIS | BELLWOOD, VILLAGE OF | 17031CIND1 | 06-NOV-2000
05 | ILLINOIS | BELLWOOD, VILLAGE OF | 17031CIND2 | 06-NOV-2000
05 | ILLINOIS | BELLWOOD, VILLAGE OF | 17031CIND3 | 06-NOV-2000
05 | ILLINOIS | BERKELEY, VILLAGE OF | 17031C0369F | 06-NOV-2000
05 | ILLINOIS | BERKELEY, VILLAGE OF | 17031C0456F | 06-NOV-2000
05 | ILLINOIS | BERKELEY, VILLAGE OF | 17031CIND1 | 06-NOV-2000
05 | ILLINOIS | BERKELEY, VILLAGE OF | 17031CIND2 | 06-NOV-2000
05 | ILLINOIS | BERKELEY, VILLAGE OF | 17031CIND3 | 06-NOV-2000
05 | ILLINOIS | BLUE ISLAND, CITY OF | 17031C0637F | 06-NOV-2000
05 | ILLINOIS | BLUE ISLAND, CITY OF | 17031C0639F | 06-NOV-2000
05 | ILLINOIS | BLUE ISLAND, CITY OF | 17031C0643F | 06-NOV-2000
05 | ILLINOIS | BLUE ISLAND, CITY OF | 17031C0644F | 06-NOV-2000
05 | ILLINOIS | BLUE ISLAND, CITY OF | 17031C0645F | 06-NOV-2000
05 | ILLINOIS | BLUE ISLAND, CITY OF | 17031CIND1 | 06-NOV-2000
05 | ILLINOIS | BLUE ISLAND, CITY OF | 17031CIND2 | 06-NOV-2000
05 | ILLINOIS | BLUE ISLAND, CITY OF | 17031CIND3 | 06-NOV-2000
05 | ILLINOIS | BRIDGEVIEW, VILLAGE OF | 17031C0489F | 06-NOV-2000
05 | ILLINOIS | BRIDGEVIEW, VILLAGE OF | 17031C0602F | 06-NOV-2000
05 | ILLINOIS | BRIDGEVIEW, VILLAGE OF | 17031C0606F | 06-NOV-2000
05 | ILLINOIS | BRIDGEVIEW, VILLAGE OF | 17031C0608F | 06-NOV-2000
05 | ILLINOIS | BRIDGEVIEW, VILLAGE OF | 17031CIND1 | 06-NOV-2000
05 | ILLINOIS | BRIDGEVIEW, VILLAGE OF | 17031CIND2 | 06-NOV-2000
05 | ILLINOIS | BRIDGEVIEW, VILLAGE OF | 17031CIND3 | 06-NOV-2000
05 | ILLINOIS | BROADVIEW, VILLAGE OF | 17031C0476F | 06-NOV-2000
05 | ILLINOIS | BROADVIEW, VILLAGE OF | 17031C0477F | 06-NOV-2000
05 | ILLINOIS | BROADVIEW, VILLAGE OF | 17031CIND1 | 06-NOV-2000
05 | ILLINOIS | BROADVIEW, VILLAGE OF | 17031CIND2 | 06-NOV-2000
05 | ILLINOIS | BROADVIEW, VILLAGE OF | 17031CIND3 | 06-NOV-2000
05 | ILLINOIS | BROOKFIELD, VILLAGE OF | 17031C0478F | 06-NOV-2000
05 | ILLINOIS | BROOKFIELD, VILLAGE OF | 17031C0479F | 06-NOV-2000
05 | ILLINOIS | BROOKFIELD, VILLAGE OF | 17031C0486F | 06-NOV-2000
05 | ILLINOIS | BROOKFIELD, VILLAGE OF | 17031C0487F | 06-NOV-2000
05 | ILLINOIS | BROOKFIELD, VILLAGE OF | 17031CIND1 | 06-NOV-2000
05 | ILLINOIS | BROOKFIELD, VILLAGE OF | 17031CIND2 | 06-NOV-2000
05 | ILLINOIS | BROOKFIELD, VILLAGE OF | 17031CIND3 | 06-NOV-2000
05 | ILLINOIS | BUFFALO GROVE, VILLAGE | 17097C0263G** | 07-SEP-2000
05 | ILLINOIS | BUFFALO GROVE, VILLAGE | 17097C0266G | 07-SEP-2000
05 | ILLINOIS | BUFFALO GROVE, VILLAGE | 17097C0270G | 07-SEP-2000
05 | ILLINOIS | BUFFALO GROVE, VILLAGE | 17097CIND0 | 07-SEP-2000
05 | ILLINOIS | BUFFALO GROVE, VILLAGE OF | 17031C0063F | 06-NOV-2000
05 | ILLINOIS | BUFFALO GROVE, VILLAGE OF | 17031C0064F | 06-NOV-2000
05 | ILLINOIS | BUFFALO GROVE, VILLAGE OF | 17031CIND1 | 06-NOV-2000
05 | ILLINOIS | BUFFALO GROVE, VILLAGE OF | 17031CIND2 | 06-NOV-2000
05 | ILLINOIS | BUFFALO GROVE, VILLAGE OF | 17031CIND3 | 06-NOV-2000
05 | ILLINOIS | BUFFALO GROVE, VILLAGE OF | 17097C0263H** | 06-NOV-2000
05 | ILLINOIS | BUFFALO GROVE, VILLAGE OF | 17097C0264G** | 06-NOV-2000
05 | ILLINOIS | BUFFALO GROVE, VILLAGE OF | 17097CIND1 | 06-NOV-2000
05 | ILLINOIS | BUFFALO GROVE, VILLAGE OF | 17097CIND2 | 06-NOV-2000
05 | ILLINOIS | BURBANK, CITY OF | 17031C0606F | 06-NOV-2000
05 | ILLINOIS | BURBANK, CITY OF | 17031C0607F | 06-NOV-2000
05 | ILLINOIS | BURBANK, CITY OF | 17031CIND1 | 06-NOV-2000
05 | ILLINOIS | BURBANK, CITY OF | 17031CIND2 | 06-NOV-2000
05 | ILLINOIS | BURBANK, CITY OF | 17031CIND3 | 06-NOV-2000
05 | ILLINOIS | BURNHAM, VILLAGE OF | 17031C0664F | 06-NOV-2000
05 | ILLINOIS | BURNHAM, VILLAGE OF | 17031C0668F | 06-NOV-2000
05 | ILLINOIS | BURNHAM, VILLAGE OF | 17031C0669F | 06-NOV-2000
05 | ILLINOIS | BURNHAM, VILLAGE OF | 17031CIND1 | 06-NOV-2000
05 | ILLINOIS | BURNHAM, VILLAGE OF | 17031CIND2 | 06-NOV-2000
05 | ILLINOIS | BURNHAM, VILLAGE OF | 17031CIND3 | 06-NOV-2000
05 | ILLINOIS | BURR RIDGE, VILLAGE OF | 17031C0466F | 06-NOV-2000
05 | ILLINOIS | BURR RIDGE, VILLAGE OF | 17031C0468F | 06-NOV-2000
05 | ILLINOIS | BURR RIDGE, VILLAGE OF | 17031C0469F | 06-NOV-2000
05 | ILLINOIS | BURR RIDGE, VILLAGE OF | 17031C0581F | 06-NOV-2000
05 | ILLINOIS | BURR RIDGE, VILLAGE OF | 17031C0582F | 06-NOV-2000
05 | ILLINOIS | BURR RIDGE, VILLAGE OF | 17031C0583F | 06-NOV-2000
05 | ILLINOIS | BURR RIDGE, VILLAGE OF | 17031CIND1 | 06-NOV-2000
05 | ILLINOIS | BURR RIDGE, VILLAGE OF | 17031CIND2 | 06-NOV-2000
05 | ILLINOIS | BURR RIDGE, VILLAGE OF | 17031CIND3 | 06-NOV-2000
05 | ILLINOIS | CALUMET CITY, CITY OF | 17031C0664F | 06-NOV-2000
05 | ILLINOIS | CALUMET CITY, CITY OF | 17031C0668F | 06-NOV-2000
05 | ILLINOIS | CALUMET CITY, CITY OF | 17031C0669F | 06-NOV-2000
05 | ILLINOIS | CALUMET CITY, CITY OF | 17031C0752F | 06-NOV-2000
05 | ILLINOIS | CALUMET CITY, CITY OF | 17031C0754F | 06-NOV-2000
05 | ILLINOIS | CALUMET CITY, CITY OF | 17031C0756F | 06-NOV-2000
05 | ILLINOIS | CALUMET CITY, CITY OF | 17031C0757F | 06-NOV-2000
05 | ILLINOIS | CALUMET CITY, CITY OF | 17031C0758F | 06-NOV-2000
05 | ILLINOIS | CALUMET CITY, CITY OF | 17031C0759F | 06-NOV-2000
05 | ILLINOIS | CALUMET CITY, CITY OF | 17031CIND1 | 06-NOV-2000
05 | ILLINOIS | CALUMET CITY, CITY OF | 17031CIND2 | 06-NOV-2000
05 | ILLINOIS | CALUMET CITY, CITY OF | 17031CIND3 | 06-NOV-2000
05 | ILLINOIS | CALUMET PARK, VILLAGE OF | 17031C0643F | 06-NOV-2000
05 | ILLINOIS | CALUMET PARK, VILLAGE OF | 17031C0644F | 06-NOV-2000
05 | ILLINOIS | CALUMET PARK, VILLAGE OF | 17031C0645F | 06-NOV-2000
05 | ILLINOIS | CALUMET PARK, VILLAGE OF | 17031CIND1 | 06-NOV-2000
05 | ILLINOIS | CALUMET PARK, VILLAGE OF | 17031CIND2 | 06-NOV-2000
05 | ILLINOIS | CALUMET PARK, VILLAGE OF | 17031CIND3 | 06-NOV-2000
05 | ILLINOIS | CHICAGO HEIGHTS, CITY OF | 17031C0742F | 06-NOV-2000
05 | ILLINOIS | CHICAGO HEIGHTS, CITY OF | 17031C0743F | 06-NOV-2000
05 | ILLINOIS | CHICAGO HEIGHTS, CITY OF | 17031C0744F | 06-NOV-2000
05 | ILLINOIS | CHICAGO HEIGHTS, CITY OF | 17031C0763F | 06-NOV-2000
05 | ILLINOIS | CHICAGO HEIGHTS, CITY OF | 17031C0806F | 06-NOV-2000
05 | ILLINOIS | CHICAGO HEIGHTS, CITY OF | 17031C0807F | 06-NOV-2000
05 | ILLINOIS | CHICAGO HEIGHTS, CITY OF | 17031C0826F | 06-NOV-2000
05 | ILLINOIS | CHICAGO HEIGHTS, CITY OF | 17031CIND1 | 06-NOV-2000
05 | ILLINOIS | CHICAGO HEIGHTS, CITY OF | 17031CIND2 | 06-NOV-2000
05 | ILLINOIS | CHICAGO HEIGHTS, CITY OF | 17031CIND3 | 06-NOV-2000
05 | ILLINOIS | CHICAGO RIDGE, VILLAGE OF | 17031C0606F | 06-NOV-2000
05 | ILLINOIS | CHICAGO RIDGE, VILLAGE OF | 17031C0607F | 06-NOV-2000
05 | ILLINOIS | CHICAGO RIDGE, VILLAGE OF | 17031C0608F | 06-NOV-2000
05 | ILLINOIS | CHICAGO RIDGE, VILLAGE OF | 17031C0609F | 06-NOV-2000
05 | ILLINOIS | CHICAGO RIDGE, VILLAGE OF | 17031CIND1 | 06-NOV-2000
05 | ILLINOIS | CHICAGO RIDGE, VILLAGE OF | 17031CIND2 | 06-NOV-2000
05 | ILLINOIS | CHICAGO RIDGE, VILLAGE OF | 17031CIND3 | 06-NOV-2000
05 | ILLINOIS | CHICAGO, CITY OF | 17031C0214F | 06-NOV-2000
05 | ILLINOIS | CHICAGO, CITY OF | 17031C0218F | 06-NOV-2000
05 | ILLINOIS | CHICAGO, CITY OF | 17031C0219F | 06-NOV-2000
05 | ILLINOIS | CHICAGO, CITY OF | 17031C0243F | 06-NOV-2000
05 | ILLINOIS | CHICAGO, CITY OF | 17031C0244F | 06-NOV-2000
05 | ILLINOIS | CHICAGO, CITY OF | 17031C0265F | 06-NOV-2000
05 | ILLINOIS | CHICAGO, CITY OF | 17031C0270F | 06-NOV-2000
05 | ILLINOIS | CHICAGO, CITY OF | 17031C0354F | 06-NOV-2000
05 | ILLINOIS | CHICAGO, CITY OF | 17031C0356F | 06-NOV-2000
05 | ILLINOIS | CHICAGO, CITY OF | 17031C0357F | 06-NOV-2000
05 | ILLINOIS | CHICAGO, CITY OF | 17031C0358F | 06-NOV-2000
05 | ILLINOIS | CHICAGO, CITY OF | 17031C0359F | 06-NOV-2000
05 | ILLINOIS | CHICAGO, CITY OF | 17031C0376F | 06-NOV-2000
05 | ILLINOIS | CHICAGO, CITY OF | 17031C0378F | 06-NOV-2000
05 | ILLINOIS | CHICAGO, CITY OF | 17031C0380F | 06-NOV-2000
05 | ILLINOIS | CHICAGO, CITY OF | 17031C0382F | 06-NOV-2000
05 | ILLINOIS | CHICAGO, CITY OF | 17031C0385F | 06-NOV-2000
05 | ILLINOIS | CHICAGO, CITY OF | 17031C0386F | 06-NOV-2000
05 | ILLINOIS | CHICAGO, CITY OF | 17031C0387F | 06-NOV-2000
05 | ILLINOIS | CHICAGO, CITY OF | 17031C0401F | 06-NOV-2000
05 | ILLINOIS | CHICAGO, CITY OF | 17031C0402F | 06-NOV-2000
05 | ILLINOIS | CHICAGO, CITY OF | 17031C0404F | 06-NOV-2000
05 | ILLINOIS | CHICAGO, CITY OF | 17031C0410F | 06-NOV-2000
05 | ILLINOIS | CHICAGO, CITY OF | 17031C0415F | 06-NOV-2000
05 | ILLINOIS | CHICAGO, CITY OF | 17031C0416F | 06-NOV-2000
05 | ILLINOIS | CHICAGO, CITY OF | 17031C0417F | 06-NOV-2000
05 | ILLINOIS | CHICAGO, CITY OF | 17031C0418F | 06-NOV-2000
05 | ILLINOIS | CHICAGO, CITY OF | 17031C0419F | 06-NOV-2000
05 | ILLINOIS | CHICAGO, CITY OF | 17031C0438F | 06-NOV-2000
05 | ILLINOIS | CHICAGO, CITY OF | 17031C0440F | 06-NOV-2000
05 | ILLINOIS | CHICAGO, CITY OF | 17031C0484F | 06-NOV-2000
05 | ILLINOIS | CHICAGO, CITY OF | 17031C0491F | 06-NOV-2000
05 | ILLINOIS | CHICAGO, CITY OF | 17031C0492F | 06-NOV-2000
05 | ILLINOIS | CHICAGO, CITY OF | 17031C0503F | 06-NOV-2000
05 | ILLINOIS | CHICAGO, CITY OF | 17031C0504F | 06-NOV-2000
05 | ILLINOIS | CHICAGO, CITY OF | 17031C0506F | 06-NOV-2000
05 | ILLINOIS | CHICAGO, CITY OF | 17031C0507F | 06-NOV-2000
05 | ILLINOIS | CHICAGO, CITY OF | 17031C0508F | 06-NOV-2000
05 | ILLINOIS | CHICAGO, CITY OF | 17031C0509F | 06-NOV-2000
05 | ILLINOIS | CHICAGO, CITY OF | 17031C0526F | 06-NOV-2000
05 | ILLINOIS | CHICAGO, CITY OF | 17031C0528F | 06-NOV-2000
05 | ILLINOIS | CHICAGO, CITY OF | 17031C0529F | 06-NOV-2000
05 | ILLINOIS | CHICAGO, CITY OF | 17031C0540F | 06-NOV-2000
05 | ILLINOIS | CHICAGO, CITY OF | 17031C0545F | 06-NOV-2000
05 | ILLINOIS | CHICAGO, CITY OF | 17031C0609F | 06-NOV-2000
05 | ILLINOIS | CHICAGO, CITY OF | 17031C0628F | 06-NOV-2000
05 | ILLINOIS | CHICAGO, CITY OF | 17031C0636F | 06-NOV-2000
05 | ILLINOIS | CHICAGO, CITY OF | 17031C0637F | 06-NOV-2000
05 | ILLINOIS | CHICAGO, CITY OF | 17031C0645F | 06-NOV-2000
05 | ILLINOIS | CHICAGO, CITY OF | 17031C0655F | 06-NOV-2000
05 | ILLINOIS | CHICAGO, CITY OF | 17031C0658F | 06-NOV-2000
05 | ILLINOIS | CHICAGO, CITY OF | 17031C0659F | 06-NOV-2000
05 | ILLINOIS | CHICAGO, CITY OF | 17031C0660F | 06-NOV-2000
05 | ILLINOIS | CHICAGO, CITY OF | 17031C0661F | 06-NOV-2000
05 | ILLINOIS | CHICAGO, CITY OF | 17031C0662F | 06-NOV-2000
05 | ILLINOIS | CHICAGO, CITY OF | 17031C0663F | 06-NOV-2000
05 | ILLINOIS | CHICAGO, CITY OF | 17031C0664F | 06-NOV-2000
05 | ILLINOIS | CHICAGO, CITY OF | 17031C0668F | 06-NOV-2000
05 | ILLINOIS | CHICAGO, CITY OF | 17031C0669F | 06-NOV-2000
05 | ILLINOIS | CHICAGO, CITY OF | 17031C0670F | 06-NOV-2000
05 | ILLINOIS | CHICAGO, CITY OF | 17031CIND1 | 06-NOV-2000
05 | ILLINOIS | CHICAGO, CITY OF | 17031CIND2 | 06-NOV-2000
05 | ILLINOIS | CHICAGO, CITY OF | 17031CIND3 | 06-NOV-2000
05 | ILLINOIS | CICERO, TOWN OF | 17031C0484F | 06-NOV-2000
05 | ILLINOIS | CICERO, TOWN OF | 17031C0503F | 06-NOV-2000
05 | ILLINOIS | CICERO, TOWN OF | 17031CIND1 | 06-NOV-2000
05 | ILLINOIS | CICERO, TOWN OF | 17031CIND2 | 06-NOV-2000
05 | ILLINOIS | CICERO, TOWN OF | 17031CIND3 | 06-NOV-2000
05 | ILLINOIS | COOK COUNTY * | 17031C0020F | 06-NOV-2000
05 | ILLINOIS | COOK COUNTY * | 17031C0038F | 06-NOV-2000
05 | ILLINOIS | COOK COUNTY * | 17031C0039F | 06-NOV-2000
05 | ILLINOIS | COOK COUNTY * | 17031C0043F | 06-NOV-2000
05 | ILLINOIS | COOK COUNTY * | 17031C0044F | 06-NOV-2000
05 | ILLINOIS | COOK COUNTY * | 17031C0063F | 06-NOV-2000
05 | ILLINOIS | COOK COUNTY * | 17031C0064F | 06-NOV-2000
05 | ILLINOIS | COOK COUNTY * | 17031C0068F | 06-NOV-2000
05 | ILLINOIS | COOK COUNTY * | 17031C0069F | 06-NOV-2000
05 | ILLINOIS | COOK COUNTY * | 17031C0088F | 06-NOV-2000
05 | ILLINOIS | COOK COUNTY * | 17031C0089F | 06-NOV-2000
05 | ILLINOIS | COOK COUNTY * | 17031C0093F | 06-NOV-2000
05 | ILLINOIS | COOK COUNTY * | 17031C0094F | 06-NOV-2000
05 | ILLINOIS | COOK COUNTY * | 17031C0113F | 06-NOV-2000
05 | ILLINOIS | COOK COUNTY * | 17031C0144F | 06-NOV-2000
05 | ILLINOIS | COOK COUNTY * | 17031C0155F | 06-NOV-2000
05 | ILLINOIS | COOK COUNTY * | 17031C0156F | 06-NOV-2000
05 | ILLINOIS | COOK COUNTY * | 17031C0157F | 06-NOV-2000
05 | ILLINOIS | COOK COUNTY * | 17031C0158F | 06-NOV-2000
05 | ILLINOIS | COOK COUNTY * | 17031C0159F | 06-NOV-2000
05 | ILLINOIS | COOK COUNTY * | 17031C0161F | 06-NOV-2000
05 | ILLINOIS | COOK COUNTY * | 17031C0162F | 06-NOV-2000
05 | ILLINOIS | COOK COUNTY * | 17031C0163F | 06-NOV-2000
05 | ILLINOIS | COOK COUNTY * | 17031C0164F | 06-NOV-2000
05 | ILLINOIS | COOK COUNTY * | 17031C0166F | 06-NOV-2000
05 | ILLINOIS | COOK COUNTY * | 17031C0167F | 06-NOV-2000
05 | ILLINOIS | COOK COUNTY * | 17031C0168F | 06-NOV-2000
05 | ILLINOIS | COOK COUNTY * | 17031C0169F | 06-NOV-2000
05 | ILLINOIS | COOK COUNTY * | 17031C0176F | 06-NOV-2000
05 | ILLINOIS | COOK COUNTY * | 17031C0177F | 06-NOV-2000
05 | ILLINOIS | COOK COUNTY * | 17031C0178F | 06-NOV-2000
05 | ILLINOIS | COOK COUNTY * | 17031C0179F | 06-NOV-2000
05 | ILLINOIS | COOK COUNTY * | 17031C0181F | 06-NOV-2000
05 | ILLINOIS | COOK COUNTY * | 17031C0182F | 06-NOV-2000
05 | ILLINOIS | COOK COUNTY * | 17031C0183F | 06-NOV-2000
05 | ILLINOIS | COOK COUNTY * | 17031C0184F | 06-NOV-2000
05 | ILLINOIS | COOK COUNTY * | 17031C0186F | 06-NOV-2000
05 | ILLINOIS | COOK COUNTY * | 17031C0187F | 06-NOV-2000
05 | ILLINOIS | COOK COUNTY * | 17031C0188F | 06-NOV-2000
05 | ILLINOIS | COOK COUNTY * | 17031C0189F | 06-NOV-2000
05 | ILLINOIS | COOK COUNTY * | 17031C0191F | 06-NOV-2000
05 | ILLINOIS | COOK COUNTY * | 17031C0192F | 06-NOV-2000
05 | ILLINOIS | COOK COUNTY * | 17031C0193F | 06-NOV-2000
05 | ILLINOIS | COOK COUNTY * | 17031C0194F | 06-NOV-2000
05 | ILLINOIS | COOK COUNTY * | 17031C0201F | 06-NOV-2000
05 | ILLINOIS | COOK COUNTY * | 17031C0202F | 06-NOV-2000
05 | ILLINOIS | COOK COUNTY * | 17031C0203F | 06-NOV-2000
05 | ILLINOIS | COOK COUNTY * | 17031C0204F | 06-NOV-2000
05 | ILLINOIS | COOK COUNTY * | 17031C0206F | 06-NOV-2000
05 | ILLINOIS | COOK COUNTY * | 17031C0207F | 06-NOV-2000
05 | ILLINOIS | COOK COUNTY * | 17031C0208F | 06-NOV-2000
05 | ILLINOIS | COOK COUNTY * | 17031C0209F | 06-NOV-2000
05 | ILLINOIS | COOK COUNTY * | 17031C0211F | 06-NOV-2000
05 | ILLINOIS | COOK COUNTY * | 17031C0212F | 06-NOV-2000
05 | ILLINOIS | COOK COUNTY * | 17031C0213F | 06-NOV-2000
05 | ILLINOIS | COOK COUNTY * | 17031C0214F | 06-NOV-2000
05 | ILLINOIS | COOK COUNTY * | 17031C0216F | 06-NOV-2000
05 | ILLINOIS | COOK COUNTY * | 17031C0217F | 06-NOV-2000
05 | ILLINOIS | COOK COUNTY * | 17031C0218F | 06-NOV-2000
05 | ILLINOIS | COOK COUNTY * | 17031C0219F | 06-NOV-2000
05 | ILLINOIS | COOK COUNTY * | 17031C0226F | 06-NOV-2000
05 | ILLINOIS | COOK COUNTY * | 17031C0227F | 06-NOV-2000
05 | ILLINOIS | COOK COUNTY * | 17031C0228F | 06-NOV-2000
05 | ILLINOIS | COOK COUNTY * | 17031C0229F | 06-NOV-2000
05 | ILLINOIS | COOK COUNTY * | 17031C0231F | 06-NOV-2000
05 | ILLINOIS | COOK COUNTY * | 17031C0232F | 06-NOV-2000
05 | ILLINOIS | COOK COUNTY * | 17031C0233F | 06-NOV-2000
05 | ILLINOIS | COOK COUNTY * | 17031C0234F | 06-NOV-2000
05 | ILLINOIS | COOK COUNTY * | 17031C0236F | 06-NOV-2000
05 | ILLINOIS | COOK COUNTY * | 17031C0237F | 06-NOV-2000
05 | ILLINOIS | COOK COUNTY * | 17031C0238F | 06-NOV-2000
05 | ILLINOIS | COOK COUNTY * | 17031C0241F | 06-NOV-2000
05 | ILLINOIS | COOK COUNTY * | 17031C0242F | 06-NOV-2000
05 | ILLINOIS | COOK COUNTY * | 17031C0243F | 06-NOV-2000
05 | ILLINOIS | COOK COUNTY * | 17031C0244F | 06-NOV-2000
05 | ILLINOIS | COOK COUNTY * | 17031C0251F | 06-NOV-2000
05 | ILLINOIS | COOK COUNTY * | 17031C0253F | 06-NOV-2000
05 | ILLINOIS | COOK COUNTY * | 17031C0255F | 06-NOV-2000
05 | ILLINOIS | COOK COUNTY * | 17031C0260F | 06-NOV-2000
05 | ILLINOIS | COOK COUNTY * | 17031C0265F | 06-NOV-2000
05 | ILLINOIS | COOK COUNTY * | 17031C0270F | 06-NOV-2000
05 | ILLINOIS | COOK COUNTY * | 17031C0305F | 06-NOV-2000
05 | ILLINOIS | COOK COUNTY * | 17031C0307F | 06-NOV-2000
05 | ILLINOIS | COOK COUNTY * | 17031C0330F | 06-NOV-2000
05 | ILLINOIS | COOK COUNTY * | 17031C0331F | 06-NOV-2000
05 | ILLINOIS | COOK COUNTY * | 17031C0332F | 06-NOV-2000
05 | ILLINOIS | COOK COUNTY * | 17031C0351F | 06-NOV-2000
05 | ILLINOIS | COOK COUNTY * | 17031C0356F | 06-NOV-2000
05 | ILLINOIS | COOK COUNTY * | 17031C0357F | 06-NOV-2000
05 | ILLINOIS | COOK COUNTY * | 17031C0358F | 06-NOV-2000
05 | ILLINOIS | COOK COUNTY * | 17031C0359F | 06-NOV-2000
05 | ILLINOIS | COOK COUNTY * | 17031C0366F | 06-NOV-2000
05 | ILLINOIS | COOK COUNTY * | 17031C0367F | 06-NOV-2000
05 | ILLINOIS | COOK COUNTY * | 17031C0369F | 06-NOV-2000
05 | ILLINOIS | COOK COUNTY * | 17031C0376F | 06-NOV-2000
05 | ILLINOIS | COOK COUNTY * | 17031C0378F | 06-NOV-2000
05 | ILLINOIS | COOK COUNTY * | 17031C0382F | 06-NOV-2000
05 | ILLINOIS | COOK COUNTY * | 17031C0385F | 06-NOV-2000
05 | ILLINOIS | COOK COUNTY * | 17031C0386F | 06-NOV-2000
05 | ILLINOIS | COOK COUNTY * | 17031C0387F | 06-NOV-2000
05 | ILLINOIS | COOK COUNTY * | 17031C0388F | 06-NOV-2000
05 | ILLINOIS | COOK COUNTY * | 17031C0389F | 06-NOV-2000
05 | ILLINOIS | COOK COUNTY * | 17031C0456F | 06-NOV-2000
05 | ILLINOIS | COOK COUNTY * | 17031C0458F | 06-NOV-2000
05 | ILLINOIS | COOK COUNTY * | 17031C0459F | 06-NOV-2000
05 | ILLINOIS | COOK COUNTY * | 17031C0466F | 06-NOV-2000
05 | ILLINOIS | COOK COUNTY * | 17031C0467F | 06-NOV-2000
05 | ILLINOIS | COOK COUNTY * | 17031C0468F | 06-NOV-2000
05 | ILLINOIS | COOK COUNTY * | 17031C0469F | 06-NOV-2000
05 | ILLINOIS | COOK COUNTY * | 17031C0476F | 06-NOV-2000
05 | ILLINOIS | COOK COUNTY * | 17031C0477F | 06-NOV-2000
05 | ILLINOIS | COOK COUNTY * | 17031C0478F | 06-NOV-2000
05 | ILLINOIS | COOK COUNTY * | 17031C0479F | 06-NOV-2000
05 | ILLINOIS | COOK COUNTY * | 17031C0483F | 06-NOV-2000
05 | ILLINOIS | COOK COUNTY * | 17031C0484F | 06-NOV-2000
05 | ILLINOIS | COOK COUNTY * | 17031C0486F | 06-NOV-2000
05 | ILLINOIS | COOK COUNTY * | 17031C0487F | 06-NOV-2000
05 | ILLINOIS | COOK COUNTY * | 17031C0488F | 06-NOV-2000
05 | ILLINOIS | COOK COUNTY * | 17031C0489F | 06-NOV-2000
05 | ILLINOIS | COOK COUNTY * | 17031C0491F | 06-NOV-2000
05 | ILLINOIS | COOK COUNTY * | 17031C0492F | 06-NOV-2000
05 | ILLINOIS | COOK COUNTY * | 17031C0503F | 06-NOV-2000
05 | ILLINOIS | COOK COUNTY * | 17031C0504F | 06-NOV-2000
05 | ILLINOIS | COOK COUNTY * | 17031C0506F | 06-NOV-2000
05 | ILLINOIS | COOK COUNTY * | 17031C0507F | 06-NOV-2000
05 | ILLINOIS | COOK COUNTY * | 17031C0508F | 06-NOV-2000
05 | ILLINOIS | COOK COUNTY * | 17031C0526F | 06-NOV-2000
05 | ILLINOIS | COOK COUNTY * | 17031C0528F | 06-NOV-2000
05 | ILLINOIS | COOK COUNTY * | 17031C0529F | 06-NOV-2000
05 | ILLINOIS | COOK COUNTY * | 17031C0540F | 06-NOV-2000
05 | ILLINOIS | COOK COUNTY * | 17031C0545F | 06-NOV-2000
05 | ILLINOIS | COOK COUNTY * | 17031C0567F | 06-NOV-2000
05 | ILLINOIS | COOK COUNTY * | 17031C0569F | 06-NOV-2000
05 | ILLINOIS | COOK COUNTY * | 17031C0578F | 06-NOV-2000
05 | ILLINOIS | COOK COUNTY * | 17031C0579F | 06-NOV-2000
05 | ILLINOIS | COOK COUNTY * | 17031C0581F | 06-NOV-2000
05 | ILLINOIS | COOK COUNTY * | 17031C0582F | 06-NOV-2000
05 | ILLINOIS | COOK COUNTY * | 17031C0583F | 06-NOV-2000
05 | ILLINOIS | COOK COUNTY * | 17031C0584F | 06-NOV-2000
05 | ILLINOIS | COOK COUNTY * | 17031C0586F | 06-NOV-2000
05 | ILLINOIS | COOK COUNTY * | 17031C0593F | 06-NOV-2000
05 | ILLINOIS | COOK COUNTY * | 17031C0594F | 06-NOV-2000
05 | ILLINOIS | COOK COUNTY * | 17031C0601F | 06-NOV-2000
05 | ILLINOIS | COOK COUNTY * | 17031C0602F | 06-NOV-2000
05 | ILLINOIS | COOK COUNTY * | 17031C0603F | 06-NOV-2000
05 | ILLINOIS | COOK COUNTY * | 17031C0604F | 06-NOV-2000
05 | ILLINOIS | COOK COUNTY * | 17031C0606F | 06-NOV-2000
05 | ILLINOIS | COOK COUNTY * | 17031C0607F | 06-NOV-2000
05 | ILLINOIS | COOK COUNTY * | 17031C0608F | 06-NOV-2000
05 | ILLINOIS | COOK COUNTY * | 17031C0609F | 06-NOV-2000
05 | ILLINOIS | COOK COUNTY * | 17031C0611F | 06-NOV-2000
05 | ILLINOIS | COOK COUNTY * | 17031C0612F | 06-NOV-2000
05 | ILLINOIS | COOK COUNTY * | 17031C0613F | 06-NOV-2000
05 | ILLINOIS | COOK COUNTY * | 17031C0614F | 06-NOV-2000
05 | ILLINOIS | COOK COUNTY * | 17031C0616F | 06-NOV-2000
05 | ILLINOIS | COOK COUNTY * | 17031C0617F | 06-NOV-2000
05 | ILLINOIS | COOK COUNTY * | 17031C0618F | 06-NOV-2000
05 | ILLINOIS | COOK COUNTY * | 17031C0619F | 06-NOV-2000
05 | ILLINOIS | COOK COUNTY * | 17031C0628F | 06-NOV-2000
05 | ILLINOIS | COOK COUNTY * | 17031C0636F | 06-NOV-2000
05 | ILLINOIS | COOK COUNTY * | 17031C0637F | 06-NOV-2000
05 | ILLINOIS | COOK COUNTY * | 17031C0638F | 06-NOV-2000
05 | ILLINOIS | COOK COUNTY * | 17031C0639F | 06-NOV-2000
05 | ILLINOIS | COOK COUNTY * | 17031C0643F | 06-NOV-2000
05 | ILLINOIS | COOK COUNTY * | 17031C0644F | 06-NOV-2000
05 | ILLINOIS | COOK COUNTY * | 17031C0645F | 06-NOV-2000
05 | ILLINOIS | COOK COUNTY * | 17031C0655F | 06-NOV-2000
05 | ILLINOIS | COOK COUNTY * | 17031C0658F | 06-NOV-2000
05 | ILLINOIS | COOK COUNTY * | 17031C0659F | 06-NOV-2000
05 | ILLINOIS | COOK COUNTY * | 17031C0660F | 06-NOV-2000
05 | ILLINOIS | COOK COUNTY * | 17031C0661F | 06-NOV-2000
05 | ILLINOIS | COOK COUNTY * | 17031C0662F | 06-NOV-2000
05 | ILLINOIS | COOK COUNTY * | 17031C0663F | 06-NOV-2000
05 | ILLINOIS | COOK COUNTY * | 17031C0664F | 06-NOV-2000
05 | ILLINOIS | COOK COUNTY * | 17031C0668F | 06-NOV-2000
05 | ILLINOIS | COOK COUNTY * | 17031C0669F | 06-NOV-2000
05 | ILLINOIS | COOK COUNTY * | 17031C0670F | 06-NOV-2000
05 | ILLINOIS | COOK COUNTY * | 17031C0701F | 06-NOV-2000
05 | ILLINOIS | COOK COUNTY * | 17031C0702F | 06-NOV-2000
05 | ILLINOIS | COOK COUNTY * | 17031C0703F | 06-NOV-2000
05 | ILLINOIS | COOK COUNTY * | 17031C0704F | 06-NOV-2000
05 | ILLINOIS | COOK COUNTY * | 17031C0706F | 06-NOV-2000
05 | ILLINOIS | COOK COUNTY * | 17031C0707F | 06-NOV-2000
05 | ILLINOIS | COOK COUNTY * | 17031C0708F | 06-NOV-2000
05 | ILLINOIS | COOK COUNTY * | 17031C0709F | 06-NOV-2000
05 | ILLINOIS | COOK COUNTY * | 17031C0712F | 06-NOV-2000
05 | ILLINOIS | COOK COUNTY * | 17031C0716F | 06-NOV-2000
05 | ILLINOIS | COOK COUNTY * | 17031C0717F | 06-NOV-2000
05 | ILLINOIS | COOK COUNTY * | 17031C0718F | 06-NOV-2000
05 | ILLINOIS | COOK COUNTY * | 17031C0719F | 06-NOV-2000
05 | ILLINOIS | COOK COUNTY * | 17031C0726F | 06-NOV-2000
05 | ILLINOIS | COOK COUNTY * | 17031C0727F | 06-NOV-2000
05 | ILLINOIS | COOK COUNTY * | 17031C0728F | 06-NOV-2000
05 | ILLINOIS | COOK COUNTY * | 17031C0729F | 06-NOV-2000
05 | ILLINOIS | COOK COUNTY * | 17031C0731F | 06-NOV-2000
05 | ILLINOIS | COOK COUNTY * | 17031C0732F | 06-NOV-2000
05 | ILLINOIS | COOK COUNTY * | 17031C0733F | 06-NOV-2000
05 | ILLINOIS | COOK COUNTY * | 17031C0734F | 06-NOV-2000
05 | ILLINOIS | COOK COUNTY * | 17031C0736F | 06-NOV-2000
05 | ILLINOIS | COOK COUNTY * | 17031C0737F | 06-NOV-2000
05 | ILLINOIS | COOK COUNTY * | 17031C0738F | 06-NOV-2000
05 | ILLINOIS | COOK COUNTY * | 17031C0739F | 06-NOV-2000
05 | ILLINOIS | COOK COUNTY * | 17031C0741F | 06-NOV-2000
05 | ILLINOIS | COOK COUNTY * | 17031C0742F | 06-NOV-2000
05 | ILLINOIS | COOK COUNTY * | 17031C0743F | 06-NOV-2000
05 | ILLINOIS | COOK COUNTY * | 17031C0744F | 06-NOV-2000
05 | ILLINOIS | COOK COUNTY * | 17031C0751F | 06-NOV-2000
05 | ILLINOIS | COOK COUNTY * | 17031C0752F | 06-NOV-2000
05 | ILLINOIS | COOK COUNTY * | 17031C0753F | 06-NOV-2000
05 | ILLINOIS | COOK COUNTY * | 17031C0754F | 06-NOV-2000
05 | ILLINOIS | COOK COUNTY * | 17031C0756F | 06-NOV-2000
05 | ILLINOIS | COOK COUNTY * | 17031C0757F | 06-NOV-2000
05 | ILLINOIS | COOK COUNTY * | 17031C0758F | 06-NOV-2000
05 | ILLINOIS | COOK COUNTY * | 17031C0759F | 06-NOV-2000
05 | ILLINOIS | COOK COUNTY * | 17031C0761F | 06-NOV-2000
05 | ILLINOIS | COOK COUNTY * | 17031C0762F | 06-NOV-2000
05 | ILLINOIS | COOK COUNTY * | 17031C0763F | 06-NOV-2000
05 | ILLINOIS | COOK COUNTY * | 17031C0764F | 06-NOV-2000
05 | ILLINOIS | COOK COUNTY * | 17031C0766F | 06-NOV-2000
05 | ILLINOIS | COOK COUNTY * | 17031C0767F | 06-NOV-2000
05 | ILLINOIS | COOK COUNTY * | 17031C0768F | 06-NOV-2000
05 | ILLINOIS | COOK COUNTY * | 17031C0769F | 06-NOV-2000
05 | ILLINOIS | COOK COUNTY * | 17031C0781F | 06-NOV-2000
05 | ILLINOIS | COOK COUNTY * | 17031C0782F | 06-NOV-2000
05 | ILLINOIS | COOK COUNTY * | 17031C0801F | 06-NOV-2000
05 | ILLINOIS | COOK COUNTY * | 17031C0802F | 06-NOV-2000
05 | ILLINOIS | COOK COUNTY * | 17031C0806F | 06-NOV-2000
05 | ILLINOIS | COOK COUNTY * | 17031C0807F | 06-NOV-2000
05 | ILLINOIS | COOK COUNTY * | 17031C0826F | 06-NOV-2000
05 | ILLINOIS | COOK COUNTY * | 17031C0827F | 06-NOV-2000
05 | ILLINOIS | COOK COUNTY * | 17031C0831F | 06-NOV-2000
05 | ILLINOIS | COOK COUNTY * | 17031C0832F | 06-NOV-2000
05 | ILLINOIS | COOK COUNTY * | 17031CIND1 | 06-NOV-2000
05 | ILLINOIS | COOK COUNTY * | 17031CIND2 | 06-NOV-2000
05 | ILLINOIS | COOK COUNTY * | 17031CIND3 | 06-NOV-2000
05 | ILLINOIS | CORTLAND, TOWN OF | 17037C0067D | 21-SEP-2000
05 | ILLINOIS | CORTLAND, TOWN OF | 17037C0086D | 21-SEP-2000
05 | ILLINOIS | CORTLAND, TOWN OF | 17037C0090D** | 21-SEP-2000
05 | ILLINOIS | CORTLAND, TOWN OF | 17037CIND0 | 21-SEP-2000
05 | ILLINOIS | COUNTRY CLUB HILLS, CITY OF | 17031C0728F | 06-NOV-2000
05 | ILLINOIS | COUNTRY CLUB HILLS, CITY OF | 17031C0729F | 06-NOV-2000
05 | ILLINOIS | COUNTRY CLUB HILLS, CITY OF | 17031C0736F | 06-NOV-2000
05 | ILLINOIS | COUNTRY CLUB HILLS, CITY OF | 17031C0737F | 06-NOV-2000
05 | ILLINOIS | COUNTRY CLUB HILLS, CITY OF | 17031CIND1 | 06-NOV-2000
05 | ILLINOIS | COUNTRY CLUB HILLS, CITY OF | 17031CIND2 | 06-NOV-2000
05 | ILLINOIS | COUNTRY CLUB HILLS, CITY OF | 17031CIND3 | 06-NOV-2000
05 | ILLINOIS | COUNTRYSIDE, CITY OF | 17031C0467F | 06-NOV-2000
05 | ILLINOIS | COUNTRYSIDE, CITY OF | 17031C0469F | 06-NOV-2000
05 | ILLINOIS | COUNTRYSIDE, CITY OF | 17031C0486F | 06-NOV-2000
05 | ILLINOIS | COUNTRYSIDE, CITY OF | 17031C0488F | 06-NOV-2000
05 | ILLINOIS | COUNTRYSIDE, CITY OF | 17031CIND1 | 06-NOV-2000
05 | ILLINOIS | COUNTRYSIDE, CITY OF | 17031CIND2 | 06-NOV-2000
05 | ILLINOIS | COUNTRYSIDE, CITY OF | 17031CIND3 | 06-NOV-2000
05 | ILLINOIS | CRESTWOOD, VILLAGE OF | 17031C0617F | 06-NOV-2000
05 | ILLINOIS | CRESTWOOD, VILLAGE OF | 17031C0619F | 06-NOV-2000
05 | ILLINOIS | CRESTWOOD, VILLAGE OF | 17031C0636F | 06-NOV-2000
05 | ILLINOIS | CRESTWOOD, VILLAGE OF | 17031C0638F | 06-NOV-2000
05 | ILLINOIS | CRESTWOOD, VILLAGE OF | 17031C0639F | 06-NOV-2000
05 | ILLINOIS | CRESTWOOD, VILLAGE OF | 17031CIND1 | 06-NOV-2000
05 | ILLINOIS | CRESTWOOD, VILLAGE OF | 17031CIND2 | 06-NOV-2000
05 | ILLINOIS | CRESTWOOD, VILLAGE OF | 17031CIND3 | 06-NOV-2000
05 | ILLINOIS | DE KALB COUNTY * | 17037C0001D | 21-SEP-2000
05 | ILLINOIS | DE KALB COUNTY * | 17037C0002D** | 21-SEP-2000
05 | ILLINOIS | DE KALB COUNTY * | 17037C0003D | 21-SEP-2000
05 | ILLINOIS | DE KALB COUNTY * | 17037C0004D | 21-SEP-2000
05 | ILLINOIS | DE KALB COUNTY * | 17037C0008D | 21-SEP-2000
05 | ILLINOIS | DE KALB COUNTY * | 17037C0009D | 21-SEP-2000
05 | ILLINOIS | DE KALB COUNTY * | 17037C0010D | 21-SEP-2000
05 | ILLINOIS | DE KALB COUNTY * | 17037C0015D | 21-SEP-2000
05 | ILLINOIS | DE KALB COUNTY * | 17037C0017D | 21-SEP-2000
05 | ILLINOIS | DE KALB COUNTY * | 17037C0019D | 21-SEP-2000
05 | ILLINOIS | DE KALB COUNTY * | 17037C0020D** | 21-SEP-2000
05 | ILLINOIS | DE KALB COUNTY * | 17037C0030D | 21-SEP-2000
05 | ILLINOIS | DE KALB COUNTY * | 17037C0036D | 21-SEP-2000
05 | ILLINOIS | DE KALB COUNTY * | 17037C0038D | 21-SEP-2000
05 | ILLINOIS | DE KALB COUNTY * | 17037C0040D** | 21-SEP-2000
05 | ILLINOIS | DE KALB COUNTY * | 17037C0055D** | 21-SEP-2000
05 | ILLINOIS | DE KALB COUNTY * | 17037C0057D | 21-SEP-2000
05 | ILLINOIS | DE KALB COUNTY * | 17037C0059D | 21-SEP-2000
05 | ILLINOIS | DE KALB COUNTY * | 17037C0065D** | 21-SEP-2000
05 | ILLINOIS | DE KALB COUNTY * | 17037C0066D | 21-SEP-2000
05 | ILLINOIS | DE KALB COUNTY * | 17037C0067D | 21-SEP-2000
05 | ILLINOIS | DE KALB COUNTY * | 17037C0068D | 21-SEP-2000
05 | ILLINOIS | DE KALB COUNTY * | 17037C0076D | 21-SEP-2000
05 | ILLINOIS | DE KALB COUNTY * | 17037C0077D** | 21-SEP-2000
05 | ILLINOIS | DE KALB COUNTY * | 17037C0078D | 21-SEP-2000
05 | ILLINOIS | DE KALB COUNTY * | 17037C0079D | 21-SEP-2000
05 | ILLINOIS | DE KALB COUNTY * | 17037C0086D | 21-SEP-2000
05 | ILLINOIS | DE KALB COUNTY * | 17037C0090D** | 21-SEP-2000
05 | ILLINOIS | DE KALB COUNTY * | 17037C0110D** | 21-SEP-2000
05 | ILLINOIS | DE KALB COUNTY * | 17037C0115D | 21-SEP-2000
05 | ILLINOIS | DE KALB COUNTY * | 17037C0120D** | 21-SEP-2000
05 | ILLINOIS | DE KALB COUNTY * | 17037C0130D** | 21-SEP-2000
05 | ILLINOIS | DE KALB COUNTY * | 17037C0138D | 21-SEP-2000
05 | ILLINOIS | DE KALB COUNTY * | 17037C0139D | 21-SEP-2000
05 | ILLINOIS | DE KALB COUNTY * | 17037C0140D** | 21-SEP-2000
05 | ILLINOIS | DE KALB COUNTY * | 17037C0155D** | 21-SEP-2000
05 | ILLINOIS | DE KALB COUNTY * | 17037C0160D** | 21-SEP-2000
05 | ILLINOIS | DE KALB COUNTY * | 17037C0165D | 21-SEP-2000
05 | ILLINOIS | DE KALB COUNTY * | 17037C0170D** | 21-SEP-2000
05 | ILLINOIS | DE KALB COUNTY * | 17037C0180D** | 21-SEP-2000
05 | ILLINOIS | DE KALB COUNTY * | 17037C0190D | 21-SEP-2000
05 | ILLINOIS | DE KALB COUNTY * | 17037CIND0 | 21-SEP-2000
05 | ILLINOIS | DE KALB, CITY OF | 17037C0059D | 21-SEP-2000
05 | ILLINOIS | DE KALB, CITY OF | 17037C0066D | 21-SEP-2000
05 | ILLINOIS | DE KALB, CITY OF | 17037C0067D | 21-SEP-2000
05 | ILLINOIS | DE KALB, CITY OF | 17037C0068D | 21-SEP-2000
05 | ILLINOIS | DE KALB, CITY OF | 17037C0086D | 21-SEP-2000
05 | ILLINOIS | DE KALB, CITY OF | 17037CIND0 | 21-SEP-2000
05 | ILLINOIS | DEER PARK, VILLAGE OF | 17097C0238G** | 07-SEP-2000
05 | ILLINOIS | DEER PARK, VILLAGE OF | 17097CIND0 | 07-SEP-2000
05 | ILLINOIS | DEER PARK, VILLAGE OF | 17097C0238G** | 06-NOV-2000
05 | ILLINOIS | DEER PARK, VILLAGE OF | 17097CIND1 | 06-NOV-2000
05 | ILLINOIS | DEER PARK, VILLAGE OF | 17097CIND2 | 06-NOV-2000
05 | ILLINOIS | DEERFIELD, VILLAGE OF | 17097C0267G | 07-SEP-2000
05 | ILLINOIS | DEERFIELD, VILLAGE OF | 17097CIND0 | 07-SEP-2000
05 | ILLINOIS | DEERFIELD, VILLAGE OF | 17031C0069F | 06-NOV-2000
05 | ILLINOIS | DEERFIELD, VILLAGE OF | 17031C0088F | 06-NOV-2000
05 | ILLINOIS | DEERFIELD, VILLAGE OF | 17031C0089F | 06-NOV-2000
05 | ILLINOIS | DEERFIELD, VILLAGE OF | 17031CIND1 | 06-NOV-2000
05 | ILLINOIS | DEERFIELD, VILLAGE OF | 17031CIND2 | 06-NOV-2000
05 | ILLINOIS | DEERFIELD, VILLAGE OF | 17031CIND3 | 06-NOV-2000
05 | ILLINOIS | DEERFIELD, VILLAGE OF | 17097C0288G** | 06-NOV-2000
05 | ILLINOIS | DEERFIELD, VILLAGE OF | 17097C0289G** | 06-NOV-2000
05 | ILLINOIS | DEERFIELD, VILLAGE OF | 17097CIND1 | 06-NOV-2000
05 | ILLINOIS | DEERFIELD, VILLAGE OF | 17097CIND2 | 06-NOV-2000
05 | ILLINOIS | DES PLAINES, CITY OF | 17031C0208F | 06-NOV-2000
05 | ILLINOIS | DES PLAINES, CITY OF | 17031C0209F | 06-NOV-2000
05 | ILLINOIS | DES PLAINES, CITY OF | 17031C0212F | 06-NOV-2000
05 | ILLINOIS | DES PLAINES, CITY OF | 17031C0214F | 06-NOV-2000
05 | ILLINOIS | DES PLAINES, CITY OF | 17031C0216F | 06-NOV-2000
05 | ILLINOIS | DES PLAINES, CITY OF | 17031C0217F | 06-NOV-2000
05 | ILLINOIS | DES PLAINES, CITY OF | 17031C0218F | 06-NOV-2000
05 | ILLINOIS | DES PLAINES, CITY OF | 17031C0219F | 06-NOV-2000
05 | ILLINOIS | DES PLAINES, CITY OF | 17031C0236F | 06-NOV-2000
05 | ILLINOIS | DES PLAINES, CITY OF | 17031C0238F | 06-NOV-2000
05 | ILLINOIS | DES PLAINES, CITY OF | 17031C0357F | 06-NOV-2000
05 | ILLINOIS | DES PLAINES, CITY OF | 17031C0376F | 06-NOV-2000
05 | ILLINOIS | DES PLAINES, CITY OF | 17031CIND1 | 06-NOV-2000
05 | ILLINOIS | DES PLAINES, CITY OF | 17031CIND2 | 06-NOV-2000
05 | ILLINOIS | DES PLAINES, CITY OF | 17031CIND3 | 06-NOV-2000
05 | ILLINOIS | DIXMOOR, VILLAGE OF | 17031C0643F | 06-NOV-2000
05 | ILLINOIS | DIXMOOR, VILLAGE OF | 17031C0644F | 06-NOV-2000
05 | ILLINOIS | DIXMOOR, VILLAGE OF | 17031C0731F | 06-NOV-2000
05 | ILLINOIS | DIXMOOR, VILLAGE OF | 17031CIND1 | 06-NOV-2000
05 | ILLINOIS | DIXMOOR, VILLAGE OF | 17031CIND2 | 06-NOV-2000
05 | ILLINOIS | DIXMOOR, VILLAGE OF | 17031CIND3 | 06-NOV-2000
05 | ILLINOIS | DOLTON, VILLAGE OF | 17031C0644F | 06-NOV-2000
05 | ILLINOIS | DOLTON, VILLAGE OF | 17031C0663F | 06-NOV-2000
05 | ILLINOIS | DOLTON, VILLAGE OF | 17031C0664F | 06-NOV-2000
05 | ILLINOIS | DOLTON, VILLAGE OF | 17031C0732F | 06-NOV-2000
05 | ILLINOIS | DOLTON, VILLAGE OF | 17031C0751F | 06-NOV-2000
05 | ILLINOIS | DOLTON, VILLAGE OF | 17031C0752F | 06-NOV-2000
05 | ILLINOIS | DOLTON, VILLAGE OF | 17031CIND1 | 06-NOV-2000
05 | ILLINOIS | DOLTON, VILLAGE OF | 17031CIND2 | 06-NOV-2000
05 | ILLINOIS | DOLTON, VILLAGE OF | 17031CIND3 | 06-NOV-2000
05 | ILLINOIS | EAST HAZEL CREST, VILLAGE OF | 17031C0733F | 06-NOV-2000
05 | ILLINOIS | EAST HAZEL CREST, VILLAGE OF | 17031C0734F | 06-NOV-2000
05 | ILLINOIS | EAST HAZEL CREST, VILLAGE OF | 17031CIND1 | 06-NOV-2000
05 | ILLINOIS | EAST HAZEL CREST, VILLAGE OF | 17031CIND2 | 06-NOV-2000
05 | ILLINOIS | EAST HAZEL CREST, VILLAGE OF | 17031CIND3 | 06-NOV-2000
05 | ILLINOIS | ELK GROVE VILLAGE, VILLAGE OF | 17031C0189F | 06-NOV-2000
05 | ILLINOIS | ELK GROVE VILLAGE, VILLAGE OF | 17031C0193F | 06-NOV-2000
05 | ILLINOIS | ELK GROVE VILLAGE, VILLAGE OF | 17031C0194F | 06-NOV-2000
05 | ILLINOIS | ELK GROVE VILLAGE, VILLAGE OF | 17031C0211F | 06-NOV-2000
05 | ILLINOIS | ELK GROVE VILLAGE, VILLAGE OF | 17031C0213F | 06-NOV-2000
05 | ILLINOIS | ELK GROVE VILLAGE, VILLAGE OF | 17031C0214F | 06-NOV-2000
05 | ILLINOIS | ELK GROVE VILLAGE, VILLAGE OF | 17031C0218F | 06-NOV-2000
05 | ILLINOIS | ELK GROVE VILLAGE, VILLAGE OF | 17031C0330F | 06-NOV-2000
05 | ILLINOIS | ELK GROVE VILLAGE, VILLAGE OF | 17031C0331F | 06-NOV-2000
05 | ILLINOIS | ELK GROVE VILLAGE, VILLAGE OF | 17031C0332F | 06-NOV-2000
05 | ILLINOIS | ELK GROVE VILLAGE, VILLAGE OF | 17031C0351F | 06-NOV-2000
05 | ILLINOIS | ELK GROVE VILLAGE, VILLAGE OF | 17031CIND1 | 06-NOV-2000
05 | ILLINOIS | ELK GROVE VILLAGE, VILLAGE OF | 17031CIND2 | 06-NOV-2000
05 | ILLINOIS | ELK GROVE VILLAGE, VILLAGE OF | 17031CIND3 | 06-NOV-2000
05 | ILLINOIS | ELMWOOD PARK, VILLAGE OF | 17031C0387F | 06-NOV-2000
05 | ILLINOIS | ELMWOOD PARK, VILLAGE OF | 17031CIND1 | 06-NOV-2000
05 | ILLINOIS | ELMWOOD PARK, VILLAGE OF | 17031CIND2 | 06-NOV-2000
05 | ILLINOIS | ELMWOOD PARK, VILLAGE OF | 17031CIND3 | 06-NOV-2000
05 | ILLINOIS | EVANSTON, CITY OF | 17031C0253F | 06-NOV-2000
05 | ILLINOIS | EVANSTON, CITY OF | 17031C0255F | 06-NOV-2000
05 | ILLINOIS | EVANSTON, CITY OF | 17031C0260F | 06-NOV-2000
05 | ILLINOIS | EVANSTON, CITY OF | 17031C0265F | 06-NOV-2000
05 | ILLINOIS | EVANSTON, CITY OF | 17031C0270F | 06-NOV-2000
05 | ILLINOIS | EVANSTON, CITY OF | 17031CIND1 | 06-NOV-2000
05 | ILLINOIS | EVANSTON, CITY OF | 17031CIND2 | 06-NOV-2000
05 | ILLINOIS | EVANSTON, CITY OF | 17031CIND3 | 06-NOV-2000
05 | ILLINOIS | EVERGREEN PARK, CITY OF | 17031C0628F | 06-NOV-2000
05 | ILLINOIS | EVERGREEN PARK, CITY OF | 17031CIND1 | 06-NOV-2000
05 | ILLINOIS | EVERGREEN PARK, CITY OF | 17031CIND2 | 06-NOV-2000
05 | ILLINOIS | EVERGREEN PARK, CITY OF | 17031CIND3 | 06-NOV-2000
05 | ILLINOIS | FLOSSMOOR, VILLAGE OF | 17031C0737F | 06-NOV-2000
05 | ILLINOIS | FLOSSMOOR, VILLAGE OF | 17031C0739F | 06-NOV-2000
05 | ILLINOIS | FLOSSMOOR, VILLAGE OF | 17031C0741F | 06-NOV-2000
05 | ILLINOIS | FLOSSMOOR, VILLAGE OF | 17031C0742F | 06-NOV-2000
05 | ILLINOIS | FLOSSMOOR, VILLAGE OF | 17031C0743F | 06-NOV-2000
05 | ILLINOIS | FLOSSMOOR, VILLAGE OF | 17031C0744F | 06-NOV-2000
05 | ILLINOIS | FLOSSMOOR, VILLAGE OF | 17031CIND1 | 06-NOV-2000
05 | ILLINOIS | FLOSSMOOR, VILLAGE OF | 17031CIND2 | 06-NOV-2000
05 | ILLINOIS | FLOSSMOOR, VILLAGE OF | 17031CIND3 | 06-NOV-2000
05 | ILLINOIS | FORD HEIGHTS, VILLAGE OF | 17031C0763F | 06-NOV-2000
05 | ILLINOIS | FORD HEIGHTS, VILLAGE OF | 17031C0764F | 06-NOV-2000
05 | ILLINOIS | FORD HEIGHTS, VILLAGE OF | 17031C0768F | 06-NOV-2000
05 | ILLINOIS | FORD HEIGHTS, VILLAGE OF | 17031C0826F | 06-NOV-2000
05 | ILLINOIS | FORD HEIGHTS, VILLAGE OF | 17031C0827F | 06-NOV-2000
05 | ILLINOIS | FORD HEIGHTS, VILLAGE OF | 17031CIND1 | 06-NOV-2000
05 | ILLINOIS | FORD HEIGHTS, VILLAGE OF | 17031CIND2 | 06-NOV-2000
05 | ILLINOIS | FORD HEIGHTS, VILLAGE OF | 17031CIND3 | 06-NOV-2000
05 | ILLINOIS | FOREST PARK, VILLAGE OF | 17031C0389F | 06-NOV-2000
05 | ILLINOIS | FOREST PARK, VILLAGE OF | 17031C0477F | 06-NOV-2000
05 | ILLINOIS | FOREST PARK, VILLAGE OF | 17031CIND1 | 06-NOV-2000
05 | ILLINOIS | FOREST PARK, VILLAGE OF | 17031CIND2 | 06-NOV-2000
05 | ILLINOIS | FOREST PARK, VILLAGE OF | 17031CIND3 | 06-NOV-2000
05 | ILLINOIS | FOREST VIEW, VILLAGE OF | 17031C0483F | 06-NOV-2000
05 | ILLINOIS | FOREST VIEW, VILLAGE OF | 17031C0484F | 06-NOV-2000
05 | ILLINOIS | FOREST VIEW, VILLAGE OF | 17031C0491F | 06-NOV-2000
05 | ILLINOIS | FOREST VIEW, VILLAGE OF | 17031C0492F | 06-NOV-2000
05 | ILLINOIS | FOREST VIEW, VILLAGE OF | 17031CIND1 | 06-NOV-2000
05 | ILLINOIS | FOREST VIEW, VILLAGE OF | 17031CIND2 | 06-NOV-2000
05 | ILLINOIS | FOREST VIEW, VILLAGE OF | 17031CIND3 | 06-NOV-2000
05 | ILLINOIS | FOX LAKE, VILLAGE OF | 17097C0005G** | 07-SEP-2000
05 | ILLINOIS | FOX LAKE, VILLAGE OF | 17097C0015G** | 07-SEP-2000
05 | ILLINOIS | FOX LAKE, VILLAGE OF | 17097C0110H** | 07-SEP-2000
05 | ILLINOIS | FOX LAKE, VILLAGE OF | 17097CIND0 | 07-SEP-2000
05 | ILLINOIS | FRANKLIN PARK, VILLAGE OF | 17031C0358F | 06-NOV-2000
05 | ILLINOIS | FRANKLIN PARK, VILLAGE OF | 17031C0359F | 06-NOV-2000
05 | ILLINOIS | FRANKLIN PARK, VILLAGE OF | 17031C0366F | 06-NOV-2000
05 | ILLINOIS | FRANKLIN PARK, VILLAGE OF | 17031C0367F | 06-NOV-2000
05 | ILLINOIS | FRANKLIN PARK, VILLAGE OF | 17031C0378F | 06-NOV-2000
05 | ILLINOIS | FRANKLIN PARK, VILLAGE OF | 17031C0386F | 06-NOV-2000
05 | ILLINOIS | FRANKLIN PARK, VILLAGE OF | 17031CIND1 | 06-NOV-2000
05 | ILLINOIS | FRANKLIN PARK, VILLAGE OF | 17031CIND2 | 06-NOV-2000
05 | ILLINOIS | FRANKLIN PARK, VILLAGE OF | 17031CIND3 | 06-NOV-2000
05 | ILLINOIS | GENOA, CITY OF | 17037C0009D | 21-SEP-2000
05 | ILLINOIS | GENOA, CITY OF | 17037C0017D | 21-SEP-2000
05 | ILLINOIS | GENOA, CITY OF | 17037C0030D | 21-SEP-2000
05 | ILLINOIS | GENOA, CITY OF | 17037C0036D | 21-SEP-2000
05 | ILLINOIS | GENOA, CITY OF | 17037CIND0 | 21-SEP-2000
05 | ILLINOIS | GLENCOE, VILLAGE OF | 17031C0093F | 06-NOV-2000
05 | ILLINOIS | GLENCOE, VILLAGE OF | 17031C0094F | 06-NOV-2000
05 | ILLINOIS | GLENCOE, VILLAGE OF | 17031C0113F | 06-NOV-2000
05 | ILLINOIS | GLENCOE, VILLAGE OF | 17031C0231F | 06-NOV-2000
05 | ILLINOIS | GLENCOE, VILLAGE OF | 17031C0232F | 06-NOV-2000
05 | ILLINOIS | GLENCOE, VILLAGE OF | 17031C0251F | 06-NOV-2000
05 | ILLINOIS | GLENCOE, VILLAGE OF | 17031CIND1 | 06-NOV-2000
05 | ILLINOIS | GLENCOE, VILLAGE OF | 17031CIND2 | 06-NOV-2000
05 | ILLINOIS | GLENCOE, VILLAGE OF | 17031CIND3 | 06-NOV-2000
05 | ILLINOIS | GLENVIEW, VILLAGE OF | 17031C0207F | 06-NOV-2000
05 | ILLINOIS | GLENVIEW, VILLAGE OF | 17031C0209F | 06-NOV-2000
05 | ILLINOIS | GLENVIEW, VILLAGE OF | 17031C0226F | 06-NOV-2000
05 | ILLINOIS | GLENVIEW, VILLAGE OF | 17031C0227F | 06-NOV-2000
05 | ILLINOIS | GLENVIEW, VILLAGE OF | 17031C0228F | 06-NOV-2000
05 | ILLINOIS | GLENVIEW, VILLAGE OF | 17031C0229F | 06-NOV-2000
05 | ILLINOIS | GLENVIEW, VILLAGE OF | 17031C0231F | 06-NOV-2000
05 | ILLINOIS | GLENVIEW, VILLAGE OF | 17031C0233F | 06-NOV-2000
05 | ILLINOIS | GLENVIEW, VILLAGE OF | 17031C0234F | 06-NOV-2000
05 | ILLINOIS | GLENVIEW, VILLAGE OF | 17031C0241F | 06-NOV-2000
05 | ILLINOIS | GLENVIEW, VILLAGE OF | 17031C0242F | 06-NOV-2000
05 | ILLINOIS | GLENVIEW, VILLAGE OF | 17031CIND1 | 06-NOV-2000
05 | ILLINOIS | GLENVIEW, VILLAGE OF | 17031CIND2 | 06-NOV-2000
05 | ILLINOIS | GLENVIEW, VILLAGE OF | 17031CIND3 | 06-NOV-2000
05 | ILLINOIS | GLENWOOD, VILLAGE OF | 17031C0742F | 06-NOV-2000
05 | ILLINOIS | GLENWOOD, VILLAGE OF | 17031C0761F | 06-NOV-2000
05 | ILLINOIS | GLENWOOD, VILLAGE OF | 17031C0762F | 06-NOV-2000
05 | ILLINOIS | GLENWOOD, VILLAGE OF | 17031C0763F | 06-NOV-2000
05 | ILLINOIS | GLENWOOD, VILLAGE OF | 17031C0764F | 06-NOV-2000
05 | ILLINOIS | GLENWOOD, VILLAGE OF | 17031CIND1 | 06-NOV-2000
05 | ILLINOIS | GLENWOOD, VILLAGE OF | 17031CIND2 | 06-NOV-2000
05 | ILLINOIS | GLENWOOD, VILLAGE OF | 17031CIND3 | 06-NOV-2000
05 | ILLINOIS | GOLF, VILLAGE OF | 17031C0241F | 06-NOV-2000
05 | ILLINOIS | GOLF, VILLAGE OF | 17031C0242F | 06-NOV-2000
05 | ILLINOIS | GOLF, VILLAGE OF | 17031CIND1 | 06-NOV-2000
05 | ILLINOIS | GOLF, VILLAGE OF | 17031CIND2 | 06-NOV-2000
05 | ILLINOIS | GOLF, VILLAGE OF | 17031CIND3 | 06-NOV-2000
05 | ILLINOIS | GRAYSLAKE, VILLAGE OF | 17097C0127G** | 07-SEP-2000
05 | ILLINOIS | GRAYSLAKE, VILLAGE OF | 17097C0131G** | 07-SEP-2000
05 | ILLINOIS | GRAYSLAKE, VILLAGE OF | 17097C0132G** | 07-SEP-2000
05 | ILLINOIS | GRAYSLAKE, VILLAGE OF | 17097C0141G** | 07-SEP-2000
05 | ILLINOIS | GRAYSLAKE, VILLAGE OF | 17097CIND0 | 07-SEP-2000
05 | ILLINOIS | GREEN OAKS, VILLAGE OF | 17097C0158G | 07-SEP-2000
05 | ILLINOIS | GREEN OAKS, VILLAGE OF | 17097C0166G | 07-SEP-2000
05 | ILLINOIS | GREEN OAKS, VILLAGE OF | 17097C0168G | 07-SEP-2000
05 | ILLINOIS | GREEN OAKS, VILLAGE OF | 17097CIND0 | 07-SEP-2000
05 | ILLINOIS | GURNEE, VILLAGE OF | 17097C0064G** | 07-SEP-2000
05 | ILLINOIS | GURNEE, VILLAGE OF | 17097C0068G | 07-SEP-2000
05 | ILLINOIS | GURNEE, VILLAGE OF | 17097C0069G | 07-SEP-2000
05 | ILLINOIS | GURNEE, VILLAGE OF | 17097C0132G** | 07-SEP-2000
05 | ILLINOIS | GURNEE, VILLAGE OF | 17097C0154G | 07-SEP-2000
05 | ILLINOIS | GURNEE, VILLAGE OF | 17097C0155G | 07-SEP-2000
05 | ILLINOIS | GURNEE, VILLAGE OF | 17097C0156G | 07-SEP-2000
05 | ILLINOIS | GURNEE, VILLAGE OF | 17097C0157G** | 07-SEP-2000
05 | ILLINOIS | GURNEE, VILLAGE OF | 17097CIND0 | 07-SEP-2000
05 | ILLINOIS | HAINESVILLE, VILLAGE OF | 17097C0127G** | 07-SEP-2000
05 | ILLINOIS | HAINESVILLE, VILLAGE OF | 17097C0131G** | 07-SEP-2000
05 | ILLINOIS | HAINESVILLE, VILLAGE OF | 17097CIND0 | 07-SEP-2000
05 | ILLINOIS | HANOVER PARK, VILLAGE OF | 17031C0168F | 06-NOV-2000
05 | ILLINOIS | HANOVER PARK, VILLAGE OF | 17031C0169F | 06-NOV-2000
05 | ILLINOIS | HANOVER PARK, VILLAGE OF | 17031C0307F | 06-NOV-2000
05 | ILLINOIS | HANOVER PARK, VILLAGE OF | 17031CIND1 | 06-NOV-2000
05 | ILLINOIS | HANOVER PARK, VILLAGE OF | 17031CIND2 | 06-NOV-2000
05 | ILLINOIS | HANOVER PARK, VILLAGE OF | 17031CIND3 | 06-NOV-2000
05 | ILLINOIS | HARDWOOD HEIGHTS, VILLAGE OF | 17031C0385F | 06-NOV-2000
05 | ILLINOIS | HARDWOOD HEIGHTS, VILLAGE OF | 17031CIND1 | 06-NOV-2000
05 | ILLINOIS | HARDWOOD HEIGHTS, VILLAGE OF | 17031CIND2 | 06-NOV-2000
05 | ILLINOIS | HARDWOOD HEIGHTS, VILLAGE OF | 17031CIND3 | 06-NOV-2000
05 | ILLINOIS | HARVEY, CITY OF | 17031C0643F | 06-NOV-2000
05 | ILLINOIS | HARVEY, CITY OF | 17031C0644F | 06-NOV-2000
05 | ILLINOIS | HARVEY, CITY OF | 17031C0731F | 06-NOV-2000
05 | ILLINOIS | HARVEY, CITY OF | 17031C0732F | 06-NOV-2000
05 | ILLINOIS | HARVEY, CITY OF | 17031C0734F | 06-NOV-2000
05 | ILLINOIS | HARVEY, CITY OF | 17031C0751F | 06-NOV-2000
05 | ILLINOIS | HARVEY, CITY OF | 17031CIND1 | 06-NOV-2000
05 | ILLINOIS | HARVEY, CITY OF | 17031CIND2 | 06-NOV-2000
05 | ILLINOIS | HARVEY, CITY OF | 17031CIND3 | 06-NOV-2000
05 | ILLINOIS | HAZEL CREST, VILLAGE OF | 17031C0729F | 06-NOV-2000
05 | ILLINOIS | HAZEL CREST, VILLAGE OF | 17031C0733F | 06-NOV-2000
05 | ILLINOIS | HAZEL CREST, VILLAGE OF | 17031C0734F | 06-NOV-2000
05 | ILLINOIS | HAZEL CREST, VILLAGE OF | 17031C0737F | 06-NOV-2000
05 | ILLINOIS | HAZEL CREST, VILLAGE OF | 17031CIND1 | 06-NOV-2000
05 | ILLINOIS | HAZEL CREST, VILLAGE OF | 17031CIND2 | 06-NOV-2000
05 | ILLINOIS | HAZEL CREST, VILLAGE OF | 17031CIND3 | 06-NOV-2000
05 | ILLINOIS | HICKORY HILLS, CITY OF | 17031C0601F | 06-NOV-2000
05 | ILLINOIS | HICKORY HILLS, CITY OF | 17031C0602F | 06-NOV-2000
05 | ILLINOIS | HICKORY HILLS, CITY OF | 17031C0603F | 06-NOV-2000
05 | ILLINOIS | HICKORY HILLS, CITY OF | 17031C0604F | 06-NOV-2000
05 | ILLINOIS | HICKORY HILLS, CITY OF | 17031C0606F | 06-NOV-2000
05 | ILLINOIS | HICKORY HILLS, CITY OF | 17031C0608F | 06-NOV-2000
05 | ILLINOIS | HICKORY HILLS, CITY OF | 17031CIND1 | 06-NOV-2000
05 | ILLINOIS | HICKORY HILLS, CITY OF | 17031CIND2 | 06-NOV-2000
05 | ILLINOIS | HICKORY HILLS, CITY OF | 17031CIND3 | 06-NOV-2000
05 | ILLINOIS | HIGHLAND PARK, CITY OF | 17097C0289G** | 06-NOV-2000
05 | ILLINOIS | HIGHLAND PARK, CITY OF | 17097CIND1 | 06-NOV-2000
05 | ILLINOIS | HIGHLAND PARK, CITY OF | 17097CIND2 | 06-NOV-2000
05 | ILLINOIS | HILLSIDE, VILLAGE OF | 17031C0369F | 06-NOV-2000
05 | ILLINOIS | HILLSIDE, VILLAGE OF | 17031C0456F | 06-NOV-2000
05 | ILLINOIS | HILLSIDE, VILLAGE OF | 17031C0457F | 06-NOV-2000
05 | ILLINOIS | HILLSIDE, VILLAGE OF | 17031CIND1 | 06-NOV-2000
05 | ILLINOIS | HILLSIDE, VILLAGE OF | 17031CIND2 | 06-NOV-2000
05 | ILLINOIS | HILLSIDE, VILLAGE OF | 17031CIND3 | 06-NOV-2000
05 | ILLINOIS | HINCKLEY, VILLAGE OF | 17037C0138D | 21-SEP-2000
05 | ILLINOIS | HINCKLEY, VILLAGE OF | 17037C0139D | 21-SEP-2000
05 | ILLINOIS | HINCKLEY, VILLAGE OF | 17037CIND0 | 21-SEP-2000
05 | ILLINOIS | HODGKINS, VILLAGE OF | 17031C0469F | 06-NOV-2000
05 | ILLINOIS | HODGKINS, VILLAGE OF | 17031C0486F | 06-NOV-2000
05 | ILLINOIS | HODGKINS, VILLAGE OF | 17031C0487F | 06-NOV-2000
05 | ILLINOIS | HODGKINS, VILLAGE OF | 17031C0488F | 06-NOV-2000
05 | ILLINOIS | HODGKINS, VILLAGE OF | 17031C0489F | 06-NOV-2000
05 | ILLINOIS | HODGKINS, VILLAGE OF | 17031C0582F | 06-NOV-2000
05 | ILLINOIS | HODGKINS, VILLAGE OF | 17031C0601F | 06-NOV-2000
05 | ILLINOIS | HODGKINS, VILLAGE OF | 17031CIND1 | 06-NOV-2000
05 | ILLINOIS | HODGKINS, VILLAGE OF | 17031CIND2 | 06-NOV-2000
05 | ILLINOIS | HODGKINS, VILLAGE OF | 17031CIND3 | 06-NOV-2000
05 | ILLINOIS | HOFFMAN ESTATES, VILLAGE OF | 17031C0155F | 06-NOV-2000
05 | ILLINOIS | HOFFMAN ESTATES, VILLAGE OF | 17031C0157F | 06-NOV-2000
05 | ILLINOIS | HOFFMAN ESTATES, VILLAGE OF | 17031C0158F | 06-NOV-2000
05 | ILLINOIS | HOFFMAN ESTATES, VILLAGE OF | 17031C0159F | 06-NOV-2000
05 | ILLINOIS | HOFFMAN ESTATES, VILLAGE OF | 17031C0161F | 06-NOV-2000
05 | ILLINOIS | HOFFMAN ESTATES, VILLAGE OF | 17031C0162F | 06-NOV-2000
05 | ILLINOIS | HOFFMAN ESTATES, VILLAGE OF | 17031C0166F | 06-NOV-2000
05 | ILLINOIS | HOFFMAN ESTATES, VILLAGE OF | 17031C0167F | 06-NOV-2000
05 | ILLINOIS | HOFFMAN ESTATES, VILLAGE OF | 17031C0176F | 06-NOV-2000
05 | ILLINOIS | HOFFMAN ESTATES, VILLAGE OF | 17031C0178F | 06-NOV-2000
05 | ILLINOIS | HOFFMAN ESTATES, VILLAGE OF | 17031C0179F | 06-NOV-2000
05 | ILLINOIS | HOFFMAN ESTATES, VILLAGE OF | 17031C0186F | 06-NOV-2000
05 | ILLINOIS | HOFFMAN ESTATES, VILLAGE OF | 17031C0187F | 06-NOV-2000
05 | ILLINOIS | HOFFMAN ESTATES, VILLAGE OF | 17031C0188F | 06-NOV-2000
05 | ILLINOIS | HOFFMAN ESTATES, VILLAGE OF | 17031C0189F | 06-NOV-2000
05 | ILLINOIS | HOFFMAN ESTATES, VILLAGE OF | 17031C0191F | 06-NOV-2000
05 | ILLINOIS | HOFFMAN ESTATES, VILLAGE OF | 17031CIND1 | 06-NOV-2000
05 | ILLINOIS | HOFFMAN ESTATES, VILLAGE OF | 17031CIND2 | 06-NOV-2000
05 | ILLINOIS | HOFFMAN ESTATES, VILLAGE OF | 17031CIND3 | 06-NOV-2000
05 | ILLINOIS | HOMEWOOD, VILLAGE OF | 17031C0729F | 06-NOV-2000
05 | ILLINOIS | HOMEWOOD, VILLAGE OF | 17031C0733F | 06-NOV-2000
05 | ILLINOIS | HOMEWOOD, VILLAGE OF | 17031C0734F | 06-NOV-2000
05 | ILLINOIS | HOMEWOOD, VILLAGE OF | 17031C0737F | 06-NOV-2000
05 | ILLINOIS | HOMEWOOD, VILLAGE OF | 17031C0741F | 06-NOV-2000
05 | ILLINOIS | HOMEWOOD, VILLAGE OF | 17031C0742F | 06-NOV-2000
05 | ILLINOIS | HOMEWOOD, VILLAGE OF | 17031CIND1 | 06-NOV-2000
05 | ILLINOIS | HOMEWOOD, VILLAGE OF | 17031CIND2 | 06-NOV-2000
05 | ILLINOIS | HOMEWOOD, VILLAGE OF | 17031CIND3 | 06-NOV-2000
05 | ILLINOIS | INDIAN HEAD PARK, VILLAGE OF | 17031C0468F | 06-NOV-2000
05 | ILLINOIS | INDIAN HEAD PARK, VILLAGE OF | 17031C0469F | 06-NOV-2000
05 | ILLINOIS | INDIAN HEAD PARK, VILLAGE OF | 17031CIND1 | 06-NOV-2000
05 | ILLINOIS | INDIAN HEAD PARK, VILLAGE OF | 17031CIND2 | 06-NOV-2000
05 | ILLINOIS | INDIAN HEAD PARK, VILLAGE OF | 17031CIND3 | 06-NOV-2000
05 | ILLINOIS | INVERNESS, VILLAGE OF | 17031C0020F | 06-NOV-2000
05 | ILLINOIS | INVERNESS, VILLAGE OF | 17031C0038F | 06-NOV-2000
05 | ILLINOIS | INVERNESS, VILLAGE OF | 17031C0039F | 06-NOV-2000
05 | ILLINOIS | INVERNESS, VILLAGE OF | 17031C0157F | 06-NOV-2000
05 | ILLINOIS | INVERNESS, VILLAGE OF | 17031C0176F | 06-NOV-2000
05 | ILLINOIS | INVERNESS, VILLAGE OF | 17031C0177F | 06-NOV-2000
05 | ILLINOIS | INVERNESS, VILLAGE OF | 17031C0178F | 06-NOV-2000
05 | ILLINOIS | INVERNESS, VILLAGE OF | 17031C0179F | 06-NOV-2000
05 | ILLINOIS | INVERNESS, VILLAGE OF | 17031CIND1 | 06-NOV-2000
05 | ILLINOIS | INVERNESS, VILLAGE OF | 17031CIND2 | 06-NOV-2000
05 | ILLINOIS | INVERNESS, VILLAGE OF | 17031CIND3 | 06-NOV-2000
05 | ILLINOIS | JUSTICE, VILLAGE OF | 17031C0488F | 06-NOV-2000
05 | ILLINOIS | JUSTICE, VILLAGE OF | 17031C0489F | 06-NOV-2000
05 | ILLINOIS | JUSTICE, VILLAGE OF | 17031C0601F | 06-NOV-2000
05 | ILLINOIS | JUSTICE, VILLAGE OF | 17031C0602F | 06-NOV-2000
05 | ILLINOIS | JUSTICE, VILLAGE OF | 17031CIND1 | 06-NOV-2000
05 | ILLINOIS | JUSTICE, VILLAGE OF | 17031CIND2 | 06-NOV-2000
05 | ILLINOIS | JUSTICE, VILLAGE OF | 17031CIND3 | 06-NOV-2000
05 | ILLINOIS | KENILWORTH, VILLAGE OF | 17031C0253F | 06-NOV-2000
05 | ILLINOIS | KENILWORTH, VILLAGE OF | 17031C0255F | 06-NOV-2000
05 | ILLINOIS | KENILWORTH, VILLAGE OF | 17031CIND1 | 06-NOV-2000
05 | ILLINOIS | KENILWORTH, VILLAGE OF | 17031CIND2 | 06-NOV-2000
05 | ILLINOIS | KENILWORTH, VILLAGE OF | 17031CIND3 | 06-NOV-2000
05 | ILLINOIS | KINGSTON, VILLAGE OF | 17037C0008D | 21-SEP-2000
05 | ILLINOIS | KINGSTON, VILLAGE OF | 17037C0009D | 21-SEP-2000
05 | ILLINOIS | KINGSTON, VILLAGE OF | 17037CIND0 | 21-SEP-2000
05 | ILLINOIS | KIRKLAND, VILLAGE OF | 17037C0004D | 21-SEP-2000
05 | ILLINOIS | KIRKLAND, VILLAGE OF | 17037C0015D | 21-SEP-2000
05 | ILLINOIS | KIRKLAND, VILLAGE OF | 17037CIND0 | 21-SEP-2000
05 | ILLINOIS | LA GRANGE PARK, VILLAGE OF | 17031C0459F | 06-NOV-2000
05 | ILLINOIS | LA GRANGE PARK, VILLAGE OF | 17031C0476F | 06-NOV-2000
05 | ILLINOIS | LA GRANGE PARK, VILLAGE OF | 17031C0478F | 06-NOV-2000
05 | ILLINOIS | LA GRANGE PARK, VILLAGE OF | 17031CIND1 | 06-NOV-2000
05 | ILLINOIS | LA GRANGE PARK, VILLAGE OF | 17031CIND2 | 06-NOV-2000
05 | ILLINOIS | LA GRANGE PARK, VILLAGE OF | 17031CIND3 | 06-NOV-2000
05 | ILLINOIS | LA GRANGE, VILLAGE OF | 17031C0459F | 06-NOV-2000
05 | ILLINOIS | LA GRANGE, VILLAGE OF | 17031C0467F | 06-NOV-2000
05 | ILLINOIS | LA GRANGE, VILLAGE OF | 17031C0478F | 06-NOV-2000
05 | ILLINOIS | LA GRANGE, VILLAGE OF | 17031C0486F | 06-NOV-2000
05 | ILLINOIS | LA GRANGE, VILLAGE OF | 17031CIND1 | 06-NOV-2000
05 | ILLINOIS | LA GRANGE, VILLAGE OF | 17031CIND2 | 06-NOV-2000
05 | ILLINOIS | LA GRANGE, VILLAGE OF | 17031CIND3 | 06-NOV-2000
05 | ILLINOIS | LAKE BLUFF, VILLAGE OF | 17097C0186G** | 07-SEP-2000
05 | ILLINOIS | LAKE BLUFF, VILLAGE OF | 17097CIND0 | 07-SEP-2000
05 | ILLINOIS | LAKE COUNTY * | 17097C0005G** | 07-SEP-2000
05 | ILLINOIS | LAKE COUNTY * | 17097C0015G** | 07-SEP-2000
05 | ILLINOIS | LAKE COUNTY * | 17097C0055G | 07-SEP-2000
05 | ILLINOIS | LAKE COUNTY * | 17097C0056G | 07-SEP-2000
05 | ILLINOIS | LAKE COUNTY * | 17097C0057G | 07-SEP-2000
05 | ILLINOIS | LAKE COUNTY * | 17097C0058G | 07-SEP-2000
05 | ILLINOIS | LAKE COUNTY * | 17097C0059G** | 07-SEP-2000
05 | ILLINOIS | LAKE COUNTY * | 17097C0062G | 07-SEP-2000
05 | ILLINOIS | LAKE COUNTY * | 17097C0064G** | 07-SEP-2000
05 | ILLINOIS | LAKE COUNTY * | 17097C0066G | 07-SEP-2000
05 | ILLINOIS | LAKE COUNTY * | 17097C0067G | 07-SEP-2000
05 | ILLINOIS | LAKE COUNTY * | 17097C0068G | 07-SEP-2000
05 | ILLINOIS | LAKE COUNTY * | 17097C0069G | 07-SEP-2000
05 | ILLINOIS | LAKE COUNTY * | 17097C0086G | 07-SEP-2000
05 | ILLINOIS | LAKE COUNTY * | 17097C0105H** | 07-SEP-2000
05 | ILLINOIS | LAKE COUNTY * | 17097C0110H** | 07-SEP-2000
05 | ILLINOIS | LAKE COUNTY * | 17097C0119G** | 07-SEP-2000
05 | ILLINOIS | LAKE COUNTY * | 17097C0127G** | 07-SEP-2000
05 | ILLINOIS | LAKE COUNTY * | 17097C0131G** | 07-SEP-2000
05 | ILLINOIS | LAKE COUNTY * | 17097C0132G** | 07-SEP-2000
05 | ILLINOIS | LAKE COUNTY * | 17097C0141G** | 07-SEP-2000
05 | ILLINOIS | LAKE COUNTY * | 17097C0154G | 07-SEP-2000
05 | ILLINOIS | LAKE COUNTY * | 17097C0155G | 07-SEP-2000
05 | ILLINOIS | LAKE COUNTY * | 17097C0156G | 07-SEP-2000
05 | ILLINOIS | LAKE COUNTY * | 17097C0157G** | 07-SEP-2000
05 | ILLINOIS | LAKE COUNTY * | 17097C0158G | 07-SEP-2000
05 | ILLINOIS | LAKE COUNTY * | 17097C0162G | 07-SEP-2000
05 | ILLINOIS | LAKE COUNTY * | 17097C0164G | 07-SEP-2000
05 | ILLINOIS | LAKE COUNTY * | 17097C0166G | 07-SEP-2000
05 | ILLINOIS | LAKE COUNTY * | 17097C0168G | 07-SEP-2000
05 | ILLINOIS | LAKE COUNTY * | 17097C0186G** | 07-SEP-2000
05 | ILLINOIS | LAKE COUNTY * | 17097C0252G | 07-SEP-2000
05 | ILLINOIS | LAKE COUNTY * | 17097C0256G | 07-SEP-2000
05 | ILLINOIS | LAKE COUNTY * | 17097C0258G | 07-SEP-2000
05 | ILLINOIS | LAKE COUNTY * | 17097C0266G | 07-SEP-2000
05 | ILLINOIS | LAKE COUNTY * | 17097C0267G | 07-SEP-2000
05 | ILLINOIS | LAKE COUNTY * | 17097C0270G | 07-SEP-2000
05 | ILLINOIS | LAKE COUNTY * | 17097CIND0 | 07-SEP-2000
05 | ILLINOIS | LAKE COUNTY * | 17097C0219G** | 06-NOV-2000
05 | ILLINOIS | LAKE COUNTY * | 17097C0263H** | 06-NOV-2000
05 | ILLINOIS | LAKE COUNTY * | 17097C0264G** | 06-NOV-2000
05 | ILLINOIS | LAKE COUNTY * | 17097C0288G** | 06-NOV-2000
05 | ILLINOIS | LAKE COUNTY * | 17097CIND1 | 06-NOV-2000
05 | ILLINOIS | LAKE COUNTY * | 17097CIND2 | 06-NOV-2000
05 | ILLINOIS | LANSING, VILLAGE OF | 17031C0754F | 06-NOV-2000
05 | ILLINOIS | LANSING, VILLAGE OF | 17031C0756F | 06-NOV-2000
05 | ILLINOIS | LANSING, VILLAGE OF | 17031C0758F | 06-NOV-2000
05 | ILLINOIS | LANSING, VILLAGE OF | 17031C0759F | 06-NOV-2000
05 | ILLINOIS | LANSING, VILLAGE OF | 17031C0762F | 06-NOV-2000
05 | ILLINOIS | LANSING, VILLAGE OF | 17031C0766F | 06-NOV-2000
05 | ILLINOIS | LANSING, VILLAGE OF | 17031C0767F | 06-NOV-2000
05 | ILLINOIS | LANSING, VILLAGE OF | 17031CIND1 | 06-NOV-2000
05 | ILLINOIS | LANSING, VILLAGE OF | 17031CIND2 | 06-NOV-2000
05 | ILLINOIS | LANSING, VILLAGE OF | 17031CIND3 | 06-NOV-2000
05 | ILLINOIS | LEE, VILLAGE OF | 17037C0115D | 21-SEP-2000
05 | ILLINOIS | LEE, VILLAGE OF | 17037CIND0 | 21-SEP-2000
05 | ILLINOIS | LEMONT, VILLAGE OF | 17031C0567F | 06-NOV-2000
05 | ILLINOIS | LEMONT, VILLAGE OF | 17031C0569F | 06-NOV-2000
05 | ILLINOIS | LEMONT, VILLAGE OF | 17031C0578F | 06-NOV-2000
05 | ILLINOIS | LEMONT, VILLAGE OF | 17031C0579F | 06-NOV-2000
05 | ILLINOIS | LEMONT, VILLAGE OF | 17031C0583F | 06-NOV-2000
05 | ILLINOIS | LEMONT, VILLAGE OF | 17031C0586F | 06-NOV-2000
05 | ILLINOIS | LEMONT, VILLAGE OF | 17031C0587F | 06-NOV-2000
05 | ILLINOIS | LEMONT, VILLAGE OF | 17031C0588F | 06-NOV-2000
05 | ILLINOIS | LEMONT, VILLAGE OF | 17031C0589F | 06-NOV-2000
05 | ILLINOIS | LEMONT, VILLAGE OF | 17031C0591F | 06-NOV-2000
05 | ILLINOIS | LEMONT, VILLAGE OF | 17031CIND1 | 06-NOV-2000
05 | ILLINOIS | LEMONT, VILLAGE OF | 17031CIND2 | 06-NOV-2000
05 | ILLINOIS | LEMONT, VILLAGE OF | 17031CIND3 | 06-NOV-2000
05 | ILLINOIS | LIBERTYVILLE, VILLAGE OF | 17097C0162G | 07-SEP-2000
05 | ILLINOIS | LIBERTYVILLE, VILLAGE OF | 17097C0164G | 07-SEP-2000
05 | ILLINOIS | LIBERTYVILLE, VILLAGE OF | 17097C0166G | 07-SEP-2000
05 | ILLINOIS | LIBERTYVILLE, VILLAGE OF | 17097C0168G | 07-SEP-2000
05 | ILLINOIS | LIBERTYVILLE, VILLAGE OF | 17097C0252G | 07-SEP-2000
05 | ILLINOIS | LIBERTYVILLE, VILLAGE OF | 17097CIND0 | 07-SEP-2000
05 | ILLINOIS | LINCOLNSHIRE, VILLAGE OF | 17097C0258G | 07-SEP-2000
05 | ILLINOIS | LINCOLNSHIRE, VILLAGE OF | 17097C0266G | 07-SEP-2000
05 | ILLINOIS | LINCOLNSHIRE, VILLAGE OF | 17097C0267G | 07-SEP-2000
05 | ILLINOIS | LINCOLNSHIRE, VILLAGE OF | 17097CIND0 | 07-SEP-2000
05 | ILLINOIS | LINCOLNWOOD, VILLAGE OF | 17031C0244F | 06-NOV-2000
05 | ILLINOIS | LINCOLNWOOD, VILLAGE OF | 17031C0265F | 06-NOV-2000
05 | ILLINOIS | LINCOLNWOOD, VILLAGE OF | 17031C0382F | 06-NOV-2000
05 | ILLINOIS | LINCOLNWOOD, VILLAGE OF | 17031C0401F | 06-NOV-2000
05 | ILLINOIS | LINCOLNWOOD, VILLAGE OF | 17031C0402F | 06-NOV-2000
05 | ILLINOIS | LINCOLNWOOD, VILLAGE OF | 17031CIND1 | 06-NOV-2000
05 | ILLINOIS | LINCOLNWOOD, VILLAGE OF | 17031CIND2 | 06-NOV-2000
05 | ILLINOIS | LINCOLNWOOD, VILLAGE OF | 17031CIND3 | 06-NOV-2000
05 | ILLINOIS | LONG GROVE, VILLAGE OF | 17097C0263G** | 07-SEP-2000
05 | ILLINOIS | LONG GROVE, VILLAGE OF | 17097CIND0 | 07-SEP-2000
05 | ILLINOIS | LONG GROVE, VILLAGE OF | 17097C0263H** | 06-NOV-2000
05 | ILLINOIS | LONG GROVE, VILLAGE OF | 17097CIND1 | 06-NOV-2000
05 | ILLINOIS | LONG GROVE, VILLAGE OF | 17097CIND2 | 06-NOV-2000
05 | ILLINOIS | LYNWOOD, VILLAGE OF | 17031C0762F | 06-NOV-2000
05 | ILLINOIS | LYNWOOD, VILLAGE OF | 17031C0764F | 06-NOV-2000
05 | ILLINOIS | LYNWOOD, VILLAGE OF | 17031C0766F | 06-NOV-2000
05 | ILLINOIS | LYNWOOD, VILLAGE OF | 17031C0767F | 06-NOV-2000
05 | ILLINOIS | LYNWOOD, VILLAGE OF | 17031C0768F | 06-NOV-2000
05 | ILLINOIS | LYNWOOD, VILLAGE OF | 17031C0769F | 06-NOV-2000
05 | ILLINOIS | LYNWOOD, VILLAGE OF | 17031C0831F | 06-NOV-2000
05 | ILLINOIS | LYNWOOD, VILLAGE OF | 17031C0832F | 06-NOV-2000
05 | ILLINOIS | LYNWOOD, VILLAGE OF | 17031CIND1 | 06-NOV-2000
05 | ILLINOIS | LYNWOOD, VILLAGE OF | 17031CIND2 | 06-NOV-2000
05 | ILLINOIS | LYNWOOD, VILLAGE OF | 17031CIND3 | 06-NOV-2000
05 | ILLINOIS | LYONS, VILLAGE OF | 17031C0479F | 06-NOV-2000
05 | ILLINOIS | LYONS, VILLAGE OF | 17031C0483F | 06-NOV-2000
05 | ILLINOIS | LYONS, VILLAGE OF | 17031C0487F | 06-NOV-2000
05 | ILLINOIS | LYONS, VILLAGE OF | 17031C0491F | 06-NOV-2000
05 | ILLINOIS | LYONS, VILLAGE OF | 17031CIND1 | 06-NOV-2000
05 | ILLINOIS | LYONS, VILLAGE OF | 17031CIND2 | 06-NOV-2000
05 | ILLINOIS | LYONS, VILLAGE OF | 17031CIND3 | 06-NOV-2000
05 | ILLINOIS | MALTA, VILLAGE OF | 17037C0065D** | 21-SEP-2000
05 | ILLINOIS | MALTA, VILLAGE OF | 17037CIND0 | 21-SEP-2000
05 | ILLINOIS | MARKHAM, CITY OF | 17031C0727F | 06-NOV-2000
05 | ILLINOIS | MARKHAM, CITY OF | 17031C0729F | 06-NOV-2000
05 | ILLINOIS | MARKHAM, CITY OF | 17031C0731F | 06-NOV-2000
05 | ILLINOIS | MARKHAM, CITY OF | 17031C0732F | 06-NOV-2000
05 | ILLINOIS | MARKHAM, CITY OF | 17031C0733F | 06-NOV-2000
05 | ILLINOIS | MARKHAM, CITY OF | 17031C0734F | 06-NOV-2000
05 | ILLINOIS | MARKHAM, CITY OF | 17031CIND1 | 06-NOV-2000
05 | ILLINOIS | MARKHAM, CITY OF | 17031CIND2 | 06-NOV-2000
05 | ILLINOIS | MARKHAM, CITY OF | 17031CIND3 | 06-NOV-2000
05 | ILLINOIS | MATTESON, VILLAGE OF | 17031C0718F | 06-NOV-2000
05 | ILLINOIS | MATTESON, VILLAGE OF | 17031C0719F | 06-NOV-2000
05 | ILLINOIS | MATTESON, VILLAGE OF | 17031C0738F | 06-NOV-2000
05 | ILLINOIS | MATTESON, VILLAGE OF | 17031C0739F | 06-NOV-2000
05 | ILLINOIS | MATTESON, VILLAGE OF | 17031C0781F | 06-NOV-2000
05 | ILLINOIS | MATTESON, VILLAGE OF | 17031C0782F | 06-NOV-2000
05 | ILLINOIS | MATTESON, VILLAGE OF | 17031C0801F | 06-NOV-2000
05 | ILLINOIS | MATTESON, VILLAGE OF | 17031C0802F | 06-NOV-2000
05 | ILLINOIS | MATTESON, VILLAGE OF | 17031CIND1 | 06-NOV-2000
05 | ILLINOIS | MATTESON, VILLAGE OF | 17031CIND2 | 06-NOV-2000
05 | ILLINOIS | MATTESON, VILLAGE OF | 17031CIND3 | 06-NOV-2000
05 | ILLINOIS | MAYWOOD, VILLAGE OF | 17031C0388F | 06-NOV-2000
05 | ILLINOIS | MAYWOOD, VILLAGE OF | 17031C0389F | 06-NOV-2000
05 | ILLINOIS | MAYWOOD, VILLAGE OF | 17031C0476F | 06-NOV-2000
05 | ILLINOIS | MAYWOOD, VILLAGE OF | 17031C0477F | 06-NOV-2000
05 | ILLINOIS | MAYWOOD, VILLAGE OF | 17031CIND1 | 06-NOV-2000
05 | ILLINOIS | MAYWOOD, VILLAGE OF | 17031CIND2 | 06-NOV-2000
05 | ILLINOIS | MAYWOOD, VILLAGE OF | 17031CIND3 | 06-NOV-2000
05 | ILLINOIS | MCCOOK, VILLAGE OF | 17031C0486F | 06-NOV-2000
05 | ILLINOIS | MCCOOK, VILLAGE OF | 17031C0487F | 06-NOV-2000
05 | ILLINOIS | MCCOOK, VILLAGE OF | 17031C0491F | 06-NOV-2000
05 | ILLINOIS | MCCOOK, VILLAGE OF | 17031CIND1 | 06-NOV-2000
05 | ILLINOIS | MCCOOK, VILLAGE OF | 17031CIND2 | 06-NOV-2000
05 | ILLINOIS | MCCOOK, VILLAGE OF | 17031CIND3 | 06-NOV-2000
05 | ILLINOIS | MELROSE PARK, VILLAGE OF | 17031C0367F | 06-NOV-2000
05 | ILLINOIS | MELROSE PARK, VILLAGE OF | 17031C0369F | 06-NOV-2000
05 | ILLINOIS | MELROSE PARK, VILLAGE OF | 17031C0386F | 06-NOV-2000
05 | ILLINOIS | MELROSE PARK, VILLAGE OF | 17031C0387F | 06-NOV-2000
05 | ILLINOIS | MELROSE PARK, VILLAGE OF | 17031C0388F | 06-NOV-2000
05 | ILLINOIS | MELROSE PARK, VILLAGE OF | 17031C0389F | 06-NOV-2000
05 | ILLINOIS | MELROSE PARK, VILLAGE OF | 17031CIND1 | 06-NOV-2000
05 | ILLINOIS | MELROSE PARK, VILLAGE OF | 17031CIND2 | 06-NOV-2000
05 | ILLINOIS | MELROSE PARK, VILLAGE OF | 17031CIND3 | 06-NOV-2000
05 | ILLINOIS | MERRIONETTE PARK, VILLAGE OF | 17031C0637F | 06-NOV-2000
05 | ILLINOIS | MERRIONETTE PARK, VILLAGE OF | 17031CIND1 | 06-NOV-2000
05 | ILLINOIS | MERRIONETTE PARK, VILLAGE OF | 17031CIND2 | 06-NOV-2000
05 | ILLINOIS | MERRIONETTE PARK, VILLAGE OF | 17031CIND3 | 06-NOV-2000
05 | ILLINOIS | METTAWA, VILLAGE OF | 17097C0164G | 07-SEP-2000
05 | ILLINOIS | METTAWA, VILLAGE OF | 17097C0168G | 07-SEP-2000
05 | ILLINOIS | METTAWA, VILLAGE OF | 17097C0252G | 07-SEP-2000
05 | ILLINOIS | METTAWA, VILLAGE OF | 17097C0256G | 07-SEP-2000
05 | ILLINOIS | METTAWA, VILLAGE OF | 17097CIND0 | 07-SEP-2000
05 | ILLINOIS | MIDLOTHIAN, VILLAGE OF | 17031C0619F | 06-NOV-2000
05 | ILLINOIS | MIDLOTHIAN, VILLAGE OF | 17031C0638F | 06-NOV-2000
05 | ILLINOIS | MIDLOTHIAN, VILLAGE OF | 17031C0639F | 06-NOV-2000
05 | ILLINOIS | MIDLOTHIAN, VILLAGE OF | 17031C0707F | 06-NOV-2000
05 | ILLINOIS | MIDLOTHIAN, VILLAGE OF | 17031C0726F | 06-NOV-2000
05 | ILLINOIS | MIDLOTHIAN, VILLAGE OF | 17031C0727F | 06-NOV-2000
05 | ILLINOIS | MIDLOTHIAN, VILLAGE OF | 17031CIND1 | 06-NOV-2000
05 | ILLINOIS | MIDLOTHIAN, VILLAGE OF | 17031CIND2 | 06-NOV-2000
05 | ILLINOIS | MIDLOTHIAN, VILLAGE OF | 17031CIND3 | 06-NOV-2000
05 | ILLINOIS | MOKENA, VILLAGE OF | 17197C0212F | 06-NOV-2000
05 | ILLINOIS | MOKENA, VILLAGE OF | 17197C0216F | 06-NOV-2000
05 | ILLINOIS | MOKENA, VILLAGE OF | 17197CIND0 | 06-NOV-2000
05 | ILLINOIS | MORTON GROVE, VILLAGE OF | 17031C0237F | 06-NOV-2000
05 | ILLINOIS | MORTON GROVE, VILLAGE OF | 17031C0241F | 06-NOV-2000
05 | ILLINOIS | MORTON GROVE, VILLAGE OF | 17031C0242F | 06-NOV-2000
05 | ILLINOIS | MORTON GROVE, VILLAGE OF | 17031C0243F | 06-NOV-2000
05 | ILLINOIS | MORTON GROVE, VILLAGE OF | 17031C0244F | 06-NOV-2000
05 | ILLINOIS | MORTON GROVE, VILLAGE OF | 17031CIND1 | 06-NOV-2000
05 | ILLINOIS | MORTON GROVE, VILLAGE OF | 17031CIND2 | 06-NOV-2000
05 | ILLINOIS | MORTON GROVE, VILLAGE OF | 17031CIND3 | 06-NOV-2000
05 | ILLINOIS | MOUNT PROSPECT, VILLAGE OF | 17031C0202F | 06-NOV-2000
05 | ILLINOIS | MOUNT PROSPECT, VILLAGE OF | 17031C0203F | 06-NOV-2000
05 | ILLINOIS | MOUNT PROSPECT, VILLAGE OF | 17031C0204F | 06-NOV-2000
05 | ILLINOIS | MOUNT PROSPECT, VILLAGE OF | 17031C0206F | 06-NOV-2000
05 | ILLINOIS | MOUNT PROSPECT, VILLAGE OF | 17031C0207F | 06-NOV-2000
05 | ILLINOIS | MOUNT PROSPECT, VILLAGE OF | 17031C0208F | 06-NOV-2000
05 | ILLINOIS | MOUNT PROSPECT, VILLAGE OF | 17031C0209F | 06-NOV-2000
05 | ILLINOIS | MOUNT PROSPECT, VILLAGE OF | 17031C0211F | 06-NOV-2000
05 | ILLINOIS | MOUNT PROSPECT, VILLAGE OF | 17031C0212F | 06-NOV-2000
05 | ILLINOIS | MOUNT PROSPECT, VILLAGE OF | 17031C0214F | 06-NOV-2000
05 | ILLINOIS | MOUNT PROSPECT, VILLAGE OF | 17031C0216F | 06-NOV-2000
05 | ILLINOIS | MOUNT PROSPECT, VILLAGE OF | 17031CIND1 | 06-NOV-2000
05 | ILLINOIS | MOUNT PROSPECT, VILLAGE OF | 17031CIND2 | 06-NOV-2000
05 | ILLINOIS | MOUNT PROSPECT, VILLAGE OF | 17031CIND3 | 06-NOV-2000
05 | ILLINOIS | NILES, VILLAGE OF | 17031C0207F | 06-NOV-2000
05 | ILLINOIS | NILES, VILLAGE OF | 17031C0236F | 06-NOV-2000
05 | ILLINOIS | NILES, VILLAGE OF | 17031C0237F | 06-NOV-2000
05 | ILLINOIS | NILES, VILLAGE OF | 17031C0238F | 06-NOV-2000
05 | ILLINOIS | NILES, VILLAGE OF | 17031C0241F | 06-NOV-2000
05 | ILLINOIS | NILES, VILLAGE OF | 17031C0243F | 06-NOV-2000
05 | ILLINOIS | NILES, VILLAGE OF | 17031C0244F | 06-NOV-2000
05 | ILLINOIS | NILES, VILLAGE OF | 17031CIND1 | 06-NOV-2000
05 | ILLINOIS | NILES, VILLAGE OF | 17031CIND2 | 06-NOV-2000
05 | ILLINOIS | NILES, VILLAGE OF | 17031CIND3 | 06-NOV-2000
05 | ILLINOIS | NORRIDGE, VILLAGE OF | 17031C0376F | 06-NOV-2000
05 | ILLINOIS | NORRIDGE, VILLAGE OF | 17031C0378F | 06-NOV-2000
05 | ILLINOIS | NORRIDGE, VILLAGE OF | 17031C0385F | 06-NOV-2000
05 | ILLINOIS | NORRIDGE, VILLAGE OF | 17031CIND1 | 06-NOV-2000
05 | ILLINOIS | NORRIDGE, VILLAGE OF | 17031CIND2 | 06-NOV-2000
05 | ILLINOIS | NORRIDGE, VILLAGE OF | 17031CIND3 | 06-NOV-2000
05 | ILLINOIS | NORTH CHICAGO, CITY OF | 17097C0186G** | 07-SEP-2000
05 | ILLINOIS | NORTH CHICAGO, CITY OF | 17097CIND0 | 07-SEP-2000
05 | ILLINOIS | NORTH RIVERSIDE, VILLAGE OF | 17031C0476F | 06-NOV-2000
05 | ILLINOIS | NORTH RIVERSIDE, VILLAGE OF | 17031C0477F | 06-NOV-2000
05 | ILLINOIS | NORTH RIVERSIDE, VILLAGE OF | 17031C0479F | 06-NOV-2000
05 | ILLINOIS | NORTH RIVERSIDE, VILLAGE OF | 17031C0483F | 06-NOV-2000
05 | ILLINOIS | NORTH RIVERSIDE, VILLAGE OF | 17031C0485F | 06-NOV-2000
05 | ILLINOIS | NORTH RIVERSIDE, VILLAGE OF | 17031CIND1 | 06-NOV-2000
05 | ILLINOIS | NORTH RIVERSIDE, VILLAGE OF | 17031CIND2 | 06-NOV-2000
05 | ILLINOIS | NORTH RIVERSIDE, VILLAGE OF | 17031CIND3 | 06-NOV-2000
05 | ILLINOIS | NORTHBROOK, VILLAGE OF | 17031C0069F | 06-NOV-2000
05 | ILLINOIS | NORTHBROOK, VILLAGE OF | 17031C0088F | 06-NOV-2000
05 | ILLINOIS | NORTHBROOK, VILLAGE OF | 17031C0089F | 06-NOV-2000
05 | ILLINOIS | NORTHBROOK, VILLAGE OF | 17031C0093F | 06-NOV-2000
05 | ILLINOIS | NORTHBROOK, VILLAGE OF | 17031C0207F | 06-NOV-2000
05 | ILLINOIS | NORTHBROOK, VILLAGE OF | 17031C0226F | 06-NOV-2000
05 | ILLINOIS | NORTHBROOK, VILLAGE OF | 17031C0227F | 06-NOV-2000
05 | ILLINOIS | NORTHBROOK, VILLAGE OF | 17031C0231F | 06-NOV-2000
05 | ILLINOIS | NORTHBROOK, VILLAGE OF | 17031C0232F | 06-NOV-2000
05 | ILLINOIS | NORTHBROOK, VILLAGE OF | 17031CIND1 | 06-NOV-2000
05 | ILLINOIS | NORTHBROOK, VILLAGE OF | 17031CIND2 | 06-NOV-2000
05 | ILLINOIS | NORTHBROOK, VILLAGE OF | 17031CIND3 | 06-NOV-2000
05 | ILLINOIS | NORTHFIELD, VILLAGE OF | 17031C0231F | 06-NOV-2000
05 | ILLINOIS | NORTHFIELD, VILLAGE OF | 17031C0232F | 06-NOV-2000
05 | ILLINOIS | NORTHFIELD, VILLAGE OF | 17031C0233F | 06-NOV-2000
05 | ILLINOIS | NORTHFIELD, VILLAGE OF | 17031C0234F | 06-NOV-2000
05 | ILLINOIS | NORTHFIELD, VILLAGE OF | 17031CIND1 | 06-NOV-2000
05 | ILLINOIS | NORTHFIELD, VILLAGE OF | 17031CIND2 | 06-NOV-2000
05 | ILLINOIS | NORTHFIELD, VILLAGE OF | 17031CIND3 | 06-NOV-2000
05 | ILLINOIS | NORTHLAKE, CITY OF | 17031C0366F | 06-NOV-2000
05 | ILLINOIS | NORTHLAKE, CITY OF | 17031C0367F | 06-NOV-2000
05 | ILLINOIS | NORTHLAKE, CITY OF | 17031C0368F | 06-NOV-2000
05 | ILLINOIS | NORTHLAKE, CITY OF | 17031C0369F | 06-NOV-2000
05 | ILLINOIS | NORTHLAKE, CITY OF | 17031CIND1 | 06-NOV-2000
05 | ILLINOIS | NORTHLAKE, CITY OF | 17031CIND2 | 06-NOV-2000
05 | ILLINOIS | NORTHLAKE, CITY OF | 17031CIND3 | 06-NOV-2000
05 | ILLINOIS | OAK FOREST, CITY OF | 17031C0618F | 06-NOV-2000
05 | ILLINOIS | OAK FOREST, CITY OF | 17031C0619F | 06-NOV-2000
05 | ILLINOIS | OAK FOREST, CITY OF | 17031C0706F | 06-NOV-2000
05 | ILLINOIS | OAK FOREST, CITY OF | 17031C0707F | 06-NOV-2000
05 | ILLINOIS | OAK FOREST, CITY OF | 17031C0709F | 06-NOV-2000
05 | ILLINOIS | OAK FOREST, CITY OF | 17031C0726F | 06-NOV-2000
05 | ILLINOIS | OAK FOREST, CITY OF | 17031C0727F | 06-NOV-2000
05 | ILLINOIS | OAK FOREST, CITY OF | 17031C0728F | 06-NOV-2000
05 | ILLINOIS | OAK FOREST, CITY OF | 17031C0729F | 06-NOV-2000
05 | ILLINOIS | OAK FOREST, CITY OF | 17031CIND1 | 06-NOV-2000
05 | ILLINOIS | OAK FOREST, CITY OF | 17031CIND2 | 06-NOV-2000
05 | ILLINOIS | OAK FOREST, CITY OF | 17031CIND3 | 06-NOV-2000
05 | ILLINOIS | OAK LAWN, VILLAGE OF | 17031C0606F | 06-NOV-2000
05 | ILLINOIS | OAK LAWN, VILLAGE OF | 17031C0607F | 06-NOV-2000
05 | ILLINOIS | OAK LAWN, VILLAGE OF | 17031C0608F | 06-NOV-2000
05 | ILLINOIS | OAK LAWN, VILLAGE OF | 17031C0609F | 06-NOV-2000
05 | ILLINOIS | OAK LAWN, VILLAGE OF | 17031C0628F | 06-NOV-2000
05 | ILLINOIS | OAK LAWN, VILLAGE OF | 17031CIND1 | 06-NOV-2000
05 | ILLINOIS | OAK LAWN, VILLAGE OF | 17031CIND2 | 06-NOV-2000
05 | ILLINOIS | OAK LAWN, VILLAGE OF | 17031CIND3 | 06-NOV-2000
05 | ILLINOIS | OAK PARK, VILLAGE OF | 17031CIND1 | 06-NOV-2000
05 | ILLINOIS | OAK PARK, VILLAGE OF | 17031CIND2 | 06-NOV-2000
05 | ILLINOIS | OAK PARK, VILLAGE OF | 17031CIND3 | 06-NOV-2000
05 | ILLINOIS | OLD MILL CREEK, VILLAGE OF | 17097C0055G | 07-SEP-2000
05 | ILLINOIS | OLD MILL CREEK, VILLAGE OF | 17097C0062G | 07-SEP-2000
05 | ILLINOIS | OLD MILL CREEK, VILLAGE OF | 17097CIND0 | 07-SEP-2000
05 | ILLINOIS | OLYMPIA FIELDS, VILLAGE OF | 17031C0739F | 06-NOV-2000
05 | ILLINOIS | OLYMPIA FIELDS, VILLAGE OF | 17031C0743F | 06-NOV-2000
05 | ILLINOIS | OLYMPIA FIELDS, VILLAGE OF | 17031CIND1 | 06-NOV-2000
05 | ILLINOIS | OLYMPIA FIELDS, VILLAGE OF | 17031CIND2 | 06-NOV-2000
05 | ILLINOIS | OLYMPIA FIELDS, VILLAGE OF | 17031CIND3 | 06-NOV-2000
05 | ILLINOIS | ORLAND HILLS, VILLAGE OF | 17031C0701F | 06-NOV-2000
05 | ILLINOIS | ORLAND HILLS, VILLAGE OF | 17031C0702F | 06-NOV-2000
05 | ILLINOIS | ORLAND HILLS, VILLAGE OF | 17031C0703F | 06-NOV-2000
05 | ILLINOIS | ORLAND HILLS, VILLAGE OF | 17031C0704F | 06-NOV-2000
05 | ILLINOIS | ORLAND HILLS, VILLAGE OF | 17031CIND1 | 06-NOV-2000
05 | ILLINOIS | ORLAND HILLS, VILLAGE OF | 17031CIND2 | 06-NOV-2000
05 | ILLINOIS | ORLAND HILLS, VILLAGE OF | 17031CIND3 | 06-NOV-2000
05 | ILLINOIS | ORLAND PARK, VILLAGE OF | 17031C0593F | 06-NOV-2000
05 | ILLINOIS | ORLAND PARK, VILLAGE OF | 17031C0594F | 06-NOV-2000
05 | ILLINOIS | ORLAND PARK, VILLAGE OF | 17031C0613F | 06-NOV-2000
05 | ILLINOIS | ORLAND PARK, VILLAGE OF | 17031C0614F | 06-NOV-2000
05 | ILLINOIS | ORLAND PARK, VILLAGE OF | 17031C0618F | 06-NOV-2000
05 | ILLINOIS | ORLAND PARK, VILLAGE OF | 17031C0682F | 06-NOV-2000
05 | ILLINOIS | ORLAND PARK, VILLAGE OF | 17031C0684F | 06-NOV-2000
05 | ILLINOIS | ORLAND PARK, VILLAGE OF | 17031C0692F | 06-NOV-2000
05 | ILLINOIS | ORLAND PARK, VILLAGE OF | 17031C0701F | 06-NOV-2000
05 | ILLINOIS | ORLAND PARK, VILLAGE OF | 17031C0702F | 06-NOV-2000
05 | ILLINOIS | ORLAND PARK, VILLAGE OF | 17031C0703F | 06-NOV-2000
05 | ILLINOIS | ORLAND PARK, VILLAGE OF | 17031C0704F | 06-NOV-2000
05 | ILLINOIS | ORLAND PARK, VILLAGE OF | 17031C0706F | 06-NOV-2000
05 | ILLINOIS | ORLAND PARK, VILLAGE OF | 17031CIND1 | 06-NOV-2000
05 | ILLINOIS | ORLAND PARK, VILLAGE OF | 17031CIND2 | 06-NOV-2000
05 | ILLINOIS | ORLAND PARK, VILLAGE OF | 17031CIND3 | 06-NOV-2000
05 | ILLINOIS | PALATINE, VILLAGE OF | 17031C0038F | 06-NOV-2000
05 | ILLINOIS | PALATINE, VILLAGE OF | 17031C0039F | 06-NOV-2000
05 | ILLINOIS | PALATINE, VILLAGE OF | 17031C0043F | 06-NOV-2000
05 | ILLINOIS | PALATINE, VILLAGE OF | 17031C0044F | 06-NOV-2000
05 | ILLINOIS | PALATINE, VILLAGE OF | 17031C0177F | 06-NOV-2000
05 | ILLINOIS | PALATINE, VILLAGE OF | 17031C0179F | 06-NOV-2000
05 | ILLINOIS | PALATINE, VILLAGE OF | 17031C0181F | 06-NOV-2000
05 | ILLINOIS | PALATINE, VILLAGE OF | 17031C0182F | 06-NOV-2000
05 | ILLINOIS | PALATINE, VILLAGE OF | 17031C0183F | 06-NOV-2000
05 | ILLINOIS | PALATINE, VILLAGE OF | 17031C0187F | 06-NOV-2000
05 | ILLINOIS | PALATINE, VILLAGE OF | 17031CIND1 | 06-NOV-2000
05 | ILLINOIS | PALATINE, VILLAGE OF | 17031CIND2 | 06-NOV-2000
05 | ILLINOIS | PALATINE, VILLAGE OF | 17031CIND3 | 06-NOV-2000
05 | ILLINOIS | PALOS HEIGHTS, CITY OF | 17031C0612F | 06-NOV-2000
05 | ILLINOIS | PALOS HEIGHTS, CITY OF | 17031C0614F | 06-NOV-2000
05 | ILLINOIS | PALOS HEIGHTS, CITY OF | 17031C0616F | 06-NOV-2000
05 | ILLINOIS | PALOS HEIGHTS, CITY OF | 17031C0617F | 06-NOV-2000
05 | ILLINOIS | PALOS HEIGHTS, CITY OF | 17031C0618F | 06-NOV-2000
05 | ILLINOIS | PALOS HEIGHTS, CITY OF | 17031CIND1 | 06-NOV-2000
05 | ILLINOIS | PALOS HEIGHTS, CITY OF | 17031CIND2 | 06-NOV-2000
05 | ILLINOIS | PALOS HEIGHTS, CITY OF | 17031CIND3 | 06-NOV-2000
05 | ILLINOIS | PALOS HILLS, CITY OF | 17031C0603F | 06-NOV-2000
05 | ILLINOIS | PALOS HILLS, CITY OF | 17031C0604F | 06-NOV-2000
05 | ILLINOIS | PALOS HILLS, CITY OF | 17031C0608F | 06-NOV-2000
05 | ILLINOIS | PALOS HILLS, CITY OF | 17031C0611F | 06-NOV-2000
05 | ILLINOIS | PALOS HILLS, CITY OF | 17031C0612F | 06-NOV-2000
05 | ILLINOIS | PALOS HILLS, CITY OF | 17031C0616F | 06-NOV-2000
05 | ILLINOIS | PALOS HILLS, CITY OF | 17031CIND1 | 06-NOV-2000
05 | ILLINOIS | PALOS HILLS, CITY OF | 17031CIND2 | 06-NOV-2000
05 | ILLINOIS | PALOS HILLS, CITY OF | 17031CIND3 | 06-NOV-2000
05 | ILLINOIS | PALOS PARK, VILLAGE OF | 17031C0592F | 06-NOV-2000
05 | ILLINOIS | PALOS PARK, VILLAGE OF | 17031C0594F | 06-NOV-2000
05 | ILLINOIS | PALOS PARK, VILLAGE OF | 17031C0611F | 06-NOV-2000
05 | ILLINOIS | PALOS PARK, VILLAGE OF | 17031C0612F | 06-NOV-2000
05 | ILLINOIS | PALOS PARK, VILLAGE OF | 17031C0613F | 06-NOV-2000
05 | ILLINOIS | PALOS PARK, VILLAGE OF | 17031C0614F | 06-NOV-2000
05 | ILLINOIS | PALOS PARK, VILLAGE OF | 17031C0616F | 06-NOV-2000
05 | ILLINOIS | PALOS PARK, VILLAGE OF | 17031CIND1 | 06-NOV-2000
05 | ILLINOIS | PALOS PARK, VILLAGE OF | 17031CIND2 | 06-NOV-2000
05 | ILLINOIS | PALOS PARK, VILLAGE OF | 17031CIND3 | 06-NOV-2000
05 | ILLINOIS | PARK CITY, CITY OF | 17097C0156G | 07-SEP-2000
05 | ILLINOIS | PARK CITY, CITY OF | 17097C0157G** | 07-SEP-2000
05 | ILLINOIS | PARK CITY, CITY OF | 17097CIND0 | 07-SEP-2000
05 | ILLINOIS | PARK FOREST, VILLAGE OF | 17031C0739F | 06-NOV-2000
05 | ILLINOIS | PARK FOREST, VILLAGE OF | 17031C0743F | 06-NOV-2000
05 | ILLINOIS | PARK FOREST, VILLAGE OF | 17031C0802F | 06-NOV-2000
05 | ILLINOIS | PARK FOREST, VILLAGE OF | 17031C0806F | 06-NOV-2000
05 | ILLINOIS | PARK FOREST, VILLAGE OF | 17031C0807F | 06-NOV-2000
05 | ILLINOIS | PARK FOREST, VILLAGE OF | 17031CIND1 | 06-NOV-2000
05 | ILLINOIS | PARK FOREST, VILLAGE OF | 17031CIND2 | 06-NOV-2000
05 | ILLINOIS | PARK FOREST, VILLAGE OF | 17031CIND3 | 06-NOV-2000
05 | ILLINOIS | PARK FOREST, VILLAGE OF | 17197C0354F** | 06-NOV-2000
05 | ILLINOIS | PARK FOREST, VILLAGE OF | 17197C0358F** | 06-NOV-2000
05 | ILLINOIS | PARK FOREST, VILLAGE OF | 17197CIND0 | 06-NOV-2000
05 | ILLINOIS | PARK RIDGE, CITY OF | 17031C0237F | 06-NOV-2000
05 | ILLINOIS | PARK RIDGE, CITY OF | 17031C0238F | 06-NOV-2000
05 | ILLINOIS | PARK RIDGE, CITY OF | 17031C0376F | 06-NOV-2000
05 | ILLINOIS | PARK RIDGE, CITY OF | 17031CIND1 | 06-NOV-2000
05 | ILLINOIS | PARK RIDGE, CITY OF | 17031CIND2 | 06-NOV-2000
05 | ILLINOIS | PARK RIDGE, CITY OF | 17031CIND3 | 06-NOV-2000
05 | ILLINOIS | PHOENIX, VILLAGE OF | 17031C0732F | 06-NOV-2000
05 | ILLINOIS | PHOENIX, VILLAGE OF | 17031C0751F | 06-NOV-2000
05 | ILLINOIS | PHOENIX, VILLAGE OF | 17031CIND1 | 06-NOV-2000
05 | ILLINOIS | PHOENIX, VILLAGE OF | 17031CIND2 | 06-NOV-2000
05 | ILLINOIS | PHOENIX, VILLAGE OF | 17031CIND3 | 06-NOV-2000
05 | ILLINOIS | POSEN, VILLAGE OF | 17031C0639F | 06-NOV-2000
05 | ILLINOIS | POSEN, VILLAGE OF | 17031C0643F | 06-NOV-2000
05 | ILLINOIS | POSEN, VILLAGE OF | 17031C0727F | 06-NOV-2000
05 | ILLINOIS | POSEN, VILLAGE OF | 17031C0731F | 06-NOV-2000
05 | ILLINOIS | POSEN, VILLAGE OF | 17031CIND1 | 06-NOV-2000
05 | ILLINOIS | POSEN, VILLAGE OF | 17031CIND2 | 06-NOV-2000
05 | ILLINOIS | POSEN, VILLAGE OF | 17031CIND3 | 06-NOV-2000
05 | ILLINOIS | PROSPECT HEIGHTS, CITY OF | 17031C0201F | 06-NOV-2000
05 | ILLINOIS | PROSPECT HEIGHTS, CITY OF | 17031C0202F | 06-NOV-2000
05 | ILLINOIS | PROSPECT HEIGHTS, CITY OF | 17031C0206F | 06-NOV-2000
05 | ILLINOIS | PROSPECT HEIGHTS, CITY OF | 17031C0207F | 06-NOV-2000
05 | ILLINOIS | PROSPECT HEIGHTS, CITY OF | 17031C0208F | 06-NOV-2000
05 | ILLINOIS | PROSPECT HEIGHTS, CITY OF | 17031CIND1 | 06-NOV-2000
05 | ILLINOIS | PROSPECT HEIGHTS, CITY OF | 17031CIND2 | 06-NOV-2000
05 | ILLINOIS | PROSPECT HEIGHTS, CITY OF | 17031CIND3 | 06-NOV-2000
05 | ILLINOIS | RICHTON PARK, VILLAGE OF | 17031C0781F | 06-NOV-2000
05 | ILLINOIS | RICHTON PARK, VILLAGE OF | 17031C0782F | 06-NOV-2000
05 | ILLINOIS | RICHTON PARK, VILLAGE OF | 17031C0801F | 06-NOV-2000
05 | ILLINOIS | RICHTON PARK, VILLAGE OF | 17031C0802F | 06-NOV-2000
05 | ILLINOIS | RICHTON PARK, VILLAGE OF | 17031CIND1 | 06-NOV-2000
05 | ILLINOIS | RICHTON PARK, VILLAGE OF | 17031CIND2 | 06-NOV-2000
05 | ILLINOIS | RICHTON PARK, VILLAGE OF | 17031CIND3 | 06-NOV-2000
05 | ILLINOIS | RIVER FOREST, CITY OF | 17031C0387F | 06-NOV-2000
05 | ILLINOIS | RIVER FOREST, CITY OF | 17031C0389F | 06-NOV-2000
05 | ILLINOIS | RIVER FOREST, CITY OF | 17031CIND1 | 06-NOV-2000
05 | ILLINOIS | RIVER FOREST, CITY OF | 17031CIND2 | 06-NOV-2000
05 | ILLINOIS | RIVER FOREST, CITY OF | 17031CIND3 | 06-NOV-2000
05 | ILLINOIS | RIVER GROVE, VILLAGE OF | 17031C0386F | 06-NOV-2000
05 | ILLINOIS | RIVER GROVE, VILLAGE OF | 17031C0387F | 06-NOV-2000
05 | ILLINOIS | RIVER GROVE, VILLAGE OF | 17031CIND1 | 06-NOV-2000
05 | ILLINOIS | RIVER GROVE, VILLAGE OF | 17031CIND2 | 06-NOV-2000
05 | ILLINOIS | RIVER GROVE, VILLAGE OF | 17031CIND3 | 06-NOV-2000
05 | ILLINOIS | RIVERDALE, VILLAGE OF | 17031C0643F | 06-NOV-2000
05 | ILLINOIS | RIVERDALE, VILLAGE OF | 17031C0644F | 06-NOV-2000
05 | ILLINOIS | RIVERDALE, VILLAGE OF | 17031C0645F | 06-NOV-2000
05 | ILLINOIS | RIVERDALE, VILLAGE OF | 17031C0661F | 06-NOV-2000
05 | ILLINOIS | RIVERDALE, VILLAGE OF | 17031C0663F | 06-NOV-2000
05 | ILLINOIS | RIVERDALE, VILLAGE OF | 17031CIND1 | 06-NOV-2000
05 | ILLINOIS | RIVERDALE, VILLAGE OF | 17031CIND2 | 06-NOV-2000
05 | ILLINOIS | RIVERDALE, VILLAGE OF | 17031CIND3 | 06-NOV-2000
05 | ILLINOIS | RIVERSIDE, VILLAGE OF | 17031C0479F | 06-NOV-2000
05 | ILLINOIS | RIVERSIDE, VILLAGE OF | 17031C0483F | 06-NOV-2000
05 | ILLINOIS | RIVERSIDE, VILLAGE OF | 17031CIND1 | 06-NOV-2000
05 | ILLINOIS | RIVERSIDE, VILLAGE OF | 17031CIND2 | 06-NOV-2000
05 | ILLINOIS | RIVERSIDE, VILLAGE OF | 17031CIND3 | 06-NOV-2000
05 | ILLINOIS | RIVERWOODS, VILLAGE OF | 17097C0266G | 07-SEP-2000
05 | ILLINOIS | RIVERWOODS, VILLAGE OF | 17097C0267G | 07-SEP-2000
05 | ILLINOIS | RIVERWOODS, VILLAGE OF | 17097C0270G | 07-SEP-2000
05 | ILLINOIS | RIVERWOODS, VILLAGE OF | 17097CIND0 | 07-SEP-2000
05 | ILLINOIS | ROBBINS, VILLAGE OF | 17031C0638F | 06-NOV-2000
05 | ILLINOIS | ROBBINS, VILLAGE OF | 17031C0639F | 06-NOV-2000
05 | ILLINOIS | ROBBINS, VILLAGE OF | 17031CIND1 | 06-NOV-2000
05 | ILLINOIS | ROBBINS, VILLAGE OF | 17031CIND2 | 06-NOV-2000
05 | ILLINOIS | ROBBINS, VILLAGE OF | 17031CIND3 | 06-NOV-2000
05 | ILLINOIS | ROLLING MEADOWS, CITY OF | 17031C0179F | 06-NOV-2000
05 | ILLINOIS | ROLLING MEADOWS, CITY OF | 17031C0181F | 06-NOV-2000
05 | ILLINOIS | ROLLING MEADOWS, CITY OF | 17031C0182F | 06-NOV-2000
05 | ILLINOIS | ROLLING MEADOWS, CITY OF | 17031C0183F | 06-NOV-2000
05 | ILLINOIS | ROLLING MEADOWS, CITY OF | 17031C0184F | 06-NOV-2000
05 | ILLINOIS | ROLLING MEADOWS, CITY OF | 17031C0191F | 06-NOV-2000
05 | ILLINOIS | ROLLING MEADOWS, CITY OF | 17031C0192F | 06-NOV-2000
05 | ILLINOIS | ROLLING MEADOWS, CITY OF | 17031C0211F | 06-NOV-2000
05 | ILLINOIS | ROLLING MEADOWS, CITY OF | 17031CIND1 | 06-NOV-2000
05 | ILLINOIS | ROLLING MEADOWS, CITY OF | 17031CIND2 | 06-NOV-2000
05 | ILLINOIS | ROLLING MEADOWS, CITY OF | 17031CIND3 | 06-NOV-2000
05 | ILLINOIS | ROSEMONT, VILLAGE OF | 17031C0219F | 06-NOV-2000
05 | ILLINOIS | ROSEMONT, VILLAGE OF | 17031C0357F | 06-NOV-2000
05 | ILLINOIS | ROSEMONT, VILLAGE OF | 17031C0376F | 06-NOV-2000
05 | ILLINOIS | ROSEMONT, VILLAGE OF | 17031CIND1 | 06-NOV-2000
05 | ILLINOIS | ROSEMONT, VILLAGE OF | 17031CIND2 | 06-NOV-2000
05 | ILLINOIS | ROSEMONT, VILLAGE OF | 17031CIND3 | 06-NOV-2000
05 | ILLINOIS | ROUND LAKE BEACH, VILLAGE OF | 17097C0127G** | 07-SEP-2000
05 | ILLINOIS | ROUND LAKE BEACH, VILLAGE OF | 17097C0131G** | 07-SEP-2000
05 | ILLINOIS | ROUND LAKE BEACH, VILLAGE OF | 17097CIND0 | 07-SEP-2000
05 | ILLINOIS | ROUND LAKE PARK, VILLAGE OF | 17097C0127G** | 07-SEP-2000
05 | ILLINOIS | ROUND LAKE PARK, VILLAGE OF | 17097C0141G** | 07-SEP-2000
05 | ILLINOIS | ROUND LAKE PARK, VILLAGE OF | 17097CIND0 | 07-SEP-2000
05 | ILLINOIS | ROUND LAKE, VILLAGE OF | 17097C0110H** | 07-SEP-2000
05 | ILLINOIS | ROUND LAKE, VILLAGE OF | 17097C0127G** | 07-SEP-2000
05 | ILLINOIS | ROUND LAKE, VILLAGE OF | 17097CIND0 | 07-SEP-2000
05 | ILLINOIS | SAUK VILLAGE, VILLAGE OF | 17031C0764F | 06-NOV-2000
05 | ILLINOIS | SAUK VILLAGE, VILLAGE OF | 17031C0768F | 06-NOV-2000
05 | ILLINOIS | SAUK VILLAGE, VILLAGE OF | 17031C0769F | 06-NOV-2000
05 | ILLINOIS | SAUK VILLAGE, VILLAGE OF | 17031C0826F | 06-NOV-2000
05 | ILLINOIS | SAUK VILLAGE, VILLAGE OF | 17031C0827F | 06-NOV-2000
05 | ILLINOIS | SAUK VILLAGE, VILLAGE OF | 17031C0831F | 06-NOV-2000
05 | ILLINOIS | SAUK VILLAGE, VILLAGE OF | 17031CIND1 | 06-NOV-2000
05 | ILLINOIS | SAUK VILLAGE, VILLAGE OF | 17031CIND2 | 06-NOV-2000
05 | ILLINOIS | SAUK VILLAGE, VILLAGE OF | 17031CIND3 | 06-NOV-2000
05 | ILLINOIS | SCHAUMBURG, VILLAGE OF | 17031C0167F | 06-NOV-2000
05 | ILLINOIS | SCHAUMBURG, VILLAGE OF | 17031C0169F | 06-NOV-2000
05 | ILLINOIS | SCHAUMBURG, VILLAGE OF | 17031C0179F | 06-NOV-2000
05 | ILLINOIS | SCHAUMBURG, VILLAGE OF | 17031C0183F | 06-NOV-2000
05 | ILLINOIS | SCHAUMBURG, VILLAGE OF | 17031C0184F | 06-NOV-2000
05 | ILLINOIS | SCHAUMBURG, VILLAGE OF | 17031C0186F | 06-NOV-2000
05 | ILLINOIS | SCHAUMBURG, VILLAGE OF | 17031C0187F | 06-NOV-2000
05 | ILLINOIS | SCHAUMBURG, VILLAGE OF | 17031C0188F | 06-NOV-2000
05 | ILLINOIS | SCHAUMBURG, VILLAGE OF | 17031C0189F | 06-NOV-2000
05 | ILLINOIS | SCHAUMBURG, VILLAGE OF | 17031C0191F | 06-NOV-2000
05 | ILLINOIS | SCHAUMBURG, VILLAGE OF | 17031C0192F | 06-NOV-2000
05 | ILLINOIS | SCHAUMBURG, VILLAGE OF | 17031C0193F | 06-NOV-2000
05 | ILLINOIS | SCHAUMBURG, VILLAGE OF | 17031C0194F | 06-NOV-2000
05 | ILLINOIS | SCHAUMBURG, VILLAGE OF | 17031C0307F | 06-NOV-2000
05 | ILLINOIS | SCHAUMBURG, VILLAGE OF | 17031C0330F | 06-NOV-2000
05 | ILLINOIS | SCHAUMBURG, VILLAGE OF | 17031CIND1 | 06-NOV-2000
05 | ILLINOIS | SCHAUMBURG, VILLAGE OF | 17031CIND2 | 06-NOV-2000
05 | ILLINOIS | SCHAUMBURG, VILLAGE OF | 17031CIND3 | 06-NOV-2000
05 | ILLINOIS | SCHILLER PARK, VILLAGE OF | 17031C0357F | 06-NOV-2000
05 | ILLINOIS | SCHILLER PARK, VILLAGE OF | 17031C0359F | 06-NOV-2000
05 | ILLINOIS | SCHILLER PARK, VILLAGE OF | 17031C0376F | 06-NOV-2000
05 | ILLINOIS | SCHILLER PARK, VILLAGE OF | 17031C0378F | 06-NOV-2000
05 | ILLINOIS | SCHILLER PARK, VILLAGE OF | 17031CIND1 | 06-NOV-2000
05 | ILLINOIS | SCHILLER PARK, VILLAGE OF | 17031CIND2 | 06-NOV-2000
05 | ILLINOIS | SCHILLER PARK, VILLAGE OF | 17031CIND3 | 06-NOV-2000
05 | ILLINOIS | SHABBONA, VILLAGE OF | 17037C0115D | 21-SEP-2000
05 | ILLINOIS | SHABBONA, VILLAGE OF | 17037CIND0 | 21-SEP-2000
05 | ILLINOIS | SKOKIE, VILLAGE OF | 17031C0234F | 06-NOV-2000
05 | ILLINOIS | SKOKIE, VILLAGE OF | 17031C0242F | 06-NOV-2000
05 | ILLINOIS | SKOKIE, VILLAGE OF | 17031C0244F | 06-NOV-2000
05 | ILLINOIS | SKOKIE, VILLAGE OF | 17031C0253F | 06-NOV-2000
05 | ILLINOIS | SKOKIE, VILLAGE OF | 17031C0265F | 06-NOV-2000
05 | ILLINOIS | SKOKIE, VILLAGE OF | 17031CIND1 | 06-NOV-2000
05 | ILLINOIS | SKOKIE, VILLAGE OF | 17031CIND2 | 06-NOV-2000
05 | ILLINOIS | SKOKIE, VILLAGE OF | 17031CIND3 | 06-NOV-2000
05 | ILLINOIS | SOMONAUK, VILLAGE OF | 17037C0190D | 21-SEP-2000
05 | ILLINOIS | SOMONAUK, VILLAGE OF | 17037CIND0 | 21-SEP-2000
05 | ILLINOIS | SOUTH BARRINGTON, VILLAGE OF | 17031C0155F | 06-NOV-2000
05 | ILLINOIS | SOUTH BARRINGTON, VILLAGE OF | 17031C0156F | 06-NOV-2000
05 | ILLINOIS | SOUTH BARRINGTON, VILLAGE OF | 17031C0157F | 06-NOV-2000
05 | ILLINOIS | SOUTH BARRINGTON, VILLAGE OF | 17031C0158F | 06-NOV-2000
05 | ILLINOIS | SOUTH BARRINGTON, VILLAGE OF | 17031C0159F | 06-NOV-2000
05 | ILLINOIS | SOUTH BARRINGTON, VILLAGE OF | 17031C0176F | 06-NOV-2000
05 | ILLINOIS | SOUTH BARRINGTON, VILLAGE OF | 17031C0178F | 06-NOV-2000
05 | ILLINOIS | SOUTH BARRINGTON, VILLAGE OF | 17031CIND1 | 06-NOV-2000
05 | ILLINOIS | SOUTH BARRINGTON, VILLAGE OF | 17031CIND2 | 06-NOV-2000
05 | ILLINOIS | SOUTH BARRINGTON, VILLAGE OF | 17031CIND3 | 06-NOV-2000
05 | ILLINOIS | SOUTH CHICAGO HEIGHTS, VILLAGE OF | 17031C0807F | 06-NOV-2000
05 | ILLINOIS | SOUTH CHICAGO HEIGHTS, VILLAGE OF | 17031C0826F | 06-NOV-2000
05 | ILLINOIS | SOUTH CHICAGO HEIGHTS, VILLAGE OF | 17031CIND1 | 06-NOV-2000
05 | ILLINOIS | SOUTH CHICAGO HEIGHTS, VILLAGE OF | 17031CIND2 | 06-NOV-2000
05 | ILLINOIS | SOUTH CHICAGO HEIGHTS, VILLAGE OF | 17031CIND3 | 06-NOV-2000
05 | ILLINOIS | SOUTH HOLLAND, VILLAGE OF | 17031C0732F | 06-NOV-2000
05 | ILLINOIS | SOUTH HOLLAND, VILLAGE OF | 17031C0734F | 06-NOV-2000
05 | ILLINOIS | SOUTH HOLLAND, VILLAGE OF | 17031C0751F | 06-NOV-2000
05 | ILLINOIS | SOUTH HOLLAND, VILLAGE OF | 17031C0752F | 06-NOV-2000
05 | ILLINOIS | SOUTH HOLLAND, VILLAGE OF | 17031C0753F | 06-NOV-2000
05 | ILLINOIS | SOUTH HOLLAND, VILLAGE OF | 17031C0754F | 06-NOV-2000
05 | ILLINOIS | SOUTH HOLLAND, VILLAGE OF | 17031CIND1 | 06-NOV-2000
05 | ILLINOIS | SOUTH HOLLAND, VILLAGE OF | 17031CIND2 | 06-NOV-2000
05 | ILLINOIS | SOUTH HOLLAND, VILLAGE OF | 17031CIND3 | 06-NOV-2000
05 | ILLINOIS | STEGER, VILLAGE OF | 17031C0807F | 06-NOV-2000
05 | ILLINOIS | STEGER, VILLAGE OF | 17031C0826F | 06-NOV-2000
05 | ILLINOIS | STEGER, VILLAGE OF | 17031C0827F | 06-NOV-2000
05 | ILLINOIS | STEGER, VILLAGE OF | 17031CIND1 | 06-NOV-2000
05 | ILLINOIS | STEGER, VILLAGE OF | 17031CIND2 | 06-NOV-2000
05 | ILLINOIS | STEGER, VILLAGE OF | 17031CIND3 | 06-NOV-2000
05 | ILLINOIS | STEGER, VILLAGE OF | 17197C0359F** | 06-NOV-2000
05 | ILLINOIS | STEGER, VILLAGE OF | 17197C0378F** | 06-NOV-2000
05 | ILLINOIS | STEGER, VILLAGE OF | 17197CIND0 | 06-NOV-2000
05 | ILLINOIS | STICKNEY, VILLAGE OF | 17031C0483F | 06-NOV-2000
05 | ILLINOIS | STICKNEY, VILLAGE OF | 17031C0484F | 06-NOV-2000
05 | ILLINOIS | STICKNEY, VILLAGE OF | 17031C0491F | 06-NOV-2000
05 | ILLINOIS | STICKNEY, VILLAGE OF | 17031C0503F | 06-NOV-2000
05 | ILLINOIS | STICKNEY, VILLAGE OF | 17031CIND1 | 06-NOV-2000
05 | ILLINOIS | STICKNEY, VILLAGE OF | 17031CIND2 | 06-NOV-2000
05 | ILLINOIS | STICKNEY, VILLAGE OF | 17031CIND3 | 06-NOV-2000
05 | ILLINOIS | STONE PARK, VILLAGE OF | 17031C0367F | 06-NOV-2000
05 | ILLINOIS | STONE PARK, VILLAGE OF | 17031C0369F | 06-NOV-2000
05 | ILLINOIS | STONE PARK, VILLAGE OF | 17031C0386F | 06-NOV-2000
05 | ILLINOIS | STONE PARK, VILLAGE OF | 17031C0388F | 06-NOV-2000
05 | ILLINOIS | STONE PARK, VILLAGE OF | 17031CIND1 | 06-NOV-2000
05 | ILLINOIS | STONE PARK, VILLAGE OF | 17031CIND2 | 06-NOV-2000
05 | ILLINOIS | STONE PARK, VILLAGE OF | 17031CIND3 | 06-NOV-2000
05 | ILLINOIS | STREAMWOOD, VILLAGE OF | 17031C0162F | 06-NOV-2000
05 | ILLINOIS | STREAMWOOD, VILLAGE OF | 17031C0164F | 06-NOV-2000
05 | ILLINOIS | STREAMWOOD, VILLAGE OF | 17031C0166F | 06-NOV-2000
05 | ILLINOIS | STREAMWOOD, VILLAGE OF | 17031C0167F | 06-NOV-2000
05 | ILLINOIS | STREAMWOOD, VILLAGE OF | 17031C0168F | 06-NOV-2000
05 | ILLINOIS | STREAMWOOD, VILLAGE OF | 17031C0169F | 06-NOV-2000
05 | ILLINOIS | STREAMWOOD, VILLAGE OF | 17031CIND1 | 06-NOV-2000
05 | ILLINOIS | STREAMWOOD, VILLAGE OF | 17031CIND2 | 06-NOV-2000
05 | ILLINOIS | STREAMWOOD, VILLAGE OF | 17031CIND3 | 06-NOV-2000
05 | ILLINOIS | SUMMIT, VILLAGE OF | 17031C0487F | 06-NOV-2000
05 | ILLINOIS | SUMMIT, VILLAGE OF | 17031C0489F | 06-NOV-2000
05 | ILLINOIS | SUMMIT, VILLAGE OF | 17031C0491F | 06-NOV-2000
05 | ILLINOIS | SUMMIT, VILLAGE OF | 17031CIND1 | 06-NOV-2000
05 | ILLINOIS | SUMMIT, VILLAGE OF | 17031CIND2 | 06-NOV-2000
05 | ILLINOIS | SUMMIT, VILLAGE OF | 17031CIND3 | 06-NOV-2000
05 | ILLINOIS | SYCAMORE, CITY OF | 17037C0057D | 21-SEP-2000
05 | ILLINOIS | SYCAMORE, CITY OF | 17037C0059D | 21-SEP-2000
05 | ILLINOIS | SYCAMORE, CITY OF | 17037C0076D | 21-SEP-2000
05 | ILLINOIS | SYCAMORE, CITY OF | 17037C0078D | 21-SEP-2000
05 | ILLINOIS | SYCAMORE, CITY OF | 17037CIND0 | 21-SEP-2000
05 | ILLINOIS | THIRD LAKE, VILLAGE OF | 17097C0132G** | 07-SEP-2000
05 | ILLINOIS | THIRD LAKE, VILLAGE OF | 17097C0155G | 07-SEP-2000
05 | ILLINOIS | THIRD LAKE, VILLAGE OF | 17097CIND0 | 07-SEP-2000
05 | ILLINOIS | THORNTON, VILLAGE OF | 17031C0734F | 06-NOV-2000
05 | ILLINOIS | THORNTON, VILLAGE OF | 17031C0742F | 06-NOV-2000
05 | ILLINOIS | THORNTON, VILLAGE OF | 17031C0753F | 06-NOV-2000
05 | ILLINOIS | THORNTON, VILLAGE OF | 17031C0761F | 06-NOV-2000
05 | ILLINOIS | THORNTON, VILLAGE OF | 17031CIND1 | 06-NOV-2000
05 | ILLINOIS | THORNTON, VILLAGE OF | 17031CIND2 | 06-NOV-2000
05 | ILLINOIS | THORNTON, VILLAGE OF | 17031CIND3 | 06-NOV-2000
05 | ILLINOIS | TINLEY PARK, CITY OF | 17031C0702F | 06-NOV-2000
05 | ILLINOIS | TINLEY PARK, CITY OF | 17031C0703F | 06-NOV-2000
05 | ILLINOIS | TINLEY PARK, CITY OF | 17031C0704F | 06-NOV-2000
05 | ILLINOIS | TINLEY PARK, CITY OF | 17031C0706F | 06-NOV-2000
05 | ILLINOIS | TINLEY PARK, CITY OF | 17031C0707F | 06-NOV-2000
05 | ILLINOIS | TINLEY PARK, CITY OF | 17031C0708F | 06-NOV-2000
05 | ILLINOIS | TINLEY PARK, CITY OF | 17031C0709F | 06-NOV-2000
05 | ILLINOIS | TINLEY PARK, CITY OF | 17031C0712F** | 06-NOV-2000
05 | ILLINOIS | TINLEY PARK, CITY OF | 17031C0716F** | 06-NOV-2000
05 | ILLINOIS | TINLEY PARK, CITY OF | 17031C0717F | 06-NOV-2000
05 | ILLINOIS | TINLEY PARK, CITY OF | 17031C0719F | 06-NOV-2000
05 | ILLINOIS | TINLEY PARK, CITY OF | 17031CIND1 | 06-NOV-2000
05 | ILLINOIS | TINLEY PARK, CITY OF | 17031CIND2 | 06-NOV-2000
05 | ILLINOIS | TINLEY PARK, CITY OF | 17031CIND3 | 06-NOV-2000
05 | ILLINOIS | TINLEY PARK, CITY OF | 17197C0212F | 06-NOV-2000
05 | ILLINOIS | TINLEY PARK, CITY OF | 17197C0216F | 06-NOV-2000
05 | ILLINOIS | TINLEY PARK, CITY OF | 17197CIND0 | 06-NOV-2000
05 | ILLINOIS | UNIVERSITY PARK, VILLAGE OF | 17031C0801F | 06-NOV-2000
05 | ILLINOIS | UNIVERSITY PARK, VILLAGE OF | 17031CIND1 | 06-NOV-2000
05 | ILLINOIS | UNIVERSITY PARK, VILLAGE OF | 17031CIND2 | 06-NOV-2000
05 | ILLINOIS | UNIVERSITY PARK, VILLAGE OF | 17031CIND3 | 06-NOV-2000
05 | ILLINOIS | UNIVERSITY PARK, VILLAGE OF | 17197C0351F** | 06-NOV-2000
05 | ILLINOIS | UNIVERSITY PARK, VILLAGE OF | 17197C0354F** | 06-NOV-2000
05 | ILLINOIS | UNIVERSITY PARK, VILLAGE OF | 17197C0358F** | 06-NOV-2000
05 | ILLINOIS | UNIVERSITY PARK, VILLAGE OF | 17197CIND0 | 06-NOV-2000
05 | ILLINOIS | VERNON HILLS, VILLAGE OF | 17097C0164G | 07-SEP-2000
05 | ILLINOIS | VERNON HILLS, VILLAGE OF | 17097C0252G | 07-SEP-2000
05 | ILLINOIS | VERNON HILLS, VILLAGE OF | 17097C0256G | 07-SEP-2000
05 | ILLINOIS | VERNON HILLS, VILLAGE OF | 17097C0258G | 07-SEP-2000
05 | ILLINOIS | VERNON HILLS, VILLAGE OF | 17097CIND0 | 07-SEP-2000
05 | ILLINOIS | VOLO, VILLAGE OF | 17097C0105H** | 07-SEP-2000
05 | ILLINOIS | VOLO, VILLAGE OF | 17097C0110H** | 07-SEP-2000
05 | ILLINOIS | VOLO, VILLAGE OF | 17097CIND0 | 07-SEP-2000
05 | ILLINOIS | WADSWORTH, VILLAGE OF | 17097C0055G | 07-SEP-2000
05 | ILLINOIS | WADSWORTH, VILLAGE OF | 17097C0056G | 07-SEP-2000
05 | ILLINOIS | WADSWORTH, VILLAGE OF | 17097C0057G | 07-SEP-2000
05 | ILLINOIS | WADSWORTH, VILLAGE OF | 17097C0058G | 07-SEP-2000
05 | ILLINOIS | WADSWORTH, VILLAGE OF | 17097C0059G** | 07-SEP-2000
05 | ILLINOIS | WADSWORTH, VILLAGE OF | 17097C0062G | 07-SEP-2000
05 | ILLINOIS | WADSWORTH, VILLAGE OF | 17097C0064G** | 07-SEP-2000
05 | ILLINOIS | WADSWORTH, VILLAGE OF | 17097C0066G | 07-SEP-2000
05 | ILLINOIS | WADSWORTH, VILLAGE OF | 17097C0067G | 07-SEP-2000
05 | ILLINOIS | WADSWORTH, VILLAGE OF | 17097CIND0 | 07-SEP-2000
05 | ILLINOIS | WATERMAN, VILLAGE OF | 17037C0120D** | 21-SEP-2000
05 | ILLINOIS | WATERMAN, VILLAGE OF | 17037CIND0 | 21-SEP-2000
05 | ILLINOIS | WAUCONDA, VILLAGE OF | 17097C0119G** | 07-SEP-2000
05 | ILLINOIS | WAUCONDA, VILLAGE OF | 17097CIND0 | 07-SEP-2000
05 | ILLINOIS | WAUKEGAN, CITY OF | 17097C0066G | 07-SEP-2000
05 | ILLINOIS | WAUKEGAN, CITY OF | 17097C0067G | 07-SEP-2000
05 | ILLINOIS | WAUKEGAN, CITY OF | 17097C0068G | 07-SEP-2000
05 | ILLINOIS | WAUKEGAN, CITY OF | 17097C0069G | 07-SEP-2000
05 | ILLINOIS | WAUKEGAN, CITY OF | 17097C0086G | 07-SEP-2000
05 | ILLINOIS | WAUKEGAN, CITY OF | 17097C0087G | 07-SEP-2000
05 | ILLINOIS | WAUKEGAN, CITY OF | 17097C0154G | 07-SEP-2000
05 | ILLINOIS | WAUKEGAN, CITY OF | 17097C0156G | 07-SEP-2000
05 | ILLINOIS | WAUKEGAN, CITY OF | 17097C0157G** | 07-SEP-2000
05 | ILLINOIS | WAUKEGAN, CITY OF | 17097C0158G | 07-SEP-2000
05 | ILLINOIS | WAUKEGAN, CITY OF | 17097C0166G | 07-SEP-2000
05 | ILLINOIS | WAUKEGAN, CITY OF | 17097CIND0 | 07-SEP-2000
05 | ILLINOIS | WESTCHESTER, VILLAGE OF | 17031C0456F | 06-NOV-2000
05 | ILLINOIS | WESTCHESTER, VILLAGE OF | 17031C0457F | 06-NOV-2000
05 | ILLINOIS | WESTCHESTER, VILLAGE OF | 17031C0458F | 06-NOV-2000
05 | ILLINOIS | WESTCHESTER, VILLAGE OF | 17031C0459F | 06-NOV-2000
05 | ILLINOIS | WESTCHESTER, VILLAGE OF | 17031C0476F | 06-NOV-2000
05 | ILLINOIS | WESTCHESTER, VILLAGE OF | 17031CIND1 | 06-NOV-2000
05 | ILLINOIS | WESTCHESTER, VILLAGE OF | 17031CIND2 | 06-NOV-2000
05 | ILLINOIS | WESTCHESTER, VILLAGE OF | 17031CIND3 | 06-NOV-2000
05 | ILLINOIS | WESTERN SPRINGS, VILLAGE OF | 17031C0458F | 06-NOV-2000
05 | ILLINOIS | WESTERN SPRINGS, VILLAGE OF | 17031C0459F | 06-NOV-2000
05 | ILLINOIS | WESTERN SPRINGS, VILLAGE OF | 17031C0466F | 06-NOV-2000
05 | ILLINOIS | WESTERN SPRINGS, VILLAGE OF | 17031C0467F | 06-NOV-2000
05 | ILLINOIS | WESTERN SPRINGS, VILLAGE OF | 17031CIND1 | 06-NOV-2000
05 | ILLINOIS | WESTERN SPRINGS, VILLAGE OF | 17031CIND2 | 06-NOV-2000
05 | ILLINOIS | WESTERN SPRINGS, VILLAGE OF | 17031CIND3 | 06-NOV-2000
05 | ILLINOIS | WHEELING, VILLAGE OF | 17031C0064F | 06-NOV-2000
05 | ILLINOIS | WHEELING, VILLAGE OF | 17031C0068F | 06-NOV-2000
05 | ILLINOIS | WHEELING, VILLAGE OF | 17031C0069F | 06-NOV-2000
05 | ILLINOIS | WHEELING, VILLAGE OF | 17031C0202F | 06-NOV-2000
05 | ILLINOIS | WHEELING, VILLAGE OF | 17031C0206F | 06-NOV-2000
05 | ILLINOIS | WHEELING, VILLAGE OF | 17031C0207F | 06-NOV-2000
05 | ILLINOIS | WHEELING, VILLAGE OF | 17031CIND1 | 06-NOV-2000
05 | ILLINOIS | WHEELING, VILLAGE OF | 17031CIND2 | 06-NOV-2000
05 | ILLINOIS | WHEELING, VILLAGE OF | 17031CIND3 | 06-NOV-2000
05 | ILLINOIS | WHEELING, VILLAGE OF | 17097C0264G** | 06-NOV-2000
05 | ILLINOIS | WHEELING, VILLAGE OF | 17097CIND1 | 06-NOV-2000
05 | ILLINOIS | WHEELING, VILLAGE OF | 17097CIND2 | 06-NOV-2000
05 | ILLINOIS | WILL COUNTY * | 17197C0212F** | 06-NOV-2000
05 | ILLINOIS | WILL COUNTY * | 17197C0216F** | 06-NOV-2000
05 | ILLINOIS | WILL COUNTY * | 17197C0351F** | 06-NOV-2000
05 | ILLINOIS | WILL COUNTY * | 17197C0354F** | 06-NOV-2000
05 | ILLINOIS | WILL COUNTY * | 17197C0358F** | 06-NOV-2000
05 | ILLINOIS | WILL COUNTY * | 17197C0359F** | 06-NOV-2000
05 | ILLINOIS | WILL COUNTY * | 17197C0378F** | 06-NOV-2000
05 | ILLINOIS | WILL COUNTY * | 17197CIND0 | 06-NOV-2000
05 | ILLINOIS | WILLOW SPRINGS, CITY OF | 17031C0469F | 06-NOV-2000
05 | ILLINOIS | WILLOW SPRINGS, CITY OF | 17031C0488F | 06-NOV-2000
05 | ILLINOIS | WILLOW SPRINGS, CITY OF | 17031C0581F | 06-NOV-2000
05 | ILLINOIS | WILLOW SPRINGS, CITY OF | 17031C0582F | 06-NOV-2000
05 | ILLINOIS | WILLOW SPRINGS, CITY OF | 17031C0583F | 06-NOV-2000
05 | ILLINOIS | WILLOW SPRINGS, CITY OF | 17031C0584F | 06-NOV-2000
05 | ILLINOIS | WILLOW SPRINGS, CITY OF | 17031C0601F | 06-NOV-2000
05 | ILLINOIS | WILLOW SPRINGS, CITY OF | 17031CIND1 | 06-NOV-2000
05 | ILLINOIS | WILLOW SPRINGS, CITY OF | 17031CIND2 | 06-NOV-2000
05 | ILLINOIS | WILLOW SPRINGS, CITY OF | 17031CIND3 | 06-NOV-2000
05 | ILLINOIS | WILMETTE, VILLAGE OF | 17031C0234F | 06-NOV-2000
05 | ILLINOIS | WILMETTE, VILLAGE OF | 17031C0253F | 06-NOV-2000
05 | ILLINOIS | WILMETTE, VILLAGE OF | 17031C0255F | 06-NOV-2000
05 | ILLINOIS | WILMETTE, VILLAGE OF | 17031C0260F | 06-NOV-2000
05 | ILLINOIS | WILMETTE, VILLAGE OF | 17031CIND1 | 06-NOV-2000
05 | ILLINOIS | WILMETTE, VILLAGE OF | 17031CIND2 | 06-NOV-2000
05 | ILLINOIS | WILMETTE, VILLAGE OF | 17031CIND3 | 06-NOV-2000
05 | ILLINOIS | WINNETKA, VILLAGE OF | 17031C0113F | 06-NOV-2000
05 | ILLINOIS | WINNETKA, VILLAGE OF | 17031C0232F | 06-NOV-2000
05 | ILLINOIS | WINNETKA, VILLAGE OF | 17031C0234F | 06-NOV-2000
05 | ILLINOIS | WINNETKA, VILLAGE OF | 17031C0251F | 06-NOV-2000
05 | ILLINOIS | WINNETKA, VILLAGE OF | 17031C0253F | 06-NOV-2000
05 | ILLINOIS | WINNETKA, VILLAGE OF | 17031C0255F | 06-NOV-2000
05 | ILLINOIS | WINNETKA, VILLAGE OF | 17031CIND1 | 06-NOV-2000
05 | ILLINOIS | WINNETKA, VILLAGE OF | 17031CIND2 | 06-NOV-2000
05 | ILLINOIS | WINNETKA, VILLAGE OF | 17031CIND3 | 06-NOV-2000
05 | ILLINOIS | WORTH, VILLAGE OF | 17031C0608F | 06-NOV-2000
05 | ILLINOIS | WORTH, VILLAGE OF | 17031C0609F | 06-NOV-2000
05 | ILLINOIS | WORTH, VILLAGE OF | 17031C0616F | 06-NOV-2000
05 | ILLINOIS | WORTH, VILLAGE OF | 17031C0617F | 06-NOV-2000
05 | ILLINOIS | WORTH, VILLAGE OF | 17031CIND1 | 06-NOV-2000
05 | ILLINOIS | WORTH, VILLAGE OF | 17031CIND2 | 06-NOV-2000
05 | ILLINOIS | WORTH, VILLAGE OF | 17031CIND3 | 06-NOV-2000
05 | ILLINOIS | ZION, CITY OF | 17097C0057G | 07-SEP-2000
05 | ILLINOIS | ZION, CITY OF | 17097C0059G** | 07-SEP-2000
05 | ILLINOIS | ZION, CITY OF | 17097C0086G | 07-SEP-2000
05 | ILLINOIS | ZION, CITY OF | 17097C0087G | 07-SEP-2000
05 | ILLINOIS | ZION, CITY OF | 17097CIND0 | 07-SEP-2000
05 | INDIANA | NEW ALBANY, CITY OF | 1800620004D | 21-SEP-2000
05 | INDIANA | NEW ALBANY, CITY OF | 1800620005D** | 21-SEP-2000
05 | INDIANA | NEW ALBANY, CITY OF | 1800620010D | 21-SEP-2000
05 | INDIANA | NEW ALBANY, CITY OF | 1800620011D | 21-SEP-2000
05 | INDIANA | NEW ALBANY, CITY OF | 1800620012D | 21-SEP-2000
05 | INDIANA | NEW ALBANY, CITY OF | 1800620013D | 21-SEP-2000
05 | INDIANA | NEW ALBANY, CITY OF | 1800620014D | 21-SEP-2000
05 | INDIANA | NEW ALBANY, CITY OF | 1800620020D** | 21-SEP-2000
05 | INDIANA | NEW ALBANY, CITY OF | 180062IND0 | 21-SEP-2000
05 | MICHIGAN | BLAINE, TOWNSHIP OF | 2600270001B | 20-NOV-2000
05 | MICHIGAN | DETOUR, TOWNSHIP OF | 2607750001A | 20-NOV-2000
05 | MICHIGAN | DRUMMOND ISLAND, TOWNSHIP OF | 2608030025A | 20-NOV-2000
05 | MICHIGAN | DRUMMOND ISLAND, TOWNSHIP OF | 2608030050A | 20-NOV-2000
05 | MICHIGAN | DRUMMOND ISLAND, TOWNSHIP OF | 2608030075A | 20-NOV-2000
05 | MICHIGAN | DRUMMOND ISLAND, TOWNSHIP OF | 2608030100A | 20-NOV-2000
05 | MICHIGAN | DRUMMOND ISLAND, TOWNSHIP OF | 260803IND0 | 20-NOV-2000
05 | MICHIGAN | GARFIELD, TOWNSHIP OF | 2607660050A | 20-NOV-2000
05 | MICHIGAN | HOWELL, CITY OF | 2604410002B | 19-JUL-2000
05 | MICHIGAN | MERIDIAN, CHARTER TOWNSHIP OF | 2600930010B** | 09-AUG-2000
05 | MICHIGAN | MERIDIAN, CHARTER TOWNSHIP OF | 2600930013B | 09-AUG-2000
05 | MICHIGAN | MERIDIAN, CHARTER TOWNSHIP OF | 2600930015B | 09-AUG-2000
05 | MICHIGAN | MERIDIAN, CHARTER TOWNSHIP OF | 260093IND0 | 09-AUG-2000
05 | MICHIGAN | MORAN, TOWNSHIP OF | 2604430025B | 20-NOV-2000
05 | MICHIGAN | MORAN, TOWNSHIP OF | 2604430050B | 20-NOV-2000
05 | MICHIGAN | MORAN, TOWNSHIP OF | 2604430075B | 20-NOV-2000
05 | MICHIGAN | MORAN, TOWNSHIP OF | 260443IND0 | 20-NOV-2000
05 | MICHIGAN | ONOTA, TOWNSHIP OF | 2603450025B | 20-NOV-2000
05 | MICHIGAN | ONOTA, TOWNSHIP OF | 2603450050B | 20-NOV-2000
05 | MICHIGAN | ONOTA, TOWNSHIP OF | 260345IND0 | 20-NOV-2000
05 | MICHIGAN | POWELL, TOWNSHIP OF | 2604520025B | 20-NOV-2000
05 | MICHIGAN | POWELL, TOWNSHIP OF | 2604520050B | 20-NOV-2000
05 | MICHIGAN | POWELL, TOWNSHIP OF | 2604520075B | 20-NOV-2000
05 | MICHIGAN | POWELL, TOWNSHIP OF | 2604520100B | 20-NOV-2000
05 | MICHIGAN | POWELL, TOWNSHIP OF | 260452IND0 | 20-NOV-2000
05 | MICHIGAN | ST. IGNACE, TOWNSHIP OF | 2604440025B | 20-NOV-2000
05 | MICHIGAN | ST. IGNACE, TOWNSHIP OF | 2604440050B | 20-NOV-2000
05 | MICHIGAN | ST. IGNACE, TOWNSHIP OF | 260444IND0 | 20-NOV-2000
05 | MINNESOTA | HOUSTON, CITY OF | 2701930001D | 23-AUG-2000
05 | MINNESOTA | MANKATO, CITY OF | 2752420001D | 20-NOV-2000
05 | MINNESOTA | MANKATO, CITY OF | 2752420003D | 20-NOV-2000
05 | MINNESOTA | MANKATO, CITY OF | 275242IND0 | 20-NOV-2000
05 | OHIO | BERKEY, VILLAGE OF | 39095C0035D** | 06-OCT-2000
05 | OHIO | BERKEY, VILLAGE OF | 39095C0050D** | 06-OCT-2000
05 | OHIO | BERKEY, VILLAGE OF | 39095CIND0 | 06-OCT-2000
05 | OHIO | HARBOR VIEW, VILLAGE OF | 39095C0105D | 06-OCT-2000
05 | OHIO | HARBOR VIEW, VILLAGE OF | 39095CIND0 | 06-OCT-2000
05 | OHIO | HOLLAND, VILLAGE OF | 39095C0227D | 06-OCT-2000
05 | OHIO | HOLLAND, VILLAGE OF | 39095CIND0 | 06-OCT-2000
05 | OHIO | LOUISVILLE, CITY OF | 3905160002D | 05-JUL-2000
05 | OHIO | LOUISVILLE, CITY OF | 3905160003D | 05-JUL-2000
05 | OHIO | LOUISVILLE, CITY OF | 390516IND1 | 05-JUL-2000
05 | OHIO | LUCAS COUNTY* | 39095C0025D** | 06-OCT-2000
05 | OHIO | LUCAS COUNTY* | 39095C0032D | 06-OCT-2000
05 | OHIO | LUCAS COUNTY* | 39095C0034D | 06-OCT-2000
05 | OHIO | LUCAS COUNTY* | 39095C0035D** | 06-OCT-2000
05 | OHIO | LUCAS COUNTY* | 39095C0042D | 06-OCT-2000
05 | OHIO | LUCAS COUNTY* | 39095C0045D** | 06-OCT-2000
05 | OHIO | LUCAS COUNTY* | 39095C0050D** | 06-OCT-2000
05 | OHIO | LUCAS COUNTY* | 39095C0051D** | 06-OCT-2000
05 | OHIO | LUCAS COUNTY* | 39095C0052D** | 06-OCT-2000
05 | OHIO | LUCAS COUNTY* | 39095C0053D | 06-OCT-2000
05 | OHIO | LUCAS COUNTY* | 39095C0054D** | 06-OCT-2000
05 | OHIO | LUCAS COUNTY* | 39095C0056D** | 06-OCT-2000
05 | OHIO | LUCAS COUNTY* | 39095C0057D** | 06-OCT-2000
05 | OHIO | LUCAS COUNTY* | 39095C0058D** | 06-OCT-2000
05 | OHIO | LUCAS COUNTY* | 39095C0059D | 06-OCT-2000
05 | OHIO | LUCAS COUNTY* | 39095C0061D | 06-OCT-2000
05 | OHIO | LUCAS COUNTY* | 39095C0062D | 06-OCT-2000
05 | OHIO | LUCAS COUNTY* | 39095C0063D | 06-OCT-2000
05 | OHIO | LUCAS COUNTY* | 39095C0064D | 06-OCT-2000
05 | OHIO | LUCAS COUNTY* | 39095C0066D | 06-OCT-2000
05 | OHIO | LUCAS COUNTY* | 39095C0067D** | 06-OCT-2000
05 | OHIO | LUCAS COUNTY* | 39095C0068D | 06-OCT-2000
05 | OHIO | LUCAS COUNTY* | 39095C0069D | 06-OCT-2000
05 | OHIO | LUCAS COUNTY* | 39095C0076D** | 06-OCT-2000
05 | OHIO | LUCAS COUNTY* | 39095C0077D** | 06-OCT-2000
05 | OHIO | LUCAS COUNTY* | 39095C0078D** | 06-OCT-2000
05 | OHIO | LUCAS COUNTY* | 39095C0079D** | 06-OCT-2000
05 | OHIO | LUCAS COUNTY* | 39095C0081D** | 06-OCT-2000
05 | OHIO | LUCAS COUNTY* | 39095C0082D** | 06-OCT-2000
05 | OHIO | LUCAS COUNTY* | 39095C0083D | 06-OCT-2000
05 | OHIO | LUCAS COUNTY* | 39095C0084D | 06-OCT-2000
05 | OHIO | LUCAS COUNTY* | 39095C0086D** | 06-OCT-2000
05 | OHIO | LUCAS COUNTY* | 39095C0087D** | 06-OCT-2000
05 | OHIO | LUCAS COUNTY* | 39095C0088D** | 06-OCT-2000
05 | OHIO | LUCAS COUNTY* | 39095C0089D** | 06-OCT-2000
05 | OHIO | LUCAS COUNTY* | 39095C0091D | 06-OCT-2000
05 | OHIO | LUCAS COUNTY* | 39095C0093D** | 06-OCT-2000
05 | OHIO | LUCAS COUNTY* | 39095C0095D** | 06-OCT-2000
05 | OHIO | LUCAS COUNTY* | 39095C0105D | 06-OCT-2000
05 | OHIO | LUCAS COUNTY* | 39095C0110D** | 06-OCT-2000
05 | OHIO | LUCAS COUNTY* | 39095C0113D | 06-OCT-2000
05 | OHIO | LUCAS COUNTY* | 39095C0115D** | 06-OCT-2000
05 | OHIO | LUCAS COUNTY* | 39095C0120D** | 06-OCT-2000
05 | OHIO | LUCAS COUNTY* | 39095C0130D** | 06-OCT-2000
05 | OHIO | LUCAS COUNTY* | 39095C0135D** | 06-OCT-2000
05 | OHIO | LUCAS COUNTY* | 39095C0140D | 06-OCT-2000
05 | OHIO | LUCAS COUNTY* | 39095C0145D | 06-OCT-2000
05 | OHIO | LUCAS COUNTY* | 39095C0175D** | 06-OCT-2000
05 | OHIO | LUCAS COUNTY* | 39095C0185D** | 06-OCT-2000
05 | OHIO | LUCAS COUNTY* | 39095C0205D | 06-OCT-2000
05 | OHIO | LUCAS COUNTY* | 39095C0206D | 06-OCT-2000
05 | OHIO | LUCAS COUNTY* | 39095C0207D | 06-OCT-2000
05 | OHIO | LUCAS COUNTY* | 39095C0208D | 06-OCT-2000
05 | OHIO | LUCAS COUNTY* | 39095C0209D | 06-OCT-2000
05 | OHIO | LUCAS COUNTY* | 39095C0211D** | 06-OCT-2000
05 | OHIO | LUCAS COUNTY* | 39095C0212D | 06-OCT-2000
05 | OHIO | LUCAS COUNTY* | 39095C0214D | 06-OCT-2000
05 | OHIO | LUCAS COUNTY* | 39095C0216D | 06-OCT-2000
05 | OHIO | LUCAS COUNTY* | 39095C0217D | 06-OCT-2000
05 | OHIO | LUCAS COUNTY* | 39095C0218D | 06-OCT-2000
05 | OHIO | LUCAS COUNTY* | 39095C0219D | 06-OCT-2000
05 | OHIO | LUCAS COUNTY* | 39095C0226D | 06-OCT-2000
05 | OHIO | LUCAS COUNTY* | 39095C0227D | 06-OCT-2000
05 | OHIO | LUCAS COUNTY* | 39095C0228D | 06-OCT-2000
05 | OHIO | LUCAS COUNTY* | 39095C0229D** | 06-OCT-2000
05 | OHIO | LUCAS COUNTY* | 39095C0231D | 06-OCT-2000
05 | OHIO | LUCAS COUNTY* | 39095C0232D** | 06-OCT-2000
05 | OHIO | LUCAS COUNTY* | 39095C0233D** | 06-OCT-2000
05 | OHIO | LUCAS COUNTY* | 39095C0234D | 06-OCT-2000
05 | OHIO | LUCAS COUNTY* | 39095C0236D | 06-OCT-2000
05 | OHIO | LUCAS COUNTY* | 39095C0237D | 06-OCT-2000
05 | OHIO | LUCAS COUNTY* | 39095C0240D | 06-OCT-2000
05 | OHIO | LUCAS COUNTY* | 39095C0245D | 06-OCT-2000
05 | OHIO | LUCAS COUNTY* | 39095C0251D** | 06-OCT-2000
05 | OHIO | LUCAS COUNTY* | 39095C0252D** | 06-OCT-2000
05 | OHIO | LUCAS COUNTY* | 39095C0255D** | 06-OCT-2000
05 | OHIO | LUCAS COUNTY* | 39095C0256D** | 06-OCT-2000
05 | OHIO | LUCAS COUNTY* | 39095C0257D** | 06-OCT-2000
05 | OHIO | LUCAS COUNTY* | 39095C0276D** | 06-OCT-2000
05 | OHIO | LUCAS COUNTY* | 39095C0305D** | 06-OCT-2000
05 | OHIO | LUCAS COUNTY* | 39095C0310D | 06-OCT-2000
05 | OHIO | LUCAS COUNTY* | 39095C0350D** | 06-OCT-2000
05 | OHIO | LUCAS COUNTY* | 39095C0360D** | 06-OCT-2000
05 | OHIO | LUCAS COUNTY* | 39095C0370D | 06-OCT-2000
05 | OHIO | LUCAS COUNTY* | 39095C0380D** | 06-OCT-2000
05 | OHIO | LUCAS COUNTY* | 39095C0381D** | 06-OCT-2000
05 | OHIO | LUCAS COUNTY* | 39095C0385D | 06-OCT-2000
05 | OHIO | LUCAS COUNTY* | 39095C0390D | 06-OCT-2000
05 | OHIO | LUCAS COUNTY* | 39095C0395D** | 06-OCT-2000
05 | OHIO | LUCAS COUNTY* | 39095C0405D | 06-OCT-2000
05 | OHIO | LUCAS COUNTY* | 39095CIND0 | 06-OCT-2000
05 | OHIO | MAGNETIC SPRINGS, VILLAGE OF | 3908390001B | 01-JUL-2000
05 | OHIO | MAUMEE, CITY OF | 39095C0229D** | 06-OCT-2000
05 | OHIO | MAUMEE, CITY OF | 39095C0233D** | 06-OCT-2000
05 | OHIO | MAUMEE, CITY OF | 39095C0234D | 06-OCT-2000
05 | OHIO | MAUMEE, CITY OF | 39095C0237D | 06-OCT-2000
05 | OHIO | MAUMEE, CITY OF | 39095C0245D | 06-OCT-2000
05 | OHIO | MAUMEE, CITY OF | 39095C0255D** | 06-OCT-2000
05 | OHIO | MAUMEE, CITY OF | 39095CIND0 | 06-OCT-2000
05 | OHIO | NEWARK,CITY OF | 3903350001F** | 07-SEP-2000
05 | OHIO | NEWARK,CITY OF | 3903350002F | 07-SEP-2000
05 | OHIO | NEWARK,CITY OF | 3903350003F | 07-SEP-2000
05 | OHIO | NEWARK,CITY OF | 3903350004F | 07-SEP-2000
05 | OHIO | NEWARK,CITY OF | 3903350005F | 07-SEP-2000
05 | OHIO | NEWARK,CITY OF | 3903350006F** | 07-SEP-2000
05 | OHIO | NEWARK,CITY OF | 390335IND0 | 07-SEP-2000
05 | OHIO | OREGON, CITY OF | 39095C0095D** | 06-OCT-2000
05 | OHIO | OREGON, CITY OF | 39095C0105D | 06-OCT-2000
05 | OHIO | OREGON, CITY OF | 39095C0110D** | 06-OCT-2000
05 | OHIO | OREGON, CITY OF | 39095C0113D | 06-OCT-2000
05 | OHIO | OREGON, CITY OF | 39095C0115D** | 06-OCT-2000
05 | OHIO | OREGON, CITY OF | 39095C0120D** | 06-OCT-2000
05 | OHIO | OREGON, CITY OF | 39095C0257D** | 06-OCT-2000
05 | OHIO | OREGON, CITY OF | 39095C0276D** | 06-OCT-2000
05 | OHIO | OREGON, CITY OF | 39095CIND0 | 06-OCT-2000
05 | OHIO | OTTAWA HILLS, VILLAGE OF | 39095C0066D | 06-OCT-2000
05 | OHIO | OTTAWA HILLS, VILLAGE OF | 39095C0067D** | 06-OCT-2000
05 | OHIO | OTTAWA HILLS, VILLAGE OF | 39095C0086D** | 06-OCT-2000
05 | OHIO | OTTAWA HILLS, VILLAGE OF | 39095CIND0 | 06-OCT-2000
05 | OHIO | SYLVANIA, CITY OF | 39095C0051D** | 06-OCT-2000
05 | OHIO | SYLVANIA, CITY OF | 39095C0052D** | 06-OCT-2000
05 | OHIO | SYLVANIA, CITY OF | 39095C0053D | 06-OCT-2000
05 | OHIO | SYLVANIA, CITY OF | 39095C0054D** | 06-OCT-2000
05 | OHIO | SYLVANIA, CITY OF | 39095C0056D** | 06-OCT-2000
05 | OHIO | SYLVANIA, CITY OF | 39095C0058D** | 06-OCT-2000
05 | OHIO | SYLVANIA, CITY OF | 39095CIND0 | 06-OCT-2000
05 | OHIO | TOLEDO, CITY OF | 39095C0057D** | 06-OCT-2000
05 | OHIO | TOLEDO, CITY OF | 39095C0058D** | 06-OCT-2000
05 | OHIO | TOLEDO, CITY OF | 39095C0059D | 06-OCT-2000
05 | OHIO | TOLEDO, CITY OF | 39095C0062D | 06-OCT-2000
05 | OHIO | TOLEDO, CITY OF | 39095C0064D | 06-OCT-2000
05 | OHIO | TOLEDO, CITY OF | 39095C0066D | 06-OCT-2000
05 | OHIO | TOLEDO, CITY OF | 39095C0067D** | 06-OCT-2000
05 | OHIO | TOLEDO, CITY OF | 39095C0068D | 06-OCT-2000
05 | OHIO | TOLEDO, CITY OF | 39095C0069D | 06-OCT-2000
05 | OHIO | TOLEDO, CITY OF | 39095C0076D** | 06-OCT-2000
05 | OHIO | TOLEDO, CITY OF | 39095C0077D** | 06-OCT-2000
05 | OHIO | TOLEDO, CITY OF | 39095C0078D** | 06-OCT-2000
05 | OHIO | TOLEDO, CITY OF | 39095C0079D** | 06-OCT-2000
05 | OHIO | TOLEDO, CITY OF | 39095C0081D** | 06-OCT-2000
05 | OHIO | TOLEDO, CITY OF | 39095C0082D** | 06-OCT-2000
05 | OHIO | TOLEDO, CITY OF | 39095C0083D | 06-OCT-2000
05 | OHIO | TOLEDO, CITY OF | 39095C0084D | 06-OCT-2000
05 | OHIO | TOLEDO, CITY OF | 39095C0086D** | 06-OCT-2000
05 | OHIO | TOLEDO, CITY OF | 39095C0087D** | 06-OCT-2000
05 | OHIO | TOLEDO, CITY OF | 39095C0088D** | 06-OCT-2000
05 | OHIO | TOLEDO, CITY OF | 39095C0089D** | 06-OCT-2000
05 | OHIO | TOLEDO, CITY OF | 39095C0091D | 06-OCT-2000
05 | OHIO | TOLEDO, CITY OF | 39095C0093D** | 06-OCT-2000
05 | OHIO | TOLEDO, CITY OF | 39095C0095D** | 06-OCT-2000
05 | OHIO | TOLEDO, CITY OF | 39095C0105D | 06-OCT-2000
05 | OHIO | TOLEDO, CITY OF | 39095C0113D | 06-OCT-2000
05 | OHIO | TOLEDO, CITY OF | 39095C0115D** | 06-OCT-2000
05 | OHIO | TOLEDO, CITY OF | 39095C0227D | 06-OCT-2000
05 | OHIO | TOLEDO, CITY OF | 39095C0229D** | 06-OCT-2000
05 | OHIO | TOLEDO, CITY OF | 39095C0231D | 06-OCT-2000
05 | OHIO | TOLEDO, CITY OF | 39095C0232D** | 06-OCT-2000
05 | OHIO | TOLEDO, CITY OF | 39095C0233D** | 06-OCT-2000
05 | OHIO | TOLEDO, CITY OF | 39095C0234D | 06-OCT-2000
05 | OHIO | TOLEDO, CITY OF | 39095C0251D** | 06-OCT-2000
05 | OHIO | TOLEDO, CITY OF | 39095C0252D** | 06-OCT-2000
05 | OHIO | TOLEDO, CITY OF | 39095C0255D** | 06-OCT-2000
05 | OHIO | TOLEDO, CITY OF | 39095C0256D** | 06-OCT-2000
05 | OHIO | TOLEDO, CITY OF | 39095C0257D** | 06-OCT-2000
05 | OHIO | TOLEDO, CITY OF | 39095CIND0 | 06-OCT-2000
05 | OHIO | WARREN COUNTY* | 39169C0011D | 21-SEP-2000
05 | OHIO | WARREN COUNTY* | 39169C0013D | 21-SEP-2000
05 | OHIO | WARREN COUNTY* | 39169C0015D | 21-SEP-2000
05 | OHIO | WARREN COUNTY* | 39169C0031D | 21-SEP-2000
05 | OHIO | WARREN COUNTY* | 39169C0035D | 21-SEP-2000
05 | OHIO | WARREN COUNTY* | 39169C0050C | 21-SEP-2000
05 | OHIO | WARREN COUNTY* | 39169C0068D | 21-SEP-2000
05 | OHIO | WARREN COUNTY* | 39169C0069D | 21-SEP-2000
05 | OHIO | WARREN COUNTY* | 39169C0070D | 21-SEP-2000
05 | OHIO | WARREN COUNTY* | 39169C0085D | 21-SEP-2000
05 | OHIO | WARREN COUNTY* | 39169C0086D | 21-SEP-2000
05 | OHIO | WARREN COUNTY* | 39169C0090D | 21-SEP-2000
05 | OHIO | WARREN COUNTY* | 39169CIND0 | 21-SEP-2000
05 | OHIO | WATERVILLE, VILLAGE OF | 39095C0240D | 06-OCT-2000
05 | OHIO | WATERVILLE, VILLAGE OF | 39095C0385D | 06-OCT-2000
05 | OHIO | WATERVILLE, VILLAGE OF | 39095C0405D | 06-OCT-2000
05 | OHIO | WATERVILLE, VILLAGE OF | 39095CIND0 | 06-OCT-2000
05 | OHIO | WAYNESVILLE, VILLAGE OF | 3905650001C | 21-SEP-2000
05 | OHIO | WHITEHOUSE, VILLAGE OF | 39095C0214D | 06-OCT-2000
05 | OHIO | WHITEHOUSE, VILLAGE OF | 39095C0216D | 06-OCT-2000
05 | OHIO | WHITEHOUSE, VILLAGE OF | 39095C0217D | 06-OCT-2000
05 | OHIO | WHITEHOUSE, VILLAGE OF | 39095C0218D | 06-OCT-2000
05 | OHIO | WHITEHOUSE, VILLAGE OF | 39095C0219D | 06-OCT-2000
05 | OHIO | WHITEHOUSE, VILLAGE OF | 39095CIND0 | 06-OCT-2000
06 | AR | ALMA, CITY OF | 05033C0187F | 20-DEC-2000
06 | AR | ALMA, CITY OF | 05033C0190F | 20-DEC-2000
06 | AR | ALMA, CITY OF | 05033CIND0 ** | 20-DEC-2000
06 | AR | AVOCA, CITY OF | 05007CIND0 ** | 20-DEC-2000
06 | AR | BENTON COUNTY* | 05007C0042F | 20-DEC-2000
06 | AR | BENTON COUNTY* | 05007C0044F | 20-DEC-2000
06 | AR | BENTON COUNTY* | 05007C0045F | 20-DEC-2000
06 | AR | BENTON COUNTY* | 05007C0061F | 20-DEC-2000
06 | AR | BENTON COUNTY* | 05007C0063F | 20-DEC-2000
06 | AR | BENTON COUNTY* | 05007C0065F | 20-DEC-2000
06 | AR | BENTON COUNTY* | 05007C0152H | 20-DEC-2000
06 | AR | BENTON COUNTY* | 05007C0155H | 20-DEC-2000
06 | AR | BENTON COUNTY* | 05007C0162F | 20-DEC-2000
06 | AR | BENTON COUNTY* | 05007C0165F | 20-DEC-2000
06 | AR | BENTON COUNTY* | 05007CIND0 ** | 20-DEC-2000
06 | AR | BENTONVILLE, CITY OF | 05007C0042F | 20-DEC-2000
06 | AR | BENTONVILLE, CITY OF | 05007C0044F | 20-DEC-2000
06 | AR | BENTONVILLE, CITY OF | 05007C0045F | 20-DEC-2000
06 | AR | BENTONVILLE, CITY OF | 05007C0061F | 20-DEC-2000
06 | AR | BENTONVILLE, CITY OF | 05007C0063F | 20-DEC-2000
06 | AR | BENTONVILLE, CITY OF | 05007C0065F | 20-DEC-2000
06 | AR | BENTONVILLE, CITY OF | 05007C0155H | 20-DEC-2000
06 | AR | BENTONVILLE, CITY OF | 05007CIND0 ** | 20-DEC-2000
06 | AR | BETHEL HEIGHTS, TOWN OF | 05007CIND0 ** | 20-DEC-2000
06 | AR | CAVE SPRINGS, CITY OF | 05007CIND0 ** | 20-DEC-2000
06 | AR | CENTERTON, CITY OF | 05007C0045F | 20-DEC-2000
06 | AR | CENTERTON, CITY OF | 05007CIND0 ** | 20-DEC-2000
06 | AR | CHESTER, TOWN OF | 05033CIND0 ** | 20-DEC-2000
06 | AR | CRAWFORD COUNTY * | 05033C0187F | 20-DEC-2000
06 | AR | CRAWFORD COUNTY * | 05033C0190F | 20-DEC-2000
06 | AR | CRAWFORD COUNTY * | 05033CIND0 ** | 20-DEC-2000
06 | AR | DECATUR, CITY OF | 05007CIND0 ** | 20-DEC-2000
06 | AR | DYER, TOWN OF | 05033CIND0 ** | 20-DEC-2000
06 | AR | ELKINS, CITY OF | 05143C0115E | 20-DEC-2000
06 | AR | ELKINS, CITY OF | 05143C0120E | 20-DEC-2000
06 | AR | ELKINS, CITY OF | 05143C0180E | 20-DEC-2000
06 | AR | ELKINS, CITY OF | 05143C0185E | 20-DEC-2000
06 | AR | ELKINS, CITY OF | 05143CIND0 ** | 20-DEC-2000
06 | AR | ELM SPRINGS, TOWN OF | 05143CIND0 ** | 20-DEC-2000
06 | AR | FARMINGTON, CITY OF | 05143CIND0 ** | 20-DEC-2000
06 | AR | FAYETTEVILLE, CITY OF | 05143C0115E | 20-DEC-2000
06 | AR | FAYETTEVILLE, CITY OF | 05143CIND0 ** | 20-DEC-2000
06 | AR | GATEWAY, CITY OF | 05007CIND0 ** | 20-DEC-2000
06 | AR | GENTRY, CITY OF | 05007CIND0 ** | 20-DEC-2000
06 | AR | GOSHEN, TOWN OF | 05143CIND0 ** | 20-DEC-2000
06 | AR | GRAVETTE, CITY OF | 05007CIND0 ** | 20-DEC-2000
06 | AR | GREENLAND, CITY OF | 05143CIND0 ** | 20-DEC-2000
06 | AR | HIGHFILL, CITY OF | 05007CIND0 ** | 20-DEC-2000
06 | AR | JOHNSON, CITY OF | 05143CIND0 ** | 20-DEC-2000
06 | AR | KIBLER, CITY OF | 05033C0190F | 20-DEC-2000
06 | AR | KIBLER, CITY OF | 05033CIND0 ** | 20-DEC-2000
06 | AR | LINCOLN, CITY OF | 05143CIND0 ** | 20-DEC-2000
06 | AR | LITTLE FLOCK, TOWN OF | 05007C0065F | 20-DEC-2000
06 | AR | LITTLE FLOCK, TOWN OF | 05007CIND0 ** | 20-DEC-2000
06 | AR | LONSDALE, TOWN OF | 05007CIND0 ** | 20-DEC-2000
06 | AR | LOWELL, CITY OF | 05007C0162F | 20-DEC-2000
06 | AR | LOWELL, CITY OF | 05007C0165F | 20-DEC-2000
06 | AR | LOWELL, CITY OF | 05007CIND0 ** | 20-DEC-2000
06 | AR | MOUNTAINBURG, CITY OF | 05033CIND0 ** | 20-DEC-2000
06 | AR | MULBERRY, CITY OF | 05033CIND0 ** | 20-DEC-2000
06 | AR | PEA RIDGE,CITY OF | 05007C0065F | 20-DEC-2000
06 | AR | PEA RIDGE,CITY OF | 05007CIND0 ** | 20-DEC-2000
06 | AR | ROGERS, CITY OF | 05007C0065F | 20-DEC-2000
06 | AR | ROGERS, CITY OF | 05007C0152H | 20-DEC-2000
06 | AR | ROGERS, CITY OF | 05007C0155H | 20-DEC-2000
06 | AR | ROGERS, CITY OF | 05007C0162F | 20-DEC-2000
06 | AR | ROGERS, CITY OF | 05007C0165F | 20-DEC-2000
06 | AR | ROGERS, CITY OF | 05007CIND0 ** | 20-DEC-2000
06 | AR | RUDY, TOWN OF | 05033CIND0 ** | 20-DEC-2000
06 | AR | RUSSELLVILLE, CITY OF | 0501780009D | 20-DEC-2000
06 | AR | RUSSELLVILLE, CITY OF | 0501780012D | 20-DEC-2000
06 | AR | RUSSELLVILLE, CITY OF | 0501780014D | 20-DEC-2000
06 | AR | RUSSELLVILLE, CITY OF | 0501780016D | 20-DEC-2000
06 | AR | RUSSELLVILLE, CITY OF | 0501780017D | 20-DEC-2000
06 | AR | RUSSELLVILLE, CITY OF | 0501780018D | 20-DEC-2000
06 | AR | RUSSELLVILLE, CITY OF | 0501780019D | 20-DEC-2000
06 | AR | RUSSELLVILLE, CITY OF | 0501780036D | 20-DEC-2000
06 | AR | RUSSELLVILLE, CITY OF | 0501780038D | 20-DEC-2000
06 | AR | RUSSELLVILLE, CITY OF | 0501780039D | 20-DEC-2000
06 | AR | RUSSELLVILLE, CITY OF | 0501780056D | 20-DEC-2000
06 | AR | RUSSELLVILLE, CITY OF | 0501780057D | 20-DEC-2000
06 | AR | RUSSELLVILLE, CITY OF | 0501780076D | 20-DEC-2000
06 | AR | RUSSELLVILLE, CITY OF | 050178IND0 ** | 20-DEC-2000
06 | AR | SILOAM SPRINGS, CITY OF | 05007CIND0 ** | 20-DEC-2000
06 | AR | SPRINGDALE, CITY OF | 05007CIND0 ** | 20-DEC-2000
06 | AR | SPRINGDALE, CITY OF | 05143CIND0 ** | 20-DEC-2000
06 | AR | SULPHUR SPRINGS, CITY OF | 05007CIND0 ** | 20-DEC-2000
06 | AR | TONTITOWN, TOWN OF | 05143CIND0 ** | 20-DEC-2000
06 | AR | VAN BUREN, CITY OF | 05033CIND0 ** | 20-DEC-2000
06 | AR | WASHINGTON COUNTY | 05143C0115E | 20-DEC-2000
06 | AR | WASHINGTON COUNTY | 05143C0120E | 20-DEC-2000
06 | AR | WASHINGTON COUNTY | 05143C0180E | 20-DEC-2000
06 | AR | WASHINGTON COUNTY | 05143C0185E | 20-DEC-2000
06 | AR | WASHINGTON COUNTY | 05143C0200E | 20-DEC-2000
06 | AR | WASHINGTON COUNTY | 05143CIND0 ** | 20-DEC-2000
06 | AR | WEST FORK, CITY OF | 05143CIND0 ** | 20-DEC-2000
06 | AR | WINSLOW, CITY OF | 05143CIND0 ** | 20-DEC-2000
06 | LA | ADDIS, TOWN OF | 22121C0087C | 07-SEP-2000
06 | LA | ADDIS, TOWN OF | 22121C0100C | 07-SEP-2000
06 | LA | ADDIS, TOWN OF | 22121CIND0 ** | 07-SEP-2000
06 | LA | BRUSLY, TOWN OF | 22121C0087C | 07-SEP-2000
06 | LA | BRUSLY, TOWN OF | 22121C0100C | 07-SEP-2000
06 | LA | BRUSLY, TOWN OF | 22121CIND0 ** | 07-SEP-2000
06 | LA | PORT ALLEN, CITY OF | 22121C0043C | 07-SEP-2000
06 | LA | PORT ALLEN, CITY OF | 22121C0081C | 07-SEP-2000
06 | LA | PORT ALLEN, CITY OF | 22121CIND0 ** | 07-SEP-2000
06 | LA | TANGIPAHOA PARISH* | 2202060165E | 23-AUG-2000
06 | LA | TANGIPAHOA PARISH* | 2202060175E | 23-AUG-2000
06 | LA | TANGIPAHOA PARISH* | 2202060225E | 23-AUG-2000
06 | LA | TANGIPAHOA PARISH* | 220206IND0 ** | 23-AUG-2000
06 | LA | TICKFAW, CITY OF | 2202140001C | 23-AUG-2000
06 | LA | WEST BATON ROUGE PARISH* | 22121C0025C** | 07-SEP-2000
06 | LA | WEST BATON ROUGE PARISH* | 22121C0043C | 07-SEP-2000
06 | LA | WEST BATON ROUGE PARISH* | 22121C0050C** | 07-SEP-2000
06 | LA | WEST BATON ROUGE PARISH* | 22121C0081C | 07-SEP-2000
06 | LA | WEST BATON ROUGE PARISH* | 22121C0087C | 07-SEP-2000
06 | LA | WEST BATON ROUGE PARISH* | 22121C0100C | 07-SEP-2000
06 | LA | WEST BATON ROUGE PARISH* | 22121CIND0 ** | 07-SEP-2000
06 | OK | CHEYENNE, TOWN OF | 40129C0506C | 09-AUG-2000
06 | OK | CHEYENNE, TOWN OF | 40129CIND0 ** | 09-AUG-2000
06 | OK | HAMMON, TOWN OF | 40129C0419C | 09-AUG-2000
06 | OK | HAMMON, TOWN OF | 40129C0557C | 09-AUG-2000
06 | OK | HAMMON, TOWN OF | 40129CIND0 ** | 09-AUG-2000
06 | OK | REYDON, TOWN OF | 40129C0316C | 09-AUG-2000
06 | OK | REYDON, TOWN OF | 40129C0318C | 09-AUG-2000
06 | OK | REYDON, TOWN OF | 40129CIND0 ** | 09-AUG-2000
06 | OK | ROGER MILLS COUNTY* | 40129C0200C | 09-AUG-2000
06 | OK | ROGER MILLS COUNTY* | 40129C0225C | 09-AUG-2000
06 | OK | ROGER MILLS COUNTY* | 40129C0250C | 09-AUG-2000
06 | OK | ROGER MILLS COUNTY* | 40129C0275C | 09-AUG-2000
06 | OK | ROGER MILLS COUNTY* | 40129C0300C | 09-AUG-2000
06 | OK | ROGER MILLS COUNTY* | 40129C0316C | 09-AUG-2000
06 | OK | ROGER MILLS COUNTY* | 40129C0318C | 09-AUG-2000
06 | OK | ROGER MILLS COUNTY* | 40129C0325C | 09-AUG-2000
06 | OK | ROGER MILLS COUNTY* | 40129C0350C | 09-AUG-2000
06 | OK | ROGER MILLS COUNTY* | 40129C0363C | 09-AUG-2000
06 | OK | ROGER MILLS COUNTY* | 40129C0364C | 09-AUG-2000
06 | OK | ROGER MILLS COUNTY* | 40129C0368C | 09-AUG-2000
06 | OK | ROGER MILLS COUNTY* | 40129C0375C | 09-AUG-2000
06 | OK | ROGER MILLS COUNTY* | 40129C0386C | 09-AUG-2000
06 | OK | ROGER MILLS COUNTY* | 40129C0387C | 09-AUG-2000
06 | OK | ROGER MILLS COUNTY* | 40129C0400C | 09-AUG-2000
06 | OK | ROGER MILLS COUNTY* | 40129C0417C | 09-AUG-2000
06 | OK | ROGER MILLS COUNTY* | 40129C0419C | 09-AUG-2000
06 | OK | ROGER MILLS COUNTY* | 40129C0425C | 09-AUG-2000
06 | OK | ROGER MILLS COUNTY* | 40129C0475C | 09-AUG-2000
06 | OK | ROGER MILLS COUNTY* | 40129C0500C | 09-AUG-2000
06 | OK | ROGER MILLS COUNTY* | 40129C0501C | 09-AUG-2000
06 | OK | ROGER MILLS COUNTY* | 40129C0502C | 09-AUG-2000
06 | OK | ROGER MILLS COUNTY* | 40129C0504C | 09-AUG-2000
06 | OK | ROGER MILLS COUNTY* | 40129C0506C | 09-AUG-2000
06 | OK | ROGER MILLS COUNTY* | 40129C0508C | 09-AUG-2000
06 | OK | ROGER MILLS COUNTY* | 40129C0525C | 09-AUG-2000
06 | OK | ROGER MILLS COUNTY* | 40129C0550C | 09-AUG-2000
06 | OK | ROGER MILLS COUNTY* | 40129C0557C | 09-AUG-2000
06 | OK | ROGER MILLS COUNTY* | 40129C0575C | 09-AUG-2000
06 | OK | ROGER MILLS COUNTY* | 40129C0675C | 09-AUG-2000
06 | OK | ROGER MILLS COUNTY* | 40129C0700C | 09-AUG-2000
06 | OK | ROGER MILLS COUNTY* | 40129CIND0 ** | 09-AUG-2000
06 | OK | STRONG CITY, TOWN OF | 40129C0386C | 09-AUG-2000
06 | OK | STRONG CITY, TOWN OF | 40129C0387C | 09-AUG-2000
06 | OK | STRONG CITY, TOWN OF | 40129CIND0 ** | 09-AUG-2000
06 | OK | STROUD, CITY OF | 4004170005A | 23-AUG-2000
06 | OK | STROUD, CITY OF | 4004170010A | 23-AUG-2000
06 | OK | STROUD, CITY OF | 400417IND0 ** | 23-AUG-2000
06 | TX | ARLINGTON, CITY OF | 48439C0317J | 23-AUG-2000
06 | TX | ARLINGTON, CITY OF | 48439C0318J | 23-AUG-2000
06 | TX | ARLINGTON, CITY OF | 48439C0319J | 23-AUG-2000
06 | TX | ARLINGTON, CITY OF | 48439C0330J | 23-AUG-2000
06 | TX | ARLINGTON, CITY OF | 48439C0335J | 23-AUG-2000
06 | TX | ARLINGTON, CITY OF | 48439C0336J | 23-AUG-2000
06 | TX | ARLINGTON, CITY OF | 48439C0337J | 23-AUG-2000
06 | TX | ARLINGTON, CITY OF | 48439C0338J | 23-AUG-2000
06 | TX | ARLINGTON, CITY OF | 48439C0339J | 23-AUG-2000
06 | TX | ARLINGTON, CITY OF | 48439C0341J | 23-AUG-2000
06 | TX | ARLINGTON, CITY OF | 48439C0427J | 23-AUG-2000
06 | TX | ARLINGTON, CITY OF | 48439C0429J | 23-AUG-2000
06 | TX | ARLINGTON, CITY OF | 48439C0431J | 23-AUG-2000
06 | TX | ARLINGTON, CITY OF | 48439C0433J | 23-AUG-2000
06 | TX | ARLINGTON, CITY OF | 48439C0434J | 23-AUG-2000
06 | TX | ARLINGTON, CITY OF | 48439C0440J | 23-AUG-2000
06 | TX | ARLINGTON, CITY OF | 48439C0441J | 23-AUG-2000
06 | TX | ARLINGTON, CITY OF | 48439CIND0 ** | 23-AUG-2000
06 | TX | AZLE, CITY OF | 48439CIND0 ** | 23-AUG-2000
06 | TX | BEDFORD, CITY OF | 48439C0306J | 23-AUG-2000
06 | TX | BEDFORD, CITY OF | 48439C0307J | 23-AUG-2000
06 | TX | BEDFORD, CITY OF | 48439C0309J | 23-AUG-2000
06 | TX | BEDFORD, CITY OF | 48439C0330J | 23-AUG-2000
06 | TX | BEDFORD, CITY OF | 48439CIND0 ** | 23-AUG-2000
06 | TX | BENBROOK, CITY OF | 48439C0385J | 23-AUG-2000
06 | TX | BENBROOK, CITY OF | 48439C0390J | 23-AUG-2000
06 | TX | BENBROOK, CITY OF | 48439C0395J | 23-AUG-2000
06 | TX | BENBROOK, CITY OF | 48439CIND0 ** | 23-AUG-2000
06 | TX | BLUE MOUND, CITY OF | 48439C0280J | 23-AUG-2000
06 | TX | BLUE MOUND, CITY OF | 48439CIND0 ** | 23-AUG-2000
06 | TX | BURLESON, CITY OF | 48439CIND0 ** | 23-AUG-2000
06 | TX | COLLEYVILLE, CITY OF | 48439C0306J | 23-AUG-2000
06 | TX | COLLEYVILLE, CITY OF | 48439C0307J | 23-AUG-2000
06 | TX | COLLEYVILLE, CITY OF | 48439C0330J | 23-AUG-2000
06 | TX | COLLEYVILLE, CITY OF | 48439CIND0 ** | 23-AUG-2000
06 | TX | CROWLEY, CITY OF | 48439C0510J | 23-AUG-2000
06 | TX | CROWLEY, CITY OF | 48439CIND0 ** | 23-AUG-2000
06 | TX | DALWORTHINGTON GARDENS, TOWN OF | 48439C0433J | 23-AUG-2000
06 | TX | DALWORTHINGTON GARDENS, TOWN OF | 48439C0434J | 23-AUG-2000
06 | TX | DALWORTHINGTON GARDENS, TOWN OF | 48439C0441J | 23-AUG-2000
06 | TX | DALWORTHINGTON GARDENS, TOWN OF | 48439CIND0 ** | 23-AUG-2000
06 | TX | EDGECLIFF VILLAGE, TOWN OF | 48439CIND0 ** | 23-AUG-2000
06 | TX | EULESS, CITY OF | 48439C0309J | 23-AUG-2000
06 | TX | EULESS, CITY OF | 48439C0330J | 23-AUG-2000
06 | TX | EULESS, CITY OF | 48439C0335J | 23-AUG-2000
06 | TX | EULESS, CITY OF | 48439C0410J | 23-AUG-2000
06 | TX | EULESS, CITY OF | 48439C0440J | 23-AUG-2000
06 | TX | EULESS, CITY OF | 48439CIND0 ** | 23-AUG-2000
06 | TX | FOREST HILL, CITY OF | 48439CIND0 ** | 23-AUG-2000
06 | TX | FORT WORTH, CITY OF | 48439C0270J | 23-AUG-2000
06 | TX | FORT WORTH, CITY OF | 48439C0280J | 23-AUG-2000
06 | TX | FORT WORTH, CITY OF | 48439C0285J | 23-AUG-2000
06 | TX | FORT WORTH, CITY OF | 48439C0290J | 23-AUG-2000
06 | TX | FORT WORTH, CITY OF | 48439C0295J | 23-AUG-2000
06 | TX | FORT WORTH, CITY OF | 48439C0309J | 23-AUG-2000
06 | TX | FORT WORTH, CITY OF | 48439C0311J | 23-AUG-2000
06 | TX | FORT WORTH, CITY OF | 48439C0312J | 23-AUG-2000
06 | TX | FORT WORTH, CITY OF | 48439C0313J | 23-AUG-2000
06 | TX | FORT WORTH, CITY OF | 48439C0314J | 23-AUG-2000
06 | TX | FORT WORTH, CITY OF | 48439C0316J | 23-AUG-2000
06 | TX | FORT WORTH, CITY OF | 48439C0317J | 23-AUG-2000
06 | TX | FORT WORTH, CITY OF | 48439C0318J | 23-AUG-2000
06 | TX | FORT WORTH, CITY OF | 48439C0319J | 23-AUG-2000
06 | TX | FORT WORTH, CITY OF | 48439C0330J | 23-AUG-2000
06 | TX | FORT WORTH, CITY OF | 48439C0335J | 23-AUG-2000
06 | TX | FORT WORTH, CITY OF | 48439C0336J | 23-AUG-2000
06 | TX | FORT WORTH, CITY OF | 48439C0337J | 23-AUG-2000
06 | TX | FORT WORTH, CITY OF | 48439C0341J | 23-AUG-2000
06 | TX | FORT WORTH, CITY OF | 48439C0382J | 23-AUG-2000
06 | TX | FORT WORTH, CITY OF | 48439C0385J | 23-AUG-2000
06 | TX | FORT WORTH, CITY OF | 48439C0390J | 23-AUG-2000
06 | TX | FORT WORTH, CITY OF | 48439C0395J | 23-AUG-2000
06 | TX | FORT WORTH, CITY OF | 48439C0405J | 23-AUG-2000
06 | TX | FORT WORTH, CITY OF | 48439C0410J | 23-AUG-2000
06 | TX | FORT WORTH, CITY OF | 48439C0427J | 23-AUG-2000
06 | TX | FORT WORTH, CITY OF | 48439C0431J | 23-AUG-2000
06 | TX | FORT WORTH, CITY OF | 48439C0440J | 23-AUG-2000
06 | TX | FORT WORTH, CITY OF | 48439C0510J | 23-AUG-2000
06 | TX | FORT WORTH, CITY OF | 48439CIND0 ** | 23-AUG-2000
06 | TX | HALTOM CITY, CITY OF | 48439C0285J | 23-AUG-2000
06 | TX | HALTOM CITY, CITY OF | 48439C0295J | 23-AUG-2000
06 | TX | HALTOM CITY, CITY OF | 48439C0311J | 23-AUG-2000
06 | TX | HALTOM CITY, CITY OF | 48439CIND0 ** | 23-AUG-2000
06 | TX | HURST, CITY OF | 48439C0302J | 23-AUG-2000
06 | TX | HURST, CITY OF | 48439C0304J | 23-AUG-2000
06 | TX | HURST, CITY OF | 48439C0306J | 23-AUG-2000
06 | TX | HURST, CITY OF | 48439C0309J | 23-AUG-2000
06 | TX | HURST, CITY OF | 48439C0312J | 23-AUG-2000
06 | TX | HURST, CITY OF | 48439C0316J | 23-AUG-2000
06 | TX | HURST, CITY OF | 48439C0317J | 23-AUG-2000
06 | TX | HURST, CITY OF | 48439CIND0 ** | 23-AUG-2000
06 | TX | INGRAM, CITY OF | 48265C0165E | 19-JUL-2000
06 | TX | INGRAM, CITY OF | 48265CIND0 ** | 19-JUL-2000
06 | TX | KENNEDALE, CITY OF | 48439C0440J | 23-AUG-2000
06 | TX | KENNEDALE, CITY OF | 48439CIND0 ** | 23-AUG-2000
06 | TX | KERR COUNTY* | 48265C0025E | 19-JUL-2000
06 | TX | KERR COUNTY* | 48265C0050E | 19-JUL-2000
06 | TX | KERR COUNTY* | 48265C0075E | 19-JUL-2000
06 | TX | KERR COUNTY* | 48265C0100E | 19-JUL-2000
06 | TX | KERR COUNTY* | 48265C0125E | 19-JUL-2000
06 | TX | KERR COUNTY* | 48265C0150E | 19-JUL-2000
06 | TX | KERR COUNTY* | 48265C0165E | 19-JUL-2000
06 | TX | KERR COUNTY* | 48265C0170E | 19-JUL-2000
06 | TX | KERR COUNTY* | 48265C0175E | 19-JUL-2000
06 | TX | KERR COUNTY* | 48265C0200E | 19-JUL-2000
06 | TX | KERR COUNTY* | 48265C0225E | 19-JUL-2000
06 | TX | KERR COUNTY* | 48265C0250E | 19-JUL-2000
06 | TX | KERR COUNTY* | 48265C0260E | 19-JUL-2000
06 | TX | KERR COUNTY* | 48265C0275E | 19-JUL-2000
06 | TX | KERR COUNTY* | 48265C0300E | 19-JUL-2000
06 | TX | KERR COUNTY* | 48265C0325E | 19-JUL-2000
06 | TX | KERR COUNTY* | 48265C0350E | 19-JUL-2000
06 | TX | KERR COUNTY* | 48265CIND0 ** | 19-JUL-2000
06 | TX | KERRVILLE, CITY OF | 48265C0165E | 19-JUL-2000
06 | TX | KERRVILLE, CITY OF | 48265C0170E | 19-JUL-2000
06 | TX | KERRVILLE, CITY OF | 48265C0260E | 19-JUL-2000
06 | TX | KERRVILLE, CITY OF | 48265C0275E | 19-JUL-2000
06 | TX | KERRVILLE, CITY OF | 48265CIND0 ** | 19-JUL-2000
06 | TX | LAKE WORTH, CITY OF | 48439C0270J | 23-AUG-2000
06 | TX | LAKE WORTH, CITY OF | 48439CIND0 ** | 23-AUG-2000
06 | TX | NORTH RICHLAND HILLS, CITY OF | 48439C0295J | 23-AUG-2000
06 | TX | NORTH RICHLAND HILLS, CITY OF | 48439C0302J | 23-AUG-2000
06 | TX | NORTH RICHLAND HILLS, CITY OF | 48439C0304J | 23-AUG-2000
06 | TX | NORTH RICHLAND HILLS, CITY OF | 48439C0306J | 23-AUG-2000
06 | TX | NORTH RICHLAND HILLS, CITY OF | 48439C0311J | 23-AUG-2000
06 | TX | NORTH RICHLAND HILLS, CITY OF | 48439CIND0 ** | 23-AUG-2000
06 | TX | PANTEGO, TOWN OF | 48439C0431J | 23-AUG-2000
06 | TX | PANTEGO, TOWN OF | 48439C0433J | 23-AUG-2000
06 | TX | PANTEGO, TOWN OF | 48439C0434J | 23-AUG-2000
06 | TX | PANTEGO, TOWN OF | 48439CIND0 ** | 23-AUG-2000
06 | TX | RICHLAND HILLS, CITY OF | 48439C0304J | 23-AUG-2000
06 | TX | RICHLAND HILLS, CITY OF | 48439C0311J | 23-AUG-2000
06 | TX | RICHLAND HILLS, CITY OF | 48439C0312J | 23-AUG-2000
06 | TX | RICHLAND HILLS, CITY OF | 48439CIND0 ** | 23-AUG-2000
06 | TX | RIVER OAKS, CITY OF | 48439C0270J | 23-AUG-2000
06 | TX | RIVER OAKS, CITY OF | 48439CIND0 ** | 23-AUG-2000
06 | TX | SAGINAW, CITY OF | 48439C0280J | 23-AUG-2000
06 | TX | SAGINAW, CITY OF | 48439CIND0 ** | 23-AUG-2000
06 | TX | SANSOM PARK VILLAGE, CITY OF | 48439C0270J | 23-AUG-2000
06 | TX | SANSOM PARK VILLAGE, CITY OF | 48439CIND0 ** | 23-AUG-2000
06 | TX | TARRANT COUNTY* | 48439C0270J | 23-AUG-2000
06 | TX | TARRANT COUNTY* | 48439C0280J | 23-AUG-2000
06 | TX | TARRANT COUNTY* | 48439C0285J | 23-AUG-2000
06 | TX | TARRANT COUNTY* | 48439C0290J | 23-AUG-2000
06 | TX | TARRANT COUNTY* | 48439C0295J | 23-AUG-2000
06 | TX | TARRANT COUNTY* | 48439C0302J | 23-AUG-2000
06 | TX | TARRANT COUNTY* | 48439C0304J | 23-AUG-2000
06 | TX | TARRANT COUNTY* | 48439C0306J | 23-AUG-2000
06 | TX | TARRANT COUNTY* | 48439C0307J | 23-AUG-2000
06 | TX | TARRANT COUNTY* | 48439C0309J | 23-AUG-2000
06 | TX | TARRANT COUNTY* | 48439C0311J | 23-AUG-2000
06 | TX | TARRANT COUNTY* | 48439C0312J | 23-AUG-2000
06 | TX | TARRANT COUNTY* | 48439C0313J | 23-AUG-2000
06 | TX | TARRANT COUNTY* | 48439C0314J | 23-AUG-2000
06 | TX | TARRANT COUNTY* | 48439C0316J | 23-AUG-2000
06 | TX | TARRANT COUNTY* | 48439C0317J | 23-AUG-2000
06 | TX | TARRANT COUNTY* | 48439C0318J | 23-AUG-2000
06 | TX | TARRANT COUNTY* | 48439C0319J | 23-AUG-2000
06 | TX | TARRANT COUNTY* | 48439C0330J | 23-AUG-2000
06 | TX | TARRANT COUNTY* | 48439C0335J | 23-AUG-2000
06 | TX | TARRANT COUNTY* | 48439C0336J | 23-AUG-2000
06 | TX | TARRANT COUNTY* | 48439C0337J | 23-AUG-2000
06 | TX | TARRANT COUNTY* | 48439C0338J | 23-AUG-2000
06 | TX | TARRANT COUNTY* | 48439C0339J | 23-AUG-2000
06 | TX | TARRANT COUNTY* | 48439C0341J | 23-AUG-2000
06 | TX | TARRANT COUNTY* | 48439C0382J | 23-AUG-2000
06 | TX | TARRANT COUNTY* | 48439C0385J | 23-AUG-2000
06 | TX | TARRANT COUNTY* | 48439C0390J | 23-AUG-2000
06 | TX | TARRANT COUNTY* | 48439C0395J | 23-AUG-2000
06 | TX | TARRANT COUNTY* | 48439C0405J | 23-AUG-2000
06 | TX | TARRANT COUNTY* | 48439C0410J | 23-AUG-2000
06 | TX | TARRANT COUNTY* | 48439C0427J | 23-AUG-2000
06 | TX | TARRANT COUNTY* | 48439C0429J | 23-AUG-2000
06 | TX | TARRANT COUNTY* | 48439C0431J | 23-AUG-2000
06 | TX | TARRANT COUNTY* | 48439C0433J | 23-AUG-2000
06 | TX | TARRANT COUNTY* | 48439C0434J | 23-AUG-2000
06 | TX | TARRANT COUNTY* | 48439C0440J | 23-AUG-2000
06 | TX | TARRANT COUNTY* | 48439C0441J | 23-AUG-2000
06 | TX | TARRANT COUNTY* | 48439C0510J | 23-AUG-2000
06 | TX | TARRANT COUNTY* | 48439CIND0 ** | 23-AUG-2000
06 | TX | TOM GREEN COUNTY * | 4806220260C | 19-JUL-2000
06 | TX | TOM GREEN COUNTY * | 4806220280C | 19-JUL-2000
06 | TX | TOM GREEN COUNTY * | 480622IND0 ** | 19-JUL-2000
06 | TX | WESTOVER HILLS, TOWN OF | 48439C0270J | 23-AUG-2000
06 | TX | WESTOVER HILLS, TOWN OF | 48439C0382J | 23-AUG-2000
06 | TX | WESTOVER HILLS, TOWN OF | 48439CIND0 ** | 23-AUG-2000
06 | TX | WESTWORTH VILLAGE, VILLAGE OF | 48439C0270J | 23-AUG-2000
06 | TX | WESTWORTH VILLAGE, VILLAGE OF | 48439CIND0 ** | 23-AUG-2000
06 | TX | WHITE SETTLEMENT, CITY OF | 48439C0270J | 23-AUG-2000
06 | TX | WHITE SETTLEMENT, CITY OF | 48439CIND0 ** | 23-AUG-2000
07 | IA | BUTLER COUNTY * | 1908500025B | 06-NOV-2000
07 | IA | BUTLER COUNTY * | 1908500050B | 06-NOV-2000
07 | IA | BUTLER COUNTY * | 1908500075B | 06-NOV-2000
07 | IA | BUTLER COUNTY * | 1908500100B | 06-NOV-2000
07 | IA | BUTLER COUNTY * | 1908500125B | 06-NOV-2000
07 | IA | BUTLER COUNTY * | 1908500150B | 06-NOV-2000
07 | IA | BUTLER COUNTY * | 190850IND0 ** | 06-NOV-2000
07 | IA | HARRISON COUNTY | 1901430025A | 09-AUG-2000
07 | IA | HARRISON COUNTY | 1901430050A | 09-AUG-2000
07 | IA | HARRISON COUNTY | 1901430075A | 09-AUG-2000
07 | IA | HARRISON COUNTY | 1901430100A | 09-AUG-2000
07 | IA | HARRISON COUNTY | 1901430125A | 09-AUG-2000
07 | IA | HARRISON COUNTY | 1901430150A | 09-AUG-2000
07 | IA | HARRISON COUNTY | 1901430175A | 09-AUG-2000
07 | IA | HARRISON COUNTY | 1901430200A | 09-AUG-2000
07 | IA | HARRISON COUNTY | 1901430225A | 09-AUG-2000
07 | IA | HARRISON COUNTY | 190143IND0 ** | 09-AUG-2000
07 | IA | JOHNSTON, CITY OF | 1907450001D | 19-JUL-2000
07 | IA | JOHNSTON, CITY OF | 1907450002D | 19-JUL-2000
07 | IA | JOHNSTON, CITY OF | 1907450003D | 19-JUL-2000
07 | IA | JOHNSTON, CITY OF | 1907450004D | 19-JUL-2000
07 | IA | JOHNSTON, CITY OF | 1907450005D | 19-JUL-2000
07 | IA | JOHNSTON, CITY OF | 1907450006D | 19-JUL-2000
07 | IA | JOHNSTON, CITY OF | 190745IND0 ** | 19-JUL-2000
07 | IA | POLK COUNTY * | 1909010085D | 19-JUL-2000
07 | IA | POLK COUNTY * | 1909010095D | 19-JUL-2000
07 | IA | POLK COUNTY * | 1909010115D | 19-JUL-2000
07 | IA | POLK COUNTY * | 190901IND0 ** | 19-JUL-2000
07 | IA | URBANDALE, CITY OF | 1902300005D | 19-JUL-2000
07 | IA | URBANDALE, CITY OF | 1902300010D | 19-JUL-2000
07 | IA | URBANDALE, CITY OF | 190230IND0 ** | 19-JUL-2000
07 | IA | WELLMAN, CITY OF | 1902760001A | 06-OCT-2000
07 | KS | ARLINGTON, CITY OF | 20155CIND0 ** | 19-JUL-2000
07 | KS | HOLTON, CITY OF | 2001410005D | 19-JUL-2000
07 | KS | HUTCHINSON, CITY OF | 20155C0290E | 19-JUL-2000
07 | KS | HUTCHINSON, CITY OF | 20155C0295E | 19-JUL-2000
07 | KS | HUTCHINSON, CITY OF | 20155CIND0 ** | 19-JUL-2000
07 | KS | JACKSON COUNTY * | 2006190095C | 19-JUL-2000
07 | KS | JACKSON COUNTY * | 2006190100C | 19-JUL-2000
07 | KS | JACKSON COUNTY * | 2006190175C | 19-JUL-2000
07 | KS | JACKSON COUNTY * | 200619IND0 ** | 19-JUL-2000
07 | KS | NICKERSON, CITY OF | 20155CIND0 ** | 19-JUL-2000
07 | KS | PARTRIDGE, CITY OF | 20155CIND0 ** | 19-JUL-2000
07 | KS | PRETTY PRAIRIE, CITY OF | 20155CIND0 ** | 19-JUL-2000
07 | KS | RENO COUNTY * | 20155C0290E | 19-JUL-2000
07 | KS | RENO COUNTY * | 20155C0295E | 19-JUL-2000
07 | KS | RENO COUNTY * | 20155CIND0 ** | 19-JUL-2000
07 | KS | SOUTH HUTCHINSON, CITY OF | 20155C0290E | 19-JUL-2000
07 | KS | SOUTH HUTCHINSON, CITY OF | 20155C0295E | 19-JUL-2000
07 | KS | SOUTH HUTCHINSON, CITY OF | 20155CIND0 ** | 19-JUL-2000
07 | KS | TURON, CITY OF | 20155CIND0 ** | 19-JUL-2000
07 | KS | TURON, CITY OF—USE CID # 200865 | 20155CIND0 ** | 19-JUL-2000
07 | KS | WILLOWBROOK, CITY OF | 20155CIND0 ** | 19-JUL-2000
07 | MO | BALLWIN, CITY OF | 29189CIND0 ** | 23-AUG-2000
07 | MO | BEL-RIDGE, VILLAGE OF | 29189CIND0 ** | 23-AUG-2000
07 | MO | BELLA VILLA, CITY OF | 29189CIND0 ** | 23-AUG-2000
07 | MO | BELLEFONTAINE NEIGHBORS, CITY OF | 29189CIND0 ** | 23-AUG-2000
07 | MO | BERKELEY, CITY OF | 29189C0064J | 23-AUG-2000
07 | MO | BERKELEY, CITY OF | 29189CIND0 ** | 23-AUG-2000
07 | MO | BLACK JACK, CITY OF | 29189CIND0 ** | 23-AUG-2000
07 | MO | BRECKENRIDGE HILLS, CITY OF | 29189CIND0 ** | 23-AUG-2000
07 | MO | BRENTWOOD, CITY OF | 29189CIND0 ** | 23-AUG-2000
07 | MO | BRIDGETON, CITY OF | 29189CIND0 ** | 23-AUG-2000
07 | MO | CHARLACK, CITY OF | 29189CIND0 ** | 23-AUG-2000
07 | MO | CHESTERFIELD, CITY OF | 29189CIND0 ** | 23-AUG-2000
07 | MO | CLARKSON VALLEY, CITY OF | 29189CIND0 ** | 23-AUG-2000
07 | MO | CLAYTON, CITY OF | 29189CIND0 ** | 23-AUG-2000
07 | MO | COOL VALLEY, VILLAGE OF | 29189CIND0 ** | 23-AUG-2000
07 | MO | CRESTWOOD, CITY OF | 29189CIND0 ** | 23-AUG-2000
07 | MO | CREVE COEUR, CITY OF | 29189C0166J | 23-AUG-2000
07 | MO | CREVE COEUR, CITY OF | 29189C0168J | 23-AUG-2000
07 | MO | CREVE COEUR, CITY OF | 29189C0169J | 23-AUG-2000
07 | MO | CREVE COEUR, CITY OF | 29189CIND0 ** | 23-AUG-2000
07 | MO | DES PERES, CITY OF | 29189C0276J** | 23-AUG-2000
07 | MO | DES PERES, CITY OF | 29189C0279J | 23-AUG-2000
07 | MO | DES PERES, CITY OF | 29189C0281J | 23-AUG-2000
07 | MO | DES PERES, CITY OF | 29189CIND0 ** | 23-AUG-2000
07 | MO | ELLISVILLE, CITY OF | 29189CIND0 ** | 23-AUG-2000
07 | MO | EUREKA, CITY OF | 29189CIND0 ** | 23-AUG-2000
07 | MO | FENTON, CITY OF | 29189CIND0 ** | 23-AUG-2000
07 | MO | FERGUSON, CITY OF | 29189C0064J | 23-AUG-2000
07 | MO | FERGUSON, CITY OF | 29189CIND0 ** | 23-AUG-2000
07 | MO | FLORISSANT, CITY OF | 29189C0054J | 23-AUG-2000
07 | MO | FLORISSANT, CITY OF | 29189C0061J | 23-AUG-2000
07 | MO | FLORISSANT, CITY OF | 29189C0062J | 23-AUG-2000
07 | MO | FLORISSANT, CITY OF | 29189C0064J | 23-AUG-2000
07 | MO | FLORISSANT, CITY OF | 29189C0066J | 23-AUG-2000
07 | MO | FLORISSANT, CITY OF | 29189CIND0 ** | 23-AUG-2000
07 | MO | FRONTENAC, CITY OF | 29189C0168J | 23-AUG-2000
07 | MO | FRONTENAC, CITY OF | 29189C0169J | 23-AUG-2000
07 | MO | FRONTENAC, CITY OF | 29189C0281J | 23-AUG-2000
07 | MO | FRONTENAC, CITY OF | 29189CIND0 ** | 23-AUG-2000
07 | MO | GRANTWOOD VILLAGE, TOWN OF | 29189CIND0 ** | 23-AUG-2000
07 | MO | HANLEY HILLS, VILLAGE OF | 29189CIND0 ** | 23-AUG-2000
07 | MO | HAZELWOOD, CITY OF | 29189C0061J | 23-AUG-2000
07 | MO | HAZELWOOD, CITY OF | 29189C0062J | 23-AUG-2000
07 | MO | HAZELWOOD, CITY OF | 29189C0064J | 23-AUG-2000
07 | MO | HAZELWOOD, CITY OF | 29189CIND0 ** | 23-AUG-2000
07 | MO | HUNTLEIGH, TOWN OF | 29189C0168J | 23-AUG-2000
07 | MO | HUNTLEIGH, TOWN OF | 29189C0281J | 23-AUG-2000
07 | MO | HUNTLEIGH, TOWN OF | 29189CIND0 ** | 23-AUG-2000
07 | MO | JENNINGS, CITY OF | 29189CIND0 ** | 23-AUG-2000
07 | MO | KINLOCH, CITY OF | 29189CIND0 ** | 23-AUG-2000
07 | MO | KIRKWOOD, CITY OF | 29189C0279J | 23-AUG-2000
07 | MO | KIRKWOOD, CITY OF | 29189C0281J | 23-AUG-2000
07 | MO | KIRKWOOD, CITY OF | 29189CIND0 ** | 23-AUG-2000
07 | MO | LADUE,CITY OF | 29189C0169J | 23-AUG-2000
07 | MO | LADUE,CITY OF | 29189CIND0 ** | 23-AUG-2000
07 | MO | LAKESHIRE, CITY OF | 29189CIND0 ** | 23-AUG-2000
07 | MO | MANCHESTER, CITY OF | 29189CIND0 ** | 23-AUG-2000
07 | MO | MAPLEWOOD, CITY OF | 29189CIND0 ** | 23-AUG-2000
07 | MO | MARYLAND HEIGHTS, CITY OF | 29189CIND0 ** | 23-AUG-2000
07 | MO | MOLINE ACRES, CITY OF | 29189CIND0 ** | 23-AUG-2000
07 | MO | NORTHWOODS, CITY OF | 29189CIND0 ** | 23-AUG-2000
07 | MO | NORWOOD COURT, VILLAGE OF | 29189CIND0 ** | 23-AUG-2000
07 | MO | OAKLAND, CITY OF | 29189CIND0 ** | 23-AUG-2000
07 | MO | OLIVETTE, CITY OF | 29189CIND0 ** | 23-AUG-2000
07 | MO | OVERLAND, CITY OF | 29189CIND0 ** | 23-AUG-2000
07 | MO | PAGEDALE, CITY OF | 29189CIND0 ** | 23-AUG-2000
07 | MO | RICHMOND HEIGHTS, CITY OF | 29189CIND0 ** | 23-AUG-2000
07 | MO | RIVERVIEW, VILLAGE OF | 29189CIND0 ** | 23-AUG-2000
07 | MO | ROCK HILL, CITY OF | 29189CIND0 ** | 23-AUG-2000
07 | MO | SHREWSBURY, CITY OF | 29189CIND0 ** | 23-AUG-2000
07 | MO | ST. ANN, CITY OF | 29189CIND0 ** | 23-AUG-2000
07 | MO | ST. JOHN, CITY OF | 29189CIND0 ** | 23-AUG-2000
07 | MO | ST. LOUIS COUNTY * | 29189C0054J | 23-AUG-2000
07 | MO | ST. LOUIS COUNTY * | 29189C0061J | 23-AUG-2000
07 | MO | ST. LOUIS COUNTY * | 29189C0062J | 23-AUG-2000
07 | MO | ST. LOUIS COUNTY * | 29189C0064J | 23-AUG-2000
07 | MO | ST. LOUIS COUNTY * | 29189C0066J | 23-AUG-2000
07 | MO | ST. LOUIS COUNTY * | 29189C0166J | 23-AUG-2000
07 | MO | ST. LOUIS COUNTY * | 29189C0168J | 23-AUG-2000
07 | MO | ST. LOUIS COUNTY * | 29189C0169J | 23-AUG-2000
07 | MO | ST. LOUIS COUNTY * | 29189C0276J** | 23-AUG-2000
07 | MO | ST. LOUIS COUNTY * | 29189C0278J | 23-AUG-2000
07 | MO | ST. LOUIS COUNTY * | 29189C0279J | 23-AUG-2000
07 | MO | ST. LOUIS COUNTY * | 29189C0281J | 23-AUG-2000
07 | MO | ST. LOUIS COUNTY * | 29189CIND0 ** | 23-AUG-2000
07 | MO | SUNSET HILLS, CITY OF | 29189CIND0 ** | 23-AUG-2000
07 | MO | TOWN AND COUNTRY, CITY OF | 29189C0168J | 23-AUG-2000
07 | MO | TOWN AND COUNTRY, CITY OF | 29189C0276J** | 23-AUG-2000
07 | MO | TOWN AND COUNTRY, CITY OF | 29189C0281J | 23-AUG-2000
07 | MO | TOWN AND COUNTRY, CITY OF | 29189CIND0 ** | 23-AUG-2000
07 | MO | VALLEY PARK, CITY OF | 29189C0278J | 23-AUG-2000
07 | MO | VALLEY PARK, CITY OF | 29189CIND0 ** | 23-AUG-2000
07 | MO | VELDA VILLAGE HILLS, VILLAGE OF | 29189CIND0 ** | 23-AUG-2000
07 | MO | WEBSTER GROVES, CITY OF | 29189CIND0 ** | 23-AUG-2000
07 | MO | WELLSTON, CITY OF | 29189CIND0 ** | 23-AUG-2000
07 | MO | WESTWOOD, TOWN OF | 29189C0168J | 23-AUG-2000
07 | MO | WESTWOOD, TOWN OF | 29189CIND0 ** | 23-AUG-2000
07 | MO | WINCHESTER, CITY OF | 29189CIND0 ** | 23-AUG-2000
08 | CO | WILEY, TOWN OF | 0802280001A | 06-OCT-2000
08 | ND | BENSON COUNTY* | 38005C0075B | 20-DEC-2000
08 | ND | BENSON COUNTY* | 38005C0150B | 20-DEC-2000
08 | ND | BENSON COUNTY* | 38005C0225B | 20-DEC-2000
08 | ND | BENSON COUNTY* | 38005C0250B | 20-DEC-2000
08 | ND | BENSON COUNTY* | 38005C0275B | 20-DEC-2000
08 | ND | BENSON COUNTY* | 38005C0375B | 20-DEC-2000
08 | ND | BENSON COUNTY* | 38005C0400B | 20-DEC-2000
08 | ND | BENSON COUNTY* | 38005CIND0 ** | 20-DEC-2000
08 | ND | BRINSMADE, CITY OF | 38005C0150B | 20-DEC-2000
08 | ND | BRINSMADE, CITY OF | 38005CIND0 ** | 20-DEC-2000
08 | ND | BROCKET, CITY OF | 38071CIND0 ** | 20-DEC-2000
08 | ND | CHURCHS FERRY, CITY OF | 38071C0125C | 20-DEC-2000
08 | ND | CHURCHS FERRY, CITY OF | 38071C0225C | 20-DEC-2000
08 | ND | CHURCHS FERRY, CITY OF | 38071CIND0 ** | 20-DEC-2000
08 | ND | COULEE, TOWNSHIP OF | 38071C0125C | 20-DEC-2000
08 | ND | COULEE, TOWNSHIP OF | 38071C0225C | 20-DEC-2000
08 | ND | COULEE, TOWNSHIP OF | 38071CIND0 ** | 20-DEC-2000
08 | ND | CREEL, TOWNSHIP OF | 38071C0250C | 20-DEC-2000
08 | ND | CREEL, TOWNSHIP OF | 38071C0330C | 20-DEC-2000
08 | ND | CREEL, TOWNSHIP OF | 38071C0350C | 20-DEC-2000
08 | ND | CREEL, TOWNSHIP OF | 38071CIND0 ** | 20-DEC-2000
08 | ND | DEVILS LAKE, CITY OF | 38071C0330C | 20-DEC-2000
08 | ND | DEVILS LAKE, CITY OF | 38071CIND0 ** | 20-DEC-2000
08 | ND | LAWTON, CITY OF | 38071CIND0 ** | 20-DEC-2000
08 | ND | MINNEWAUKAN, CITY OF | 38005C0225B | 20-DEC-2000
08 | ND | MINNEWAUKAN, CITY OF | 38005CIND0 ** | 20-DEC-2000
08 | ND | OBERON, CITY OF | 38005CIND0 ** | 20-DEC-2000
08 | ND | RAMSEY COUNTY* | 38071C0125C | 20-DEC-2000
08 | ND | RAMSEY COUNTY* | 38071C0150C | 20-DEC-2000
08 | ND | RAMSEY COUNTY* | 38071C0225C | 20-DEC-2000
08 | ND | RAMSEY COUNTY* | 38071C0250C | 20-DEC-2000
08 | ND | RAMSEY COUNTY* | 38071C0325C | 20-DEC-2000
08 | ND | RAMSEY COUNTY* | 38071C0330C | 20-DEC-2000
08 | ND | RAMSEY COUNTY* | 38071C0350C | 20-DEC-2000
08 | ND | RAMSEY COUNTY* | 38071C0375C | 20-DEC-2000
08 | ND | RAMSEY COUNTY* | 38071C0450C | 20-DEC-2000
08 | ND | RAMSEY COUNTY* | 38071CIND0 ** | 20-DEC-2000
08 | ND | SPIRIT LAKE TRIBE | 38005C0225B | 20-DEC-2000
08 | ND | SPIRIT LAKE TRIBE | 38005C0250B | 20-DEC-2000
08 | ND | SPIRIT LAKE TRIBE | 38005C0275B | 20-DEC-2000
08 | ND | SPIRIT LAKE TRIBE | 38005C0375B | 20-DEC-2000
08 | ND | SPIRIT LAKE TRIBE | 38005C0400B | 20-DEC-2000
08 | ND | SPIRIT LAKE TRIBE | 38005CIND0 ** | 20-DEC-2000
08 | ND | STARKWEATHER, CITY OF | 38071CIND0 ** | 20-DEC-2000
08 | WY | CHUGWATER, TOWN OF | 560041 B*** | 01-SEP-2000
08 | WY | CHUGWATER, TOWN OF | 5600419999B*** | 01-SEP-2000
09 | AZ | MOHAVE COUNTY* | 0400582120D | 20-OCT-2000
09 | AZ | MOHAVE COUNTY* | 0400582125D | 20-OCT-2000
09 | AZ | MOHAVE COUNTY* | 0400582140C | 20-OCT-2000
09 | AZ | MOHAVE COUNTY* | 0400582145C | 20-OCT-2000
09 | AZ | MOHAVE COUNTY* | 0400582150C | 20-OCT-2000
09 | AZ | MOHAVE COUNTY* | 0400582285C | 20-OCT-2000
09 | AZ | MOHAVE COUNTY* | 0400582300C | 20-OCT-2000
09 | AZ | MOHAVE COUNTY* | 0400582305C | 20-OCT-2000
09 | AZ | MOHAVE COUNTY* | 0400582310C | 20-OCT-2000
09 | AZ | MOHAVE COUNTY* | 0400582325C | 20-OCT-2000
09 | AZ | MOHAVE COUNTY* | 040058IND1 ** | 20-OCT-2000
09 | AZ | MOHAVE COUNTY* | 040058IND2 ** | 20-OCT-2000
09 | AZ | SANTA CRUZ COUNTY* | 0400900020B | 23-AUG-2000
09 | AZ | SANTA CRUZ COUNTY* | 040090IND0 ** | 23-AUG-2000
09 | CA | CLAREMONT, CITY OF | 0601090005A | 20-NOV-2000
09 | HI | HONOLULU COUNTY* | 15003C0010E | 20-NOV-2000
09 | HI | HONOLULU COUNTY* | 15003C0020E | 20-NOV-2000
09 | HI | HONOLULU COUNTY* | 15003C0030E | 20-NOV-2000
09 | HI | HONOLULU COUNTY* | 15003C0035E | 20-NOV-2000
09 | HI | HONOLULU COUNTY* | 15003C0040E | 20-NOV-2000
09 | HI | HONOLULU COUNTY* | 15003C0045E | 20-NOV-2000
09 | HI | HONOLULU COUNTY* | 15003C0085E | 20-NOV-2000
09 | HI | HONOLULU COUNTY* | 15003C0090E | 20-NOV-2000
09 | HI | HONOLULU COUNTY* | 15003C0105E | 20-NOV-2000
09 | HI | HONOLULU COUNTY* | 15003C0110E | 20-NOV-2000
09 | HI | HONOLULU COUNTY* | 15003C0115E | 20-NOV-2000
09 | HI | HONOLULU COUNTY* | 15003C0135E | 20-NOV-2000
09 | HI | HONOLULU COUNTY* | 15003C0155E | 20-NOV-2000
09 | HI | HONOLULU COUNTY* | 15003C0165E | 20-NOV-2000
09 | HI | HONOLULU COUNTY* | 15003C0170E | 20-NOV-2000
09 | HI | HONOLULU COUNTY* | 15003C0180E | 20-NOV-2000
09 | HI | HONOLULU COUNTY* | 15003C0185E | 20-NOV-2000
09 | HI | HONOLULU COUNTY* | 15003C0195E | 20-NOV-2000
09 | HI | HONOLULU COUNTY* | 15003C0209E | 20-NOV-2000
09 | HI | HONOLULU COUNTY* | 15003C0215E | 20-NOV-2000
09 | HI | HONOLULU COUNTY* | 15003C0220E | 20-NOV-2000
09 | HI | HONOLULU COUNTY* | 15003C0226E | 20-NOV-2000
09 | HI | HONOLULU COUNTY* | 15003C0228E | 20-NOV-2000
09 | HI | HONOLULU COUNTY* | 15003C0237E | 20-NOV-2000
09 | HI | HONOLULU COUNTY* | 15003C0239E | 20-NOV-2000
09 | HI | HONOLULU COUNTY* | 15003C0240E** | 20-NOV-2000
09 | HI | HONOLULU COUNTY* | 15003C0240E | 20-NOV-2000
09 | HI | HONOLULU COUNTY* | 15003C0245E | 20-NOV-2000
09 | HI | HONOLULU COUNTY* | 15003C0255E | 20-NOV-2000
09 | HI | HONOLULU COUNTY* | 15003C0260E | 20-NOV-2000
09 | HI | HONOLULU COUNTY* | 15003C0265E | 20-NOV-2000
09 | HI | HONOLULU COUNTY* | 15003C0270E | 20-NOV-2000
09 | HI | HONOLULU COUNTY* | 15003C0280E | 20-NOV-2000
09 | HI | HONOLULU COUNTY* | 15003C0290E | 20-NOV-2000
09 | HI | HONOLULU COUNTY* | 15003C0295E | 20-NOV-2000
09 | HI | HONOLULU COUNTY* | 15003C0305E | 20-NOV-2000
09 | HI | HONOLULU COUNTY* | 15003C0310E | 20-NOV-2000
09 | HI | HONOLULU COUNTY* | 15003C0315E | 20-NOV-2000
09 | HI | HONOLULU COUNTY* | 15003C0320E | 20-NOV-2000
09 | HI | HONOLULU COUNTY* | 15003C0330E | 20-NOV-2000
09 | HI | HONOLULU COUNTY* | 15003C0335E | 20-NOV-2000
09 | HI | HONOLULU COUNTY* | 15003C0340E | 20-NOV-2000
09 | HI | HONOLULU COUNTY* | 15003C0351E | 20-NOV-2000
09 | HI | HONOLULU COUNTY* | 15003C0352E | 20-NOV-2000
09 | HI | HONOLULU COUNTY* | 15003C0353E | 20-NOV-2000
09 | HI | HONOLULU COUNTY* | 15003C0354E | 20-NOV-2000
09 | HI | HONOLULU COUNTY* | 15003C0360E | 20-NOV-2000
09 | HI | HONOLULU COUNTY* | 15003C0365E | 20-NOV-2000
09 | HI | HONOLULU COUNTY* | 15003C0370E | 20-NOV-2000
09 | HI | HONOLULU COUNTY* | 15003C0380E | 20-NOV-2000
09 | HI | HONOLULU COUNTY* | 15003C0385E | 20-NOV-2000
09 | HI | HONOLULU COUNTY* | 15003C0390E | 20-NOV-2000
09 | HI | HONOLULU COUNTY* | 15003C0395E | 20-NOV-2000
09 | HI | HONOLULU COUNTY* | 15003CIND0 ** | 20-NOV-2000
09 | NV | MINERAL COUNTY * | 3200170410B | 19-JUL-2000
09 | NV | MINERAL COUNTY * | 3200170440B | 19-JUL-2000
09 | NV | MINERAL COUNTY * | 3200170605B | 19-JUL-2000
09 | NV | MINERAL COUNTY * | 3200170655B | 19-JUL-2000
09 | NV | MINERAL COUNTY * | 320017IND0 ** | 19-JUL-2000
10 | ID | ADAMS COUNTY* | 16003C0050B | 20-NOV-2000
10 | ID | ADAMS COUNTY* | 16003C0125B | 20-NOV-2000
10 | ID | ADAMS COUNTY* | 16003C0150B | 20-NOV-2000
10 | ID | ADAMS COUNTY* | 16003C0200B | 20-NOV-2000
10 | ID | ADAMS COUNTY* | 16003C0225B | 20-NOV-2000
10 | ID | ADAMS COUNTY* | 16003C0240B | 20-NOV-2000
10 | ID | ADAMS COUNTY* | 16003C0250B | 20-NOV-2000
10 | ID | ADAMS COUNTY* | 16003C0300B | 20-NOV-2000
10 | ID | ADAMS COUNTY* | 16003C0325B | 20-NOV-2000
10 | ID | ADAMS COUNTY* | 16003C0330B | 20-NOV-2000
10 | ID | ADAMS COUNTY* | 16003C0350B | 20-NOV-2000
10 | ID | ADAMS COUNTY* | 16003C0375B | 20-NOV-2000
10 | ID | ADAMS COUNTY* | 16003C0395B | 20-NOV-2000
10 | ID | ADAMS COUNTY* | 16003C0400B | 20-NOV-2000
10 | ID | ADAMS COUNTY* | 16003C0425B | 20-NOV-2000
10 | ID | ADAMS COUNTY* | 16003C0450B | 20-NOV-2000
10 | ID | ADAMS COUNTY* | 16003C0475B | 20-NOV-2000
10 | ID | ADAMS COUNTY* | 16003C0525B | 20-NOV-2000
10 | ID | ADAMS COUNTY* | 16003CIND0 ** | 20-NOV-2000
10 | ID | COUNCIL, CITY OF | 16003C0395B | 20-NOV-2000
10 | ID | COUNCIL, CITY OF | 16003CIND0 ** | 20-NOV-2000
10 | ID | EAST HOPE, CITY OF | 1602370001A | 06-OCT-2000
10 | ID | NEW MEADOWS, CITY OF | 16003C0240B | 20-NOV-2000
10 | ID | NEW MEADOWS, CITY OF | 16003C0330B | 20-NOV-2000
10 | ID | NEW MEADOWS, CITY OF | 16003CIND0 ** | 20-NOV-2000
10 | OR | CLACKAMAS COUNTY* | 4155880065B | 19-JUL-2000
10 | OR | CLACKAMAS COUNTY* | 4155880070B | 19-JUL-2000
10 | OR | CLACKAMAS COUNTY* | 415588IND0 ** | 19-JUL-2000
10 | OR | SANDY, CITY OF | 4100230001C | 19-JUL-2000
10 | WA | CLARK COUNTY * | 5300240159C | 19-JUL-2000
10 | WA | CLARK COUNTY * | 5300240178C | 19-JUL-2000
10 | WA | CLARK COUNTY * | 5300240179C | 19-JUL-2000
10 | WA | CLARK COUNTY * | 5300240186C | 19-JUL-2000
10 | WA | CLARK COUNTY * | 5300240187C | 19-JUL-2000
10 | WA | CLARK COUNTY * | 530024IND0 ** | 19-JUL-2000
10 | WA | COLUMBIA COUNTY* | 53013C0150C** | 19-JUL-2000
10 | WA | COLUMBIA COUNTY* | 53013CIND0 ** | 19-JUL-2000
10 | WA | DAYTON, CITY OF | 53013CIND0 ** | 19-JUL-2000
10 | WA | N. BONNEVILLE, TOWN OF | 5302560001A | 20-OCT-2000
10 | WA | OKANOGAN COUNTY * | 5301170850C | 20-DEC-2000
10 | WA | OKANOGAN COUNTY * | 5301170875C | 20-DEC-2000
10 | WA | OKANOGAN COUNTY * | 530117IND0 ** | 20-DEC-2000
10 | WA | STARBUCK, CITY OF | 53013CIND0 ** | 19-JUL-2000

[FR Doc. 01-6765 Filed 3-26-01; 8:45 am]

BILLING CODE 6718-04-F